DEPARTMENT OF HOMELAND SECURITY

Federal Emergency Management Agency

Compendium of Flood Map Changes

AGENCY: Federal Emergency Management Agency (FEMA), Emergency Preparedness and Response Directorate, Department of Homeland Security.

ACTION: Notice.

SUMMARY: This notice provides listings of changes made to National Flood Insurance Program (NFIP) maps effective during the last 6 months of 2003.

DATES: The listings include changes to NFIP maps that became effective July 1, 2003, through December 31, 2003.

FOR FURTHER INFORMATION CONTACT: Doug Bellomo, P.E., Hazard Identification Section, FEMA, 500 C Street SW., Washington, DC 20472, (202) 646-2903.

SUPPLEMENTARY INFORMATION: In accordance with Section 1360(i) of the National Flood Insurance Reform Act of 1994, this notice is provided to inform interested parties of changes made by FEMA to NFIP maps. The two listings provided show communities affected by map changes made by letter and communities affected by physical map changes. For each Letter of Map Change, the first listing provides the map panel(s) affected, effective (determination) date of the change, case number, and determination type. For each physical map change, the Map Revision listing provides the map panel(s) affected and the effective date of the change. The listing also identifies: (1) Those panels on which the Special Flood Hazard Areas have not been changed or have been changed only to incorporate the Letters of Map Change issued before the effective date; and (2) those panels for which a Flood Insurance Rate Map is produced for the first time, resulting only in changes to flood insurance and floodplain management requirements in the affected community. Future notices of changes to NFIP maps will be published approximately every 6 months.

Dated: April 2, 2004.
Anthony S. Lowe,
Mitigation Division Director, Emergency Preparedness and Response Directorate.

Two listings are provided below. The first listing includes all Letters of Map Change issued by FEMA from July 1 through December 31, 2003. The following types of letters are included in the listing:

Type | Description
01 | Letter of Map Revision Based on Fill.
02 | Letter of Map Amendment.
05 | Letter of Map Revision With Base Flood Elevation Changes.
06 | Letter of Map Revision Without Base Flood Elevation Changes.
08 | Denial.
12 | Floodway Revision.
17 | Letter of Map Revision-Inadvertent Inclusion in Floodway.
18 | Letter of Map Revision-Inadvertent Inclusion in V Zone.
19 | Letter of Map Change Revalidation.

The second listing includes map panels that FEMA physically revised and republished from July 1 through December 31, 2003. For those map panels on which the Special Flood Hazard Areas have not been changed or have been changed only to incorporate Letters of Map Change issued before the effective date, two asterisks(**) are shown to the right of the map panel number. For those map panels for which a Flood Insurance Rate Map is produced for the first time, resulting only in changes to flood insurance and floodplain management requirements in the affected community, three asterisks(***) are shown to the right of the map panel number.

For both listings, a single asterisk is shown to the right of each county name that appears in the “Community” column. This asterisk indicates the area covered is the unincorporated areas of that county.

Region | State | Community | Map panel | Determination date | Case No. | Type
01 | CT | BERLIN, TOWN OF | 0900220010D | 06-OCT-2003 | 03-01-1708A | 02
01 | CT | BERLIN, TOWN OF | 0900220010D | 23-OCT-2003 | 04-01-0010A | 02
01 | CT | BERLIN, TOWN OF | 0900220010D | 03-NOV-2003 | 03-01-2066A | 02
01 | CT | BERLIN, TOWN OF | 0900220010D | 27-NOV-2003 | 04-01-0236A | 02
01 | CT | BETHEL, TOWN OF | 0900010010B | 14-AUG-2003 | 03-01-1684A | 02
01 | CT | BRANFORD, TOWN OF | 0900730003D | 03-JUL-2003 | 03-01-1454A | 02
01 | CT | BRANFORD, TOWN OF | 0900730006C | 15-SEP-2003 | 03-01-1902A | 01
01 | CT | BRANFORD, TOWN OF | 0900730008C | 15-SEP-2003 | 03-01-1902A | 01
01 | CT | BRANFORD, TOWN OF | 0900730010C | 15-SEP-2003 | 03-01-1902A | 01
01 | CT | BRANFORD, TOWN OF | 0900790010C | 20-NOV-2003 | 04-01-0220A | 02
01 | CT | BRIDGEPORT, CITY OF | 0900020003C | 10-JUL-2003 | 03-01-1308A | 02
01 | CT | BRIDGEPORT, CITY OF | 0900020001B | 14-OCT-2003 | 03-01-1960A | 02
01 | CT | BRISTOL, CITY OF | 0900230009B | 06-NOV-2003 | 04-01-0072A | 02
01 | CT | BROOKFIELD, TOWN OF | 0900030005B | 24-NOV-2003 | 04-01-0214A | 02
01 | CT | CHESHIRE, TOWN OF | 0900740017E | 14-JUL-2003 | 03-01-1268A | 17
01 | CT | CHESHIRE, TOWN OF | 0900740003E | 29-JUL-2003 | 03-01-1602A | 02
01 | CT | CLINTON, TOWN OF | 0900610006E | 30-OCT-2003 | 04-01-0036A | 02
01 | CT | COLCHESTER, TOWN OF | 0900950010C | 04-DEC-2003 | 03-01-1748A | 02
01 | CT | COVENTRY, TOWN OF | 0901100015C | 25-JUL-2003 | 03-01-1044P | 05
01 | CT | CROMWELL, TOWN OF | 0901230010E | 18-SEP-2003 | 03-01-1844A | 02
01 | CT | DARIEN, TOWN OF | 0900050001D | 16-OCT-2003 | 03-01-1762A | 02
01 | CT | EAST HAMPTON, TOWN OF | 0900640005B | 24-NOV-2003 | 04-01-0110A | 02
01 | CT | EAST HAVEN, TOWN OF | 0900760002E | 29-JUL-2003 | 03-01-1572A | 02
01 | CT | EAST HAVEN, TOWN OF | 0900760002E | 04-SEP-2003 | 03-01-1812A | 02
01 | CT | EAST HAVEN, TOWN OF | 0900760008E | 06-OCT-2003 | 03-01-1732A | 02
01 | CT | EAST HAVEN, TOWN OF | 0900760002E | 09-OCT-2003 | 03-01-1776A | 02
01 | CT | ENFIELD, TOWN OF | 0900280004C | 29-JUL-2003 | 03-01-1020A | 02
01 | CT | ENFIELD, TOWN OF | 0900280004C | 04-SEP-2003 | 03-01-1836A | 02
01 | CT | FAIRFIELD, TOWN OF | 0900070009C | 02-OCT-2003 | 03-01-1878A | 02
01 | CT | FARMINGTON, TOWN OF | 0900290005C | 24-DEC-2003 | 04-01-0322A | 02
01 | CT | GOSHEN, TOWN OF | 0901770015A | 27-AUG-2003 | 03-01-1824A | 02
01 | CT | GREENWICH, TOWN OF | 0900080024C | 05-SEP-2003 | 03-01-041P | 05
01 | CT | GREENWICH, TOWN OF | 0900080022C | 22-SEP-2003 | 03-01-075P | 05
01 | CT | GROTON, CITY OF | 0901260002D | 06-NOV-2003 | 03-01-1996A | 02
01 | CT | GUILFORD, TOWN OF | 0900770015B | 14-AUG-2003 | 03-01-1662A | 02
01 | CT | GUILFORD, TOWN OF | 0900770010B | 28-AUG-2003 | 03-01-1680A | 02
01 | CT | GUILFORD, TOWN OF | 0900770010B | 03-NOV-2003 | 04-01-0148A | 02
01 | CT | GUILFORD, TOWN OF | 0900770010B | 13-NOV-2003 | 03-01-2064A | 02
01 | CT | GUILFORD, TOWN OF | 0900770015B | 04-DEC-2003 | 04-01-0272A | 02
01 | CT | HAMDEN, TOWN OF | 0900780010B | 29-SEP-2003 | 03-01-0946A | 02
01 | CT | HAMDEN, TOWN OF | 0900780010B | 13-NOV-2003 | 04-01-0178A | 02
01 | CT | JEWETT CITY, BOROUGH OF | 0900980001A | 15-SEP-2003 | 03-01-1904A | 02
01 | CT | KENT, TOWN OF | 0901860007B | 29-JUL-2003 | 03-01-1490A | 02
01 | CT | LEDYARD, TOWN OF | 0901570005B | 10-JUL-2003 | 03-01-1360A | 02
01 | CT | MADISON, TOWN OF | 0900790011C | 19-AUG-2003 | 03-01-1678A | 02
01 | CT | MADISON, TOWN OF | 0900790010C | 20-OCT-2003 | 03-01-2004A | 02
01 | CT | MADISON, TOWN OF | 0900790012D | 19-DEC-2003 | 03-01-061P | 05
01 | CT | MADISON, TOWN OF | 0900790014D | 19-DEC-2003 | 03-01-061P | 05
01 | CT | MANCHESTER, TOWN OF | 0900310004D | 16-OCT-2003 | 03-01-1424A | 02
01 | CT | MILFORD, CITY OF | 0900820003D | 11-AUG-2003 | 03-01-1640A | 02
01 | CT | MILFORD, CITY OF | 0900820003D | 22-SEP-2003 | 03-01-1658A | 02
01 | CT | MILFORD, CITY OF | 0900820006G | 15-DEC-2003 | 04-01-0356A | 02
01 | CT | MONROE, TOWN OF | 0900090010B | 09-OCT-2003 | 03-01-1958A | 02
01 | CT | MONTVILLE, TOWN OF | 0900990009C | 09-OCT-2003 | 03-01-1880A | 02
01 | CT | NEW BRITAIN, CITY OF | 0900320005D | 29-JUL-2003 | 03-01-1224A | 02
01 | CT | NEW BRITAIN, CITY OF | 0900320005D | 15-SEP-2003 | 03-01-1906A | 02
01 | CT | NEW BRITAIN, CITY OF | 0900320005D | 06-NOV-2003 | 04-01-0154A | 02
01 | CT | NEW CANAAN, TOWN OF | 0900100004B | 16-OCT-2003 | 03-01-1762AD | 02
01 | CT | NEW MILFORD,TOWN OF | 0900490012D | 30-OCT-2003 | 03-01-1978A | 01
01 | CT | NEW MILFORD,TOWN OF | 0900190013D | 10-NOV-2003 | 04-01-0176A | 02
01 | CT | ORANGE, TOWN OF | 0900870007B | 14-AUG-2003 | 03-01-1686A | 02
01 | CT | OXFORD, TOWN OF | 0901500016C | 03-NOV-2003 | 04-01-0096A | 02
01 | CT | PLAINVILLE, TOWN OF | 0900340005C | 18-SEP-2003 | 03-01-1646A | 02
01 | CT | PORTLAND, TOWN OF | 0901300010B | 02-SEP-2003 | 03-01-1332A | 17
01 | CT | SOUTH WINDSOR, TOWN OF | 0900360010D | 10-JUL-2003 | 03-01-1152A | 02
01 | CT | SOUTHBURY, TOWN OF | 0900890010C | 08-DEC-2003 | 04-01-0208A | 02
01 | CT | STAMFORD, CITY OF | 0900150007D | 29-JUL-2003 | 03-01-1428A | 01
01 | CT | STAMFORD, CITY OF | 0900150007D | 06-NOV-2003 | 04-01-0196A | 02
01 | CT | STRATFORD, TOWN OF | 0900160003D | 02-SEP-2003 | 03-01-1682A | 02
01 | CT | STRATFORD, TOWN OF | 0900160003D | 14-OCT-2003 | 03-01-1778A | 02
01 | CT | STRATFORD, TOWN OF | 0900160002C | 06-NOV-2003 | 04-01-0152A | 02
01 | CT | STRATFORD, TOWN OF | 0900160002C | 10-NOV-2003 | 04-01-0198A | 02
01 | CT | STRATFORD, TOWN OF | 0900160003D | 20-NOV-2003 | 04-01-0206A | 02
01 | CT | VERNON, TOWN OF | 0901310005C | 19-AUG-2003 | 03-01-1720A | 02
01 | CT | VOLUNTOWN, TOWN OF | 0901430005B | 18-SEP-2003 | 03-01-1848A | 02
01 | CT | WATERTOWN, TOWN OF | 0900580006B | 23-OCT-2003 | 03-01-1660A | 02
01 | CT | WEST HARTFORD,TOWN OF | 0950820002D | 09-OCT-2003 | 03-01-1648A | 02
01 | CT | WEST HARTFORD,TOWN OF | 0950820001C | 03-NOV-2003 | 04-01-0150A | 02
01 | CT | WEST HAVEN, CITY OF | 0900920002C | 11-JUL-2003 | 03-01-015P | 05
01 | CT | WEST HAVEN, CITY OF | 0900920002C | 09-OCT-2003 | 03-01-1888A | 02
01 | CT | WEST HAVEN, CITY OF | 0900920004B | 23-OCT-2003 | 03-01-2070A | 02
01 | CT | WESTPORT, TOWN OF | 0900190003C | 31-JUL-2003 | 03-01-1470A | 02
01 | CT | WETHERSFIELD, TOWN OF | 0900400002B | 24-JUL-2003 | 03-01-1586A | 02
01 | CT | WETHERSFIELD, TOWN OF | 0900400001B | 04-SEP-2003 | 03-01-1538A | 02
01 | CT | WETHERSFIELD, TOWN OF | 0900400003B | 18-SEP-2003 | 03-01-1900A | 01
01 | CT | WETHERSFIELD, TOWN OF | 0900400002B | 22-SEP-2003 | 03-01-1936A | 02
01 | CT | WINDHAM, TOWN OF | 0901190004D | 04-AUG-2003 | 03-01-051P | 05
01 | CT | WOODBRIDGE, TOWN OF | 0901530002C | 30-OCT-2003 | 04-01-0058A | 02
01 | MA | ACTON, TOWN OF | 2501760005C | 27-OCT-2003 | 03-01-1992A | 01
01 | MA | AGAWAM, TOWN OF | 2501330002A | 21-AUG-2003 | 03-01-1700A | 01
01 | MA | AGAWAM, TOWN OF | 2501330001A | 17-NOV-2003 | 03-01-1940A | 02
01 | MA | AMESBURY, TOWN OF | 2500750004C | 07-AUG-2003 | 03-01-1480A | 02
01 | MA | AMESBURY, TOWN OF | 2500750004C | 16-OCT-2003 | 03-01-1860A | 02
01 | MA | ATTLEBORO, CITY OF | 2500490010C | 14-JUL-2003 | 03-01-1324A | 02
01 | MA | ATTLEBORO, CITY OF | 2500490005C | 14-JUL-2003 | 03-01-1356A | 02
01 | MA | ATTLEBORO, CITY OF | 2500490005C | 21-AUG-2003 | 03-01-1244A | 02
01 | MA | ATTLEBORO, CITY OF | 2500490010C | 09-OCT-2003 | 03-01-1630A | 01
01 | MA | ATTLEBORO, CITY OF | 2500490010C | 24-DEC-2003 | 04-01-0386A | 02
01 | MA | BILLERICA, TOWN OF | 2501830005C | 21-AUG-2003 | 03-01-1154A | 02
01 | MA | BILLERICA, TOWN OF | 2501830005C | 09-OCT-2003 | 03-01-1592A | 02
01 | MA | BOURNE, TOWN OF | 2552100007F | 17-SEP-2003 | 03-01-043P | 05
01 | MA | BOURNE, TOWN OF | 2552100013E | 17-SEP-2003 | 03-01-073P | 05
01 | MA | BOXFORD, TOWN OF | 2500780010C | 02-OCT-2003 | 03-01-1868A | 02
01 | MA | BRAINTREE, TOWN OF | 2502330004D | 25-SEP-2003 | 03-01-1694A | 02
01 | MA | BRAINTREE, TOWN OF | 2502330004D | 06-OCT-2003 | 03-01-1730A | 02
01 | MA | BRAINTREE, TOWN OF | 2502330004D | 13-NOV-2003 | 04-01-0162A | 02
01 | MA | BRIDGEWATER, TOWN OF | 2502600005C | 22-SEP-2003 | 03-01-1588A | 02
01 | MA | BRIDGEWATER, TOWN OF | 2502600005C | 09-OCT-2003 | 03-01-1590A | 02
01 | MA | BROCKTON, CITY OF | 2502610005C | 13-NOV-2003 | 03-01-2074A | 02
01 | MA | BROCKTON, CITY OF | 2502610005C | 17-NOV-2003 | 03-01-1864A | 02
01 | MA | BUCKLAND, TOWN OF | 2501110010B | 29-JUL-2003 | 03-01-1540A | 02
01 | MA | CANTON,TOWN OF | 2502350004B | 24-NOV-2003 | 04-01-0014A | 02
01 | MA | CLARKSBURG, TOWN OF | 2500200007B | 18-SEP-2003 | 03-01-1526A | 02
01 | MA | DARTMOUTH, TOWN OF | 2500510005B | 31-JUL-2003 | 03-01-1482A | 02
01 | MA | DARTMOUTH, TOWN OF | 2500510020C | 04-SEP-2003 | 03-01-1266A | 02
01 | MA | DARTMOUTH, TOWN OF | 2500510019C | 15-DEC-2003 | 04-01-0252A | 02
01 | MA | DEDHAM, TOWN OF | 2502370005C | 24-JUL-2003 | 03-01-1570A | 02
01 | MA | DEDHAM, TOWN OF | 2502370005C | 25-AUG-2003 | 03-01-1818A | 02
01 | MA | DEERFIELD, TOWN OF | 2501150006B | 03-JUL-2003 | 03-01-1328A | 02
01 | MA | DUXBURY, TOWN OF | 2502630005B | 02-OCT-2003 | 03-01-1688A | 02
01 | MA | EASTON, TOWN OF | 2500530010E | 28-AUG-2003 | 03-01-1706A | 02
01 | MA | EASTON, TOWN OF | 2500530010E | 15-DEC-2003 | 03-01-1754A | 02
01 | MA | FALMOUTH, TOWN OF | 2552110011F | 16-OCT-2003 | 03-01-1920A | 02
01 | MA | FALMOUTH, TOWN OF | 2552110011F | 20-NOV-2003 | 03-01-1952A | 02
01 | MA | FALMOUTH, TOWN OF | 2552110012G | 04-DEC-2003 | 03-01-1870A | 02
01 | MA | FOXBOROUGH, TOWN OF | 2502390005B | 23-OCT-2003 | 03-01-1928A | 02
01 | MA | FRAMINGHAM, TOWN OF | 2501930006B | 17-JUL-2003 | 03-01-1396A | 02
01 | MA | FRAMINGHAM, TOWN OF | 2501930005C | 05-AUG-2003 | 03-01-1340A | 17
01 | MA | FREETOWN, TOWN OF | 2500560025B | 13-NOV-2003 | 03-01-2032A | 02
01 | MA | FREETOWN, TOWN OF | 2500560030B | 13-NOV-2003 | 03-01-2032A | 02
01 | MA | GLOUCESTER, CITY OF | 2500820004D | 03-NOV-2003 | 04-01-0112A | 02
01 | MA | GLOUCESTER, CITY OF | 2500820002D | 03-NOV-2003 | 04-01-0114A | 02
01 | MA | HALIFAX, TOWN OF | 2502650007B | 10-JUL-2003 | 03-01-1370A | 02
01 | MA | HAVERHILL, CITY OF | 2500850010B | 26-NOV-2003 | 03-01-2046A | 02
01 | MA | HINGHAM, TOWN OF | 2502680004B | 04-DEC-2003 | 04-01-0104A | 02
01 | MA | HOLLAND, TOWN OF | 2501410005B | 13-NOV-2003 | 03-01-2044A | 02
01 | MA | HOLLISTON, TOWN OF | 2501950004C | 28-AUG-2003 | 03-01-1690A | 02
01 | MA | IPSWICH, TOWN OF | 2500860006D | 19-AUG-2003 | 03-01-1718A | 02
01 | MA | KINGSTON, TOWN OF | 2502700001B | 07-AUG-2003 | 03-01-1594A | 02
01 | MA | LAKEVILLE, TOWN OF | 2502710015C | 06-NOV-2003 | 03-01-1826A | 02
01 | MA | LEXINGTON, TOWN OF | 2501980005C | 29-JUL-2003 | 03-01-1518A | 02
01 | MA | LOWELL, CITY OF | 2502010006D | 24-DEC-2003 | 03-01-1806A | 02
01 | MA | LYNNFIELD, TOWN OF | 2500890005C | 08-SEP-2003 | 03-01-1828A | 02
01 | MA | LYNNFIELD, TOWN OF | 2500890005C | 15-DEC-2003 | 03-01-2002A | 02
01 | MA | MARBLEHEAD, TOWN OF | 2500910003B | 16-OCT-2003 | 03-01-1938A | 02
01 | MA | MASHPEE, TOWN OF | 2500090008F | 17-JUL-2003 | 03-01-1294A | 02
01 | MA | MASHPEE, TOWN OF | 2500090009G | 06-OCT-2003 | 03-01-1710A | 02
01 | MA | MASHPEE, TOWN OF | 2500090007F | 14-OCT-2003 | 03-01-1950A | 02
01 | MA | MEDWAY, TOWN OF | 2502430005B | 04-DEC-2003 | 04-01-0042A | 02
01 | MA | MILLBURY, TOWN OF | 2503180006C | 10-JUL-2003 | 03-01-1472A | 02
01 | MA | NANTUCKET, TOWN OF | 2502300016F | 10-JUL-2003 | 03-01-1398A | 02
01 | MA | NEWBURY, TOWN OF | 2500960009C | 17-JUL-2003 | 03-01-1420A | 18
01 | MA | NEWTON, CITY OF | 2502080004D | 28-AUG-2003 | 03-01-1704A | 02
01 | MA | NORTH ANDOVER, TOWN OF | 2500980012C | 07-AUG-2003 | 03-01-1338A | 01
01 | MA | NORTH ANDOVER, TOWN OF | 2500980003C | 04-DEC-2003 | 03-01-2042A | 02
01 | MA | NORTH ATTLEBOROUGH, TOWN OF | 2500590010B | 21-JUL-2003 | 03-01-1278A | 17
01 | MA | NORTH ATTLEBOROUGH, TOWN OF | 2500590010B | 31-JUL-2003 | 03-01-1556A | 02
01 | MA | NORTH ATTLEBOROUGH, TOWN OF | 2500590010B | 11-SEP-2003 | 03-01-1808A | 02
01 | MA | NORTH READING, TOWN OF | 2502090002B | 14-JUL-2003 | 03-01-0970A | 02
01 | MA | NORTON, TOWN OF | 2500600005C | 28-AUG-2003 | 03-01-1692A | 02
01 | MA | PEMBROKE, TOWN OF | 2502770005C | 06-OCT-2003 | 03-01-1856A | 02
01 | MA | PITTSFIELD, CITY OF | 2500370010C | 07-AUG-2003 | 03-01-1448A | 02
01 | MA | PITTSFIELD, CITY OF | 2500370020C | 02-SEP-2003 | 03-01-1628A | 02
01 | MA | PITTSFIELD, CITY OF | 2500370015D | 24-NOV-2003 | 03-01-1758A | 02
01 | MA | QUINCY, CITY OF | 2552190008B | 28-AUG-2003 | 03-01-1862A | 02
01 | MA | QUINCY, CITY OF | 2552190012C | 29-SEP-2003 | 03-01-1560A | 02
01 | MA | REVERE, CITY OF | 2502880004C | 20-NOV-2003 | 04-01-0216A | 02
01 | MA | ROCKLAND, TOWN OF | 2502810003B | 22-DEC-2003 | 04-01-0060A | 02
01 | MA | SAUGUS, TOWN OF | 2501040004B | 14-OCT-2003 | 03-01-1794A | 02
01 | MA | SOUTHWICK, TOWN OF | 2501490005B | 06-NOV-2003 | 04-01-0044A | 02
01 | MA | STOW, TOWN OF | 2502160005B | 09-OCT-2003 | 03-01-1892A | 02
01 | MA | STURBRIDGE, TOWN OF | 2503370010B | 28-AUG-2003 | 03-01-1558A | 02
01 | MA | SUTTON, TOWN OF | 2503380015B | 05-AUG-2003 | 03-01-1644A | 02
01 | MA | SWANSEA, TOWN OF | 2552210007C | 04-DEC-2003 | 03-01-1858A | 02
01 | MA | TAUNTON, CITY OF | 2500660008C | 23-OCT-2003 | 03-01-1840A | 01
01 | MA | TAUNTON, CITY OF | 2500660012C | 23-OCT-2003 | 03-01-1840A | 01
01 | MA | TOPSFIELD, TOWN OF | 2501060001D | 10-NOV-2003 | 04-01-0160A | 02
01 | MA | TYNGSBOROUGH, TOWN OF | 2502200005B | 15-DEC-2003 | 04-01-0006A | 02
01 | MA | WAKEFIELD, TOWN OF | 2502210005B | 02-OCT-2003 | 03-01-1652A | 02
01 | MA | WAKEFIELD, TOWN OF | 2502210005B | 24-DEC-2003 | 04-01-0362A | 02
01 | MA | WAREHAM, TOWN OF | 2552230015D | 05-AUG-2003 | 03-01-1632A | 02
01 | MA | WAREHAM, TOWN OF | 2552230011D | 09-OCT-2003 | 03-01-1820A | 02
01 | MA | WAREHAM, TOWN OF | 2552230008C | 14-OCT-2003 | 03-01-1976A | 02
01 | MA | WELLESLEY, TOWN OF | 2502550005B | 19-AUG-2003 | 03-01-1450A | 02
01 | MA | WELLESLEY, TOWN OF | 2502550005B | 22-SEP-2003 | 03-01-1804A | 02
01 | MA | WESTON, TOWN OF | 2502260002B | 02-SEP-2003 | 03-01-1544A | 02
01 | MA | WEYMOUTH, TOWN OF | 2502570004C | 05-AUG-2003 | 03-01-1366A | 18
01 | MA | WILLIAMSTOWN, TOWN OF | 2500460020B | 27-OCT-2003 | 03-01-2020A | 01
01 | MA | WILLIAMSTOWN, TOWN OF | 2500460020B | 15-DEC-2003 | 04-01-0298A | 02
01 | MA | WILMINGTON, TOWN OF | 2502270003C | 24-JUL-2003 | 03-01-1372A | 02
01 | MA | WILMINGTON, TOWN OF | 2502270002C | 28-AUG-2003 | 03-01-1724A | 02
01 | MA | WILMINGTON, TOWN OF | 2502270004C | 27-OCT-2003 | 03-01-1994A | 02
01 | MA | WORCESTER, CITY OF | 2503490010B | 07-AUG-2003 | 03-01-1326A | 02
01 | MA | WORCESTER, CITY OF | 2503490025A | 29-SEP-2003 | 03-01-1830A | 02
01 | MA | WORCESTER, CITY OF | 2503490018B | 27-OCT-2003 | 03-01-2000A | 02
01 | MA | WORCESTER, CITY OF | 2503490018B | 20-NOV-2003 | 03-01-1714A | 02
01 | MA | WORCESTER, CITY OF | 2503490013B | 20-NOV-2003 | 04-01-0070X | 02
01 | MA | WORCESTER, CITY OF | 2503490010B | 15-DEC-2003 | 04-01-0234A | 02
01 | MA | YARMOUTH, TOWN OF | 2500150005D | 15-SEP-2003 | 03-01-1206A | 02
01 | ME | ACTON, TOWN OF | 2301900001B | 08-DEC-2003 | 03-01-2052A | 02
01 | ME | ALNA, TOWN OF | 230083—04 | 21-JUL-2003 | 03-01-1314A | 02
01 | ME | ALNA, TOWN OF | 230083—04 | 07-AUG-2003 | 03-01-1502A | 02
01 | ME | BAR HARBOR, TOWN OF | 2300640005B | 13-NOV-2003 | 03-01-1948A | 18
01 | ME | BEALS, TOWN OF | 2301330002C | 15-SEP-2003 | 03-01-1784A | 02
01 | ME | BELFAST, CITY OF | 2301290008B | 05-AUG-2003 | 03-01-1500A | 02
01 | ME | BELGRADE, TOWN OF | 2302320010B | 29-SEP-2003 | 03-01-1882A | 02
01 | ME | BETHEL, TOWN OF | 2300880005C | 11-SEP-2003 | 03-01-1654A | 02
01 | ME | BLUE HILL, TOWN OF | 2302740025A | 06-AUG-2003 | 03-01-1352A | 18
01 | ME | BRIDGEWATER, TOWN OF | 230421—03A | 19-AUG-2003 | 03-01-1498A | 02
01 | ME | BRIDGTON, TOWN OF | 2300410005B | 11-AUG-2003 | 03-01-1402A | 02
01 | ME | BROOKSVILLE, TOWN OF | 2302760010B | 03-JUL-2003 | 03-01-1312A | 02
01 | ME | BROWNFIELD, TOWN OF | 2300890010B | 10-JUL-2003 | 03-01-1128A | 17
01 | ME | CAMDEN, TOWN OF | 2300740015B | 19-AUG-2003 | 03-01-1504A | 18
01 | ME | CASCO, TOWN OF | 2300440020B | 21-JUL-2003 | 03-01-1376A | 02
01 | ME | CASCO, TOWN OF | 2300440026B | 21-JUL-2003 | 03-01-1376A | 02
01 | ME | CASCO, TOWN OF | 2300440026B | 14-OCT-2003 | 03-01-1894A | 02
01 | ME | CHESTERVILLE, TOWN OF | 230346—02A | 22-SEP-2003 | 03-01-1802A | 02
01 | ME | CHINA, TOWN OF | 2302350005B | 21-AUG-2003 | 03-01-1656A | 02
01 | ME | CHINA, TOWN OF | 2302350010B | 24-DEC-2003 | 04-01-0264A | 02
01 | ME | DAMARISCOTTA, TOWN OF | 2302160005B | 27-OCT-2003 | 03-01-2030A | 02
01 | ME | DEDHAM, TOWN OF | 230279—04 | 15-DEC-2003 | 04-01-0230A | 02
01 | ME | DENMARK, TOWN OF | 2304760015A | 09-OCT-2003 | 03-01-1496A | 02
01 | ME | DRESDEN, TOWN OF | 2300840010C | 19-AUG-2003 | 03-01-1516A | 02
01 | ME | EASTBROOK, TOWN OF | 230281—04A | 03-JUL-2003 | 03-01-1364A | 02
01 | ME | ENFIELD, TOWN OF | 2303840005A | 07-AUG-2003 | 03-01-1582A | 02
01 | ME | GARLAND, TOWN OF | 230387—07B | 22-DEC-2003 | 04-01-0028A | 02
01 | ME | GILEAD, TOWN OF | 230166—01 | 24-JUL-2003 | 03-01-1038A | 02
01 | ME | GREENWOOD, TOWN OF | 230332—01A | 11-SEP-2003 | 03-01-1734A | 02
01 | ME | GREENWOOD, TOWN OF | 230332—01A | 11-SEP-2003 | 03-01-1736A | 02
01 | ME | HANCOCK, TOWN OF | 2302840005A | 24-JUL-2003 | 03-01-1392A | 02
01 | ME | HANCOCK, TOWN OF | 2302840005A | 19-AUG-2003 | 03-01-1530A | 02
01 | ME | HANCOCK, TOWN OF | 2302840015A | 22-DEC-2003 | 04-01-0256A | 02
01 | ME | HARMONY, TOWN OF | 230360—12B | 07-AUG-2003 | 03-01-1478A | 02
01 | ME | HARMONY, TOWN OF | 230360—12B | 28-AUG-2003 | 03-01-1584A | 02
01 | ME | HARPSWELL, TOWN OF | 2301690010B | 24-DEC-2003 | 04-01-0098A | 01
01 | ME | HARPSWELL, TOWN OF | 2301690003B | 24-DEC-2003 | 04-01-0266A | 02
01 | ME | HARTLAND, TOWN OF | 230361—02A | 27-OCT-2003 | 03-01-1990A | 02
01 | ME | HARTLAND, TOWN OF | 230361—02A | 26-NOV-2003 | 04-01-0066A | 02
01 | ME | HOULTON, TOWN OF | 2300210001B | 03-JUL-2003 | 03-01-049P | 05
01 | ME | ISLAND FALLS, TOWN OF | 2300220010A | 06-OCT-2003 | 03-01-1798A | 02
01 | ME | ISLAND FALLS, TOWN OF | 2300220010A | 16-OCT-2003 | 03-01-1738A | 02
01 | ME | JACKMAN, TOWN OF | 230362—03B | 11-SEP-2003 | 03-01-1712A | 02
01 | ME | KITTERY, TOWN OF | 2301710001C | 15-SEP-2003 | 03-01-1618A | 02
01 | ME | LAMOINE, TOWN OF | 2302850010A | 13-NOV-2003 | 03-01-2054A | 02
01 | ME | LIMERICK, TOWN OF | 2301940007B | 07-AUG-2003 | 03-01-1460A | 02
01 | ME | LIMINGTON, TOWN OF | 2301520015C | 09-OCT-2003 | 03-01-1612A | 02
01 | ME | LIMINGTON, TOWN OF | 2301520015C | 15-DEC-2003 | 04-01-0184A | 02
01 | ME | LINCOLNVILLE, TOWN OF | 2301720015A | 31-JUL-2003 | 03-01-1374A | 02
01 | ME | LINNEUS, TOWN OF | 230427—01A | 15-DEC-2003 | 04-01-0090A | 02
01 | ME | LONG ISLAND, TOWN OF | 2300510004B | 15-DEC-2003 | 04-01-0022A | 02
01 | ME | LUBEC, TOWN OF | 2301390005C | 20-OCT-2003 | 03-01-1968A | 02
01 | ME | LUBEC, TOWN OF | 2301390005C | 15-DEC-2003 | 04-01-0102A | 02
01 | ME | LYMAN, TOWN OF | 2301950010A | 20-OCT-2003 | 03-01-1918A | 02
01 | ME | MONMOUTH, TOWN OF | 2302400010A | 15-DEC-2003 | 04-01-0172A | 01
01 | ME | MOUNT CHASE TOWN | 230462—01A | 11-SEP-2003 | 03-01-1786A | 01
01 | ME | NAPLES, TOWN OF | 2300500015B | 09-OCT-2003 | 03-01-1946A | 02
01 | ME | NEW LIMERICK, TOWN OF | 230432—01A | 03-NOV-2003 | 04-01-0108A | 02
01 | ME | NORWAY, TOWN OF | 2300960015B | 19-AUG-2003 | 03-01-1476A | 02
01 | ME | ORRINGTON, TOWN OF | 2301800055A | 21-AUG-2003 | 03-01-1616A | 02
01 | ME | OXFORD, TOWN OF | 2308690016A | 31-JUL-2003 | 03-01-1452A | 02
01 | ME | OXFORD, TOWN OF | 2308690006A | 28-AUG-2003 | 03-01-1512A | 02
01 | ME | PORTAGE LAKE, TOWN OF | 230031—05A | 14-JUL-2003 | 03-01-0944A | 01
01 | ME | PORTLAND, CITY OF | 2300510014B | 24-JUL-2003 | 03-01-1468A | 02
01 | ME | PORTLAND, CITY OF | 2300510007C | 15-DEC-2003 | 04-01-0188A | 02
01 | ME | RAYMOND, TOWN OF | 2302050020B | 29-JUL-2003 | 03-01-1444A | 02
01 | ME | RAYMOND, TOWN OF | 2302050010B | 11-SEP-2003 | 03-01-1696A | 02
01 | ME | ROME, TOWN OF | 2302460005B | 15-DEC-2003 | 03-01-1842A | 02
01 | ME | SCARBOROUGH, TOWN OF | 2300520021D | 28-AUG-2003 | 03-01-1740A | 02
01 | ME | SCARBOROUGH, TOWN OF | 2300520021D | 17-NOV-2003 | 04-01-0222A | 02
01 | ME | SKOWHEGAN, TOWN OF | 2301280003C | 19-AUG-2003 | 03-01-1552A | 02
01 | ME | SKOWHEGAN, TOWN OF | 2301280004C | 27-OCT-2003 | 03-01-2018A | 02
01 | ME | SOMERVILLE, TOWN OF | 2305120005B | 28-AUG-2003 | 03-01-1532A | 02
01 | ME | SORRENTO, TOWN OF | 230292—01A | 21-JUL-2003 | 03-01-1416A | 02
01 | ME | ST. ALBANS, TOWN OF | 230369—03A | 24-JUL-2003 | 03-01-1098A | 02
01 | ME | ST. ALBANS, TOWN OF | 230369—03A | 31-JUL-2003 | 03-01-1440A | 02
01 | ME | ST. ALBANS, TOWN OF | 230369—04A | 11-SEP-2003 | 03-01-1770A | 02
01 | ME | ST. ALBANS, TOWN OF | 230369—03A | 04-DEC-2003 | 04-01-0078A | 02
01 | ME | ST. GEORGE, TOWN OF | 2302290010C | 15-DEC-2003 | 03-01-1922A | 02
01 | ME | STANDISH, TOWN OF | 2302070015C | 04-DEC-2003 | 04-01-0030A | 02
01 | ME | STEUBEN, TOWN OF | 230323—02 | 24-JUL-2003 | 03-01-1394A | 02
01 | ME | STRONG, TOWN OF | 2300610005C | 14-AUG-2003 | 03-01-1566A | 02
01 | ME | SURRY, TOWN OF | 2302960005B | 11-SEP-2003 | 03-01-1768A | 02
01 | ME | SWANS ISLAND,TOWN OF | 230297—10A | 22-DEC-2003 | 04-01-0212A | 02
01 | ME | SWANVILLE,TOWN OF | 230267—03A | 28-AUG-2003 | 03-01-1698A | 02
01 | ME | T17 R05 WELS, TOWNSHIP OF | 230454—04A | 19-AUG-2003 | 03-01-1554A | 02
01 | ME | TREMONT, TOWN OF | 2302980015B | 23-OCT-2003 | 03-01-1974A | 02
01 | ME | TURNER, TOWN OF | 2300100018C | 07-AUG-2003 | 03-01-1446A | 02
01 | ME | TURNER, TOWN OF | 23001000041 | 18-DEC-2003 | 04-01-0170A | 02
01 | ME | VINALHAVEN, TOWN OF | 230230—01A | 22-SEP-2003 | 03-01-1746A | 02
01 | ME | WALES, TOWN OF | 230439—02 | 07-AUG-2003 | 03-01-1412A | 02
01 | ME | WAYNE, TOWN OF | 2301880005B | 15-DEC-2003 | 04-01-0190A | 02
01 | ME | WELLS, TOWN OF | 2301580013D | 07-AUG-2003 | 03-01-1626A | 02
01 | ME | WELLS, TOWN OF | 2301580010D | 29-SEP-2003 | 03-01-1192A | 02
01 | ME | WELLS, TOWN OF | 2301580013D | 22-DEC-2003 | 04-01-0082A | 02
01 | ME | WINDHAM, TOWN OF | 2301890015B | 19-AUG-2003 | 03-01-1494A | 02
01 | ME | WINDHAM, TOWN OF | 2301890035B | 13-NOV-2003 | 03-01-1942A | 02
01 | ME | WINDHAM, TOWN OF | 2301890015B | 01-DEC-2003 | 03-01-063P | 05
01 | ME | WINDSOR,TOWN OF | 230251—01B | 13-NOV-2003 | 03-01-2038A | 02
01 | ME | WINTERVILLE PLANTATION | 230450—02A | 29-SEP-2003 | 03-01-1622A | 02
01 | ME | WINTHROP, TOWN OF | 2300720010B | 03-JUL-2003 | 03-01-1274A | 02
01 | ME | WOODSTOCK, TOWN OF | 230344—04A | 15-DEC-2003 | 04-01-0166A | 02
01 | ME | WOOLWICH, TOWN OF | 2302100010B | 04-DEC-2003 | 04-01-0068A | 02
01 | ME | YORK, TOWN OF | 2301590024D | 21-JUL-2003 | 03-01-1418A | 02
01 | ME | YORK, TOWN OF | 2301590024D | 13-NOV-2003 | 03-01-2028A | 02
01 | ME | YORK, TOWN OF | 2301590028D | 04-DEC-2003 | 03-01-2050A | 02
01 | NH | BARTLETT, TOWN OF | 3300100010C | 03-JUL-2003 | 03-01-1430A | 02
01 | NH | BARTLETT, TOWN OF | 3300100010C | 15-DEC-2003 | 04-01-0318A | 02
01 | NH | BARTLETT, TOWN OF | 3300100010C | 22-DEC-2003 | 03-01-1908A | 02
01 | NH | BEDFORD, TOWN OF | 3300830010C | 19-AUG-2003 | 03-01-1726A | 02
01 | NH | CHESTERFIELD, TOWN OF | 330183—05 B | 18-SEP-2003 | 03-01-1462A | 02
01 | NH | CLAREMONT, CITY OF | 3301540003C | 15-DEC-2003 | 04-01-0238A | 02
01 | NH | CONCORD, CITY OF | 3301100005B | 03-JUL-2003 | 03-01-1272A | 02
01 | NH | CONWAY, TOWN OF | 3300110040C | 11-SEP-2003 | 03-01-1912A | 02
01 | NH | CONWAY, TOWN OF | 3300110040C | 18-SEP-2003 | 03-01-1934A | 02
01 | NH | CONWAY, TOWN OF | 3300110025C | 30-OCT-2003 | 03-01-1988A | 02
01 | NH | CONWAY, TOWN OF | 3300110020C | 22-DEC-2003 | 04-01-0316A | 02
01 | NH | DOVER, CITY OF | 3301450006B | 05-AUG-2003 | 03-01-1636A | 02
01 | NH | ENFIELD, TOWN OF | 3300520005B | 22-DEC-2003 | 04-01-0040A | 02
01 | NH | EPSOM, TOWN OF | 3301120010B | 24-JUL-2003 | 03-01-1318A | 02
01 | NH | ERROL, TOWN OF | 3302060030B | 11-SEP-2003 | 03-01-1664A | 02
01 | NH | FARMINGTON, TOWN OF | 3301470004C | 15-DEC-2003 | 04-01-0242A | 02
01 | NH | FREEDOM, TOWN OF | 3300130010C | 05-AUG-2003 | 03-01-1456A | 02
01 | NH | GOFFSTOWN, TOWN OF | 3300870010B | 22-DEC-2003 | 04-01-0314A | 02
01 | NH | HAMPTON, TOWN OF | 3301320006B | 17-JUL-2003 | 03-01-1506A | 02
01 | NH | KEENE, CITY OF | 3300230008D | 25-SEP-2003 | 03-01-081P | 05
01 | NH | LACONIA, CITY OF | 3300050002B | 14-OCT-2003 | 03-01-1772A | 01
01 | NH | LANCASTER, TOWN OF | 3352770005B | 06-NOV-2003 | 03-01-2062A | 02
01 | NH | LISBON, TOWN OF | 3300630010B | 15-SEP-2003 | 03-01-1932A | 02
01 | NH | LISBON, TOWN OF | 3300630005B | 22-SEP-2003 | 03-01-1964A | 02
01 | NH | LITCHFIELD, TOWN OF | 3300930005B | 17-JUL-2003 | 03-01-1484A | 02
01 | NH | LYME, TOWN OF | 3300670005B | 29-JUL-2003 | 03-01-1438A | 02
01 | NH | LYME, TOWN OF | 3300670015B | 29-JUL-2003 | 03-01-1438A | 02
01 | NH | MADISON, TOWN OF | 3302200003A | 18-SEP-2003 | 03-01-1910A | 02
01 | NH | MANCHESTER, CITY OF | 3301690020B | 05-AUG-2003 | 03-01-1486A | 17
01 | NH | MEREDITH, TOWN OF | 3300060010B | 14-OCT-2003 | 03-01-1850A | 02
01 | NH | MEREDITH, TOWN OF | 3300060010B | 20-OCT-2003 | 03-01-2014A | 02
01 | NH | MEREDITH, TOWN OF | 3300060010B | 13-NOV-2003 | 04-01-0156A | 02
01 | NH | MERRIMACK, TOWN OF | 3300950005A | 14-JUL-2003 | 03-01-1492A | 02
01 | NH | MERRIMACK, TOWN OF | 3300950005A | 20-NOV-2003 | 03-01-2058A | 02
01 | NH | MILFORD, TOWN OF | 3300960002B | 03-JUL-2003 | 03-01-1286A | 02
01 | NH | NASHUA, CITY OF | 3300970040C | 11-AUG-2003 | 03-01-1666A | 02
01 | NH | NASHUA, CITY OF | 3300970075C | 22-SEP-2003 | 03-01-1852A | 02
01 | NH | NASHUA, CITY OF | 3300970040C | 14-OCT-2003 | 03-01-1774A | 02
01 | NH | NASHUA, CITY OF | 3300970075C | 23-OCT-2003 | 03-01-2060A | 02
01 | NH | NASHUA, CITY OF | 3300970040C | 27-OCT-2003 | 04-01-0032A | 02
01 | NH | NASHUA, CITY OF | 3300970075C | 20-NOV-2003 | 04-01-0218A | 02
01 | NH | NEW BOSTON, TOWN OF | 3300980020C | 30-OCT-2003 | 03-01-1890A | 02
01 | NH | NEW DURHAM, TOWN OF | 3302270010B | 20-OCT-2003 | 03-01-1984A | 02
01 | NH | NEW DURHAM, TOWN OF | 3302270010B | 10-NOV-2003 | 03-01-1962A | 02
01 | NH | OSSIPEE, TOWN OF | 3300160015B | 30-OCT-2003 | 03-01-1604A | 02
01 | NH | SANDOWN, TOWN OF | 330191—01A | 04-DEC-2003 | 04-01-0240A | 02
01 | NH | SEABROOK BEACH VILLAGE DISTRICT | 3308540001A | 02-OCT-2003 | 03-01-1822A | 02
01 | NH | SEABROOK BEACH VILLAGE DISTRICT | 3308540001A | 30-OCT-2003 | 04-01-0038A | 02
01 | NH | SEABROOK, TOWN OF | 3301430002B | 08-JUL-2003 | 03-01-1434A | 02
01 | NH | STRAFFORD, TOWN OF | 3301960030C | 08-JUL-2003 | 03-01-1036A | 02
01 | NH | STRAFFORD, TOWN OF | 3301960040C | 06-NOV-2003 | 03-01-1982A | 02
01 | NH | TAMWORTH, TOWN OF | 3300180005B | 18-SEP-2003 | 03-01-1896A | 02
01 | NH | TAMWORTH, TOWN OF | 3300180010B | 06-NOV-2003 | 04-01-0016A | 02
01 | NH | TUFTONBORO, TOWN OF | 3302340005B | 18-SEP-2003 | 03-01-079P | 05
01 | NH | TUFTONBORO, TOWN OF | 3302340015B | 18-SEP-2003 | 03-01-079P | 05
01 | NH | WINCHESTER, TOWN OF | 3300280020B | 10-NOV-2003 | 03-01-1876A | 02
01 | NH | WINDHAM, TOWN OF | 3301440001B | 14-AUG-2003 | 03-01-1638A | 02
01 | RI | BARRINGTON, TOWN OF | 44001C0007F | 17-JUL-2003 | 03-01-1346A | 02
01 | RI | BARRINGTON, TOWN OF | 44001C0003F | 21-JUL-2003 | 03-01-1488A | 02
01 | RI | BRISTOL, TOWN OF | 44001C0014F | 05-SEP-2003 | 03-01-045P | 05
01 | RI | BURRILLVILLE, TOWN OF | 4400130005B | 11-AUG-2003 | 03-01-1634A | 02
01 | RI | BURRILLVILLE, TOWN OF | 4400130005B | 23-OCT-2003 | 03-01-2026A | 02
01 | RI | EAST GREENWICH, TOWN OF | 4453970002B | 29-SEP-2003 | 03-01-0954A | 02
01 | RI | GLOCESTER, TOWN OF | 4400340010C | 27-OCT-2003 | 04-01-0008A | 02
01 | RI | JAMESTOWN, CITY OF | 4453990002C | 20-OCT-2003 | 03-01-1986A | 02
01 | RI | JOHNSTON, TOWN OF | 4400180010C | 20-OCT-2003 | 03-01-2024A | 02
01 | RI | LITTLE COMPTON, TOWN OF | 4400350006E | 07-AUG-2003 | 03-01-1288A | 02
01 | RI | NARRAGANSETT, TOWN OF | 4454020006C | 27-OCT-2003 | 03-01-2034A | 02
01 | RI | NEWPORT, CITY OF | 4454530002F | 25-SEP-2003 | 03-01-1956A | 02
01 | RI | NORTH KINGSTOWN, TOWN OF | 4454040008B | 07-AUG-2003 | 03-01-1536A | 02
01 | RI | NORTH SMITHFIELD, TOWN OF | 4400210005C | 06-OCT-2003 | 03-01-1722A | 02
01 | RI | SOUTH KINGSTOWN, TOWN OF | 4454070032G | 15-DEC-2003 | 04-01-0290A | 02
01 | RI | WESTERLY, TOWN OF | 4454100020E | 24-JUL-2003 | 03-01-1528A | 02
01 | VT | BARNARD, TOWN OF | 500292—10B | 30-OCT-2003 | 04-01-0056A | 02
01 | VT | BARTON, TOWN OF | 5000810002C | 23-OCT-2003 | 03-01-2036A | 02
01 | VT | BENNINGTON, TOWN OF | 5000130020C | 01-JUL-2003 | 03-01-1214A | 02
01 | VT | BLOOMFIELD, TOWN OF | 5000450015B | 04-DEC-2003 | 04-01-0278A | 02
01 | VT | BRANDON, TOWN OF | 5000900010C | 20-NOV-2003 | 04-01-0200A | 02
01 | VT | CALAIS, TOWN OF | 500109—06B | 14-AUG-2003 | 03-01-1670A | 02
01 | VT | CANAAN, TOWN OF | 5000460005B | 31-JUL-2003 | 03-01-1606A | 02
01 | VT | CHARLESTON, TOWN OF | 500083—04A | 08-JUL-2003 | 03-01-1464A | 02
01 | VT | COLCHESTER, TOWN OF | 5000330006B | 11-SEP-2003 | 03-01-1834A | 02
01 | VT | CONCORD, TOWN OF | 5002070005D | 14-AUG-2003 | 03-01-1674A | 02
01 | VT | CORINTH, TOWN OF | 5000710005B | 14-JUL-2003 | 03-01-1300A | 02
01 | VT | COVENTRY, TOWN OF | 500246—03A | 15-DEC-2003 | 04-01-0310A | 02
01 | VT | EAST HAVEN, TOWN OF | 500209—10B | 29-JUL-2003 | 03-01-1600A | 02
01 | VT | EAST MONTPELIER, TOWN OF | 5001110015B | 03-NOV-2003 | 04-01-0092A | 02
01 | VT | ESSEX, TOWN OF | 5000340011B | 24-DEC-2003 | 04-01-0366A | 02
01 | VT | GOSHEN, TOWN OF | 5000040010C | 15-DEC-2003 | 04-01-0312A | 02
01 | VT | GRAND ISLE, TOWN OF | 5002230010B | 22-AUG-2003 | 03-01-031P | 05
01 | VT | GRAND ISLE, TOWN OF | 5002230010B | 10-NOV-2003 | 04-01-0182A | 02
01 | VT | GUILFORD, TOWN OF | 500130—03B | 17-JUL-2003 | 03-01-1520A | 02
01 | VT | HARTLAND, TOWN OF | 5001490010A | 20-OCT-2003 | 03-01-1676A | 02
01 | VT | HARTLAND, TOWN OF | 5001490012A | 26-NOV-2003 | 03-01-1782A | 02
01 | VT | HIGHGATE, TOWN OF | 5000550005B | 13-NOV-2003 | 03-01-1716A | 02
01 | VT | HUNTINGTON, TOWN OF | 5000360005B | 29-JUL-2003 | 03-01-1596A | 02
01 | VT | HUNTINGTON, TOWN OF | 5000360010B | 23-OCT-2003 | 04-01-0004A | 02
01 | VT | JOHNSON, VILLAGE OF | 5002320001D | 02-SEP-2003 | 03-01-1574A | 17
01 | VT | LUDLOW, TOWN OF | 5001500015B | 17-JUL-2003 | 03-01-1522A | 02
01 | VT | LUNENBURG, TOWN OF | 500048—09A | 23-OCT-2003 | 04-01-0002A | 02
01 | VT | MANCHESTER, VILLAGE OF | 5001790003B | 21-JUL-2003 | 03-01-1546A | 02
01 | VT | MARSHFIELD, TOWN OF | 5003230008B | 17-JUL-2003 | 03-01-1524A | 02
01 | VT | MARSHFIELD, VILLAGE OF | 5001130001B | 11-SEP-2003 | 03-01-1916A | 02
01 | VT | MONKTON, TOWN OF | 5001670005A | 20-NOV-2003 | 04-01-0202A | 02
01 | VT | MONTGOMERY, TOWN OF | 5000560005C | 06-NOV-2003 | 04-01-0158A | 02
01 | VT | MONTPELIER, CITY OF | 5055180002A | 15-SEP-2003 | 03-01-1874A | 02
01 | VT | MONTPELIER, CITY OF | 5055180002A | 03-NOV-2003 | 04-01-0050A | 02
01 | VT | MONTPELIER, CITY OF | 5055180002A | 20-NOV-2003 | 04-01-0052A | 02
01 | VT | MORGAN, TOWN OF | 500255—02 | 17-JUL-2003 | 03-01-1510A | 02
01 | VT | MORGAN, TOWN OF | 500255—02 | 18-JUL-2003 | 03-01-1548A | 02
01 | VT | MORGAN, TOWN OF | 500255—02 | 20-OCT-2003 | 03-01-2008A | 02
01 | VT | MORGAN, TOWN OF | 500255—02 | 20-NOV-2003 | 04-01-0194A | 02
01 | VT | MORGAN, TOWN OF | 500255—02 | 26-NOV-2003 | 04-01-0244A | 02
01 | VT | MORGAN, TOWN OF | 500255—02 | 08-DEC-2003 | 04-01-0340A | 02
01 | VT | MORRISTOWN,TOWN OF | 5000640020C | 24-JUL-2003 | 03-01-1578A | 02
01 | VT | MORRISTOWN,TOWN OF | 5000640020C | 14-AUG-2003 | 03-01-1672A | 02
01 | VT | MORRISTOWN,TOWN OF | 5000640020C | 15-SEP-2003 | 03-01-1872A | 02
01 | VT | NORTH HERO, TOWN OF | 5002250005A | 30-OCT-2003 | 04-01-0084A | 02
01 | VT | NORTHFIELD, TOWN OF | 5001180002B | 21-AUG-2003 | 03-01-1780A | 02
01 | VT | NORTHFIELD, TOWN OF | 5001180002B | 23-OCT-2003 | 03-01-2072A | 02
01 | VT | NORTHFIELD, TOWN OF | 5001180001B | 10-NOV-2003 | 04-01-0180A | 02
01 | VT | PROCTOR, TOWN OF | 5002650005B | 22-SEP-2003 | 03-01-1954A | 02
01 | VT | RICHMOND, TOWN OF | 5000400003B | 03-JUL-2003 | 03-01-1298A | 01
01 | VT | RICHMOND, TOWN OF | 5000400004B | 03-JUL-2003 | 03-01-1298A | 01
01 | VT | ROXBURY, CITY OF | 5002760005A | 05-AUG-2003 | 03-01-1608A | 02
01 | VT | SHEFFIELD, TOWN OF | 500194—03A | 08-SEP-2003 | 03-01-1898A | 02
01 | VT | SHEFFIELD, TOWN OF | 500194—03A | 20-OCT-2003 | 03-01-2012A | 02
01 | VT | ST ALBANS, TOWN OF | 5002190005A | 19-AUG-2003 | 03-01-1764A | 02
01 | VT | ST. JOHNSBURY, TOWN OF | 5000310005B | 21-AUG-2003 | 03-01-1810A | 02
01 | VT | TINMOUTH, TOWN OF | 500270—02 | 23-OCT-2003 | 03-01-2056A | 02
01 | VT | TOWNSHEND, TOWN OF | 500136—06C | 11-AUG-2003 | 03-01-1598A | 02
01 | VT | UNDERHILL, TOWN OF | 5000420010B | 05-AUG-2003 | 03-01-1642A | 02
01 | VT | WASHINGTON, TOWN OF | 500077—05A | 10-JUL-2003 | 03-01-1436A | 02
01 | VT | WASHINGTON, TOWN OF | 500077—05A | 21-AUG-2003 | 03-01-1668A | 02
01 | VT | WASHINGTON, TOWN OF | 500077—05A | 20-OCT-2003 | 03-01-2010A | 02
01 | VT | WHEELOCK, TOWN OF | 500204—02A | 19-AUG-2003 | 03-01-1752A | 02
01 | VT | WILLIAMSTOWN, TOWN OF | 5000800005B | 03-JUL-2003 | 03-01-1322A | 02
01 | VT | WILLISTON, TOWN OF | 5000430006B | 10-NOV-2003 | 04-01-0186A | 02
01 | VT | WINDSOR, TOWN OF | 5001590004C | 21-AUG-2003 | 03-01-1792A | 02
01 | VT | WOODBURY, TOWN OF | 500314—04A | 03-JUL-2003 | 03-01-1432A | 02
01 | VT | WOODSTOCK, VILLAGE OF | 5001610006D | 11-SEP-2003 | 03-01-1914A | 02
02 | NJ | BERKELEY HEIGHTS, TOWNSHIP OF | 3404590003E | 14-AUG-2003 | 03-02-1318A | 02
02 | NJ | BERKELEY HEIGHTS, TOWNSHIP OF | 3404590003E | 02-SEP-2003 | 03-02-1052A | 02
02 | NJ | BERKELEY HEIGHTS, TOWNSHIP OF | 3404590001E | 18-SEP-2003 | 03-02-1632A | 02
02 | NJ | BERKELEY HEIGHTS, TOWNSHIP OF | 3404590003E | 14-OCT-2003 | 03-02-1554A | 02
02 | NJ | BERKELEY HEIGHTS, TOWNSHIP OF | 3404590003E | 04-DEC-2003 | 04-02-0106A | 02
02 | NJ | BERKELEY, TOWNSHIP OF | 3403690020E | 25-SEP-2003 | 03-02-1746A | 02
02 | NJ | BLOOMFIELD, TOWN OF | 3401780002B | 06-NOV-2003 | 04-02-0008A | 02
02 | NJ | BOUND BROOK, BOROUGH OF | 3404300001C | 04-SEP-2003 | 03-02-1256A | 02
02 | NJ | CLIFTON, CITY OF | 3403980001B | 25-AUG-2003 | 03-02-1118A | 02
02 | NJ | DOVER, TOWNSHIP OF | 3452930007D | 14-AUG-2003 | 03-02-1346A | 02
02 | NJ | DOWNE, TOWNSHIP OF | 340167—01B | 17-JUL-2003 | 03-02-1478A | 02
02 | NJ | EAST HANOVER, TOWNSHIP OF | 3403410005D | 17-JUL-2003 | 03-02-1384A | 02
02 | NJ | EAST HANOVER, TOWNSHIP OF | 3403410005D | 14-AUG-2003 | 03-02-1644A | 02
02 | NJ | EAST HANOVER, TOWNSHIP OF | 3403410005D | 21-AUG-2003 | 03-02-1558A | 02
02 | NJ | EAST WINDSOR, TOWNSHIP OF | 3402440002B | 04-DEC-2003 | 03-02-1772A | 02
02 | NJ | EDGEWATER, BOROUGH OF | 34003C0278F | 14-JUL-2003 | 03-02-1214A | 02
02 | NJ | EDISON, TOWNSHIP OF | 3402610004C | 31-JUL-2003 | 03-02-0966A | 02
02 | NJ | EDISON, TOWNSHIP OF | 3402610004C | 21-AUG-2003 | 03-02-1690A | 02
02 | NJ | FRANKLIN, TOWNSHIP OF | 3402020015B | 10-NOV-2003 | 03-02-1466A | 02
02 | NJ | GLEN ROCK, BOROUGH OF | 34003C0157G | 07-AUG-2003 | 03-02-1566A | 02
02 | NJ | GREENBROOK,TOWNSHIP OF | 3404350003B | 14-AUG-2003 | 03-02-1560A | 02
02 | NJ | GREENWICH, TOWNSHIP OF | 3402040004C | 18-SEP-2003 | 03-02-1624A | 02
02 | NJ | HACKENSACK, CITY OF | 34003C0193F | 15-DEC-2003 | 04-02-0246A | 02
02 | NJ | HAMILTON, TOWNSHIP OF | 340009—06A | 20-OCT-2003 | 03-02-1538A | 02
02 | NJ | HAMILTON, TOWNSHIP OF | 340009—05A | 04-DEC-2003 | 04-02-0022A | 02
02 | NJ | HAMMONTON, TOWN OF | 3400100015C | 25-SEP-2003 | 03-02-1700A | 02
02 | NJ | HAMMONTON, TOWN OF | 3400100010C | 15-DEC-2003 | 04-02-0130A | 02
02 | NJ | HARRINGTON PARK, BOROUGH OF | 34003C0113F | 10-JUL-2003 | 03-02-1074A | 02
02 | NJ | HILLSBOROUGH, TOWNSHIP OF | 3404360005B | 10-JUL-2003 | 03-02-1408A | 02
02 | NJ | HILLSDALE, BOROUGH OF | 34003C0093F | 28-AUG-2003 | 03-02-1684A | 02
02 | NJ | HO-HO-KUS, BOROUGH OF | 34003C0176F | 14-AUG-2003 | 03-02-1498A | 02
02 | NJ | HOBOKEN, CITY OF | 3402220001B | 08-SEP-2003 | 03-02-1652A | 01
02 | NJ | JACKSON, TOWNSHIP OF | 3403750010B | 07-AUG-2003 | 03-02-1160A | 02
02 | NJ | JEFFERSON, TOWNSHIP OF | 3405220001B | 08-JUL-2003 | 03-02-1428A | 02
02 | NJ | JERSEY CITY, CITY OF | 3402230003B | 10-JUL-2003 | 03-02-0928A | 02
02 | NJ | JERSEY CITY, CITY OF | 3402230005B | 21-AUG-2003 | 03-02-1670A | 02
02 | NJ | LAWRENCE, TOWNSHIP OF | 3402500002B | 21-AUG-2003 | 03-02-1196A | 02
02 | NJ | LINDEN, CITY OF | 3404670002B | 05-AUG-2003 | 03-02-1354A | 02
02 | NJ | LITTLE EGG HARBOR, TOWNSHIP OF | 3403800018B | 10-JUL-2003 | 03-02-1442A | 02
02 | NJ | LITTLE FERRY, BOROUGH OF | 34003C0256F | 31-JUL-2003 | 03-02-1446A | 02
02 | NJ | LITTLE SILVER, BOROUGH OF | 3403050002C | 29-SEP-2003 | 03-02-1866A | 02
02 | NJ | LIVINGSTON, TOWNSHIP OF | 3401850003E | 08-JUL-2003 | 03-02-1040A | 02
02 | NJ | LIVINGSTON, TOWNSHIP OF | 3401850003E | 08-JUL-2003 | 03-02-1382A | 02
02 | NJ | LIVINGSTON, TOWNSHIP OF | 3401850002E | 21-JUL-2003 | 03-02-1330A | 02
02 | NJ | LIVINGSTON, TOWNSHIP OF | 3401850003E | 05-AUG-2003 | 03-02-1002A | 02
02 | NJ | LONG HILL, TOWNSHIP OF | 3403560005B | 30-OCT-2003 | 03-02-1820A | 02
02 | NJ | MAHWAH, TOWNSHIP OF | 34003C0066F | 11-SEP-2003 | 03-02-1654A | 02
02 | NJ | MANASQUAN, BOROUGH OF | 3453030001C | 03-JUL-2003 | 03-02-1162A | 02
02 | NJ | MANASQUAN, BOROUGH OF | 3453030001C | 14-JUL-2003 | 03-02-1400A | 02
02 | NJ | MANASQUAN, BOROUGH OF | 3453030001C | 14-JUL-2003 | 03-02-1440A | 02
02 | NJ | MANASQUAN, BOROUGH OF | 3453030001C | 11-SEP-2003 | 03-02-1890A | 02
02 | NJ | MANASQUAN, BOROUGH OF | 3453030001C | 29-SEP-2003 | 03-02-1888A | 02
02 | NJ | MANASQUAN, BOROUGH OF | 3453030001C | 09-OCT-2003 | 03-02-1936A | 02
02 | NJ | MANASQUAN, BOROUGH OF | 3453030001C | 14-OCT-2003 | 03-02-1876A | 02
02 | NJ | MANASQUAN, BOROUGH OF | 3453030001C | 06-NOV-2003 | 03-02-2006A | 02
02 | NJ | MAPLEWOOD, TOWNSHIP OF | 3401860001A | 14-AUG-2003 | 03-02-1244A | 02
02 | NJ | MARLBORO, TOWNSHIP OF | 3403100005B | 17-JUL-2003 | 03-02-1480A | 02
02 | NJ | MEDFORD LAKES, BOROUGH OF | 3401030001B | 31-JUL-2003 | 03-02-1132A | 02
02 | NJ | MEDFORD LAKES, BOROUGH OF | 3401030001B | 20-NOV-2003 | 03-02-1892A | 02
02 | NJ | MEDFORD, TOWNSHIP OF | 3401040005B | 10-JUL-2003 | 03-02-1276A | 02
02 | NJ | MEDFORD, TOWNSHIP OF | 3401040010B | 25-AUG-2003 | 03-02-1520A | 02
02 | NJ | METUCHEN, BOROUGH OF | 3402660001A | 24-DEC-2003 | 03-02-1406A | 02
02 | NJ | MIDDLETOWN, TOWNSHIP OF | 3403130010B | 08-DEC-2003 | 03-02-1598A | 17
02 | NJ | MILLBURN, TOWNSHIP OF | 3401870005E | 24-JUL-2003 | 03-02-1298A | 02
02 | NJ | MILLBURN, TOWNSHIP OF | 3453210002C | 24-JUL-2003 | 03-02-1298A | 02
02 | NJ | MONROE, TOWNSHIP OF | 3402080015B | 16-OCT-2003 | 03-02-1780A | 02
02 | NJ | MONTCLAIR, TOWNSHIP OF | 3401880001B | 14-AUG-2003 | 03-02-1202A | 02
02 | NJ | MONTCLAIR, TOWNSHIP OF | 3401880001B | 13-NOV-2003 | 03-02-1750A | 02
02 | NJ | MONTVILLE, TOWNSHIP OF | 3403490005C | 02-SEP-2003 | 03-02-1664A | 02
02 | NJ | MOUNT LAUREL, TOWNSHIP OF | 3401070010E | 31-JUL-2003 | 03-02-1016A | 02
02 | NJ | MULLICA, TOWNSHIP OF | 3405170016C | 06-NOV-2003 | 03-02-1800A | 02
02 | NJ | NEW MILFORD, BOROUGH OF | 34003C0192F | 25-SEP-2003 | 03-02-1854A | 02
02 | NJ | OAKLAND, BOROUGH OF | 34003C0061F | 07-AUG-2003 | 03-02-1070A | 02
02 | NJ | OCEAN, TOWNSHIP OF | 3403190005E | 03-JUL-2003 | 03-02-1718V | 19
02 | NJ | OCEAN, TOWNSHIP OF | 3403190005E | 24-JUL-2003 | 03-02-1188A | 02
02 | NJ | OCEAN, TOWNSHIP OF | 3403190005E | 08-SEP-2003 | 03-02-1262A | 02
02 | NJ | OLD BRIDGE, TOWNSHIP OF | 3402760004C | 14-AUG-2003 | 03-02-1550A | 02
02 | NJ | PALMYRA, BOROUGH OF | 3401100001C | 14-AUG-2003 | 03-02-1648A | 02
02 | NJ | PATERSON, CITY OF | 3404040004A | 11-AUG-2003 | 03-02-1488X | 02
02 | NJ | PAULSBORO, BOROUGH OF | 2402100002B | 25-SEP-2003 | 03-02-1850A | 02
02 | NJ | PENNSVILLE, TOWNSHIP OF | 3405120006B | 15-DEC-2003 | 03-02-1938A | 02
02 | NJ | PEQUANNOCK, TOWNSHIP OF | 3453110003C | 10-JUL-2003 | 03-02-1430A | 01
02 | NJ | POMPTON LAKES, BORO OF | 3455280001E | 14-AUG-2003 | 03-02-0900A | 02
02 | NJ | POMPTON LAKES, BORO OF | 3455280001E | 15-SEP-2003 | 03-02-1348A | 02
02 | NJ | POMPTON LAKES, BORO OF | 3455280001E | 27-OCT-2003 | 03-02-1814A | 02
02 | NJ | RAMSEY, BOROUGH OF | 34003C0067F | 31-JUL-2003 | 03-02-1280A | 02
02 | NJ | RAMSEY, BOROUGH OF | 34003C0067F | 19-AUG-2003 | 03-02-1536A | 02
02 | NJ | RIDGEFIELD PARK, VILLAGE OF | 34003C0257F | 11-AUG-2003 | 03-02-1514A | 02
02 | NJ | ROXBURY, TOWNSHIP OF | 3403620001B | 06-NOV-2003 | 03-02-2010A | 02
02 | NJ | RUTHERFORD, BOROUGH OF | 34003C0253F | 28-AUG-2003 | 03-02-1436A | 02
02 | NJ | SADDLE BROOK, TOWNSHIP OF | 34003C0189F | 24-JUL-2003 | 03-02-1292A | 02
02 | NJ | SAYREVILLE, BOROUGHS OF | 3402760001C | 17-JUL-2003 | 03-02-1482A | 02
02 | NJ | SCOTCH PLAINS, TOWNSHIP OF | 3404740002C | 12-DEC-2003 | 03-02-071P | 05
02 | NJ | SHAMONG, TOWNSHIP OF | 3405340001B | 14-JUL-2003 | 03-02-1154A | 02
02 | NJ | SOMERS POINT, CITY OF | 3400170001B | 17-NOV-2003 | 03-02-1760A | 02
02 | NJ | SOUTH BRUNSWICK, TOWNSHIP OF | 3402780006B | 10-JUL-2003 | 03-02-1232A | 01
02 | NJ | SOUTH PLAINFIELD, BOROUGH OF | 3402790001B | 17-JUL-2003 | 03-02-1216A | 02
02 | NJ | SPOTSWOOD, BOROUGH OF | 3402820001D | 29-JUL-2003 | 03-02-1294A | 02
02 | NJ | SPRINGFIELD, TOWNSHIP OF | 3401870005E | 24-JUL-2003 | 03-02-1298AD | 02
02 | NJ | SPRINGFIELD, TOWNSHIP OF | 3453210002C | 24-JUL-2003 | 03-02-1298AD | 02
02 | NJ | TOTOWA, BOROUGH OF | 3404080001B | 22-DEC-2003 | 03-02-1976A | 02
02 | NJ | UNION, TOWNSHIP OF | 3404770001A | 05-AUG-2003 | 03-02-1054A | 02
02 | NJ | UNION, TOWNSHIP OF | 3404770001A | 04-DEC-2003 | 04-02-0110A | 02
02 | NJ | UPPER SADDLE RIVER, BOROUGH OF | 34003C0078G | 14-AUG-2003 | 03-02-1046A | 02
02 | NJ | UPPER SADDLE RIVER, BOROUGH OF | 34003C0078G | 16-OCT-2003 | 03-02-0942A | 02
02 | NJ | UPPER SADDLE RIVER, BOROUGH OF | 34003C0078G | 16-OCT-2003 | 03-02-2014AD | 02
02 | NJ | VERNON, TOWNSHIP OF | 3405610035A | 30-OCT-2003 | 03-02-1732A | 02
02 | NJ | WATCHUNG, BOROUGH OF | 3404470002c | 12-DEC-2003 | 03-02-071P | 05
02 | NJ | WAYNE, TOWNSHIP OF | 3453270001B | 17-JUL-2003 | 03-02-1076A | 02
02 | NJ | WAYNE, TOWNSHIP OF | 3453270007B | 11-SEP-2003 | 03-02-1448A | 02
02 | NJ | WEST MILFORD, TOWNSHIP OF | 3404110009B | 21-JUL-2003 | 03-02-1252A | 02
02 | NJ | WEST ORANGE, TOWN OF | 3401970005B | 06-OCT-2003 | 03-02-1574A | 02
02 | NJ | WINSLOW, TOWNSHIP OF | 3401480026B | 04-SEP-2003 | 03-02-1484A | 02
02 | NJ | WOODBURY, CITY OF | 340216—01B | 16-OCT-2003 | 03-02-1524A | 02
02 | NY | ALDEN, TOWN OF | 3602250005C | 13-NOV-2003 | 04-02-0236A | 02
02 | NY | ALEXANDRIA, TOWN OF | 360326—01C | 20-NOV-2003 | 04-02-0072A | 02
02 | NY | AMHERST, TOWN OF | 3602260007E | 10-JUL-2003 | 03-02-1208A | 02
02 | NY | AMHERST, TOWN OF | 3602260006E | 10-JUL-2003 | 03-02-1260A | 02
02 | NY | AMHERST, TOWN OF | 3602260001D | 17-JUL-2003 | 03-02-1126A | 02
02 | NY | AMHERST, TOWN OF | 3602260007E | 21-JUL-2003 | 03-02-1030A | 01
02 | NY | AMHERST, TOWN OF | 3602260006E | 21-JUL-2003 | 03-02-1464A | 02
02 | NY | AMHERST, TOWN OF | 3602260007E | 29-JUL-2003 | 03-02-1314A | 02
02 | NY | AMHERST, TOWN OF | 3602260002E | 31-JUL-2003 | 03-02-1316A | 02
02 | NY | AMHERST, TOWN OF | 3602260004D | 07-AUG-2003 | 03-02-1306A | 02
02 | NY | AMHERST, TOWN OF | 3602260004D | 11-AUG-2003 | 03-02-1020A | 02
02 | NY | AMHERST, TOWN OF | 3602260007E | 11-AUG-2003 | 03-02-1458A | 02
02 | NY | AMHERST, TOWN OF | 3602260003E | 19-AUG-2003 | 03-02-1254A | 02
02 | NY | AMHERST, TOWN OF | 3602260006E | 19-AUG-2003 | 03-02-1254A | 02
02 | NY | AMHERST, TOWN OF | 3602260004D | 19-AUG-2003 | 03-02-1656A | 02
02 | NY | AMHERST, TOWN OF | 3602260007E | 19-AUG-2003 | 03-02-1666A | 02
02 | NY | AMHERST, TOWN OF | 3602260007E | 08-SEP-2003 | 03-02-1822A | 02
02 | NY | AMHERST, TOWN OF | 3602260006E | 25-SEP-2003 | 03-02-1594A | 02
02 | NY | AMHERST, TOWN OF | 3602260007E | 29-SEP-2003 | 03-02-1734A | 02
02 | NY | AMHERST, TOWN OF | 3602260007E | 02-OCT-2003 | 03-02-1788A | 02
02 | NY | AMHERST, TOWN OF | 3602260007E | 09-OCT-2003 | 03-02-1910A | 02
02 | NY | AMHERST, TOWN OF | 3602260006E | 14-OCT-2003 | 03-02-1696A | 02
02 | NY | AMHERST, TOWN OF | 3602260007E | 16-OCT-2003 | 03-02-1904A | 02
02 | NY | AMHERST, TOWN OF | 3602260004D | 30-OCT-2003 | 03-02-1958A | 02
02 | NY | AMHERST, TOWN OF | 3602260004D | 20-NOV-2003 | 04-02-0018A | 02
02 | NY | AMHERST, TOWN OF | 3602260007E | 15-DEC-2003 | 04-02-0104A | 02
02 | NY | AMHERST, TOWN OF | 3602260004D | 24-DEC-2003 | 04-02-0328A | 02
02 | NY | ARCADE, VILLAGE OF | 3615550005D | 02-OCT-2003 | 03-02-1738A | 02
02 | NY | ARCADE, VILLAGE OF | 3615550005D | 26-NOV-2003 | 04-02-0198A | 02
02 | NY | AUBURN, CITY OF | 3601020005C | 24-JUL-2003 | 03-02-1236A | 02
02 | NY | BALLSTON, TOWN OF | 36091C0551E | 21-AUG-2003 | 03-02-1434A | 02
02 | NY | BATAVIA, CITY OF | 3602790001B | 31-JUL-2003 | 03-02-1222A | 02
02 | NY | BEEKMANTOWN, TOWN OF | 3601660010B | 11-AUG-2003 | 03-02-1492A | 02
02 | NY | BELLMONT, TOWN OF | 361392—4A | 08-SEP-2003 | 03-02-1638A | 02
02 | NY | BELLMONT, TOWN OF | 361392—12A | 14-OCT-2003 | 03-02-1754A | 02
02 | NY | BLEECKER,TOWN OF | 361127—04B | 29-JUL-2003 | 03-02-1066A | 02
02 | NY | BROOKHAVEN,TOWN OF | 36103C0737G | 25-SEP-2003 | 03-02-1726A | 02
02 | NY | BUFFALO, CITY OF | 3602300010C | 28-AUG-2003 | 03-02-1452A | 02
02 | NY | BUFFALO, CITY OF | 3602300010C | 08-SEP-2003 | 03-02-1818AD | 02
02 | NY | BUFFALO, CITY OF | 3602620001B | 08-SEP-2003 | 03-02-1818AD | 02
02 | NY | BUFFALO, CITY OF | 3602300010C | 02-OCT-2003 | 03-02-1722A | 02
02 | NY | BUFFALO, CITY OF | 3602300010C | 23-OCT-2003 | 03-02-1994A | 02
02 | NY | BUFFALO, CITY OF | 3602300010C | 30-OCT-2003 | 03-02-1518A | 02
02 | NY | BUFFALO, CITY OF | 3602300010C | 10-NOV-2003 | 04-02-0132A | 02
02 | NY | BUFFALO, CITY OF | 3602300010C | 15-DEC-2003 | 03-02-1740A | 02
02 | NY | CAMBRIDGE, VILLAGE OF | 3608830001C | 14-AUG-2003 | 03-02-1174A | 02
02 | NY | CHAZY, TOWN OF | 3613100010B | 21-AUG-2003 | 03-02-1616A | 02
02 | NY | CHESTER, TOWN OF | 360609—08A | 08-JUL-2003 | 03-02-1190A | 02
02 | NY | CHESTER, TOWN OF | 3608700005B | 11-SEP-2003 | 03-02-1556A | 02
02 | NY | CHESTER, TOWN OF | 3608700010B | 20-NOV-2003 | 04-02-0070A | 02
02 | NY | CHILI, TOWN OF | 3604120025A | 11-SEP-2003 | 03-02-1610A | 02
02 | NY | CHITTENANGO, VILLAGE OF | 3603950002B | 17-JUL-2003 | 03-02-1328X | 02
02 | NY | CICERO, TOWN OF | 3605720015D | 10-JUL-2003 | 03-02-1176A | 02
02 | NY | CICERO, TOWN OF | 3605720005D | 21-JUL-2003 | 03-02-1078A | 02
02 | NY | CICERO, TOWN OF | 3605720015D | 15-SEP-2003 | 03-02-1636A | 02
02 | NY | CLARENCE, TOWN OF | 3602320013C | 08-JUL-2003 | 03-02-1242A | 02
02 | NY | CLARENCE, TOWN OF | 3602320011C | 10-JUL-2003 | 03-02-1146A | 02
02 | NY | CLARENCE, TOWN OF | 3602320010C | 29-JUL-2003 | 03-02-0972A | 02
02 | NY | CLARENCE, TOWN OF | 3602320011C | 05-AUG-2003 | 03-02-1338A | 17
02 | NY | CLARENCE, TOWN OF | 3602320011C | 07-AUG-2003 | 03-02-1420A | 02
02 | NY | CLARENCE, TOWN OF | 3602320005C | 11-AUG-2003 | 03-02-1516A | 01
02 | NY | CLARENCE, TOWN OF | 3602320014C | 21-AUG-2003 | 03-02-1394A | 02
02 | NY | CLARENCE, TOWN OF | 3602320013C | 25-AUG-2003 | 03-02-1268A | 02
02 | NY | CLARENCE, TOWN OF | 3602320011C | 25-AUG-2003 | 03-02-1572A | 02
02 | NY | CLARENCE, TOWN OF | 3602320005C | 28-AUG-2003 | 03-02-1694A | 02
02 | NY | CLARENCE, TOWN OF | 3602320005C | 04-SEP-2003 | 03-02-1628A | 02
02 | NY | CLARENCE, TOWN OF | 3602320005C | 02-OCT-2003 | 03-02-1110A | 02
02 | NY | CLARENCE, TOWN OF | 3602320005C | 06-OCT-2003 | 03-02-1846A | 02
02 | NY | CLARENCE, TOWN OF | 3602320005C | 09-OCT-2003 | 03-02-1874A | 02
02 | NY | CLARENCE, TOWN OF | 3602320010C | 09-OCT-2003 | 03-02-1928A | 01
02 | NY | CLARENCE, TOWN OF | 3602320013C | 16-OCT-2003 | 03-02-1882A | 02
02 | NY | CLARENCE, TOWN OF | 3602320005C | 20-OCT-2003 | 03-02-1986A | 02
02 | NY | CLARENCE, TOWN OF | 3602320005C | 20-OCT-2003 | 03-02-1990A | 02
02 | NY | CLARENCE, TOWN OF | 3602320005C | 30-OCT-2003 | 04-02-0036A | 02
02 | NY | CLARENCE, TOWN OF | 3602320005C | 13-NOV-2003 | 04-02-0042A | 01
02 | NY | CLARENCE, TOWN OF | 3602320005C | 20-NOV-2003 | 04-02-0038A | 01
02 | NY | CLARENCE, TOWN OF | 3602320005C | 15-DEC-2003 | 04-02-0294A | 02
02 | NY | CLARENCE, TOWN OF | 3602320013C | 15-DEC-2003 | 04-02-0300A | 02
02 | NY | CLARKSTOWN, TOWN OF | 3606790008E | 14-AUG-2003 | 03-02-1510A | 02
02 | NY | CLARKSTOWN, TOWN OF | 3606790004F | 18-SEP-2003 | 03-02-1274A | 02
02 | NY | CLAVERACK, TOWN OF | 3601730020B | 29-SEP-2003 | 03-02-1290A | 02
02 | NY | COBLESKILL, TOWN OF | 3615730015B | 14-JUL-2003 | 03-02-1152A | 02
02 | NY | CONKLIN, TOWN OF | 3600420005C | 31-JUL-2003 | 03-02-1414A | 01
02 | NY | CORTLANDT, TOWN OF | 3609060008B | 11-AUG-2003 | 03-02-1564A | 02
02 | NY | CROGHAN, TOWN OF | 360362—12A | 17-JUL-2003 | 03-02-0910A | 02
02 | NY | CROGHAN, TOWN OF | 360362—10A | 31-JUL-2003 | 03-02-1580A | 02
02 | NY | CROGHAN, TOWN OF | 360362—12A | 20-NOV-2003 | 03-02-1762A | 02
02 | NY | CROTON-ON-HUDSON, VILLAGE OF | 3609070002B | 19-AUG-2003 | 03-02-1546A | 02
02 | NY | DANSVILLE, VILLAGE OF | 3603830001A | 02-SEP-2003 | 03-02-1456A | 02
02 | NY | DIANA, TOWN OF | 360364B | 10-JUL-2003 | 03-02-0930A | 02
02 | NY | ESSEX, TOWN OF | 3611490010A | 21-AUG-2003 | 03-02-1496A | 02
02 | NY | FLEMING, TOWN OF | 360110 1B | 06-OCT-2003 | 03-02-1542A | 02
02 | NY | FORT ANN, TOWN OF | 3612310050B | 16-OCT-2003 | 03-02-1896A | 02
02 | NY | FORT PLAIN, VILLAGE OF | 3604480003C | 09-OCT-2003 | 03-02-1924A | 02
02 | NY | GATES, TOWN OF | 3604160001B | 15-DEC-2003 | 04-02-0284A | 02
02 | NY | GENESEO, TOWN OF | 3603840040C | 20-OCT-2003 | 03-02-1872A | 02
02 | NY | GENEVA, TOWN OF | 3606000002B | 18-SEP-2003 | 03-02-1702A | 02
02 | NY | GLOVERSVILLE, CITY OF | 3602750001B | 11-AUG-2003 | 03-02-1356A | 02
02 | NY | GORHAM, TOWN OF | 3606010003C | 21-AUG-2003 | 03-02-1620A | 02
02 | NY | GORHAM, TOWN OF | 3606010001C | 30-OCT-2003 | 04-02-0046A | 02
02 | NY | GRAND ISLAND, TOWN OF | 3602420011B | 14-JUL-2003 | 03-02-1198A | 02
02 | NY | GREECE, TOWN OF | 3604170003F | 08-JUL-2003 | 03-02-0996A | 02
02 | NY | GREECE, TOWN OF | 3604170003F | 31-JUL-2003 | 03-02-1098A | 02
02 | NY | GREECE, TOWN OF | 3604170003F | 21-AUG-2003 | 03-02-1462A | 02
02 | NY | GREECE, TOWN OF | 3604170001E | 29-SEP-2003 | 03-02-1836A | 02
02 | NY | GREENWOOD LAKE, VILLAGE OF | 3606160001B | 07-AUG-2003 | 03-02-1170A | 02
02 | NY | GREIG, TOWN OF | 360365—6B | 04-SEP-2003 | 03-02-1688A | 02
02 | NY | GREIG, TOWN OF | 360365—06B | 03-DEC-2003 | 03-02-1966A | 02
02 | NY | GREIG, TOWN OF | 360365—06B | 04-DEC-2003 | 04-02-0094A | 02
02 | NY | GROVELAND, TOWN OF | 3603850005C | 06-OCT-2003 | 03-02-1902A | 02
02 | NY | HAMBURG, TOWN OF | 3602440018D | 11-SEP-2003 | 03-02-1640A | 02
02 | NY | HAMBURG, VILLAGE OF | 3602430002B | 15-DEC-2003 | 04-02-0232A | 02
02 | NY | HARRISON, TOWN OF | 3609120011B | 08-DEC-2003 | 04-02-0274A | 02
02 | NY | HASTINGS, TOWN OF | 3606530010C | 15-SEP-2003 | 03-02-0970A | 02
02 | NY | HEBRON, TOWN OF | 361443—12B | 03-JUL-2003 | 03-02-1168A | 02
02 | NY | HEMPSTEAD, TOWN OF | 36059C0243F | 17-JUL-2003 | 03-02-1206A | 02
02 | NY | HEMPSTEAD, TOWN OF | 36059C0218F | 04-SEP-2003 | 03-02-1134A | 02
02 | NY | HEMPSTEAD, TOWN OF | 36059C0218F | 30-OCT-2003 | 03-02-1728A | 02
02 | NY | HOMER, TOWN OF | 3601810010B | 10-JUL-2003 | 03-02-1210A | 01
02 | NY | HUNTINGTON, TOWN OF | 36103C0319G | 17-JUL-2003 | 03-02-1228A | 02
02 | NY | HUNTINGTON, TOWN OF | 36103C0337G | 19-AUG-2003 | 03-02-1438A | 02
02 | NY | INDIAN LAKE, TOWN OF | 361113 12A | 24-JUL-2003 | 03-02-1310A | 02
02 | NY | INDIAN LAKE, TOWN OF | 361113—05B | 14-OCT-2003 | 03-02-1802A | 02
02 | NY | IRONDEQUOIT, TOWN OF | 3604220005B | 11-AUG-2003 | 03-02-1058A | 02
02 | NY | IRONDEQUOIT, TOWN OF | 3604220005B | 14-OCT-2003 | 03-02-1782A | 02
02 | NY | ISLAND PARK, VILLAGE OF | 36059C0307F | 20-NOV-2003 | 04-02-0254A | 02
02 | NY | ISLIP,TOWNSHIP OF | 36103C0858G | 13-NOV-2003 | 04-02-0216A | 02
02 | NY | ISLIP,TOWNSHIP OF | 36103C0882G | 24-NOV-2003 | 04-02-0168A | 02
02 | NY | JERUSALEM, TOWN OF | 360959—09C | 02-SEP-2003 | 03-02-1424A | 02
02 | NY | JERUSALEM, TOWN OF | 360959—14C | 17-NOV-2003 | 04-02-0040A | 02
02 | NY | JERUSALEM, TOWN OF | 360959 —10C | 15-DEC-2003 | 04-02-0230A | 02
02 | NY | JOHNSTOWN, CITY OF | 3602760002B | 27-OCT-2003 | 04-02-0004A | 02
02 | NY | KINDERHOOK, TOWN OF | 3613210010B | 15-SEP-2003 | 03-02-1824A | 02
02 | NY | KIRYAS JOEL, VILLAGE OF | 3616100001B | 14-AUG-2003 | 03-02-1226A | 02
02 | NY | LAGRANGE, TOWN OF | 3610110015D | 05-AUG-2003 | 03-02-1552A | 01
02 | NY | LAGRANGE, TOWN OF | 3610010015D | 08-SEP-2003 | 03-02-1398A | 02
02 | NY | LAGRANGE, TOWN OF | 3610110015D | 27-OCT-2003 | 03-02-1756A | 02
02 | NY | LAKE LUZERNE, TOWN OF | 3608780020B | 13-NOV-2003 | 03-02-1840A | 02
02 | NY | LANCASTER, TOWN OF | 3602490009C | 11-SEP-2003 | 03-02-1770A | 02
02 | NY | LANCASTER, TOWN OF | 3602490001C | 09-OCT-2003 | 03-02-1898A | 02
02 | NY | LANCASTER, TOWN OF | 3602490008C | 15-DEC-2003 | 04-02-0172A | 02
02 | NY | LEBANON, TOWN OF | 360403 2B | 29-SEP-2003 | 03-02-1674A | 02
02 | NY | LERAY, TOWN OF | 3603410101E | 17-JUL-2003 | 03-02-1072A | 02
02 | NY | LINDENHURST, VILLAGE OF | 36103C0861G | 14-JUL-2003 | 03-02-1164A | 02
02 | NY | LINDENHURST, VILLAGE OF | 36103C0853G | 04-DEC-2003 | 04-02-0186A | 02
02 | NY | LLOYD, TOWN OF | 3610120003D | 19-AUG-2003 | 03-02-1418A | 02
02 | NY | LOCKPORT, CITY OF | 3610130023D | 15-DEC-2003 | 04-02-0276A | 02
02 | NY | LOCKPORT, TOWN OF | 3610130022D | 31-JUL-2003 | 03-02-1282A | 02
02 | NY | LOCKPORT, TOWN OF | 3610130024D | 31-JUL-2003 | 03-02-1282A | 02
02 | NY | LOCKPORT, TOWN OF | 3610130024D | 29-SEP-2003 | 03-02-1716A | 02
02 | NY | MAMARONECK, TOWN OF | 3609170003B | 17-JUL-2003 | 03-02-1396A | 02
02 | NY | MAMARONECK, TOWN OF | 3609170005B | 30-OCT-2003 | 03-02-1848A | 17
02 | NY | MAMARONECK, VILLAGE OF | 3609160001D | 22-DEC-2003 | 04-02-0330A | 02
02 | NY | MANLIUS, TOWN OF | 3605840005E | 14-AUG-2003 | 03-02-1596A | 02
02 | NY | MANLIUS, TOWN OF | 3609770005C | 08-SEP-2003 | 03-02-1508A | 02
02 | NY | MANLIUS, TOWN OF | 3605840005E | 22-SEP-2003 | 03-02-1804A | 02
02 | NY | MARGARETVILLE, VILLAGE OF | 3602080001C | 20-NOV-2003 | 04-02-0208A | 02
02 | NY | MAYFIELD, TOWN OF | 361132—18B | 11-AUG-2003 | 03-02-1578A | 02
02 | NY | MAYFIELD, TOWN OF | 361132—18 B | 15-SEP-2003 | 03-02-1744A | 02
02 | NY | MIDDLETOWN, TOWN OF | 3602090027C | 04-SEP-2003 | 03-02-1504A | 02
02 | NY | MILFORD, TOWN OF | 361274—6B | 14-JUL-2003 | 03-02-1278A | 02
02 | NY | MILFORD, TOWN OF | 361274—6B | 02-OCT-2003 | 03-02-1724A | 02
02 | NY | MINA, TOWN OF | 3613710025B | 05-AUG-2003 | 03-02-1012A | 02
02 | NY | MINA, TOWN OF | 3613710025B | 06-OCT-2003 | 03-02-1880A | 02
02 | NY | MINA, TOWN OF | 361371—3A | 06-NOV-2003 | 04-02-0048A | 02
02 | NY | NEW ROCHELLE, CITY OF | 3609220005B | 15-SEP-2003 | 03-02-1784A | 02
02 | NY | NEW YORK, CITY OF | 3604970144E | 14-JUL-2003 | 03-02-1114A | 02
02 | NY | NEW YORK, CITY OF | 3604970139E | 14-JUL-2003 | 03-02-1302A | 02
02 | NY | NEW YORK, CITY OF | 3604970139E | 24-JUL-2003 | 03-02-1014A | 02
02 | NY | NEW YORK, CITY OF | 3604970136E | 31-JUL-2003 | 03-02-1548A | 02
02 | NY | NEW YORK, CITY OF | 3604970045B | 05-AUG-2003 | 03-02-1410A | 02
02 | NY | NEW YORK, CITY OF | 3604970125E | 11-AUG-2003 | 03-02-1486X | 02
02 | NY | NEW YORK, CITY OF | 3604970144E | 14-AUG-2003 | 03-02-1284A | 02
02 | NY | NEW YORK, CITY OF | 3604970125E | 14-AUG-2003 | 03-02-1502A | 02
02 | NY | NEW YORK, CITY OF | 3604970144E | 04-SEP-2003 | 03-02-1308A | 02
02 | NY | NEW YORK, CITY OF | 3604970144E | 04-SEP-2003 | 03-02-1512A | 02
02 | NY | NEW YORK, CITY OF | 3604970139E | 11-SEP-2003 | 03-02-1766A | 02
02 | NY | NEW YORK, CITY OF | 3604970032B | 14-OCT-2003 | 03-02-1922A | 02
02 | NY | NEW YORK, CITY OF | 3604970111C | 27-OCT-2003 | 03-02-1692A | 02
02 | NY | NEW YORK, CITY OF | 3604970138E | 30-OCT-2003 | 03-02-1978A | 02
02 | NY | NEW YORK, CITY OF | 3604970138E | 30-OCT-2003 | 04-02-0026A | 02
02 | NY | NEW YORK, CITY OF | 3604970110C | 04-NOV-2003 | 04-02-0054A | 02
02 | NY | NEW YORK, CITY OF | 3604970139E | 20-NOV-2003 | 04-02-0074A | 02
02 | NY | NEW YORK, CITY OF | 3604970139E | 15-DEC-2003 | 03-02-1868A | 02
02 | NY | NEW YORK, CITY OF | 3604970139E | 22-DEC-2003 | 04-02-0340A | 02
02 | NY | NEWBURGH, TOWN OF | 3606270010A | 03-NOV-2003 | 03-02-1926A | 02
02 | NY | NEWCOMB, TOWN OF | 361390—A | 04-SEP-2003 | 03-02-1500A | 02
02 | NY | NEWSTEAD, TOWN OF | 3602510010D | 25-AUG-2003 | 03-02-1568A | 02
02 | NY | NEWSTEAD, TOWN OF | 3602510010D | 18-SEP-2003 | 03-02-1642A | 02
02 | NY | NEWSTEAD, TOWN OF | 3602510005D | 09-OCT-2003 | 03-02-1768A | 02
02 | NY | NILES, TOWN OF | 360119—5B | 14-JUL-2003 | 03-02-1234A | 02
02 | NY | ORANGETOWN, TOWN OF | 3606860002C | 04-SEP-2003 | 03-02-1112A | 02
02 | NY | ORCHARD PARK, TOWN OF | 3602550004B | 06-NOV-2003 | 03-02-1894A | 02
02 | NY | OWASCO, TOWN OF | 3601200010C | 10-JUL-2003 | 03-02-1084A | 02
02 | NY | OWEGO, TOWN OF | 3608390020D | 03-NOV-2003 | 03-02-1914A | 02
02 | NY | OYSTER BAY, TOWN OF | 36059C0264F | 07-AUG-2003 | 03-02-1416A | 02
02 | NY | PARMA, TOWN OF | 3604250005D | 10-JUL-2003 | 03-02-1092A | 02
02 | NY | PARMA, TOWN OF | 3604250005D | 30-OCT-2003 | 03-02-0898A | 02
02 | NY | PAWLING, TOWN OF | 3615170001A | 11-AUG-2003 | 03-02-1494A | 02
02 | NY | PENDLETON, TOWN OF | 3605090001B | 20-NOV-2003 | 04-02-0224A | 02
02 | NY | PHELPS, TOWN OF | 3613020005B | 18-SEP-2003 | 03-02-1752A | 02
02 | NY | PHILIPSTOWN,TOWN OF | 3610260003B | 27-OCT-2003 | 03-02-1604A | 02
02 | NY | PLATTSBURGH, CITY OF | 3601680004C | 27-OCT-2003 | 04-02-0012A | 02
02 | NY | PLATTSBURGH, TOWN OF | 3601690015B | 06-NOV-2003 | 04-02-0062A | 02
02 | NY | POUGHKEEPSIE, TOWN OF | 3611420002C | 14-AUG-2003 | 03-02-1340A | 01
02 | NY | POUGHKEEPSIE, TOWN OF | 3611420002C | 21-AUG-2003 | 03-02-1650A | 02
02 | NY | POUGHKEEPSIE, TOWN OF | 3611420002C | 11-SEP-2003 | 03-02-1796A | 02
02 | NY | PREBLE, TOWN OF | 360185 1B | 25-SEP-2003 | 03-02-1698A | 02
02 | NY | PREBLE, TOWN OF | 360185—01B | 15-DEC-2003 | 03-02-1964A | 02
02 | NY | PULTENEY, TOWN OF | 3607800002B | 02-SEP-2003 | 03-02-1402A | 02
02 | NY | QUOGUE, VILLAGE OF | 36103C0786G | 23-OCT-2003 | 03-02-1946A | 02
02 | NY | RAMAPO, TOWN OF | 3653400029C | 16-OCT-2003 | 03-02-0942AD | 02
02 | NY | RAMAPO, TOWN OF | 3653400029C | 16-OCT-2003 | 03-02-2014A | 02
02 | NY | RHINEBECK, TOWN OF | 3611440012B | 02-OCT-2003 | 03-02-1736A | 02
02 | NY | RIVERHEAD, TOWN OF | 36103C0479G | 06-NOV-2003 | 04-02-0052A | 02
02 | NY | ROTTERDAM, TOWN OF | 3607400012B | 29-JUL-2003 | 03-02-1362A | 02
02 | NY | ROTTERDAM, TOWN OF | 3607400004B | 14-OCT-2003 | 03-02-1918A | 02
02 | NY | RYE, CITY OF | 3609310002E | 15-DEC-2003 | 04-02-0034A | 02
02 | NY | SARANAC LAKE, VILLAGE OF | 3602730001C | 04-DEC-2003 | 03-02-1816A | 02
02 | NY | SCHROEPPEL, TOWN OF | 3606620015B | 16-OCT-2003 | 03-02-1238A | 02
02 | NY | SCOTIA, VILLAGE OF | 3607420001C | 11-AUG-2003 | 03-02-1370A | 02
02 | NY | SCOTIA, VILLAGE OF | 3607420001C | 13-NOV-2003 | 04-02-0164A | 02
02 | NY | SCOTIA, VILLAGE OF | 3607420001C | 15-DEC-2003 | 04-02-0220A | 02
02 | NY | SCOTTSVILLE, VILLAGE OF | 3604340001B | 13-NOV-2003 | 04-02-0058A | 02
02 | NY | SHANDAKEN, TOWN OF | 3608640024B | 30-OCT-2003 | 04-02-0032A | 02
02 | NY | SHAWANGUNK, TOWN OF | 3608650030B | 24-JUL-2003 | 03-02-1476A | 02
02 | NY | SHAWANGUNK, TOWN OF | 3608650030B | 04-SEP-2003 | 03-02-1474A | 02
02 | NY | SHAWANGUNK, TOWN OF | 3608650030B | 09-OCT-2003 | 03-02-1658A | 02
02 | NY | SHAWANGUNK, TOWN OF | 3608650030B | 30-OCT-2003 | 03-02-1660A | 02
02 | NY | SLOATSBURG, VILLAGE OF | 3606900001C | 02-JUL-2003 | 02-02-043P | 05
02 | NY | SLOATSBURG, VILLAGE OF | 3606900001C | 18-SEP-2003 | 03-02-1634A | 02
02 | NY | SLOATSBURG, VILLAGE OF | 3606900001C | 06-NOV-2003 | 04-02-0064A | 02
02 | NY | SODUS POINT, VILLAGE OF | 3608990001B | 06-NOV-2003 | 03-02-2000A | 02
02 | NY | SOUTHOLD,TOWN OF | 36103C0159G | 17-JUL-2003 | 03-02-1000A | 02
02 | NY | SOUTHOLD,TOWN OF | 36103C0501G | 18-SEP-2003 | 03-02-1706A | 02
02 | NY | STILLWATER, TOWN OF | 36091C0584E | 14-AUG-2003 | 03-02-1364A | 02
02 | NY | STILLWATER, TOWN OF | 36091C0591E | 06-OCT-2003 | 03-02-1844A | 02
02 | NY | STILLWATER, TOWN OF | 36091C0465E | 09-OCT-2003 | 03-02-1832A | 02
02 | NY | SYRACUSE, CITY OF | 3605950003E | 06-OCT-2003 | 03-02-1830A | 02
02 | NY | TULLY, TOWN OF | 361296—07B | 10-NOV-2003 | 04-02-0096A | 02
02 | NY | TUXEDO, TOWN OF | 3606310007B | 25-AUG-2003 | 03-02-1776A | 02
02 | NY | ULSTER, TOWN OF | 3608660008B | 14-AUG-2003 | 03-02-0924A | 02
02 | NY | VARICK, TOWN OF | 3607580010B | 18-SEP-2003 | 03-02-1412A | 02
02 | NY | VIENNA, TOWN OF | 3605620025C | 17-NOV-2003 | 03-02-2016A | 02
02 | NY | WALLKILL, TOWN OF | 3606340020B | 22-DEC-2003 | 04-02-0296A | 02
02 | NY | WARWICK, TOWN OF | 3606360002B | 11-AUG-2003 | 03-02-1544A | 02
02 | NY | WAYNE, TOWN OF | 3607850001B | 21-JUL-2003 | 03-02-1472A | 02
02 | NY | WEBB, TOWN OF | 360321—19A | 14-JUL-2003 | 03-02-1158A | 02
02 | NY | WEBB, TOWN OF | 360321A | 19-AUG-2003 | 03-02-1668A | 02
02 | NY | WEBB, TOWN OF | 360321—24A | 02-OCT-2003 | 03-02-1940X | 02
02 | NY | WEBB, TOWN OF | 360321—16A | 16-OCT-2003 | 03-02-1790A | 02
02 | NY | WELLS, TOWN OF | 361112—03A | 24-DEC-2003 | 04-02-0332A | 02
02 | NY | WEST SENECA, TOWN OF | 3602300010C | 08-SEP-2003 | 03-02-1818X | 02
02 | NY | WEST SENECA, TOWN OF | 3602620001B | 08-SEP-2003 | 03-02-1818X | 02
02 | NY | WEST SENECA, TOWN OF | 3602620003B | 22-SEP-2003 | 03-02-1614A | 02
02 | NY | WHEATFIELD, TOWN OF | 3605130004D | 10-JUL-2003 | 03-02-1194A | 02
02 | NY | WHEATFIELD, TOWN OF | 3605130004D | 14-JUL-2003 | 03-02-1068A | 02
02 | NY | WHEATFIELD, TOWN OF | 3605130004D | 14-JUL-2003 | 03-02-1296A | 02
02 | NY | WHEATFIELD, TOWN OF | 3605130004D | 17-JUL-2003 | 03-02-1042A | 02
02 | NY | WHEATFIELD, TOWN OF | 3605130004D | 14-AUG-2003 | 03-02-1540A | 02
02 | NY | WHEATFIELD, TOWN OF | 3605130004D | 28-AUG-2003 | 03-02-1600A | 02
02 | NY | WHEATFIELD, TOWN OF | 3605130006B | 03-SEP-2003 | 03-02-007P | 05
02 | NY | WHEATFIELD, TOWN OF | 3605130004D | 22-SEP-2003 | 03-02-1710A | 02
02 | NY | WHEATFIELD, TOWN OF | 3605130004D | 09-OCT-2003 | 03-02-1908A | 02
02 | NY | WHEATFIELD, TOWN OF | 3605130004D | 08-DEC-2003 | 04-02-0264A | 02
02 | NY | WHITEHALL, VILLAGE OF | 360889—01A | 24-DEC-2003 | 04-02-0346A | 02
02 | NY | WHITEHALL, VILLAGE OF | 360889—02A | 24-DEC-2003 | 04-02-0346A | 02
02 | NY | WOLCOTT, TOWN OF | 360901—01C | 06-OCT-2003 | 03-02-1742A | 01
02 | NY | WOODSTOCK, TOWN OF | 3608680026B | 13-NOV-2003 | 03-02-1916A | 02
02 | NY | YORKTOWN, TOWN OF | 3609370007C | 16-OCT-2003 | 03-02-1786A | 02
02 | NY | YORKVILLE, VILLAGE OF | 3605680001C | 07-AUG-2003 | 03-02-1422A | 02
02 | PR | PUERTO RICO, COMMONWEALTH OF | 7200000047E | 14-JUL-2003 | 03-02-1272A | 02
02 | PR | PUERTO RICO, COMMONWEALTH OF | 7200000049C | 21-JUL-2003 | 03-02-1470A | 02
02 | PR | PUERTO RICO, COMMONWEALTH OF | 7200000185B | 31-JUL-2003 | 03-02-1368A | 01
02 | PR | PUERTO RICO, COMMONWEALTH OF | 7200000192C | 01-AUG-2003 | 03-02-021P | 05
02 | PR | PUERTO RICO, COMMONWEALTH OF | 7200000063G | 18-SEP-2003 | 03-02-1878A | 01
02 | PR | PUERTO RICO, COMMONWEALTH OF | 7200000292D | 02-OCT-2003 | 03-02-1764A | 01
02 | PR | PUERTO RICO, COMMONWEALTH OF | 7200000045E | 06-OCT-2003 | 03-02-1468A | 01
02 | PR | PUERTO RICO, COMMONWEALTH OF | 7200000045E | 16-OCT-2003 | 03-02-1682A | 01
02 | PR | PUERTO RICO, COMMONWEALTH OF | 7200000224B | 15-DEC-2003 | 04-02-0126A | 02
02 | PR | PUERTO RICO, COMMONWEALTH OF | 7200000252C | 15-DEC-2003 | 04-02-0128A | 01
02 | VI | VIRGIN ISLANDS, TERRITORY OF THE | 1701970045B | 15-NOV-2003 | 03-02-1300A | 02
03 | DE | DAGSBORO, TOWN OF | 10005C0467F | 30-OCT-2003 | 03-03-2618A | 02
03 | DE | DAGSBORO, TOWN OF | 10005C0486F | 30-OCT-2003 | 03-03-2618A | 02
03 | DE | DOVER, CITY OF | 10001C0162H | 26-DEC-2003 | 03-03-239P | 05
03 | DE | KENT COUNTY * | 10001C0232H | 17-JUL-2003 | 03-03-1850A | 02
03 | DE | KENT COUNTY * | 10001C0245H | 07-AUG-2003 | 03-03-1992A | 02
03 | DE | KENT COUNTY * | 10001C0205H | 04-SEP-2003 | 03-03-2218A | 02
03 | DE | KENT COUNTY * | 10001C0232H | 30-OCT-2003 | 04-03-0090A | 02
03 | DE | MILFORD, CITY OF | 10005C0041H | 14-AUG-2003 | 03-03-1920A | 02
03 | DE | MILFORD, CITY OF | 10005C0037H | 15-DEC-2003 | 03-03-2386A | 02
03 | DE | NEW CASTLE COUNTY * | 10003C0135G | 21-JUL-2003 | 03-03-1848A | 02
03 | DE | NEW CASTLE COUNTY * | 10003C0235G | 14-AUG-2003 | 03-03-1918A | 02
03 | DE | NEW CASTLE COUNTY * | 10003C0060G | 19-AUG-2003 | 03-03-1978A | 02
03 | DE | NEW CASTLE COUNTY * | 10003C0067G | 25-AUG-2003 | 03-03-2312A | 02
03 | DE | NEW CASTLE COUNTY * | 10003C0059G | 02-OCT-2003 | 03-03-2472A | 02
03 | DE | NEW CASTLE COUNTY * | 10003C0425H | 09-OCT-2003 | 03-03-017P | 05
03 | DE | NEW CASTLE COUNTY * | 10003C0430G | 09-OCT-2003 | 03-03-017P | 05
03 | DE | NEW CASTLE COUNTY * | 10003C0450H | 09-OCT-2003 | 03-03-017P | 05
03 | DE | NEW CASTLE COUNTY * | 10003C0235G | 30-OCT-2003 | 03-03-113P | 05
03 | DE | NEW CASTLE COUNTY * | 10003C0230G | 30-OCT-2003 | 03-03-243P | 05
03 | DE | NEW CASTLE COUNTY * | 10003C0066H | 20-NOV-2003 | 03-03-2708A | 02
03 | DE | NEW CASTLE COUNTY * | 10003C0086G | 20-NOV-2003 | 04-03-0026A | 02
03 | DE | SUSSEX COUNTY* | 10005C0345F | 21-AUG-2003 | 03-03-2042A | 02
03 | DE | SUSSEX COUNTY* | 10005C0275F | 25-AUG-2003 | 03-03-2142A | 02
03 | DE | SUSSEX COUNTY* | 10005C0425F | 14-OCT-2003 | 03-03-2242A | 02
03 | DE | SUSSEX COUNTY* | 10005C0355G | 30-OCT-2003 | 03-03-2542A | 02
03 | MD | ALLEGANY COUNTY * | 2400010090A | 10-JUL-2003 | 03-03-1520A | 02
03 | MD | ANNAPOLIS, CITY OF | 2400090005B | 14-OCT-2003 | 03-03-2492A | 02
03 | MD | ANNE ARUNDEL COUNTY * | 2400080020C | 10-JUL-2003 | 03-03-1688A | 02
03 | MD | ANNE ARUNDEL COUNTY * | 2400080007C | 18-JUL-2003 | 03-03-2064A | 02
03 | MD | ANNE ARUNDEL COUNTY * | 2400080043C | 29-JUL-2003 | 03-03-1888A | 02
03 | MD | ANNE ARUNDEL COUNTY * | 2400080021C | 07-AUG-2003 | 03-03-1906A | 02
03 | MD | ANNE ARUNDEL COUNTY * | 2400080007C | 21-AUG-2003 | 03-03-2162A | 02
03 | MD | ANNE ARUNDEL COUNTY * | 2400080027C | 28-AUG-2003 | 03-03-2236A | 02
03 | MD | ANNE ARUNDEL COUNTY * | 2400080055C | 11-SEP-2003 | 03-03-2034A | 02
03 | MD | ANNE ARUNDEL COUNTY * | 2400080022C | 29-SEP-2003 | 03-03-2436A | 02
03 | MD | ANNE ARUNDEL COUNTY * | 2400080007C | 03-NOV-2003 | 04-03-0032A | 02
03 | MD | ANNE ARUNDEL COUNTY * | 2400080044D | 15-DEC-2003 | 03-03-2298A | 02
03 | MD | BALTIMORE COUNTY* | 2400100445C | 24-JUL-2003 | 03-03-1826A | 02
03 | MD | BALTIMORE COUNTY* | 2400100245E | 29-JUL-2003 | 03-03-1506A | 02
03 | MD | BALTIMORE COUNTY* | 2400100410B | 31-JUL-2003 | 03-03-1644A | 02
03 | MD | BALTIMORE COUNTY* | 2400100380A | 07-AUG-2003 | 03-03-2050A | 02
03 | MD | BALTIMORE COUNTY* | 2400100435B | 21-AUG-2003 | 03-03-2118A | 02
03 | MD | BALTIMORE COUNTY* | 2400100445C | 21-AUG-2003 | 03-03-2188A | 02
03 | MD | BALTIMORE COUNTY* | 2400100360B | 28-AUG-2003 | 03-03-2192A | 02
03 | MD | BALTIMORE COUNTY* | 2400100270B | 28-AUG-2003 | 03-03-2238A | 02
03 | MD | BALTIMORE COUNTY* | 2400100505B | 15-SEP-2003 | 03-03-2240A | 02
03 | MD | BALTIMORE COUNTY* | 2400100265B | 18-SEP-2003 | 03-03-2384A | 02
03 | MD | BALTIMORE COUNTY* | 2400100440C | 18-SEP-2003 | 03-03-2418A | 02
03 | MD | BALTIMORE COUNTY* | 2400100290B | 18-SEP-2003 | 03-03-2420A | 02
03 | MD | BALTIMORE COUNTY* | 2400100505B | 14-OCT-2003 | 03-03-2482A | 02
03 | MD | BALTIMORE COUNTY* | 2400100390B | 14-OCT-2003 | 03-03-2494A | 02
03 | MD | BALTIMORE COUNTY* | 2400100505B | 14-OCT-2003 | 03-03-2494A | 02
03 | MD | BALTIMORE COUNTY* | 2400100445C | 14-OCT-2003 | 03-03-2566A | 02
03 | MD | BALTIMORE COUNTY* | 2400100455B | 17-NOV-2003 | 04-03-0084A | 02
03 | MD | BALTIMORE, CITY OF | 2400870011D | 07-AUG-2003 | 03-03-2150A | 01
03 | MD | BALTIMORE, CITY OF | 2400870011D | 06-NOV-2003 | 03-03-1966A | 02
03 | MD | CARROLL COUNTY * | 2400150050B | 31-JUL-2003 | 03-03-1808A | 02
03 | MD | CECIL COUNTY* | 2400190057A | 11-AUG-2003 | 03-03-2132A | 02
03 | MD | CECIL COUNTY* | 2400190015A | 04-SEP-2003 | 03-03-1698A | 02
03 | MD | DORCHESTER COUNTY * | 2400260175B | 21-JUL-2003 | 03-03-1828A | 02
03 | MD | DORCHESTER COUNTY * | 2400260175B | 21-JUL-2003 | 03-03-1834A | 02
03 | MD | FREDERICK COUNTY * | 2400270115B | 24-JUL-2003 | 03-03-1760A | 02
03 | MD | FREDERICK COUNTY * | 2400270190A | 02-SEP-2003 | 03-03-1502A | 02
03 | MD | FREDERICK COUNTY * | 2400270190A | 02-SEP-2003 | 03-03-2212A | 02
03 | MD | FREDERICK COUNTY * | 2400270180A | 22-DEC-2003 | 04-03-0130A | 02
03 | MD | FREDERICK, CITY OF | 2400270115B | 20-JUL-2003 | 03-03-378P | 05
03 | MD | FREDERICK, CITY OF | 2400270180A | 20-JUL-2003 | 03-03-378P | 05
03 | MD | FREDERICK, CITY OF | 2400300004C | 20-NOV-2003 | 03-03-1810A | 01
03 | MD | HARFORD COUNTY * | 24025C0276D | 15-SEP-2003 | 03-03-2342A | 02
03 | MD | HOWARD COUNTY* | 2400440002B | 14-JUL-2003 | 03-03-1716A | 02
03 | MD | HOWARD COUNTY* | 2400440023B | 29-JUL-2003 | 03-03-1890A | 02
03 | MD | HOWARD COUNTY* | 2400440039B | 17-NOV-2003 | 04-03-0022A | 02
03 | MD | HOWARD COUNTY* | 2400440023B | 24-NOV-2003 | 04-03-0122A | 02
03 | MD | KENT COUNTY * | 2400450035B | 18-SEP-2003 | 03-03-2392A | 02
03 | MD | MONTGOMERY COUNTY * | 2400490175C | 07-AUG-2003 | 03-03-2062A | 17
03 | MD | MONTGOMERY COUNTY * | 2400490175C | 10-OCT-2003 | 03-03-227P | 05
03 | MD | MONTGOMERY COUNTY * | 2400490125C | 14-OCT-2003 | 03-03-2532A | 02
03 | MD | MONTGOMERY COUNTY * | 2400490200C | 16-OCT-2003 | 03-03-2414A | 02
03 | MD | MONTGOMERY COUNTY * | 2400490125C | 03-NOV-2003 | 03-03-095P | 05
03 | MD | MONTGOMERY COUNTY * | 2400490050B | 26-NOV-2003 | 04-03-0102A | 02
03 | MD | MONTGOMERY COUNTY * | 2400490150B | 08-DEC-2003 | 04-03-0174A | 02
03 | MD | PRINCE GEORGE'S COUNTY * | 2452080025C | 08-DEC-2003 | 04-03-0280A | 02
03 | MD | QUEEN ANNES COUNTY* | 2400540055B | 11-AUG-2003 | 03-03-2036A | 02
03 | MD | QUEEN ANNES COUNTY* | 2400540052B | 14-OCT-2003 | 03-03-2484A | 02
03 | MD | QUEEN ANNES COUNTY* | 2400540047B | 15-DEC-2003 | 03-03-2248A | 01
03 | MD | ROCK HALL, TOWN OF | 2400480001B | 15-SEP-2003 | 03-03-2382A | 02
03 | MD | SOMERSET COUNTY * | 2400610125D | 31-JUL-2003 | 03-03-1726A | 02
03 | MD | SOMERSET COUNTY * | 2400610275B | 14-OCT-2003 | 03-03-2416A | 02
03 | MD | SOMERSET COUNTY * | 2400610300A | 14-OCT-2003 | 03-03-2416A | 02
03 | MD | ST. MARYS COUNTY* | 2400640041D | 08-SEP-2003 | 03-03-1818A | 02
03 | MD | ST. MARYS COUNTY* | 2400640024B | 10-NOV-2003 | 04-03-0020A | 02
03 | MD | TALBOT COUNTY * | 2400660023A | 24-JUL-2003 | 03-03-1604A | 02
03 | MD | TALBOT COUNTY * | 2400660023A | 05-AUG-2003 | 03-03-1930A | 02
03 | MD | TALBOT COUNTY * | 2400660029A | 11-AUG-2003 | 03-03-2060A | 02
03 | MD | TALBOT COUNTY * | 2400660045A | 11-AUG-2003 | 03-03-2134A | 02
03 | MD | TALBOT COUNTY * | 2400660033A | 25-AUG-2003 | 03-03-1968A | 02
03 | MD | THURMONT, TOWN OF | 2400310001B | 16-OCT-2003 | 03-03-2456A | 02
03 | MD | WORCESTER COUNTY * | 2400830025A | 07-AUG-2003 | 03-03-1778A | 01
03 | PA | ABINGTON, TOWNSHIP OF | 42091C0313E | 02-SEP-2003 | 03-03-1540A | 02
03 | PA | ADAMS, TOWNSHIP OF | 4214150005B | 05-AUG-2003 | 03-03-2038A | 02
03 | PA | ALTOONA, CITY OF | 4201590004C | 07-AUG-2003 | 03-03-1576A | 02
03 | PA | BELLEFONTE, BOROUGH OF | 420257—02B | 25-AUG-2003 | 03-03-2046A | 02
03 | PA | BENTON, TOWNSHIP OF | 421749—04A | 20-NOV-2003 | 03-03-1732A | 02
03 | PA | BETHLEHEM, TOWNSHIP OF | 42095C0262D | 29-SEP-2003 | 03-03-2300A | 02
03 | PA | BRADFORD, CITY OF | 4206650002B | 08-DEC-2003 | 03-03-2190A | 01
03 | PA | BROKENSTRAW, TOWNSHIP OF | 4221150012C | 04-SEP-2003 | 03-03-1736A | 02
03 | PA | CAMBRIDGE, TOWNSHIP OF | 4215640001C | 17-NOV-2003 | 03-03-2632A | 02
03 | PA | CHAMBERSBURG, BOROUGH OF | 4204690005B | 26-NOV-2003 | 03-03-2702A | 02
03 | PA | CHELTENHAM, TOWNSHIP OF | 42091C0403E | 17-JUL-2003 | 03-03-1620A | 02
03 | PA | CHURCHILL, BOROUGH OF | 42003C0387E | 21-AUG-2003 | 03-03-2166A | 02
03 | PA | COLLEGE, TOWNSHIP OF | 4202590005C | 29-JUL-2003 | 03-03-1734A | 02
03 | PA | CONEMAUGH, TOWNSHIP OF | 4220470005A | 14-AUG-2003 | 03-03-1832A | 02
03 | PA | CONEMAUGH, TOWNSHIP OF | 4220470010A | 03-NOV-2003 | 03-03-2480A | 02
03 | PA | CRANBERRY, TOWNSHIP OF | 4212170010B | 07-AUG-2003 | 03-03-2068A | 02
03 | PA | DARBY, TOWNSHIP OF | 42045C0035D | 11-SEP-2003 | 03-03-1972A | 02
03 | PA | DOUGLASS, TOWNSHIP OF | 42091C0086E | 08-DEC-2003 | 04-03-0002A | 02
03 | PA | DOYLESTOWN, TOWNSHIP OF | 42017C0311F | 24-NOV-2003 | 04-03-0258A | 02
03 | PA | EAST GOSHEN, TOWNSHIP OF | 42029C0352D | 29-JUL-2003 | 03-03-1884A | 02
03 | PA | EAST HEMPFIELD, TOWNSHIP OF | 4205480005B | 10-JUL-2003 | 03-03-1524A | 02
03 | PA | EAST HEMPFIELD, TOWNSHIP OF | 4205480010B | 10-JUL-2003 | 03-03-1524A | 02
03 | PA | EAST HEMPFIELD, TOWNSHIP OF | 4205480005B | 31-JUL-2003 | 03-03-2148A | 02
03 | PA | EAST NOTTINGHAM, TOWNSHIP OF | 42029C0445D | 22-DEC-2003 | 04-03-0068A | 02
03 | PA | EMMAUS, BOROUGH OF | 42077C0244D | 28-AUG-2003 | 03-03-2194A | 02
03 | PA | FAIRVIEW, TOWNSHIP OF | 4226030005A | 04-SEP-2003 | 03-03-1924A | 02
03 | PA | FAIRVIEW, TOWNSHIP OF | 420923—02A | 22-DEC-2003 | 04-03-0114A | 02
03 | PA | FALLS, TOWNSHIP OF | 42017C0462F | 08-SEP-2003 | 03-03-2316A | 02
03 | PA | FAWN, TOWNSHIP OF | 42003C0092E | 28-AUG-2003 | 03-03-2186A | 02
03 | PA | FERGUSON, TOWNSHIP OF | 4202600015 | 17-DEC-2003 | 04-03-0394V | 19
03 | PA | FERGUSON, TOWNSHIP OF | 4202600035 | 17-DEC-2003 | 04-03-0394V | 19
03 | PA | FERMANAGH, TOWNSHIP OF | 4205170002A | 06-OCT-2003 | 03-03-2088A | 02
03 | PA | FINDLAY, TOWNSHIP OF | 42003C0304E | 07-AUG-2003 | 03-03-1790A | 02
03 | PA | GLENBURN, TOWNSHIP OF | 4217540005A | 13-NOV-2003 | 04-03-0030A | 02
03 | PA | GLENBURN, TOWNSHIP OF | 4224530001A | 13-NOV-2003 | 04-03-0030A | 02
03 | PA | HARRIS, TOWNSHIP OF | 4202620017 | 17-DEC-2003 | 04-03-0396V | 19
03 | PA | HARRIS, TOWNSHIP OF | 4202620020 | 17-DEC-2003 | 04-03-0396V | 19
03 | PA | HARRIS, TOWNSHIP OF | 4202620040 | 17-DEC-2003 | 04-03-0396V | 19
03 | PA | HATBORO, BOROUGH OF | 42091C0311E | 07-JUL-2003 | 03-03-089P | 05
03 | PA | HAVERFORD, TOWNSHIP OF | 42045C0016D | 29-JUL-2003 | 03-03-2094A | 02
03 | PA | HAVERFORD, TOWNSHIP OF | 42045C0016D | 14-AUG-2003 | 03-03-2096A | 02
03 | PA | HUNTINGTON, TOWNSHIP OF | 4218320005A | 22-DEC-2003 | 03-03-2604A | 17
03 | PA | JACKSON, TOWNSHIP OF | 4214200002A | 16-OCT-2003 | 03-03-2592A | 02
03 | PA | JOHNSTOWN, CITY OF | 4202310010C | 17-JUL-2003 | 03-03-1830A | 02
03 | PA | JOHNSTOWN, CITY OF | 4202310010C | 28-AUG-2003 | 03-03-1800A | 02
03 | PA | JOHNSTOWN, CITY OF | 4202310010C | 28-AUG-2003 | 03-03-1802A | 02
03 | PA | LACKAWAXEN, TOWNSHIP OF | 42103C0035C | 15-DEC-2003 | 04-03-0036A | 02
03 | PA | LANCASTER, CITY OF | 4205520005B | 06-NOV-2003 | 03-03-2476A | 01
03 | PA | LANCASTER, CITY OF | 4205520005B | 20-NOV-2003 | 04-03-0116A | 02
03 | PA | LEESPORT, BOROUGH OF | 42011C0353E | 05-AUG-2003 | 03-03-1804A | 01
03 | PA | LEHMAN, TOWNSHIP OF | 42103C0445C | 06-NOV-2003 | 03-03-2594A | 02
03 | PA | LIGONIER, TOWNSHIP OF | 42129C0685D | 16-OCT-2003 | 03-03-1798A | 02
03 | PA | LINCOLN, TOWNSHIP OF | 4213440005A | 18-SEP-2003 | 03-03-1962A | 02
03 | PA | LOWER GWYNEDD, TOWNSHIP OF | 42091C0286E | 19-AUG-2003 | 03-03-1898A | 02
03 | PA | LOWER MAKEFIELD, TOWNSHIP OF | 42017C0344F | 24-JUL-2003 | 03-03-1328A | 02
03 | PA | LOWER MAKEFIELD, TOWNSHIP OF | 42017C0452F | 18-SEP-2003 | 03-03-2138A | 02
03 | PA | LOWER MERION, TOWNSHIP OF | 42091C0432E | 11-SEP-2003 | 03-03-1926A | 02
03 | PA | LOWER MERION, TOWNSHIP OF | 42091C0432E | 15-SEP-2003 | 03-03-1700A | 02
03 | PA | LOWER MERION, TOWNSHIP OF | 42091C0432E | 18-SEP-2003 | 03-03-2322A | 02
03 | PA | LOWER MERION, TOWNSHIP OF | 42091C0432E | 09-OCT-2003 | 03-03-2214A | 02
03 | PA | LOWER MERION, TOWNSHIP OF | 42091C0362E | 15-DEC-2003 | 04-03-0366A | 02
03 | PA | LOWER MILFORD, TOWNSHIP OF | 42077C0330D | 30-OCT-2003 | 03-03-1404A | 02
03 | PA | LOWER NAZERETH, TOWNSHIP OF | 42095C0255D | 11-AUG-2003 | 03-03-1970A | 02
03 | PA | LOWER PAXTON, TOWNSHIP OF | 4203840002B | 20-OCT-2003 | 03-03-2054A | 02
03 | PA | LOWER PROVIDENCE, TOWNSHIP OF | 4207030242F | 14-OCT-2003 | 03-03-2136A | 02
03 | PA | LOYALHANNA, TOWNSHIP OF | 42129C0230D | 21-AUG-2003 | 03-03-2256A | 02
03 | PA | LOYALSOCK, TOWNSHIP OF | 4210400005C | 16-OCT-2003 | 03-03-2336A | 02
03 | PA | MAIDENCREEK, TOWNSHIP OF | 42011C0378E | 31-JUL-2003 | 03-03-1668A | 02
03 | PA | MAIDENCREEK, TOWNSHIP OF | 42011C0378E | 22-AUG-2003 | 03-03-153P | 05
03 | PA | MANHEIM, TOWNSHIP OF | 4205560005D | 21-JUL-2003 | 03-03-1636A | 02
03 | PA | MARLBOROUGH, TOWNSHIP OF | 42091C0104F | 19-AUG-2003 | 03-03-2114A | 02
03 | PA | MCSHERRYSTOWN, BOROUGHS OF | 4212450001B | 14-AUG-2003 | 03-03-2080A | 02
03 | PA | MIDDLETOWN, TOWNSHIP OF | 42017C0441G | 25-SEP-2003 | 03-03-1578A | 02
03 | PA | MIDDLETOWN, TOWNSHIP OF | 42017C0443G | 25-SEP-2003 | 03-03-1578A | 02
03 | PA | MILFORD, BOROUGH OF | 42103C0333C | 29-SEP-2003 | 03-03-2224A | 02
03 | PA | MILLCREEK, TOWNSHIP OF | 4204520010B | 14-AUG-2003 | 03-03-2146A | 02
03 | PA | MONROE, TOWNSHIP OF | 4217440005A | 16-OCT-2003 | 03-03-2318A | 02
03 | PA | MOUNT HOLLY SPRINGS, BOROUGH OF | 4203650001C | 07-AUG-2003 | 03-03-2010A | 01
03 | PA | MURRYSVILLE, CITY OF | 42129C0187D | 05-AUG-2003 | 03-03-1938A | 01
03 | PA | NEW FREEDOM, BOROUGH OF | 4209320001B | 20-OCT-2003 | 03-03-2500A | 02
03 | PA | NEW GARDEN, TOWNSHIP OF | 42029C0467D | 21-JUL-2003 | 03-03-1780A | 02
03 | PA | NEWTON, TOWNSHIP OF | 4217560005A | 19-AUG-2003 | 03-03-2112A | 02
03 | PA | NOCKAMIXON, TOWNSHIP OF | 42017C0066F | 17-NOV-2003 | 03-03-2602A | 02
03 | PA | NORTH CORNWALL, TOWNSHIP OF | 4205760001C | 19-SEP-2003 | 03-03-149P | 05
03 | PA | NORTHAMPTON, TOWNSHIP OF | 42017C0429F | 18-SEP-2003 | 03-03-2346A | 02
03 | PA | OLEY, TOWNSHIP OF | 42011C0551E | 16-OCT-2003 | 03-03-2356A | 02
03 | PA | ONEIDA, TOWNSHIP OF | 4216970010A | 18-DEC-2003 | 03-03-2600A | 02
03 | PA | PAXTANG, BOROUGH OF | 4203900001A | 17-JUL-2003 | 03-03-1910A | 02
03 | PA | PENN, TOWNSHIP OF | 4214660005B | 16-OCT-2003 | 03-03-2590A | 02
03 | PA | PHILADELPHIA, CITY OF | 4207570183F | 04-SEP-2003 | 03-03-2226A | 02
03 | PA | PHILADELPHIA, CITY OF | 4207570188F | 29-SEP-2003 | 03-03-2090A | 02
03 | PA | PITTSFIELD, TOWNSHIP | 4221250004B | 28-AUG-2003 | 03-03-2204A | 02
03 | PA | PLYMOUTH, TOWNSHIP OF | 42091C0356E | 20-AUG-2003 | 03-03-197P | 05
03 | PA | RADNOR, TOWNSHIP OF | 42045C0002D | 21-AUG-2003 | 03-03-1766A | 02
03 | PA | READING, TOWNSHIP OF | 4200040005B | 11-SEP-2003 | 03-03-2120A | 02
03 | PA | RIDLEY, TOWNSHIP OF | 42045C0046D | 24-NOV-2003 | 04-03-0308A | 02
03 | PA | SCHUYLKILL, TOWNSHIP OF | 42029C0207D | 25-AUG-2003 | 03-03-2264A | 02
03 | PA | SHEFFIELD, TOWNSHIP OF | 422126—11A | 17-NOV-2003 | 03-03-1586A | 02
03 | PA | SILVER SPRING, TOWNSHIP OF | 4203700020C | 28-AUG-2003 | 03-03-2216A | 01
03 | PA | SOUTH MIDDLETON, TOWNSHIP OF | 4203710020C | 08-SEP-2003 | 03-03-2222A | 01
03 | PA | SPRINGFIELD, TOWNSHIP OF | 42045C0034D | 11-AUG-2003 | 03-03-2122A | 02
03 | PA | SPRINGFIELD, TOWNSHIP OF | 42017C0045F | 16-OCT-2003 | 03-03-2458A | 02
03 | PA | TINICUM, TOWNSHIP OF | 42045C0060D | 04-SEP-2003 | 03-03-2274A | 02
03 | PA | TINICUM, TOWNSHIP OF | 42017C0180G | 04-SEP-2003 | 03-03-2404V | 19
03 | PA | TINICUM, TOWNSHIP OF | 42017C0190G | 20-OCT-2003 | 03-03-2254A | 02
03 | PA | TINICUM, TOWNSHIP OF | 42017C0157F | 17-NOV-2003 | 03-03-2378A | 02
03 | PA | TOWANDA, TOWNSHIP OF | 4211130005B | 21-AUG-2003 | 03-03-1806A | 02
03 | PA | TYRONE, TOWNSHIP OF | 421163—05B | 10-NOV-2003 | 03-03-2646A | 02
03 | PA | UPPER CHICHESTER, TOWNSHIP OF | 42045C0067E | 07-AUG-2003 | 03-03-2100A | 02
03 | PA | UPPER DUBLIN, TOWNSHIP OF | 42091C0293E | 29-SEP-2003 | 03-03-2294A | 02
03 | PA | UPPER DUBLIN, TOWNSHIP OF | 42091C0289E | 10-DEC-2003 | 04-03-003P | 05
03 | PA | UPPER DUBLIN, TOWNSHIP OF | 42091C0377E | 10-DEC-2003 | 04-03-003P | 05
03 | PA | UPPER FAIRFIELD, TOWNSHIP OF | 4206600005B | 31-JUL-2003 | 03-03-1886A | 02
03 | PA | UPPER GWYNEDD, TOWNSHIP OF | 42091C0258E | 08-DEC-2003 | 04-03-0120A | 02
03 | PA | UPPER MERION, TOWNSHIP OF | 42091C0332F | 05-AUG-2003 | 03-03-1776A | 02
03 | PA | UPPER MORELAND, TOWNSHIP OF | 42091C0312E | 29-SEP-2003 | 03-03-2098A | 01
03 | PA | UPPER MT. BETHEL, TOWNSHIP OF | 42095C0063D | 18-SEP-2003 | 03-03-1528A | 02
03 | PA | UPPER TULPEHOCKEN, TOWNSHIP OF | 42011C0310E | 20-NOV-2003 | 04-03-0218A | 02
03 | PA | WARWICK, TOWNSHIP OF | 42029C0061D | 21-AUG-2003 | 03-03-1868A | 02
03 | PA | WARWICK, TOWNSHIP OF | 42017C0402F | 04-SEP-2003 | 03-03-2276A | 02
03 | PA | WASHINGTON, CITY OF | 4208610001A | 09-OCT-2003 | 03-03-2432A | 02
03 | PA | WASHINGTON, TOWNSHIP OF | 4225060005A | 22-SEP-2003 | 03-03-2376A | 02
03 | PA | WASHINGTON, TOWNSHIP OF | 4225060005A | 09-OCT-2003 | 03-03-2438A | 02
03 | PA | WAYNE, TOWNSHIP OF | 4203360010B | 07-AUG-2003 | 03-03-2052A | 02
03 | PA | WAYNE, TOWNSHIP OF | 422027—09B | 29-SEP-2003 | 03-03-2272A | 02
03 | PA | WEST BRADFORD, TOWNSHIP OF | 42029C0333E | 13-NOV-2003 | 03-03-2704A | 02
03 | PA | WEST BRADFORD, TOWNSHIP OF | 42029C0341E | 13-NOV-2003 | 03-03-2704A | 02
03 | PA | WEST GOSHEN, TOWNSHIP OF | 4209C0213D | 09-OCT-2003 | 03-03-2412A | 02
03 | PA | WESTTOWN, TOWNSHIP OF | 42029C0362D | 10-JUL-2003 | 03-03-1714A | 02
03 | PA | WHITEHALL, TOWNSHIP OF | 42077C0142D | 21-AUG-2003 | 03-03-2048A | 02
03 | PA | WHITEMARSH, TOWNSHIP OF | 42091C0289E | 10-DEC-2003 | 04-03-003P | 05
03 | PA | WHITEMARSH, TOWNSHIP OF | 42091C0377E | 10-DEC-2003 | 04-03-003P | 05
03 | PA | WILLISTOWN, TOWNSHIP OF | 42029C0219D | 29-JUL-2003 | 03-03-1870A | 02
03 | VA | ACCOMACK COUNTY * | 5100010100C | 31-JUL-2003 | 03-03-1478A | 02
03 | VA | ALBEMARLE COUNTY * | 5100060095B | 01-JUL-2003 | 03-03-0858A | 02
03 | VA | ALBEMARLE COUNTY * | 5100060245B | 28-AUG-2003 | 03-03-1632A | 02
03 | VA | ALBEMARLE COUNTY * | 5100060375B | 28-AUG-2003 | 03-03-1632A | 02
03 | VA | ALBEMARLE COUNTY * | 5100060245B | 18-SEP-2003 | 03-03-2502X | 02
03 | VA | ALBEMARLE COUNTY * | 5100060375B | 18-SEP-2003 | 03-03-2502X | 02
03 | VA | ALBEMARLE COUNTY * | 5100060220B | 06-NOV-2003 | 03-03-1630A | 02
03 | VA | AUGUSTA COUNTY * | 5100130265B | 09-OCT-2003 | 03-03-2504A | 02
03 | VA | BEDFORD COUNTY * | 5100160100A | 17-JUL-2003 | 03-03-1862A | 02
03 | VA | BEDFORD COUNTY * | 5100160100A | 04-SEP-2003 | 03-03-1998A | 02
03 | VA | BEDFORD COUNTY * | 5100160100A | 17-NOV-2003 | 04-03-0096A | 02
03 | VA | BOTETOURT COUNTY * | 5100180175A | 08-DEC-2003 | 04-03-0180A | 02
03 | VA | BRISTOL, CITY OF | 5100220003C | 04-SEP-2003 | 03-03-1746A | 17
03 | VA | BRISTOL, CITY OF | 5100220004C | 25-SEP-2003 | 03-03-2572A | 02
03 | VA | CHESAPEAKE, CITY OF | 5100340034C | 22-SEP-2003 | 03-03-2006A | 01
03 | VA | CHESAPEAKE, CITY OF | 5100340001C | 16-OCT-2003 | 03-03-2526A | 02
03 | VA | CHESAPEAKE, CITY OF | 5100340004C | 16-OCT-2003 | 03-03-2526A | 02
03 | VA | CHESAPEAKE, CITY OF | 5100340047C | 30-OCT-2003 | 03-03-2630A | 02
03 | VA | CHESTERFIELD COUNTY * | 5100350058B | 31-JUL-2003 | 03-03-1952A | 02
03 | VA | CHESTERFIELD COUNTY * | 5100350049B | 21-AUG-2003 | 03-03-1986A | 02
03 | VA | CHESTERFIELD COUNTY * | 5100350058B | 25-AUG-2003 | 03-03-1954A | 02
03 | VA | CHESTERFIELD COUNTY * | 5100350058B | 25-AUG-2003 | 03-03-1956A | 02
03 | VA | CHESTERFIELD COUNTY * | 5100350033B | 03-NOV-2003 | 04-03-0048A | 02
03 | VA | CLIFTON FORGE, TOWN OF | 5100380001 | 14-AUG-2003 | 03-03-2154A | 02
03 | VA | COURTLAND, TOWN OF | 51175C0285C | 06-OCT-2003 | 03-03-2364A | 02
03 | VA | DINWIDDIE COUNTY * | 5101870155A | 20-NOV-2003 | 03-03-1720A | 02
03 | VA | EDINBURG, TOWN OF | 51171C0254C | 17-JUL-2003 | 03-03-2018V | 19
03 | VA | FAIRFAX COUNTY * | 5155250117D | 08-JUL-2003 | 03-03-1768A | 02
03 | VA | FAIRFAX COUNTY * | 5155250025D | 17-JUL-2003 | 03-03-1482A | 02
03 | VA | FAIRFAX COUNTY * | 5155250137D | 17-JUL-2003 | 03-03-1864A | 02
03 | VA | FAIRFAX COUNTY * | 5155250100D | 18-JUL-2003 | 03-03-2166A | 02
03 | VA | FAIRFAX COUNTY * | 5155250025D | 31-JUL-2003 | 03-03-1860A | 02
03 | VA | FAIRFAX COUNTY * | 5155250025D | 05-AUG-2003 | 03-03-1958A | 02
03 | VA | FAIRFAX COUNTY * | 5155250083D | 05-AUG-2003 | 03-03-1994A | 02
03 | VA | FAIRFAX COUNTY * | 5155250075D | 07-AUG-2003 | 03-03-2056A | 02
03 | VA | FAIRFAX COUNTY * | 5155250025D | 07-AUG-2003 | 03-03-2102A | 02
03 | VA | FAIRFAX COUNTY * | 5155250125D | 28-AUG-2003 | 03-03-1960A | 02
03 | VA | FAIRFAX COUNTY * | 5155250075D | 02-SEP-2003 | 03-03-1914A | 02
03 | VA | FAIRFAX COUNTY * | 5155250075D | 08-SEP-2003 | 03-03-2198A | 02
03 | VA | FAIRFAX COUNTY * | 5155250100D | 08-SEP-2003 | 03-03-2270A | 02
03 | VA | FAIRFAX COUNTY * | 5155250075D | 25-SEP-2003 | 03-03-2462X | 02
03 | VA | FAIRFAX COUNTY * | 5155250150D | 06-OCT-2003 | 03-03-1666A | 02
03 | VA | FAIRFAX COUNTY * | 5155250100D | 09-OCT-2003 | 03-03-2442A | 02
03 | VA | FAIRFAX COUNTY * | 5155250025D | 09-OCT-2003 | 03-03-2460X | 02
03 | VA | FAIRFAX COUNTY * | 5155250075D | 14-OCT-2003 | 03-03-2314A | 02
03 | VA | FAIRFAX COUNTY * | 5155250075D | 14-OCT-2003 | 03-03-2338A | 02
03 | VA | FAIRFAX COUNTY * | 5155250083D | 14-OCT-2003 | 03-03-2464X | 02
03 | VA | FAIRFAX COUNTY * | 5155250050D | 16-OCT-2003 | 03-03-2252A | 02
03 | VA | FAIRFAX COUNTY * | 5155250075D | 16-OCT-2003 | 03-03-2450A | 02
03 | VA | FAIRFAX COUNTY * | 5155250050D | 16-OCT-2003 | 03-03-2452A | 02
03 | VA | FAIRFAX COUNTY * | 5155250025D | 16-OCT-2003 | 03-03-2466X | 02
03 | VA | FAIRFAX COUNTY * | 5155250100D | 20-OCT-2003 | 03-03-2626A | 02
03 | VA | FAIRFAX COUNTY * | 5155250075D | 27-OCT-2003 | 03-03-2710A | 02
03 | VA | FAIRFAX COUNTY * | 5155250075D | 30-OCT-2003 | 03-03-2540A | 02
03 | VA | FAIRFAX COUNTY * | 5155250100D | 30-OCT-2003 | 03-03-2540A | 02
03 | VA | FAIRFAX COUNTY * | 5155250100D | 30-OCT-2003 | 03-03-2658A | 02
03 | VA | FAIRFAX COUNTY * | 5155250050D | 30-OCT-2003 | 04-03-0034A | 02
03 | VA | FAIRFAX COUNTY * | 5155250117D | 03-NOV-2003 | 04-03-0044A | 02
03 | VA | FAIRFAX COUNTY * | 5155250100D | 20-NOV-2003 | 04-03-0168X | 02
03 | VA | FAIRFAX COUNTY * | 5155250075D | 20-NOV-2003 | 04-03-0224A | 02
03 | VA | FAIRFAX COUNTY * | 5155240075D | 26-NOV-2003 | 04-03-0316A | 02
03 | VA | FAIRFAX COUNTY * | 5155250079D | 04-DEC-2003 | 04-03-0220A | 02
03 | VA | FAIRFAX COUNTY * | 5155250083D | 04-DEC-2003 | 04-03-0338X | 02
03 | VA | FAIRFAX COUNTY * | 5155250125D | 18-DEC-2003 | 04-03-0222A | 02
03 | VA | FAIRFAX COUNTY * | 5155250050D | 18-DEC-2003 | 04-03-0242A | 02
03 | VA | FAIRFAX COUNTY * | 51552500 | 22-DEC-2003 | 03-03-2688A | 02
03 | VA | FAIRFAX COUNTY * | 5155250050D | 22-DEC-2003 | 04-03-0404A | 02
03 | VA | FAIRFAX COUNTY * | 5155250075D | 24-DEC-2003 | 04-03-0494A | 02
03 | VA | FAIRFAX, CITY OF | 5155240001C | 21-AUG-2003 | 03-03-1416A | 02
03 | VA | FAIRFAX, CITY OF | 5155240001C | 23-OCT-2003 | 03-03-2534A | 02
03 | VA | FAIRFAX, CITY OF | 5155240002C | 23-OCT-2003 | 03-03-2534A | 02
03 | VA | FAUQUIER COUNTY * | 5100550215A | 10-JUL-2003 | 03-03-1670A | 02
03 | VA | FAUQUIER COUNTY * | 5100550050A | 09-OCT-2003 | 03-03-1816A | 02
03 | VA | FAUQUIER COUNTY * | 5100550215A | 23-DEC-2003 | 03-03-207P | 05
03 | VA | FRANKLIN COUNTY * | 5100610215B | 21-JUL-2003 | 03-03-1792A | 02
03 | VA | FRANKLIN COUNTY * | 5100610090B | 21-JUL-2003 | 03-03-1844A | 02
03 | VA | FRANKLIN COUNTY * | 5100610210B | 21-JUL-2003 | 03-03-1876A | 02
03 | VA | FRANKLIN COUNTY * | 5100610095B | 21-JUL-2003 | 03-03-1948A | 02
03 | VA | FRANKLIN COUNTY * | 5100610215B | 21-JUL-2003 | 03-03-2002A | 02
03 | VA | FRANKLIN COUNTY * | 5100610090B | 31-JUL-2003 | 03-03-1932A | 02
03 | VA | FRANKLIN COUNTY * | 5100610090B | 31-JUL-2003 | 03-03-1996A | 02
03 | VA | FRANKLIN COUNTY * | 5100610210B | 14-AUG-2003 | 03-03-1756A | 02
03 | VA | FRANKLIN COUNTY * | 5100610210B | 02-SEP-2003 | 03-03-1770A | 02
03 | VA | FRANKLIN COUNTY * | 5100610210B | 18-SEP-2003 | 03-03-1744A | 02
03 | VA | FRANKLIN COUNTY * | 5100610215B | 18-SEP-2003 | 03-03-2468A | 02
03 | VA | FRANKLIN COUNTY * | 5100610240B | 22-SEP-2003 | 03-03-2332A | 02
03 | VA | FRANKLIN COUNTY * | 5100610210B | 25-SEP-2003 | 03-03-2488A | 02
03 | VA | FRANKLIN COUNTY * | 5100610080B | 09-OCT-2003 | 03-03-2396A | 02
03 | VA | FRANKLIN COUNTY * | 5100610240B | 23-OCT-2003 | 03-03-2584A | 02
03 | VA | FRANKLIN COUNTY * | 5100610210B | 23-OCT-2003 | 03-03-2690A | 02
03 | VA | FRANKLIN COUNTY * | 5100610240B | 08-DEC-2003 | 04-03-0294A | 02
03 | VA | FREDERICK COUNTY * | 5100630200B | 14-AUG-2003 | 03-03-1738A | 02
03 | VA | FREDERICK COUNTY * | 5100630200B | 06-OCT-2003 | 03-03-203P | 05
03 | VA | GILES COUNTY * | 5100670150B | 25-SEP-2003 | 03-03-2560A | 02
03 | VA | GLOUCESTER COUNTY* | 5100710038B | 05-AUG-2003 | 03-03-1984A | 02
03 | VA | HAMPTON,CITY OF | 5155270016D | 17-JUL-2003 | 03-03-1626A | 02
03 | VA | HANOVER COUNTY * | 5102370310A | 17-NOV-2003 | 04-03-0098A | 02
03 | VA | HANOVER COUNTY * | 5102370320A | 17-NOV-2003 | 04-03-0098A | 02
03 | VA | HENRICO COUNTY * | 5100770025B | 14-JUL-2003 | 03-03-1894A | 02
03 | VA | HENRICO COUNTY * | 5100770025B | 04-AUG-2003 | 03-03-1556A | 02
03 | VA | HENRICO COUNTY * | 5100770050B | 05-AUG-2003 | 03-03-1368A | 02
03 | VA | HENRICO COUNTY * | 5100770050B | 07-AUG-2003 | 03-03-2104A | 02
03 | VA | HENRICO COUNTY * | 5100770025B | 18-SEP-2003 | 03-03-1722A | 02
03 | VA | HENRICO COUNTY * | 5100770050B | 14-OCT-2003 | 03-03-2178A | 02
03 | VA | HENRICO COUNTY * | 5100770025B | 20-NOV-2003 | 03-03-2588A | 02
03 | VA | HENRY COUNTY * | 5100780175A | 07-AUG-2003 | 03-03-1364A | 02
03 | VA | HILLSBORO, TOWN OF | 51007C0080D | 17-NOV-2003 | 04-03-0182A | 02
03 | VA | HOPEWELL, CITY OF | 5100800005B | 02-SEP-2003 | 03-03-2220A | 02
03 | VA | HOPEWELL, CITY OF | 5100800005B | 13-NOV-2003 | 03-03-2640A | 02
03 | VA | ISLE OF WIGHT COUNTY * | 51093C0170D | 03-JUL-2003 | 03-03-1614A | 02
03 | VA | ISLE OF WIGHT COUNTY * | 51093C0170D | 29-JUL-2003 | 03-03-1882A | 02
03 | VA | ISLE OF WIGHT COUNTY * | 51093C0275D | 20-OCT-2003 | 03-03-2032A | 02
03 | VA | LEESBURG, TOWN OF | 51107C0227D | 18-SEP-2003 | 03-03-1298A | 02
03 | VA | LOUDOUN COUNTY * | 51107C0260D | 17-JUL-2003 | 03-03-1784A | 02
03 | VA | LOUDOUN COUNTY * | 51107C0263D | 24-JUL-2003 | 03-03-1360A | 01
03 | VA | LOUDOUN COUNTY * | 51107C0260D | 21-AUG-2003 | 03-03-1434A | 02
03 | VA | LOUDOUN COUNTY * | 51107C0350D | 16-OCT-2003 | 03-03-2408A | 02
03 | VA | LOUISA COUNTY * | 51109C0400B | 14-AUG-2003 | 03-03-1334A | 02
03 | VA | LOUISA COUNTY * | 51109C0400B | 09-OCT-2003 | 03-03-2402X | 02
03 | VA | LOUISA COUNTY * | 51109C0125B | 16-OCT-2003 | 03-03-2528A | 02
03 | VA | LOUISA COUNTY * | 51109C0175B | 27-OCT-2003 | 03-03-2306A | 02
03 | VA | LURAY, TOWN OF | 5101100002C | 20-NOV-2003 | 03-03-2694A | 02
03 | VA | LYNCHBURG, CITY OF | 5100930020C | 16-OCT-2003 | 03-03-2258A | 02
03 | VA | MATHEWS COUNTY* | 5100960009B | 09-OCT-2003 | 03-03-2366A | 02
03 | VA | MATHEWS COUNTY* | 5100960010C | 10-NOV-2003 | 03-03-2490A | 02
03 | VA | MECKLENBURG COUNTY * | 5101890200A | 11-SEP-2003 | 03-03-2196A | 02
03 | VA | MECKLENBURG COUNTY * | 5101890150A | 22-DEC-2003 | 04-03-0440A | 02
03 | VA | MIDDLESEX COUNTY * | 5100980036C | 16-OCT-2003 | 03-03-1874A | 02
03 | VA | MIDDLESEX COUNTY * | 5100980034B | 26-NOV-2003 | 04-03-0256A | 02
03 | VA | NORFOLK, CITY OF | 5101040011D | 19-AUG-2003 | 03-03-2008A | 02
03 | VA | NORFOLK, CITY OF | 5101040012D | 25-AUG-2003 | 03-03-1878A | 02
03 | VA | NORTHUMBERLAND COUNTY * | 5101070013B | 26-NOV-2003 | 04-03-0254A | 02
03 | VA | PAGE COUNTY * | 5101090065B | 25-SEP-2003 | 03-03-2562A | 02
03 | VA | PORTSMOUTH, CITY OF | 5155290025B | 20-NOV-2003 | 03-03-2656A | 02
03 | VA | PRINCE GEORGE COUNTY * | 5102040025A | 03-NOV-2003 | 04-03-0126A | 02
03 | VA | PRINCE WILLIAM COUNTY * | 51553C0238D | 08-SEP-2003 | 03-03-1838A | 02
03 | VA | PRINCE WILLIAM COUNTY * | 51153C0238D | 24-NOV-2003 | 03-03-2558A | 02
03 | VA | PRINCE WILLIAM COUNTY * | 51153C0214D | 08-DEC-2003 | 04-03-0350A | 02
03 | VA | PRINCE WILLIAM COUNTY * | 51153C0217D | 15-DEC-2003 | 03-03-2308A | 02
03 | VA | PULASKI, TOWN OF | 5101260005F | 25-SEP-2003 | 03-03-2360A | 02
03 | VA | RICHMOND COUNTY * | 5103100050A | 08-JUL-2003 | 03-03-1618A | 02
03 | VA | ROANOKE COUNTY * | 51161C0024D | 31-JUL-2003 | 03-03-2024A | 02
03 | VA | ROANOKE COUNTY * | 51161C0062D | 29-SEP-2003 | 03-03-2280A | 02
03 | VA | ROANOKE COUNTY * | 51161C0023D | 23-OCT-2003 | 03-03-2634A | 02
03 | VA | ROANOKE COUNTY * | 51161C0023D | 27-OCT-2003 | 03-03-2028A | 17
03 | VA | ROANOKE, CITY OF | 51161C0044D | 24-JUL-2003 | 03-03-1530A | 02
03 | VA | ROANOKE, CITY OF | 51161C0044D | 16-OCT-2003 | 03-03-2444A | 01
03 | VA | ROANOKE, CITY OF | 51161C0044D | 13-NOV-2003 | 04-03-0112A | 02
03 | VA | ROCKBRIDGE COUNTY * | 51163C0250C | 31-JUL-2003 | 03-03-1758A | 02
03 | VA | ROCKBRIDGE COUNTY * | 51163C0380C | 31-JUL-2003 | 03-03-1814A | 02
03 | VA | ROCKINGHAM COUNTY* | 5101330021B | 31-JUL-2003 | 03-03-1872A | 02
03 | VA | ROCKINGHAM COUNTY* | 5101330095B | 08-SEP-2003 | 03-03-2200A | 02
03 | VA | SALEM, CITY OF | 5101410041C | 06-NOV-2003 | 03-03-1470A | 01
03 | VA | SHENANDOAH COUNTY * | 51171C0155C | 17-JUL-2003 | 03-03-2014V | 19
03 | VA | SHENANDOAH COUNTY * | 51171C0170C | 17-JUL-2003 | 03-03-2014V | 19
03 | VA | SHENANDOAH COUNTY * | 51171C0200C | 17-JUL-2003 | 03-03-2014V | 19
03 | VA | SHENANDOAH COUNTY * | 51171C0225C | 17-JUL-2003 | 03-03-2014V | 19
03 | VA | SHENANDOAH COUNTY * | 51171C0250C | 17-JUL-2003 | 03-03-2014V | 19
03 | VA | SHENANDOAH COUNTY * | 51171C0255C | 17-JUL-2003 | 03-03-2014V | 19
03 | VA | SHENANDOAH COUNTY * | 51171C0258C | 17-JUL-2003 | 03-03-2014V | 19
03 | VA | SHENANDOAH COUNTY * | 51171C0370C | 17-JUL-2003 | 03-03-2014V | 19
03 | VA | SHENANDOAH COUNTY * | 5101470075B | 02-SEP-2003 | 03-03-1706A | 02
03 | VA | SHENANDOAH COUNTY * | 51171C0225C | 04-DEC-2003 | 03-03-2636A | 02
03 | VA | SMITHFIELD, TOWN OF | 51093C0155D | 17-NOV-2003 | 04-03-0104A | 02
03 | VA | SMYTH COUNTY * | 5101840270B | 11-SEP-2003 | 03-03-1366A | 02
03 | VA | SOUTHAMPTON COUNTY * | 51175C0300C | 02-SEP-2003 | 03-03-2152A | 02
03 | VA | SOUTHAMPTON COUNTY * | 51175C0420C | 06-OCT-2003 | 03-03-2406A | 02
03 | VA | SOUTHAMPTON COUNTY * | 51175C0405C | 14-OCT-2003 | 03-03-2228A | 02
03 | VA | SPOTSYLVANIA COUNTY* | 5103080075C | 07-AUG-2003 | 03-03-1704A | 02
03 | VA | SPOTSYLVANIA COUNTY* | 5103080075C | 25-AUG-2003 | 03-03-2140A | 02
03 | VA | SPOTSYLVANIA COUNTY* | 5103080075C | 08-DEC-2003 | 04-03-0106A | 02
03 | VA | SPOTSYLVANIA COUNTY* | 5103080075C | 15-DEC-2003 | 04-03-0288A | 02
03 | VA | STAFFORD COUNTY * | 5101540155B | 22-DEC-2003 | 04-03-0436A | 02
03 | VA | STAUNTON, CITY OF | 5101550001C | 04-SEP-2003 | 03-03-2282A | 02
03 | VA | STEPHENS CITY, TOWN OF | 5100640001B | 11-JUL-2003 | 03-03-165P | 05
03 | VA | SUFFOLK, CITY OF | 5101560010B | 21-JUL-2003 | 03-03-1560A | 02
03 | VA | SUFFOLK, CITY OF | 5101560023B | 21-JUL-2003 | 03-03-1866A | 02
03 | VA | SUFFOLK, CITY OF | 5101560004B | 11-SEP-2003 | 03-03-2230A | 02
03 | VA | SUFFOLK, CITY OF | 5101560002B | 04-DEC-2003 | 04-03-0010A | 02
03 | VA | SUFFOLK, CITY OF | 5101560022B | 15-DEC-2003 | 03-03-2070A | 02
03 | VA | VIRGINIA BEACH, CITY OF | 5155310049E | 31-JUL-2003 | 03-03-1892A | 02
03 | VA | VIRGINIA BEACH, CITY OF | 5155310016E | 21-AUG-2003 | 03-03-1782A | 02
03 | VA | VIRGINIA BEACH, CITY OF | 5155310029E | 09-OCT-2003 | 03-03-2358A | 02
03 | VA | VIRGINIA BEACH, CITY OF | 5155310016E | 20-NOV-2003 | 04-03-0186A | 02
03 | VA | VIRGINIA BEACH, CITY OF | 5115310053E | 24-NOV-2003 | 04-03-0226A | 02
03 | VA | VIRGINIA BEACH, CITY OF | 5155310046E | 24-NOV-2003 | 04-03-0226A | 02
03 | VA | VIRGINIA BEACH, CITY OF | 5155310047E | 24-NOV-2003 | 04-03-0226A | 02
03 | VA | VIRGINIA BEACH, CITY OF | 5155310054E | 24-NOV-2003 | 04-03-0226A | 02
03 | VA | VIRGINIA BEACH, CITY OF | 5155310004E | 24-DEC-2003 | 04-03-0196A | 02
03 | VA | VIRGINIA BEACH, CITY OF | 5155310016E | 24-DEC-2003 | 04-03-0508A | 02
03 | VA | WARREN COUNTY * | 5101660115A | 21-AUG-2003 | 03-03-2156A | 02
03 | VA | WARREN COUNTY * | 5101660105A | 10-NOV-2003 | 04-03-0038A | 02
03 | VA | WEST POINT, TOWN OF | 5100830001C | 19-AUG-2003 | 03-03-2330A | 02
03 | VA | WINCHESTER, CITY OF | 5101730005B | 22-DEC-2003 | 03-03-2076A | 01
03 | VA | WOODSTOCK, TOWN OF | 51171C0144C | 17-JUL-2003 | 03-03-2016V | 19
03 | WV | ALDERSON, TOWN OF | 54063C0007C | 02-OCT-2003 | 03-03-2320A | 02
03 | WV | BOONE COUNTY * | 54005C0085B | 20-NOV-2003 | 04-03-0108A | 02
03 | WV | BUCKHANNON, CITY OF | 5401990001C | 16-OCT-2003 | 03-03-2514A | 02
03 | WV | BUFFALO, TOWN OF | 5401660001B | 15-SEP-2003 | 03-03-2262A | 02
03 | WV | CHARLES TOWN, CITY OF | 5400660001C | 07-AUG-2003 | 03-03-2092A | 02
03 | WV | CHARLESTON, CITY OF | 5400730003C | 29-SEP-2003 | 03-03-2440A | 02
03 | WV | ELEANOR, TOWN OF | 540222B | 26-NOV-2003 | 03-03-2518A | 02
03 | WV | ELIZABETH, TOWN OF | 5402120001B | 26-NOV-2003 | 03-03-2522A | 02
03 | WV | ELKINS, CITY OF | 5401770001B | 08-DEC-2003 | 03-03-2666A | 02
03 | WV | HAMPSHIRE COUNTY* | 54027C0160C | 14-AUG-2003 | 03-03-1740A | 02
03 | WV | JACKSON COUNTY * | 5400630108C | 14-AUG-2003 | 03-03-1348A | 02
03 | WV | JACKSON COUNTY * | 5400630125C | 14-OCT-2003 | 03-03-2352A | 02
03 | WV | JACKSON COUNTY * | 5400630150B | 13-NOV-2003 | 03-03-2246A | 02
03 | WV | JANE LEW, TOWN OF | 540086—01B | 21-JUL-2003 | 03-03-1852A | 02
03 | WV | JEFFERSON COUNTY * | 5400650066B | 14-OCT-2003 | 03-03-1786A | 02
03 | WV | KANAWHA COUNTY * | 5400700101C | 19-AUG-2003 | 03-03-2022A | 02
03 | WV | KANAWHA COUNTY * | 5400700176C | 21-AUG-2003 | 03-03-2184A | 02
03 | WV | KANAWHA COUNTY * | 5400700272C | 16-OCT-2003 | 03-03-2520A | 02
03 | WV | LOGAN COUNTY * | 5455360092C | 11-SEP-2003 | 03-03-1822A | 02
03 | WV | MINGO COUNTY * | 5401330086C | 05-AUG-2003 | 03-03-1436A | 02
03 | WV | NITRO, CITY OF | 5400810001B | 07-AUG-2003 | 03-03-1648A | 02
03 | WV | NITRO, CITY OF | 5400810003B | 18-DEC-2003 | 03-03-2578A | 02
03 | WV | PHILIPPI, CITY OF | 5400040001B | 22-DEC-2003 | 03-03-1764A | 02
03 | WV | PRESTON COUNTY* | 540160—35A | 14-OCT-2003 | 03-03-1856A | 02
03 | WV | PRINCETON, CITY OF | 5401280002C | 03-NOV-2003 | 03-03-2524A | 01
03 | WV | PUTNAM COUNTY* | 5401640037A | 24-DEC-2003 | 03-03-2368A | 02
03 | WV | RANDOLPH COUNTY * | 5401750325A | 09-OCT-2003 | 03-03-2182A | 02
03 | WV | RITCHIE COUNTY * | 5402240004B | 01-JUL-2003 | 03-03-1990A | 02
03 | WV | SOPHIA, TOWN OF | 5401740005B | 17-JUL-2003 | 03-03-1710A | 02
03 | WV | TYLER COUNTY * | 54095C0006B | 24-DEC-2003 | 03-03-2570A | 02
03 | WV | VIENNA, CITY OF | 5402150002B | 07-AUG-2003 | 03-03-1976A | 02
03 | WV | VIENNA, CITY OF | 5402150002B | 14-AUG-2003 | 03-03-1974A | 02
03 | WV | VIENNA, CITY OF | 5402150002B | 09-OCT-2003 | 03-03-2292A | 02
03 | WV | WAYNE COUNTY* | 5402000101B | 21-AUG-2003 | 03-03-1980A | 02
03 | WV | WAYNE COUNTY* | 5402000103B | 21-AUG-2003 | 03-03-2144A | 02
03 | WV | WAYNE COUNTY* | 5402000102B | 08-SEP-2003 | 03-03-2180A | 02
03 | WV | WAYNE COUNTY* | 5402000102B | 14-OCT-2003 | 03-03-1474A | 02
03 | WV | WAYNE COUNTY* | 5402000101B | 08-DEC-2003 | 04-03-0024A | 02
03 | WV | WAYNE, TOWN OF | 5402310001A | 20-NOV-2003 | 03-03-2496A | 02
03 | WV | WETZEL COUNTY * | 5402070025A | 02-OCT-2003 | 03-03-2244A | 02
03 | WV | WILLIAMSON, CITY OF | 5401380001D | 29-OCT-2003 | 03-03-147P | 05
03 | WV | WOOD COUNTY * | 5402130078A | 10-JUL-2003 | 03-03-1678A | 02
04 | AL | ANNISTON, CITY OF | 0100200004C | 27-OCT-2003 | 03-04-10682A | 01
04 | AL | ANNISTON, CITY OF | 0100200004C | 15-DEC-2003 | 04-04-1240A | 02
04 | AL | ASHFORD, TOWN OF | 01069C0275E | 25-SEP-2003 | 03-04-9130A | 02
04 | AL | AUTAUGA COUNTY * | 0103140040B | 04-DEC-2003 | 04-04-0698A | 02
04 | AL | BALDWIN COUNTY* | 01003C0926K | 09-JUL-2003 | 03-04-295P | 05
04 | AL | BALDWIN COUNTY* | 01003C0508K | 17-JUL-2003 | 03-04-6852A | 02
04 | AL | BALDWIN COUNTY* | 01003C0509K | 17-JUL-2003 | 03-04-6852A | 02
04 | AL | BALDWIN COUNTY* | 01003C0926K | 14-AUG-2003 | 03-04-8620A | 02
04 | AL | BALDWIN COUNTY* | 01003C0690K | 25-AUG-2003 | 03-04-8238A | 02
04 | AL | BALDWIN COUNTY* | 01003C0902K | 25-AUG-2003 | 03-04-8816A | 02
04 | AL | BALDWIN COUNTY* | 01003C0842K | 06-NOV-2003 | 04-04-0286A | 02
04 | AL | BALDWIN COUNTY* | 01003C0855K | 13-NOV-2003 | 04-04-0700A | 02
04 | AL | BIRMINGHAM, CITY OF | 01073C0316E | 15-DEC-2003 | 03-04-9994A | 02
04 | AL | CEDAR BLUFF,TOWN OF | 0150100005B | 01-JUL-2003 | 03-04-6464A | 02
04 | AL | CEDAR BLUFF,TOWN OF | 0150100005B | 24-JUL-2003 | 03-04-7966A | 02
04 | AL | CHEROKEE COUNTY* | 0102340100B | 07-AUG-2003 | 03-04-7802A | 02
04 | AL | CHEROKEE COUNTY* | 0102340125B | 07-AUG-2003 | 03-04-8260A | 02
04 | AL | CHEROKEE COUNTY* | 0102340175B | 14-OCT-2003 | 03-04-10454A | 02
04 | AL | CHEROKEE COUNTY* | 0102340100B | 27-OCT-2003 | 03-04-10732A | 02
04 | AL | CHEROKEE COUNTY* | 0102340125B | 10-NOV-2003 | 04-04-0418A | 02
04 | AL | CHEROKEE COUNTY* | 0102340125B | 18-DEC-2003 | 04-04-0414A | 02
04 | AL | CHEROKEE COUNTY* | 0102340100B | 24-DEC-2003 | 04-04-1194A | 02
04 | AL | CHILTON COUNTY * | 0100300050B | 30-OCT-2003 | 03-04-10900A | 02
04 | AL | COLBERT COUNTY | 0103180125B | 05-AUG-2003 | 03-04-5856A | 02
04 | AL | COLBERT COUNTY | 0103180125B | 05-AUG-2003 | 03-04-6334A | 02
04 | AL | COLBERT COUNTY | 0103180125B | 05-AUG-2003 | 03-04-7262A | 02
04 | AL | COLBERT COUNTY | 0103180125B | 05-AUG-2003 | 03-04-7804A | 02
04 | AL | COLBERT COUNTY | 0103180125B | 20-AUG-2003 | 03-04-8848A | 02
04 | AL | COLBERT COUNTY | 0103180125B | 21-AUG-2003 | 03-04-8580A | 02
04 | AL | COLBERT COUNTY | 0103180125B | 06-OCT-2003 | 03-04-9946A | 02
04 | AL | COLBERT COUNTY | 0103180125B | 09-OCT-2003 | 03-04-10268A | 02
04 | AL | COLBERT COUNTY | 0103180125B | 24-DEC-2003 | 04-04-1488A | 02
04 | AL | COTTONWOOD, TOWN OF | 01069C0345E | 15-DEC-2003 | 03-04-10756A | 02
04 | AL | DALE COUNTY * | 0100600240B | 13-NOV-2003 | 04-04-0624A | 02
04 | AL | DAPHNE, CITY OF | 01003C0506K | 17-JUL-2003 | 03-04-6898A | 02
04 | AL | DAPHNE, CITY OF | 01003C0394K | 04-SEP-2003 | 03-04-8956A | 02
04 | AL | DAUPHIN ISLAND, TOWN OF | 01097C0977J | 29-JUL-2003 | 03-04-6414A | 02
04 | AL | DECATUR, CITY OF | 01103C0060D | 20-AUG-2003 | 03-04-8820A | 02
04 | AL | DECATUR, CITY OF | 01103C0060D | 15-SEP-2003 | 03-04-8812A | 02
04 | AL | DECATUR, CITY OF | 01103C0060D | 15-SEP-2003 | 03-04-9516A | 02
04 | AL | DECATUR, CITY OF | 01103C0060D | 18-SEP-2003 | 03-04-8704A | 02
04 | AL | DEMOPOLIS, CITY OF | 0101570005D | 20-AUG-2003 | 03-04-8850A | 02
04 | AL | DOTHAN, CITY OF | 01069C0209E | 01-JUL-2003 | 03-04-6576A | 02
04 | AL | DOTHAN, CITY OF | 01069C0228E | 10-JUL-2003 | 03-04-347P | 05
04 | AL | DOTHAN, CITY OF | 01069C0229E | 10-JUL-2003 | 03-04-347P | 05
04 | AL | DOTHAN, CITY OF | 01069C0236E | 17-JUL-2003 | 03-04-5968A | 02
04 | AL | DOTHAN, CITY OF | 01069C0216E | 17-JUL-2003 | 03-04-7566A | 02
04 | AL | DOTHAN, CITY OF | 01069C0208E | 18-JUL-2003 | 03-04-7726A | 02
04 | AL | DOTHAN, CITY OF | 01069C0228E | 07-AUG-2003 | 03-04-6242A | 02
04 | AL | DOTHAN, CITY OF | 01069C0227E | 25-AUG-2003 | 03-04-7574A | 02
04 | AL | DOTHAN, CITY OF | 01069C0209E | 18-SEP-2003 | 03-04-8958A | 02
04 | AL | DOTHAN, CITY OF | 01069C0209E | 23-OCT-2003 | 03-04-6144A | 02
04 | AL | DOTHAN, CITY OF | 01069C0226E | 04-DEC-2003 | 04-04-0468A | 02
04 | AL | ELMORE COUNTY* | 0104060100C | 01-JUL-2003 | 03-04-6490A | 02
04 | AL | ELMORE COUNTY* | 0104060025B | 01-JUL-2003 | 03-04-6500A | 02
04 | AL | ELMORE COUNTY* | 0104060100C | 01-JUL-2003 | 03-04-6688A | 02
04 | AL | ELMORE COUNTY* | 0104060200C | 01-JUL-2003 | 03-04-6896A | 02
04 | AL | ELMORE COUNTY* | 0104060095C | 01-JUL-2003 | 03-04-6972A | 02
04 | AL | ELMORE COUNTY* | 0104060100C | 17-JUL-2003 | 03-04-7568A | 02
04 | AL | ELMORE COUNTY* | 0104060100C | 17-JUL-2003 | 03-04-7572A | 02
04 | AL | ELMORE COUNTY* | 0104060200C | 24-JUL-2003 | 03-04-6772A | 02
04 | AL | ELMORE COUNTY* | 0104060100C | 04-SEP-2003 | 03-04-9394A | 02
04 | AL | ELMORE COUNTY* | 0104060165C | 10-SEP-2003 | 03-04-9666A | 02
04 | AL | ELMORE COUNTY* | 0104060200C | 12-SEP-2003 | 03-04-8656A | 02
04 | AL | ELMORE COUNTY* | 0104060100C | 25-SEP-2003 | 03-04-9790A | 02
04 | AL | ELMORE COUNTY* | 0104060100C | 23-OCT-2003 | 03-04-10542A | 02
04 | AL | ELMORE COUNTY* | 0104060100C | 23-OCT-2003 | 03-04-10684A | 02
04 | AL | ELMORE COUNTY* | 0104060100C | 06-NOV-2003 | 03-04-9024A | 02
04 | AL | ELMORE COUNTY* | 0104060100C | 06-NOV-2003 | 04-04-0314A | 02
04 | AL | ELMORE COUNTY* | 0104060100C | 13-NOV-2003 | 03-04-10824A | 02
04 | AL | ELMORE COUNTY* | 0104060100C | 20-NOV-2003 | 04-04-0778A | 02
04 | AL | ELMORE COUNTY* | 0104060100C | 04-DEC-2003 | 04-04-0784A | 01
04 | AL | ELMORE COUNTY* | 0104060155C | 15-DEC-2003 | 04-04-0158A | 02
04 | AL | ELMORE COUNTY* | 0104060100C | 18-DEC-2003 | 04-04-1134A | 02
04 | AL | ELMORE COUNTY* | 0104060100C | 18-DEC-2003 | 04-04-1320A | 02
04 | AL | ELMORE COUNTY* | 0104060090B | 22-DEC-2003 | 04-04-0672A | 02
04 | AL | ELMORE COUNTY* | 0104060025B | 24-DEC-2003 | 04-04-0726A | 02
04 | AL | ETOWAH COUNTY * | 0100770185C | 07-AUG-2003 | 03-04-7964A | 02
04 | AL | FORT PAYNE, CITY OF | 0100670004A | 29-JUL-2003 | 03-04-7968A | 02
04 | AL | FORT PAYNE, CITY OF | 0100670003A | 06-OCT-2003 | 03-04-9272A | 02
04 | AL | GADSDEN, CITY OF | 0100800020C | 31-JUL-2003 | 03-04-7014A | 01
04 | AL | GULF SHORES, TOWN OF | 01003C0814K | 03-NOV-2003 | 03-04-10986X | 02
04 | AL | HELENA, TOWN OF | 0102940002B | 23-OCT-2003 | 03-04-8172A | 01
04 | AL | HOMEWOOD, CITY OF | 01073C0481E | 13-NOV-2003 | 03-04-9942A | 02
04 | AL | HOOVER, CITY OF | 01073C0492E | 15-DEC-2003 | 03-04-11046A | 01
04 | AL | HUNTSVILLE, CITY OF | 01089C0456D | 28-AUG-2003 | 03-04-8574A | 02
04 | AL | HUNTSVILLE, CITY OF | 01089C0343D | 04-SEP-2003 | 03-04-9268A | 02
04 | AL | HUNTSVILLE, CITY OF | 01089C0331D | 14-OCT-2003 | 03-04-10458A | 02
04 | AL | HUNTSVILLE, CITY OF | 01089C0333D | 15-DEC-2003 | 04-04-0824A | 02
04 | AL | JACKSONVILLE, CITY OF | 0100220002B | 16-OCT-2003 | 03-04-9990A | 02
04 | AL | JEFFERSON COUNTY * | 01073C0250E | 01-JUL-2003 | 03-04-6690A | 02
04 | AL | JEFFERSON COUNTY * | 01073C0503E | 04-DEC-2003 | 04-04-0776A | 01
04 | AL | JEFFERSON COUNTY * | 01073C0250E | 24-DEC-2003 | 04-04-1140A | 02
04 | AL | LAMAR COUNTY * | 0102710150B | 15-DEC-2003 | 04-04-0154A | 02
04 | AL | LANETT, CITY OF | 0100290010B | 14-OCT-2003 | 03-04-10484A | 02
04 | AL | LAUDERDALE COUNTY * | 0103230180C | 01-AUG-2003 | 03-04-5202A | 02
04 | AL | LAUDERDALE COUNTY * | 0103230180C | 05-AUG-2003 | 03-04-5082A | 02
04 | AL | LAUDERDALE COUNTY * | 0103230180C | 04-SEP-2003 | 03-04-8146A | 02
04 | AL | LAUDERDALE COUNTY * | 0103230069C | 04-SEP-2003 | 03-04-8918A | 02
04 | AL | LEE COUNTY * | 0102500377C | 09-OCT-2003 | 03-04-6514A | 01
04 | AL | LEE COUNTY * | 0102500140C | 30-OCT-2003 | 03-04-11028A | 02
04 | AL | LEE COUNTY * | 0102500125C | 30-OCT-2003 | 03-04-8742A | 02
04 | AL | LEE COUNTY * | 0102500125C | 20-NOV-2003 | 03-04-9412A | 02
04 | AL | LEE COUNTY * | 0102500125C | 18-DEC-2003 | 04-04-0620A | 02
04 | AL | LEEDS, CITY OF | 0102900255B | 15-DEC-2003 | 03-04-10456A | 02
04 | AL | LIMESTONE COUNTY * | 0103070075B | 08-JUL-2003 | 03-04-6466A | 02
04 | AL | LIMESTONE COUNTY * | 0103070075B | 25-SEP-2003 | 03-04-8818A | 02
04 | AL | LIMESTONE COUNTY * | 0103070075B | 04-DEC-2003 | 03-04-10730A | 02
04 | AL | MADISON COUNTY * | 01089C0144D | 07-AUG-2003 | 03-04-8180A | 02
04 | AL | MADISON COUNTY * | 01089C0062D | 06-NOV-2003 | 03-04-9992A | 02
04 | AL | MARSHALL COUNTY * | 0102750100B | 01-JUL-2003 | 03-04-6546A | 02
04 | AL | MARSHALL COUNTY * | 0102750100B | 10-NOV-2003 | 03-04-10634A | 02
04 | AL | MOBILE COUNTY* | 01097C0658J | 22-DEC-2003 | 04-04-0622A | 02
04 | AL | MOBILE, CITY OF | 01097C0558J | 14-AUG-2003 | 03-04-7486A | 02
04 | AL | MOBILE, CITY OF | 01097C0676J | 04-DEC-2003 | 04-04-0876A | 02
04 | AL | MONTEVALLO, TOWN OF | 0101910130B | 18-JUL-2003 | 03-04-5358A | 02
04 | AL | MONTGOMERY COUNTY * | 01101C0044G | 05-AUG-2003 | 03-04-8024V | 19
04 | AL | MONTGOMERY COUNTY * | 01101C0045G | 05-AUG-2003 | 03-04-8024V | 19
04 | AL | MONTGOMERY COUNTY * | 01101C0055G | 05-AUG-2003 | 03-04-8024V | 19
04 | AL | MONTGOMERY COUNTY * | 01101C0064G | 05-AUG-2003 | 03-04-8024V | 19
04 | AL | MONTGOMERY COUNTY * | 01101C0068G | 05-AUG-2003 | 03-04-8024V | 19
04 | AL | MONTGOMERY COUNTY * | 01101C0069G | 05-AUG-2003 | 03-04-8024V | 19
04 | AL | MONTGOMERY COUNTY * | 01101C0070G | 05-AUG-2003 | 03-04-8024V | 19
04 | AL | MONTGOMERY COUNTY * | 01101C0110G | 05-AUG-2003 | 03-04-8024V | 19
04 | AL | MONTGOMERY COUNTY * | 01101C0153G | 05-AUG-2003 | 03-04-8024V | 19
04 | AL | MONTGOMERY COUNTY * | 01101C0154G | 05-AUG-2003 | 03-04-8024V | 19
04 | AL | MONTGOMERY COUNTY * | 01101C0166G | 05-AUG-2003 | 03-04-8024V | 19
04 | AL | MONTGOMERY COUNTY * | 01101C0170G | 05-AUG-2003 | 03-04-8024V | 19
04 | AL | MONTGOMERY COUNTY * | 01101C0180G | 05-AUG-2003 | 03-04-8024V | 19
04 | AL | MONTGOMERY COUNTY * | 01101C0250G | 05-AUG-2003 | 03-04-8024V | 19
04 | AL | MONTGOMERY COUNTY * | 01101C0275G | 05-AUG-2003 | 03-04-8024V | 19
04 | AL | MONTGOMERY COUNTY * | 01101C0285G | 05-AUG-2003 | 03-04-8024V | 19
04 | AL | MONTGOMERY COUNTY * | 01101C0300G | 05-AUG-2003 | 03-04-8024V | 19
04 | AL | MONTGOMERY COUNTY * | 01101C0315G | 05-AUG-2003 | 03-04-8024V | 19
04 | AL | MONTGOMERY COUNTY * | 01101C0375G | 05-AUG-2003 | 03-04-8024V | 19
04 | AL | MONTGOMERY COUNTY * | 01101C0300G | 18-SEP-2003 | 03-04-6900A | 02
04 | AL | MONTGOMERY COUNTY * | 01101C0285G | 03-NOV-2003 | 04-04-0504A | 02
04 | AL | MONTGOMERY COUNTY * | 01101C0425G | 24-NOV-2003 | 03-04-11044A | 02
04 | AL | MONTGOMERY, CITY OF | 01101C0064G | 05-AUG-2003 | 03-04-3436P | 05
04 | AL | MONTGOMERY, CITY OF | 01101C0044G | 05-AUG-2003 | 03-04-8026V | 19
04 | AL | MONTGOMERY, CITY OF | 01101C0045G | 05-AUG-2003 | 03-04-8026V | 19
04 | AL | MONTGOMERY, CITY OF | 01101C0063G | 05-AUG-2003 | 03-04-8026V | 19
04 | AL | MONTGOMERY, CITY OF | 01101C0064G | 05-AUG-2003 | 03-04-8026V | 19
04 | AL | MONTGOMERY, CITY OF | 01101C0065G | 05-AUG-2003 | 03-04-8026V | 19
04 | AL | MONTGOMERY, CITY OF | 01101C0068G | 05-AUG-2003 | 03-04-8026V | 19
04 | AL | MONTGOMERY, CITY OF | 01101C0070G | 05-AUG-2003 | 03-04-8026V | 19
04 | AL | MONTGOMERY, CITY OF | 01101C0110G | 05-AUG-2003 | 03-04-8026V | 19
04 | AL | MONTGOMERY, CITY OF | 01101C0132G | 05-AUG-2003 | 03-04-8026V | 19
04 | AL | MONTGOMERY, CITY OF | 01101C0134G | 05-AUG-2003 | 03-04-8026V | 19
04 | AL | MONTGOMERY, CITY OF | 01101C0135G | 05-AUG-2003 | 03-04-8026V | 19
04 | AL | MONTGOMERY, CITY OF | 01101C0151G | 05-AUG-2003 | 03-04-8026V | 19
04 | AL | MONTGOMERY, CITY OF | 01101C0153G | 05-AUG-2003 | 03-04-8026V | 19
04 | AL | MONTGOMERY, CITY OF | 01101C0154G | 05-AUG-2003 | 03-04-8026V | 19
04 | AL | MONTGOMERY, CITY OF | 01101C0156G | 05-AUG-2003 | 03-04-8026V | 19
04 | AL | MONTGOMERY, CITY OF | 01101C0162G | 05-AUG-2003 | 03-04-8026V | 19
04 | AL | MONTGOMERY, CITY OF | 01101C0166G | 05-AUG-2003 | 03-04-8026V | 19
04 | AL | MONTGOMERY, CITY OF | 01101C0064G | 25-AUG-2003 | 03-04-8582A | 02
04 | AL | MONTGOMERY, CITY OF | 01101C0130G | 04-SEP-2003 | 03-04-5866A | 01
04 | AL | MONTGOMERY, CITY OF | 01101C0064G | 12-SEP-2003 | 03-04-9884A | 02
04 | AL | MONTGOMERY, CITY OF | 01101C0064G | 25-SEP-2003 | 03-04-9518A | 02
04 | AL | MONTGOMERY, CITY OF | 01101C0064G | 25-SEP-2003 | 03-04-9706A | 02
04 | AL | MONTGOMERY, CITY OF | 01101C0162G | 09-OCT-2003 | 03-04-10450A | 02
04 | AL | MONTGOMERY, CITY OF | 01101C0153G | 09-OCT-2003 | 03-04-7570A | 02
04 | AL | MONTGOMERY, CITY OF | 01101C0064G | 23-OCT-2003 | 03-04-10632A | 02
04 | AL | MONTGOMERY, CITY OF | 01101C0162G | 27-OCT-2003 | 03-04-10680A | 02
04 | AL | MONTGOMERY, CITY OF | 01101C0068G | 27-OCT-2003 | 03-04-10934A | 02
04 | AL | MONTGOMERY, CITY OF | 01101C0068G | 03-NOV-2003 | 04-04-0156A | 02
04 | AL | MONTGOMERY, CITY OF | 01101C0134G | 10-NOV-2003 | 03-04-10982A | 02
04 | AL | MONTGOMERY, CITY OF | 01101C0068G | 10-NOV-2003 | 04-04-0358A | 02
04 | AL | MONTGOMERY, CITY OF | 01101C0070G | 10-NOV-2003 | 04-04-0416A | 02
04 | AL | MONTGOMERY, CITY OF | 01101C0068G | 24-DEC-2003 | 04-04-1136A | 02
04 | AL | MONTGOMERY, CITY OF | 01101C0064G | 24-DEC-2003 | 04-04-1314A | 02
04 | AL | MOUNTAIN BROOK, CITY OF | 01073C0338E | 09-OCT-2003 | 03-04-8076A | 02
04 | AL | MUSCLE SHOALS, CITY OF | 0100470005C | 01-JUL-2003 | 03-04-6762A | 02
04 | AL | MUSCLE SHOALS, CITY OF | 0100470005C | 18-JUL-2003 | 03-04-6412A | 17
04 | AL | MUSCLE SHOALS, CITY OF | 0100470005C | 21-AUG-2003 | 03-04-8454A | 02
04 | AL | MUSCLE SHOALS, CITY OF | 0100470005C | 06-NOV-2003 | 04-04-0254A | 02
04 | AL | NORTHPORT, CITY OF | 01125C0502E | 26-DEC-2003 | 03-04-431P | 05
04 | AL | NORTHPORT, CITY OF | 01125C0504E | 26-DEC-2003 | 03-04-431P | 05
04 | AL | NORTHPORT, CITY OF | 01125C0506E | 26-DEC-2003 | 03-04-431P | 05
04 | AL | NORTHPORT, CITY OF | 01125C0508E | 26-DEC-2003 | 03-04-431P | 05
04 | AL | OPELIKA, CITY OF | 0101450050B | 13-NOV-2003 | 03-04-9906A | 01
04 | AL | ORANGE BEACH, CITY OF | 01003C0842K | 17-JUL-2003 | 03-04-7264A | 02
04 | AL | ORANGE BEACH, CITY OF | 01003C0842K | 04-DEC-2003 | 04-04-0924A | 02
04 | AL | OXFORD, CITY OF | 0100230004C | 14-OCT-2003 | 03-04-9702A | 02
04 | AL | PELL CITY, CITY OF | 0101890010B | 07-AUG-2003 | 03-04-8178A | 02
04 | AL | PELL CITY, CITY OF | 0101890020B | 28-AUG-2003 | 03-04-8296A | 02
04 | AL | PELL CITY, CITY OF | 0101890020B | 15-DEC-2003 | 04-04-1318A | 02
04 | AL | RUSSELLVILLE, CITY OF | 0102160005A | 28-AUG-2003 | 03-04-8452A | 02
04 | AL | SARALAND, CITY OF | 01097C0429J | 24-JUL-2003 | 03-04-6644A | 02
04 | AL | SHELBY COUNTY* | 0101910195B | 01-JUL-2003 | 03-04-6460A | 02
04 | AL | SHELBY COUNTY* | 0101910150B | 17-JUL-2003 | 03-04-7346A | 02
04 | AL | SHELBY COUNTY* | 0101910150B | 05-AUG-2003 | 03-04-6792A | 02
04 | AL | SHELBY COUNTY* | 0101910150B | 14-AUG-2003 | 03-04-6610A | 02
04 | AL | SHELBY COUNTY* | 0101910150B | 25-AUG-2003 | 03-04-8822A | 02
04 | AL | SHELBY COUNTY* | 0101910145B | 14-OCT-2003 | 03-04-9514A | 02
04 | AL | SHELBY COUNTY* | 0101910145B | 23-OCT-2003 | 03-04-8576A | 02
04 | AL | SHELBY COUNTY* | 0101910195B | 15-DEC-2003 | 03-04-9026A | 02
04 | AL | SHELBY COUNTY* | 0101910025B | 15-DEC-2003 | 04-04-1308A | 02
04 | AL | SHELBY COUNTY* | 0101910105B | 22-DEC-2003 | 04-04-0362A | 02
04 | AL | SPRINGVILLE, TOWN OF | 010289—02A | 20-NOV-2003 | 03-04-9226A | 01
04 | AL | ST. CLAIR COUNTY * | 0102900350B | 16-OCT-2003 | 03-04-10152A | 02
04 | AL | ST. CLAIR COUNTY * | 0102900125B | 06-NOV-2003 | 03-04-9788A | 02
04 | AL | SYLACAUGA, CITY OF | 0101990010C | 17-NOV-2003 | 04-04-0786A | 02
04 | AL | TALLADEGA COUNTY * | 0102970125B | 01-JUL-2003 | 03-04-6288A | 02
04 | AL | TALLADEGA COUNTY * | 0102970125B | 03-JUL-2003 | 03-04-6548A | 02
04 | AL | TALLADEGA COUNTY * | 0102970125B | 17-JUL-2003 | 03-04-6462A | 02
04 | AL | TALLADEGA COUNTY * | 0102970075B | 17-JUL-2003 | 03-04-7724A | 02
04 | AL | TALLADEGA COUNTY * | 0102970050B | 25-AUG-2003 | 03-04-9270A | 02
04 | AL | TALLADEGA COUNTY * | 0102970200B | 26-NOV-2003 | 03-04-9886A | 02
04 | AL | TALLADEGA COUNTY * | 0102970050B | 18-DEC-2003 | 04-04-1070A | 02
04 | AL | TALLADEGA COUNTY * | 0102970225B | 24-DEC-2003 | 04-04-1352A | 02
04 | AL | TALLAPOOSA COUNTY* | 0103260125B | 20-AUG-2003 | 03-04-6504A | 02
04 | AL | TARRANT, CITY OF | 01073C0307E | 16-OCT-2003 | 03-04-10270A | 02
04 | AL | TUSCALOOSA COUNTY * | 01125C0343E | 25-AUG-2003 | 03-04-8298A | 02
04 | AL | TUSCALOOSA, CITY OF | 01125C0700E | 17-JUL-2003 | 03-04-7138A | 02
04 | AL | TUSCALOOSA, CITY OF | 01125C0509E | 10-NOV-2003 | 03-04-10822A | 01
04 | AL | TUSCALOOSA, CITY OF | 01125C0500E | 17-NOV-2003 | 04-04-0780A | 02
04 | AL | TUSCALOOSA, CITY OF | 01125C0516E | 17-NOV-2003 | 04-04-0782A | 02
04 | AL | TUSCALOOSA, CITY OF | 01125C0700E | 22-DEC-2003 | 03-04-9792A | 02
04 | AL | TUSCALOOSA, CITY OF | 01125C0508E | 24-DEC-2003 | 04-04-1310A | 02
04 | AL | TUSCALOOSA, CITY OF | 01125C0502E | 26-DEC-2003 | 03-04-431P | 05
04 | AL | TUSCALOOSA, CITY OF | 01125C0504E | 26-DEC-2003 | 03-04-431P | 05
04 | AL | TUSCALOOSA, CITY OF | 01125C0506E | 26-DEC-2003 | 03-04-431P | 05
04 | AL | TUSCALOOSA, CITY OF | 01125C0508E | 26-DEC-2003 | 03-04-431P | 05
04 | AL | TUSCUMBIA, CITY OF | 0100490002B | 29-JUL-2003 | 03-04-6214A | 02
04 | AL | WALKER COUNTY * | 0103010055B | 28-AUG-2003 | 03-04-8578A | 02
04 | AL | WALKER COUNTY * | 0103010220B | 30-OCT-2003 | 03-04-11040A | 02
04 | AL | WALKER COUNTY * | 0103010055B | 06-NOV-2003 | 04-04-0284A | 02
04 | AL | WALKER COUNTY * | 0103010055B | 17-NOV-2003 | 03-04-11042A | 02
04 | AL | WETUMPKA, CITY OF | 0100700002C | 06-OCT-2003 | 03-04-10452A | 02
04 | AL | WINSTON COUNTY * | 0103040009B | 18-SEP-2003 | 03-04-7974A | 02
04 | AL | WINSTON COUNTY * | 0103040008B | 13-NOV-2003 | 04-04-0626A | 02
04 | AL | WINSTON COUNTY * | 0103040009B | 15-DEC-2003 | 04-04-1444A | 02
04 | FL |  | 12105C0535G | 20-NOV-2003 | 04-04-0946V | 19
04 | FL | ALACHUA COUNTY* | 1200010475A | 24-JUL-2003 | 03-04-7458A | 02
04 | FL | ALACHUA COUNTY* | 1200010259A | 23-OCT-2003 | 03-04-10056A | 02
04 | FL | ALACHUA COUNTY* | 1200010275A | 23-OCT-2003 | 03-04-10056A | 02
04 | FL | ALACHUA COUNTY* | 1200010275A | 04-DEC-2003 | 04-04-1052A | 02
04 | FL | ALACHUA COUNTY* | 1200010259A | 15-DEC-2003 | 03-04-11052A | 02
04 | FL | ALACHUA COUNTY* | 1200010130B | 24-DEC-2003 | 04-04-1448A | 02
04 | FL | ALACHUA, CITY OF | 1206640025A | 01-JUL-2003 | 03-04-7084A | 02
04 | FL | ALTAMONTE SPRINGS, CITY OF | 12117C0120E | 01-JUL-2003 | 03-04-6976A | 02
04 | FL | ALTAMONTE SPRINGS, CITY OF | 12117C0140E | 03-JUL-2003 | 03-04-6934A | 02
04 | FL | ALTAMONTE SPRINGS, CITY OF | 12117C0140E | 17-JUL-2003 | 03-04-7274A | 02
04 | FL | ALTAMONTE SPRINGS, CITY OF | 12117C0140E | 17-JUL-2003 | 03-04-7640A | 02
04 | FL | ALTAMONTE SPRINGS, CITY OF | 12117C0140E | 24-JUL-2003 | 03-04-7812A | 02
04 | FL | ALTAMONTE SPRINGS, CITY OF | 12117C0140E | 05-AUG-2003 | 03-04-7160A | 02
04 | FL | ALTAMONTE SPRINGS, CITY OF | 12117C0140E | 05-AUG-2003 | 03-04-8084A | 02
04 | FL | ALTAMONTE SPRINGS, CITY OF | 12117C0140E | 14-AUG-2003 | 03-04-8516A | 02
04 | FL | ALTAMONTE SPRINGS, CITY OF | 12117C0140E | 08-SEP-2003 | 03-04-9286A | 02
04 | FL | ALTAMONTE SPRINGS, CITY OF | 12117C0140E | 09-OCT-2003 | 03-04-10336A | 02
04 | FL | ALTAMONTE SPRINGS, CITY OF | 12117C0120E | 10-NOV-2003 | 04-04-0376A | 02
04 | FL | ALTAMONTE SPRINGS, CITY OF | 12117C0140E | 24-NOV-2003 | 04-04-0796A | 02
04 | FL | ALTAMONTE SPRINGS, CITY OF | 12117C0140E | 04-DEC-2003 | 04-04-0894A | 02
04 | FL | ALTAMONTE SPRINGS, CITY OF | 12117C0140E | 04-DEC-2003 | 04-04-0994A | 02
04 | FL | APOPKA, CITY OF | 12095C0120E | 01-JUL-2003 | 03-04-5582A | 02
04 | FL | APOPKA, CITY OF | 12095C0120E | 31-JUL-2003 | 03-04-7166A | 02
04 | FL | APOPKA, CITY OF | 12095C0140E | 16-OCT-2003 | 03-04-10552A | 02
04 | FL | APOPKA, CITY OF | 12095C0110E | 10-NOV-2003 | 04-04-0262A | 02
04 | FL | APOPKA, CITY OF | 12095C0140E | 04-DEC-2003 | 04-04-1002A | 02
04 | FL | APOPKA, CITY OF | 12095C0140E | 24-DEC-2003 | 04-04-0164A | 02
04 | FL | ASTATULA, TOWN OF | 12069C0480D | 15-DEC-2003 | 03-04-10464A | 01
04 | FL | AUBURNDALE, CITY OF | 12105C0335F | 08-SEP-2003 | 03-04-9298A | 02
04 | FL | BAKER COUNTY * | 1204190225B | 08-SEP-2003 | 03-04-8182A | 02
04 | FL | BARTOW, CITY OF | 12105C0515F | 18-JUL-2003 | 03-04-7402A | 02
04 | FL | BARTOW, CITY OF | 12105C0515F | 29-SEP-2003 | 03-04-9954A | 02
04 | FL | BAY COUNTY* | 12005C0240G | 01-JUL-2003 | 03-04-7894A | 02
04 | FL | BAY COUNTY* | 12005C0240G | 17-JUL-2003 | 03-04-5126A | 02
04 | FL | BAY COUNTY* | 12005C0163G | 07-AUG-2003 | 03-04-8186A | 02
04 | FL | BAY COUNTY* | 12005C0163G | 25-AUG-2003 | 03-04-8924A | 02
04 | FL | BAY COUNTY* | 12005C0338G | 25-AUG-2003 | 03-04-9302A | 02
04 | FL | BAY COUNTY* | 12005C0338G | 15-SEP-2003 | 03-04-9552A | 02
04 | FL | BAY COUNTY* | 12005C0240G | 18-SEP-2003 | 03-04-7994A | 02
04 | FL | BAY COUNTY* | 12005C0310G | 02-OCT-2003 | 03-04-9584A | 02
04 | FL | BAY COUNTY* | 12005C0335G | 23-OCT-2003 | 03-04-8876A | 02
04 | FL | BAY COUNTY* | 12005C0338G | 06-NOV-2003 | 03-04-10836A | 02
04 | FL | BOCA RATON, CITY OF | 1201950007C | 21-AUG-2003 | 03-04-5908A | 02
04 | FL | BOCA RATON, CITY OF | 1201950004C | 12-SEP-2003 | 03-04-7996A | 02
04 | FL | BOYNTON BEACH, CITY OF | 1201960003C | 27-OCT-2003 | 03-04-8216A | 02
04 | FL | BOYNTON BEACH, CITY OF | 1201960003C | 24-DEC-2003 | 04-04-1148A | 02
04 | FL | BREVARD COUNTY * | 12009C0541F | 01-JUL-2003 | 03-04-6802A | 02
04 | FL | BREVARD COUNTY * | 12009C0350E | 01-JUL-2003 | 03-04-6836A | 02
04 | FL | BREVARD COUNTY * | 12009C0260E | 01-JUL-2003 | 03-04-6912A | 02
04 | FL | BREVARD COUNTY * | 12009C0190F | 01-JUL-2003 | 03-04-6916A | 02
04 | FL | BREVARD COUNTY * | 12009C0430E | 01-JUL-2003 | 03-04-7026A | 02
04 | FL | BREVARD COUNTY * | 12009C0190F | 08-JUL-2003 | 03-04-6724A | 02
04 | FL | BREVARD COUNTY * | 12009C0710E | 08-JUL-2003 | 03-04-6834A | 02
04 | FL | BREVARD COUNTY * | 12009C0430E | 08-JUL-2003 | 03-04-7152A | 02
04 | FL | BREVARD COUNTY * | 12009C0440E | 08-JUL-2003 | 03-04-7162A | 02
04 | FL | BREVARD COUNTY * | 12009C0270E | 08-JUL-2003 | 03-04-7164A | 02
04 | FL | BREVARD COUNTY * | 12009C0365E | 08-JUL-2003 | 03-04-7168A | 01
04 | FL | BREVARD COUNTY * | 12009C0430E | 24-JUL-2003 | 03-04-7578A | 01
04 | FL | BREVARD COUNTY * | 12009C0350E | 24-JUL-2003 | 03-04-7628A | 02
04 | FL | BREVARD COUNTY * | 12009C0435E | 29-JUL-2003 | 03-04-7228A | 02
04 | FL | BREVARD COUNTY * | 12009C0190F | 29-JUL-2003 | 03-04-7582A | 01
04 | FL | BREVARD COUNTY * | 12009C0620E | 29-JUL-2003 | 03-04-7652A | 02
04 | FL | BREVARD COUNTY * | 12009C0440E | 31-JUL-2003 | 03-04-7270A | 01
04 | FL | BREVARD COUNTY * | 12009C0270E | 31-JUL-2003 | 03-04-7722A | 02
04 | FL | BREVARD COUNTY * | 12009C0365E | 31-JUL-2003 | 03-04-7824A | 02
04 | FL | BREVARD COUNTY * | 12009C0439E | 31-JUL-2003 | 03-04-7854A | 02
04 | FL | BREVARD COUNTY * | 12009C0275E | 31-JUL-2003 | 03-04-7856A | 02
04 | FL | BREVARD COUNTY * | 12009C0190F | 07-AUG-2003 | 03-04-7980A | 02
04 | FL | BREVARD COUNTY * | 12009C0430E | 21-AUG-2003 | 03-04-7822A | 02
04 | FL | BREVARD COUNTY * | 12009C0441F | 21-AUG-2003 | 03-04-8332A | 02
04 | FL | BREVARD COUNTY * | 12009C0607F | 21-AUG-2003 | 03-04-8682A | 02
04 | FL | BREVARD COUNTY * | 12009C0270E | 28-AUG-2003 | 03-04-8810A | 02
04 | FL | BREVARD COUNTY * | 12009C0360E | 02-SEP-2003 | 03-04-8866A | 02
04 | FL | BREVARD COUNTY * | 12009C0365E | 04-SEP-2003 | 03-04-7576A | 02
04 | FL | BREVARD COUNTY * | 12009C0443E | 04-SEP-2003 | 03-04-8148A | 02
04 | FL | BREVARD COUNTY * | 12009C0430E | 10-SEP-2003 | 03-04-8330A | 01
04 | FL | BREVARD COUNTY * | 12009C0360E | 15-SEP-2003 | 03-04-8824A | 02
04 | FL | BREVARD COUNTY * | 12009C0275E | 18-SEP-2003 | 03-04-8968A | 02
04 | FL | BREVARD COUNTY * | 12009C0290E | 18-SEP-2003 | 03-04-9278A | 02
04 | FL | BREVARD COUNTY * | 12009C0430E | 29-SEP-2003 | 03-04-9048A | 02
04 | FL | BREVARD COUNTY * | 12009C0435E | 02-OCT-2003 | 03-04-9528A | 02
04 | FL | BREVARD COUNTY * | 12009C0435E | 06-OCT-2003 | 03-04-10102A | 02
04 | FL | BREVARD COUNTY * | 12009C0430E | 16-OCT-2003 | 03-04-10160A | 02
04 | FL | BREVARD COUNTY * | 12009C0435E | 16-OCT-2003 | 03-04-10494A | 02
04 | FL | BREVARD COUNTY * | 12009C0615E | 16-OCT-2003 | 03-04-9466A | 02
04 | FL | BREVARD COUNTY * | 12009C0270E | 16-OCT-2003 | 03-04-9580A | 02
04 | FL | BREVARD COUNTY * | 12009C0610F | 16-OCT-2003 | 03-04-9626A | 02
04 | FL | BREVARD COUNTY * | 12009C0617E | 20-OCT-2003 | 03-04-9322A | 02
04 | FL | BREVARD COUNTY * | 12009C0430E | 27-OCT-2003 | 03-04-10646A | 02
04 | FL | BREVARD COUNTY * | 12009C0435E | 27-OCT-2003 | 03-04-10688A | 02
04 | FL | BREVARD COUNTY * | 12009C0430E | 06-NOV-2003 | 03-04-10850A | 01
04 | FL | BREVARD COUNTY * | 12009C0270E | 13-NOV-2003 | 03-04-10198A | 02
04 | FL | BREVARD COUNTY * | 12009C0430E | 13-NOV-2003 | 04-04-0532A | 02
04 | FL | BREVARD COUNTY * | 12009C0441F | 20-NOV-2003 | 03-04-10334A | 02
04 | FL | BREVARD COUNTY * | 12009C0355E | 20-NOV-2003 | 04-04-0460A | 02
04 | FL | BREVARD COUNTY * | 12009C0440E | 04-DEC-2003 | 04-04-0880A | 02
04 | FL | BREVARD COUNTY * | 12009C0360E | 04-DEC-2003 | 04-04-0882A | 02
04 | FL | BREVARD COUNTY * | 12009C0435E | 04-DEC-2003 | 04-04-1006A | 02
04 | FL | BREVARD COUNTY * | 12009C0025E | 04-DEC-2003 | 04-04-1098A | 02
04 | FL | BREVARD COUNTY * | 12009C0260E | 15-DEC-2003 | 03-04-10404A | 01
04 | FL | BREVARD COUNTY * | 12009C0190F | 15-DEC-2003 | 04-04-1152A | 02
04 | FL | BREVARD COUNTY * | 12009C0275E | 22-DEC-2003 | 04-04-1338A | 02
04 | FL | BROWARD COUNTY* | 12011C0318F | 14-AUG-2003 | 03-04-8050A | 02
04 | FL | BROWARD COUNTY* | 12011C0190F | 21-AUG-2003 | 03-04-8614A | 02
04 | FL | BROWARD COUNTY* | 12011C0195F | 28-AUG-2003 | 03-04-8904A | 02
04 | FL | BROWARD COUNTY* | 12011C0215F | 29-SEP-2003 | 03-04-5376A | 02
04 | FL | BROWARD COUNTY* | 12011C0195F | 16-OCT-2003 | 03-04-10518A | 02
04 | FL | BROWARD COUNTY* | 12011C0190F | 20-NOV-2003 | 03-04-10718A | 02
04 | FL | BROWARD COUNTY* | 12011C0218F | 04-DEC-2003 | 04-04-0126A | 02
04 | FL | CALLAWAY, CITY OF | 12005C0366G | 06-OCT-2003 | 03-04-9536A | 02
04 | FL | CAPE CORAL, CITY OF | 1250950030C | 03-JUL-2003 | 03-04-6968A | 01
04 | FL | CAPE CORAL, CITY OF | 1250950020C | 03-JUL-2003 | 03-04-7044A | 01
04 | FL | CAPE CORAL, CITY OF | 1250950030C | 03-JUL-2003 | 03-04-7044A | 01
04 | FL | CAPE CORAL, CITY OF | 1250950025C | 18-JUL-2003 | 03-04-7030A | 01
04 | FL | CAPE CORAL, CITY OF | 1250950020C | 18-JUL-2003 | 03-04-7266A | 01
04 | FL | CAPE CORAL, CITY OF | 1250950030C | 18-JUL-2003 | 03-04-7266A | 01
04 | FL | CAPE CORAL, CITY OF | 1250950020C | 18-JUL-2003 | 03-04-7404A | 01
04 | FL | CAPE CORAL, CITY OF | 1250950030C | 18-JUL-2003 | 03-04-7404A | 01
04 | FL | CAPE CORAL, CITY OF | 1250950030C | 18-JUL-2003 | 03-04-7764A | 01
04 | FL | CAPE CORAL, CITY OF | 1250950030C | 18-JUL-2003 | 03-04-7842A | 01
04 | FL | CAPE CORAL, CITY OF | 1250950035C | 18-JUL-2003 | 03-04-7970A | 01
04 | FL | CAPE CORAL, CITY OF | 1250950020C | 24-JUL-2003 | 03-04-7972A | 01
04 | FL | CAPE CORAL, CITY OF | 1250950030C | 24-JUL-2003 | 03-04-8036A | 01
04 | FL | CAPE CORAL, CITY OF | 1250950020C | 07-AUG-2003 | 03-04-8096A | 01
04 | FL | CAPE CORAL, CITY OF | 1250950030C | 14-AUG-2003 | 03-04-8120A | 01
04 | FL | CAPE CORAL, CITY OF | 1250950020C | 12-SEP-2003 | 03-04-9084A | 01
04 | FL | CAPE CORAL, CITY OF | 1250950030C | 12-SEP-2003 | 03-04-9086A | 01
04 | FL | CAPE CORAL, CITY OF | 1250950020C | 12-SEP-2003 | 03-04-9088A | 01
04 | FL | CAPE CORAL, CITY OF | 1250950030C | 12-SEP-2003 | 03-04-9088A | 01
04 | FL | CAPE CORAL, CITY OF | 1250950030C | 12-SEP-2003 | 03-04-9090A | 01
04 | FL | CAPE CORAL, CITY OF | 1250950030C | 12-SEP-2003 | 03-04-9310A | 01
04 | FL | CAPE CORAL, CITY OF | 1250950020C | 12-SEP-2003 | 03-04-9396A | 01
04 | FL | CAPE CORAL, CITY OF | 1250950030C | 12-SEP-2003 | 03-04-9396A | 01
04 | FL | CAPE CORAL, CITY OF | 1250950030C | 02-OCT-2003 | 03-04-10138A | 01
04 | FL | CAPE CORAL, CITY OF | 1250950030C | 02-OCT-2003 | 03-04-9958A | 01
04 | FL | CAPE CORAL, CITY OF | 1250950020C | 16-OCT-2003 | 03-04-10072A | 01
04 | FL | CAPE CORAL, CITY OF | 1250950030C | 16-OCT-2003 | 03-04-10212A | 01
04 | FL | CAPE CORAL, CITY OF | 1250950020C | 20-OCT-2003 | 03-04-10210A | 01
04 | FL | CAPE CORAL, CITY OF | 1250950020C | 23-OCT-2003 | 03-04-10442A | 01
04 | FL | CAPE CORAL, CITY OF | 1250950030C | 23-OCT-2003 | 03-04-10442A | 01
04 | FL | CAPE CORAL, CITY OF | 1250950030C | 06-NOV-2003 | 03-04-10716A | 01
04 | FL | CAPE CORAL, CITY OF | 1250950030C | 13-NOV-2003 | 03-04-10842A | 01
04 | FL | CAPE CORAL, CITY OF | 1250950020C | 13-NOV-2003 | 03-04-10844A | 01
04 | FL | CAPE CORAL, CITY OF | 1250950030C | 13-NOV-2003 | 03-04-11118A | 01
04 | FL | CAPE CORAL, CITY OF | 1250950030C | 04-DEC-2003 | 04-04-0060A | 01
04 | FL | CAPE CORAL, CITY OF | 1250950020C | 22-DEC-2003 | 04-04-0642A | 01
04 | FL | CAPE CORAL, CITY OF | 1250950030C | 22-DEC-2003 | 04-04-0644A | 01
04 | FL | CAPE CORAL, CITY OF | 1250950035C | 22-DEC-2003 | 04-04-0644A | 01
04 | FL | CASSELBERRY, CITY OF | 12117C0140E | 14-AUG-2003 | 03-04-8460A | 02
04 | FL | CASSELBERRY, CITY OF | 12117C0140E | 14-AUG-2003 | 03-04-8508A | 02
04 | FL | CASSELBERRY, CITY OF | 12117C0210E | 02-OCT-2003 | 03-04-9290A | 02
04 | FL | CASSELBERRY, CITY OF | 12117C0140E | 15-DEC-2003 | 04-04-0292A | 02
04 | FL | CHARLOTTE COUNTY * | 12015C0207F | 24-JUL-2003 | 03-04-6954A | 02
04 | FL | CHARLOTTE COUNTY * | 12015C0194F | 11-AUG-2003 | 03-04-8376A | 02
04 | FL | CHARLOTTE COUNTY * | 12015C0213F | 11-AUG-2003 | 03-04-8376A | 02
04 | FL | CHARLOTTE COUNTY * | 12015C0070F | 28-AUG-2003 | 03-04-8746A | 02
04 | FL | CHARLOTTE COUNTY * | 12015C0068F | 23-OCT-2003 | 03-04-9042A | 02
04 | FL | CHARLOTTE COUNTY * | 12015C0020F | 10-NOV-2003 | 03-04-443P | 05
04 | FL | CHARLOTTE COUNTY * | 12015C0182F | 10-NOV-2003 | 03-04-443P | 05
04 | FL | CHARLOTTE COUNTY * | 12015C0184F | 10-NOV-2003 | 03-04-443P | 05
04 | FL | CHARLOTTE COUNTY * | 12015C0040F | 13-NOV-2003 | 03-04-10200A | 01
04 | FL | CHARLOTTE COUNTY * | 12015C0040F | 13-NOV-2003 | 03-04-11102A | 02
04 | FL | CHARLOTTE COUNTY * | 12015C0064F | 24-DEC-2003 | 04-04-0536A | 02
04 | FL | CITRUS COUNTY * | 1200630205C | 08-JUL-2003 | 03-04-7158A | 02
04 | FL | CITRUS COUNTY * | 1200630120B | 18-JUL-2003 | 03-04-7730A | 02
04 | FL | CITRUS COUNTY * | 1200630205C | 24-JUL-2003 | 03-04-7492A | 02
04 | FL | CITRUS COUNTY * | 1200630260B | 20-AUG-2003 | 03-04-9144A | 02
04 | FL | CITRUS COUNTY * | 1200630260B | 28-AUG-2003 | 03-04-9142A | 02
04 | FL | CITRUS COUNTY * | 1200630220B | 18-SEP-2003 | 03-04-8608A | 02
04 | FL | CITRUS COUNTY * | 1200630120B | 16-OCT-2003 | 03-04-10544A | 02
04 | FL | CITRUS COUNTY * | 1200630300B | 23-OCT-2003 | 03-04-10462A | 02
04 | FL | CITRUS COUNTY * | 1200630205C | 30-OCT-2003 | 03-04-10736A | 02
04 | FL | CITRUS COUNTY * | 1200630115B | 24-NOV-2003 | 04-04-0166A | 02
04 | FL | CITRUS COUNTY * | 1200630260B | 04-DEC-2003 | 04-04-0706A | 02
04 | FL | CLAY COUNTY * | 1200640350D | 01-JUL-2003 | 03-04-6840A | 02
04 | FL | CLAY COUNTY * | 1200640155D | 03-JUL-2003 | 03-04-5210A | 01
04 | FL | CLAY COUNTY * | 1200640155D | 03-JUL-2003 | 03-04-5914A | 01
04 | FL | CLAY COUNTY * | 1200640165D | 03-JUL-2003 | 03-04-5914A | 01
04 | FL | CLAY COUNTY * | 1200640065D | 24-JUL-2003 | 03-04-5248A | 01
04 | FL | CLAY COUNTY * | 1200640155D | 29-JUL-2003 | 03-04-6814A | 01
04 | FL | CLAY COUNTY * | 1200640325D | 07-AUG-2003 | 03-04-7610A | 02
04 | FL | CLAY COUNTY * | 1200640135D | 11-AUG-2003 | 03-04-8324A | 02
04 | FL | CLAY COUNTY * | 1200640155D | 14-AUG-2003 | 03-04-8192A | 02
04 | FL | CLAY COUNTY * | 1200640165D | 06-OCT-2003 | 03-04-283A | 02
04 | FL | CLAY COUNTY * | 1200640065D | 09-OCT-2003 | 03-04-0012A | 01
04 | FL | CLAY COUNTY * | 1200640155D | 09-OCT-2003 | 03-04-9154A | 01
04 | FL | CLAY COUNTY * | 1200640155D | 15-DEC-2003 | 03-04-8094A | 01
04 | FL | CLAY COUNTY * | 1200640350D | 15-DEC-2003 | 04-04-1188A | 02
04 | FL | CLEARWATER, CITY OF | 1250960010D | 17-JUL-2003 | 03-04-6712A | 02
04 | FL | CLEARWATER, CITY OF | 12103C0069G | 04-SEP-2003 | 03-04-9346V | 19
04 | FL | CLEARWATER, CITY OF | 12103C0106G | 04-SEP-2003 | 03-04-9346V | 19
04 | FL | CLEARWATER, CITY OF | 12103C0107G | 04-SEP-2003 | 03-04-9346V | 19
04 | FL | CLEARWATER, CITY OF | 12103C0108G | 04-SEP-2003 | 03-04-9346V | 19
04 | FL | CLEARWATER, CITY OF | 12103C0109G | 04-SEP-2003 | 03-04-9346V | 19
04 | FL | CLEARWATER, CITY OF | 12103C0126G | 04-SEP-2003 | 03-04-9346V | 19
04 | FL | CLEARWATER, CITY OF | 12103C0128G | 04-SEP-2003 | 03-04-9346V | 19
04 | FL | CLEARWATER, CITY OF | 12103C0127G | 18-SEP-2003 | 03-04-9810A | 02
04 | FL | CLEARWATER, CITY OF | 12103C0126G | 30-OCT-2003 | 03-04-11064A | 02
04 | FL | CLEARWATER, CITY OF | 12103C0126G | 04-DEC-2003 | 03-04-10992A | 02
04 | FL | CLERMONT, CITY OF | 12069C0565D | 01-JUL-2003 | 03-04-6904A | 02
04 | FL | CLERMONT, CITY OF | 12069C0565D | 25-AUG-2003 | 03-04-9092A | 02
04 | FL | CLERMONT, CITY OF | 12069C0565D | 30-OCT-2003 | 03-04-10878A | 02
04 | FL | COCOA, CITY OF | 12009C0270E | 12-SEP-2003 | 03-04-8966A | 02
04 | FL | COCONUT CREEK, CITY OF | 12011C0105F | 07-AUG-2003 | 03-04-6812A | 01
04 | FL | COLLIER COUNTY * | 1200670215D | 05-AUG-2003 | 03-04-8462A | 02
04 | FL | COLLIER COUNTY * | 1200670391D | 25-SEP-2003 | 03-04-6838A | 02
04 | FL | COLLIER COUNTY * | 1200670605E | 29-SEP-2003 | 03-04-9462A | 02
04 | FL | COLUMBIA COUNTY* | 1200700175B | 15-DEC-2003 | 03-04-9962A | 02
04 | FL | CORAL SPRINGS, CITY OF | 12011C0115F | 18-JUL-2003 | 03-04-7762A | 02
04 | FL | CORAL SPRINGS, CITY OF | 12011C0115F | 29-JUL-2003 | 03-04-7382A | 01
04 | FL | CORAL SPRINGS, CITY OF | 12011C0095F | 28-AUG-2003 | 03-04-8082A | 01
04 | FL | CORAL SPRINGS, CITY OF | 12011C0115F | 04-SEP-2003 | 03-04-7756A | 02
04 | FL | CORAL SPRINGS, CITY OF | 12011C0115F | 02-OCT-2003 | 03-04-9710A | 02
04 | FL | CORAL SPRINGS, CITY OF | 12011C0095F | 06-NOV-2003 | 03-04-10594A | 02
04 | FL | CORAL SPRINGS, CITY OF | 12011C0095F | 13-NOV-2003 | 03-04-10854A | 02
04 | FL | CORAL SPRINGS, CITY OF | 12011C0115F | 13-NOV-2003 | 03-04-10886A | 02
04 | FL | CORAL SPRINGS, CITY OF | 12011C0095F | 13-NOV-2003 | 03-04-11056A | 02
04 | FL | CORAL SPRINGS, CITY OF | 12011C0115F | 17-NOV-2003 | 04-04-0740A | 02
04 | FL | CORAL SPRINGS, CITY OF | 12011C0115F | 04-DEC-2003 | 04-04-0116A | 02
04 | FL | CORAL SPRINGS, CITY OF | 12011C0115F | 04-DEC-2003 | 04-04-0270A | 02
04 | FL | DAVIE, CITY OF | 12011C0304F | 18-JUL-2003 | 03-04-7592A | 02
04 | FL | DAVIE, CITY OF | 12011C0195F | 29-JUL-2003 | 03-04-7236A | 01
04 | FL | DAVIE, CITY OF | 12011C0304F | 28-AUG-2003 | 03-04-8322A | 02
04 | FL | DAVIE, CITY OF | 12011C0305F | 18-DEC-2003 | 04-04-0980A | 02
04 | FL | DAYTONA BEACH, CITY OF | 12127C0356G | 08-JUL-2003 | 03-04-355P | 05
04 | FL | DAYTONA BEACH, CITY OF | 12127C0352G | 31-JUL-2003 | 03-04-7834A | 02
04 | FL | DAYTONA BEACH, CITY OF | 12127C0354G | 14-AUG-2003 | 03-04-7426A | 02
04 | FL | DAYTONA BEACH, CITY OF | 12127C0366G | 20-OCT-2003 | 03-04-10318A | 02
04 | FL | DEBARY, CITY OF | 12127C0620G | 14-AUG-2003 | 03-04-5910A | 02
04 | FL | DEBARY, CITY OF | 12127C0620G | 18-SEP-2003 | 03-04-9146A | 02
04 | FL | DEBARY, CITY OF | 12127C0735G | 02-OCT-2003 | 03-04-9588A | 02
04 | FL | DEERFIELD BEACH, CITY OF | 12011C0108F | 01-JUL-2003 | 03-04-6952A | 02
04 | FL | DEERFIELD BEACH, CITY OF | 12011C0108F | 01-JUL-2003 | 03-04-7064A | 02
04 | FL | DEERFIELD BEACH, CITY OF | 12011C0108F | 01-JUL-2003 | 03-04-7186A | 02
04 | FL | DEERFIELD BEACH, CITY OF | 12011C0108F | 01-JUL-2003 | 03-04-7268A | 02
04 | FL | DEERFIELD BEACH, CITY OF | 12011C0108F | 18-JUL-2003 | 03-04-7380A | 01
04 | FL | DEERFIELD BEACH, CITY OF | 12011C0120F | 25-AUG-2003 | 03-04-8766A | 02
04 | FL | DEERFIELD BEACH, CITY OF | 12011C0120F | 18-SEP-2003 | 03-04-9030A | 02
04 | FL | DEERFIELD BEACH, CITY OF | 12011C0108F | 10-NOV-2003 | 03-04-7038A | 02
04 | FL | DEERFIELD BEACH, CITY OF | 12011C0120F | 24-DEC-2003 | 04-04-0638A | 02
04 | FL | DELTONA, CITY OF | 12127C0650G | 01-JUL-2003 | 03-04-5434A | 02
04 | FL | DELTONA, CITY OF | 12127C0650G | 01-JUL-2003 | 03-04-6978A | 02
04 | FL | DELTONA, CITY OF | 12127C0650G | 28-AUG-2003 | 03-04-6228A | 02
04 | FL | DELTONA, CITY OF | 12127C0650G | 09-OCT-2003 | 03-04-10298A | 02
04 | FL | DELTONA, CITY OF | 12127C0650G | 06-NOV-2003 | 03-04-10862A | 02
04 | FL | DESTIN, CITY OF | 12091C0494H | 03-NOV-2003 | 04-04-0374A | 02
04 | FL | DUNEDIN, CITY OF | 12103C0069G | 04-SEP-2003 | 03-04-9332V | 19
04 | FL | DUNEDIN, CITY OF | 12103C0067G | 06-NOV-2003 | 03-04-9362A | 02
04 | FL | EAGLE LAKE, CITY OF | 12105C0510F | 03-NOV-2003 | 04-04-0370A | 02
04 | FL | EDGEWOOD, CITY OF | 12095C0410E | 06-OCT-2003 | 03-04-8432A | 02
04 | FL | ESCAMBIA COUNTY* | 12033C0526F | 01-JUL-2003 | 03-04-6910A | 02
04 | FL | ESCAMBIA COUNTY* | 12033C0360F | 14-AUG-2003 | 03-04-7986A | 02
04 | FL | ESCAMBIA COUNTY* | 12033C0526F | 16-OCT-2003 | 03-04-10046A | 02
04 | FL | ESCAMBIA COUNTY* | 12033C0365F | 15-DEC-2003 | 04-04-1198A | 02
04 | FL | EUSTIS, CITY OF | 12069C0358D | 06-OCT-2003 | 03-04-9808A | 02
04 | FL | EUSTIS, CITY OF | 12069C0356D | 06-NOV-2003 | 04-04-0322A | 02
04 | FL | FLAGLER COUNTY* | 1200850035C | 17-NOV-2003 | 03-04-10586A | 02
04 | FL | FORT LAUDERDALE, CITY OF | 12011C0217F | 04-DEC-2003 | 04-04-0124A | 02
04 | FL | FORT LAUDERDALE, CITY OF | 12011C0204F | 24-DEC-2003 | 04-04-0900A | 02
04 | FL | GAINESVILLE, CITY OF | 1251070005C | 24-JUL-2003 | 03-04-7584A | 02
04 | FL | GAINESVILLE, CITY OF | 1251070012B | 02-OCT-2003 | 03-04-9366A | 02
04 | FL | GILCHRIST COUNTY * | 12041C0020C | 15-SEP-2003 | 03-04-8870A | 02
04 | FL | GROVELAND, CITY OF | 12069C0540D | 23-OCT-2003 | 03-04-8514A | 01
04 | FL | GULF BREEZE, CITY OF | 1202750011F | 01-DEC-2003 | 03-04-5782A | 02
04 | FL | GULF COUNTY * | 12045C0409E | 17-JUL-2003 | 03-04-6650A | 02
04 | FL | GULF COUNTY * | 12045C0409E | 17-JUL-2003 | 03-04-7668A | 02
04 | FL | GULF COUNTY * | 12045C0428E | 17-JUL-2003 | 03-04-7668A | 02
04 | FL | GULF COUNTY * | 12045C0407E | 14-AUG-2003 | 03-04-7424A | 02
04 | FL | GULF COUNTY * | 12045C0407E | 15-SEP-2003 | 03-04-7488A | 02
04 | FL | GULF COUNTY * | 12045C0407E | 03-NOV-2003 | 03-04-9300A | 02
04 | FL | GULF COUNTY * | 12045C0407E | 03-NOV-2003 | 03-04-9834A | 02
04 | FL | GULFPORT, CITY OF | 12103C0277G | 09-OCT-2003 | 03-04-10044A | 02
04 | FL | HENDRY COUNTY * | 1201070075B | 15-DEC-2003 | 04-04-0388A | 02
04 | FL | HERNANDO COUNTY * | 1201100140B | 07-AUG-2003 | 03-04-7496A | 02
04 | FL | HERNANDO COUNTY * | 1201100280B | 06-NOV-2003 | 03-04-8860A | 02
04 | FL | HERNANDO COUNTY * | 1201100280B | 10-NOV-2003 | 04-04-0464A | 02
04 | FL | HERNANDO COUNTY * | 1201100225B | 15-DEC-2003 | 03-04-10556A | 02
04 | FL | HIALEAH, CITY OF | 12025C0180J | 01-JUL-2003 | 03-04-7142A | 01
04 | FL | HIALEAH, CITY OF | 12025C0075J | 01-JUL-2003 | 03-04-7144A | 01
04 | FL | HIALEAH, CITY OF | 12025C0075J | 24-JUL-2003 | 03-04-6944A | 02
04 | FL | HIALEAH, CITY OF | 12025C0180J | 14-AUG-2003 | 03-04-8116A | 01
04 | FL | HIGHLANDS COUNTY * | 1201110175B | 16-OCT-2003 | 03-04-9822A | 02
04 | FL | HIGHLANDS COUNTY * | 1201110075B | 15-DEC-2003 | 03-04-11076A | 02
04 | FL | HILLSBOROUGH COUNTY* | 1201120185F | 01-JUL-2003 | 03-04-6914A | 02
04 | FL | HILLSBOROUGH COUNTY* | 1201120167C | 03-JUL-2003 | 03-04-6524A | 01
04 | FL | HILLSBOROUGH COUNTY* | 1201120169C | 03-JUL-2003 | 03-04-6524A | 01
04 | FL | HILLSBOROUGH COUNTY* | 1201120386E | 08-JUL-2003 | 03-04-5306A | 02
04 | FL | HILLSBOROUGH COUNTY* | 1201120387E | 08-JUL-2003 | 03-04-5306A | 02
04 | FL | HILLSBOROUGH COUNTY* | 1201120385E | 08-JUL-2003 | 03-04-6816A | 02
04 | FL | HILLSBOROUGH COUNTY* | 1201120205D | 17-JUL-2003 | 03-04-7178A | 02
04 | FL | HILLSBOROUGH COUNTY* | 1201120387E | 17-JUL-2003 | 03-04-7182A | 02
04 | FL | HILLSBOROUGH COUNTY* | 1201120180F | 17-JUL-2003 | 03-04-8068A | 02
04 | FL | HILLSBOROUGH COUNTY* | 1201120520C | 29-JUL-2003 | 03-04-8522A | 01
04 | FL | HILLSBOROUGH COUNTY* | 1201120185F | 07-AUG-2003 | 03-04-7982A | 02
04 | FL | HILLSBOROUGH COUNTY* | 1201120515B | 11-AUG-2003 | 03-04-8194A | 02
04 | FL | HILLSBOROUGH COUNTY* | 1201120415C | 25-AUG-2003 | 03-04-8390A | 01
04 | FL | HILLSBOROUGH COUNTY* | 1201120065D | 28-AUG-2003 | 03-04-7820A | 02
04 | FL | HILLSBOROUGH COUNTY* | 1201120185F | 18-SEP-2003 | 03-04-8110A | 01
04 | FL | HILLSBOROUGH COUNTY* | 1201120205D | 25-SEP-2003 | 03-04-9398A | 02
04 | FL | HILLSBOROUGH COUNTY* | 1201120656C | 29-SEP-2003 | 03-04-9228A | 02
04 | FL | HILLSBOROUGH COUNTY* | 1201120040D | 02-OCT-2003 | 03-04-9582A | 02
04 | FL | HILLSBOROUGH COUNTY* | 1201120090E | 06-OCT-2003 | 03-04-10100A | 02
04 | FL | HILLSBOROUGH COUNTY* | 1201120195D | 09-OCT-2003 | 03-04-10158A | 01
04 | FL | HILLSBOROUGH COUNTY* | 1201120065D | 16-OCT-2003 | 03-04-10214A | 01
04 | FL | HILLSBOROUGH COUNTY* | 1201120185F | 16-OCT-2003 | 03-04-8868A | 02
04 | FL | HILLSBOROUGH COUNTY* | 1201120210E | 03-NOV-2003 | 03-04-10554A | 02
04 | FL | HILLSBOROUGH COUNTY* | 1201120205D | 06-NOV-2003 | 03-04-10300A | 01
04 | FL | HILLSBOROUGH COUNTY* | 1201120210E | 06-NOV-2003 | 03-04-10644A | 02
04 | FL | HILLSBOROUGH COUNTY* | 1201120065D | 13-NOV-2003 | 04-04-0730A | 01
04 | FL | HILLSBOROUGH COUNTY* | 1201120190D | 24-NOV-2003 | 04-04-0296A | 01
04 | FL | HILLSBOROUGH COUNTY* | 1201120389D | 24-NOV-2003 | 04-04-0790A | 02
04 | FL | HILLSBOROUGH COUNTY* | 1201120511C | 08-DEC-2003 | 04-04-0810A | 01
04 | FL | HILLSBOROUGH COUNTY* | 1201120045D | 15-DEC-2003 | 03-04-10652A | 01
04 | FL | HILLSBOROUGH COUNTY* | 1201120368C | 18-DEC-2003 | 03-04-337P | 05
04 | FL | HOLLY HILL, CITY OF | 12127C0218H | 08-JUL-2003 | 03-04-355P | 05
04 | FL | HOLLY HILL, CITY OF | 12127C0356G | 08-JUL-2003 | 03-04-355P | 05
04 | FL | HOLLYWOOD, CITY OF | 12011C0309F | 01-JUL-2003 | 03-04-6946A | 02
04 | FL | HOLLYWOOD, CITY OF | 12011C0309F | 17-JUL-2003 | 03-04-6850A | 02
04 | FL | HOLLYWOOD, CITY OF | 12011C0309F | 17-JUL-2003 | 03-04-7376A | 02
04 | FL | HOLLYWOOD, CITY OF | 12011C0309F | 07-AUG-2003 | 03-04-6948A | 02
04 | FL | HOLLYWOOD, CITY OF | 12011C0309F | 07-AUG-2003 | 03-04-7436A | 02
04 | FL | HOLLYWOOD, CITY OF | 12011C0316A | 14-AUG-2003 | 03-04-8612A | 02
04 | FL | HOLLYWOOD, CITY OF | 12011C0309F | 21-AUG-2003 | 03-04-7210A | 02
04 | FL | HOLLYWOOD, CITY OF | 12011C0308F | 21-AUG-2003 | 03-04-8878A | 02
04 | FL | HOLLYWOOD, CITY OF | 12011C0309F | 25-AUG-2003 | 03-04-7032A | 02
04 | FL | HOLLYWOOD, CITY OF | 12011C0309F | 28-AUG-2003 | 03-04-7066A | 02
04 | FL | HOLLYWOOD, CITY OF | 12011C0309F | 15-SEP-2003 | 03-04-7760A | 02
04 | FL | HOLMES COUNTY * | 12059C0075C | 22-DEC-2003 | 03-04-10904A | 02
04 | FL | HOMESTEAD, CITY OF | 12025C0365J | 08-JUL-2003 | 03-04-6518A | 01
04 | FL | HOMESTEAD, CITY OF | 12025C0365J | 17-JUL-2003 | 03-04-7276A | 01
04 | FL | HOMESTEAD, CITY OF | 12025C0365J | 21-AUG-2003 | 03-04-8750A | 01
04 | FL | HOMESTEAD, CITY OF | 12025C0365J | 16-OCT-2003 | 03-04-10282A | 01
04 | FL | HOMESTEAD, CITY OF | 12025C0365J | 06-NOV-2003 | 03-04-10596A | 01
04 | FL | HOMESTEAD, CITY OF | 12025C0365J | 04-DEC-2003 | 03-04-9966A | 01
04 | FL | HYPOLUXO, TOWN OF | 1202070001A | 12-SEP-2003 | 03-04-8770A | 02
04 | FL | INDIAN RIVER COUNTY * | 12061C0070E | 05-AUG-2003 | 03-04-7984A | 02
04 | FL | INDIAN RIVER COUNTY * | 12061C0169F | 06-OCT-2003 | 03-04-9814A | 02
04 | FL | INDIAN RIVER COUNTY * | 12061C0070E | 20-OCT-2003 | 03-04-10070A | 02
04 | FL | INVERNESS, CITY OF | 1203480001B | 01-JUL-2003 | 03-04-7280A | 02
04 | FL | INVERNESS, CITY OF | 1203480001B | 17-NOV-2003 | 04-04-0036A | 02
04 | FL | JACKSON COUNTY * | 12063C0050C | 12-SEP-2003 | 03-04-8930A | 02
04 | FL | JACKSON COUNTY * | 12063C0300C | 17-NOV-2003 | 03-04-10742A | 02
04 | FL | JACKSONVILLE, CITY OF | 1200770164E | 08-JUL-2003 | 03-04-225A | 02
04 | FL | JACKSONVILLE, CITY OF | 1200770209E | 17-JUL-2003 | 03-04-7290A | 02
04 | FL | JACKSONVILLE, CITY OF | 1200770050E | 05-AUG-2003 | 03-04-7074A | 02
04 | FL | JACKSONVILLE, CITY OF | 1200770142E | 05-AUG-2003 | 03-04-7930A | 02
04 | FL | JACKSONVILLE, CITY OF | 1200770141E | 02-SEP-2003 | 03-04-7836A | 02
04 | FL | JACKSONVILLE, CITY OF | 1200770218E | 12-SEP-2003 | 03-04-8928A | 02
04 | FL | JACKSONVILLE, CITY OF | 1200770157E | 15-SEP-2003 | 03-04-8152A | 01
04 | FL | JACKSONVILLE, CITY OF | 1200770150E | 18-SEP-2003 | 03-04-8150A | 02
04 | FL | JACKSONVILLE, CITY OF | 1200770228E | 25-SEP-2003 | 03-04-7612A | 02
04 | FL | JACKSONVILLE, CITY OF | 1200770150E | 06-NOV-2003 | 03-04-10114A | 01
04 | FL | JACKSONVILLE, CITY OF | 1200770236E | 10-NOV-2003 | 03-04-599P | 05
04 | FL | JACKSONVILLE, CITY OF | 1200770238E | 10-NOV-2003 | 03-04-599P | 05
04 | FL | JACKSONVILLE, CITY OF | 1200770236E | 13-NOV-2003 | 03-04-11070A | 01
04 | FL | JACKSONVILLE, CITY OF | 1200770236E | 04-DEC-2003 | 04-04-0108A | 02
04 | FL | JACKSONVILLE, CITY OF | 1200770163E | 15-DEC-2003 | 03-04-10692A | 02
04 | FL | JACKSONVILLE, CITY OF | 1200770243E | 15-DEC-2003 | 03-04-10830A | 01
04 | FL | JACKSONVILLE, CITY OF | 1200770144E | 15-DEC-2003 | 03-04-10868A | 02
04 | FL | JACKSONVILLE, CITY OF | 1200770229E | 15-DEC-2003 | 04-04-1182A | 02
04 | FL | JUPITER, TOWN OF | 1201920102B | 09-OCT-2003 | 03-04-10052A | 01
04 | FL | JUPITER, TOWN OF | 1251190003E | 16-OCT-2003 | 03-04-9464A | 02
04 | FL | KENNETH CITY, TOWN OF | 12103C0204G | 04-SEP-2003 | 03-04-9334V | 19
04 | FL | KEY BISCAYNE, VILLAGE OF | 12025C0281J | 25-SEP-2003 | 03-04-8610A | 02
04 | FL | KISSIMMEE, CITY OF | 12097C0066F | 28-AUG-2003 | 03-04-8756A | 02
04 | FL | KISSIMMEE, CITY OF | 12097C0066F | 18-SEP-2003 | 03-04-10136A | 02
04 | FL | LADY LAKE, TOWN OF | 12069C0155D | 18-SEP-2003 | 03-04-6088A | 02
04 | FL | LADY LAKE, TOWN OF | 12069C0160D | 02-OCT-2003 | 03-04-9284A | 02
04 | FL | LAKE COUNTY * | 12069C0185D | 01-JUL-2003 | 03-04-6702A | 02
04 | FL | LAKE COUNTY * | 12069C0625D | 17-JUL-2003 | 03-04-5456A | 02
04 | FL | LAKE COUNTY * | 12069C0470D | 17-JUL-2003 | 03-04-6312A | 02
04 | FL | LAKE COUNTY * | 12069C0455D | 17-JUL-2003 | 03-04-6960A | 02
04 | FL | LAKE COUNTY * | 12069C0520D | 17-JUL-2003 | 03-04-7368A | 02
04 | FL | LAKE COUNTY * | 12069C0470D | 29-JUL-2003 | 03-04-8010A | 02
04 | FL | LAKE COUNTY * | 12069C470D | 29-JUL-2003 | 03-04-8012A | 02
04 | FL | LAKE COUNTY * | 12069C0535D | 07-AUG-2003 | 03-04-8014A | 02
04 | FL | LAKE COUNTY * | 12069C0210D | 11-AUG-2003 | 03-04-8338A | 02
04 | FL | LAKE COUNTY * | 12069C0345D | 21-AUG-2003 | 03-04-8838A | 02
04 | FL | LAKE COUNTY * | 12069C0455D | 28-AUG-2003 | 03-04-7454A | 02
04 | FL | LAKE COUNTY * | 12069C0455D | 28-AUG-2003 | 03-04-8518A | 02
04 | FL | LAKE COUNTY * | 12069C0195D | 04-SEP-2003 | 03-04-7738A | 02
04 | FL | LAKE COUNTY * | 12069C0235D | 04-SEP-2003 | 03-04-8142A | 02
04 | FL | LAKE COUNTY * | 12069C0030D | 12-SEP-2003 | 03-04-9470A | 02
04 | FL | LAKE COUNTY * | 12069C0255D | 15-SEP-2003 | 03-04-9544A | 02
04 | FL | LAKE COUNTY * | 12069C0380D | 02-OCT-2003 | 03-04-8976A | 02
04 | FL | LAKE COUNTY * | 12069C0334D | 14-OCT-2003 | 03-04-10340A | 02
04 | FL | LAKE COUNTY * | 12069C0545D | 14-OCT-2003 | 03-04-10468A | 02
04 | FL | LAKE COUNTY * | 12069C0545D | 16-OCT-2003 | 03-04-10496A | 02
04 | FL | LAKE COUNTY * | 12069C0480D | 23-OCT-2003 | 03-04-10658A | 02
04 | FL | LAKE COUNTY * | 12069C0455D | 30-OCT-2003 | 03-04-10656A | 01
04 | FL | LAKE COUNTY * | 12069C0565D | 03-NOV-2003 | 04-04-0378A | 02
04 | FL | LAKE COUNTY * | 12069C0470D | 03-NOV-2003 | 04-04-0380A | 02
04 | FL | LAKE COUNTY * | 12069C0334D | 10-NOV-2003 | 04-04-0546A | 02
04 | FL | LAKE COUNTY * | 12069C0425D | 04-DEC-2003 | 03-04-11060A | 02
04 | FL | LAKE COUNTY * | 12069C0435D | 04-DEC-2003 | 04-04-0886A | 02
04 | FL | LAKE COUNTY * | 12069C0170D | 15-DEC-2003 | 03-04-10406A | 02
04 | FL | LAKE COUNTY * | 12069C0215D | 23-DEC-2003 | 03-04-573P | 05
04 | FL | LAKE WALES, CITY OF | 12105C0535G | 20-NOV-2003 | 04-04-0944V | 19
04 | FL | LAKE WALES, CITY OF | 12105C0555G | 20-NOV-2003 | 04-04-0944V | 19
04 | FL | LAKE WALES, CITY OF | 12105C0565G | 20-NOV-2003 | 04-04-0944V | 19
04 | FL | LAKELAND, CITY OF | 12105C0480F | 03-SEP-2003 | 03-04-9062A | 02
04 | FL | LAKELAND, CITY OF | 12105C0485F | 12-SEP-2003 | 03-04-8826A | 02
04 | FL | LAKELAND, CITY OF | 12105C0480F | 18-SEP-2003 | 03-04-9804A | 02
04 | FL | LAKELAND, CITY OF | 12105C0315F | 27-OCT-2003 | 03-04-10834A | 02
04 | FL | LARGO, CITY OF | 1251220004D | 18-JUL-2003 | 03-04-6798A | 02
04 | FL | LARGO, CITY OF | 12103C0117G | 04-SEP-2003 | 03-04-9338V | 19
04 | FL | LARGO, CITY OF | 12103C0119G | 04-SEP-2003 | 03-04-9338V | 19
04 | FL | LAUDERDALE LAKES, CITY OF | 12011C0204F | 15-SEP-2003 | 03-04-9230A | 02
04 | FL | LAUDERDALE LAKES, CITY OF | 12011C0212F | 15-SEP-2003 | 03-04-9230A | 02
04 | FL | LAUDERDALE LAKES, CITY OF | 12011C0204F | 13-NOV-2003 | 03-04-10950A | 02
04 | FL | LAUDERHILL, CITY OF | 12011C0212F | 06-NOV-2003 | 03-04-10668A | 02
04 | FL | LAUDERHILL, CITY OF | 12011C0212F | 15-DEC-2003 | 04-04-0528A | 02
04 | FL | LEE COUNTY* | 1251240510D | 20-AUG-2003 | 03-04-8112A | 01
04 | FL | LEE COUNTY* | 1251240350B | 25-AUG-2003 | 03-04-8906A | 02
04 | FL | LEE COUNTY* | 1251240325C | 29-SEP-2003 | 03-04-8762A | 02
04 | FL | LEE COUNTY* | 1251240510D | 15-DEC-2003 | 03-04-10874A | 01
04 | FL | LEE COUNTY* | 1251240325C | 24-DEC-2003 | 04-04-0788A | 02
04 | FL | LEESBURG, CITY OF | 12069C0317D | 17-JUL-2003 | 03-04-7676A | 02
04 | FL | LEESBURG, CITY OF | 12069C0317D | 15-SEP-2003 | 03-04-9716A | 02
04 | FL | LEON COUNTY * | 12073C0275D | 01-JUL-2003 | 03-04-6808A | 02
04 | FL | LEON COUNTY * | 12073C0150D | 01-JUL-2003 | 03-04-6928A | 02
04 | FL | LEON COUNTY * | 12073C0310D | 24-JUL-2003 | 03-04-7832A | 02
04 | FL | LEVY COUNTY * | 1201450250D | 17-JUL-2003 | 03-04-7360A | 02
04 | FL | LONGWOOD, CITY OF | 12117C0130E | 24-JUL-2003 | 03-04-7814A | 02
04 | FL | LONGWOOD, CITY OF | 12117C0130E | 23-OCT-2003 | 03-04-10412A | 02
04 | FL | LONGWOOD, CITY OF | 12117C0130E | 30-OCT-2003 | 04-04-0218A | 02
04 | FL | LYNN HAVEN, CITY OF | 12005C0332G | 21-AUG-2003 | 03-04-8464A | 02
04 | FL | MAITLAND, CITY OF | 12095C0145E | 01-JUL-2003 | 03-04-7034A | 02
04 | FL | MANATEE COUNTY * | 1201530365C | 02-SEP-2003 | 03-04-7838A | 01
04 | FL | MANATEE COUNTY * | 1201530220C | 29-SEP-2003 | 03-04-8320A | 01
04 | FL | MANATEE COUNTY * | 1201530360C | 27-OCT-2003 | 03-04-10588A | 02
04 | FL | MANATEE COUNTY * | 1201530333B | 15-DEC-2003 | 03-04-9820A | 01
04 | FL | MARGATE, CITY OF | 12011C0115F | 18-SEP-2003 | 03-04-9312A | 02
04 | FL | MARION COUNTY * | 1201600850B | 03-JUL-2003 | 03-04-7284A | 01
04 | FL | MARION COUNTY * | 1201600150B | 08-JUL-2003 | 03-04-7146A | 02
04 | FL | MARION COUNTY * | 1201600650B | 24-JUL-2003 | 03-04-5086A | 02
04 | FL | MARION COUNTY * | 1201600850B | 29-JUL-2003 | 03-04-7286A | 02
04 | FL | MARION COUNTY * | 1201600355B | 20-AUG-2003 | 03-04-7494A | 02
04 | FL | MARION COUNTY * | 1201600100B | 04-SEP-2003 | 03-04-8586A | 02
04 | FL | MARION COUNTY * | 1201600725B | 27-OCT-2003 | 03-04-10460A | 02
04 | FL | MARION COUNTY * | 1201600325B | 15-DEC-2003 | 04-04-0792A | 02
04 | FL | MARTIN COUNTY * | 12085C0145F | 31-JUL-2003 | 03-04-7190A | 02
04 | FL | MARTIN COUNTY * | 12085C0282F | 04-DEC-2003 | 04-04-0674A | 02
04 | FL | MARTIN COUNTY * | 12085C0140F | 18-DEC-2003 | 04-04-0106A | 02
04 | FL | MIAMI DADE COUNTY* | 12025C0075J | 01-JUL-2003 | 03-04-6942A | 02
04 | FL | MIAMI DADE COUNTY* | 12025C0255J | 24-JUL-2003 | 03-04-7810A | 02
04 | FL | MIAMI DADE COUNTY* | 12025C0265J | 14-AUG-2003 | 03-04-8524A | 01
04 | FL | MIAMI DADE COUNTY* | 12025C0255J | 28-AUG-2003 | 03-04-8932A | 02
04 | FL | MIAMI DADE COUNTY* | 12025C0165J | 11-SEP-2003 | 03-04-9408A | 01
04 | FL | MIAMI DADE COUNTY* | 12025C0267J | 09-OCT-2003 | 03-04-10280A | 02
04 | FL | MIAMI DADE COUNTY* | 12025C0268J | 16-OCT-2003 | 03-04-10344A | 02
04 | FL | MIAMI DADE COUNTY* | 12025C0260J | 16-OCT-2003 | 03-04-8684A | 02
04 | FL | MIAMI DADE COUNTY* | 12025C0160J | 16-OCT-2003 | 03-04-9550A | 01
04 | FL | MIAMI DADE COUNTY* | 12025C0075J | 23-OCT-2003 | 03-04-6998A | 02
04 | FL | MIAMI DADE COUNTY* | 12025C0080J | 03-NOV-2003 | 04-04-0372A | 02
04 | FL | MIAMI DADE COUNTY* | 12025C0083J | 03-NOV-2003 | 04-04-0372A | 02
04 | FL | MIAMI DADE COUNTY* | 12025C0260J | 20-NOV-2003 | 03-04-11074A | 02
04 | FL | MIAMI DADE COUNTY* | 12025C0091J | 24-NOV-2003 | 04-04-0676A | 02
04 | FL | MIAMI DADE COUNTY* | 12025C0165J | 15-DEC-2003 | 04-04-1190A | 02
04 | FL | MIAMI SPRINGS, CITY OF | 12025C0180J | 24-JUL-2003 | 03-04-7008A | 02
04 | FL | MIAMI, CITY OF | 12025C0187J | 10-NOV-2003 | 04-04-0458A | 02
04 | FL | MIRAMAR, CITY OF | 12011C0290F | 21-AUG-2003 | 03-04-8038A | 01
04 | FL | MIRAMAR, CITY OF | 12011C0295F | 21-AUG-2003 | 03-04-8038A | 01
04 | FL | MIRAMAR, CITY OF | 12011C0295F | 09-OCT-2003 | 03-04-9032A | 01
04 | FL | MIRAMAR, CITY OF | 12011C0295F | 14-OCT-2003 | 03-04-10164A | 02
04 | FL | MIRAMAR, CITY OF | 12011C0295F | 10-NOV-2003 | 03-04-9654A | 02
04 | FL | MIRAMAR, CITY OF | 12011C0315F | 26-NOV-2003 | 04-04-0066A | 02
04 | FL | MIRAMAR, CITY OF | 12011C0290F | 04-DEC-2003 | 04-04-0176A | 01
04 | FL | MIRAMAR, CITY OF | 12011C0295F | 04-DEC-2003 | 04-04-0176A | 01
04 | FL | MONTVERDE, TOWN OF | 12069C0560D | 30-OCT-2003 | 03-04-11050A | 02
04 | FL | MT. DORA, CITY OF | 12069C0359D | 24-NOV-2003 | 04-04-0636A | 02
04 | FL | NASSAU COUNTY* | 1201700475C | 18-SEP-2003 | 03-04-8394A | 01
04 | FL | NASSAU COUNTY* | 1201700355C | 14-OCT-2003 | 03-04-10308A | 01
04 | FL | NEW PORT RICHEY, CITY OF | 1202300189C | 15-DEC-2003 | 03-04-11062A | 02
04 | FL | NEW SMYRNA BEACH, CITY OF | 12127C0542G | 17-JUL-2003 | 03-04-7070A | 02
04 | FL | NEW SMYRNA BEACH, CITY OF | 12127C0540G | 14-AUG-2003 | 03-04-8090A | 02
04 | FL | NEW SMYRNA BEACH, CITY OF | 12127C0540G | 06-OCT-2003 | 03-04-9554A | 02
04 | FL | NICEVILLE, CITY OF | 12091C0389H | 01-JUL-2003 | 03-04-6562A | 02
04 | FL | NORTH LAUDERDALE, CITY OF | 12011C0205F | 20-NOV-2003 | 03-04-10846A | 02
04 | FL | NORTH LAUDERDALE, CITY OF | 12011C0205F | 20-NOV-2003 | 03-04-10848A | 02
04 | FL | NORTH MIAMI, CITY OF | 12025C0091J | 18-JUL-2003 | 03-04-7686A | 02
04 | FL | OCOEE, CITY OF | 12095C0210E | 01-JUL-2003 | 03-04-7012A | 02
04 | FL | OKALOOSA COUNTY * | 12091C0417H | 01-JUL-2003 | 03-04-6938A | 02
04 | FL | OKALOOSA COUNTY * | 12091C0494H | 01-JUL-2003 | 03-04-7174A | 02
04 | FL | OKALOOSA COUNTY * | 12091C0441H | 03-JUL-2003 | 03-04-6140A | 02
04 | FL | OKALOOSA COUNTY * | 12091C0442H | 03-JUL-2003 | 03-04-6140A | 02
04 | FL | OKALOOSA COUNTY * | 12091C0493H | 17-JUL-2003 | 03-04-7364A | 02
04 | FL | OKALOOSA COUNTY * | 12091C0489H | 17-JUL-2003 | 03-04-7490A | 01
04 | FL | OKALOOSA COUNTY * | 12091C0435H | 17-JUL-2003 | 03-04-7594A | 02
04 | FL | OKALOOSA COUNTY * | 12091C0489H | 17-JUL-2003 | 03-04-7600A | 02
04 | FL | OKALOOSA COUNTY * | 12091C0489H | 07-AUG-2003 | 03-04-5334A | 02
04 | FL | OKALOOSA COUNTY * | 12091C0494H | 11-AUG-2003 | 03-04-7176A | 01
04 | FL | OKALOOSA COUNTY * | 12091C0493H | 11-AUG-2003 | 03-04-8212A | 01
04 | FL | OKALOOSA COUNTY * | 12091C0494H | 11-AUG-2003 | 03-04-8214A | 01
04 | FL | OKALOOSA COUNTY * | 12091C0493H | 11-AUG-2003 | 03-04-8372A | 02
04 | FL | OKALOOSA COUNTY * | 12091C0494H | 11-AUG-2003 | 03-04-8374A | 02
04 | FL | OKALOOSA COUNTY * | 12091C0493H | 11-AUG-2003 | 03-04-8378A | 01
04 | FL | OKALOOSA COUNTY * | 12091C0235H | 14-AUG-2003 | 03-04-8408A | 02
04 | FL | OKALOOSA COUNTY * | 12091C0493H | 14-AUG-2003 | 03-04-8760A | 01
04 | FL | OKALOOSA COUNTY * | 12091C0435H | 20-AUG-2003 | 03-04-5676A | 01
04 | FL | OKALOOSA COUNTY * | 12091C0493H | 20-AUG-2003 | 03-04-7642A | 01
04 | FL | OKALOOSA COUNTY * | 12091C0489H | 20-AUG-2003 | 03-04-8808A | 01
04 | FL | OKALOOSA COUNTY * | 12091C0493H | 25-AUG-2003 | 03-04-8830A | 02
04 | FL | OKALOOSA COUNTY * | 12091C0494H | 28-AUG-2003 | 03-04-8218A | 01
04 | FL | OKALOOSA COUNTY * | 12091C0494H | 28-AUG-2003 | 03-04-8828A | 02
04 | FL | OKALOOSA COUNTY * | 12091C0489H | 08-SEP-2003 | 03-04-7400A | 02
04 | FL | OKALOOSA COUNTY * | 12091C0200H | 18-SEP-2003 | 03-04-8144A | 02
04 | FL | OKALOOSA COUNTY * | 12091C0494H | 02-OCT-2003 | 03-04-10154A | 01
04 | FL | OKALOOSA COUNTY * | 12091C0493H | 02-OCT-2003 | 03-04-10156A | 01
04 | FL | OKALOOSA COUNTY * | 12091C0494H | 09-OCT-2003 | 03-04-10278A | 02
04 | FL | OKALOOSA COUNTY * | 12091C0493H | 14-OCT-2003 | 03-04-10402A | 02
04 | FL | OKALOOSA COUNTY * | 12091C0494H | 16-OCT-2003 | 03-04-10492A | 02
04 | FL | OKALOOSA COUNTY * | 12091C0494H | 20-OCT-2003 | 03-04-9898A | 02
04 | FL | OKALOOSA COUNTY * | 12091C0489H | 27-OCT-2003 | 03-04-10882A | 02
04 | FL | OKALOOSA COUNTY * | 12091C0489H | 30-OCT-2003 | 04-04-0102A | 02
04 | FL | OKALOOSA COUNTY * | 12091C0494H | 30-OCT-2003 | 04-04-0184A | 02
04 | FL | OKALOOSA COUNTY * | 12091C0494H | 30-OCT-2003 | 04-04-0186A | 02
04 | FL | OKALOOSA COUNTY * | 12091C0494H | 30-OCT-2003 | 04-04-0214A | 02
04 | FL | OKALOOSA COUNTY * | 12091C0435H | 10-NOV-2003 | 04-04-0544A | 02
04 | FL | OKALOOSA COUNTY * | 12091C0493H | 17-NOV-2003 | 04-04-0794A | 01
04 | FL | OKALOOSA COUNTY * | 12091C0494H | 20-NOV-2003 | 04-04-0838A | 02
04 | FL | OKALOOSA COUNTY * | 12091C0493H | 18-DEC-2003 | 04-04-1336A | 02
04 | FL | OKEECHOBEE COUNTY * | 1201770175B | 14-AUG-2003 | 03-04-8328A | 02
04 | FL | OLDSMAR, CITY OF | 12103C0079G | 04-SEP-2003 | 03-04-9348V | 19
04 | FL | OLDSMAR, CITY OF | 12103C0083G | 04-SEP-2003 | 03-04-9348V | 19
04 | FL | OLDSMAR, CITY OF | 12103C0087G | 04-SEP-2003 | 03-04-9348V | 19
04 | FL | OLDSMAR, CITY OF | 12103C0091G | 04-SEP-2003 | 03-04-9348V | 19
04 | FL | ORANGE COUNTY * | 12095C0430E | 01-JUL-2003 | 03-04-6804A | 02
04 | FL | ORANGE COUNTY * | 12095C0235E | 01-JUL-2003 | 03-04-6918A | 02
04 | FL | ORANGE COUNTY * | 12095C0295E | 01-JUL-2003 | 03-04-6956A | 02
04 | FL | ORANGE COUNTY * | 12095C0585E | 08-JUL-2003 | 03-04-0010A | 01
04 | FL | ORANGE COUNTY * | 12095C0290E | 08-JUL-2003 | 03-04-5888A | 01
04 | FL | ORANGE COUNTY * | 12095C0290E | 10-JUL-2003 | 03-04-341P | 05
04 | FL | ORANGE COUNTY * | 12095C0375E | 17-JUL-2003 | 03-04-6390A | 01
04 | FL | ORANGE COUNTY * | 12095C0380E | 17-JUL-2003 | 03-04-7086A | 01
04 | FL | ORANGE COUNTY * | 12095C0270E | 17-JUL-2003 | 03-04-7352A | 02
04 | FL | ORANGE COUNTY * | 12095C0270E | 17-JUL-2003 | 03-04-7398A | 02
04 | FL | ORANGE COUNTY * | 12095C0410E | 17-JUL-2003 | 03-04-7460A | 02
04 | FL | ORANGE COUNTY * | 12095C0295E | 18-JUL-2003 | 03-04-7272A | 01
04 | FL | ORANGE COUNTY * | 12095C0280E | 24-JUL-2003 | 03-04-7580A | 02
04 | FL | ORANGE COUNTY * | 12095C0295E | 31-JUL-2003 | 03-04-7500A | 01
04 | FL | ORANGE COUNTY * | 12095C0145E | 31-JUL-2003 | 03-04-7720A | 02
04 | FL | ORANGE COUNTY * | 12095C0270E | 31-JUL-2003 | 03-04-7816A | 02
04 | FL | ORANGE COUNTY * | 12095C0410E | 31-JUL-2003 | 03-04-7826A | 02
04 | FL | ORANGE COUNTY * | 12095C0405E | 07-AUG-2003 | 03-04-7908A | 02
04 | FL | ORANGE COUNTY * | 12095C0260E | 07-AUG-2003 | 03-04-7978A | 02
04 | FL | ORANGE COUNTY * | 12095C0270E | 07-AUG-2003 | 03-04-8044A | 02
04 | FL | ORANGE COUNTY * | 12095C0410E | 11-AUG-2003 | 03-04-8198A | 02
04 | FL | ORANGE COUNTY * | 12095C290E | 14-AUG-2003 | 03-04-6416A | 01
04 | FL | ORANGE COUNTY * | 12095C0295E | 14-AUG-2003 | 03-04-8406A | 01
04 | FL | ORANGE COUNTY * | 12095C0240E | 14-AUG-2003 | 03-04-8650A | 02
04 | FL | ORANGE COUNTY * | 12095C0415E | 14-AUG-2003 | 03-04-8652A | 02
04 | FL | ORANGE COUNTY * | 12095C0405E | 20-AUG-2003 | 03-04-8188A | 02
04 | FL | ORANGE COUNTY * | 12095C0405E | 20-AUG-2003 | 03-04-8264A | 02
04 | FL | ORANGE COUNTY * | 12095C0290E | 02-SEP-2003 | 03-04-7830A | 02
04 | FL | ORANGE COUNTY * | 12095C0435E | 25-SEP-2003 | 03-04-7896A | 02
04 | FL | ORANGE COUNTY * | 12095C0380E | 02-OCT-2003 | 03-04-9460A | 02
04 | FL | ORANGE COUNTY * | 12095C0415E | 02-OCT-2003 | 03-04-9624A | 02
04 | FL | ORANGE COUNTY * | 12095C0255E | 02-OCT-2003 | 03-04-9656A | 02
04 | FL | ORANGE COUNTY * | 12095C0270E | 14-OCT-2003 | 03-04-10286A | 02
04 | FL | ORANGE COUNTY * | 12095C0260E | 14-OCT-2003 | 03-04-10288A | 02
04 | FL | ORANGE COUNTY * | 12095C0295E | 14-OCT-2003 | 03-04-10354A | 02
04 | FL | ORANGE COUNTY * | 12095C0260E | 14-OCT-2003 | 03-04-10364A | 02
04 | FL | ORANGE COUNTY * | 12095C0260E | 14-OCT-2003 | 03-04-10550A | 02
04 | FL | ORANGE COUNTY * | 12095C0430E | 14-OCT-2003 | 03-04-9798A | 02
04 | FL | ORANGE COUNTY * | 12095C0390E | 23-OCT-2003 | 03-04-9472A | 01
04 | FL | ORANGE COUNTY * | 12095C0435E | 30-OCT-2003 | 03-04-10870A | 02
04 | FL | ORANGE COUNTY * | 12095C0270E | 06-NOV-2003 | 03-04-10994A | 02
04 | FL | ORANGE COUNTY * | 12095C0260E | 10-NOV-2003 | 03-04-10686A | 02
04 | FL | ORANGE COUNTY * | 12095C0295E | 24-NOV-2003 | 04-04-0466A | 01
04 | FL | ORANGE COUNTY * | 12095C0230E | 24-NOV-2003 | 04-04-0804A | 02
04 | FL | ORANGE COUNTY * | 12095C0240E | 24-NOV-2003 | 04-04-0806A | 02
04 | FL | ORANGE COUNTY * | 12095C0395E | 26-NOV-2003 | 03-04-0022A | 01
04 | FL | ORANGE COUNTY * | 12095C0380E | 26-NOV-2003 | 03-04-10758A | 01
04 | FL | ORANGE COUNTY * | 12095C0285E | 04-DEC-2003 | 04-04-0862A | 02
04 | FL | ORANGE COUNTY * | 12095C0420E | 04-DEC-2003 | 04-04-0990A | 02
04 | FL | ORANGE COUNTY * | 12095C0465E | 04-DEC-2003 | 04-04-1008A | 02
04 | FL | ORANGE COUNTY * | 12095C0405E | 15-DEC-2003 | 04-04-0530A | 02
04 | FL | ORANGE COUNTY * | 12095C0295E | 15-DEC-2003 | 04-04-1334A | 02
04 | FL | ORANGE COUNTY * | 12095C0255E | 15-DEC-2003 | 04-04-1498A | 02
04 | FL | ORANGE COUNTY * | 12095C0260E | 24-DEC-2003 | 04-04-1344A | 02
04 | FL | ORANGE COUNTY * | 12095C0415E | 24-DEC-2003 | 04-04-1376A | 02
04 | FL | ORLANDO, CITY OF | 12095C0435E | 08-JUL-2003 | 03-04-6316A | 01
04 | FL | ORLANDO, CITY OF | 12095C0465E | 08-JUL-2003 | 03-04-6730A | 01
04 | FL | ORLANDO, CITY OF | 12095C0405E | 29-JUL-2003 | 03-04-7428A | 02
04 | FL | ORLANDO, CITY OF | 12095C0240E | 29-JUL-2003 | 03-04-7462A | 02
04 | FL | ORLANDO, CITY OF | 12095C0405E | 29-JUL-2003 | 03-04-7462A | 02
04 | FL | ORLANDO, CITY OF | 12095C0405E | 07-AUG-2003 | 03-04-7906A | 02
04 | FL | ORLANDO, CITY OF | 12095C0405E | 20-AUG-2003 | 03-04-7180A | 02
04 | FL | ORLANDO, CITY OF | 12095C0410E | 20-AUG-2003 | 03-04-7180A | 02
04 | FL | ORLANDO, CITY OF | 12095C0465E | 14-OCT-2003 | 03-04-5174A | 01
04 | FL | ORLANDO, CITY OF | 12095C0265E | 16-OCT-2003 | 03-04-9800A | 02
04 | FL | ORLANDO, CITY OF | 12095C0405E | 20-OCT-2003 | 03-04-10324A | 01
04 | FL | ORLANDO, CITY OF | 12095C0240E | 23-OCT-2003 | 03-04-7464A | 17
04 | FL | ORLANDO, CITY OF | 12095C0405E | 23-OCT-2003 | 03-04-7464A | 17
04 | FL | ORLANDO, CITY OF | 12095C0240E | 24-NOV-2003 | 04-04-0714A | 01
04 | FL | ORLANDO, CITY OF | 12095C0235E | 26-NOV-2003 | 04-04-0802A | 02
04 | FL | ORLANDO, CITY OF | 12095C0465E | 26-NOV-2003 | 04-04-1304A | 01
04 | FL | ORLANDO, CITY OF | 12095C0435E | 15-DEC-2003 | 04-04-1264A | 01
04 | FL | ORMOND BEACH, CITY OF | 12127C0214H | 17-JUL-2003 | 03-04-5228A | 02
04 | FL | ORMOND BEACH, CITY OF | 12127C0204H | 17-JUL-2003 | 03-04-6722A | 02
04 | FL | ORMOND BEACH, CITY OF | 12127C0213H | 18-JUL-2003 | 03-04-6744A | 02
04 | FL | ORMOND BEACH, CITY OF | 12127C0211H | 06-NOV-2003 | 03-04-10872A | 02
04 | FL | OSCEOLA COUNTY * | 12097C0240F | 17-JUL-2003 | 03-04-7212A | 01
04 | FL | OSCEOLA COUNTY * | 12097C0400F | 17-JUL-2003 | 03-04-7674A | 02
04 | FL | OSCEOLA COUNTY * | 12097C0260F | 24-JUL-2003 | 03-04-6974A | 01
04 | FL | OSCEOLA COUNTY * | 12097C0065F | 24-JUL-2003 | 03-04-7432A | 01
04 | FL | OSCEOLA COUNTY * | 12097C0030F | 07-AUG-2003 | 03-04-8018A | 01
04 | FL | OSCEOLA COUNTY * | 12097C0055F | 07-AUG-2003 | 03-04-8088A | 01
04 | FL | OSCEOLA COUNTY * | 12097C0240F | 14-AUG-2003 | 03-04-8512A | 02
04 | FL | OSCEOLA COUNTY * | 12097C0240F | 21-AUG-2003 | 03-04-8690A | 02
04 | FL | OSCEOLA COUNTY * | 12097C0400F | 21-AUG-2003 | 03-04-8692A | 02
04 | FL | OSCEOLA COUNTY * | 12097C0225F | 21-AUG-2003 | 03-04-8694A | 02
04 | FL | OSCEOLA COUNTY * | 12097C0240F | 21-AUG-2003 | 03-04-8694A | 02
04 | FL | OSCEOLA COUNTY * | 12097C0225F | 21-AUG-2003 | 03-04-8696A | 02
04 | FL | OSCEOLA COUNTY * | 12097C0280F | 25-AUG-2003 | 03-04-8974A | 02
04 | FL | OSCEOLA COUNTY * | 12097C0235F | 02-SEP-2003 | 03-04-8016A | 01
04 | FL | OSCEOLA COUNTY * | 12097C0400F | 02-SEP-2003 | 03-04-9158A | 02
04 | FL | OSCEOLA COUNTY * | 12097C0240F | 02-SEP-2003 | 03-04-9160A | 02
04 | FL | OSCEOLA COUNTY * | 12097C0230F | 04-SEP-2003 | 03-04-8020A | 01
04 | FL | OSCEOLA COUNTY * | 12097C0235F | 04-SEP-2003 | 03-04-8020A | 01
04 | FL | OSCEOLA COUNTY * | 12097C0240F | 12-SEP-2003 | 03-04-10076A | 02
04 | FL | OSCEOLA COUNTY * | 12097C0068F | 01-OCT-2003 | 03-04-10066A | 17
04 | FL | OSCEOLA COUNTY * | 12097C0240F | 02-OCT-2003 | 03-04-10178A | 02
04 | FL | OSCEOLA COUNTY * | 12097C0240F | 02-OCT-2003 | 03-04-10180A | 02
04 | FL | OSCEOLA COUNTY * | 12097C0240F | 02-OCT-2003 | 03-04-10182A | 02
04 | FL | OSCEOLA COUNTY * | 12097C0240F | 02-OCT-2003 | 03-04-10184A | 02
04 | FL | OSCEOLA COUNTY * | 12097C0240F | 06-OCT-2003 | 03-04-10186A | 02
04 | FL | OSCEOLA COUNTY * | 12097C0240F | 06-OCT-2003 | 03-04-10188A | 02
04 | FL | OSCEOLA COUNTY * | 12097C0115F | 09-OCT-2003 | 03-04-9150A | 01
04 | FL | OSCEOLA COUNTY * | 12097C0240F | 16-OCT-2003 | 03-04-10498A | 02
04 | FL | OSCEOLA COUNTY * | 12097C0240F | 16-OCT-2003 | 03-04-9858A | 01
04 | FL | OSCEOLA COUNTY * | 12097C0400F | 30-OCT-2003 | 03-04-10856A | 02
04 | FL | OSCEOLA COUNTY * | 12097C0240F | 30-OCT-2003 | 03-04-10858A | 02
04 | FL | OSCEOLA COUNTY * | 12097C0240F | 30-OCT-2003 | 03-04-10860A | 02
04 | FL | OSCEOLA COUNTY * | 12097C0240F | 06-NOV-2003 | 04-04-0366A | 02
04 | FL | OSCEOLA COUNTY * | 12097C0030F | 04-DEC-2003 | 04-04-0996A | 01
04 | FL | OSCEOLA COUNTY * | 12097C0040F | 22-DEC-2003 | 03-04-309P | 05
04 | FL | OSCEOLA COUNTY * | 12097C0045F | 22-DEC-2003 | 03-04-309P | 05
04 | FL | OVIEDO, CITY OF | 12117C0170E | 04-SEP-2003 | 03-04-8978A | 01
04 | FL | PALM BAY, CITY OF | 12009C0585E | 29-JUL-2003 | 03-04-7632A | 02
04 | FL | PALM BEACH COUNTY * | 1201920100B | 05-AUG-2003 | 03-04-6468A | 01
04 | FL | PALM BEACH COUNTY * | 1201920100B | 04-SEP-2003 | 03-04-8768A | 02
04 | FL | PALM BEACH COUNTY * | 1201920205B | 16-OCT-2003 | 03-04-9812A | 02
04 | FL | PALM BEACH COUNTY * | 1201920235B | 23-OCT-2003 | 03-04-10348A | 01
04 | FL | PALM BEACH COUNTY * | 1201920165B | 13-NOV-2003 | 03-04-11104A | 02
04 | FL | PALM BEACH COUNTY * | 1201920200A | 13-NOV-2003 | 03-04-11110A | 02
04 | FL | PANAMA CITY BEACH, CITY OF | 12005C0303G | 02-SEP-2003 | 03-04-9538A | 01
04 | FL | PANAMA CITY BEACH, CITY OF | 12005C0305G | 09-OCT-2003 | 03-04-9586A | 02
04 | FL | PANAMA CITY, CITY OF | 12005C0335G | 05-AUG-2003 | 03-04-7292A | 02
04 | FL | PANAMA CITY, CITY OF | 12005C0335G | 13-NOV-2003 | 03-04-9406A | 01
04 | FL | PARKER, CITY OF | 12005C0363G | 24-DEC-2003 | 04-04-1110A | 02
04 | FL | PASCO COUNTY * | 1202300205D | 01-JUL-2003 | 03-04-5748A | 02
04 | FL | PASCO COUNTY * | 1202300195D | 01-JUL-2003 | 03-04-6716A | 02
04 | FL | PASCO COUNTY * | 1202300020C | 01-JUL-2003 | 03-04-6742A | 02
04 | FL | PASCO COUNTY * | 1202300352C | 01-JUL-2003 | 03-04-6800A | 02
04 | FL | PASCO COUNTY * | 1202300425E | 01-JUL-2003 | 03-04-6906A | 02
04 | FL | PASCO COUNTY * | 1202300354D | 01-JUL-2003 | 03-04-7748A | 02
04 | FL | PASCO COUNTY * | 1202300205D | 03-JUL-2003 | 03-04-7206A | 02
04 | FL | PASCO COUNTY * | 1202300430E | 08-JUL-2003 | 03-04-5950A | 02
04 | FL | PASCO COUNTY * | 1202300425E | 08-JUL-2003 | 03-04-7150A | 02
04 | FL | PASCO COUNTY * | 1202300425E | 17-JUL-2003 | 03-04-5670A | 01
04 | FL | PASCO COUNTY * | 1202300215D | 17-JUL-2003 | 03-04-6580A | 01
04 | FL | PASCO COUNTY * | 1202300360D | 17-JUL-2003 | 03-04-7148X | 01
04 | FL | PASCO COUNTY * | 1202300370D | 17-JUL-2003 | 03-04-7148X | 01
04 | FL | PASCO COUNTY * | 1202300205D | 24-JUL-2003 | 03-04-5592A | 02
04 | FL | PASCO COUNTY * | 1202300370D | 29-JUL-2003 | 03-04-7728A | 02
04 | FL | PASCO COUNTY * | 1202300354D | 29-JUL-2003 | 03-04-7750A | 02
04 | FL | PASCO COUNTY * | 1202300195D | 29-JUL-2003 | 03-04-7752A | 02
04 | FL | PASCO COUNTY * | 1202300360D | 31-JUL-2003 | 03-04-7882A | 02
04 | FL | PASCO COUNTY * | 1202300354D | 07-AUG-2003 | 03-04-7992A | 02
04 | FL | PASCO COUNTY * | 1202300250E | 07-AUG-2003 | 03-04-8654C | 02
04 | FL | PASCO COUNTY * | 1202300360D | 11-AUG-2003 | 03-04-7434A | 01
04 | FL | PASCO COUNTY * | 1202300360D | 14-AUG-2003 | 03-04-8416A | 02
04 | FL | PASCO COUNTY * | 1202300195D | 14-AUG-2003 | 03-04-8418A | 02
04 | FL | PASCO COUNTY * | 1202300354D | 20-AUG-2003 | 03-04-8316A | 02
04 | FL | PASCO COUNTY * | 1202300185D | 20-AUG-2003 | 03-04-8590A | 02
04 | FL | PASCO COUNTY * | 1202300195D | 20-AUG-2003 | 03-04-8634A | 02
04 | FL | PASCO COUNTY * | 1202300360D | 21-AUG-2003 | 03-04-8592A | 02
04 | FL | PASCO COUNTY * | 1202300354D | 21-AUG-2003 | 03-04-8594A | 02
04 | FL | PASCO COUNTY * | 1202300354D | 21-AUG-2003 | 03-04-8754A | 02
04 | FL | PASCO COUNTY * | 1202300353C | 25-AUG-2003 | 03-04-8874A | 02
04 | FL | PASCO COUNTY * | 1202300425E | 28-AUG-2003 | 03-04-0016A | 01
04 | FL | PASCO COUNTY * | 1202300400D | 28-AUG-2003 | 03-04-8074A | 01
04 | FL | PASCO COUNTY * | 1202300360D | 02-SEP-2003 | 03-04-6932A | 01
04 | FL | PASCO COUNTY * | 1202300430E | 02-SEP-2003 | 03-04-8032A | 02
04 | FL | PASCO COUNTY * | 1202300410E | 02-SEP-2003 | 03-04-8422A | 01
04 | FL | PASCO COUNTY * | 1202300185D | 02-SEP-2003 | 03-04-9326A | 02
04 | FL | PASCO COUNTY * | 1202300360D | 04-SEP-2003 | 03-04-7234A | 01
04 | FL | PASCO COUNTY * | 1202300185D | 04-SEP-2003 | 03-04-8314A | 02
04 | FL | PASCO COUNTY * | 1202300410E | 18-SEP-2003 | 03-04-8602A | 02
04 | FL | PASCO COUNTY * | 1202300450E | 18-SEP-2003 | 03-04-8706A | 01
04 | FL | PASCO COUNTY * | 1202300185D | 18-SEP-2003 | 03-04-9148A | 02
04 | FL | PASCO COUNTY * | 1202300185D | 18-SEP-2003 | 03-04-9540A | 02
04 | FL | PASCO COUNTY * | 1202300425E | 25-SEP-2003 | 03-04-9060A | 01
04 | FL | PASCO COUNTY * | 1202300360D | 29-SEP-2003 | 03-04-8312A | 02
04 | FL | PASCO COUNTY * | 1202300352C | 02-OCT-2003 | 03-04-8310A | 01
04 | FL | PASCO COUNTY * | 1202300353C | 02-OCT-2003 | 03-04-8400A | 01
04 | FL | PASCO COUNTY * | 1202300225D | 02-OCT-2003 | 03-04-9534A | 02
04 | FL | PASCO COUNTY * | 1202300195D | 02-OCT-2003 | 03-04-9592A | 02
04 | FL | PASCO COUNTY * | 1202300195D | 02-OCT-2003 | 03-04-9594A | 02
04 | FL | PASCO COUNTY * | 1202300185D | 06-OCT-2003 | 03-04-10216A | 02
04 | FL | PASCO COUNTY * | 1202300362D | 09-OCT-2003 | 03-04-10292A | 02
04 | FL | PASCO COUNTY * | 1202300345C | 09-OCT-2003 | 03-04-10294A | 02
04 | FL | PASCO COUNTY * | 1202300215D | 09-OCT-2003 | 03-04-10332A | 02
04 | FL | PASCO COUNTY * | 1202300425E | 09-OCT-2003 | 03-04-10346A | 02
04 | FL | PASCO COUNTY * | 1202300075C | 09-OCT-2003 | 03-04-8396A | 02
04 | FL | PASCO COUNTY * | 1202300450E | 09-OCT-2003 | 03-04-9292A | 01
04 | FL | PASCO COUNTY * | 1202300370D | 16-OCT-2003 | 03-04-9328A | 01
04 | FL | PASCO COUNTY * | 1202300450E | 27-OCT-2003 | 03-04-10204A | 01
04 | FL | PASCO COUNTY * | 1202300425E | 30-OCT-2003 | 03-04-11068A | 02
04 | FL | PASCO COUNTY * | 1202300275D | 03-NOV-2003 | 03-04-11058A | 02
04 | FL | PASCO COUNTY * | 1202300215D | 06-NOV-2003 | 03-04-10064A | 01
04 | FL | PASCO COUNTY * | 1202300360D | 10-NOV-2003 | 04-04-0220A | 02
04 | FL | PASCO COUNTY * | 1202300425E | 13-NOV-2003 | 03-04-10546A | 02
04 | FL | PASCO COUNTY * | 1202300250E | 13-NOV-2003 | 03-04-9874A | 02
04 | FL | PASCO COUNTY * | 1202300075C | 13-NOV-2003 | 04-04-0386A | 02
04 | FL | PASCO COUNTY * | 1202300275D | 17-NOV-2003 | 03-04-10548A | 01
04 | FL | PASCO COUNTY * | 1202300370D | 04-DEC-2003 | 04-04-0110A | 01
04 | FL | PASCO COUNTY * | 1202300360D | 04-DEC-2003 | 04-04-0168A | 02
04 | FL | PASCO COUNTY * | 1202300185D | 04-DEC-2003 | 04-04-0256A | 02
04 | FL | PASCO COUNTY * | 1202300195D | 04-DEC-2003 | 04-04-0258A | 02
04 | FL | PASCO COUNTY * | 1202300360D | 04-DEC-2003 | 04-04-0260A | 02
04 | FL | PASCO COUNTY * | 1202300195D | 08-DEC-2003 | 04-04-1414A | 01
04 | FL | PASCO COUNTY * | 1202300352C | 15-DEC-2003 | 04-04-0522A | 02
04 | FL | PASCO COUNTY * | 1202300360D | 15-DEC-2003 | 04-04-0738A | 02
04 | FL | PASCO COUNTY * | 1202300450E | 18-DEC-2003 | 04-04-1224A | 02
04 | FL | PASCO COUNTY * | 1202300360D | 22-DEC-2003 | 04-04-0628A | 02
04 | FL | PASCO COUNTY * | 1202300335C | 24-DEC-2003 | 04-04-0830A | 01
04 | FL | PASCO COUNTY * | 1202300345C | 24-DEC-2003 | 04-04-0830A | 01
04 | FL | PASCO COUNTY * | 1202300360D | 24-DEC-2003 | 04-04-1506A | 02
04 | FL | PINELLAS COUNTY * | 1251390057C | 18-JUL-2003 | 03-04-7840A | 02
04 | FL | PINELLAS COUNTY * | 1251390059C | 29-JUL-2003 | 03-04-7636A | 02
04 | FL | PINELLAS COUNTY * | 1251390183C | 20-AUG-2003 | 03-04-4718A | 02
04 | FL | PINELLAS COUNTY * | 1251390057C | 28-AUG-2003 | 03-04-7890X | 01
04 | FL | PINELLAS COUNTY * | 12103C0017G | 04-SEP-2003 | 03-04-9350V | 19
04 | FL | PINELLAS COUNTY * | 12103C0019G | 04-SEP-2003 | 03-04-9350V | 19
04 | FL | PINELLAS COUNTY * | 12103C0036G | 04-SEP-2003 | 03-04-9350V | 19
04 | FL | PINELLAS COUNTY * | 12103C0037G | 04-SEP-2003 | 03-04-9350V | 19
04 | FL | PINELLAS COUNTY * | 12103C0038G | 04-SEP-2003 | 03-04-9350V | 19
04 | FL | PINELLAS COUNTY * | 12103C0039G | 04-SEP-2003 | 03-04-9350V | 19
04 | FL | PINELLAS COUNTY * | 12103C0041G | 04-SEP-2003 | 03-04-9350V | 19
04 | FL | PINELLAS COUNTY * | 12103C0043G | 04-SEP-2003 | 03-04-9350V | 19
04 | FL | PINELLAS COUNTY * | 12103C0057G | 04-SEP-2003 | 03-04-9350V | 19
04 | FL | PINELLAS COUNTY * | 12103C0059G | 04-SEP-2003 | 03-04-9350V | 19
04 | FL | PINELLAS COUNTY * | 12103C0069G | 04-SEP-2003 | 03-04-9350V | 19
04 | FL | PINELLAS COUNTY * | 12103C0076G | 04-SEP-2003 | 03-04-9350V | 19
04 | FL | PINELLAS COUNTY * | 12103C0077G | 04-SEP-2003 | 03-04-9350V | 19
04 | FL | PINELLAS COUNTY * | 12103C0079G | 04-SEP-2003 | 03-04-9350V | 19
04 | FL | PINELLAS COUNTY * | 12103C0081G | 04-SEP-2003 | 03-04-9350V | 19
04 | FL | PINELLAS COUNTY * | 12103C0083G | 04-SEP-2003 | 03-04-9350V | 19
04 | FL | PINELLAS COUNTY * | 12103C0086G | 04-SEP-2003 | 03-04-9350V | 19
04 | FL | PINELLAS COUNTY * | 12103C0087G | 04-SEP-2003 | 03-04-9350V | 19
04 | FL | PINELLAS COUNTY * | 12103C0093G | 04-SEP-2003 | 03-04-9350V | 19
04 | FL | PINELLAS COUNTY * | 12103C0114G | 04-SEP-2003 | 03-04-9350V | 19
04 | FL | PINELLAS COUNTY * | 12103C0119G | 04-SEP-2003 | 03-04-9350V | 19
04 | FL | PINELLAS COUNTY * | 12103C0126G | 04-SEP-2003 | 03-04-9350V | 19
04 | FL | PINELLAS COUNTY * | 12103C0127G | 04-SEP-2003 | 03-04-9350V | 19
04 | FL | PINELLAS COUNTY * | 12103C0128G | 04-SEP-2003 | 03-04-9350V | 19
04 | FL | PINELLAS COUNTY * | 12103C0136G | 04-SEP-2003 | 03-04-9350V | 19
04 | FL | PINELLAS COUNTY * | 12103C0143G | 04-SEP-2003 | 03-04-9350V | 19
04 | FL | PINELLAS COUNTY * | 12103C0203G | 04-SEP-2003 | 03-04-9350V | 19
04 | FL | PINELLAS COUNTY * | 12103C0226G | 04-SEP-2003 | 03-04-9350V | 19
04 | FL | PINELLAS COUNTY * | 12103C0203G | 12-SEP-2003 | 03-04-5720A | 02
04 | FL | PINELLAS COUNTY * | 12103C0211G | 12-SEP-2003 | 03-04-5720A | 02
04 | FL | PINELLAS COUNTY * | 12103C0037G | 25-SEP-2003 | 03-04-9044A | 01
04 | FL | PINELLAS COUNTY * | 12103C0087G | 09-OCT-2003 | 03-04-10042A | 02
04 | FL | PINELLAS COUNTY * | 12103C0081G | 09-OCT-2003 | 03-04-7754A | 01
04 | FL | PINELLAS COUNTY * | 12103C0057G | 16-OCT-2003 | 03-04-10864A | 01
04 | FL | PINELLAS COUNTY * | 12103C0057G | 20-OCT-2003 | 03-04-11122A | 01
04 | FL | PINELLAS COUNTY * | 12103C0079G | 06-NOV-2003 | 03-04-10944A | 02
04 | FL | PINELLAS COUNTY * | 12103C0057G | 06-NOV-2003 | 04-04-0266A | 02
04 | FL | PINELLAS COUNTY * | 12103C0057G | 10-NOV-2003 | 03-04-10590A | 02
04 | FL | PINELLAS COUNTY * | 12103C0067G | 17-NOV-2003 | 04-04-1072A | 02
04 | FL | PINELLAS COUNTY * | 12103C0059G | 20-NOV-2003 | 04-04-0734A | 02
04 | FL | PINELLAS COUNTY * | 12103C0037G | 24-DEC-2003 | 04-04-1350A | 02
04 | FL | PINELLAS COUNTY * | 12103C0059G | 24-DEC-2003 | 04-04-1392A | 02
04 | FL | PINELLAS PARK, CITY OF | 12103C0201G | 04-SEP-2003 | 03-04-9336V | 19
04 | FL | PINELLAS PARK, CITY OF | 12103C0206G | 04-SEP-2003 | 03-04-9336V | 19
04 | FL | PLANTATION, CITY OF | 12011C0215F | 21-AUG-2003 | 03-04-7188A | 02
04 | FL | PLANTATION, CITY OF | 12011C0215F | 23-OCT-2003 | 03-04-10048A | 02
04 | FL | PLANTATION, CITY OF | 12011C0214F | 22-DEC-2003 | 04-04-0290A | 02
04 | FL | POLK COUNTY* | 12105C0320F | 01-JUL-2003 | 03-04-7028A | 02
04 | FL | POLK COUNTY* | 121050283F | 08-JUL-2003 | 03-04-7078A | 02
04 | FL | POLK COUNTY* | 12105C0535F | 17-JUL-2003 | 03-04-247P | 05
04 | FL | POLK COUNTY* | 12105C0755F | 17-JUL-2003 | 03-04-5906A | 02
04 | FL | POLK COUNTY* | 12105C0050F | 17-JUL-2003 | 03-04-6544A | 02
04 | FL | POLK COUNTY* | 12105C0175F | 17-JUL-2003 | 03-04-6614A | 02
04 | FL | POLK COUNTY* | 12105C0310F | 17-JUL-2003 | 03-04-6614A | 02
04 | FL | POLK COUNTY* | 12105C0755F | 17-JUL-2003 | 03-04-6700A | 02
04 | FL | POLK COUNTY* | 12105C0755F | 17-JUL-2003 | 03-04-7452A | 02
04 | FL | POLK COUNTY* | 12105C0725F | 17-JUL-2003 | 03-04-7638A | 02
04 | FL | POLK COUNTY* | 12105C0535F | 17-JUL-2003 | 03-04-7858A | 02
04 | FL | POLK COUNTY* | 12105C0175F | 18-JUL-2003 | 03-04-7740A | 02
04 | FL | POLK COUNTY* | 12105C0480F | 24-JUL-2003 | 03-04-7742A | 02
04 | FL | POLK COUNTY* | 12105C0485F | 24-JUL-2003 | 03-04-7744A | 02
04 | FL | POLK COUNTY* | 12105C0335F | 05-AUG-2003 | 03-04-5588A | 02
04 | FL | POLK COUNTY* | 12105C0755F | 11-AUG-2003 | 03-04-7204A | 02
04 | FL | POLK COUNTY* | 12105C0535F | 11-AUG-2003 | 03-04-7456A | 02
04 | FL | POLK COUNTY* | 12105C0365F | 14-AUG-2003 | 03-04-8008A | 02
04 | FL | POLK COUNTY* | 12105C0369F | 14-AUG-2003 | 03-04-8604A | 02
04 | FL | POLK COUNTY* | 12105C0480F | 21-AUG-2003 | 03-04-6072A | 02
04 | FL | POLK COUNTY* | 12105C0145F | 25-AUG-2003 | 03-04-9232A | 02
04 | FL | POLK COUNTY* | 12105C0535F | 28-AUG-2003 | 03-04-8006A | 02
04 | FL | POLK COUNTY* | 12105C0175F | 02-SEP-2003 | 03-04-9052A | 02
04 | FL | POLK COUNTY* | 12105C0425F | 02-SEP-2003 | 03-04-9156A | 02
04 | FL | POLK COUNTY* | 12105C0460F | 04-SEP-2003 | 03-04-8606A | 02
04 | FL | POLK COUNTY* | 12105C0535F | 04-SEP-2003 | 03-04-8804A | 02
04 | FL | POLK COUNTY* | 12105C0535F | 12-SEP-2003 | 03-04-8628A | 02
04 | FL | POLK COUNTY* | 12105C0175F | 12-SEP-2003 | 03-04-8864A | 02
04 | FL | POLK COUNTY* | 12105C0490F | 12-SEP-2003 | 03-04-9296A | 02
04 | FL | POLK COUNTY* | 12105C0310F | 18-SEP-2003 | 03-04-7366A | 02
04 | FL | POLK COUNTY* | 12105C0145F | 18-SEP-2003 | 03-04-8244A | 01
04 | FL | POLK COUNTY* | 12105C0560F | 18-SEP-2003 | 03-04-9152A | 02
04 | FL | POLK COUNTY* | 12105C0200F | 18-SEP-2003 | 03-04-9282A | 02
04 | FL | POLK COUNTY* | 12105C0735F | 18-SEP-2003 | 03-04-9794A | 02
04 | FL | POLK COUNTY* | 12105C0310F | 25-SEP-2003 | 03-04-10108A | 02
04 | FL | POLK COUNTY* | 12105C0425F | 25-SEP-2003 | 03-04-9610A | 02
04 | FL | POLK COUNTY* | 12105C0425F | 25-SEP-2003 | 03-04-9612A | 02
04 | FL | POLK COUNTY* | 12105C0425F | 25-SEP-2003 | 03-04-9614A | 02
04 | FL | POLK COUNTY* | 12105C0425F | 25-SEP-2003 | 03-04-9616A | 02
04 | FL | POLK COUNTY* | 12105C0275F | 25-SEP-2003 | 03-04-9618A | 02
04 | FL | POLK COUNTY* | 12105C0755F | 29-SEP-2003 | 03-04-7082A | 01
04 | FL | POLK COUNTY* | 12105C0175F | 29-SEP-2003 | 03-04-9956A | 02
04 | FL | POLK COUNTY* | 12105C0175F | 06-OCT-2003 | 03-04-5330A | 01
04 | FL | POLK COUNTY* | 12105C0725F | 09-OCT-2003 | 03-04-8862A | 02
04 | FL | POLK COUNTY* | 12105C0250F | 16-OCT-2003 | 03-04-10500A | 02
04 | FL | POLK COUNTY* | 12105C0755F | 16-OCT-2003 | 03-04-9860A | 02
04 | FL | POLK COUNTY* | 12105C0485F | 20-OCT-2003 | 03-04-10092A | 02
04 | FL | POLK COUNTY* | 12105C0535F | 23-OCT-2003 | 03-04-10642A | 02
04 | FL | POLK COUNTY* | 12105C0175F | 23-OCT-2003 | 03-04-8832A | 02
04 | FL | POLK COUNTY* | 12105C0755F | 27-OCT-2003 | 03-04-10654A | 02
04 | FL | POLK COUNTY* | 12105C0385F | 30-OCT-2003 | 03-04-11048A | 02
04 | FL | POLK COUNTY* | 12105C0510F | 30-OCT-2003 | 03-04-9100A | 01
04 | FL | POLK COUNTY* | 12105C0510F | 30-OCT-2003 | 04-04-0182A | 02
04 | FL | POLK COUNTY* | 12105C0510F | 03-NOV-2003 | 04-04-0042A | 02
04 | FL | POLK COUNTY* | 12105C0425F | 03-NOV-2003 | 04-04-0368A | 02
04 | FL | POLK COUNTY* | 12105C0340F | 06-NOV-2003 | 03-04-9050A | 02
04 | FL | POLK COUNTY* | 12105C0302F | 10-NOV-2003 | 04-04-0420A | 02
04 | FL | POLK COUNTY* | 12105C0425F | 10-NOV-2003 | 04-04-0438A | 02
04 | FL | POLK COUNTY* | 12105C0760F | 19-NOV-2003 | 03-04-469P | 05
04 | FL | POLK COUNTY* | 12105C0770F | 19-NOV-2003 | 03-04-469P | 05
04 | FL | POLK COUNTY* | 12105C0800F | 19-NOV-2003 | 03-04-469P | 05
04 | FL | POLK COUNTY* | 12105C0302F | 20-NOV-2003 | 04-04-0632A | 02
04 | FL | POLK COUNTY* | 12105C0275F | 20-NOV-2003 | 04-04-0888A | 02
04 | FL | POLK COUNTY* | 12105C0425F | 20-NOV-2003 | 04-04-0890A | 02
04 | FL | POLK COUNTY* | 12105C0425F | 20-NOV-2003 | 04-04-0892A | 02
04 | FL | POLK COUNTY* | 12105C0100F | 20-NOV-2003 | 04-04-0948V | 19
04 | FL | POLK COUNTY* | 12105C0125F | 20-NOV-2003 | 04-04-0948V | 19
04 | FL | POLK COUNTY* | 12105C0215F | 20-NOV-2003 | 04-04-0948V | 19
04 | FL | POLK COUNTY* | 12105C0225F | 20-NOV-2003 | 04-04-0948V | 19
04 | FL | POLK COUNTY* | 12105C0283F | 20-NOV-2003 | 04-04-0948V | 19
04 | FL | POLK COUNTY* | 12105C0302F | 20-NOV-2003 | 04-04-0948V | 19
04 | FL | POLK COUNTY* | 12105C0320F | 20-NOV-2003 | 04-04-0948V | 19
04 | FL | POLK COUNTY* | 12105C0330F | 20-NOV-2003 | 04-04-0948V | 19
04 | FL | POLK COUNTY* | 12105C0335F | 20-NOV-2003 | 04-04-0948V | 19
04 | FL | POLK COUNTY* | 12105C0345F | 20-NOV-2003 | 04-04-0948V | 19
04 | FL | POLK COUNTY* | 12105C0368F | 20-NOV-2003 | 04-04-0948V | 19
04 | FL | POLK COUNTY* | 12105C0395F | 20-NOV-2003 | 04-04-0948V | 19
04 | FL | POLK COUNTY* | 12105C0425F | 20-NOV-2003 | 04-04-0948V | 19
04 | FL | POLK COUNTY* | 12105C0470F | 20-NOV-2003 | 04-04-0948V | 19
04 | FL | POLK COUNTY* | 12105C0480F | 20-NOV-2003 | 04-04-0948V | 19
04 | FL | POLK COUNTY* | 12105C0485F | 20-NOV-2003 | 04-04-0948V | 19
04 | FL | POLK COUNTY* | 12105C0535G | 20-NOV-2003 | 04-04-0948V | 19
04 | FL | POLK COUNTY* | 12105C0560F | 20-NOV-2003 | 04-04-0948V | 19
04 | FL | POLK COUNTY* | 12105C0730F | 20-NOV-2003 | 04-04-0948V | 19
04 | FL | POLK COUNTY* | 12105C0755F | 20-NOV-2003 | 04-04-0948V | 19
04 | FL | POLK COUNTY* | 12105C0760F | 20-NOV-2003 | 04-04-0948V | 19
04 | FL | POLK COUNTY* | 12105C0175F | 04-DEC-2003 | 04-04-0932A | 01
04 | FL | POLK COUNTY* | 12105C0125F | 22-DEC-2003 | 03-04-309P | 05
04 | FL | POLK COUNTY* | 12105C0250F | 22-DEC-2003 | 03-04-309P | 05
04 | FL | PORT ORANGE, CITY OF | 12127C0368G | 17-JUL-2003 | 03-04-7072A | 02
04 | FL | PORT ORANGE, CITY OF | 12127C0368G | 21-AUG-2003 | 03-04-8072A | 01
04 | FL | PORT ORANGE, CITY OF | 12127C0368G | 22-AUG-2003 | 03-04-9652A | 01
04 | FL | PORT ORANGE, CITY OF | 12127C0528G | 18-SEP-2003 | 03-04-8588A | 02
04 | FL | PORT ORANGE, CITY OF | 12127C0508G | 03-NOV-2003 | 03-04-10414A | 01
04 | FL | PORT ORANGE, CITY OF | 12127C0516G | 03-NOV-2003 | 03-04-10414A | 01
04 | FL | PORT ORANGE, CITY OF | 12127C0525G | 03-NOV-2003 | 03-04-10414A | 01
04 | FL | PORT ST. LUCIE, CITY OF | 12111C0295F | 04-DEC-2003 | 03-04-10504A | 01
04 | FL | PORT ST. LUCIE, CITY OF | 12111C0280F | 15-DEC-2003 | 03-04-10636A | 02
04 | FL | PUTNAM COUNTY * | 1202720275A | 24-JUL-2003 | 03-04-7732A | 02
04 | FL | PUTNAM COUNTY * | 1202720150B | 21-AUG-2003 | 03-04-8858A | 02
04 | FL | PUTNAM COUNTY * | 1202720250B | 17-NOV-2003 | 03-04-10832A | 02
04 | FL | ROCKLEDGE, CITY OF | 12009C0365E | 31-JUL-2003 | 03-04-7852A | 01
04 | FL | ROCKLEDGE, CITY OF | 12009C0365E | 07-AUG-2003 | 03-04-8710X | 01
04 | FL | ROCKLEDGE, CITY OF | 12009C0365E | 23-OCT-2003 | 03-04-10302A | 01
04 | FL | ROCKLEDGE, CITY OF | 12009C0365E | 23-OCT-2003 | 03-04-10304A | 01
04 | FL | SAFETY HARBOR, CITY OF | 1251430004C | 01-JUL-2003 | 03-04-6386A | 02
04 | FL | SAFETY HARBOR, CITY OF | 1251430001C | 22-AUG-2003 | 03-04-2946A | 02
04 | FL | SAFETY HARBOR, CITY OF | 12103C0087G | 04-SEP-2003 | 03-04-9340V | 19
04 | FL | SAFETY HARBOR, CITY OF | 12103C0089G | 04-SEP-2003 | 03-04-9340V | 19
04 | FL | SAFETY HARBOR, CITY OF | 12103C0127G | 04-SEP-2003 | 03-04-9340V | 19
04 | FL | SAFETY HARBOR, CITY OF | 12103C0131G | 04-SEP-2003 | 03-04-9340V | 19
04 | FL | SANFORD, CITY OF | 12117C0035E | 17-JUL-2003 | 03-04-7184A | 02
04 | FL | SANFORD, CITY OF | 12117C0035E | 02-OCT-2003 | 03-04-0020A | 01
04 | FL | SANTA ROSA COUNTY * | 1202740195B | 18-JUL-2003 | 03-04-6926A | 17
04 | FL | SANTA ROSA COUNTY * | 1202740341C | 18-JUL-2003 | 03-04-7646A | 02
04 | FL | SANTA ROSA COUNTY * | 1202740341C | 15-DEC-2003 | 04-04-0534A | 02
04 | FL | SARASOTA COUNTY * | 1251440200D | 01-JUL-2003 | 03-04-6698A | 02
04 | FL | SARASOTA COUNTY * | 1251440228E | 01-JUL-2003 | 03-04-7634A | 02
04 | FL | SARASOTA COUNTY * | 1251440200D | 07-AUG-2003 | 03-04-8598A | 02
04 | FL | SARASOTA COUNTY * | 1251440333E | 21-AUG-2003 | 03-04-8600A | 01
04 | FL | SARASOTA COUNTY * | 1251440342E | 06-OCT-2003 | 03-04-9194A | 01
04 | FL | SARASOTA COUNTY * | 1251440332E | 16-OCT-2003 | 03-04-8318A | 01
04 | FL | SARASOTA, CITY OF | 1251500009B | 11-AUG-2003 | 03-04-8326A | 02
04 | FL | SEBASTIAN, CITY OF | 12061C0079F | 29-JUL-2003 | 03-04-6842A | 01
04 | FL | SEMINOLE COUNTY* | 12117C0145E | 17-JUL-2003 | 03-04-6302A | 02
04 | FL | SEMINOLE COUNTY* | 12117C0040E | 17-JUL-2003 | 03-04-7598A | 02
04 | FL | SEMINOLE COUNTY* | 12117C0145E | 04-SEP-2003 | 03-04-8752A | 01
04 | FL | SEMINOLE COUNTY* | 12117C0140E | 18-SEP-2003 | 03-04-8458A | 02
04 | FL | SEMINOLE COUNTY* | 12117C0180E | 29-SEP-2003 | 03-04-7736A | 02
04 | FL | SEMINOLE COUNTY* | 12117C0115E | 06-OCT-2003 | 03-04-9718A | 02
04 | FL | SEMINOLE COUNTY* | 12117C0170E | 14-OCT-2003 | 03-04-10338A | 02
04 | FL | SEMINOLE COUNTY* | 12117C0040E | 14-OCT-2003 | 03-04-7172A | 02
04 | FL | SEMINOLE COUNTY* | 12117C0045E | 14-OCT-2003 | 03-04-7172A | 02
04 | FL | SEMINOLE COUNTY* | 12117C0105E | 30-OCT-2003 | 03-04-11072A | 02
04 | FL | SEMINOLE COUNTY* | 12117C0145E | 06-NOV-2003 | 04-04-0264A | 02
04 | FL | SEMINOLE COUNTY* | 12117C0110E | 24-NOV-2003 | 04-04-0660A | 02
04 | FL | SEMINOLE COUNTY* | 12117C0170E | 04-DEC-2003 | 04-04-0798A | 02
04 | FL | SEMINOLE COUNTY* | 12117C0020E | 24-DEC-2003 | 04-04-0678A | 01
04 | FL | SEMINOLE, CITY OF | 12103C0181G | 06-NOV-2003 | 04-04-0520A | 02
04 | FL | ST. AUGUSTINE BEACH, CITY OF | 12109C0382G | 04-SEP-2003 | 03-04-8480V | 19
04 | FL | ST. AUGUSTINE, CITY OF | 12109C0312G | 04-SEP-2003 | 03-04-8478V | 19
04 | FL | ST. AUGUSTINE, CITY OF | 12109C0314G | 04-SEP-2003 | 03-04-8478V | 19
04 | FL | ST. CLOUD, CITY OF | 12097C0095F | 02-SEP-2003 | 03-04-9054A | 01
04 | FL | ST. JOHNS COUNTY * | 1251470085D | 17-JUL-2003 | 03-04-5398A | 02
04 | FL | ST. JOHNS COUNTY * | 1251470095D | 17-JUL-2003 | 03-04-5398A | 02
04 | FL | ST. JOHNS COUNTY * | 1251470075D | 24-JUL-2003 | 03-04-8228A | 01
04 | FL | ST. JOHNS COUNTY * | 1251470175E | 29-JUL-2003 | 03-04-6766A | 01
04 | FL | ST. JOHNS COUNTY * | 1251470090D | 29-JUL-2003 | 03-04-7998A | 01
04 | FL | ST. JOHNS COUNTY * | 12109C0064G | 04-SEP-2003 | 03-04-8476V | 19
04 | FL | ST. JOHNS COUNTY * | 12109C0082G | 04-SEP-2003 | 03-04-8476V | 19
04 | FL | ST. JOHNS COUNTY * | 12109C0085G | 04-SEP-2003 | 03-04-8476V | 19
04 | FL | ST. JOHNS COUNTY * | 12109C0095G | 04-SEP-2003 | 03-04-8476V | 19
04 | FL | ST. JOHNS COUNTY * | 12109C0103G | 04-SEP-2003 | 03-04-8476V | 19
04 | FL | ST. JOHNS COUNTY * | 12109C0111G | 04-SEP-2003 | 03-04-8476V | 19
04 | FL | ST. JOHNS COUNTY * | 12109C0132G | 04-SEP-2003 | 03-04-8476V | 19
04 | FL | ST. JOHNS COUNTY * | 12109C0133G | 04-SEP-2003 | 03-04-8476V | 19
04 | FL | ST. JOHNS COUNTY * | 12109C0134G | 04-SEP-2003 | 03-04-8476V | 19
04 | FL | ST. JOHNS COUNTY * | 12109C0141G | 04-SEP-2003 | 03-04-8476V | 19
04 | FL | ST. JOHNS COUNTY * | 12109C0151G | 04-SEP-2003 | 03-04-8476V | 19
04 | FL | ST. JOHNS COUNTY * | 12109C0152G | 04-SEP-2003 | 03-04-8476V | 19
04 | FL | ST. JOHNS COUNTY * | 12109C0159G | 04-SEP-2003 | 03-04-8476V | 19
04 | FL | ST. JOHNS COUNTY * | 12109C0160G | 04-SEP-2003 | 03-04-8476V | 19
04 | FL | ST. JOHNS COUNTY * | 12109C0163G | 04-SEP-2003 | 03-04-8476V | 19
04 | FL | ST. JOHNS COUNTY * | 12109C0170G | 04-SEP-2003 | 03-04-8476V | 19
04 | FL | ST. JOHNS COUNTY * | 12109C0180G | 04-SEP-2003 | 03-04-8476V | 19
04 | FL | ST. JOHNS COUNTY * | 12109C0190G | 04-SEP-2003 | 03-04-8476V | 19
04 | FL | ST. JOHNS COUNTY * | 12109C0195G | 04-SEP-2003 | 03-04-8476V | 19
04 | FL | ST. JOHNS COUNTY * | 12109C0259G | 04-SEP-2003 | 03-04-8476V | 19
04 | FL | ST. JOHNS COUNTY * | 12109C0275G | 04-SEP-2003 | 03-04-8476V | 19
04 | FL | ST. JOHNS COUNTY * | 12109C0276G | 04-SEP-2003 | 03-04-8476V | 19
04 | FL | ST. JOHNS COUNTY * | 12109C0277G | 04-SEP-2003 | 03-04-8476V | 19
04 | FL | ST. JOHNS COUNTY * | 12109C0278G | 04-SEP-2003 | 03-04-8476V | 19
04 | FL | ST. JOHNS COUNTY * | 12109C0313G | 04-SEP-2003 | 03-04-8476V | 19
04 | FL | ST. JOHNS COUNTY * | 12109C0318G | 04-SEP-2003 | 03-04-8476V | 19
04 | FL | ST. JOHNS COUNTY * | 12109C0350G | 04-SEP-2003 | 03-04-8476V | 19
04 | FL | ST. JOHNS COUNTY * | 12109C0379G | 04-SEP-2003 | 03-04-8476V | 19
04 | FL | ST. JOHNS COUNTY * | 12109C0381G | 04-SEP-2003 | 03-04-8476V | 19
04 | FL | ST. JOHNS COUNTY * | 12109C0384G | 04-SEP-2003 | 03-04-8476V | 19
04 | FL | ST. JOHNS COUNTY * | 12109C0391G | 04-SEP-2003 | 03-04-8476V | 19
04 | FL | ST. JOHNS COUNTY * | 12109C0394G | 04-SEP-2003 | 03-04-8476V | 19
04 | FL | ST. JOHNS COUNTY * | 12109C0501G | 04-SEP-2003 | 03-04-8476V | 19
04 | FL | ST. JOHNS COUNTY * | 12109C0152G | 25-SEP-2003 | 03-04-10312A | 02
04 | FL | ST. JOHNS COUNTY * | 12109C0257G | 25-SEP-2003 | 03-04-9676A | 02
04 | FL | ST. JOHNS COUNTY * | 12109C0170G | 16-OCT-2003 | 03-04-8938A | 02
04 | FL | ST. JOHNS COUNTY * | 12109C0195G | 23-OCT-2003 | 03-04-9304A | 01
04 | FL | ST. JOHNS COUNTY * | 12109C0170G | 10-NOV-2003 | 03-04-10206A | 02
04 | FL | ST. JOHNS COUNTY * | 12109C0159G | 04-DEC-2003 | 03-04-10714A | 01
04 | FL | ST. JOHNS COUNTY * | 12109C0170G | 04-DEC-2003 | 03-04-10714A | 01
04 | FL | ST. PETERSBURG, CITY OF | 1251390207C | 24-JUL-2003 | 03-04-7278A | 01
04 | FL | ST. PETERSBURG, CITY OF | 12103C0207G | 04-SEP-2003 | 03-04-9344V | 19
04 | FL | ST. PETERSBURG, CITY OF | 12103C0213G | 04-SEP-2003 | 03-04-9344V | 19
04 | FL | ST. PETERSBURG, CITY OF | 12103C0279G | 04-SEP-2003 | 03-04-9344V | 19
04 | FL | ST. PETERSBURG, CITY OF | 12103C0216G | 24-DEC-2003 | 04-04-0456A | 02
04 | FL | STUART, CITY OF | 12085C0153F | 05-AUG-2003 | 03-04-7886A | 02
04 | FL | SUMTER COUNTY * | 1202960075B | 18-JUL-2003 | 03-04-5680A | 02
04 | FL | SUMTER COUNTY * | 1202960075B | 29-JUL-2003 | 03-04-7354A | 02
04 | FL | SUMTER COUNTY * | 1202960075B | 14-AUG-2003 | 03-04-7688A | 02
04 | FL | SUMTER COUNTY * | 1202960075B | 04-SEP-2003 | 03-04-7288A | 02
04 | FL | SUMTER COUNTY * | 1202960050B | 18-SEP-2003 | 03-04-9040A | 02
04 | FL | SUMTER COUNTY * | 1202960075B | 24-SEP-2003 | 03-04-10296A | 01
04 | FL | SUMTER COUNTY * | 1202960075B | 24-SEP-2003 | 03-04-8934A | 01
04 | FL | SUMTER COUNTY * | 1202960075B | 24-SEP-2003 | 03-04-8936A | 01
04 | FL | SUMTER COUNTY * | 1202960075B | 24-SEP-2003 | 03-04-9234A | 01
04 | FL | SUMTER COUNTY * | 1202960075B | 24-SEP-2003 | 03-04-9368A | 01
04 | FL | SUMTER COUNTY * | 1202960075B | 24-SEP-2003 | 03-04-9630A | 01
04 | FL | SUMTER COUNTY * | 1202960075B | 24-SEP-2003 | 03-04-9732A | 01
04 | FL | SUMTER COUNTY * | 1202960075B | 23-OCT-2003 | 03-04-9670A | 01
04 | FL | SUMTER COUNTY * | 1202960075B | 20-NOV-2003 | 03-04-10134A | 01
04 | FL | SUMTER COUNTY * | 1202960075B | 20-NOV-2003 | 03-04-9728A | 01
04 | FL | SUMTER COUNTY * | 1202960075B | 26-NOV-2003 | 03-04-10060A | 01
04 | FL | SUMTER COUNTY * | 1202960075B | 26-NOV-2003 | 03-04-9674A | 01
04 | FL | SUNRISE, CITY OF | 12011C0204F | 21-AUG-2003 | 03-04-7758A | 02
04 | FL | SUNRISE, CITY OF | 12011C0212F | 21-AUG-2003 | 03-04-7758A | 02
04 | FL | SUNRISE, CITY OF | 12011C0195F | 14-OCT-2003 | 03-04-9708A | 02
04 | FL | TALLAHASSEE, CITY OF | 12073C0282D | 17-JUL-2003 | 03-04-7590A | 02
04 | FL | TALLAHASSEE, CITY OF | 12073C0301D | 06-NOV-2003 | 04-04-0476A | 02
04 | FL | TAMARAC, CITY OF | 12011C0205F | 17-JUL-2003 | 03-04-7238A | 01
04 | FL | TAMARAC, CITY OF | 12011C0205F | 14-AUG-2003 | 03-04-8114A | 01
04 | FL | TAMARAC, CITY OF | 12011C0205F | 18-SEP-2003 | 03-04-8880A | 02
04 | FL | TAMARAC, CITY OF | 12011C0204F | 09-OCT-2003 | 03-04-10162A | 02
04 | FL | TAMARAC, CITY OF | 12011C0204F | 06-NOV-2003 | 03-04-9802A | 02
04 | FL | TAMARAC, CITY OF | 12011C0205F | 06-NOV-2003 | 03-04-9802A | 02
04 | FL | TAMPA, CITY OF | 1201120230E | 28-AUG-2003 | 03-04-8814A | 02
04 | FL | TAMPA, CITY OF | 1201120210E | 04-SEP-2003 | 03-04-8980A | 01
04 | FL | TAMPA, CITY OF | 1201140033C | 26-SEP-2003 | 03-04-333P | 08
04 | FL | TAMPA, CITY OF | 1201140034C | 26-SEP-2003 | 03-04-333P | 08
04 | FL | TARPON SPRINGS, CITY OF | 12103C0016G | 04-SEP-2003 | 03-04-9342V | 19
04 | FL | TARPON SPRINGS, CITY OF | 12103C0019G | 04-SEP-2003 | 03-04-9342V | 19
04 | FL | TARPON SPRINGS, CITY OF | 12103C0038G | 04-SEP-2003 | 03-04-9342V | 19
04 | FL | TARPON SPRINGS, CITY OF | 12103C0019G | 15-DEC-2003 | 03-04-9950A | 02
04 | FL | TAVARES, CITY OF | 12069C0361D | 01-JUL-2003 | 03-04-7156A | 02
04 | FL | TAVARES, CITY OF | 12069C0345D | 17-JUL-2003 | 03-04-6940A | 02
04 | FL | TAVARES, CITY OF | 12069C0345D | 07-AUG-2003 | 03-04-8158A | 02
04 | FL | TAVARES, CITY OF | 12069C0361D | 07-AUG-2003 | 03-04-8158A | 02
04 | FL | TAVARES, CITY OF | 12069C0345D | 20-AUG-2003 | 03-04-8618A | 02
04 | FL | TAVARES, CITY OF | 12069C0361D | 20-AUG-2003 | 03-04-8618A | 02
04 | FL | TAVARES, CITY OF | 12069C0361D | 02-SEP-2003 | 03-04-9080A | 02
04 | FL | TAVARES, CITY OF | 12069C0355D | 15-SEP-2003 | 03-04-9548A | 02
04 | FL | TAVARES, CITY OF | 12069C0361D | 16-OCT-2003 | 03-04-7080A | 01
04 | FL | TAYLOR COUNTY* | 1203020310B | 17-JUL-2003 | 03-04-7588A | 02
04 | FL | TAYLOR COUNTY* | 1203020050B | 24-JUL-2003 | 03-04-7670A | 02
04 | FL | TAYLOR COUNTY* | 1203020310B | 20-AUG-2003 | 03-04-8156A | 02
04 | FL | TAYLOR COUNTY* | 1203020050B | 16-OCT-2003 | 03-04-10208X | 02
04 | FL | TITUSVILLE, CITY OF | 12009C0190F | 04-DEC-2003 | 04-04-0808A | 01
04 | FL | UMATILLA, CITY OF | 12069C0220D | 20-AUG-2003 | 03-04-8336A | 02
04 | FL | VOLUSIA COUNTY* | 12127C0218H | 08-JUL-2003 | 03-04-355P | 05
04 | FL | VOLUSIA COUNTY* | 12127C0044G | 08-JUL-2003 | 03-04-4608A | 01
04 | FL | VOLUSIA COUNTY* | 12127C0200H | 08-JUL-2003 | 03-04-4608A | 01
04 | FL | VOLUSIA COUNTY* | 12127C0700G | 17-JUL-2003 | 03-04-7586A | 02
04 | FL | VOLUSIA COUNTY* | 12127C0543G | 28-AUG-2003 | 03-04-8806A | 02
04 | FL | VOLUSIA COUNTY* | 12127C0685G | 28-AUG-2003 | 03-04-8806A | 02
04 | FL | VOLUSIA COUNTY* | 12127C0460G | 01-OCT-2003 | 03-04-8520A | 02
04 | FL | VOLUSIA COUNTY* | 12127C0500G | 23-OCT-2003 | 03-04-9140A | 02
04 | FL | WAKULLA COUNTY * | 1203150250B | 08-JUL-2003 | 03-04-6616A | 02
04 | FL | WAKULLA COUNTY * | 1203150075B | 20-AUG-2003 | 03-04-6930A | 02
04 | FL | WAKULLA COUNTY * | 1203150100B | 20-AUG-2003 | 03-04-6930A | 02
04 | FL | WAKULLA COUNTY * | 1203150250B | 03-NOV-2003 | 03-04-10050A | 02
04 | FL | WAKULLA COUNTY * | 1203150225B | 06-NOV-2003 | 03-04-9826A | 02
04 | FL | WAKULLA COUNTY * | 1203150225B | 06-NOV-2003 | 03-04-9828A | 02
04 | FL | WAKULLA COUNTY * | 1203150250B | 06-NOV-2003 | 03-04-9832A | 02
04 | FL | WAKULLA COUNTY * | 1203150250B | 20-NOV-2003 | 03-04-9830A | 02
04 | FL | WAKULLA COUNTY * | 1203150250B | 26-NOV-2003 | 03-04-9662A | 02
04 | FL | WAKULLA COUNTY * | 1203150250B | 04-DEC-2003 | 03-04-9664A | 02
04 | FL | WALTON COUNTY * | 12131C0544F | 17-JUL-2003 | 03-04-7358A | 02
04 | FL | WALTON COUNTY * | 12131C0554F | 07-AUG-2003 | 03-04-8080A | 02
04 | FL | WALTON COUNTY * | 12131C0558F | 07-AUG-2003 | 03-04-8080A | 02
04 | FL | WALTON COUNTY * | 12131C0736F | 21-AUG-2003 | 03-04-325P | 08
04 | FL | WALTON COUNTY * | 12131C0519F | 06-OCT-2003 | 03-04-9622A | 02
04 | FL | WALTON COUNTY * | 12131C0701F | 16-OCT-2003 | 03-04-10106A | 02
04 | FL | WALTON COUNTY * | 12131C0544F | 20-OCT-2003 | 03-04-10310A | 02
04 | FL | WALTON COUNTY * | 12131C0519F | 23-OCT-2003 | 03-04-8510A | 02
04 | FL | WALTON COUNTY * | 12131C0543F | 27-OCT-2003 | 03-04-10592A | 02
04 | FL | WEST PALM BEACH, CITY OF | 1201920155B | 20-AUG-2003 | 03-04-7240A | 01
04 | FL | WEST PALM BEACH, CITY OF | 1201920150A | 25-SEP-2003 | 03-04-9542A | 01
04 | FL | WEST PALM BEACH, CITY OF | 1201920150A | 25-SEP-2003 | 03-04-9964A | 01
04 | FL | WEST PALM BEACH, CITY OF | 1201920150A | 30-OCT-2003 | 03-04-10074A | 02
04 | FL | WESTON, CITY OF | 12011C0190F | 15-DEC-2003 | 04-04-0526A | 02
04 | FL | WINTER HAVEN, CITY OF | 1205C0365F | 02-SEP-2003 | 03-04-8334A | 02
04 | FL | WINTER HAVEN, CITY OF | 12105C0355F | 20-NOV-2003 | 04-04-0946V | 19
04 | FL | WINTER HAVEN, CITY OF | 12105C0365F | 20-NOV-2003 | 04-04-0946V | 19
04 | FL | WINTER HAVEN, CITY OF | 12105C0565G | 20-NOV-2003 | 04-04-0946V | 19
04 | FL | WINTER PARK, CITY OF | 12905C0255E | 14-OCT-2003 | 03-04-10366A | 02
04 | FL | WINTER SPRINGS, CITY OF | 12117C0145E | 24-JUL-2003 | 03-04-6496A | 02
04 | FL | WINTER SPRINGS, CITY OF | 12117C0145E | 11-AUG-2003 | 03-04-7818A | 02
04 | FL | WINTER SPRINGS, CITY OF | 12117C0165E | 16-OCT-2003 | 03-04-8184A | 02
04 | FL | WINTER SPRINGS, CITY OF | 12117C0165E | 23-OCT-2003 | 03-04-10466A | 02
04 | FL | WINTER SPRINGS, CITY OF | 12117C0145E | 23-OCT-2003 | 03-04-9872A | 02
04 | GA | ADEL, CITY OF | 13075C0160B | 18-SEP-2003 | 03-04-7386A | 01
04 | GA | ADEL, CITY OF | 13075C0095B | 06-OCT-2003 | 03-04-6158A | 02
04 | GA | ALBANY, CITY OF | 13095C0120D | 25-AUG-2003 | 03-04-8660A | 02
04 | GA | ALBANY, CITY OF | 13095C0105D | 18-SEP-2003 | 03-04-7780A | 02
04 | GA | ALPHARETTA, CITY OF | 13121C0059E | 24-JUL-2003 | 03-04-8208A | 02
04 | GA | ALPHARETTA, CITY OF | 13121C0062E | 03-OCT-2003 | 03-04-485P | 05
04 | GA | ALPHARETTA, CITY OF | 13121C0066E | 03-OCT-2003 | 03-04-485P | 05
04 | GA | ARAGON,CITY OF | 1301520001B | 30-OCT-2003 | 03-04-10892A | 01
04 | GA | ATHENS-CLARKE COUNTY | 1300400030C | 28-JUL-2003 | 03-04-7340A | 02
04 | GA | ATHENS-CLARKE COUNTY | 1300400022C | 05-AUG-2003 | 03-04-7892A | 02
04 | GA | ATLANTA, CITY OF | 13121C0366E | 28-AUG-2003 | 03-04-6674A | 02
04 | GA | ATLANTA, CITY OF | 13089C0064H | 04-SEP-2003 | 03-04-8894A | 02
04 | GA | ATLANTA, CITY OF | 13121C0241E | 18-SEP-2003 | 03-04-8196A | 02
04 | GA | ATLANTA, CITY OF | 13067C0075F | 13-OCT-2003 | 03-04-551P | 05
04 | GA | ATLANTA, CITY OF | 13121C0227E | 13-OCT-2003 | 03-04-551P | 05
04 | GA | ATLANTA, CITY OF | 13121C0233E | 16-OCT-2003 | 03-04-9426A | 02
04 | GA | ATLANTA, CITY OF | 13089C0064H | 23-OCT-2003 | 03-04-9564A | 02
04 | GA | AUGUSTA, CITY OF | 1301580060E | 23-OCT-2003 | 03-04-10804A | 02
04 | GA | BALDWIN COUNTY* | 1300050050B | 08-JUL-2003 | 03-04-7124A | 02
04 | GA | BALDWIN COUNTY* | 1300050075B | 15-SEP-2003 | 03-04-9126A | 02
04 | GA | BALDWIN COUNTY* | 1300050050B | 30-OCT-2003 | 03-04-11022A | 02
04 | GA | BARROW COUNTY* | 1304970025A | 10-JUL-2003 | 03-04-6874A | 02
04 | GA | BARROW COUNTY* | 1304970075A | 07-AUG-2003 | 03-04-7560A | 02
04 | GA | BARROW COUNTY* | 1304970025A | 13-NOV-2003 | 04-04-0484A | 02
04 | GA | BARTOW COUNTY * | 13015C0088F | 29-JUL-2003 | 03-04-8358A | 02
04 | GA | BARTOW COUNTY * | 13015C0095F | 07-AUG-2003 | 03-04-8494A | 02
04 | GA | BARTOW COUNTY * | 13015C0110F | 25-AUG-2003 | 03-04-7932A | 02
04 | GA | BRYAN COUNTY * | 1300160310A | 25-SEP-2003 | 03-04-233P | 05
04 | GA | BULLOCH COUNTY* | 1300190100B | 10-NOV-2003 | 03-04-10316A | 02
04 | GA | BULLOCH COUNTY* | 1300190225B | 13-NOV-2003 | 03-04-9932A | 02
04 | GA | BYRON, CITY OF | 130374— A | 04-SEP-2003 | 03-04-9124A | 02
04 | GA | CAMDEN COUNTY* | 13039C0390D | 17-JUL-2003 | 03-04-6366AD | 02
04 | GA | CANTON, CITY OF | 13057C0230C | 10-JUL-2003 | 03-04-6750A | 17
04 | GA | CANTON, CITY OF | 13057C0230C | 21-JUL-2003 | 03-04-7604A | 01
04 | GA | CANTON, CITY OF | 13057C0230C | 06-NOV-2003 | 03-04-10506A | 02
04 | GA | CANTON, CITY OF | 13057C0230C | 06-NOV-2003 | 03-04-9188A | 01
04 | GA | CARROLLTON, CITY OF | 1302080001B | 01-JUL-2003 | 03-04-7328A | 02
04 | GA | CHAMBLEE, CITY OF | 13089C0014H | 20-NOV-2003 | 03-04-9930A | 02
04 | GA | CHARLTON COUNTY* | 13049C0250B | 31-JUL-2003 | 03-04-8404A | 02
04 | GA | CHATHAM COUNTY* | 1300300095D | 29-JUL-2003 | 03-04-6880A | 02
04 | GA | CHATHAM COUNTY* | 1300300020C | 13-NOV-2003 | 03-04-9442A | 01
04 | GA | CHATHAM COUNTY* | 1300300020C | 26-NOV-2003 | 04-04-1028A | 02
04 | GA | CHATTOOGA COUNTY* | 1300360050A | 17-JUL-2003 | 03-04-7502A | 02
04 | GA | CHEROKEE COUNTY* | 13057C0330B | 29-SEP-2003 | 03-04-9438A | 02
04 | GA | CHEROKEE COUNTY* | 13057C0275B | 06-NOV-2003 | 03-04-9752A | 02
04 | GA | CHEROKEE COUNTY* | 13057C0275B | 20-NOV-2003 | 03-04-10024A | 02
04 | GA | CHEROKEE COUNTY* | 13057C0275B | 24-NOV-2003 | 04-04-0128A | 02
04 | GA | CLAYTON COUNTY* | 1300410065B | 17-JUL-2003 | 03-04-5830A | 02
04 | GA | CLAYTON COUNTY* | 1300410035C | 25-SEP-2003 | 03-04-9222A | 02
04 | GA | CLAYTON COUNTY* | 1300410015D | 09-OCT-2003 | 03-04-10032A | 02
04 | GA | CLAYTON COUNTY* | 1300410060C | 14-OCT-2003 | 03-04-7548A | 02
04 | GA | CLAYTON COUNTY* | 1300410065B | 23-OCT-2003 | 03-04-10086A | 02
04 | GA | COBB COUNTY* | 13067C0035F | 01-JUL-2003 | 03-04-4314A | 02
04 | GA | COBB COUNTY* | 13067C0035F | 01-JUL-2003 | 03-04-5600A | 02
04 | GA | COBB COUNTY* | 13067C0040F | 01-JUL-2003 | 03-04-6660A | 02
04 | GA | COBB COUNTY* | 13067C0065F | 01-JUL-2003 | 03-04-7122A | 02
04 | GA | COBB COUNTY* | 13067C0035F | 01-JUL-2003 | 03-04-7554A | 02
04 | GA | COBB COUNTY* | 13067C0065F | 03-JUL-2003 | 03-04-7712A | 02
04 | GA | COBB COUNTY* | 13067C0065F | 03-JUL-2003 | 03-04-7776A | 02
04 | GA | COBB COUNTY* | 13067C0090F | 08-JUL-2003 | 03-04-7226A | 02
04 | GA | COBB COUNTY* | 13067C0090F | 08-JUL-2003 | 03-04-7552A | 02
04 | GA | COBB COUNTY* | 13067C0055F | 15-JUL-2003 | 03-04-297P | 05
04 | GA | COBB COUNTY* | 13067C0060F | 17-JUL-2003 | 03-04-5366A | 02
04 | GA | COBB COUNTY* | 13067C0035F | 17-JUL-2003 | 03-04-5828A | 02
04 | GA | COBB COUNTY* | 13067C0040F | 17-JUL-2003 | 03-04-6662A | 02
04 | GA | COBB COUNTY* | 13067C0045F | 17-JUL-2003 | 03-04-8132A | 02
04 | GA | COBB COUNTY* | 13067C0040F | 21-JUL-2003 | 03-04-6992A | 02
04 | GA | COBB COUNTY* | 13067C0060F | 21-JUL-2003 | 03-04-7128A | 02
04 | GA | COBB COUNTY* | 13067C0055F | 21-JUL-2003 | 03-04-7482A | 02
04 | GA | COBB COUNTY* | 13067C0070F | 07-AUG-2003 | 03-04-6786A | 02
04 | GA | COBB COUNTY* | 13067C0035F | 11-AUG-2003 | 03-04-8356A | 02
04 | GA | COBB COUNTY* | 13067C0040F | 14-AUG-2003 | 03-04-6560A | 02
04 | GA | COBB COUNTY* | 13067C0035F | 14-AUG-2003 | 03-04-6878A | 02
04 | GA | COBB COUNTY* | 13067C0040F | 20-AUG-2003 | 03-04-8278A | 02
04 | GA | COBB COUNTY* | 13067C0085F | 21-AUG-2003 | 03-04-8636A | 01
04 | GA | COBB COUNTY* | 13067C0050F | 21-AUG-2003 | 03-04-8796A | 02
04 | GA | COBB COUNTY* | 13067C0035F | 28-AUG-2003 | 03-04-9176A | 01
04 | GA | COBB COUNTY* | 13067C0005F | 28-AUG-2003 | 03-04-9180A | 02
04 | GA | COBB COUNTY* | 13067C0030F | 02-SEP-2003 | 03-04-9068A | 02
04 | GA | COBB COUNTY* | 13067C0040F | 02-SEP-2003 | 03-04-9488A | 02
04 | GA | COBB COUNTY* | 13067C0015F | 08-SEP-2003 | 03-04-10128A | 02
04 | GA | COBB COUNTY* | 13067C0005F | 15-SEP-2003 | 03-04-7664A | 02
04 | GA | COBB COUNTY* | 13067C0035F | 18-SEP-2003 | 03-04-8566A | 02
04 | GA | COBB COUNTY* | 13067C0055F | 22-SEP-2003 | 03-04-10150A | 02
04 | GA | COBB COUNTY* | 13067C0015F | 25-SEP-2003 | 03-04-7126A | 02
04 | GA | COBB COUNTY* | 13067C0035F | 25-SEP-2003 | 03-04-9370A | 02
04 | GA | COBB COUNTY* | 13067C0035F | 02-OCT-2003 | 03-04-10392A | 02
04 | GA | COBB COUNTY* | 13067C0085F | 06-OCT-2003 | 03-04-7018A | 02
04 | GA | COBB COUNTY* | 13067C0010F | 09-OCT-2003 | 03-04-7952A | 02
04 | GA | COBB COUNTY* | 13067C0010F | 14-OCT-2003 | 03-04-7060A | 02
04 | GA | COBB COUNTY* | 13067C0070F | 16-OCT-2003 | 03-04-9218A | 17
04 | GA | COBB COUNTY* | 13067C0050F | 27-OCT-2003 | 03-04-9692A | 02
04 | GA | COBB COUNTY* | 13067C0035F | 03-NOV-2003 | 03-04-10598A | 02
04 | GA | COBB COUNTY* | 13067C0025F | 06-NOV-2003 | 03-04-10702A | 02
04 | GA | COBB COUNTY* | 13067C0015F | 06-NOV-2003 | 04-04-0482A | 02
04 | GA | COBB COUNTY* | 13067C0055F | 07-NOV-2003 | 03-04-095P | 05
04 | GA | COBB COUNTY* | 13067C0060F | 07-NOV-2003 | 03-04-095P | 05
04 | GA | COBB COUNTY* | 13067C0015F | 10-NOV-2003 | 03-04-9214A | 02
04 | GA | COBB COUNTY* | 13067C0075F | 12-NOV-2003 | 03-04-551P | 05
04 | GA | COBB COUNTY* | 13121C0227E | 12-NOV-2003 | 03-04-551P | 05
04 | GA | COBB COUNTY* | 13067C0030F | 20-NOV-2003 | 03-04-10034A | 02
04 | GA | COBB COUNTY* | 13067C0060F | 20-NOV-2003 | 03-04-10810A | 02
04 | GA | COBB COUNTY* | 13067C0060F | 20-NOV-2003 | 04-04-0604A | 02
04 | GA | COBB COUNTY* | 13067C0035F | 24-NOV-2003 | 03-04-10250A | 02
04 | GA | COBB COUNTY* | 13067C0040F | 24-NOV-2003 | 04-04-0410A | 02
04 | GA | COBB COUNTY* | 13067C0040F | 24-NOV-2003 | 04-04-0490A | 02
04 | GA | COBB COUNTY* | 13067C0040F | 24-NOV-2003 | 04-04-0612A | 02
04 | GA | COBB COUNTY* | 13067C0085F | 08-DEC-2003 | 04-04-0968A | 02
04 | GA | COBB COUNTY* | 13067C0015F | 15-DEC-2003 | 04-04-0088A | 02
04 | GA | COBB COUNTY* | 13067C0040F | 15-DEC-2003 | 04-04-1250A | 02
04 | GA | COBB COUNTY* | 13067C0045F | 22-DEC-2003 | 04-04-0762A | 02
04 | GA | COBB COUNTY* | 13067C0050F | 24-DEC-2003 | 04-04-1702A | 02
04 | GA | COLUMBIA COUNTY* | 1300590085C | 01-JUL-2003 | 03-04-6048A | 02
04 | GA | COLUMBIA COUNTY* | 1300590090B | 10-JUL-2003 | 03-04-289P | 05
04 | GA | COLUMBIA COUNTY* | 1300590080C | 20-OCT-2003 | 03-04-10244A | 02
04 | GA | COLUMBIA COUNTY* | 1300590095B | 23-OCT-2003 | 03-04-10478A | 02
04 | GA | COLUMBIA COUNTY* | 1300590075A | 26-NOV-2003 | 04-04-0086A | 02
04 | GA | COLUMBUS, CITY OF | 1351580045D | 10-JUL-2003 | 03-04-6872A | 02
04 | GA | COLUMBUS, CITY OF | 1351580050D | 29-JUL-2003 | 03-04-8236A | 02
04 | GA | COLUMBUS, CITY OF | 1351580050D | 15-SEP-2003 | 03-04-9750A | 02
04 | GA | COVINGTON, CITY OF | 1301440004B | 02-OCT-2003 | 03-04-10248A | 02
04 | GA | CUMMING, CITY OF | 13117C0095C | 30-OCT-2003 | 03-04-10626A | 02
04 | GA | DALTON, CITY OF | 1301940005C | 05-AUG-2003 | 03-04-8284A | 02
04 | GA | DE KALB COUNTY * | 13089C0141H | 01-JUL-2003 | 03-04-6402A | 02
04 | GA | DE KALB COUNTY * | 13089C0086H | 03-JUL-2003 | 03-04-7878A | 02
04 | GA | DE KALB COUNTY * | 13089C0113H | 10-JUL-2003 | 03-04-7716A | 02
04 | GA | DE KALB COUNTY * | 13089C0054H | 17-JUL-2003 | 03-04-5714A | 02
04 | GA | DE KALB COUNTY * | 13089C0019H | 24-JUL-2003 | 03-04-6044A | 02
04 | GA | DE KALB COUNTY * | 13089C0059H | 24-JUL-2003 | 03-04-8168A | 02
04 | GA | DE KALB COUNTY * | 13089C0066H | 24-JUL-2003 | 03-04-8354A | 02
04 | GA | DE KALB COUNTY * | 13089C0086H | 28-JUL-2003 | 03-04-8162A | 02
04 | GA | DE KALB COUNTY * | 13089C0089H | 31-JUL-2003 | 03-04-8364A | 02
04 | GA | DE KALB COUNTY * | 13089C0057H | 05-AUG-2003 | 03-04-8258A | 02
04 | GA | DE KALB COUNTY * | 13089C0038H | 28-AUG-2003 | 03-04-5280A | 02
04 | GA | DE KALB COUNTY * | 13089C0056H | 28-AUG-2003 | 03-04-9170A | 02
04 | GA | DE KALB COUNTY * | 13089C0157H | 15-SEP-2003 | 03-04-9904A | 02
04 | GA | DE KALB COUNTY * | 13089C0132H | 02-OCT-2003 | 03-04-9890A | 02
04 | GA | DE KALB COUNTY * | 13089C0059H | 06-OCT-2003 | 03-04-10080A | 02
04 | GA | DE KALB COUNTY * | 13089C0012H | 03-NOV-2003 | 03-04-10722A | 02
04 | GA | DE KALB COUNTY * | 13089C0188H | 10-NOV-2003 | 03-04-10574A | 02
04 | GA | DE KALB COUNTY * | 13089C0113H | 10-NOV-2003 | 04-04-0432A | 02
04 | GA | DE KALB COUNTY * | 13089C0010H | 20-NOV-2003 | 04-04-1066A | 02
04 | GA | DE KALB COUNTY * | 13089C0088H | 15-DEC-2003 | 04-04-1252A | 02
04 | GA | DECATUR COUNTY* | 1304510175C | 02-OCT-2003 | 03-04-9056A | 02
04 | GA | DECATUR, CITY OF | 13089C0068H | 02-OCT-2003 | 03-04-7714A | 02
04 | GA | DORAVILLE, CITY OF | 13089C0017H | 17-JUL-2003 | 03-04-7606A | 02
04 | GA | DORAVILLE, CITY OF | 13089C0016H | 05-AUG-2003 | 03-04-6042A | 02
04 | GA | DORAVILLE, CITY OF | 13089C0017H | 02-OCT-2003 | 03-04-10022A | 02
04 | GA | DOUGHERTY COUNTY * | 13095C0135D | 13-NOV-2003 | 03-04-10624A | 02
04 | GA | DULUTH, CITY OF | 1300980003C | 15-DEC-2003 | 03-04-9486A | 02
04 | GA | EAST POINT, CITY OF | 13121C0362E | 12-SEP-2003 | 03-04-10016A | 02
04 | GA | EAST POINT, CITY OF | 13121C0361E | 25-SEP-2003 | 03-04-7248A | 02
04 | GA | EAST POINT, CITY OF | 13121C0363E | 16-OCT-2003 | 03-04-10532A | 02
04 | GA | FANNIN COUNTY* | 13111C0185D | 17-JUL-2003 | 03-04-6758A | 02
04 | GA | FANNIN COUNTY* | 13111C0065D | 17-JUL-2003 | 03-04-7130A | 02
04 | GA | FANNIN COUNTY* | 13111C0185D | 31-JUL-2003 | 03-04-7650A | 02
04 | GA | FANNIN COUNTY* | 13111C0055D | 15-SEP-2003 | 03-04-9440A | 02
04 | GA | FAYETTE COUNTY * | 13113C0125D | 13-NOV-2003 | 04-04-0208A | 02
04 | GA | FAYETTEVILLE, CITY OF | 13113C0085D | 18-SEP-2003 | 03-04-5822A | 02
04 | GA | FLOYD COUNTY* | 13115C0185D | 14-AUG-2003 | 03-04-8716A | 01
04 | GA | FORSYTH COUNTY * | 13117C0095C | 21-JUL-2003 | 03-04-6672A | 02
04 | GA | FORSYTH COUNTY * | 13117C0095C | 24-JUL-2003 | 03-04-6328A | 02
04 | GA | FORSYTH COUNTY * | 13117C0150C | 29-JUL-2003 | 03-04-8360A | 02
04 | GA | FORSYTH COUNTY * | 13117C0125C | 14-AUG-2003 | 03-04-9166A | 02
04 | GA | FORSYTH COUNTY * | 13117C0075C | 18-SEP-2003 | 03-04-9212A | 02
04 | GA | FORSYTH COUNTY * | 13117C0075C | 29-SEP-2003 | 03-04-10026A | 02
04 | GA | FORSYTH COUNTY * | 13117C0125C | 23-OCT-2003 | 03-04-8248A | 02
04 | GA | FULTON COUNTY * | 13121C0160E | 03-JUL-2003 | 03-04-7410A | 02
04 | GA | FULTON COUNTY * | 13121C0160E | 21-AUG-2003 | 03-04-8896A | 02
04 | GA | FULTON COUNTY * | 13121C0338E | 25-AUG-2003 | 03-04-8280A | 02
04 | GA | FULTON COUNTY * | 13121C0163E | 02-SEP-2003 | 03-04-9008A | 02
04 | GA | FULTON COUNTY * | 13121C0034E | 25-SEP-2003 | 03-04-10400A | 02
04 | GA | FULTON COUNTY * | 13121C0143E | 27-OCT-2003 | 03-04-7662A | 02
04 | GA | FULTON COUNTY * | 13067C0055F | 07-NOV-2003 | 03-04-095P | 05
04 | GA | FULTON COUNTY * | 13067C0060F | 07-NOV-2003 | 03-04-095P | 05
04 | GA | FULTON COUNTY * | 13121C0139E | 07-NOV-2003 | 03-04-095P | 05
04 | GA | FULTON COUNTY * | 13121C0163E | 08-DEC-2003 | 03-04-11020A | 02
04 | GA | FULTON COUNTY * | 13121C0087E | 22-DEC-2003 | 04-04-0722A | 02
04 | GA | GILMER COUNTY* | 13123C0150B | 03-JUL-2003 | 03-04-5814A | 02
04 | GA | GILMER COUNTY* | 13123C0150B | 08-JUL-2003 | 03-04-6160A | 02
04 | GA | GILMER COUNTY* | 13123C0100B | 17-JUL-2003 | 03-04-6280A | 02
04 | GA | GLYNN COUNTY * | 1300920234C | 03-NOV-2003 | 04-04-0240A | 02
04 | GA | GWINNETT COUNTY * | 1303220185C | 03-JUL-2003 | 03-04-7342A | 02
04 | GA | GWINNETT COUNTY * | 1303220190C | 03-JUL-2003 | 03-04-7660A | 02
04 | GA | GWINNETT COUNTY * | 1303220095C | 08-JUL-2003 | 03-04-5710A | 02
04 | GA | GWINNETT COUNTY * | 1303220125C | 17-JUL-2003 | 03-04-6494A | 02
04 | GA | GWINNETT COUNTY * | 1303220170C | 24-JUL-2003 | 03-04-8276A | 02
04 | GA | GWINNETT COUNTY * | 1303220070C | 29-JUL-2003 | 03-04-8640A | 02
04 | GA | GWINNETT COUNTY * | 1303220190C | 05-AUG-2003 | 03-04-7944A | 02
04 | GA | GWINNETT COUNTY * | 1303220195C | 14-AUG-2003 | 03-04-5824A | 02
04 | GA | GWINNETT COUNTY * | 1303220290B | 21-AUG-2003 | 03-04-7948A | 02
04 | GA | GWINNETT COUNTY * | 1303220215C | 04-SEP-2003 | 03-04-8368A | 02
04 | GA | GWINNETT COUNTY * | 1303220190C | 12-SEP-2003 | 03-04-9844A | 02
04 | GA | GWINNETT COUNTY * | 1303220125C | 18-SEP-2003 | 03-04-4972A | 02
04 | GA | GWINNETT COUNTY * | 1303220205C | 25-SEP-2003 | 03-04-7438A | 02
04 | GA | GWINNETT COUNTY * | 1303220170C | 02-OCT-2003 | 03-04-9754A | 02
04 | GA | GWINNETT COUNTY * | 1303220190C | 06-OCT-2003 | 03-04-9320A | 17
04 | GA | GWINNETT COUNTY * | 1303220285C | 20-OCT-2003 | 03-04-10428A | 02
04 | GA | GWINNETT COUNTY * | 1303220055C | 23-OCT-2003 | 03-04-8888A | 02
04 | GA | GWINNETT COUNTY * | 1303220055C | 23-OCT-2003 | 03-04-8890A | 02
04 | GA | GWINNETT COUNTY * | 1303220055C | 23-OCT-2003 | 03-04-9842A | 02
04 | GA | GWINNETT COUNTY * | 1303220090C | 30-OCT-2003 | 03-04-10912A | 02
04 | GA | GWINNETT COUNTY * | 1303220195C | 03-NOV-2003 | 03-04-10306A | 02
04 | GA | GWINNETT COUNTY * | 1303220090C | 03-NOV-2003 | 03-04-10914A | 02
04 | GA | GWINNETT COUNTY * | 1303220055C | 13-NOV-2003 | 04-04-0970A | 02
04 | GA | GWINNETT COUNTY * | 1303220190C | 24-NOV-2003 | 04-04-0480A | 02
04 | GA | GWINNETT COUNTY * | 1303220090C | 11-DEC-2003 | 03-04-449P | 05
04 | GA | GWINNETT COUNTY * | 1303220095C | 11-DEC-2003 | 03-04-449P | 05
04 | GA | GWINNETT COUNTY * | 1303220280C | 24-DEC-2003 | 03-04-10576A | 02
04 | GA | GWINNETT COUNTY * | 1303220185C | 24-DEC-2003 | 04-04-1442A | 02
04 | GA | GWINNETT COUNTY * | 1303220160E | 24-DEC-2003 | 04-04-1482A | 02
04 | GA | GWINNETT COUNTY * | 1303220090C | 29-DEC-2003 | 03-04-501P | 05
04 | GA | HALL COUNTY * | 13139C0356E | 24-JUL-2003 | 03-04-8246A | 02
04 | GA | HAPEVILLE, CITY OF | 13121C0367E | 06-OCT-2003 | 03-04-10254A | 02
04 | GA | HARRIS COUNTY* | 1303380150A | 03-JUL-2003 | 03-04-4974A | 02
04 | GA | HARRIS COUNTY* | 1303380150A | 07-AUG-2003 | 03-04-8800A | 02
04 | GA | HARRIS COUNTY* | 1303380275A | 14-AUG-2003 | 03-04-6626A | 02
04 | GA | HARRIS COUNTY* | 1303380250A | 28-AUG-2003 | 03-04-9490A | 02
04 | GA | HARRIS COUNTY* | 1303380175A | 22-SEP-2003 | 03-04-7334A | 02
04 | GA | HARRIS COUNTY* | 1303380150A | 25-SEP-2003 | 03-04-8856A | 02
04 | GA | HARRIS COUNTY* | 1303380150A | 02-OCT-2003 | 03-04-9122A | 02
04 | GA | HARRIS COUNTY* | 1303380250A | 06-OCT-2003 | 03-04-10246A | 02
04 | GA | HARRIS COUNTY* | 1303380250A | 27-OCT-2003 | 03-04-10322A | 02
04 | GA | HARRIS COUNTY* | 1303380150A | 13-NOV-2003 | 03-04-10724A | 02
04 | GA | HARRIS COUNTY* | 1303380150A | 17-NOV-2003 | 03-04-10928A | 02
04 | GA | HARRIS COUNTY* | 1303380250A | 20-NOV-2003 | 03-04-9862A | 02
04 | GA | HARRIS COUNTY* | 1303380170A | 26-NOV-2003 | 04-04-0300A | 02
04 | GA | HELEN, CITY OF | 13311C0104C | 28-AUG-2003 | 03-04-9058A | 02
04 | GA | HENRY COUNTY * | 1304680125B | 24-JUL-2003 | 03-04-6822A | 02
04 | GA | HENRY COUNTY * | 1304680065B | 21-AUG-2003 | 03-04-7934A | 02
04 | GA | HENRY COUNTY * | 1304680125B | 18-SEP-2003 | 03-04-7690A | 01
04 | GA | HENRY COUNTY * | 1304680125B | 06-OCT-2003 | 03-04-10388A | 02
04 | GA | HENRY COUNTY * | 1304680125B | 30-OCT-2003 | 03-04-10974A | 02
04 | GA | HENRY COUNTY * | 1304680125B | 17-NOV-2003 | 03-04-11090A | 02
04 | GA | HENRY COUNTY * | 1304680125B | 15-DEC-2003 | 03-04-10534A | 02
04 | GA | HENRY COUNTY * | 1304680150B | 24-DEC-2003 | 04-04-0720A | 02
04 | GA | HENRY COUNTY * | 1304680070B | 24-DEC-2003 | 04-04-1302A | 02
04 | GA | HOUSTON COUNTY * | 1302470015A | 09-OCT-2003 | 03-04-8562A | 02
04 | GA | IVEY, TOWN OF | 1304200005B | 16-OCT-2003 | 03-04-10030A | 02
04 | GA | JONES COUNTY* | 13169C0275C | 02-OCT-2003 | 03-04-10140A | 02
04 | GA | KENNESAW, CITY OF | 13067C0030F | 01-JUL-2003 | 03-04-5712A | 02
04 | GA | KENNESAW, CITY OF | 13067C0030F | 17-NOV-2003 | 03-04-10036A | 02
04 | GA | LAGRANGE, CITY OF | 1301770009D | 21-AUG-2003 | 03-04-6958A | 01
04 | GA | LAGRANGE, CITY OF | 1301770009D | 25-AUG-2003 | 03-04-6090A | 02
04 | GA | LAWRENCEVILLE, CITY OF | 1300990002B | 11-AUG-2003 | 03-04-9168A | 02
04 | GA | LIBERTY COUNTY * | 1301230210A | 16-OCT-2003 | 03-04-10276A | 02
04 | GA | LIBERTY COUNTY * | 1301230310A | 13-NOV-2003 | 04-04-0768A | 02
04 | GA | LUMPKIN COUNTY | 1303540120A | 28-JUL-2003 | 03-04-6666A | 02
04 | GA | LUMPKIN COUNTY | 1303540225A | 31-JUL-2003 | 03-04-8166A | 02
04 | GA | LUMPKIN COUNTY | 1303540145A | 23-OCT-2003 | 03-04-9748A | 02
04 | GA | MACON, CITY OF | 1300110020E | 28-AUG-2003 | 03-04-7954A | 02
04 | GA | MACON, CITY OF | 1300110020E | 06-OCT-2003 | 03-04-8964A | 17
04 | GA | MARIETTA, CITY OF | 13067C0050F | 08-JUL-2003 | 03-04-6668A | 02
04 | GA | MONROE COUNTY* | 1301380250C | 11-AUG-2003 | 03-04-8362A | 02
04 | GA | MONROE COUNTY* | 1301380225C | 29-SEP-2003 | 03-04-8136A | 02
04 | GA | MONROE COUNTY* | 1301380275C | 06-NOV-2003 | 03-04-10386A | 02
04 | GA | MORGAN COUNTY* | 13211C0230A | 28-JUL-2003 | 03-04-8138A | 02
04 | GA | MORGAN COUNTY* | 13211C0180A | 15-SEP-2003 | 03-04-9216A | 02
04 | GA | MORGAN COUNTY* | 13211C0200A | 15-SEP-2003 | 03-04-9330A | 02
04 | GA | MORGAN COUNTY* | 13211C0350A | 13-NOV-2003 | 04-04-0346A | 02
04 | GA | MORGAN COUNTY* | 13211C0230A | 20-NOV-2003 | 03-04-11114A | 02
04 | GA | MORGAN COUNTY* | 13211C0085A | 24-DEC-2003 | 04-04-0820A | 02
04 | GA | NEWNAN, CITY OF | 1300620005B | 07-AUG-2003 | 03-04-8496A | 02
04 | GA | NEWTON COUNTY * | 1301430095A | 11-AUG-2003 | 03-04-8798A | 02
04 | GA | NEWTON COUNTY * | 1301430150A | 28-AUG-2003 | 03-04-8286A | 02
04 | GA | OCONEE COUNTY * | 1304530040B | 27-OCT-2003 | 03-04-11026A | 02
04 | GA | OCONEE COUNTY * | 1304530040B | 06-NOV-2003 | 04-04-0690A | 02
04 | GA | PAULDING COUNTY * | 13223C0251B | 02-OCT-2003 | 03-04-10396A | 02
04 | GA | PAULDING COUNTY * | 13223C0253B | 02-OCT-2003 | 03-04-8134A | 02
04 | GA | PEACH COUNTY * | 1303730020B | 17-JUL-2003 | 03-04-6598A | 02
04 | GA | PEACHTREE CITY, CITY OF | 13113C0060D | 05-AUG-2003 | 03-04-8500A | 02
04 | GA | RABUN COUNTY * | 1301560100B | 04-SEP-2003 | 03-04-8256A | 02
04 | GA | RICHMOND COUNTY* | 1301580060E | 15-DEC-2003 | 03-04-10802A | 02
04 | GA | RIVERDALE, CITY OF | 1300470001D | 14-AUG-2003 | 03-04-8718A | 02
04 | GA | ROCKDALE COUNTY * | 13247C0162C | 26-NOV-2003 | 04-04-1356A | 02
04 | GA | ROSWELL, CITY OF | 13121C0062E | 03-OCT-2003 | 03-04-485P | 05
04 | GA | ROSWELL, CITY OF | 13121C0064E | 03-OCT-2003 | 03-04-485P | 05
04 | GA | ROSWELL, CITY OF | 13121C0066E | 03-OCT-2003 | 03-04-485P | 05
04 | GA | SMYRNA, CITY OF | 13067C0075F | 10-JUL-2003 | 03-04-6532A | 02
04 | GA | SMYRNA, CITY OF | 13067C0070F | 10-JUL-2003 | 03-04-7880A | 02
04 | GA | SMYRNA, CITY OF | 13067C0075F | 31-JUL-2003 | 03-04-8048A | 02
04 | GA | SMYRNA, CITY OF | 13067C0075F | 21-AUG-2003 | 03-04-8884A | 02
04 | GA | SMYRNA, CITY OF | 13067C0070F | 02-SEP-2003 | 03-04-9002A | 02
04 | GA | SMYRNA, CITY OF | 13067C0075F | 12-SEP-2003 | 03-04-8502A | 02
04 | GA | SMYRNA, CITY OF | 13067C0090F | 23-OCT-2003 | 03-04-9376A | 02
04 | GA | SMYRNA, CITY OF | 13067C0070F | 27-OCT-2003 | 03-04-9694A | 02
04 | GA | SPALDING COUNTY * | 1303880045B | 25-SEP-2003 | 03-04-5698A | 02
04 | GA | ST. MARYS, CITY OF | 13039C0390D | 17-JUL-2003 | 03-04-6366A | 02
04 | GA | ST. MARYS, CITY OF | 13039C0455D | 20-AUG-2003 | 03-04-7218A | 02
04 | GA | SUWANEE, CITY OF | 1303280002A | 11-AUG-2003 | 03-04-7480A | 02
04 | GA | TOWNS COUNTY* | 13281C0055C | 07-AUG-2003 | 03-04-8492A | 02
04 | GA | TOWNS COUNTY* | 13281C0055C | 28-AUG-2003 | 03-04-8962A | 02
04 | GA | TROUP COUNTY * | 1304050100A | 21-JUL-2003 | 03-04-7202A | 02
04 | GA | TROUP COUNTY * | 1304050100A | 07-AUG-2003 | 03-04-7056A | 02
04 | GA | TROUP COUNTY * | 1304050025A | 25-SEP-2003 | 03-04-7200A | 02
04 | GA | UNION COUNTY* | 1302540025C | 30-OCT-2003 | 03-04-10976A | 02
04 | GA | UNION COUNTY* | 1302540025C | 15-DEC-2003 | 03-04-10132A | 02
04 | GA | UNION COUNTY* | 1302540025C | 15-DEC-2003 | 04-04-1440A | 02
04 | GA | WALTON COUNTY * | 13297C0060B | 01-JUL-2003 | 03-04-5072A | 02
04 | GA | WALTON COUNTY * | 13297C0120B | 10-JUL-2003 | 03-04-5236A | 02
04 | GA | WALTON COUNTY * | 13297C0060B | 17-JUL-2003 | 03-04-6760A | 02
04 | GA | WALTON COUNTY * | 13297C0100B | 28-JUL-2003 | 03-04-8282A | 02
04 | GA | WALTON COUNTY * | 13297C0080B | 14-AUG-2003 | 03-04-6990A | 02
04 | GA | WALTON COUNTY * | 13297C0100B | 15-SEP-2003 | 03-04-8366A | 02
04 | GA | WALTON COUNTY * | 13297C0020B | 18-SEP-2003 | 03-04-7550A | 02
04 | GA | WALTON COUNTY * | 13297C0105B | 25-SEP-2003 | 03-04-10018A | 02
04 | GA | WALTON COUNTY * | 13297C0080B | 25-SEP-2003 | 03-04-7778A | 02
04 | GA | WALTON COUNTY * | 13297C0200B | 02-OCT-2003 | 03-04-9892A | 02
04 | GA | WALTON COUNTY * | 13297C0225B | 02-OCT-2003 | 03-04-9892A | 02
04 | GA | WALTON COUNTY * | 13297C0020B | 27-OCT-2003 | 03-04-10930A | 02
04 | GA | WALTON COUNTY * | 13297C0085B | 06-NOV-2003 | 03-04-10530A | 02
04 | GA | WHITE COUNTY* | 13311C0200C | 17-JUL-2003 | 03-04-7330A | 02
04 | GA | WHITFIELD COUNTY* | 1301930025C | 21-NOV-2003 | 03-04-327P | 05
04 | GA | WINDER, CITY OF | 1304970050A | 26-SEP-2003 | 03-04-343P | 05
04 | GA | WINDER, CITY OF | 1304970050A | 09-OCT-2003 | 03-04-463P | 05
04 | GA | WOODSTOCK, CITY OF | 13057C0330B | 11-AUG-2003 | 03-04-8714A | 02
04 | KY | ANDERSON COUNTY* | 2100020050B | 14-JUL-2003 | 03-04-7314A | 02
04 | KY | AUGUSTA, CITY OF | 2100220001D | 01-JUL-2003 | 03-04-6342A | 02
04 | KY | BENTON, CITY OF | 210163—06B | 08-DEC-2003 | 04-04-0080A | 02
04 | KY | BEREA, CITY OF | 2101560005B | 09-OCT-2003 | 03-04-9570A | 02
04 | KY | BOWLING GREEN, CITY OF | 21227C0115D | 24-NOV-2003 | 03-04-11018A | 02
04 | KY | BRANDENBURG,CITY OF | 210170—01B | 16-OCT-2003 | 03-04-9256A | 02
04 | KY | CALLOWAY COUNTY * | 2103130002A | 03-JUL-2003 | 03-04-8052A | 02
04 | KY | CAMPBELL COUNTY * | 2100340090B | 04-SEP-2003 | 03-04-9022A | 02
04 | KY | CAMPBELL COUNTY * | 2100340120B | 24-DEC-2003 | 03-04-9502A | 02
04 | KY | CARTER COUNTY * | 2100500180B | 20-OCT-2003 | 03-04-10426A | 02
04 | KY | DAVIESS COUNTY * | 21059C0280C | 11-AUG-2003 | 03-04-7112A | 01
04 | KY | DAVIESS COUNTY * | 21059C0145C | 19-AUG-2003 | 03-04-9018A | 02
04 | KY | DAVIESS COUNTY * | 21059C0255C | 06-OCT-2003 | 03-04-9572A | 01
04 | KY | DAVIESS COUNTY * | 21059C0280C | 27-OCT-2003 | 03-04-10612A | 01
04 | KY | DAVIESS COUNTY * | 21059C0115C | 24-NOV-2003 | 04-04-0402A | 01
04 | KY | DAVIESS COUNTY * | 21059C0280C | 04-DEC-2003 | 03-04-10894A | 02
04 | KY | DAWSON SPRINGS, CITY OF | 210113—03B | 31-JUL-2003 | 03-04-6582A | 02
04 | KY | FLOYD COUNTY * | 2100690055C | 21-JUL-2003 | 03-04-7474A | 02
04 | KY | FORT WRIGHT, CITY OF | 2102490003C | 05-AUG-2003 | 03-04-6924A | 02
04 | KY | FRANKLIN COUNTY * | 2102800030B | 07-AUG-2003 | 03-04-8644A | 02
04 | KY | GALLATIN COUNTY* | 2102810040A | 05-AUG-2003 | 03-04-8058A | 02
04 | KY | GALLATIN COUNTY* | 2102810020A | 06-NOV-2003 | 03-04-10710A | 02
04 | KY | GALLATIN COUNTY* | 2102810125A | 10-NOV-2003 | 04-04-0452A | 02
04 | KY | GREENUP COUNTY* | 2102840020B | 08-JUL-2003 | 03-04-7848A | 02
04 | KY | HARDIN COUNTY* | 21093C0075C | 18-SEP-2003 | 03-04-8128A | 02
04 | KY | HARRISON COUNTY * | 2103290050B | 08-JUL-2003 | 03-04-5200A | 02
04 | KY | HART COUNTY * | 2102570003B | 24-NOV-2003 | 03-04-10794A | 02
04 | KY | JEFFERSON COUNTY* | 21111C0170D | 01-JUL-2003 | 03-04-3514A | 02
04 | KY | JEFFERSON COUNTY* | 21111C0180D | 01-JUL-2003 | 03-04-7682A | 02
04 | KY | JEFFERSON COUNTY* | 21111C0170D | 03-JUL-2003 | 03-04-8042A | 02
04 | KY | JEFFERSON COUNTY* | 21111C0190D | 17-JUL-2003 | 03-04-6776A | 02
04 | KY | JEFFERSON COUNTY* | 21111C0070D | 17-JUL-2003 | 03-04-7414A | 02
04 | KY | JEFFERSON COUNTY* | 21111C0020D | 17-JUL-2003 | 03-04-8126A | 02
04 | KY | JEFFERSON COUNTY* | 21111C0020D | 29-JUL-2003 | 03-04-8412A | 02
04 | KY | JEFFERSON COUNTY* | 21111C0020D | 29-JUL-2003 | 03-04-8532A | 02
04 | KY | JEFFERSON COUNTY* | 21111C0330D | 05-AUG-2003 | 03-04-5030A | 02
04 | KY | JEFFERSON COUNTY* | 21111C0170D | 07-AUG-2003 | 03-04-8778A | 02
04 | KY | JEFFERSON COUNTY* | 21111C0095D | 11-AUG-2003 | 03-04-8776A | 02
04 | KY | JEFFERSON COUNTY* | 21111C0080D | 15-SEP-2003 | 03-04-9766A | 02
04 | KY | JEFFERSON COUNTY* | 21111C0110D | 18-SEP-2003 | 03-04-9768A | 02
04 | KY | JEFFERSON COUNTY* | 21111C0170D | 02-OCT-2003 | 03-04-10528A | 02
04 | KY | JEFFERSON COUNTY* | 21111C0130D | 17-OCT-2003 | 03-04-483P | 05
04 | KY | JEFFERSON COUNTY* | 21111C0135D | 17-OCT-2003 | 03-04-483P | 05
04 | KY | JEFFERSON COUNTY* | 21111C0140D | 17-OCT-2003 | 03-04-483P | 05
04 | KY | JEFFERSON COUNTY* | 21111C0085D | 20-OCT-2003 | 03-04-10116A | 01
04 | KY | JEFFERSON COUNTY* | 21111C0110D | 30-OCT-2003 | 03-04-10240A | 02
04 | KY | JEFFERSON COUNTY* | 21111C0170D | 10-NOV-2003 | 03-04-10720A | 02
04 | KY | JEFFERSON COUNTY* | 21111C0085D | 13-NOV-2003 | 04-04-0298A | 02
04 | KY | JEFFERSON COUNTY* | 21111C0080D | 13-NOV-2003 | 04-04-0592A | 02
04 | KY | JEFFERSON COUNTY* | 21111C0020D | 13-NOV-2003 | 04-04-0688A | 02
04 | KY | JEFFERSON COUNTY* | 21111C0165D | 13-NOV-2003 | 04-04-0754A | 02
04 | KY | JEFFERSON COUNTY* | 21111C0170D | 20-NOV-2003 | 03-04-9072A | 02
04 | KY | JEFFERSON COUNTY* | 21111C0085D | 08-DEC-2003 | 04-04-1048A | 02
04 | KY | JEFFERSON COUNTY* | 21111C0145D | 11-DEC-2003 | 04-04-0724A | 01
04 | KY | JEFFERSON COUNTY* | 21111C0180D | 22-DEC-2003 | 04-04-1424A | 02
04 | KY | JEFFERSONTOWN, CITY OF | 21111C0095D | 02-JUL-2003 | 03-04-207P | 05
04 | KY | JEFFERSONTOWN, CITY OF | 21111C0095D | 03-JUL-2003 | 03-04-7788A | 02
04 | KY | LEXINGTON-FAYETTE URBAN COUNTY GOVERNMENT | 2100670060C | 24-JUL-2003 | 03-04-8414A | 02
04 | KY | LEXINGTON-FAYETTE URBAN COUNTY GOVERNMENT | 2100670040C | 29-JUL-2003 | 03-04-261P | 05
04 | KY | LEXINGTON-FAYETTE URBAN COUNTY GOVERNMENT | 2100670080C | 29-JUL-2003 | 03-04-261P | 05
04 | KY | LEXINGTON-FAYETTE URBAN COUNTY GOVERNMENT | 2100670060C | 25-AUG-2003 | 03-04-9020A | 02
04 | KY | LEXINGTON-FAYETTE URBAN COUNTY GOVERNMENT | 2100670070C | 25-AUG-2003 | 03-04-9254A | 02
04 | KY | LEXINGTON-FAYETTE URBAN COUNTY GOVERNMENT | 2100670080C | 29-SEP-2003 | 03-04-10002A | 02
04 | KY | LEXINGTON-FAYETTE URBAN COUNTY GOVERNMENT | 2100670060C | 02-OCT-2003 | 03-04-9208A | 02
04 | KY | LEXINGTON-FAYETTE URBAN COUNTY GOVERNMENT | 2100670070C | 23-OCT-2003 | 04-04-0028A | 02
04 | KY | LEXINGTON-FAYETTE URBAN COUNTY GOVERNMENT | 2100670040C | 27-OCT-2003 | 03-04-10610A | 02
04 | KY | LEXINGTON-FAYETTE URBAN COUNTY GOVERNMENT | 2100670080C | 30-OCT-2003 | 03-04-9916A | 01
04 | KY | LUDLOW, CITY OF | 2102660001B | 20-OCT-2003 | 03-04-10272A | 02
04 | KY | MADISONVILLE, CITY OF | 2101150010C | 21-JUL-2003 | 03-04-7528A | 02
04 | KY | MARION COUNTY | 2101600100B | 07-AUG-2003 | 03-04-8130A | 02
04 | KY | MARSHALL COUNTY * | 2102520050B | 03-NOV-2003 | 03-04-10798A | 02
04 | KY | MARSHALL COUNTY * | 2102520025B | 24-NOV-2003 | 03-04-9776A | 02
04 | KY | MARTIN COUNTY* | 2101660034C | 22-DEC-2003 | 03-04-7708A | 02
04 | KY | MURRAY, CITY OF | 2103130004A | 01-JUL-2003 | 03-04-7888A | 01
04 | KY | MURRAY, CITY OF | 2103130004A | 03-JUL-2003 | 03-04-6002A | 01
04 | KY | MURRAY, CITY OF | 2100330005B | 08-SEP-2003 | 03-04-9500A | 02
04 | KY | NICHOLASVILLE, CITY OF | 2101260002B | 31-JUL-2003 | 03-04-8632A | 02
04 | KY | OWENSBORO, CITY OF | 21059C0280C | 08-JUL-2003 | 03-04-7942A | 02
04 | KY | OWENSBORO, CITY OF | 21059C0280C | 31-JUL-2003 | 03-04-7416A | 02
04 | KY | OWENSBORO, CITY OF | 21059C0260C | 31-JUL-2003 | 03-04-8630A | 02
04 | KY | OWENSBORO, CITY OF | 21059C0260C | 14-AUG-2003 | 03-04-8774A | 02
04 | KY | OWENSBORO, CITY OF | 21059C0280C | 04-SEP-2003 | 03-04-9496A | 02
04 | KY | OWENSBORO, CITY OF | 21059C0260C | 04-SEP-2003 | 03-04-9498A | 02
04 | KY | OWENSBORO, CITY OF | 21059C0260C | 08-SEP-2003 | 03-04-9772A | 02
04 | KY | OWENSBORO, CITY OF | 21059C0260C | 12-SEP-2003 | 03-04-9774A | 02
04 | KY | OWENSBORO, CITY OF | 21059C0280C | 12-SEP-2003 | 03-04-9846A | 02
04 | KY | OWENSBORO, CITY OF | 21059C0260C | 22-SEP-2003 | 03-04-9918A | 02
04 | KY | OWENSBORO, CITY OF | 21059C0280C | 22-SEP-2003 | 03-04-9920A | 01
04 | KY | OWENSBORO, CITY OF | 21059C0280C | 29-SEP-2003 | 03-04-10242A | 02
04 | KY | OWENSBORO, CITY OF | 21059C0260C | 08-DEC-2003 | 04-04-0972A | 02
04 | KY | OWENSBORO, CITY OF | 21059C0280C | 15-DEC-2003 | 04-04-1212A | 02
04 | KY | PADUCAH, CITY OF | 2101520006D | 12-SEP-2003 | 03-04-9770A | 02
04 | KY | PERRY COUNTY * | 2151910125B | 04-DEC-2003 | 03-04-10790A | 02
04 | KY | PIKE COUNTY* | 21195C0115F | 19-AUG-2003 | 03-04-9016A | 02
04 | KY | PIKE COUNTY* | 21195C0070F | 29-OCT-2003 | 03-04-319P | 05
04 | KY | PIKE COUNTY* | 21195C0070F | 30-OCT-2003 | 03-04-10812A | 02
04 | KY | PINEVILLE, CITY OF | 2100120001C | 01-JUL-2003 | 03-04-4658A | 17
04 | KY | SHEPHERDSVILLE, CITY OF | 2100280005D | 12-SEP-2003 | 03-04-8730A | 01
04 | KY | SHEPHERDSVILLE, CITY OF | 2100280005D | 02-OCT-2003 | 03-04-9074A | 01
04 | KY | SHEPHERDSVILLE, CITY OF | 2100280005D | 20-NOV-2003 | 03-04-8734A | 01
04 | KY | STANTON, CITY OF | 2101960001B | 21-AUG-2003 | 03-04-9178A | 02
04 | KY | STANTON, CITY OF | 2101960001B | 13-NOV-2003 | 04-04-0098A | 02
04 | KY | TRIGG COUNTY * | 2103150007B | 08-DEC-2003 | 04-04-0594A | 02
04 | KY | WORTHINGTON, CITY OF | 2100920001B | 29-JUL-2003 | 03-04-8054A | 02
04 | KY | WORTHINGTON, CITY OF | 2100920001B | 10-NOV-2003 | 04-04-0400A | 02
04 | MS | BILOXI, CITY OF | 2852520004C | 26-SEP-2003 | 03-04-375P | 05
04 | MS | BOLIVAR COUNTY * | 2800110275B | 12-SEP-2003 | 03-04-8398A | 02
04 | MS | BRANDON, CITY OF | 2801430001C | 18-SEP-2003 | 03-04-7564A | 01
04 | MS | BRANDON, CITY OF | 28121C0192E | 06-NOV-2003 | 04-04-0004V | 19
04 | MS | BRANDON, CITY OF | 28121C0194E | 06-NOV-2003 | 04-04-0004V | 19
04 | MS | BRANDON, CITY OF | 28121C0211E | 06-NOV-2003 | 04-04-0004V | 19
04 | MS | CANTON, CITY OF | 28098C0185E | 17-NOV-2003 | 04-04-0774A | 02
04 | MS | CLARKE COUNTY * | 2802200200B | 03-JUL-2003 | 03-04-6796A | 02
04 | MS | CLAY COUNTY * | 28025C0115C | 15-SEP-2003 | 03-04-9700A | 02
04 | MS | COLUMBUS, CITY OF | 28087C0065J | 12-SEP-2003 | 03-04-6890A | 01
04 | MS | CORINTH, CITY OF | 2800020001B | 20-AUG-2003 | 03-04-5426A | 02
04 | MS | DE SOTO COUNTY * | 28033C0115D | 24-JUL-2003 | 03-04-6256A | 02
04 | MS | DE SOTO COUNTY * | 28033C0043E | 21-AUG-2003 | 03-04-6892A | 02
04 | MS | DE SOTO COUNTY * | 28033C0105D | 24-NOV-2003 | 04-04-0500A | 01
04 | MS | FLORENCE, TOWN OF | 2801440001B | 24-JUL-2003 | 03-04-7220A | 01
04 | MS | FLORENCE, TOWN OF | 28121C0317E | 06-NOV-2003 | 04-04-0010V | 19
04 | MS | FLORENCE, TOWN OF | 28121C0336E | 06-NOV-2003 | 04-04-0010V | 19
04 | MS | FLOWOOD, CITY OF | 28121C0177E | 06-NOV-2003 | 04-04-0008V | 19
04 | MS | FLOWOOD, CITY OF | 28121C0178E | 06-NOV-2003 | 04-04-0008V | 19
04 | MS | FLOWOOD, CITY OF | 28121C0179E | 06-NOV-2003 | 04-04-0008V | 19
04 | MS | FLOWOOD, CITY OF | 2802890010C | 19-NOV-2003 | 03-04-401P | 05
04 | MS | FORREST COUNTY * | 28035C0125C | 11-AUG-2003 | 03-04-9028A | 02
04 | MS | GEORGE COUNTY * | 2802230025B | 26-NOV-2003 | 03-04-10726A | 02
04 | MS | ITAWAMBA COUNTY * | 2802900075B | 25-AUG-2003 | 03-04-9390A | 02
04 | MS | ITAWAMBA COUNTY * | 2802900075B | 20-OCT-2003 | 03-04-5342A | 02
04 | MS | JACKSON, CITY OF | 2800720040F | 11-AUG-2003 | 03-04-8304A | 02
04 | MS | JACKSON, CITY OF | 2800720015F | 04-SEP-2003 | 03-04-9036A | 02
04 | MS | JACKSON, CITY OF | 2800720045F | 12-SEP-2003 | 03-04-5608A | 01
04 | MS | JACKSON, CITY OF | 2800720015G | 16-OCT-2003 | 03-04-5512A | 02
04 | MS | LAMAR COUNTY * | 28073C0060C | 11-AUG-2003 | 03-04-7936A | 02
04 | MS | LAMAR COUNTY * | 28073C0055C | 14-AUG-2003 | 03-04-6488A | 02
04 | MS | LAMAR COUNTY * | 28073C0050C | 30-OCT-2003 | 03-04-10262A | 02
04 | MS | LAUDERDALE COUNTY * | 28075C0015C | 25-SEP-2003 | 03-04-9986A | 02
04 | MS | LAUDERDALE COUNTY * | 28075C0085D | 06-OCT-2003 | 03-04-10448A | 02
04 | MS | LEE COUNTY * | 28081C0209D | 17-JUL-2003 | 03-04-6894A | 02
04 | MS | LOWNDES COUNTY * | 28087C0110J | 15-DEC-2003 | 03-04-10584A | 17
04 | MS | MADISON COUNTY * | 28089C0195D | 20-OCT-2003 | 03-04-10558A | 01
04 | MS | MADISON COUNTY * | 28089C0215D | 20-OCT-2003 | 03-04-10558A | 01
04 | MS | MADISON, CITY OF | 28089C0310D | 06-OCT-2003 | 03-04-10078A | 02
04 | MS | MARION COUNTY * | 2802300125B | 25-SEP-2003 | 03-04-9274A | 02
04 | MS | MOSS POINT, CITY OF | 2852580003D | 17-JUL-2003 | 03-04-7806A | 02
04 | MS | MOSS POINT, CITY OF | 2852580002D | 15-DEC-2003 | 04-04-1068A | 02
04 | MS | OCEAN SPRINGS, CITY OF | 2852590007E | 20-AUG-2003 | 03-04-8802A | 02
04 | MS | OCEAN SPRINGS, CITY OF | 2852590008D | 30-OCT-2003 | 03-04-11038A | 02
04 | MS | OXFORD, CITY OF | 2800930100B | 29-JUL-2003 | 03-04-5140A | 01
04 | MS | PEARL RIVER VALLEY WATER SUPPLY DISTRICT | 2803380070B | 14-OCT-2003 | 03-04-10540A | 02
04 | MS | PEARL, CITY OF | 28121C0169E | 06-NOV-2003 | 04-04-0006V | 19
04 | MS | PEARL, CITY OF | 28121C0186E | 06-NOV-2003 | 04-04-0006V | 19
04 | MS | PEARL, CITY OF | 28121C0188E | 06-NOV-2003 | 04-04-0006V | 19
04 | MS | PELAHATCHIE, TOWN OF | 28121C0233E | 30-OCT-2003 | 03-04-10938A | 02
04 | MS | PLANTERSVILLE, VILLAGE OF | 28081C0233D | 15-SEP-2003 | 03-04-9064A | 02
04 | MS | RANKIN COUNTY * | 2801420140C | 15-SEP-2003 | 03-04-8392A | 02
04 | MS | RANKIN COUNTY * | 28121C0070E | 06-NOV-2003 | 04-04-0002V | 19
04 | MS | RANKIN COUNTY * | 28121C0090E | 06-NOV-2003 | 04-04-0002V | 19
04 | MS | RANKIN COUNTY * | 28121C0177E | 06-NOV-2003 | 04-04-0002V | 19
04 | MS | RANKIN COUNTY * | 28121C0181E | 06-NOV-2003 | 04-04-0002V | 19
04 | MS | RANKIN COUNTY * | 28121C0182E | 06-NOV-2003 | 04-04-0002V | 19
04 | MS | RANKIN COUNTY * | 28121C0184E | 06-NOV-2003 | 04-04-0002V | 19
04 | MS | RANKIN COUNTY * | 28121C0193E | 06-NOV-2003 | 04-04-0002V | 19
04 | MS | RANKIN COUNTY * | 28121C0205E | 06-NOV-2003 | 04-04-0002V | 19
04 | MS | RANKIN COUNTY * | 28121C0210E | 06-NOV-2003 | 04-04-0002V | 19
04 | MS | RANKIN COUNTY * | 28121C0317E | 06-NOV-2003 | 04-04-0002V | 19
04 | MS | RANKIN COUNTY * | 28121C0205E | 24-NOV-2003 | 03-04-10264A | 02
04 | MS | RICHLAND, CITY OF | 28121C0168E | 06-NOV-2003 | 04-04-0012V | 19
04 | MS | RICHLAND, CITY OF | 28121C0306E | 06-NOV-2003 | 04-04-0012V | 19
04 | MS | RICHLAND, CITY OF | 28121C0168E | 10-NOV-2003 | 03-04-10266A | 02
04 | MS | RIDGELAND, CITY OF | 28089C0320D | 12-SEP-2003 | 03-04-8504A | 02
04 | MS | RIDGELAND, CITY OF | 28089C0320D | 18-SEP-2003 | 03-04-9526A | 02
04 | MS | RIDGELAND, CITY OF | 28089C0320D | 06-OCT-2003 | 03-04-447P | 05
04 | MS | RIDGELAND, CITY OF | 28089C0320D | 16-OCT-2003 | 03-04-9452A | 02
04 | MS | RIDGELAND, CITY OF | 28089C0320D | 16-OCT-2003 | 03-04-9454A | 17
04 | MS | RIPLEY,CITY OF | 2801730005C | 11-AUG-2003 | 03-04-8262A | 01
04 | MS | SALTILLO, TOWN OF | 28081C0155D | 07-AUG-2003 | 03-04-6170A | 01
04 | MS | SALTILLO, TOWN OF | 28081C0160D | 29-SEP-2003 | 03-04-7562A | 02
04 | MS | SOUTHAVEN, CITY OF | 28033C0030E | 17-JUL-2003 | 03-04-7260A | 02
04 | MS | SOUTHAVEN, CITY OF | 28033C0041E | 21-AUG-2003 | 03-04-8676A | 02
04 | MS | SOUTHAVEN, CITY OF | 28033C0040E | 13-NOV-2003 | 04-04-0696A | 02
04 | MS | STARKVILLE, CITY OF | 2801240001C | 16-OCT-2003 | 03-04-8308A | 02
04 | MS | STARKVILLE, CITY OF | 2801240003C | 16-OCT-2003 | 03-04-9456A | 01
04 | MS | TISHOMINGO COUNTY | 2802830020B | 14-AUG-2003 | 03-04-8370A | 02
04 | MS | TUPELO, CITY OF | 28081C0163D | 01-JUL-2003 | 03-04-6498A | 17
04 | MS | TUPELO, CITY OF | 28081C0142D | 21-AUG-2003 | 03-04-7808A | 01
04 | MS | TUPELO, CITY OF | 28081C0142D | 15-SEP-2003 | 03-04-9524A | 02
04 | MS | TUPELO, CITY OF | 28081C0143D | 02-OCT-2003 | 03-04-6260A | 02
04 | MS | TUPELO, CITY OF | 28081C0163D | 14-OCT-2003 | 03-04-6052A | 02
04 | MS | TUPELO, CITY OF | 28081C0143D | 13-NOV-2003 | 04-04-0618A | 02
04 | MS | TUPELO, CITY OF | 28081C0143D | 26-NOV-2003 | 04-04-0772A | 02
04 | MS | TUPELO, CITY OF | 28081C0143D | 15-DEC-2003 | 04-04-1030A | 02
04 | MS | UNION COUNTY* | 280237—01A | 16-OCT-2003 | 03-04-8210A | 02
04 | MS | WASHINGTON COUNTY* | 2801770200B | 30-OCT-2003 | 03-04-10898A | 02
04 | NC | ALAMANCE COUNTY* | 37001C0200E | 15-DEC-2003 | 04-04-1282A | 02
04 | NC | ALEXANDER COUNTY* | 3703980004C | 24-JUL-2003 | 03-04-8028A | 02
04 | NC | ALEXANDER COUNTY* | 3703980003C | 06-OCT-2003 | 03-04-10472A | 02
04 | NC | ALLEGHANY COUNTY | 3700040002A | 29-SEP-2003 | 03-04-9562A | 02
04 | NC | APEX, TOWN OF | 37183C0480E | 28-AUG-2003 | 03-04-5646A | 01
04 | NC | APEX, TOWN OF | 37183C0480E | 17-NOV-2003 | 04-04-0926A | 01
04 | NC | ARCHDALE, CITY OF | 3702730003B | 31-JUL-2003 | 03-04-8556A | 02
04 | NC | ASHEBORO, CITY OF | 3701960008B | 15-SEP-2003 | 03-04-9980A | 02
04 | NC | ASHEVILLE, CITY OF | 37021C0306C | 02-OCT-2003 | 03-04-7770A | 02
04 | NC | BEAUFORT COUNTY* | 3720660000J | 04-SEP-2003 | 03-04-9680A | 02
04 | NC | BEAUFORT COUNTY* | 3720566800J | 09-OCT-2003 | 03-04-10230A | 02
04 | NC | BEAUFORT COUNTY* | 3720568200J | 06-NOV-2003 | 03-04-11010A | 02
04 | NC | BLADEN COUNTY * | 3702930005B | 08-DEC-2003 | 03-04-9976A | 02
04 | NC | BOONE, TOWN OF | 37189C0184E | 10-JUL-2003 | 03-04-7510A | 01
04 | NC | BOONE, TOWN OF | 37189C0183E | 29-JUL-2003 | 03-04-7050A | 02
04 | NC | BREVARD, CITY OF | 37175C0202C | 14-OCT-2003 | 03-04-8674A | 01
04 | NC | BRUNSWICK COUNTY* | 3702950360E | 06-OCT-2003 | 03-04-9902A | 02
04 | NC | BRUNSWICK COUNTY* | 3702950360E | 23-OCT-2003 | 03-04-10142A | 02
04 | NC | BRUNSWICK COUNTY* | 3702950360E | 06-NOV-2003 | 04-04-0134A | 02
04 | NC | BRUNSWICK COUNTY* | 3702950360E | 20-NOV-2003 | 04-04-0866A | 02
04 | NC | BRUNSWICK COUNTY* | 3702950360E | 26-NOV-2003 | 04-04-1012A | 02
04 | NC | BUNCOMBE COUNTY * | 37021C0211C | 06-OCT-2003 | 03-04-9596A | 02
04 | NC | BUNCOMBE COUNTY * | 37021C0455C | 27-OCT-2003 | 03-04-8910A | 02
04 | NC | BURKE COUNTY * | 3700340100C | 25-AUG-2003 | 03-04-9102A | 02
04 | NC | BURKE COUNTY * | 3700340168E | 12-SEP-2003 | 03-04-9836A | 02
04 | NC | BURLINGTON, CITY OF | 37001C0104E | 06-OCT-2003 | 03-04-10572A | 02
04 | NC | CABARRUS COUNTY * | 37025C0084D | 10-JUL-2003 | 03-04-6348A | 01
04 | NC | CABARRUS COUNTY * | 37025C0145D | 28-AUG-2003 | 03-04-9414A | 02
04 | NC | CABARRUS COUNTY * | 37025C0155D | 29-SEP-2003 | 03-04-9882A | 02
04 | NC | CABARRUS COUNTY * | 37025C0140D | 13-NOV-2003 | 04-04-0578A | 01
04 | NC | CALDWELL COUNTY * | 37027C0090D | 03-JUL-2003 | 03-04-7976A | 02
04 | NC | CALDWELL COUNTY * | 37027C0045E | 07-AUG-2003 | 03-04-7406A | 02
04 | NC | CALDWELL COUNTY * | 37027C0050D | 07-AUG-2003 | 03-04-8558A | 02
04 | NC | CALDWELL COUNTY * | 37027C0050D | 18-SEP-2003 | 03-04-8554A | 02
04 | NC | CALDWELL COUNTY * | 37027C0050D | 23-OCT-2003 | 03-04-10838A | 02
04 | NC | CAMDEN COUNTY * | 3700420125B | 24-JUL-2003 | 03-04-5606A | 02
04 | NC | CARTERET COUNTY * | 3720536600J | 17-JUL-2003 | 03-04-7626V | 19
04 | NC | CARTERET COUNTY * | 3720537500J | 17-JUL-2003 | 03-04-7626V | 19
04 | NC | CARTERET COUNTY * | 3720632600J | 17-JUL-2003 | 03-04-7626V | 19
04 | NC | CARTERET COUNTY * | 3720633600J | 17-JUL-2003 | 03-04-7626V | 19
04 | NC | CARTERET COUNTY * | 3720646000J | 17-JUL-2003 | 03-04-7626V | 19
04 | NC | CARY, TOWN OF | 37183C0484E | 10-JUL-2003 | 03-04-133P | 05
04 | NC | CATAWBA COUNTY * | 3700500350C | 03-JUL-2003 | 03-04-8062A | 02
04 | NC | CATAWBA COUNTY * | 3700500325B | 08-JUL-2003 | 03-04-7874A | 02
04 | NC | CATAWBA COUNTY * | 3700500350C | 10-JUL-2003 | 03-04-7876A | 02
04 | NC | CATAWBA COUNTY * | 3700500350C | 10-JUL-2003 | 03-04-7914A | 02
04 | NC | CATAWBA COUNTY * | 3700500350C | 29-JUL-2003 | 03-04-8252A | 02
04 | NC | CATAWBA COUNTY * | 3700500350C | 29-JUL-2003 | 03-04-8446A | 02
04 | NC | CATAWBA COUNTY * | 3700500325B | 31-JUL-2003 | 03-04-8724A | 02
04 | NC | CATAWBA COUNTY * | 3700500155B | 07-AUG-2003 | 03-04-5818A | 02
04 | NC | CATAWBA COUNTY * | 3700500325B | 07-AUG-2003 | 03-04-7516A | 02
04 | NC | CATAWBA COUNTY * | 3700500350C | 07-AUG-2003 | 03-04-7916A | 02
04 | NC | CATAWBA COUNTY * | 3700500350C | 21-AUG-2003 | 03-04-8988A | 02
04 | NC | CATAWBA COUNTY * | 3700500350C | 21-AUG-2003 | 03-04-8990A | 02
04 | NC | CATAWBA COUNTY * | 3700500350C | 28-AUG-2003 | 03-04-9248A | 02
04 | NC | CATAWBA COUNTY * | 3700500200C | 08-SEP-2003 | 03-04-9560A | 02
04 | NC | CATAWBA COUNTY * | 3700500350C | 12-SEP-2003 | 03-04-9244A | 02
04 | NC | CATAWBA COUNTY * | 3700500325B | 12-SEP-2003 | 03-04-9736A | 02
04 | NC | CATAWBA COUNTY * | 3700500350C | 06-OCT-2003 | 03-04-10526A | 02
04 | NC | CATAWBA COUNTY * | 3700500350C | 06-OCT-2003 | 03-04-9838A | 02
04 | NC | CATAWBA COUNTY * | 3700500200C | 09-OCT-2003 | 03-04-10224A | 02
04 | NC | CATAWBA COUNTY * | 3700500325B | 23-OCT-2003 | 03-04-10604A | 02
04 | NC | CATAWBA COUNTY * | 3700500350C | 30-OCT-2003 | 03-04-10774A | 02
04 | NC | CATAWBA COUNTY * | 3700500325B | 06-NOV-2003 | 04-04-0024A | 02
04 | NC | CATAWBA COUNTY * | 3700500325B | 06-NOV-2003 | 04-04-0192A | 02
04 | NC | CATAWBA COUNTY * | 3700500350C | 06-NOV-2003 | 04-04-0196A | 02
04 | NC | CATAWBA COUNTY * | 3700500350C | 10-NOV-2003 | 04-04-0338A | 02
04 | NC | CATAWBA COUNTY * | 3700500350C | 10-NOV-2003 | 04-04-0586A | 02
04 | NC | CATAWBA COUNTY * | 3700500350C | 10-NOV-2003 | 04-04-0844A | 02
04 | NC | CATAWBA COUNTY * | 3700500325B | 13-NOV-2003 | 03-04-10924A | 02
04 | NC | CATAWBA COUNTY * | 3700500350C | 20-NOV-2003 | 03-04-11008A | 02
04 | NC | CATAWBA COUNTY * | 3700500350C | 20-NOV-2003 | 04-04-0194A | 02
04 | NC | CATAWBA COUNTY * | 3700500325B | 20-NOV-2003 | 04-04-0232A | 02
04 | NC | CATAWBA COUNTY * | 3700500350C | 20-NOV-2003 | 04-04-0330A | 02
04 | NC | CATAWBA COUNTY * | 3700500325B | 20-NOV-2003 | 04-04-0332A | 02
04 | NC | CATAWBA COUNTY * | 3700500325B | 20-NOV-2003 | 04-04-0334A | 02
04 | NC | CATAWBA COUNTY * | 3700500350C | 20-NOV-2003 | 04-04-0430A | 02
04 | NC | CATAWBA COUNTY * | 3700500325B | 20-NOV-2003 | 04-04-0442A | 02
04 | NC | CATAWBA COUNTY * | 3700500325B | 26-NOV-2003 | 04-04-1092A | 02
04 | NC | CATAWBA COUNTY * | 3700500350C | 26-NOV-2003 | 04-04-1166A | 02
04 | NC | CATAWBA COUNTY * | 3700500350C | 04-DEC-2003 | 04-04-0744A | 02
04 | NC | CATAWBA COUNTY * | 3700500325B | 08-DEC-2003 | 04-04-0910A | 02
04 | NC | CATAWBA COUNTY * | 3700500325B | 24-DEC-2003 | 04-04-1600A | 02
04 | NC | CATAWBA COUNTY * | 3700500350C | 24-DEC-2003 | 04-04-1600A | 02
04 | NC | CEDAR POINT, TOWN OF | 3720537400J | 17-JUL-2003 | 03-04-7912V | 19
04 | NC | CHAPEL HILL, TOWN OF | 3701800001E | 18-SEP-2003 | 03-04-9910A | 02
04 | NC | CHAPEL HILL, TOWN OF | 3701800001E | 25-SEP-2003 | 03-04-10380A | 02
04 | NC | CHAPEL HILL, TOWN OF | 3701800004E | 25-SEP-2003 | 03-04-10380A | 02
04 | NC | CHAPEL HILL, TOWN OF | 3701800001E | 06-NOV-2003 | 04-04-0078A | 02
04 | NC | CHARLOTTE, CITY OF | 3701590019B | 22-SEP-2003 | 03-04-8340A | 02
04 | NC | CHARLOTTE, CITY OF | 3701590026B | 10-OCT-2003 | 03-04-7774A | 02
04 | NC | CHARLOTTE, CITY OF | 3701580190B | 16-OCT-2003 | 03-04-8944A | 01
04 | NC | CHEROKEE COUNTY * | 3700590125B | 20-NOV-2003 | 03-04-10520A | 02
04 | NC | CLEMMONS, VILLAGE OF | 37067C0244H | 26-NOV-2003 | 04-04-0472A | 01
04 | NC | CLEVELAND COUNTY* | 3703020200B | 10-NOV-2003 | 03-04-10698A | 02
04 | NC | COLUMBUS COUNTY * | 3703050350B | 15-SEP-2003 | 03-04-8908A | 02
04 | NC | CONCORD, CITY OF | 37025C0080D | 23-OCT-2003 | 04-04-0160A | 02
04 | NC | CONCORD, CITY OF | 37025C0080D | 08-DEC-2003 | 04-04-0162A | 01
04 | NC | CORNELIUS, TOWN OF | 3704980005A | 29-SEP-2003 | 03-04-10514A | 02
04 | NC | CORNELIUS, TOWN OF | 3704980005A | 27-OCT-2003 | 04-04-0076A | 02
04 | NC | CORNELIUS, TOWN OF | 3704980005A | 30-OCT-2003 | 03-04-10606A | 02
04 | NC | CORNELIUS, TOWN OF | 3704980005A | 13-NOV-2003 | 04-04-0280A | 02
04 | NC | CRAVEN COUNTY* | 3700720330B | 08-SEP-2003 | 03-04-9482A | 02
04 | NC | CRAVEN COUNTY* | 3700720305B | 14-OCT-2003 | 03-04-10512A | 02
04 | NC | CRAVEN COUNTY* | 3700720320B | 26-NOV-2003 | 04-04-0708A | 01
04 | NC | CUMBERLAND COUNTY * | 3700760150B | 14-JUL-2003 | 03-04-8100A | 02
04 | NC | CURRITUCK COUNTY * | 3700780201D | 29-JUL-2003 | 03-04-8552A | 02
04 | NC | CURRITUCK COUNTY * | 3700780203D | 18-SEP-2003 | 03-04-9600A | 02
04 | NC | CURRITUCK COUNTY * | 3700780203D | 30-OCT-2003 | 03-04-9192A | 02
04 | NC | CURRITUCK COUNTY * | 3700780203D | 30-OCT-2003 | 04-04-0392X | 02
04 | NC | CURRITUCK COUNTY * | 3700780201D | 24-DEC-2003 | 04-04-1266A | 02
04 | NC | DARE COUNTY* | 3753480113D | 03-JUL-2003 | 03-04-8030A | 02
04 | NC | DARE COUNTY* | 3753480820E | 08-SEP-2003 | 03-04-6922A | 02
04 | NC | DAVIDSON COUNTY * | 37057C0285D | 10-JUL-2003 | 03-04-7514A | 02
04 | NC | DAVIDSON COUNTY * | 37057C0325D | 21-JUL-2003 | 03-NC-8540A | 02
04 | NC | DAVIDSON COUNTY * | 37057C0325D | 24-JUL-2003 | 03-04-8484A | 02
04 | NC | DAVIDSON COUNTY * | 37057C0325D | 29-JUL-2003 | 03-04-8670A | 02
04 | NC | DAVIDSON COUNTY * | 37057C0325D | 28-AUG-2003 | 03-04-9246A | 02
04 | NC | DAVIDSON COUNTY * | 37057C0325D | 04-SEP-2003 | 03-04-9598A | 02
04 | NC | DAVIDSON COUNTY * | 37057C0285D | 08-SEP-2003 | 03-04-9478A | 02
04 | NC | DAVIDSON COUNTY * | 37057C0400D | 15-SEP-2003 | 03-04-9948A | 02
04 | NC | DAVIDSON COUNTY * | 37057C0325D | 03-NOV-2003 | 03-04-10998A | 02
04 | NC | DAVIDSON COUNTY * | 37057C0325D | 15-DEC-2003 | 04-04-0904A | 02
04 | NC | DAVIDSON COUNTY * | 37057C0300D | 15-DEC-2003 | 04-04-1170A | 02
04 | NC | DAVIE COUNTY * | 3703080045C | 20-NOV-2003 | 03-04-9240A | 02
04 | NC | DURHAM COUNTY * | 37063C0181G | 11-JUL-2003 | 03-04-045P | 05
04 | NC | DURHAM COUNTY * | 37063C0195G | 11-AUG-2003 | 03-04-7844A | 01
04 | NC | DURHAM COUNTY * | 37063C0059G | 30-SEP-2003 | 03-04-229P | 05
04 | NC | DURHAM COUNTY * | 37063C0067G | 30-SEP-2003 | 03-04-229P | 05
04 | NC | DURHAM, CITY OF | 37063C0181G | 11-JUL-2003 | 03-04-045P | 05
04 | NC | DURHAM, CITY OF | 37063C0167G | 18-JUL-2003 | 03-04-5230A | 01
04 | NC | DURHAM, CITY OF | 37063C0181G | 11-AUG-2003 | 03-04-7766A | 01
04 | NC | DURHAM, CITY OF | 37063C0167G | 28-AUG-2003 | 03-04-8268A | 01
04 | NC | DURHAM, CITY OF | 37063C0059G | 30-SEP-2003 | 03-04-229P | 05
04 | NC | DURHAM, CITY OF | 37063C0067G | 30-SEP-2003 | 03-04-229P | 05
04 | NC | DURHAM, CITY OF | 37063C0088G | 14-OCT-2003 | 03-04-9742A | 02
04 | NC | EMERALD ISLE, TOWN OF | 3720538300J | 17-JUL-2003 | 03-04-7622V | 19
04 | NC | EMERALD ISLE, TOWN OF | 3720539300J | 17-JUL-2003 | 03-04-7622V | 19
04 | NC | EMERALD ISLE, TOWN OF | 3720539400J | 17-JUL-2003 | 03-04-7622V | 19
04 | NC | EMERALD ISLE, TOWN OF | 3720599300J | 17-JUL-2003 | 03-04-7622V | 19
04 | NC | EMERALD ISLE, TOWN OF | 3720630400J | 17-JUL-2003 | 03-04-7622V | 19
04 | NC | ERWIN, TOWN OF | 37085C0113D | 15-DEC-2003 | 04-04-1168A | 02
04 | NC | FLETCHER, TOWN OF | 3701250020B | 14-AUG-2003 | 03-04-8242A | 01
04 | NC | FLETCHER, TOWN OF | 3701250020B | 03-NOV-2003 | 03-04-8382A | 01
04 | NC | FLETCHER, TOWN OF | 3701250020B | 08-DEC-2003 | 04-04-0444A | 01
04 | NC | FORSYTH COUNTY * | 37067C0178H | 29-SEP-2003 | 03-04-0018A | 01
04 | NC | FRANKLIN COUNTY* | 37069C0355D | 20-NOV-2003 | 03-04-10778A | 02
04 | NC | GARNER, TOWN OF | 37183C0544E | 24-JUL-2003 | 03-04-8438A | 02
04 | NC | GARNER, TOWN OF | 37183C0543E | 14-AUG-2003 | 03-04-8912A | 02
04 | NC | GASTON COUNTY * | 37071C0315E | 14-AUG-2003 | 03-04-8482A | 02
04 | NC | GASTON COUNTY * | 37071C0303E | 23-OCT-2003 | 03-04-10226A | 02
04 | NC | GASTON COUNTY * | 37071C0217E | 01-DEC-2003 | 03-04-553P | 05
04 | NC | GASTON COUNTY * | 37071C0219E | 01-DEC-2003 | 03-04-553P | 05
04 | NC | GASTON COUNTY * | 37071C0228E | 01-DEC-2003 | 03-04-553P | 05
04 | NC | GASTON COUNTY * | 37071C0236E | 01-DEC-2003 | 03-04-553P | 05
04 | NC | GASTON COUNTY * | 37071C0307E | 01-DEC-2003 | 03-04-553P | 05
04 | NC | GASTON COUNTY * | 37071C0309E | 01-DEC-2003 | 03-04-553P | 05
04 | NC | GASTON COUNTY * | 37071C0317E | 01-DEC-2003 | 03-04-553P | 05
04 | NC | GASTON COUNTY * | 37071C0319E | 01-DEC-2003 | 03-04-553P | 05
04 | NC | GASTONIA, CITY OF | 37071C0277E | 23-OCT-2003 | 03-04-10696A | 02
04 | NC | GASTONIA, CITY OF | 37071C0282E | 24-NOV-2003 | 03-04-321P | 05
04 | NC | GRANVILLE COUNTY* | 37077C0050C | 14-AUG-2003 | 03-04-5036A | 02
04 | NC | GRANVILLE COUNTY* | 37077C0050C | 20-AUG-2003 | 03-NC-9238A | 02
04 | NC | HALIFAX COUNTY * | 3703270005B | 31-JUL-2003 | 03-04-8550A | 02
04 | NC | HALIFAX COUNTY * | 3703270030B | 05-AUG-2003 | 03-04-8726A | 02
04 | NC | HALIFAX COUNTY * | 3703270005B | 18-SEP-2003 | 03-04-9202A | 02
04 | NC | HALIFAX COUNTY * | 3703270005B | 23-OCT-2003 | 03-04-10746A | 02
04 | NC | HENDERSON COUNTY * | 3701250095B | 16-OCT-2003 | 03-04-9634A | 02
04 | NC | HENDERSON, CITY OF | 370367—02A | 08-SEP-2003 | 03-04-7518A | 02
04 | NC | HENDERSONVILLE, CITY OF | 3701280003B | 09-OCT-2003 | 03-04-8946A | 02
04 | NC | HENDERSONVILLE, CITY OF | 3701290001B | 04-DEC-2003 | 03-04-11054A | 01
04 | NC | HICKORY, CITY OF | 3700540010C | 12-SEP-2003 | 03-04-9734A | 02
04 | NC | HICKORY, CITY OF | 3700540015B | 15-SEP-2003 | 03-04-9744A | 02
04 | NC | HICKORY, CITY OF | 3700540010C | 23-OCT-2003 | 03-04-10840A | 02
04 | NC | HICKORY, CITY OF | 3700540010C | 08-DEC-2003 | 04-04-1244A | 02
04 | NC | HIGH POINT, CITY OF | 3701130009C | 23-OCT-2003 | 03-04-9354A | 01
04 | NC | HIGH POINT, CITY OF | 3701130005C | 15-DEC-2003 | 04-04-0022A | 02
04 | NC | HIGH POINT, CITY OF | 3701130003C | 15-DEC-2003 | 04-04-0912A | 02
04 | NC | IREDELL COUNTY * | 3703130200C | 25-SEP-2003 | 03-04-10360A | 02
04 | NC | IREDELL COUNTY * | 3703130200C | 25-SEP-2003 | 03-04-10420A | 02
04 | NC | JOHNSTON COUNTY * | 37101C0215D | 29-JUL-2003 | 03-04-7520A | 02
04 | NC | JOHNSTON COUNTY * | 37101C0085D | 29-SEP-2003 | 03-04-8720A | 02
04 | NC | JOHNSTON COUNTY * | 37101C0015D | 15-DEC-2003 | 04-04-0908A | 02
04 | NC | JONES COUNTY * | 37103C0150C | 03-JUL-2003 | 03-04-7696A | 02
04 | NC | JONES COUNTY * | 37103C0095C | 09-OCT-2003 | 03-04-8984A | 02
04 | NC | LAURINBURG, CITY OF | 3710834500J | 04-DEC-2003 | 03-04-11116A | 02
04 | NC | LENOIR COUNTY * | 3701440035B | 29-JUL-2003 | 03-04-8624A | 02
04 | NC | LENOIR COUNTY * | 3701440075B | 15-DEC-2003 | 03-04-11006A | 01
04 | NC | LINCOLN COUNTY * | 3701460150C | 20-OCT-2003 | 03-04-10608A | 02
04 | NC | LINCOLN COUNTY * | 3701460104B | 20-NOV-2003 | 03-04-8440A | 02
04 | NC | LONG BEACH, TOWN OF | 3753540004E | 03-NOV-2003 | 03-04-10954A | 02
04 | NC | LONG BEACH, TOWN OF | 3753540003D | 04-DEC-2003 | 03-04-10956A | 02
04 | NC | LUMBERTON, CITY OF | 37155C0178D | 18-JUL-2003 | 03-04-7940A | 02
04 | NC | LUMBERTON, CITY OF | 37155C0179D | 09-OCT-2003 | 03-04-9420A | 02
04 | NC | MACON COUNTY * | 3701500007A | 31-JUL-2003 | 03-04-7918A | 02
04 | NC | MACON COUNTY * | 3701500004A | 10-NOV-2003 | 03-04-10768A | 02
04 | NC | MCDOWELL COUNTY* | 37111C0125B | 22-DEC-2003 | 03-04-10600A | 02
04 | NC | MECKLENBURG COUNTY * | 3701580210B | 11-AUG-2003 | 03-04-5808A | 02
04 | NC | MECKLENBURG COUNTY * | 3701580030D | 23-OCT-2003 | 03-04-8426A | 02
04 | NC | MONTGOMERY COUNTY* | 3703360025B | 17-JUL-2003 | 03-04-8250A | 02
04 | NC | MONTGOMERY COUNTY* | 3703360025B | 24-JUL-2003 | 03-04-7102A | 02
04 | NC | MONTGOMERY COUNTY* | 3703360025B | 24-JUL-2003 | 03-04-8428A | 02
04 | NC | MONTGOMERY COUNTY* | 3703360025B | 24-JUL-2003 | 03-04-8546A | 02
04 | NC | MONTGOMERY COUNTY* | 3703360025B | 31-JUL-2003 | 03-04-8448A | 02
04 | NC | MONTGOMERY COUNTY* | 3703360055B | 07-AUG-2003 | 03-04-8700A | 02
04 | NC | MONTGOMERY COUNTY* | 3703360025B | 14-AUG-2003 | 03-04-8668A | 02
04 | NC | MONTGOMERY COUNTY* | 3703360065B | 14-AUG-2003 | 03-04-8916A | 02
04 | NC | MONTGOMERY COUNTY* | 3703360025B | 25-AUG-2003 | 03-04-9104A | 01
04 | NC | MONTGOMERY COUNTY* | 3703360025B | 08-SEP-2003 | 03-04-9640A | 02
04 | NC | MONTGOMERY COUNTY* | 3703360025B | 08-SEP-2003 | 03-04-9678A | 02
04 | NC | MONTGOMERY COUNTY* | 3703360025B | 12-SEP-2003 | 03-04-9746A | 02
04 | NC | MONTGOMERY COUNTY* | 3703360025B | 12-SEP-2003 | 03-04-9970A | 02
04 | NC | MONTGOMERY COUNTY* | 3703360025B | 12-SEP-2003 | 03-04-9974A | 02
04 | NC | MONTGOMERY COUNTY* | 3703360025B | 15-SEP-2003 | 03-04-9912A | 02
04 | NC | MONTGOMERY COUNTY* | 3703360025B | 18-SEP-2003 | 03-04-9978A | 02
04 | NC | MONTGOMERY COUNTY* | 3703360025B | 25-SEP-2003 | 03-04-10516A | 02
04 | NC | MONTGOMERY COUNTY* | 3703360025B | 23-OCT-2003 | 03-04-10752A | 02
04 | NC | MONTGOMERY COUNTY* | 3703360025B | 30-OCT-2003 | 04-04-0198A | 02
04 | NC | MONTGOMERY COUNTY* | 3703360025B | 13-NOV-2003 | 04-04-0746A | 02
04 | NC | MONTGOMERY COUNTY* | 3703360025B | 26-NOV-2003 | 04-04-0686A | 02
04 | NC | MONTGOMERY COUNTY* | 3703360025B | 24-DEC-2003 | 04-04-0914A | 02
04 | NC | MOREHEAD CITY, TOWN OF | 3720637300J | 17-JUL-2003 | 03-04-7618V | 19
04 | NC | MOREHEAD CITY, TOWN OF | 3720637600J | 17-JUL-2003 | 03-04-7618V | 19
04 | NC | NAGS HEAD, TOWN OF | 3753560002F | 14-AUG-2003 | 03-04-8698A | 02
04 | NC | NASH COUNTY * | 3702780150B | 18-SEP-2003 | 03-04-9250A | 02
04 | NC | NEW HANOVER COUNTY* | 3701680030D | 01-JUL-2003 | 03-04-7920A | 02
04 | NC | NEW HANOVER COUNTY* | 3701680082E | 17-JUL-2003 | 03-04-8206A | 02
04 | NC | NEW HANOVER COUNTY* | 3701680091E | 29-JUL-2003 | 03-NC-8892A | 02
04 | NC | NEW HANOVER COUNTY* | 3701680093E | 29-JUL-2003 | 03-NC-8892A | 02
04 | NC | NEW HANOVER COUNTY* | 3701680090E | 28-AUG-2003 | 03-04-9410A | 01
04 | NC | NEW HANOVER COUNTY* | 3701680105D | 02-SEP-2003 | 03-04-9416A | 02
04 | NC | NEW HANOVER COUNTY* | 3701680085E | 08-SEP-2003 | 03-04-9642A | 02
04 | NC | NEW HANOVER COUNTY* | 3701680091E | 08-SEP-2003 | 03-04-9642A | 02
04 | NC | NEW HANOVER COUNTY* | 3701680045E | 18-SEP-2003 | 03-04-8900A | 02
04 | NC | NEW HANOVER COUNTY* | 3701680090E | 20-OCT-2003 | 03-04-9422A | 01
04 | NC | NEW HANOVER COUNTY* | 3701680105D | 20-OCT-2003 | 03-04-9422A | 01
04 | NC | NEW HANOVER COUNTY* | 3701680030D | 24-DEC-2003 | 04-04-1400A | 02
04 | NC | NEWPORT, TOWN OF | 3720634800J | 17-JUL-2003 | 03-04-7614V | 19
04 | NC | NEWPORT, TOWN OF | 3720634900J | 17-JUL-2003 | 03-04-7614V | 19
04 | NC | NORTHAMPTON COUNTY* | 3701730005C | 06-OCT-2003 | 03-04-10524A | 02
04 | NC | NORTHAMPTON COUNTY* | 3701730010C | 06-OCT-2003 | 03-04-8106A | 02
04 | NC | NORTHAMPTON COUNTY* | 3701730005C | 13-NOV-2003 | 03-04-10418A | 02
04 | NC | NORTHAMPTON COUNTY* | 3701730005C | 17-NOV-2003 | 04-04-0044A | 02
04 | NC | NORTHAMPTON COUNTY* | 3701730005C | 15-DEC-2003 | 04-04-0582A | 02
04 | NC | OAK ISLAND, TOWN OF | 3753540003D | 23-OCT-2003 | 03-04-10922A | 02
04 | NC | PENDER COUNTY* | 3703440205B | 14-OCT-2003 | 03-04-10174A | 02
04 | NC | PENDER COUNTY* | 3703440205B | 16-OCT-2003 | 03-04-10176A | 02
04 | NC | PENDER COUNTY* | 3703440411B | 27-OCT-2003 | 03-04-9908A | 02
04 | NC | PERQUIMANS COUNTY* | 3703150105B | 21-JUL-2003 | 03-04-7902A | 02
04 | NC | PERQUIMANS COUNTY* | 3703150205B | 26-NOV-2003 | 04-04-1062A | 02
04 | NC | PERSON COUNTY* | 37145C0075B | 21-AUG-2003 | 03-04-7408A | 02
04 | NC | PERSON COUNTY* | 37145C0025B | 20-OCT-2003 | 03-04-8672A | 02
04 | NC | PERSON COUNTY* | 37145C0025B | 10-NOV-2003 | 03-04-10670A | 02
04 | NC | PERSON COUNTY* | 37145C0025B | 26-NOV-2003 | 04-04-1000A | 02
04 | NC | PINE KNOLL SHORES, TOWN OF | 3720636500J | 17-JUL-2003 | 03-04-7616V | 19
04 | NC | PITT COUNTY * | 3703720265B | 25-SEP-2003 | 03-04-7302A | 02
04 | NC | RALEIGH, CITY OF | 37183C0170E | 24-JUL-2003 | 03-04-7672A | 02
04 | NC | RALEIGH, CITY OF | 37183C0326E | 04-DEC-2003 | 04-04-1378A | 02
04 | NC | RANDOLPH COUNTY * | 3701950350B | 15-DEC-2003 | 03-04-9474A | 02
04 | NC | ROWAN COUNTY * | 3703510150B | 29-JUL-2003 | 03-04-8424A | 02
04 | NC | RUTHERFORD COUNTY* | 3702170004B | 21-AUG-2003 | 03-04-8942A | 02
04 | NC | SAMPSON COUNTY * | 3702200150B | 10-JUL-2003 | 03-04-7938A | 02
04 | NC | SCOTLAND COUNTY * | 3710838600J | 18-SEP-2003 | 03-04-5802A | 02
04 | NC | SHELBY, CITY OF | 3703020175B | 15-SEP-2003 | 03-04-9972A | 02
04 | NC | SMITHFIELD, TOWN OF | 37101C0239D | 30-OCT-2003 | 03-04-10218A | 02
04 | NC | SOUTHERN SHORES, TOWN OF | 3704300002C | 11-AUG-2003 | 03-04-7092A | 02
04 | NC | SOUTHERN SHORES, TOWN OF | 3704300001C | 15-DEC-2003 | 04-04-0580A | 01
04 | NC | STALLINGS, TOWN OF | 37179C0015D | 23-OCT-2003 | 03-04-8844A | 02
04 | NC | STANLY COUNTY * | 37167C0075D | 17-JUL-2003 | 03-04-8270A | 02
04 | NC | STANLY COUNTY * | 37167C0050D | 25-AUG-2003 | 03-04-8994A | 02
04 | NC | STANLY COUNTY * | 37167C0175D | 30-OCT-2003 | 03-04-10372A | 02
04 | NC | STANLY COUNTY * | 3703610050B | 08-DEC-2003 | 04-04-1236A | 02
04 | NC | STATESVILLE, CITY OF | 3701350003A | 18-SEP-2003 | 03-04-10342A | 02
04 | NC | UNION COUNTY * | 37179C0080C | 14-AUG-2003 | 03-04-8772A | 02
04 | NC | UNION COUNTY * | 37179C0090C | 23-OCT-2003 | 03-04-10382A | 02
04 | NC | UNION COUNTY * | 37179C0090C | 24-DEC-2003 | 04-04-1586A | 02
04 | NC | WARREN COUNTY* | 3703960002C | 03-JUL-2003 | 03-04-7512A | 02
04 | NC | WARREN COUNTY* | 3703960002C | 03-JUL-2003 | 03-04-7656A | 02
04 | NC | WARREN COUNTY* | 3703960002C | 03-JUL-2003 | 03-04-7694A | 02
04 | NC | WARREN COUNTY* | 3703960002C | 14-JUL-2003 | 03-04-8104A | 02
04 | NC | WARREN COUNTY* | 3703960002C | 17-JUL-2003 | 03-04-8240A | 02
04 | NC | WARREN COUNTY* | 3703960002C | 24-JUL-2003 | 03-04-8410A | 02
04 | NC | WARREN COUNTY* | 3703960002C | 29-JUL-2003 | 03-04-8442A | 02
04 | NC | WARREN COUNTY* | 3703960002C | 05-AUG-2003 | 03-04-8560A | 02
04 | NC | WARREN COUNTY* | 3703960002C | 05-AUG-2003 | 03-04-8666A | 02
04 | NC | WARREN COUNTY* | 3703960002C | 07-AUG-2003 | 03-04-8234A | 02
04 | NC | WARREN COUNTY* | 3703960002C | 07-AUG-2003 | 03-04-8272A | 02
04 | NC | WARREN COUNTY* | 3703960002C | 07-AUG-2003 | 03-04-8646A | 02
04 | NC | WARREN COUNTY* | 3703960002C | 07-AUG-2003 | 03-04-8664A | 02
04 | NC | WARREN COUNTY* | 3703960002C | 19-AUG-2003 | 03-04-8940A | 02
04 | NC | WARREN COUNTY* | 3703960002C | 20-AUG-2003 | 03-04-8914A | 02
04 | NC | WARREN COUNTY* | 3703960002C | 21-AUG-2003 | 03-04-8992A | 02
04 | NC | WARREN COUNTY* | 3703960002C | 21-AUG-2003 | 03-04-8996A | 02
04 | NC | WARREN COUNTY* | 3703960002C | 08-SEP-2003 | 03-04-9480A | 02
04 | NC | WARREN COUNTY* | 3703960002C | 12-SEP-2003 | 03-04-7508A | 02
04 | NC | WARREN COUNTY* | 3703960002C | 12-SEP-2003 | 03-04-9204A | 02
04 | NC | WARREN COUNTY* | 3703960002C | 12-SEP-2003 | 03-04-9738A | 02
04 | NC | WARREN COUNTY* | 3703960002C | 12-SEP-2003 | 03-04-9740A | 02
04 | NC | WARREN COUNTY* | 3703960002C | 15-SEP-2003 | 03-04-8982A | 02
04 | NC | WARREN COUNTY* | 3703960002C | 15-SEP-2003 | 03-04-9400A | 02
04 | NC | WARREN COUNTY* | 3703960002C | 18-SEP-2003 | 03-04-9476A | 02
04 | NC | WARREN COUNTY* | 3703960002C | 18-SEP-2003 | 03-04-9484A | 02
04 | NC | WARREN COUNTY* | 3703960002C | 22-SEP-2003 | 03-04-10122A | 02
04 | NC | WARREN COUNTY* | 3703960002C | 22-SEP-2003 | 03-04-10416A | 02
04 | NC | WARREN COUNTY* | 3703960002C | 22-SEP-2003 | 03-04-9982A | 02
04 | NC | WARREN COUNTY* | 3703960002C | 22-SEP-2003 | 03-04-9984A | 02
04 | NC | WARREN COUNTY* | 3703960002C | 06-OCT-2003 | 03-04-10228A | 02
04 | NC | WARREN COUNTY* | 3703960002C | 06-OCT-2003 | 03-04-10508A | 02
04 | NC | WARREN COUNTY* | 3703960002C | 06-OCT-2003 | 03-04-10510A | 02
04 | NC | WARREN COUNTY* | 3703960002C | 06-OCT-2003 | 03-04-9880A | 02
04 | NC | WARREN COUNTY* | 3703960002C | 16-OCT-2003 | 03-04-10378A | 02
04 | NC | WARREN COUNTY* | 3703960002C | 27-OCT-2003 | 03-04-10172A | 02
04 | NC | WARREN COUNTY* | 3703960002C | 27-OCT-2003 | 03-04-10750A | 02
04 | NC | WARREN COUNTY* | 3703960002C | 03-NOV-2003 | 03-04-11002A | 02
04 | NC | WARREN COUNTY* | 3703960002C | 03-NOV-2003 | 04-04-0396A | 02
04 | NC | WARREN COUNTY* | 3703960002C | 06-NOV-2003 | 03-04-10770A | 02
04 | NC | WARREN COUNTY* | 3703960002C | 10-NOV-2003 | 04-04-0710A | 02
04 | NC | WARREN COUNTY* | 3703960002C | 13-NOV-2003 | 04-04-0848A | 02
04 | NC | WARREN COUNTY* | 3703960002C | 17-NOV-2003 | 04-04-0132A | 02
04 | NC | WARREN COUNTY* | 3703960002C | 20-NOV-2003 | 04-04-0278A | 02
04 | NC | WARREN COUNTY* | 3703960002C | 20-NOV-2003 | 04-04-0850A | 02
04 | NC | WARREN COUNTY* | 3703960002C | 24-NOV-2003 | 04-NC-1396A | 02
04 | NC | WARREN COUNTY* | 3703960002C | 26-NOV-2003 | 04-04-0712A | 02
04 | NC | WARREN COUNTY* | 3703960002C | 26-NOV-2003 | 04-04-1238A | 02
04 | NC | WARREN COUNTY* | 3703960002C | 26-NOV-2003 | 04-04-1278A | 02
04 | NC | WARREN COUNTY* | 3703960002C | 08-DEC-2003 | 04-04-1270A | 02
04 | NC | WARREN COUNTY* | 3703960002C | 08-DEC-2003 | 04-04-1380A | 02
04 | NC | WASHINGTON, CITY OF | 3720567600J | 05-AUG-2003 | 03-04-8702A | 02
04 | NC | WASHINGTON, CITY OF | 3720568500J | 23-OCT-2003 | 03-04-10672A | 02
04 | NC | WASHINGTON, CITY OF | 3720567600J | 10-NOV-2003 | 04-04-0074A | 02
04 | NC | WASHINGTON, CITY OF | 3720566700J | 15-DEC-2003 | 04-04-1462A | 02
04 | NC | WATAUGA COUNTY * | 37189C0178E | 06-NOV-2003 | 03-04-10424A | 02
04 | NC | WAYNE COUNTY* | 3702540070D | 18-SEP-2003 | 03-04-10314A | 02
04 | NC | WENDELL, TOWN OF | 37183C0414E | 09-OCT-2003 | 03-04-10170A | 01
04 | NC | WILKES COUNTY * | 3702560175D | 28-AUG-2003 | 03-04-8344A | 02
04 | NC | WILMINGTON, CITY OF | 3701710010B | 14-OCT-2003 | 03-04-10358A | 02
04 | NC | WINSTON-SALEM, CITY OF | 37067C0259H | 29-JUL-2003 | 03-04-8386A | 02
04 | SC | BEAUFORT COUNTY* | 4500250095D | 02-OCT-2003 | 03-04-10124A | 02
04 | SC | BEAUFORT COUNTY* | 4500250050D | 30-OCT-2003 | 03-04-10040A | 01
04 | SC | BERKELEY COUNTY * | 4500290290C | 05-JUL-2003 | 03-04-8472V | 19
04 | SC | BERKELEY COUNTY * | 4500290355C | 05-JUL-2003 | 03-04-8472V | 19
04 | SC | BERKELEY COUNTY * | 4500290280C | 10-JUL-2003 | 03-04-7256A | 02
04 | SC | BERKELEY COUNTY * | 45015C0370D | 17-OCT-2003 | 04-04-0020V | 19
04 | SC | BERKELEY COUNTY * | 45015C0590D | 17-OCT-2003 | 04-04-0020V | 19
04 | SC | BERKELEY COUNTY * | 45015C0595D | 17-OCT-2003 | 04-04-0020V | 19
04 | SC | BERKELEY COUNTY * | 45015C0645D | 17-OCT-2003 | 04-04-0020V | 19
04 | SC | BERKELEY COUNTY * | 45015C0680D | 17-OCT-2003 | 04-04-0020V | 19
04 | SC | BERKELEY COUNTY * | 45015C0730D | 17-OCT-2003 | 04-04-0020V | 19
04 | SC | BERKELEY COUNTY * | 45015C0395D | 27-OCT-2003 | 03-04-10960A | 02
04 | SC | BERKELEY COUNTY * | 45015C0590D | 06-NOV-2003 | 04-04-0050A | 02
04 | SC | CHARLESTON COUNTY* | 4554130364I | 14-AUG-2003 | 03-04-8528A | 02
04 | SC | CHARLESTON COUNTY* | 4554130180F | 12-SEP-2003 | 03-04-9070A | 02
04 | SC | CHARLESTON COUNTY* | 4554130345F | 08-DEC-2003 | 04-04-0508A | 02
04 | SC | CHARLESTON COUNTY* | 4554130225G | 22-DEC-2003 | 03-04-425P | 05
04 | SC | CHARLESTON COUNTY* | 4554130228G | 22-DEC-2003 | 03-04-425P | 05
04 | SC | CHARLESTON COUNTY* | 4554130229G | 22-DEC-2003 | 04-04-1014A | 02
04 | SC | CHARLESTON, CITY OF | 4554120020D | 14-AUG-2003 | 03-04-8526A | 02
04 | SC | CHARLESTON, CITY OF | 4554120005D | 08-SEP-2003 | 03-04-425P | 05
04 | SC | CHARLESTON, CITY OF | 45015C0756D | 17-OCT-2003 | 04-04-0014V | 19
04 | SC | CHARLESTON, CITY OF | 45015C0758D | 17-OCT-2003 | 04-04-0014V | 19
04 | SC | CHARLESTON, CITY OF | 45015C0756D | 30-OCT-2003 | 03-04-6774A | 02
04 | SC | CLARENDON COUNTY * | 4500510225B | 01-JUL-2003 | 03-04-7308A | 02
04 | SC | CLARENDON COUNTY * | 4500510225B | 14-AUG-2003 | 03-04-8998A | 02
04 | SC | CLARENDON COUNTY * | 4500510225B | 04-SEP-2003 | 03-04-9784A | 02
04 | SC | DORCHESTER COUNTY * | 4500680245C | 15-DEC-2003 | 03-04-10616A | 02
04 | SC | FAIRFIELD COUNTY * | 4500750070B | 06-OCT-2003 | 03-04-10566A | 02
04 | SC | FAIRFIELD COUNTY * | 4500750065B | 13-NOV-2003 | 04-04-0200A | 02
04 | SC | FLORENCE COUNTY * | 4500760085B | 10-JUL-2003 | 03-04-7524A | 02
04 | SC | FLORENCE COUNTY * | 4500760020B | 19-AUG-2003 | 03-04-7412A | 02
04 | SC | FLORENCE, CITY OF | 4500780005C | 10-NOV-2003 | 03-04-10614A | 02
04 | SC | FOLLY BEACH, CITY OF | 4554150001F | 04-SEP-2003 | 03-04-8784A | 02
04 | SC | FOREST ACRES, CITY OF | 45079C0113G | 26-NOV-2003 | 03-04-10762A | 02
04 | SC | GOOSE CREEK, CITY OF | 4500290290C | 04-JUL-2003 | 03-04-081P | 05
04 | SC | GOOSE CREEK, CITY OF | 4500290355C | 04-JUL-2003 | 03-04-081P | 05
04 | SC | GOOSE CREEK, CITY OF | 4500290290C | 04-JUL-2003 | 03-04-083P | 05
04 | SC | GOOSE CREEK, CITY OF | 4500290355C | 04-JUL-2003 | 03-04-083P | 05
04 | SC | GOOSE CREEK, CITY OF | 4500290290C | 05-JUL-2003 | 03-04-8470V | 19
04 | SC | GOOSE CREEK, CITY OF | 4500290355C | 05-JUL-2003 | 03-04-8470V | 19
04 | SC | GOOSE CREEK, CITY OF | 4500290355C | 17-JUL-2003 | 03-04-6756A | 02
04 | SC | GOOSE CREEK, CITY OF | 4500290290C | 17-JUL-2003 | 03-04-7224A | 02
04 | SC | GOOSE CREEK, CITY OF | 4502060005A | 17-JUL-2003 | 03-04-7526A | 02
04 | SC | GOOSE CREEK, CITY OF | 4500290290C | 29-JUL-2003 | 03-04-7504A | 02
04 | SC | GOOSE CREEK, CITY OF | 4500290290C | 05-AUG-2003 | 03-04-8530A | 02
04 | SC | GOOSE CREEK, CITY OF | 4500290290C | 18-SEP-2003 | 03-04-9868A | 02
04 | SC | GOOSE CREEK, CITY OF | 45015C0590D | 17-OCT-2003 | 04-04-0018V | 19
04 | SC | GOOSE CREEK, CITY OF | 45015C0595D | 17-OCT-2003 | 04-04-0018V | 19
04 | SC | GOOSE CREEK, CITY OF | 45015C0680D | 17-OCT-2003 | 04-04-0018V | 19
04 | SC | GOOSE CREEK, CITY OF | 45015C0685D | 17-OCT-2003 | 04-04-0018V | 19
04 | SC | GOOSE CREEK, CITY OF | 45015C0590D | 30-OCT-2003 | 03-04-9106A | 17
04 | SC | GOOSE CREEK, CITY OF | 4500290290C | 15-DEC-2003 | 03-04-10990A | 02
04 | SC | GOOSE CREEK, CITY OF | 45015C0590D | 15-DEC-2003 | 04-04-0918A | 02
04 | SC | GOOSE CREEK, CITY OF | 45015C0590D | 22-DEC-2003 | 04-04-0856A | 02
04 | SC | GOOSE CREEK, CITY OF | 45015C0590D | 22-DEC-2003 | 04-04-1434A | 02
04 | SC | GREENVILLE COUNTY * | 4500890215B | 10-JUL-2003 | 03-04-6884A | 02
04 | SC | GREENVILLE COUNTY * | 4500890275A | 17-JUL-2003 | 03-04-5736A | 02
04 | SC | GREENVILLE COUNTY * | 4500890195B | 24-JUL-2003 | 03-04-8040A | 02
04 | SC | GREENVILLE COUNTY * | 4500890165B | 07-AUG-2003 | 03-04-8436A | 02
04 | SC | GREENVILLE COUNTY * | 4500890125A | 28-AUG-2003 | 03-04-7310A | 02
04 | SC | GREENVILLE COUNTY * | 4500890185B | 13-NOV-2003 | 04-04-0450A | 02
04 | SC | GREENVILLE COUNTY * | 4500890210B | 05-DEC-2003 | 03-04-11084A | 01
04 | SC | HANAHAN, CITY OF | 45015C0695D | 17-OCT-2003 | 04-04-0016V | 19
04 | SC | HOLLYWOOD, TOWN OF | 4500370010B | 30-OCT-2003 | 03-04-10782A | 02
04 | SC | HORRY COUNTY * | 45051C0652H | 05-AUG-2003 | 03-04-8200A | 02
04 | SC | HORRY COUNTY * | 45051C0415J | 18-SEP-2003 | 03-04-9164V | 19
04 | SC | HORRY COUNTY * | 45051C0514H | 18-SEP-2003 | 03-04-9164V | 19
04 | SC | HORRY COUNTY * | 45051C0519H | 18-SEP-2003 | 03-04-9164V | 19
04 | SC | HORRY COUNTY * | 45051C0530H | 18-SEP-2003 | 03-04-9164V | 19
04 | SC | HORRY COUNTY * | 45051C0582H | 18-SEP-2003 | 03-04-9164V | 19
04 | SC | HORRY COUNTY * | 45051C0652H | 18-SEP-2003 | 03-04-9164V | 19
04 | SC | HORRY COUNTY * | 45051C0670H | 18-SEP-2003 | 03-04-9164V | 19
04 | SC | HORRY COUNTY * | 45051C0732H | 18-SEP-2003 | 03-04-9164V | 19
04 | SC | HORRY COUNTY * | 45051C0734H | 18-SEP-2003 | 03-04-9164V | 19
04 | SC | HORRY COUNTY * | 45051C0732H | 02-OCT-2003 | 03-04-9568A | 02
04 | SC | HORRY COUNTY * | 45051C0731H | 22-DEC-2003 | 03-04-305P | 05
04 | SC | ISLE OF PALMS, CITY OF | 4554160002E | 30-OCT-2003 | 03-04-595P | 05
04 | SC | JASPER COUNTY* | 4501120100B | 22-DEC-2003 | 04-04-0092A | 02
04 | SC | KERSHAW COUNTY * | 45055C0427D | 21-AUG-2003 | 03-04-5678A | 02
04 | SC | KERSHAW COUNTY * | 45055C0394D | 06-NOV-2003 | 04-04-0082A | 02
04 | SC | KIAWAH ISLAND, TOWN OF | 4554130405G | 17-NOV-2003 | 03-04-9998A | 02
04 | SC | LEXINGTON COUNTY * | 45063C0139G | 31-JUL-2003 | 03-04-8060A | 02
04 | SC | LEXINGTON COUNTY * | 45063C0276G | 14-AUG-2003 | 03-04-5196A | 02
04 | SC | LEXINGTON COUNTY * | 45063C0095G | 21-AUG-2003 | 03-04-8854A | 02
04 | SC | LEXINGTON COUNTY * | 45063C0258G | 30-OCT-2003 | 03-04-10618A | 02
04 | SC | LEXINGTON COUNTY * | 45063C0133G | 15-DEC-2003 | 03-04-10704A | 02
04 | SC | LEXINGTON, TOWN OF | 45063C0251G | 17-NOV-2003 | 04-04-0054A | 02
04 | SC | MAULDIN, CITY OF | 4501980005C | 21-JUL-2003 | 03-04-5846A | 02
04 | SC | MEGGETT, TOWN OF | 4500400005C | 22-DEC-2003 | 03-04-11012A | 02
04 | SC | MEGGETT, TOWN OF | 4554130345F | 22-DEC-2003 | 03-04-11012A | 02
04 | SC | MOUNT PLEASANT, TOWN OF | 4554170006E | 28-AUG-2003 | 03-04-8782A | 02
04 | SC | MOUNT PLEASANT, TOWN OF | 4554130250G | 20-NOV-2003 | 03-04-10958A | 02
04 | SC | NEWBERRY COUNTY* | 4502240225B | 08-SEP-2003 | 03-04-9688A | 02
04 | SC | NEWBERRY COUNTY* | 4502240225B | 15-SEP-2003 | 03-04-9864A | 02
04 | SC | NEWBERRY COUNTY* | 4502240225B | 15-SEP-2003 | 03-04-9996A | 02
04 | SC | NEWBERRY COUNTY* | 4502240225B | 06-OCT-2003 | 03-04-10422A | 02
04 | SC | NEWBERRY COUNTY* | 4502240225B | 06-NOV-2003 | 03-04-11014A | 02
04 | SC | NEWBERRY COUNTY* | 4502240225B | 13-NOV-2003 | 04-04-0670A | 02
04 | SC | NEWBERRY COUNTY* | 4502240200B | 20-NOV-2003 | 04-04-0852A | 02
04 | SC | NEWBERRY, CITY OF | 4501530002B | 20-NOV-2003 | 04-04-0748A | 02
04 | SC | NORTH CHARLESTON, CITY OF | 4500420012C | 08-DEC-2003 | 04-04-0646A | 02
04 | SC | NORTH MYRTLE BEACH, TOWN OF | 45051C0579H | 08-SEP-2003 | 03-04-8164A | 17
04 | SC | ORANGEBURG COUNTY * | 4501600120B | 10-JUL-2003 | 03-04-7786A | 02
04 | SC | ORANGEBURG COUNTY * | 4501600280B | 06-NOV-2003 | 04-04-0140A | 02
04 | SC | PAWLEYS ISLAND, TOWN OF | 4502550001D | 22-SEP-2003 | 03-04-543P | 05
04 | SC | PICKENS COUNTY * | 4501660150B | 22-DEC-2003 | 03-04-7784A | 02
04 | SC | RICHLAND COUNTY* | 45079C0025H | 01-JUL-2003 | 03-04-7924A | 02
04 | SC | RICHLAND COUNTY* | 45079C0025H | 24-JUL-2003 | 03-04-7862A | 02
04 | SC | RICHLAND COUNTY* | 45079C0025H | 31-JUL-2003 | 03-04-6154A | 02
04 | SC | RICHLAND COUNTY* | 45079C0179G | 28-AUG-2003 | 03-04-5552A | 01
04 | SC | RICHLAND COUNTY* | 45079C0025H | 08-SEP-2003 | 03-04-9684A | 02
04 | SC | RICHLAND COUNTY* | 45079C0025H | 08-SEP-2003 | 03-04-9686A | 02
04 | SC | RICHLAND COUNTY* | 45079C0025H | 15-SEP-2003 | 03-04-8642A | 02
04 | SC | RICHLAND COUNTY* | 45079C0025H | 18-SEP-2003 | 03-04-9866A | 02
04 | SC | RICHLAND COUNTY* | 45079C0025H | 02-OCT-2003 | 03-04-10000A | 02
04 | SC | RICHLAND COUNTY* | 45079C0105G | 14-OCT-2003 | 03-04-10146A | 02
04 | SC | RICHLAND COUNTY* | 45079C0178H | 30-OCT-2003 | 03-04-10780A | 02
04 | SC | RICHLAND COUNTY* | 45079C0025H | 20-NOV-2003 | 04-04-0512A | 02
04 | SC | RICHLAND COUNTY* | 45079C0250G | 25-NOV-2003 | 03-04-445P | 05
04 | SC | RICHLAND COUNTY* | 45079C0105G | 22-DEC-2003 | 04-04-0590A | 02
04 | SC | RICHLAND COUNTY* | 45079C0025H | 22-DEC-2003 | 04-04-1432A | 02
04 | SC | SALUDA COUNTY* | 4502300002B | 06-NOV-2003 | 03-04-10706A | 02
04 | SC | SALUDA COUNTY* | 4502300002B | 17-NOV-2003 | 04-04-0668A | 02
04 | SC | SPARTANBURG COUNTY * | 4501760075B | 25-AUG-2003 | 03-04-9424A | 02
04 | SC | SPARTANBURG COUNTY * | 4501760075B | 20-NOV-2003 | 04-04-0752A | 02
04 | SC | SUMMERTON, TOWN OF | 450054—01B | 20-NOV-2003 | 03-04-9782A | 02
04 | SC | SUMMERTON, TOWN OF | 450054—01B | 20-NOV-2003 | 03-04-9914A | 02
04 | SC | SUMMERVILLE, TOWN OF | 4500730005D | 29-DEC-2003 | 04-04-043P | 05
04 | SC | SUMTER COUNTY * | 4501820090C | 07-AUG-2003 | 03-04-7258A | 01
04 | SC | SUMTER, CITY OF | 4501840001C | 07-AUG-2003 | 03-04-8680A | 01
04 | SC | SUMTER, CITY OF | 4501840001C | 20-NOV-2003 | 03-04-10446A | 01
04 | SC | YORK COUNTY * | 4501930050B | 08-JUL-2003 | 03-04-7052A | 02
04 | SC | YORK COUNTY * | 4501930125C | 17-JUL-2003 | 03-04-7546A | 02
04 | SC | YORK COUNTY * | 4501930050B | 31-JUL-2003 | 03-04-8348A | 02
04 | SC | YORK COUNTY * | 4501930050B | 07-AUG-2003 | 03-04-8728A | 02
04 | SC | YORK COUNTY * | 4501930050B | 07-AUG-2003 | 03-04-8780A | 02
04 | SC | YORK COUNTY * | 4501930065C | 25-AUG-2003 | 03-04-9206A | 02
04 | SC | YORK COUNTY * | 4501930050B | 15-SEP-2003 | 03-04-8220A | 02
04 | TN | ALCOA, CITY OF | 475421—03B | 18-SEP-2003 | 03-04-9066A | 02
04 | TN | ANDERSON COUNTY * | 4702170125B | 12-SEP-2003 | 03-04-9646A | 02
04 | TN | ARLINGTON, TOWNSHIP OF | 47157C0120E | 20-OCT-2003 | 03-04-10434A | 02
04 | TN | ATHENS, CITY OF | 4702110003C | 14-AUG-2003 | 03-04-8544A | 02
04 | TN | BARTLETT, CITY OF | 47157C0150E | 12-SEP-2003 | 03-04-9578A | 02
04 | TN | BARTLETT, CITY OF | 47157C0145E | 15-DEC-2003 | 03-04-10098A | 02
04 | TN | BLOUNT COUNTY * | 4703560030B | 14-JUL-2003 | 03-04-7798A | 02
04 | TN | BLOUNT COUNTY * | 4703560025B | 17-JUL-2003 | 03-04-6364A | 02
04 | TN | BLOUNT COUNTY * | 4703560025B | 29-JUL-2003 | 03-04-8420A | 02
04 | TN | BLOUNT COUNTY * | 4703560125B | 07-AUG-2003 | 03-04-7962A | 02
04 | TN | BLOUNT COUNTY * | 4703560025B | 13-NOV-2003 | 04-04-0248A | 02
04 | TN | BRENTWOOD, CITY OF | 47187C0085E | 03-JUL-2003 | 03-04-6678A | 02
04 | TN | BRENTWOOD, CITY OF | 47187C0035E | 10-JUL-2003 | 03-04-6770A | 02
04 | TN | BRENTWOOD, CITY OF | 47187C0040E | 25-AUG-2003 | 03-04-9118A | 02
04 | TN | BRENTWOOD, CITY OF | 47187C0085E | 02-OCT-2003 | 03-04-9504A | 02
04 | TN | BRENTWOOD, CITY OF | 47187C0085E | 16-OCT-2003 | 03-04-9604A | 02
04 | TN | BRENTWOOD, CITY OF | 47187C0040E | 16-OCT-2003 | 03-04-9850A | 02
04 | TN | BRENTWOOD, CITY OF | 47187C0090E | 13-NOV-2003 | 03-04-9386A | 02
04 | TN | BRENTWOOD, CITY OF | 47187C0040E | 20-NOV-2003 | 04-04-0600A | 02
04 | TN | CHATTANOOGA, CITY OF | 47065C0369F | 07-AUG-2003 | 03-04-8352A | 02
04 | TN | CHATTANOOGA, CITY OF | 47065C0218F | 29-SEP-2003 | 03-04-7390A | 02
04 | TN | CHATTANOOGA, CITY OF | 47065C0342F | 02-OCT-2003 | 03-04-8536A | 02
04 | TN | CHATTANOOGA, CITY OF | 47065C0366F | 13-NOV-2003 | 04-04-0306A | 01
04 | TN | CHEATHAM COUNTY * | 47021C0260C | 23-OCT-2003 | 03-04-10538A | 02
04 | TN | CHEATHAM COUNTY * | 47021C0110C | 23-OCT-2003 | 03-04-10674A | 02
04 | TN | CLAY COUNTY * | 4703820002A | 21-AUG-2003 | 03-04-8740A | 02
04 | TN | CLAY COUNTY * | 4703820005A | 30-OCT-2003 | 03-04-11096A | 02
04 | TN | CLEVELAND, CITY OF | 4700150004D | 06-OCT-2003 | 03-04-10564A | 02
04 | TN | CLEVELAND, CITY OF | 4700150004D | 20-OCT-2003 | 03-04-10444A | 02
04 | TN | COLLEGEDALE, CITY OF | 47065C0379F | 10-JUL-2003 | 03-04-7542A | 02
04 | TN | COLLIERVILLE, TOWN OF | 47157C0240E | 03-JUL-2003 | 03-04-7118A | 01
04 | TN | COLLIERVILLE, TOWN OF | 47157C0240E | 16-OCT-2003 | 03-04-8078A | 01
04 | TN | COLLIERVILLE, TOWN OF | 47157C0245E | 16-OCT-2003 | 03-04-9450A | 02
04 | TN | COVINGTON, CITY OF | 47167C0065E | 10-JUL-2003 | 03-04-6452A | 01
04 | TN | DECATUR COUNTY* | 4700410004C | 05-AUG-2003 | 03-04-8538A | 02
04 | TN | DECATUR COUNTY* | 4700410002D | 15-DEC-2003 | 03-04-10926A | 02
04 | TN | DEKALB COUNTY * | 4703690050B | 17-NOV-2003 | 03-04-10014A | 02
04 | TN | DICKSON, CITY OF | 4703350003B | 15-DEC-2003 | 03-04-9446A | 02
04 | TN | DYER COUNTY * | 47045C0160D | 27-OCT-2003 | 03-04-10012A | 02
04 | TN | DYERSBURG, CITY OF | 47045C0190D | 20-OCT-2003 | 03-04-9510A | 02
04 | TN | FAIRVIEW, CITY OF | 47187C0055E | 20-NOV-2003 | 03-04-9848A | 02
04 | TN | FAYETTE COUNTY* | 4703520080B | 21-NOV-2003 | 03-04-421P | 05
04 | TN | FENTREES COUNTY * | 4703430002A | 10-JUL-2003 | 03-04-5360A | 02
04 | TN | FOREST HILLS, CITY OF | 47037C0337F | 28-AUG-2003 | 03-04-9358A | 02
04 | TN | FRANKLIN, CITY OF | 47187C0074E | 29-JUL-2003 | 03-04-8490A | 02
04 | TN | FRANKLIN, CITY OF | 47187C0133E | 23-OCT-2003 | 03-04-10006A | 01
04 | TN | GALLATIN, CITY OF | 47165C0427D | 08-JUL-2003 | 03-04-7020A | 02
04 | TN | GALLATIN, CITY OF | 47165C0314D | 21-AUG-2003 | 03-04-9116A | 02
04 | TN | GERMANTOWN, CITY OF | 47157C0235E | 14-OCT-2003 | 03-04-10260A | 02
04 | TN | GERMANTOWN, CITY OF | 47157C0235E | 14-OCT-2003 | 03-04-10568A | 02
04 | TN | GERMANTOWN, CITY OF | 47157C0235E | 14-OCT-2003 | 03-04-9448A | 02
04 | TN | GERMANTOWN, CITY OF | 47157C0235E | 16-OCT-2003 | 03-04-9508A | 02
04 | TN | GERMANTOWN, CITY OF | 47157C0235E | 13-NOV-2003 | 04-04-0616A | 01
04 | TN | GERMANTOWN, CITY OF | 47157C0235E | 22-DEC-2003 | 03-04-9382A | 02
04 | TN | GOODLETTSVILLE, CITY OF | 47165C0381D | 20-OCT-2003 | 03-04-10008A | 02
04 | TN | HAMBLEN COUNTY * | 4703460060B | 15-DEC-2003 | 03-04-8290A | 02
04 | TN | HAMILTON COUNTY * | 47065C0388F | 08-JUL-2003 | 03-04-7960A | 01
04 | TN | HAMILTON COUNTY * | 47065C0388F | 20-NOV-2003 | 04-04-0084A | 01
04 | TN | HENDERSONVILLE, CITY OF | 47165C0403D | 24-JUL-2003 | 03-04-8350A | 02
04 | TN | HENDERSONVILLE, CITY OF | 47165C0384D | 25-AUG-2003 | 03-04-7956A | 02
04 | TN | HENRY COUNTY | 47079C0125D | 05-AUG-2003 | 03-04-8738A | 02
04 | TN | HENRY COUNTY | 47079C0195D | 02-OCT-2003 | 03-04-10010A | 02
04 | TN | HENRY COUNTY | 47079C0195D | 14-OCT-2003 | 03-04-10004A | 02
04 | TN | HENRY COUNTY | 47079C0100D | 15-DEC-2003 | 04-04-0596A | 02
04 | TN | HICKMAN COUNTY* | 4700910008B | 10-NOV-2003 | 03-04-10352A | 02
04 | TN | HOUSTON COUNTY * | 4703470001A | 15-DEC-2003 | 04-04-0694A | 02
04 | TN | JEFFERSON COUNTY* | 4700970100C | 01-JUL-2003 | 03-04-7252A | 02
04 | TN | KIMBALL, TOWN OF | 4701160001B | 25-AUG-2003 | 03-04-6454A | 02
04 | TN | KINGSPORT, CITY OF | 4701840020C | 02-SEP-2003 | 03-04-5450A | 17
04 | TN | KINGSPORT, CITY OF | 4701840020C | 02-OCT-2003 | 03-04-10384A | 02
04 | TN | KNOX COUNTY * | 4754330100B | 03-JUL-2003 | 03-04-5542A | 02
04 | TN | KNOX COUNTY * | 4754330145B | 20-OCT-2003 | 03-04-9896A | 02
04 | TN | KNOX COUNTY * | 4754330120B | 05-DEC-2003 | 03-04-10968A | 02
04 | TN | KNOX COUNTY * | 4754330080B | 08-DEC-2003 | 03-04-10964A | 02
04 | TN | KNOX COUNTY * | 4754330115B | 08-DEC-2003 | 04-04-1288A | 02
04 | TN | KNOXVILLE, CITY OF | 4754340030D | 23-OCT-2003 | 03-04-9922A | 02
04 | TN | LAVERGNE, CITY OF | 47149C0101E | 29-DEC-2003 | 03-04-559P | 05
04 | TN | LAWRENCE COUNTY * | 47099C0025B | 01-JUL-2003 | 03-04-179P | 05
04 | TN | LAWRENCE COUNTY * | 47099C0050B | 01-JUL-2003 | 03-04-179P | 05
04 | TN | LEWIS COUNTY * | 4701030003A | 22-DEC-2003 | 03-04-10438A | 02
04 | TN | LEWISBURG, CITY OF | 47117C0134C | 07-AUG-2003 | 03-04-8542A | 01
04 | TN | LEWISBURG, CITY OF | 47117C0134C | 25-AUG-2003 | 03-04-9404A | 01
04 | TN | LOOKOUT MOUNTAIN, TOWN OF | 47065C0451F | 15-DEC-2003 | 04-04-1422A | 02
04 | TN | MADISON COUNTY * | 47113C0285D | 10-NOV-2003 | 03-04-9926A | 17
04 | TN | MARSHALL COUNTY* | 47117C0161C | 03-JUL-2003 | 03-04-7796A | 02
04 | TN | MARSHALL COUNTY* | 47117C0100C | 08-JUL-2003 | 03-04-5544A | 02
04 | TN | MARSHALL COUNTY* | 47117C0075C | 07-AUG-2003 | 03-04-6870A | 02
04 | TN | MAURY COUNTY* | 4701230155B | 10-NOV-2003 | 04-04-0030A | 17
04 | TN | MEMPHIS, CITY OF | 47157C0230E | 21-JUL-2003 | 03-04-7706A | 02
04 | TN | MEMPHIS, CITY OF | 47157C0230E | 29-JUL-2003 | 03-04-8488A | 02
04 | TN | MEMPHIS, CITY OF | 47157C0230E | 14-AUG-2003 | 03-04-8792A | 02
04 | TN | MEMPHIS, CITY OF | 47157C0095E | 21-AUG-2003 | 03-04-8950A | 02
04 | TN | MEMPHIS, CITY OF | 47157C0185E | 25-AUG-2003 | 03-04-9260A | 01
04 | TN | MEMPHIS, CITY OF | 47157C0130E | 15-SEP-2003 | 03-04-10096X | 01
04 | TN | MEMPHIS, CITY OF | 47157C0230E | 30-OCT-2003 | 04-04-0032A | 02
04 | TN | MEMPHIS, CITY OF | 47157C0140E | 15-DEC-2003 | 04-04-0310A | 02
04 | TN | MONTGOMERY COUNTY * | 4701360095B | 08-DEC-2003 | 04-04-1292A | 02
04 | TN | MONTGOMERY COUNTY * | 4701360050B | 18-DEC-2003 | 03-04-9236A | 02
04 | TN | MORRISTOWN, CITY OF | 4700700001D | 08-DEC-2003 | 04-04-1290A | 02
04 | TN | MURFREESBORO, CITY OF | 47149C0278F | 08-JUL-2003 | 03-04-7420A | 02
04 | TN | MURFREESBORO, CITY OF | 47149C0259G | 29-JUL-2003 | 03-04-8466A | 01
04 | TN | MURFREESBORO, CITY OF | 47149C0267F | 19-AUG-2003 | 03-04-8948A | 01
04 | TN | MURFREESBORO, CITY OF | 47149C0260G | 27-OCT-2003 | 03-04-10560A | 01
04 | TN | MURFREESBORO, CITY OF | 47149C0255F | 10-NOV-2003 | 04-04-0056A | 01
04 | TN | MURFREESBORO, CITY OF | 47149C0260G | 22-DEC-2003 | 04-04-1174A | 02
04 | TN | NASHVILLE & DAVIDSON COUNTY, CITY OF | 47037C0143F | 03-JUL-2003 | 03-04-6824A | 02
04 | TN | NASHVILLE & DAVIDSON COUNTY, CITY OF | 47037C0242F | 03-JUL-2003 | 03-04-6984A | 01
04 | TN | NASHVILLE & DAVIDSON COUNTY, CITY OF | 47037C0358F | 03-JUL-2003 | 03-04-7022A | 02
04 | TN | NASHVILLE & DAVIDSON COUNTY, CITY OF | 47037C0143F | 03-JUL-2003 | 03-04-7536A | 02
04 | TN | NASHVILLE & DAVIDSON COUNTY, CITY OF | 47037C0143F | 08-JUL-2003 | 03-04-6868A | 02
04 | TN | NASHVILLE & DAVIDSON COUNTY, CITY OF | 47037C0244F | 14-AUG-2003 | 03-04-8122A | 02
04 | TN | NASHVILLE & DAVIDSON COUNTY, CITY OF | 47037C0368F | 21-AUG-2003 | 03-04-9112A | 01
04 | TN | NASHVILLE & DAVIDSON COUNTY, CITY OF | 47037C0368F | 21-AUG-2003 | 03-04-9114A | 01
04 | TN | NASHVILLE & DAVIDSON COUNTY, CITY OF | 47037C0316F | 29-AUG-2003 | 03-04-301P | 05
04 | TN | NASHVILLE & DAVIDSON COUNTY, CITY OF | 47037C0143F | 22-SEP-2003 | 03-04-9444A | 02
04 | TN | NASHVILLE & DAVIDSON COUNTY, CITY OF | 47037C0312F | 25-SEP-2003 | 03-04-9696A | 02
04 | TN | NASHVILLE & DAVIDSON COUNTY, CITY OF | 47037C0231F | 14-OCT-2003 | 03-04-9924A | 02
04 | TN | NASHVILLE & DAVIDSON COUNTY, CITY OF | 47037C0194F | 20-OCT-2003 | 03-04-10436A | 02
04 | TN | NASHVILLE & DAVIDSON COUNTY, CITY OF | 47037C0143F | 27-OCT-2003 | 03-04-10814A | 02
04 | TN | NASHVILLE & DAVIDSON COUNTY, CITY OF | 47037C0143F | 06-NOV-2003 | 03-04-9512A | 01
04 | TN | NASHVILLE & DAVIDSON COUNTY, CITY OF | 47037C0231F | 06-NOV-2003 | 03-04-9512A | 01
04 | TN | NASHVILLE & DAVIDSON COUNTY, CITY OF | 47037C0242F | 17-NOV-2003 | 04-04-0496A | 01
04 | TN | NASHVILLE & DAVIDSON COUNTY, CITY OF | 47037C0261F | 17-NOV-2003 | 04-04-0496A | 01
04 | TN | NASHVILLE & DAVIDSON COUNTY, CITY OF | 47037C0358F | 20-NOV-2003 | 03-04-7042A | 01
04 | TN | NASHVILLE & DAVIDSON COUNTY, CITY OF | 47037C0183F | 20-NOV-2003 | 04-04-0308A | 02
04 | TN | NASHVILLE & DAVIDSON COUNTY, CITY OF | 47037C0227F | 24-NOV-2003 | 03-04-9012A | 01
04 | TN | NASHVILLE & DAVIDSON COUNTY, CITY OF | 47037C0254F | 24-NOV-2003 | 03-04-9012A | 01
04 | TN | NASHVILLE & DAVIDSON COUNTY, CITY OF | 47037C0312F | 24-NOV-2003 | 03-04-9012A | 01
04 | TN | NASHVILLE & DAVIDSON COUNTY, CITY OF | 47037C0231F | 04-DEC-2003 | 04-04-1262A | 02
04 | TN | NASHVILLE & DAVIDSON COUNTY, CITY OF | 47037C0253F | 15-DEC-2003 | 04-04-0494A | 01
04 | TN | NORMANDY, TOWN OF | 470313—01A | 24-JUL-2003 | 03-04-7440A | 02
04 | TN | OAK RIDGE, CITY OF | 4754410010D | 02-OCT-2003 | 03-04-8794A | 02
04 | TN | PEGRAM, TOWNSHIP OF | 47021C0285C | 29-SEP-2003 | 03-04-9756A | 02
04 | TN | RHEA COUNTY* | 4701510075B | 10-JUL-2003 | 03-04-7388A | 02
04 | TN | RHEA COUNTY* | 4701510075B | 18-SEP-2003 | 03-04-9606A | 02
04 | TN | RHEA COUNTY* | 4701510075B | 15-DEC-2003 | 03-04-10088A | 02
04 | TN | RIDGELY, TOWN OF | 4703340150B | 15-DEC-2003 | 04-04-0250A | 02
04 | TN | RIPLEY, TOWN OF | 4701000004C | 18-SEP-2003 | 03-04-9762A | 02
04 | TN | RIPLEY, TOWN OF | 4701000004C | 18-DEC-2003 | 03-04-9760A | 02
04 | TN | RIPLEY, TOWN OF | 4701000002C | 18-DEC-2003 | 04-04-0342A | 01
04 | TN | RIVES, CITY OF | 470235—01A | 15-DEC-2003 | 03-04-9506A | 02
04 | TN | ROANE COUNTY * | 4702670085B | 14-OCT-2003 | 03-04-9360A | 02
04 | TN | ROCKWOOD, CITY OF | 4754430005B | 05-AUG-2003 | 03-04-8474V | 19
04 | TN | ROCKWOOD, CITY OF | 4754430005B | 02-OCT-2003 | 03-04-9318A | 02
04 | TN | RUTHERFORD COUNTY * | 47149C0166E | 11-AUG-2003 | 03-04-8708A | 02
04 | TN | RUTHERFORD COUNTY * | 47149C0410E | 22-DEC-2003 | 04-04-0922A | 02
04 | TN | SEVIER COUNTY* | 4702360025B | 22-SEP-2003 | 03-04-9608A | 02
04 | TN | SEVIER COUNTY* | 4702360060B | 22-SEP-2003 | 03-04-9608A | 02
04 | TN | SHELBY COUNTY * | 47157C0190E | 03-JUL-2003 | 03-04-7910A | 01
04 | TN | SHELBY COUNTY * | 47157C0290E | 16-OCT-2003 | 03-04-8294A | 01
04 | TN | SHELBY COUNTY * | 47157C0195E | 13-NOV-2003 | 03-04-10818A | 01
04 | TN | SHELBY COUNTY * | 47157C0155E | 13-NOV-2003 | 03-04-11094A | 02
04 | TN | SHELBYVILLE, CITY OF | 4700080028C | 17-JUL-2003 | 03-04-4998A | 01
04 | TN | SHELBYVILLE, CITY OF | 4700080028C | 20-NOV-2003 | 03-04-10480A | 02
04 | TN | SMYRNA, TOWN OF | 47149C0130F | 27-OCT-2003 | 03-04-9648A | 02
04 | TN | SMYRNA, TOWN OF | 47149C0108E | 15-DEC-2003 | 03-04-10754A | 02
04 | TN | SODDY-DAISY, CITY OF | 47065C0228F | 07-AUG-2003 | 03-04-4952A | 02
04 | TN | SODDY-DAISY, CITY OF | 47065C0226F | 16-OCT-2003 | 03-04-10256A | 02
04 | TN | SODDY-DAISY, CITY OF | 47065C0228F | 30-OCT-2003 | 03-04-10148A | 02
04 | TN | SUMNER COUNTY* | 47165C0269D | 15-DEC-2003 | 03-04-9758A | 02
04 | TN | TIPTON COUNTY * | 47167C0050E | 14-OCT-2003 | 03-04-9316A | 02
04 | TN | TRACY CITY, CITY OF | 470282—03A | 25-SEP-2003 | 03-04-9210A | 01
04 | TN | UNICOI COUNTY * | 4702380020B | 08-JUL-2003 | 03-04-7538A | 02
04 | TN | UNION CITY, CITY OF | 4701420010B | 25-SEP-2003 | 03-04-9894A | 02
04 | TN | WILLIAMSON COUNTY * | 47187C0030E | 29-JUL-2003 | 03-04-8786A | 02
04 | TN | WILLIAMSON COUNTY * | 47187C0072E | 20-AUG-2003 | 03-04-9388A | 02
04 | TN | WILLIAMSON COUNTY * | 47187C0134E | 21-AUG-2003 | 03-04-8952A | 02
04 | TN | WILLIAMSON COUNTY * | 47187C0030E | 29-AUG-2003 | 03-04-301P | 05
04 | TN | WILLIAMSON COUNTY * | 47187C0125E | 18-SEP-2003 | 03-04-9356A | 02
04 | TN | WILLIAMSON COUNTY * | 47187C0025E | 18-SEP-2003 | 03-04-9698A | 17
04 | TN | WILLIAMSON COUNTY * | 47187C0195E | 02-OCT-2003 | 03-04-10570A | 02
04 | TN | WILLIAMSON COUNTY * | 47187C0205E | 15-DEC-2003 | 04-04-1470A | 02
05 | IL | ADDISON, VILLAGE OF | 1701980004C | 08-JUL-2003 | 03-05-2639A | 02
05 | IL | ALEXANDER COUNTY | 1708110075B | 10-SEP-2003 | 03-05-4611A | 02
05 | IL | ALTON, CITY OF | 1704370005C | 06-AUG-2003 | 03-05-4196A | 02
05 | IL | ANTIOCH, VILLAGE OF | 17097C0026F | 03-SEP-2003 | 03-05-4823A | 02
05 | IL | ARLINGTON HEIGHTS, VILLAGE OF | 17031C0211F | 25-JUL-2003 | 03-05-4186A | 02
05 | IL | AROMA PARK, VILLAGE OF | 1707400001D | 14-NOV-2003 | 04-05-0362A | 02
05 | IL | AURORA, CITY OF | 17089C0319F | 20-AUG-2003 | 03-05-4374A | 17
05 | IL | AURORA, CITY OF | 1703200015D | 27-AUG-2003 | 03-05-4559A | 01
05 | IL | AURORA, CITY OF | 1703200020E | 03-DEC-2003 | 04-05-0594A | 02
05 | IL | BEACH PARK, VILLAGE OF | 17097C0086G | 09-OCT-2003 | 03-05-0440P | 06
05 | IL | BEACH PARK, VILLAGE OF | 17097C0087G | 09-OCT-2003 | 03-05-0440P | 06
05 | IL | BELLEVILLE, CITY OF | 17163C0213 | 06-NOV-2003 | 04-05-0046V | 19
05 | IL | BELLEVILLE, CITY OF | 17163C0215 | 06-NOV-2003 | 04-05-0046V | 19
05 | IL | BELLEVILLE, CITY OF | 17163C0330 | 06-NOV-2003 | 04-05-0046V | 19
05 | IL | BELLWOOD, VILLAGE OF | 17031C0457F | 13-NOV-2003 | 03-05-5361A | 02
05 | IL | BLOOMINGDALE, VILLAGE OF | 1702010002B | 25-AUG-2003 | 03-05-4113A | 02
05 | IL | BLOOMINGDALE, VILLAGE OF | 1702010001B | 19-DEC-2003 | 04-05-0489P | 05
05 | IL | BLOOMINGDALE, VILLAGE OF | 1702010002B | 19-DEC-2003 | 04-05-0489P | 05
05 | IL | BLOOMINGTON, CITY OF | 17113C0482D | 17-SEP-2003 | 03-05-4333A | 17
05 | IL | BLOOMINGTON, CITY OF | 17113C0318D | 17-OCT-2003 | 03-05-5485A | 02
05 | IL | BOLINGBROOK, VILLAGE OF | 17197C0054E | 17-JUL-2003 | 02-05-3078P | 05
05 | IL | BOLINGBROOK, VILLAGE OF | 17197C0045F | 08-AUG-2003 | 03-05-3804A | 02
05 | IL | BOLINGBROOK, VILLAGE OF | 17197C0034E | 17-OCT-2003 | 03-05-5071A | 01
05 | IL | BOLINGBROOK, VILLAGE OF | 17197C0045F | 17-OCT-2003 | 03-05-5071A | 01
05 | IL | BRAIDWOOD, CITY OF | 17197C0415E | 15-OCT-2003 | 03-05-4490A | 02
05 | IL | BUFFALO GROVE, VILLAGE OF | 17097C0266G | 31-OCT-2003 | 04-05-0129A | 02
05 | IL | BYRON, CITY OF | 1705250095A | 19-NOV-2003 | 03-05-5504A | 01
05 | IL | CAHOKIA, VILLAGE OF | 17163C0170 | 06-NOV-2003 | 04-05-0047V | 19
05 | IL | CAHOKIA, VILLAGE OF | 17163C0170D | 03-DEC-2003 | 04-05-0714A | 01
05 | IL | CAHOKIA, VILLAGE OF | 17163C0170D | 24-DEC-2003 | 04-05-0846A | 02
05 | IL | CALUMET CITY, CITY OF | 17031C0752F | 18-JUL-2003 | 03-05-4215A | 01
05 | IL | CALUMET CITY, CITY OF | 17031C0756F | 18-JUL-2003 | 03-05-4215A | 01
05 | IL | CARBONDALE, CITY OF | 1702980010B | 15-AUG-2003 | 03-05-4567A | 02
05 | IL | CARBONDALE, CITY OF | 1702980010B | 22-OCT-2003 | 03-05-5601A | 02
05 | IL | CARLYLE, CITY OF | 170044B | 16-OCT-2003 | 03-05-4637A | 02
05 | IL | CARMI, CITY OF | 1706810005B | 30-JUL-2003 | 03-05-4449A | 02
05 | IL | CARMI, CITY OF | 1706810005B | 29-AUG-2003 | 03-05-4829A | 02
05 | IL | CARMI, CITY OF | 1706810005B | 29-AUG-2003 | 03-05-4869A | 02
05 | IL | CARMI, CITY OF | 1706810005B | 20-AUG-2003 | 03-05-4908A | 02
05 | IL | CARMI, CITY OF | 1706810005B | 26-SEP-2003 | 03-05-5602A | 02
05 | IL | CAROL STREAM, VILLAGE OF | 1702020005C | 11-AUG-2003 | 03-05-3568A | 02
05 | IL | CHAMPAIGN COUNTY | 1708940225B | 06-AUG-2003 | 03-05-3948A | 02
05 | IL | CHAMPAIGN COUNTY | 1708940100C | 11-JUL-2003 | 03-05-4216A | 02
05 | IL | CHAMPAIGN COUNTY | 1708940205B | 30-JUL-2003 | 03-05-4387A | 02
05 | IL | CHAMPAIGN COUNTY | 1708940180B | 08-AUG-2003 | 03-05-4592A | 02
05 | IL | CHAMPAIGN COUNTY | 1708940205B | 08-AUG-2003 | 03-05-4615A | 02
05 | IL | CHAMPAIGN COUNTY | 1708940225B | 29-AUG-2003 | 03-05-4805A | 02
05 | IL | CHAMPAIGN COUNTY | 1708940095C | 15-OCT-2003 | 03-05-4991A | 01
05 | IL | CHAMPAIGN COUNTY | 1708940100C | 22-OCT-2003 | 03-05-5001A | 02
05 | IL | CHAMPAIGN COUNTY | 1708940125B | 21-NOV-2003 | 03-05-5710A | 02
05 | IL | CHAMPAIGN COUNTY | 1708940100C | 19-DEC-2003 | 04-05-1236A | 02
05 | IL | CHANNAHON, VILLAGE OF | 17197C0255E | 08-AUG-2003 | 03-05-2046A | 02
05 | IL | CHARLESTON, CITY OF | 1700520005C | 09-JUL-2003 | 03-05-3632A | 02
05 | IL | CLINTON COUNTY* | 1700440017B | 11-SEP-2003 | 03-05-2654A | 02
05 | IL | CLINTON COUNTY* | 170044—30 B | 07-AUG-2003 | 03-05-3565A | 02
05 | IL | CLINTON COUNTY* | 170044—18B | 27-OCT-2003 | 03-05-4106A | 02
05 | IL | CLINTON COUNTY* | 170044—13B | 16-OCT-2003 | 03-05-4133A | 02
05 | IL | CLINTON COUNTY* | 170044—12B | 14-OCT-2003 | 03-05-4682A | 02
05 | IL | CLINTON COUNTY* | 170044—18B | 24-NOV-2003 | 04-05-0027A | 02
05 | IL | CLINTON COUNTY* | 170044—13B | 08-DEC-2003 | 04-05-0029A | 02
05 | IL | CLINTON COUNTY* | 170044—13B | 04-DEC-2003 | 04-05-0068A | 02
05 | IL | COLUMBIA, CITY OF | 1705100035D | 01-AUG-2003 | 03-05-4326A | 02
05 | IL | COLUMBIA, CITY OF | 1705100055D | 20-AUG-2003 | 03-05-4746A | 02
05 | IL | COOK COUNTY | 17031C0593F | 16-OCT-2003 | 03-05-0548P | 05
05 | IL | COOK COUNTY | 17031C0183F | 12-SEP-2003 | 03-05-1927A | 17
05 | IL | COOK COUNTY | 17031C0593F | 11-JUL-2003 | 03-05-4023A | 17
05 | IL | COOK COUNTY | 17031C0682F | 11-JUL-2003 | 03-05-4043A | 17
05 | IL | COOK COUNTY | 17031C0069F | 10-OCT-2003 | 03-05-4779A | 02
05 | IL | COOK COUNTY | 17031C0207F | 10-OCT-2003 | 03-05-4779A | 02
05 | IL | COOK COUNTY | 17031C0236F | 26-SEP-2003 | 03-05-4915A | 02
05 | IL | COOK COUNTY | 17031C0768F | 26-SEP-2003 | 03-05-5461X | 02
05 | IL | COOK COUNTY | 17031C0253F | 22-OCT-2003 | 03-05-5652A | 02
05 | IL | COOK COUNTY | 17031C0253F | 12-DEC-2003 | 04-05-0004A | 02
05 | IL | COOK COUNTY | 17031C0069F | 31-OCT-2003 | 04-05-0260X | 02
05 | IL | COOK COUNTY | 17031C0207F | 31-OCT-2003 | 04-05-0260X | 02
05 | IL | COOK COUNTY | 17031C0253F | 26-NOV-2003 | 04-05-0318A | 02
05 | IL | COUNTRYSIDE, CITY OF | 17031C0467F | 25-JUL-2003 | 03-05-1844P | 05
05 | IL | CREST HILL, CITY OF | 17197C0153E | 25-AUG-2003 | 03-05-3365P | 06
05 | IL | CREST HILL, CITY OF | 17197C0155E | 25-AUG-2003 | 03-05-3365P | 06
05 | IL | DANVILLE, CITY OF | 1706620010C | 16-JUL-2003 | 03-05-4158A | 02
05 | IL | DANVILLE, CITY OF | 1706620010C | 15-OCT-2003 | 03-05-4739A | 02
05 | IL | DARIEN, CITY OF | 1707500002A | 11-AUG-2003 | 03-05-3242A | 02
05 | IL | DARIEN, CITY OF | 1707500002A | 05-AUG-2003 | 03-05-3557A | 02
05 | IL | DECATUR, CITY OF | 1704290020C | 09-JUL-2003 | 03-05-3789A | 02
05 | IL | DECATUR, CITY OF | 1704290005C | 24-OCT-2003 | 03-05-4565A | 17
05 | IL | DECATUR, CITY OF | 1704290020C | 26-SEP-2003 | 03-05-4864A | 02
05 | IL | DECATUR, CITY OF | 1709280105B | 10-SEP-2003 | 03-05-5201A | 02
05 | IL | DECATUR, CITY OF | 1704290020C | 17-OCT-2003 | 03-05-5431A | 02
05 | IL | DEERFIELD, VILLAGE OF | 17097C0286F | 15-AUG-2003 | 03-05-3279A | 17
05 | IL | DES PLAINES, CITY OF | 17031C0216F | 16-JUL-2003 | 03-05-4250A | 02
05 | IL | DES PLAINES, CITY OF | 17031C0236F | 31-DEC-2003 | 04-05-0831A | 01
05 | IL | DOUGLAS COUNTY | 1701940025B | 06-AUG-2003 | 03-05-4519A | 02
05 | IL | DOWNERS GROVE, VILLAGE OF | 1702040004B | 10-JUL-2003 | 03-05-3567A | 02
05 | IL | DU PAGE COUNTY* | 1701970045B | 10-JUL-2003 | 03-05-2662A | 02
05 | IL | DU PAGE COUNTY* | 1701970010C | 03-JUL-2003 | 03-05-2663A | 02
05 | IL | DU PAGE COUNTY* | 1701970025B | 21-AUG-2003 | 03-05-3254A | 02
05 | IL | DU PAGE COUNTY* | 1701970045B | 07-AUG-2003 | 03-05-3548A | 02
05 | IL | DU PAGE COUNTY* | 1701970060B | 11-AUG-2003 | 03-05-3569A | 02
05 | IL | DU PAGE COUNTY* | 1701970065B | 07-AUG-2003 | 03-05-3583A | 02
05 | IL | DU PAGE COUNTY* | 1701970055B | 21-AUG-2003 | 03-05-4135A | 02
05 | IL | DU PAGE COUNTY* | 1701970020B | 09-OCT-2003 | 03-05-4667A | 02
05 | IL | DU PAGE COUNTY* | 1701970045B | 29-SEP-2003 | 03-05-4672A | 02
05 | IL | DU PAGE COUNTY* | 1701970025B | 23-OCT-2003 | 03-05-5355A | 02
05 | IL | DU PAGE COUNTY* | 1701970045B | 16-OCT-2003 | 03-05-795P | 05
05 | IL | DU PAGE COUNTY* | 1701970035B | 24-NOV-2003 | 04-05-0026A | 02
05 | IL | EAST DUNDEE, VILLAGE OF | 17089C0157F | 21-NOV-2003 | 03-05-4863A | 02
05 | IL | EAST ST. LOUIS, CITY OF | 1706260005B | 18-SEP-2003 | 03-05-3595A | 02
05 | IL | EAST ST. LOUIS, CITY OF | 17163C0038 | 06-NOV-2003 | 04-05-0048V | 19
05 | IL | EDWARDSVILLE, CITY OF | 1704410001C | 10-SEP-2003 | 03-05-4851A | 02
05 | IL | ELGIN, CITY OF | 17089C0166F | 16-JUL-2003 | 03-05-2781C | 01
05 | IL | ELGIN, CITY OF | 17089C0167F | 16-JUL-2003 | 03-05-2781C | 01
05 | IL | ELGIN, CITY OF | 17089C0167F | 15-DEC-2003 | 03-05-3985P | 05
05 | IL | ELGIN, CITY OF | 17089C0169F | 15-DEC-2003 | 03-05-3985P | 05
05 | IL | ELGIN, CITY OF | 17089C0169F | 10-SEP-2003 | 03-05-5134A | 02
05 | IL | FAIRVIEW HGTS., CITY OF | 17163C0201 | 06-NOV-2003 | 04-05-0054V | 19
05 | IL | FORD HEIGHTS, VILLAGE OF | 17031C0764F | 27-AUG-2003 | 03-05-4317A | 02
05 | IL | FOX LAKE, VILLAGE OF | 17097C0020F | 11-JUL-2003 | 03-05-4247A | 02
05 | IL | FOX LAKE, VILLAGE OF | 17097C0020F | 24-DEC-2003 | 04-05-0523A | 02
05 | IL | FOX LAKE, VILLAGE OF | 17097C0020F | 17-DEC-2003 | 04-05-1111A | 02
05 | IL | FRANKFORT, VILLAGE OF | 17197C0310E | 18-AUG-2003 | 03-05-0426P | 06
05 | IL | FRANKFORT, VILLAGE OF | 17197C0310E | 22-SEP-2003 | 03-05-0549P | 06
05 | IL | FRANKFORT, VILLAGE OF | 17197C0213E | 09-JUL-2003 | 03-05-4052A | 02
05 | IL | FRANKLIN PARK, VILLAGE OF | 17031C0386F | 22-AUG-2003 | 03-05-4451A | 02
05 | IL | GALENA, CITY OF | 175168—01A | 09-JUL-2003 | 03-05-4025A | 02
05 | IL | GENEVA, CITY OF | 17089C0264F | 30-JUL-2003 | 03-05-1473P | 05
05 | IL | GENEVA, CITY OF | 17089C0327F | 30-JUL-2003 | 03-05-1473P | 05
05 | IL | GENEVA, CITY OF | 17089C0327F | 01-OCT-2003 | 03-05-5440A | 02
05 | IL | GERMANTOWN, VILLAGE OF | 170049—01B | 11-SEP-2003 | 03-05-3251A | 02
05 | IL | GERMANTOWN, VILLAGE OF | 170049—01 B | 15-SEP-2003 | 03-05-4112A | 02
05 | IL | GILBERTS, VILLAGE OF | 17089C0135F | 29-SEP-2003 | 03-05-1837P | 06
05 | IL | GILBERTS, VILLAGE OF | 17089C0153F | 29-SEP-2003 | 03-05-1837P | 06
05 | IL | GLENDALE HEIGHTS, VILLAGE OF | 1702060001C | 17-NOV-2003 | 04-05-0065A | 02
05 | IL | GRAFTON, CITY OF | 1703140001C | 30-JUL-2003 | 03-05-2332A | 02
05 | IL | GRANITE CITY, CITY OF | 1704430002A | 03-OCT-2003 | 03-05-5452A | 02
05 | IL | GRUNDY COUNTY | 1702560075C | 29-OCT-2003 | 03-05-5644A | 02
05 | IL | GURNEE, VILLAGE OF | 17097C0157G | 17-SEP-2003 | 03-05-5438A | 02
05 | IL | HARVEY, CITY OF | 17031C0732F | 05-SEP-2003 | 03-05-4097A | 17
05 | IL | HAWTHORN WOODS, VILLAGE OF | 17097C0231F | 17-OCT-2003 | 03-05-4741A | 17
05 | IL | HIGHLAND PARK, CITY OF | 17097C0293F | 02-JUL-2003 | 03-05-4016A | 02
05 | IL | HIGHLAND PARK, CITY OF | 17097C0287F | 03-OCT-2003 | 03-05-5574A | 02
05 | IL | HINSDALE, VILLAGE OF | 1701050002B | 07-AUG-2003 | 03-05-2637A | 02
05 | IL | HINSDALE, VILLAGE OF | 1701050002B | 16-OCT-2003 | 03-05-4109A | 02
05 | IL | HOFFMAN ESTATES, VILLAGE OF | 17031C0187F | 16-JUL-2003 | 03-05-4195A | 02
05 | IL | HOFFMAN ESTATES, VILLAGE OF | 17031C0187F | 12-DEC-2003 | 04-05-0671A | 02
05 | IL | HOLIDAY HILLS, VILLAGE OF | 1709360001B | 10-SEP-2003 | 03-05-4446A | 02
05 | IL | HOMEWOOD, VILLAGE OF | 17031C0741F | 01-OCT-2003 | 03-05-5098A | 02
05 | IL | HOMEWOOD, VILLAGE OF | 17031C0741F | 14-NOV-2003 | 04-05-0367A | 02
05 | IL | HOMEWOOD, VILLAGE OF | 17031C0741F | 17-DEC-2003 | 04-05-1099A | 01
05 | IL | IROQUOIS COUNTY | 17075C0105D | 25-JUL-2003 | 03-05-4382A | 02
05 | IL | IROQUOIS COUNTY | 17075C0035D | 26-SEP-2003 | 03-05-4980A | 02
05 | IL | ISLAND LAKE, VILLAGE OF | 1703700001B | 18-JUL-2003 | 03-05-2841X | 01
05 | IL | ISLAND LAKE, VILLAGE OF | 1703700001B | 15-OCT-2003 | 03-05-5398A | 02
05 | IL | ISLAND LAKE, VILLAGE OF | 1703700001B | 29-OCT-2003 | 04-05-0162A | 02
05 | IL | ISLAND LAKE, VILLAGE OF | 17097C0114F | 03-DEC-2003 | 04-05-0665A | 02
05 | IL | JERSEY COUNTY | 1703120050B | 26-NOV-2003 | 04-05-0652A | 02
05 | IL | JOLIET, CITY OF | 17197C0144E | 16-JUL-2003 | 03-05-2714A | 02
05 | IL | JOLIET, CITY OF | 17197C0137E | 17-OCT-2003 | 03-05-4359A | 01
05 | IL | JOLIET, CITY OF | 17197C0141F | 17-OCT-2003 | 03-05-4359A | 01
05 | IL | JOLIET, CITY OF | 17197C0137E | 06-AUG-2003 | 03-05-4361A | 01
05 | IL | JOLIET, CITY OF | 17197C0141F | 06-AUG-2003 | 03-05-4361A | 01
05 | IL | JOLIET, CITY OF | 17197C0134E | 17-SEP-2003 | 03-05-5027A | 02
05 | IL | JOLIET, CITY OF | 17197C0135F | 17-SEP-2003 | 03-05-5027A | 02
05 | IL | KANE COUNTY | 17089C0241F | 24-SEP-2003 | 03-05-3911A | 02
05 | IL | KANE COUNTY | 17089C0232F | 16-JUL-2003 | 03-05-3970A | 02
05 | IL | KANE COUNTY | 17089C0233F | 15-AUG-2003 | 03-05-4801A | 02
05 | IL | KANE COUNTY | 17089C0139F | 10-OCT-2003 | 03-05-5248A | 02
05 | IL | KANE COUNTY | 17089C0126F | 01-OCT-2003 | 03-05-5426A | 02
05 | IL | KANE COUNTY | 17089C0233F | 15-OCT-2003 | 03-05-5591A | 01
05 | IL | KANE COUNTY | 17089C0234F | 05-NOV-2003 | 03-05-5740A | 02
05 | IL | KANKAKEE COUNTY | 1703360185C | 30-JUL-2003 | 03-05-3070A | 17
05 | IL | KANKAKEE COUNTY | 1703360180C | 23-JUL-2003 | 03-05-3938A | 17
05 | IL | KANKAKEE COUNTY | 1703360185C | 02-JUL-2003 | 03-05-3955A | 02
05 | IL | KANKAKEE COUNTY | 1703360185C | 16-JUL-2003 | 03-05-4256A | 02
05 | IL | KANKAKEE COUNTY | 1703360155B | 06-AUG-2003 | 03-05-4352A | 02
05 | IL | KANKAKEE COUNTY | 1703360185C | 13-AUG-2003 | 03-05-4727A | 02
05 | IL | KANKAKEE COUNTY | 1703360180C | 17-OCT-2003 | 03-05-4976A | 17
05 | IL | KANKAKEE COUNTY | 1703360170C | 10-OCT-2003 | 03-05-5548A | 02
05 | IL | KANKAKEE COUNTY | 1703360185C | 17-OCT-2003 | 03-05-5549A | 02
05 | IL | KANKAKEE COUNTY | 1703360170C | 22-OCT-2003 | 03-05-5750A | 02
05 | IL | KANKAKEE, CITY OF | 1703390076D | 15-AUG-2003 | 03-05-4736A | 02
05 | IL | KENDALL COUNTY | 1703410015D | 06-AUG-2003 | 03-05-4334A | 02
05 | IL | KENDALL COUNTY | 1703410030C | 22-OCT-2003 | 03-05-5749A | 02
05 | IL | KINCAID, VILLAGE OF | 170858—01B | 15-OCT-2003 | 03-05-4002A | 02
05 | IL | KNOX COUNTY | 1709140200B | 19-NOV-2003 | 04-05-0450A | 02
05 | IL | LA SALLE COUNTY | 17099C0275E | 26-NOV-2003 | 04-05-0382A | 02
05 | IL | LAKE BARRINGTON, VILLAGE OF | 17097C0205F | 26-NOV-2003 | 03-05-4967A | 02
05 | IL | LAKE COUNTY | 17097C0010F | 29-OCT-2003 | 03-05-3672A | 02
05 | IL | LAKE COUNTY | 17097C0126F | 17-OCT-2003 | 03-05-3720A | 17
05 | IL | LAKE COUNTY | 17097C0258G | 01-AUG-2003 | 03-05-3827A | 02
05 | IL | LAKE COUNTY | 17097C0019F | 11-JUL-2003 | 03-05-3954A | 02
05 | IL | LAKE COUNTY | 17097C0155G | 11-JUL-2003 | 03-05-3967A | 02
05 | IL | LAKE COUNTY | 17097C0166G | 11-JUL-2003 | 03-05-4079A | 02
05 | IL | LAKE COUNTY | 17097C0020F | 11-JUL-2003 | 03-05-4096A | 02
05 | IL | LAKE COUNTY | 17097C0166G | 26-SEP-2003 | 03-05-5195A | 02
05 | IL | LAKE COUNTY | 17097C0020F | 26-SEP-2003 | 03-05-5527A | 02
05 | IL | LAKE COUNTY | 17097C0166G | 15-OCT-2003 | 03-05-5665A | 02
05 | IL | LAKE COUNTY | 17097C0155G | 05-DEC-2003 | 03-05-5738A | 02
05 | IL | LAKE COUNTY | 17097C0019F | 29-OCT-2003 | 04-05-0008A | 02
05 | IL | LAKE COUNTY | 17097C0205F | 24-OCT-2003 | 04-05-0103A | 02
05 | IL | LAKE COUNTY | 17097C0166G | 07-NOV-2003 | 04-05-0321A | 02
05 | IL | LAKE COUNTY | 17097C0114F | 10-DEC-2003 | 04-05-0398A | 02
05 | IL | LAKE COUNTY | 17097C0019F | 10-DEC-2003 | 04-05-0942A | 02
05 | IL | LAKE FOREST, CITY OF | 17097C0277F | 11-JUL-2003 | 03-05-2909A | 02
05 | IL | LAKE FOREST, CITY OF | 17097C0276F | 09-JUL-2003 | 03-05-3879A | 02
05 | IL | LAWRENCE COUNTY | 1704090100B | 24-OCT-2003 | 03-05-4429A | 02
05 | IL | LAWRENCE COUNTY | 1704090080B | 26-NOV-2003 | 04-05-0681A | 02
05 | IL | LEBANON, CITY OF | 17163C0235 | 06-NOV-2003 | 04-05-0049V | 19
05 | IL | LEE COUNTY | 17103C0015D | 05-SEP-2003 | 03-05-4004A | 02
05 | IL | LEE COUNTY | 17103C0175D | 27-AUG-2003 | 03-05-4795A | 02
05 | IL | LEMONT, VILLAGE OF | 17031C0589F | 11-JUL-2003 | 03-05-3844A | 02
05 | IL | LENZBURG, VILLAGE OF | 17163C0470 | 06-NOV-2003 | 04-05-0055V | 19
05 | IL | LIBERTYVILLE, VILLAGE OF | 17097C0162G | 02-JUL-2003 | 03-05-2551A | 02
05 | IL | LIBERTYVILLE, VILLAGE OF | 17097C0164G | 13-AUG-2003 | 03-05-4714A | 02
05 | IL | LIBERTYVILLE, VILLAGE OF | 17097C0166G | 14-NOV-2003 | 04-05-0449A | 02
05 | IL | LILY LAKE, VILLAGE OF | 17089C0250F | 18-JUL-2003 | 03-05-4151A | 02
05 | IL | LINCOLNSHIRE, VILLAGE OF | 17097C0258G | 12-NOV-2003 | 04-05-0270A | 02
05 | IL | LIVINGSTON COUNTY | 1709290009A | 19-DEC-2003 | 04-05-0659A | 02
05 | IL | LOCKPORT, CITY OF | 17197C0158E | 02-JUL-2003 | 03-05-2399A | 02
05 | IL | LOCKPORT, CITY OF | 17197C0158E | 12-DEC-2003 | 04-05-0817A | 02
05 | IL | LOCKPORT, CITY OF | 17197C0158E | 24-DEC-2003 | 04-05-1325X | 02
05 | IL | LOMBARD, VILLAGE OF | 1701970045B | 31-JUL-2003 | 03-05-3226A | 02
05 | IL | LOMBARD, VILLAGE OF | 1702120005B | 11-SEP-2003 | 03-05-4145A | 02
05 | IL | LOVES PARK, CITY OF | 1707220010C | 24-OCT-2003 | 03-05-5704A | 02
05 | IL | LYNWOOD, VILLAGE OF | 17031C0768F | 25-JUL-2003 | 03-05-2751A | 17
05 | IL | LYONS, VILLAGE OF | 17031C0479F | 02-JUL-2003 | 03-05-1512A | 02
05 | IL | MACHESNEY PARK, VILLAGE OF | 1710090005A | 03-OCT-2003 | 03-05-5444A | 02
05 | IL | MACHESNEY PARK, VILLAGE OF | 1710090005A | 05-DEC-2003 | 04-05-0814A | 02
05 | IL | MACHESNEY PARK, VILLAGE OF | 1710090005A | 31-DEC-2003 | 04-05-0987A | 02
05 | IL | MACON COUNTY | 1709280025B | 24-OCT-2003 | 03-05-5648A | 02
05 | IL | MADISON COUNTY | 1704360080B | 30-JUL-2003 | 03-05-3870A | 02
05 | IL | MADISON COUNTY | 1704360110B | 10-OCT-2003 | 03-05-4802A | 02
05 | IL | MADISON COUNTY | 1704360110B | 08-DEC-2003 | 03-05-5172P | 05
05 | IL | MADISON COUNTY | 1704360115B | 08-DEC-2003 | 03-05-5172P | 05
05 | IL | MADISON COUNTY | 1704360050B | 12-SEP-2003 | 03-05-5246A | 02
05 | IL | MADISON COUNTY | 1704360120B | 12-NOV-2003 | 04-05-0284A | 02
05 | IL | MADISON COUNTY | 1704360075B | 12-DEC-2003 | 04-05-0941A | 02
05 | IL | MAHOMET, VILLAGE OF | 1700290002C | 08-JUL-2003 | 03-05-3387P | 06
05 | IL | MAHOMET, VILLAGE OF | 1700290005C | 08-JUL-2003 | 03-05-3387P | 06
05 | IL | MAHOMET, VILLAGE OF | 1700290006C | 08-JUL-2003 | 03-05-3387P | 06
05 | IL | MANHATTAN, VILLAGE OF | 17197C0295E | 08-JUL-2003 | 03-05-0544P | 06
05 | IL | MARION COUNTY | 1709320005A | 16-JUL-2003 | 03-05-1920A | 02
05 | IL | MASCOUTAH, CITY OF | 17163C0360 | 06-NOV-2003 | 04-05-0050V | 19
05 | IL | MCHENRY COUNTY | 1707320355B | 17-OCT-2003 | 03-05-3471A | 17
05 | IL | MCHENRY COUNTY | 1707320095B | 02-JUL-2003 | 03-05-3714A | 02
05 | IL | MCHENRY COUNTY | 1707320355B | 11-JUL-2003 | 03-05-4172A | 02
05 | IL | MCHENRY COUNTY | 1707320355B | 05-SEP-2003 | 03-05-4934A | 02
05 | IL | MCHENRY COUNTY | 1707320355B | 10-OCT-2003 | 03-05-5580A | 02
05 | IL | MCHENRY COUNTY | 1707320355B | 31-DEC-2003 | 04-05-0386A | 02
05 | IL | MCLEAN COUNTY | 17113C0150D | 03-SEP-2003 | 03-05-4473A | 02
05 | IL | MCLEAN COUNTY | 17113C0150D | 03-OCT-2003 | 03-05-5501A | 02
05 | IL | MCLEAN COUNTY | 17113C0150D | 05-NOV-2003 | 04-05-0225A | 02
05 | IL | MELROSE PARK, VILLAGE OF | 17031C0387F | 11-AUG-2003 | 03-05-3555A | 17
05 | IL | MELROSE PARK, VILLAGE OF | 17031C0389F | 11-AUG-2003 | 03-05-3555A | 17
05 | IL | MENARD COUNTY | 1705050050B | 30-JUL-2003 | 03-05-4188A | 02
05 | IL | MERRIONETTE PARK, VILLAGE OF | 17031C0637F | 21-NOV-2003 | 03-05-5661A | 02
05 | IL | MOKENA, VILLAGE OF | 17197C0195F | 13-NOV-2003 | 03-05-0430P | 05
05 | IL | MOKENA, VILLAGE OF | 17197C0211F | 13-NOV-2003 | 03-05-0430P | 05
05 | IL | MOKENA, VILLAGE OF | 17197C0195F | 14-NOV-2003 | 03-05-5743A | 02
05 | IL | MOLINE, CITY OF | 17161C0328E | 06-AUG-2003 | 03-05-4525A | 02
05 | IL | MOLINE, CITY OF | 17161C0330E | 06-AUG-2003 | 03-05-4525A | 02
05 | IL | MOLINE, CITY OF | 17161C0330E | 26-SEP-2003 | 03-05-5235A | 02
05 | IL | MOLINE, CITY OF | 17161C0330E | 01-OCT-2003 | 03-05-5236A | 02
05 | IL | MOLINE, CITY OF | 17161C0328E | 01-OCT-2003 | 03-05-5239A | 02
05 | IL | MOLINE, CITY OF | 17161C0330E | 01-OCT-2003 | 03-05-5239A | 02
05 | IL | MOLINE, CITY OF | 17161C0330E | 15-OCT-2003 | 03-05-5240A | 02
05 | IL | MONROE COUNTY | 1705090050E | 08-AUG-2003 | 03-05-4367A | 02
05 | IL | MONROE COUNTY | 1705090175D | 08-AUG-2003 | 03-05-4571A | 02
05 | IL | MONROE COUNTY | 1705090050E | 27-AUG-2003 | 03-05-4768A | 02
05 | IL | MONROE COUNTY | 1705090150D | 10-OCT-2003 | 03-05-5498A | 02
05 | IL | MONROE COUNTY | 1705090175D | 05-NOV-2003 | 04-05-0222A | 02
05 | IL | MONROE COUNTY | 1705090050E | 31-DEC-2003 | 04-05-0322A | 02
05 | IL | MONTGOMERY, VILLAGE OF | 1703410010C | 06-AUG-2003 | 03-05-3083A | 01
05 | IL | MOUNT PROSPECT, VILLAGE OF | 17031C0212F | 30-JUL-2003 | 03-05-4487A | 02
05 | IL | MOUNT PROSPECT, VILLAGE OF | 17031C0216F | 08-AUG-2003 | 03-05-4605A | 02
05 | IL | MOUNT PROSPECT, VILLAGE OF | 17031C0209F | 31-OCT-2003 | 03-05-4702A | 02
05 | IL | MOUNT PROSPECT, VILLAGE OF | 17031C0212F | 03-SEP-2003 | 03-05-4704A | 02
05 | IL | MOUNT PROSPECT, VILLAGE OF | 17031C0212F | 27-AUG-2003 | 03-05-4745A | 02
05 | IL | MOUNT PROSPECT, VILLAGE OF | 17031C0212F | 03-OCT-2003 | 03-05-5576A | 02
05 | IL | MOUNT PROSPECT, VILLAGE OF | 17031C0216F | 21-NOV-2003 | 04-05-0180A | 02
05 | IL | MOUNT PROSPECT, VILLAGE OF | 17031C0204F | 14-NOV-2003 | 04-05-0530A | 02
05 | IL | MOUNT PROSPECT, VILLAGE OF | 17031C0212F | 26-NOV-2003 | 04-05-0531A | 02
05 | IL | MOUNT PROSPECT, VILLAGE OF | 17031C0216F | 12-DEC-2003 | 04-05-0907A | 02
05 | IL | MOUNT PROSPECT, VILLAGE OF | 17031C0204F | 05-DEC-2003 | 04-05-1071X | 02
05 | IL | MT. CARROLL, CITY OF | 170020—01B | 23-JUL-2003 | 03-05-3694A | 01
05 | IL | MUNDELEIN, VILLAGE OF | 17097C0251F | 12-NOV-2003 | 03-05-5655A | 01
05 | IL | NAPERVILLE, CITY OF | 1702130007C | 10-JUL-2003 | 03-05-3209A | 02
05 | IL | NAPERVILLE, CITY OF | 1702130021C | 28-JUL-2003 | 03-05-0446P | 06
05 | IL | NAPERVILLE, CITY OF | 17197C0033F | 28-JUL-2003 | 03-05-0446P | 06
05 | IL | NEW ATHENS, VILLAGE OF | 17163C0455 | 06-NOV-2003 | 04-05-0051V | 19
05 | IL | NEW LENOX, VILLAGE OF | 17197C0305E | 18-JUL-2003 | 03-05-3917A | 01
05 | IL | NEW LENOX, VILLAGE OF | 17197C0305E | 01-OCT-2003 | 03-05-4789A | 01
05 | IL | NEW LENOX, VILLAGE OF | 17197C0305E | 01-OCT-2003 | 03-05-5585A | 02
05 | IL | NORMAL, TOWN OF | 17113C0314D | 20-AUG-2003 | 03-05-4413A | 17
05 | IL | NORMAL, TOWN OF | 17113C0482D | 26-NOV-2003 | 04-05-0684A | 02
05 | IL | NORTH BARRINGTON, VILLAGE OF | 17097C0209F | 16-JUL-2003 | 03-05-1807A | 02
05 | IL | NORTHFIELD, VILLAGE OF | 17031C0232F | 18-JUL-2003 | 03-05-3651A | 02
05 | IL | NORTHFIELD, VILLAGE OF | 17031C0231F | 18-JUL-2003 | 03-05-4262A | 02
05 | IL | NORTHFIELD, VILLAGE OF | 17031C0232F | 03-OCT-2003 | 03-05-5418A | 02
05 | IL | OAK BROOK, VILLAGE OF | 1702140002B | 06-OCT-2003 | 03-05-4678A | 02
05 | IL | OAK BROOK, VILLAGE OF | 1702140001B | 15-DEC-2003 | 03-05-5364A | 01
05 | IL | OAK BROOK, VILLAGE OF | 1702140001B | 16-OCT-2003 | 03-05-795P | 05
05 | IL | OAK BROOK, VILLAGE OF | 1702140002B | 16-OCT-2003 | 03-05-795P | 05
05 | IL | OAK BROOK, VILLAGE OF | 1702140004B | 16-OCT-2003 | 03-05-795P | 05
05 | IL | OAK FOREST, CITY OF | 17031C0707F | 24-OCT-2003 | 04-05-0214A | 02
05 | IL | OAK LAWN, VILLAGE OF | 17031C0609F | 23-JUL-2003 | 03-05-3834A | 02
05 | IL | OAK LAWN, VILLAGE OF | 17031C0609F | 12-SEP-2003 | 03-05-4624A | 02
05 | IL | OAK LAWN, VILLAGE OF | 17031C0608F | 31-DEC-2003 | 04-05-1043A | 01
05 | IL | OAKBROOK TERRACE, CITY OF | 1702150001B | 16-OCT-2003 | 03-05-795P | 05
05 | IL | OFALLON, CITY OF | 17163C0210 | 06-NOV-2003 | 04-05-0052V | 19
05 | IL | OFALLON, CITY OF | 17163C0230 | 06-NOV-2003 | 04-05-0052V | 19
05 | IL | OFALLON, CITY OF | 17163C0205D | 10-DEC-2003 | 04-05-1012A | 02
05 | IL | OLNEY, CITY OF | 170581—01D | 17-DEC-2003 | 04-05-1113A | 02
05 | IL | ORLAND PARK, VILLAGE OF | 17031C0593F | 05-SEP-2003 | 03-05-4984A | 02
05 | IL | ORLAND PARK, VILLAGE OF | 17031C0684F | 15-OCT-2003 | 03-05-5243A | 01
05 | IL | ORLAND PARK, VILLAGE OF | 17031C0704F | 22-OCT-2003 | 03-05-5662A | 02
05 | IL | ORLAND PARK, VILLAGE OF | 17031C0704F | 24-DEC-2003 | 04-05-0135A | 02
05 | IL | OSWEGO, VILLAGE OF | 1703410030C | 06-OCT-2003 | 03-05-0545P | 05
05 | IL | OSWEGO, VILLAGE OF | 1703410035C | 06-OCT-2003 | 03-05-0545P | 05
05 | IL | PALATINE, VILLAGE OF | 17031C0182F | 27-AUG-2003 | 03-05-4578A | 01
05 | IL | PALATINE, VILLAGE OF | 17031C0181F | 08-OCT-2003 | 03-05-5311A | 02
05 | IL | PALATINE, VILLAGE OF | 17031C0044F | 21-NOV-2003 | 04-05-0630A | 02
05 | IL | PALOS HILLS, CITY OF | 17031C0604F | 30-JUL-2003 | 03-05-4270A | 02
05 | IL | PALOS HILLS, CITY OF | 17031C0604F | 16-JUL-2003 | 03-05-4273A | 02
05 | IL | PALOS PARK, VILLAGE OF | 17031C0612F | 17-SEP-2003 | 03-05-5149A | 02
05 | IL | PEORIA COUNTY | 1705330050B | 26-SEP-2003 | 03-05-4207A | 02
05 | IL | PEORIA COUNTY | 1705330175B | 24-DEC-2003 | 04-05-0629A | 02
05 | IL | PEORIA, CITY OF | 1705360015B | 06-AUG-2003 | 03-05-3742A | 02
05 | IL | PEORIA, CITY OF | 1705360015B | 24-SEP-2003 | 03-05-4769A | 02
05 | IL | PEOTONE, VILLAGE OF | 17197C0500E | 20-AUG-2003 | 03-05-4777A | 02
05 | IL | PLAINFIELD, VILLAGE OF | 17197C0036E | 30-JUL-2003 | 02-05-3980P | 05
05 | IL | PLAINFIELD, VILLAGE OF | 17197C0038E | 18-JUL-2003 | 03-05-1843P | 06
05 | IL | PLAINFIELD, VILLAGE OF | 17197C0126E | 18-JUL-2003 | 03-05-1843P | 06
05 | IL | PLAINFIELD, VILLAGE OF | 17197C0038E | 31-OCT-2003 | 03-05-2279A | 01
05 | IL | PLAINFIELD, VILLAGE OF | 17197C0045F | 20-AUG-2003 | 03-05-2575P | 05
05 | IL | PLAINFIELD, VILLAGE OF | 17197C0038E | 22-OCT-2003 | 03-05-4958A | 01
05 | IL | PLAINFIELD, VILLAGE OF | 17197C0135F | 24-OCT-2003 | 03-05-5020A | 02
05 | IL | PLAINFIELD, VILLAGE OF | 17197C0130E | 10-OCT-2003 | 03-05-5043A | 01
05 | IL | PONTIAC, CITY OF | 1704260001C | 17-OCT-2003 | 03-05-5733A | 02
05 | IL | PONTIAC, CITY OF | 1704260001C | 31-DEC-2003 | 04-05-0778A | 02
05 | IL | PONTOON BEACH, VILLAGE OF | 1704470001B | 10-DEC-2003 | 04-05-0562A | 02
05 | IL | POSEN, VILLAGE OF | 17031C0643F | 31-DEC-2003 | 04-05-0211A | 02
05 | IL | PROSPECT HEIGHTS, CITY OF | 17031C0206F | 05-NOV-2003 | 03-05-4528A | 02
05 | IL | PROSPECT HEIGHTS, CITY OF | 17031C0208F | 05-NOV-2003 | 03-05-4528A | 02
05 | IL | QUINCY, CITY OF | 1700030020B | 30-JUL-2003 | 03-05-4486A | 02
05 | IL | QUINCY, CITY OF | 1700030020B | 12-DEC-2003 | 04-05-1096A | 02
05 | IL | RANDOLPH COUNTY | 1705750150B | 05-NOV-2003 | 03-05-5556A | 02
05 | IL | RIVER GROVE, VILLAGE OF | 17031C0386F | 07-NOV-2003 | 04-05-0343A | 02
05 | IL | RIVERWOODS, VILLAGE OF | 17097C0266G | 25-JUL-2003 | 03-05-3915A | 01
05 | IL | RIVERWOODS, VILLAGE OF | 17097C0266G | 26-NOV-2003 | 03-05-5494A | 02
05 | IL | ROCK ISLAND COUNTY | 17161C0155E | 11-JUL-2003 | 03-05-3313A | 02
05 | IL | ROCK ISLAND COUNTY | 17161C0275E | 11-JUL-2003 | 03-05-4076A | 02
05 | IL | ROMEOVILLE, VILLAGE OF | 17197C0135F | 29-OCT-2003 | 03-05-0130P | 05
05 | IL | ROMEOVILLE, VILLAGE OF | 17197C0135F | 18-NOV-2003 | 03-05-5166P | 06
05 | IL | ROMEOVILLE, VILLAGE OF | 17197C0155E | 18-NOV-2003 | 03-05-5166P | 06
05 | IL | ROSELLE, VILLAGE OF | 1702160004B | 21-AUG-2003 | 03-05-4146A | 02
05 | IL | ROXANA, VILLAGE OF | 1704360115B | 29-OCT-2003 | 03-05-5445A | 01
05 | IL | SANGAMON COUNTY * | 1709120300C | 31-JUL-2003 | 03-05-3244A | 02
05 | IL | SAUGET, VILLAGE OF | 17163C0160 | 06-NOV-2003 | 04-05-0053V | 19
05 | IL | SHILOH, VILLAGE OF | 17163C0215 | 06-NOV-2003 | 04-05-0056V | 19
05 | IL | SHOREWOOD,VILLAGE OF | 17197C0140E | 24-JUL-2003 | 03-05-1467P | 06
05 | IL | SHOREWOOD,VILLAGE OF | 17197C0255E | 24-JUL-2003 | 03-05-1467P | 06
05 | IL | SLEEPY HOLLOW, VILLAGE OF | 17089C0156F | 05-NOV-2003 | 04-05-0112A | 02
05 | IL | SOUTH HOLLAND, VILLAGE OF | 17031C0751F | 05-NOV-2003 | 03-05-4834A | 01
05 | IL | SPRING GROVE, VILLAGE OF | 1704850002B | 11-DEC-2003 | 03-05-1458P | 05
05 | IL | ST. CHARLES, CITY OF | 17089C0260F | 06-AUG-2003 | 03-05-3812A | 02
05 | IL | ST. CHARLES, CITY OF | 17089C0260F | 02-JUL-2003 | 03-05-3830A | 01
05 | IL | ST. CLAIR COUNTY | 17163C0215D | 17-DEC-2003 | 04-05-0908A | 02
05 | IL | ST. CLAIR COUNTY | 17163C0360D | 10-DEC-2003 | 04-05-1072A | 02
05 | IL | ST. CLAIR COUNTY * | 1706160095A | 07-AUG-2003 | 03-05-2652A | 02
05 | IL | ST. CLAIR COUNTY * | 17163C0360D | 26-NOV-2003 | 03-05-4114A | 02
05 | IL | ST. CLAIR COUNTY * | 17163C0370D | 26-NOV-2003 | 03-05-4114A | 02
05 | IL | ST. CLAIR COUNTY * | 1706160065A | 09-OCT-2003 | 03-05-4125A | 02
05 | IL | ST. CLAIR COUNTY * | 1706160065A | 20-OCT-2003 | 03-05-4689A | 02
05 | IL | ST. CLAIR COUNTY * | 17163C0170 | 06-NOV-2003 | 04-05-0044V | 19
05 | IL | ST. CLAIR COUNTY * | 17163C0206 | 06-NOV-2003 | 04-05-0044V | 19
05 | IL | ST. CLAIR COUNTY * | 17163C0210 | 06-NOV-2003 | 04-05-0044V | 19
05 | IL | ST. CLAIR COUNTY * | 17163C0214 | 06-NOV-2003 | 04-05-0044V | 19
05 | IL | ST. CLAIR COUNTY * | 17163C0215 | 06-NOV-2003 | 04-05-0044V | 19
05 | IL | ST. CLAIR COUNTY * | 17163C0220 | 06-NOV-2003 | 04-05-0044V | 19
05 | IL | ST. CLAIR COUNTY * | 17163C0230 | 06-NOV-2003 | 04-05-0044V | 19
05 | IL | ST. CLAIR COUNTY * | 17163C0235 | 06-NOV-2003 | 04-05-0044V | 19
05 | IL | ST. CLAIR COUNTY * | 17163C0310 | 06-NOV-2003 | 04-05-0044V | 19
05 | IL | ST. CLAIR COUNTY * | 17163C0320 | 06-NOV-2003 | 04-05-0044V | 19
05 | IL | ST. CLAIR COUNTY * | 17163C0325 | 06-NOV-2003 | 04-05-0044V | 19
05 | IL | ST. CLAIR COUNTY * | 17163C0335 | 06-NOV-2003 | 04-05-0044V | 19
05 | IL | ST. CLAIR COUNTY * | 17163C0345 | 06-NOV-2003 | 04-05-0044V | 19
05 | IL | ST. CLAIR COUNTY * | 17163C0355 | 06-NOV-2003 | 04-05-0044V | 19
05 | IL | ST. CLAIR COUNTY * | 17163C0360 | 06-NOV-2003 | 04-05-0044V | 19
05 | IL | ST. CLAIR COUNTY * | 17163C0435 | 06-NOV-2003 | 04-05-0044V | 19
05 | IL | ST. CLAIR COUNTY * | 17163C0445 | 06-NOV-2003 | 04-05-0044V | 19
05 | IL | ST. CLAIR COUNTY * | 17163C0470 | 06-NOV-2003 | 04-05-0044V | 19
05 | IL | ST. JOSEPH, VILLAGE OF | 1700320001B | 15-OCT-2003 | 03-05-5326A | 02
05 | IL | SWANSEA, VILLAGE OF | 17163C0215 | 06-NOV-2003 | 04-05-0045V | 19
05 | IL | SYCAMORE, CITY OF | 17037C0076D | 08-AUG-2003 | 03-05-3865A | 01
05 | IL | TINLEY PARK, CITY OF | 17031C0704F | 21-OCT-2003 | 03-05-2578P | 06
05 | IL | TINLEY PARK, CITY OF | 17031C0708F | 21-OCT-2003 | 03-05-2578P | 06
05 | IL | TINLEY PARK, CITY OF | 17031C0712F | 21-OCT-2003 | 03-05-2578P | 06
05 | IL | TINLEY PARK, CITY OF | 17031C0716F | 21-OCT-2003 | 03-05-2578P | 06
05 | IL | TINLEY PARK, CITY OF | 17031C0708F | 19-DEC-2003 | 04-05-1159A | 02
05 | IL | TUSCOLA, CITY OF | 1701950005C | 27-AUG-2003 | 03-05-4595A | 17
05 | IL | TUSCOLA, CITY OF | 1701950005C | 05-DEC-2003 | 04-05-0811A | 02
05 | IL | UNION COUNTY | 1706560075B | 01-OCT-2003 | 03-05-5437A | 02
05 | IL | VILLA GROVE, CITY OF | 1701960001B | 11-JUL-2003 | 03-05-3798A | 02
05 | IL | VILLA GROVE, CITY OF | 1701960001B | 09-JUL-2003 | 03-05-4048A | 02
05 | IL | VILLA PARK, VILLAGE OF | 1702170001B | 14-JUL-2003 | 03-05-2642A | 01
05 | IL | VILLA PARK, VILLAGE OF | 1702170002B | 09-OCT-2003 | 03-05-4665A | 02
05 | IL | WARRENVILLE, CITY OF | 1702180001C | 14-JUL-2003 | 03-05-3241A | 02
05 | IL | WARRENVILLE, CITY OF | 1701970035C | 05-AUG-2003 | 03-05-3556A | 02
05 | IL | WATSEKA, CITY OF | 17075C0120D | 13-AUG-2003 | 03-05-4526A | 02
05 | IL | WAUCONDA, VILLAGE OF | 17097C0117F | 10-SEP-2003 | 03-05-4840A | 02
05 | IL | WAUKEGAN, CITY OF | 17097C0088F | 26-NOV-2003 | 04-05-0227A | 02
05 | IL | WAYNE COUNTY | 1710030005A | 03-OCT-2003 | 03-05-5439A | 02
05 | IL | WEST DUNDEE, VILLAGE OF | 17089C0157F | 05-NOV-2003 | 03-05-4303A | 02
05 | IL | WESTCHESTER, VILLAGE OF | 17031C0459F | 21-AUG-2003 | 03-05-3581A | 02
05 | IL | WESTCHESTER, VILLAGE OF | 1701700459F | 20-NOV-2003 | 04-05-0028A | 02
05 | IL | WESTMONT, VILLAGE OF | 1702200001B | 03-JUL-2003 | 03-05-2664A | 02
05 | IL | WESTMONT, VILLAGE OF | 1702200001B | 22-SEP-2003 | 03-05-3578A | 02
05 | IL | WHEATON, CITY OF | 1702210005B | 09-OCT-2003 | 03-05-4142A | 02
05 | IL | WHEATON, CITY OF | 1702210005B | 30-OCT-2003 | 03-05-4658A | 02
05 | IL | WHEATON, CITY OF | 1702210005B | 06-OCT-2003 | 03-05-4666A | 02
05 | IL | WHEELING, VILLAGE OF | 17031C0068F | 27-AUG-2003 | 03-05-4034A | 01
05 | IL | WHEELING, VILLAGE OF | 17031C0068F | 26-SEP-2003 | 03-05-4159A | 02
05 | IL | WHEELING, VILLAGE OF | 17031C0068F | 15-OCT-2003 | 03-05-4483A | 02
05 | IL | WHEELING, VILLAGE OF | 17031C0068F | 29-AUG-2003 | 03-05-4942A | 02
05 | IL | WHEELING, VILLAGE OF | 17031C0068F | 26-SEP-2003 | 03-05-5158A | 02
05 | IL | WHEELING, VILLAGE OF | 17031C0068F | 05-NOV-2003 | 04-05-0113A | 02
05 | IL | WHEELING, VILLAGE OF | 17031C0068F | 10-DEC-2003 | 04-05-0391A | 02
05 | IL | WHEELING, VILLAGE OF | 17031C0068F | 07-NOV-2003 | 04-05-0394A | 02
05 | IL | WHEELING, VILLAGE OF | 17031C0068F | 10-DEC-2003 | 04-05-1054A | 02
05 | IL | WHITESIDE COUNTY | 1706870150B | 16-JUL-2003 | 03-05-4246A | 02
05 | IL | WHITESIDE COUNTY | 1706870125B | 27-AUG-2003 | 03-05-4313A | 02
05 | IL | WHITESIDE COUNTY | 1706870025B | 01-OCT-2003 | 03-05-4342A | 02
05 | IL | WILL COUNTY | 17197C0130E | 07-JUL-2003 | 03-05-2563P | 05
05 | IL | WILL COUNTY | 17197C0135F | 07-JUL-2003 | 03-05-2563P | 05
05 | IL | WILL COUNTY | 17197C0137E | 07-JUL-2003 | 03-05-2563P | 05
05 | IL | WILL COUNTY | 17197C0141F | 07-JUL-2003 | 03-05-2563P | 05
05 | IL | WILL COUNTY | 17197C0045F | 11-JUL-2003 | 03-05-2682A | 17
05 | IL | WILL COUNTY | 17197C0090E | 15-AUG-2003 | 03-05-4351A | 02
05 | IL | WILL COUNTY | 17197C0218E | 20-AUG-2003 | 03-05-4406A | 02
05 | IL | WILL COUNTY | 17197C0135F | 20-AUG-2003 | 03-05-4807A | 02
05 | IL | WILL COUNTY | 17197C0350E | 29-OCT-2003 | 03-05-4901A | 02
05 | IL | WILL COUNTY | 17197C0170E | 22-OCT-2003 | 03-05-4924A | 02
05 | IL | WILL COUNTY | 17197C0350E | 01-OCT-2003 | 03-05-4999A | 02
05 | IL | WILL COUNTY | 17197C0218E | 10-SEP-2003 | 03-05-5156A | 02
05 | IL | WILL COUNTY | 17197C0450E | 25-SEP-2003 | 03-05-5167P | 06
05 | IL | WILL COUNTY | 17197C0255E | 22-OCT-2003 | 04-05-0007A | 02
05 | IL | WILL COUNTY | 17197C0255E | 12-NOV-2003 | 04-05-0381A | 02
05 | IL | WILL COUNTY | 17197C0039E | 17-DEC-2003 | 04-05-0696A | 02
05 | IL | WILL COUNTY | 17197C0045F | 17-DEC-2003 | 04-05-0696A | 02
05 | IL | WILL COUNTY | 17197C0135F | 10-DEC-2003 | 04-05-1087A | 02
05 | IL | WILL COUNTY | 17197C0135F | 31-DEC-2003 | 04-05-1362X | 02
05 | IL | WILL COUNTY | 17197C0039E | 31-DEC-2003 | 04-05-1363X | 02
05 | IL | WILL COUNTY | 17197C0045F | 31-DEC-2003 | 04-05-1363X | 02
05 | IL | WILLIAMSON COUNTY | 1709340001B | 29-AUG-2003 | 03-05-3886A | 02
05 | IL | WILLOWBROOK, VILLAGE OF | 1701970060B | 11-AUG-2003 | 03-05-3257A | 02
05 | IL | WILLOWBROOK, VILLAGE OF | 1702220002C | 11-AUG-2003 | 03-05-3257A | 02
05 | IL | WILMINGTON, CITY OF | 17197C0417E | 12-NOV-2003 | 04-05-0573A | 02
05 | IL | WINNEBAGO COUNTY | 1707200035B | 12-NOV-2003 | 03-05-5659A | 17
05 | IL | WINNETKA, VILLAGE OF | 17031C0251F | 01-OCT-2003 | 03-05-5208A | 01
05 | IL | WINNETKA, VILLAGE OF | 17031C0251F | 24-DEC-2003 | 04-05-1123A | 01
05 | IN | ALEXANDRIA, CITY OF | 1801490003C | 24-DEC-2003 | 03-05-5317A | 17
05 | IN | ALLEN COUNTY * | 18003C0435D | 08-JUL-2003 | 03-05-3559A | 02
05 | IN | ALLEN COUNTY * | 18003C0270E | 15-SEP-2003 | 03-05-3591A | 02
05 | IN | ALLEN COUNTY * | 18003C0155E | 07-AUG-2003 | 03-05-4110A | 02
05 | IN | ALLEN COUNTY * | 18003C0350D | 07-AUG-2003 | 03-05-4124A | 02
05 | IN | ALLEN COUNTY * | 18003C0170D | 21-AUG-2003 | 03-05-4138A | 02
05 | IN | ALLEN COUNTY * | 18003C0170D | 21-AUG-2003 | 03-05-4635A | 02
05 | IN | ALLEN COUNTY * | 18003C0250F | 04-DEC-2003 | 03-05-4655A | 02
05 | IN | ALLEN COUNTY * | 18003C0295D | 08-SEP-2003 | 03-05-4669A | 02
05 | IN | ALLEN COUNTY * | 1800050200 | 06-NOV-2003 | 04-05-0060V | 19
05 | IN | ALLEN COUNTY * | 18003C0030 | 06-NOV-2003 | 04-05-0060V | 19
05 | IN | ALLEN COUNTY * | 18003C0045 | 06-NOV-2003 | 04-05-0060V | 19
05 | IN | ALLEN COUNTY * | 18003C0060 | 06-NOV-2003 | 04-05-0060V | 19
05 | IN | ALLEN COUNTY * | 18003C0065 | 06-NOV-2003 | 04-05-0060V | 19
05 | IN | ALLEN COUNTY * | 18003C0110 | 06-NOV-2003 | 04-05-0060V | 19
05 | IN | ALLEN COUNTY * | 18003C0125 | 06-NOV-2003 | 04-05-0060V | 19
05 | IN | ALLEN COUNTY * | 18003C0155 | 06-NOV-2003 | 04-05-0060V | 19
05 | IN | ALLEN COUNTY * | 18003C0160 | 06-NOV-2003 | 04-05-0060V | 19
05 | IN | ALLEN COUNTY * | 18003C0175 | 06-NOV-2003 | 04-05-0060V | 19
05 | IN | ALLEN COUNTY * | 18003C0195 | 06-NOV-2003 | 04-05-0060V | 19
05 | IN | ALLEN COUNTY * | 18003C0200D | 06-NOV-2003 | 04-05-0060V | 19
05 | IN | ALLEN COUNTY * | 18003C0215 | 06-NOV-2003 | 04-05-0060V | 19
05 | IN | ALLEN COUNTY * | 18003C0240 | 06-NOV-2003 | 04-05-0060V | 19
05 | IN | ALLEN COUNTY * | 18003C0245 | 06-NOV-2003 | 04-05-0060V | 19
05 | IN | ALLEN COUNTY * | 18003C0255 | 06-NOV-2003 | 04-05-0060V | 19
05 | IN | ALLEN COUNTY * | 18003C0260 | 06-NOV-2003 | 04-05-0060V | 19
05 | IN | ALLEN COUNTY * | 18003C0270 | 06-NOV-2003 | 04-05-0060V | 19
05 | IN | ARCADIA, TOWN OF | 18057C0045F | 03-SEP-2003 | 03-05-4850A | 02
05 | IN | BARTHOLOMEW COUNTY | 1800060075B | 02-JUL-2003 | 03-05-3933A | 02
05 | IN | BARTHOLOMEW COUNTY | 1800060100B | 06-AUG-2003 | 03-05-4536A | 02
05 | IN | BARTHOLOMEW COUNTY | 1800060150B | 01-OCT-2003 | 03-05-5008A | 02
05 | IN | BARTHOLOMEW COUNTY | 1800060075B | 26-SEP-2003 | 03-05-5160A | 02
05 | IN | BARTHOLOMEW COUNTY | 1800060075B | 29-OCT-2003 | 04-05-0150A | 02
05 | IN | BARTHOLOMEW COUNTY | 1800060100B | 14-NOV-2003 | 04-05-0643A | 02
05 | IN | BARTHOLOMEW COUNTY | 1800060125B | 31-DEC-2003 | 04-05-1164A | 02
05 | IN | BARTHOLOMEW COUNTY | 1800060100B | 31-DEC-2003 | 04-05-1250A | 02
05 | IN | BOONE COUNTY | 1800110095B | 17-DEC-2003 | 04-05-0658A | 02
05 | IN | BROWN COUNTY | 1851740040B | 26-SEP-2003 | 03-05-5422A | 02
05 | IN | BROWN COUNTY | 1851740080B | 22-OCT-2003 | 03-05-5482A | 02
05 | IN | BROWN COUNTY | 1851740080B | 12-NOV-2003 | 04-05-0348A | 02
05 | IN | BROWN COUNTY | 1851740060B | 31-DEC-2003 | 04-05-0979A | 02
05 | IN | BROWN COUNTY | 1851740020B | 17-DEC-2003 | 04-05-1083A | 02
05 | IN | CAMBRIDGE CITY, TOWN OF | 1802810001B | 26-NOV-2003 | 04-05-0678A | 02
05 | IN | CARMEL, CITY OF | 18057C0229F | 09-JUL-2003 | 03-05-3350A | 02
05 | IN | CARMEL, CITY OF | 18057C0235F | 08-AUG-2003 | 03-05-4211A | 02
05 | IN | CARMEL, CITY OF | 18057C0235F | 25-JUL-2003 | 03-05-4377A | 02
05 | IN | CARMEL, CITY OF | 18057C0235F | 23-JUL-2003 | 03-05-4378A | 02
05 | IN | CARMEL, CITY OF | 18057C0208F | 20-AUG-2003 | 03-05-4601A | 02
05 | IN | CARMEL, CITY OF | 18057C0227F | 10-OCT-2003 | 03-05-4832A | 01
05 | IN | CARMEL, CITY OF | 18057C0235F | 10-OCT-2003 | 03-05-4832A | 01
05 | IN | CARMEL, CITY OF | 18057C0227F | 22-SEP-2003 | 03-05-5193A | 02
05 | IN | CARMEL, CITY OF | 18057C0235F | 10-OCT-2003 | 03-05-5218A | 02
05 | IN | CARMEL, CITY OF | 18057C0235F | 01-OCT-2003 | 03-05-5572A | 02
05 | IN | CARMEL, CITY OF | 18057C0235F | 24-OCT-2003 | 04-05-0175A | 02
05 | IN | CARMEL, CITY OF | 18057C0206F | 14-NOV-2003 | 04-05-0197A | 02
05 | IN | CARMEL, CITY OF | 18057C0209F | 14-NOV-2003 | 04-05-0241A | 02
05 | IN | CARMEL, CITY OF | 18057C0235F | 24-DEC-2003 | 04-05-1137A | 02
05 | IN | CARMEL, CITY OF | 18057C0209F | 19-DEC-2003 | 04-05-1251A | 02
05 | IN | CARROLL COUNTY | 1800190051B | 22-AUG-2003 | 03-05-4726A | 02
05 | IN | CARROLL COUNTY | 1800190025B | 27-AUG-2003 | 03-05-4804A | 02
05 | IN | CARROLL COUNTY | 1800190013B | 10-SEP-2003 | 03-05-4964A | 02
05 | IN | CARROLL COUNTY | 1800190053B | 14-NOV-2003 | 04-05-0285A | 02
05 | IN | CARROLL COUNTY | 1800190013B | 17-DEC-2003 | 04-05-0337A | 02
05 | IN | CARROLL COUNTY | 1800190014B | 10-DEC-2003 | 04-05-0859A | 02
05 | IN | CHESTERTON, TOWN OF | 1802010005C | 18-JUL-2003 | 03-05-3883A | 02
05 | IN | CICERO, TOWN OF | 18057C0135F | 15-OCT-2003 | 03-05-3689A | 17
05 | IN | CICERO, TOWN OF | 18057C0045F | 29-AUG-2003 | 03-05-3828A | 17
05 | IN | CICERO, TOWN OF | 18057C0045F | 27-AUG-2003 | 03-05-4162A | 17
05 | IN | CICERO, TOWN OF | 18057C0135F | 26-NOV-2003 | 03-05-4463A | 17
05 | IN | CICERO, TOWN OF | 18057C0045F | 26-SEP-2003 | 03-05-4625A | 17
05 | IN | CICERO, TOWN OF | 18057C0135F | 17-OCT-2003 | 03-05-4699A | 17
05 | IN | CICERO, TOWN OF | 18057C0135F | 08-OCT-2003 | 03-05-4862A | 17
05 | IN | CICERO, TOWN OF | 18057C0135F | 07-NOV-2003 | 04-05-0428A | 17
05 | IN | CICERO, TOWN OF | 18057C0135F | 24-DEC-2003 | 04-05-0650A | 02
05 | IN | CLARK COUNTY | 1804260125C | 16-JUL-2003 | 03-05-4275A | 02
05 | IN | CLARK COUNTY | 1804260175C | 18-JUL-2003 | 03-05-4335A | 02
05 | IN | CLARK COUNTY | 1804260175C | 18-JUL-2003 | 03-05-4365A | 02
05 | IN | CLARK COUNTY | 1804260175C | 13-AUG-2003 | 03-05-4583A | 02
05 | IN | CLARK COUNTY | 1804260175C | 24-OCT-2003 | 03-05-4786A | 02
05 | IN | CLARK COUNTY | 1804260175C | 20-AUG-2003 | 03-05-4911A | 02
05 | IN | CLARK COUNTY | 1804260175C | 29-OCT-2003 | 03-05-5279A | 02
05 | IN | CLARK COUNTY | 1804260175C | 26-SEP-2003 | 03-05-5303A | 02
05 | IN | CLARK COUNTY | 1804260175C | 03-OCT-2003 | 03-05-5423A | 02
05 | IN | CLARK COUNTY | 1804260175C | 08-OCT-2003 | 03-05-5475A | 02
05 | IN | CLARK COUNTY | 1804260175C | 24-SEP-2003 | 03-05-5490A | 02
05 | IN | CLARK COUNTY | 1804260175C | 01-OCT-2003 | 03-05-5609A | 02
05 | IN | CLARK COUNTY | 1804260175C | 26-NOV-2003 | 04-05-0140A | 01
05 | IN | CLARK COUNTY | 1804260050B | 03-DEC-2003 | 04-05-0154A | 01
05 | IN | CLARK COUNTY | 1804260125C | 24-OCT-2003 | 04-05-0239A | 02
05 | IN | CLARK COUNTY | 1804260175C | 24-OCT-2003 | 04-05-0240A | 02
05 | IN | CLARK COUNTY | 1804260175C | 12-NOV-2003 | 04-05-0415A | 02
05 | IN | CLARK COUNTY | 1804260125C | 12-DEC-2003 | 04-05-0565A | 02
05 | IN | CLARK COUNTY | 1804260175C | 10-DEC-2003 | 04-05-0855A | 02
05 | IN | CLARKSVILLE, TOWN OF | 1800260005B | 17-SEP-2003 | 03-05-4584A | 02
05 | IN | CLARKSVILLE, TOWN OF | 1800260005B | 26-NOV-2003 | 04-05-0548A | 02
05 | IN | COLUMBUS, CITY OF | 1800070020D | 10-SEP-2003 | 03-05-3297A | 17
05 | IN | COLUMBUS, CITY OF | 1800070010D | 08-AUG-2003 | 03-05-3525A | 01
05 | IN | COLUMBUS, CITY OF | 1800070020D | 12-NOV-2003 | 03-05-3869A | 01
05 | IN | COLUMBUS, CITY OF | 1800070020D | 30-JUL-2003 | 03-05-3912A | 01
05 | IN | COLUMBUS, CITY OF | 1800070020D | 11-JUL-2003 | 03-05-4279A | 02
05 | IN | COLUMBUS, CITY OF | 1800070020D | 30-JUL-2003 | 03-05-4394A | 01
05 | IN | COLUMBUS, CITY OF | 1800070015D | 08-AUG-2003 | 03-05-4399A | 01
05 | IN | COLUMBUS, CITY OF | 1800070020D | 17-OCT-2003 | 03-05-4889A | 02
05 | IN | COLUMBUS, CITY OF | 1800070020D | 26-SEP-2003 | 03-05-5161A | 02
05 | IN | COLUMBUS, CITY OF | 1800070010D | 31-OCT-2003 | 04-05-0296A | 02
05 | IN | COLUMBUS, CITY OF | 1800070020D | 12-DEC-2003 | 04-05-0857A | 01
05 | IN | CORYDON, TOWN OF | 1800860005B | 18-JUL-2003 | 03-05-3678A | 02
05 | IN | CRAWFORD COUNTY | 1804720025B | 06-AUG-2003 | 03-05-4242A | 02
05 | IN | CUMBERLAND, TOWN OF | 1804190100B | 05-NOV-2003 | 03-05-4447A | 02
05 | IN | DEARBORN COUNTY | 1800380030B | 06-AUG-2003 | 03-05-2271A | 02
05 | IN | DEARBORN COUNTY | 1800380085B | 22-AUG-2003 | 03-05-4467A | 01
05 | IN | DEARBORN COUNTY | 1800380125B | 31-DEC-2003 | 04-05-0909A | 02
05 | IN | DECATUR, CITY OF | 18001C0110D | 17-OCT-2003 | 03-05-4694V | 19
05 | IN | DELAWARE COUNTY | 1800510075C | 30-JUL-2003 | 03-05-2811A | 17
05 | IN | DYER, TOWN OF | 1801290002D | 11-JUL-2003 | 03-05-4069A | 02
05 | IN | ELKHART COUNTY | 1800560020B | 05-SEP-2003 | 03-05-1287A | 01
05 | IN | ELKHART COUNTY | 1800560050B | 12-NOV-2003 | 03-05-5453A | 02
05 | IN | ELKHART COUNTY | 1800560015B | 24-OCT-2003 | 03-05-5611A | 02
05 | IN | EVANSVILLE, CITY OF | 1802570005B | 08-JUL-2003 | 03-05-3579A | 02
05 | IN | EVANSVILLE, CITY OF | 1802570001B | 15-SEP-2003 | 03-05-4131A | 01
05 | IN | EVANSVILLE, CITY OF | 1802570006B | 11-SEP-2003 | 03-05-4653A | 01
05 | IN | FAYETTE COUNTY | 1804170004B | 26-SEP-2003 | 03-05-5244A | 02
05 | IN | FISHERS, TOWN OF | 18057C0235F | 12-SEP-2003 | 03-05-3727A | 01
05 | IN | FISHERS, TOWN OF | 18057C0235F | 12-DEC-2003 | 03-05-3733A | 17
05 | IN | FISHERS, TOWN OF | 18057C0255F | 11-JUL-2003 | 03-05-3925A | 02
05 | IN | FISHERS, TOWN OF | 18057C0235F | 30-JUL-2003 | 03-05-4057A | 02
05 | IN | FISHERS, TOWN OF | 18057C0235F | 17-OCT-2003 | 03-05-4192A | 17
05 | IN | FISHERS, TOWN OF | 18057C0235F | 09-JUL-2003 | 03-05-4201A | 02
05 | IN | FISHERS, TOWN OF | 18057C0255F | 30-JUL-2003 | 03-05-4400A | 02
05 | IN | FISHERS, TOWN OF | 18057C0255F | 06-AUG-2003 | 03-05-4426A | 02
05 | IN | FISHERS, TOWN OF | 18057C0255F | 27-AUG-2003 | 03-05-4613A | 02
05 | IN | FISHERS, TOWN OF | 18057C0235F | 10-OCT-2003 | 03-05-4620A | 02
05 | IN | FISHERS, TOWN OF | 18057C0255F | 27-AUG-2003 | 03-05-4713A | 02
05 | IN | FISHERS, TOWN OF | 18057C0255F | 05-SEP-2003 | 03-05-4875A | 02
05 | IN | FISHERS, TOWN OF | 18057C0235F | 26-SEP-2003 | 03-05-4968A | 02
05 | IN | FISHERS, TOWN OF | 18057C0255F | 22-SEP-2003 | 03-05-5037A | 02
05 | IN | FISHERS, TOWN OF | 18057C0255F | 08-OCT-2003 | 03-05-5256A | 02
05 | IN | FISHERS, TOWN OF | 18057C0255F | 22-OCT-2003 | 03-05-5308A | 02
05 | IN | FISHERS, TOWN OF | 18057C0255F | 15-OCT-2003 | 03-05-5678A | 02
05 | IN | FISHERS, TOWN OF | 18057C0255F | 15-OCT-2003 | 03-05-5698A | 02
05 | IN | FISHERS, TOWN OF | 18057C0255F | 15-OCT-2003 | 03-05-5699A | 02
05 | IN | FISHERS, TOWN OF | 18057C0255F | 29-OCT-2003 | 03-05-5721A | 02
05 | IN | FISHERS, TOWN OF | 18057C0235F | 05-NOV-2003 | 04-05-0309A | 02
05 | IN | FISHERS, TOWN OF | 18057C0235F | 07-NOV-2003 | 04-05-0335A | 02
05 | IN | FISHERS, TOWN OF | 18057C0235F | 12-NOV-2003 | 04-05-0555A | 02
05 | IN | FISHERS, TOWN OF | 18057C0255F | 26-NOV-2003 | 04-05-0685A | 02
05 | IN | FISHERS, TOWN OF | 18057C0235F | 03-DEC-2003 | 04-05-0826A | 02
05 | IN | FISHERS, TOWN OF | 18057C0235F | 24-DEC-2003 | 04-05-0869A | 02
05 | IN | FISHERS, TOWN OF | 18057C0235F | 24-DEC-2003 | 04-05-0870A | 02
05 | IN | FORT WAYNE, CITY OF | 18003C0265D | 21-JUL-2003 | 03-05-3225A | 02
05 | IN | FORT WAYNE, CITY OF | 18003C0285E | 02-SEP-2003 | 03-05-4643A | 02
05 | IN | FORT WAYNE, CITY OF | 18003C0165E | 22-SEP-2003 | 03-05-4660A | 02
05 | IN | FORT WAYNE, CITY OF | 18003C0105E | 06-NOV-2003 | 04-05-0057V | 19
05 | IN | FORT WAYNE, CITY OF | 18003C0150 | 06-NOV-2003 | 04-05-0057V | 19
05 | IN | FORT WAYNE, CITY OF | 18003C0155 | 06-NOV-2003 | 04-05-0057V | 19
05 | IN | FORT WAYNE, CITY OF | 18003C0185 | 06-NOV-2003 | 04-05-0057V | 19
05 | IN | FORT WAYNE, CITY OF | 18003C0190 | 06-NOV-2003 | 04-05-0057V | 19
05 | IN | FORT WAYNE, CITY OF | 18003C0195 | 06-NOV-2003 | 04-05-0057V | 19
05 | IN | FORT WAYNE, CITY OF | 18003C0190F | 15-DEC-2003 | 04-05-0075A | 02
05 | IN | FORT WAYNE, CITY OF | 18003C0190F | 12-DEC-2003 | 04-05-0680A | 02
05 | IN | FORT WAYNE, CITY OF | 18003C0105F | 12-DEC-2003 | 04-05-0690A | 01
05 | IN | FORT WAYNE, CITY OF | 18003C0105F | 24-DEC-2003 | 04-05-0970A | 02
05 | IN | FORT WAYNE, CITY OF | 18003C0155F | 17-DEC-2003 | 04-05-0992A | 02
05 | IN | FRANKLIN COUNTY | 18047C0040C | 26-NOV-2003 | 04-05-0709A | 02
05 | IN | FRANKLIN, CITY OF | 1801110100C | 30-JUL-2003 | 03-05-4433A | 02
05 | IN | FRANKLIN, CITY OF | 1801140002B | 26-SEP-2003 | 03-05-5281A | 02
05 | IN | FRANKLIN, CITY OF | 1801140002B | 01-OCT-2003 | 03-05-5291A | 02
05 | IN | FRANKLIN, CITY OF | 1801140002B | 12-NOV-2003 | 04-05-0345A | 02
05 | IN | FULTON COUNTY | 1800700050B | 17-SEP-2003 | 03-05-4844A | 02
05 | IN | GIBSON COUNTY | 1804340005A | 23-JUL-2003 | 03-05-4349A | 02
05 | IN | GOSHEN, CITY OF | 1800580005B | 17-SEP-2003 | 03-05-3993P | 06
05 | IN | GRANDVIEW, TOWN OF | 1802380001B | 25-JUL-2003 | 03-05-3653A | 02
05 | IN | GRANDVIEW, TOWN OF | 1802380001B | 27-AUG-2003 | 03-05-4710A | 02
05 | IN | GRANT COUNTY | 18053C0250D | 11-JUL-2003 | 03-05-2771A | 02
05 | IN | GRANT COUNTY | 18053C0165D | 22-OCT-2003 | 03-05-3454A | 02
05 | IN | GREENSBURG, CITY OF | 1800430001B | 12-DEC-2003 | 04-05-0660A | 02
05 | IN | GREENWOOD, CITY OF | 1801110050C | 08-AUG-2003 | 03-05-4414A | 01
05 | IN | GREENWOOD, CITY OF | 1801110050C | 24-SEP-2003 | 03-05-4948A | 01
05 | IN | HAMILTON COUNTY | 18057C0155F | 12-NOV-2003 | 03-05-4771A | 17
05 | IN | HAMILTON COUNTY | 18057C0208F | 15-OCT-2003 | 03-05-5515A | 02
05 | IN | HAMILTON, TOWN OF | 1802480001D | 13-AUG-2003 | 03-05-3784A | 02
05 | IN | HAMILTON, TOWN OF | 1802480001D | 08-AUG-2003 | 03-05-4448A | 02
05 | IN | HANCOCK COUNTY | 1804190100B | 11-JUL-2003 | 03-05-2475A | 17
05 | IN | HANCOCK COUNTY | 1804190100B | 06-AUG-2003 | 03-05-4054A | 02
05 | IN | HANCOCK COUNTY | 1804190050B | 18-JUL-2003 | 03-05-4310A | 02
05 | IN | HANCOCK COUNTY | 1804190025B | 12-SEP-2003 | 03-05-4469A | 02
05 | IN | HANCOCK COUNTY | 1804190100B | 03-SEP-2003 | 03-05-4833A | 02
05 | IN | HANCOCK COUNTY | 1804190025B | 17-OCT-2003 | 03-05-5692A | 02
05 | IN | HANCOCK COUNTY | 1804190050B | 29-OCT-2003 | 04-05-0011A | 02
05 | IN | HANCOCK COUNTY | 1804190100B | 12-NOV-2003 | 04-05-0406A | 02
05 | IN | HANCOCK COUNTY | 1804190100B | 17-DEC-2003 | 04-05-0849A | 02
05 | IN | HARRISON COUNTY | 1800850008B | 31-DEC-2003 | 04-05-0813A | 02
05 | IN | HENDRICKS COUNTY | 1804150100B | 09-JUL-2003 | 03-05-3957A | 02
05 | IN | HENDRICKS COUNTY | 1804150050B | 11-JUL-2003 | 03-05-4183A | 02
05 | IN | HIGHLAND, TOWN OF | 1851760001C | 01-OCT-2003 | 03-05-4849A | 01
05 | IN | HIGHLAND, TOWN OF | 1851760001C | 10-SEP-2003 | 03-05-4983A | 02
05 | IN | HIGHLAND, TOWN OF | 1851760002C | 19-NOV-2003 | 04-05-0342A | 02
05 | IN | HOBART, CITY OF | 1801260070B | 27-AUG-2003 | 03-05-2611A | 02
05 | IN | HOBART, CITY OF | 1801360005B | 18-JUL-2003 | 03-05-4272A | 02
05 | IN | HOBART, CITY OF | 1801360005B | 10-OCT-2003 | 03-05-5114A | 02
05 | IN | HOBART, CITY OF | 1801360005B | 05-NOV-2003 | 04-05-0303A | 02
05 | IN | HOWARD COUNTY | 1804140029B | 07-AUG-2003 | 03-05-0542P | 06
05 | IN | HOWARD COUNTY | 1804140034B | 09-JUL-2003 | 03-05-4166A | 02
05 | IN | HOWARD COUNTY | 1804140044B | 10-OCT-2003 | 03-05-5416A | 02
05 | IN | HOWARD COUNTY | 1804140025B | 17-OCT-2003 | 03-05-5650A | 02
05 | IN | HOWARD COUNTY | 1804140027B | 31-DEC-2003 | 04-05-1328A | 02
05 | IN | HUNTINGTON COUNTY | 1804380025C | 17-DEC-2003 | 04-05-0121A | 02
05 | IN | HUNTINGTON COUNTY | 1804380100C | 21-NOV-2003 | 04-05-0441A | 02
05 | IN | INDIANAPOLIS, CITY OF | 18097C0240E | 09-JUL-2003 | 03-05-1148A | 01
05 | IN | INDIANAPOLIS, CITY OF | 18097C0186E | 29-DEC-2003 | 03-05-1461P | 05
05 | IN | INDIANAPOLIS, CITY OF | 18097C0143E | 03-JUL-2003 | 03-05-1464P | 06
05 | IN | INDIANAPOLIS, CITY OF | 18097C0144E | 03-JUL-2003 | 03-05-1464P | 06
05 | IN | INDIANAPOLIS, CITY OF | 18097C0256E | 03-OCT-2003 | 03-05-1468P | 06
05 | IN | INDIANAPOLIS, CITY OF | 18097C0241E | 09-JUL-2003 | 03-05-2312A | 02
05 | IN | INDIANAPOLIS, CITY OF | 18097C0186E | 15-OCT-2003 | 03-05-3080A | 02
05 | IN | INDIANAPOLIS, CITY OF | 18097C0038E | 16-JUL-2003 | 03-05-3418A | 02
05 | IN | INDIANAPOLIS, CITY OF | 18097C0242E | 11-JUL-2003 | 03-05-3483A | 02
05 | IN | INDIANAPOLIS, CITY OF | 18097C0180E | 03-SEP-2003 | 03-05-3724A | 01
05 | IN | INDIANAPOLIS, CITY OF | 18097C0020E | 09-JUL-2003 | 03-05-3887A | 02
05 | IN | INDIANAPOLIS, CITY OF | 18097C0020E | 15-AUG-2003 | 03-05-3897A | 02
05 | IN | INDIANAPOLIS, CITY OF | 18097C0256E | 26-NOV-2003 | 03-05-3932A | 01
05 | IN | INDIANAPOLIS, CITY OF | 18097C0109E | 09-JUL-2003 | 03-05-3965A | 02
05 | IN | INDIANAPOLIS, CITY OF | 18097C0290E | 02-JUL-2003 | 03-05-4018A | 02
05 | IN | INDIANAPOLIS, CITY OF | 18097C0038E | 17-SEP-2003 | 03-05-4056A | 02
05 | IN | INDIANAPOLIS, CITY OF | 18097C0089E | 16-JUL-2003 | 03-05-4058A | 02
05 | IN | INDIANAPOLIS, CITY OF | 18097C0114E | 16-JUL-2003 | 03-05-4099A | 02
05 | IN | INDIANAPOLIS, CITY OF | 18097C0114E | 11-JUL-2003 | 03-05-4164A | 02
05 | IN | INDIANAPOLIS, CITY OF | 18097C0118E | 11-JUL-2003 | 03-05-4164A | 02
05 | IN | INDIANAPOLIS, CITY OF | 18097C0039E | 02-JUL-2003 | 03-05-4170A | 02
05 | IN | INDIANAPOLIS, CITY OF | 18097C0135E | 30-JUL-2003 | 03-05-4258A | 02
05 | IN | INDIANAPOLIS, CITY OF | 18097C0270E | 30-JUL-2003 | 03-05-4396A | 02
05 | IN | INDIANAPOLIS, CITY OF | 18097C0262E | 01-AUG-2003 | 03-05-4442A | 02
05 | IN | INDIANAPOLIS, CITY OF | 18097C0240E | 06-AUG-2003 | 03-05-4492A | 02
05 | IN | INDIANAPOLIS, CITY OF | 18097C0241E | 30-JUL-2003 | 03-05-4504A | 02
05 | IN | INDIANAPOLIS, CITY OF | 18097C0180E | 01-AUG-2003 | 03-05-4561A | 02
05 | IN | INDIANAPOLIS, CITY OF | 18097C0118E | 22-OCT-2003 | 03-05-4573A | 01
05 | IN | INDIANAPOLIS, CITY OF | 18097C0109E | 22-AUG-2003 | 03-05-4581A | 02
05 | IN | INDIANAPOLIS, CITY OF | 18097C0088E | 24-OCT-2003 | 03-05-4725A | 02
05 | IN | INDIANAPOLIS, CITY OF | 18097C0063E | 29-AUG-2003 | 03-05-4730A | 02
05 | IN | INDIANAPOLIS, CITY OF | 18097C0109E | 10-SEP-2003 | 03-05-4797A | 02
05 | IN | INDIANAPOLIS, CITY OF | 18097C0231E | 20-AUG-2003 | 03-05-4927A | 02
05 | IN | INDIANAPOLIS, CITY OF | 18097C0290E | 03-SEP-2003 | 03-05-5036A | 02
05 | IN | INDIANAPOLIS, CITY OF | 18097C0127E | 22-OCT-2003 | 03-05-5102A | 02
05 | IN | INDIANAPOLIS, CITY OF | 18097C0234E | 22-SEP-2003 | 03-05-5117A | 02
05 | IN | INDIANAPOLIS, CITY OF | 18097C0261E | 22-SEP-2003 | 03-05-5126A | 02
05 | IN | INDIANAPOLIS, CITY OF | 18097C0063E | 03-OCT-2003 | 03-05-5133A | 02
05 | IN | INDIANAPOLIS, CITY OF | 18097C0126E | 08-OCT-2003 | 03-05-5154A | 02
05 | IN | INDIANAPOLIS, CITY OF | 18097C0241E | 26-SEP-2003 | 03-05-5247A | 02
05 | IN | INDIANAPOLIS, CITY OF | 18097C0064E | 01-OCT-2003 | 03-05-5262A | 01
05 | IN | INDIANAPOLIS, CITY OF | 18097C0264E | 26-SEP-2003 | 03-05-5278A | 02
05 | IN | INDIANAPOLIS, CITY OF | 18097C0260E | 26-NOV-2003 | 03-05-5310A | 02
05 | IN | INDIANAPOLIS, CITY OF | 18097C0086E | 26-SEP-2003 | 03-05-5322A | 02
05 | IN | INDIANAPOLIS, CITY OF | 18097C0109E | 07-NOV-2003 | 03-05-5493A | 02
05 | IN | INDIANAPOLIS, CITY OF | 18097C0127E | 10-DEC-2003 | 03-05-5568A | 17
05 | IN | INDIANAPOLIS, CITY OF | 18097C0069E | 03-OCT-2003 | 03-05-5577A | 02
05 | IN | INDIANAPOLIS, CITY OF | 18097C0110E | 15-OCT-2003 | 03-05-5630A | 02
05 | IN | INDIANAPOLIS, CITY OF | 18097C0063E | 15-OCT-2003 | 03-05-5641A | 02
05 | IN | INDIANAPOLIS, CITY OF | 18097C0254E | 29-OCT-2003 | 04-05-0009A | 02
05 | IN | INDIANAPOLIS, CITY OF | 18097C0064E | 07-NOV-2003 | 04-05-0207A | 02
05 | IN | INDIANAPOLIS, CITY OF | 18097C0114E | 05-NOV-2003 | 04-05-0268A | 02
05 | IN | INDIANAPOLIS, CITY OF | 18097C0118E | 05-NOV-2003 | 04-05-0268A | 02
05 | IN | INDIANAPOLIS, CITY OF | 18097C0263E | 12-DEC-2003 | 04-05-0269A | 02
05 | IN | INDIANAPOLIS, CITY OF | 18097C0241E | 12-DEC-2003 | 04-05-0374A | 02
05 | IN | INDIANAPOLIS, CITY OF | 18097C0087E | 21-NOV-2003 | 04-05-0383A | 02
05 | IN | INDIANAPOLIS, CITY OF | 18097C0109E | 24-DEC-2003 | 04-05-0457A | 17
05 | IN | INDIANAPOLIS, CITY OF | 18097C0063E | 17-DEC-2003 | 04-05-0781A | 02
05 | IN | INDIANAPOLIS, CITY OF | 18097C0038E | 26-NOV-2003 | 04-05-0822A | 02
05 | IN | INDIANAPOLIS, CITY OF | 18097C0039E | 03-DEC-2003 | 04-05-0823A | 02
05 | IN | INDIANAPOLIS, CITY OF | 18097C0136E | 10-DEC-2003 | 04-05-0832A | 02
05 | IN | INDIANAPOLIS, CITY OF | 18097C0155E | 18-DEC-2003 | 04-05-0868A | 01
05 | IN | INDIANAPOLIS, CITY OF | 18097C0039E | 05-DEC-2003 | 04-05-1037A | 02
05 | IN | INDIANAPOLIS, CITY OF | 18097C0089E | 05-DEC-2003 | 04-05-1038A | 02
05 | IN | INDIANAPOLIS, CITY OF | 18097C0020E | 10-DEC-2003 | 04-05-1090A | 02
05 | IN | INDIANAPOLIS, CITY OF | 18097C0061E | 24-DEC-2003 | 04-05-1265A | 02
05 | IN | JACKSON COUNTY | 1804050105B | 21-NOV-2003 | 04-05-0641A | 02
05 | IN | JASPER, CITY OF | 1800550006C | 10-DEC-2003 | 04-05-0266A | 01
05 | IN | JEFFERSONVILLE, CITY OF | 1800270005D | 11-JUL-2003 | 03-05-4234A | 02
05 | IN | JEFFERSONVILLE, CITY OF | 1800270005D | 05-NOV-2003 | 04-05-0166A | 02
05 | IN | JOHNSON COUNTY | 1801110014C | 11-JUL-2003 | 03-05-3529A | 02
05 | IN | JOHNSON COUNTY | 1801110012C | 31-DEC-2003 | 04-05-0653A | 17
05 | IN | JOHNSON COUNTY | 1801110100C | 19-DEC-2003 | 04-05-1229A | 02
05 | IN | KNOX COUNTY | 1804220200C | 20-AUG-2003 | 03-05-4070A | 02
05 | IN | KOSCIUSKO COUNTY | 18085C0035C | 05-SEP-2003 | 03-05-3596A | 02
05 | IN | KOSCIUSKO COUNTY | 18085C0100C | 22-SEP-2003 | 03-05-3943A | 02
05 | IN | KOSCIUSKO COUNTY | 18085C0100C | 09-JUL-2003 | 03-05-4038A | 02
05 | IN | KOSCIUSKO COUNTY | 18085C0080C | 11-JUL-2003 | 03-05-4185A | 02
05 | IN | KOSCIUSKO COUNTY | 18085C0100C | 13-AUG-2003 | 03-05-4452A | 02
05 | IN | KOSCIUSKO COUNTY | 18085C0045C | 15-AUG-2003 | 03-05-4599A | 02
05 | IN | KOSCIUSKO COUNTY | 18085C0080C | 20-AUG-2003 | 03-05-4618A | 02
05 | IN | KOSCIUSKO COUNTY | 18085C0070C | 15-AUG-2003 | 03-05-4762A | 02
05 | IN | KOSCIUSKO COUNTY | 18085C0080C | 20-AUG-2003 | 03-05-4871A | 02
05 | IN | KOSCIUSKO COUNTY | 18085C0100C | 05-SEP-2003 | 03-05-4885A | 02
05 | IN | KOSCIUSKO COUNTY | 18085C0100C | 01-OCT-2003 | 03-05-5091A | 02
05 | IN | KOSCIUSKO COUNTY | 18085C0080C | 26-SEP-2003 | 03-05-5442A | 02
05 | IN | KOSCIUSKO COUNTY | 18085C0100C | 15-OCT-2003 | 03-05-5617A | 02
05 | IN | KOSCIUSKO COUNTY | 18085C0067C | 05-NOV-2003 | 04-05-0144A | 02
05 | IN | KOSCIUSKO COUNTY | 18085C0100C | 19-NOV-2003 | 04-05-0347A | 02
05 | IN | KOSCIUSKO COUNTY | 18085C0080C | 26-NOV-2003 | 04-05-0453A | 02
05 | IN | KOSCIUSKO COUNTY | 18085C0080C | 19-NOV-2003 | 04-05-0513A | 02
05 | IN | KOSCIUSKO COUNTY | 18085C0080C | 19-NOV-2003 | 04-05-0515A | 02
05 | IN | KOSCIUSKO COUNTY | 18085C0080C | 14-NOV-2003 | 04-05-0539A | 02
05 | IN | KOSCIUSKO COUNTY | 18085C0100C | 26-NOV-2003 | 04-05-0670A | 02
05 | IN | KOSCIUSKO COUNTY | 18085C0035C | 03-DEC-2003 | 04-05-0707A | 02
05 | IN | KOSCIUSKO COUNTY | 18085C0080C | 31-DEC-2003 | 04-05-1323X | 02
05 | IN | LA PORTE COUNTY | 1801440250C | 21-NOV-2003 | 04-05-0705A | 02
05 | IN | LAGRANGE COUNTY | 1801250004B | 18-JUL-2003 | 03-05-4293A | 02
05 | IN | LAGRANGE COUNTY | 1801250003B | 08-AUG-2003 | 03-05-4617A | 02
05 | IN | LAGRANGE COUNTY | 1801250004B | 27-AUG-2003 | 03-05-4969A | 02
05 | IN | LAGRANGE COUNTY | 1801250002B | 05-NOV-2003 | 04-05-0106A | 02
05 | IN | LAGRANGE COUNTY | 1801250001B | 05-NOV-2003 | 04-05-0246A | 02
05 | IN | LAGRANGE COUNTY | 1801250004B | 24-DEC-2003 | 04-05-0443A | 02
05 | IN | LAGRANGE COUNTY | 1801250004B | 26-NOV-2003 | 04-05-0566A | 02
05 | IN | LAGRANGE COUNTY | 1801250004B | 12-NOV-2003 | 04-05-0572A | 02
05 | IN | LAGRANGE COUNTY | 1801250004B | 26-NOV-2003 | 04-05-0691A | 02
05 | IN | LAGRANGE COUNTY | 1801250004B | 24-DEC-2003 | 04-05-1155A | 02
05 | IN | LAKE COUNTY | 1801260080B | 21-AUG-2003 | 03-05-0072P | 06
05 | IN | LAKE COUNTY | 1801260165B | 31-OCT-2003 | 03-05-5484A | 02
05 | IN | LAKE COUNTY | 1801260115B | 14-NOV-2003 | 04-05-0393A | 02
05 | IN | LAWRENCE COUNTY | 1804410004B | 15-OCT-2003 | 03-05-4231A | 02
05 | IN | LEBANON, CITY OF | 1800110080C | 15-OCT-2003 | 03-05-4541A | 02
05 | IN | LEBANON, CITY OF | 1800130002D | 03-DEC-2003 | 04-05-0808A | 02
05 | IN | LIBERTY, TOWNSHIP OF | 1804880001A | 26-NOV-2003 | 03-05-5519A | 02
05 | IN | LIBERTY, TOWNSHIP OF | 1804880002A | 03-DEC-2003 | 04-05-0248A | 02
05 | IN | MADISON COUNTY | 1804420004B | 25-JUL-2003 | 03-05-4408A | 02
05 | IN | MADISON COUNTY | 1804420005B | 10-SEP-2003 | 03-05-4841A | 02
05 | IN | MADISON COUNTY | 1804420008B | 29-OCT-2003 | 04-05-0134A | 02
05 | IN | MARSHALL COUNTY | 1804430040B | 12-SEP-2003 | 03-05-4266A | 02
05 | IN | MARSHALL COUNTY | 1804430025B | 06-AUG-2003 | 03-05-4557A | 02
05 | IN | MIAMI COUNTY | 1804090040B | 27-AUG-2003 | 03-05-4612A | 02
05 | IN | MICHIGAN CITY, CITY OF | 1801470015B | 11-JUL-2003 | 03-05-3692A | 02
05 | IN | MICHIGAN CITY, CITY OF | 1801470015B | 25-JUL-2003 | 03-05-4398A | 02
05 | IN | MICHIGAN CITY, CITY OF | 1801470015B | 29-AUG-2003 | 03-05-4798A | 02
05 | IN | MICHIGAN CITY, CITY OF | 1801470015B | 10-SEP-2003 | 03-05-5108A | 02
05 | IN | MICHIGAN CITY, CITY OF | 1801470015B | 21-NOV-2003 | 04-05-0736A | 02
05 | IN | MIDDLEBURY, TOWN OF | 1804600005B | 16-JUL-2003 | 03-05-4089A | 02
05 | IN | MISHAWAKA, CITY OF | 1802270010B | 05-DEC-2003 | 04-05-0341A | 01
05 | IN | MONROEVILLE, TOWN OF | 18003C0455D | 25-SEP-2003 | 03-05-5340A | 02
05 | IN | MONROEVILLE, TOWN OF | 1804980260 | 06-NOV-2003 | 04-05-0061V | 19
05 | IN | MORGAN COUNTY | 1801760050B | 05-NOV-2003 | 03-05-4553A | 01
05 | IN | MUNCIE, CITY OF | 1800530010C | 12-NOV-2003 | 04-05-0366A | 02
05 | IN | MUNSTER, TOWN OF | 1801390002B | 07-NOV-2003 | 04-05-0257A | 02
05 | IN | NEW ALBANY, CITY OF | 1800620010D | 10-DEC-2003 | 04-05-0177A | 02
05 | IN | NEW HAVEN, CITY OF | 1800040200 | 06-NOV-2003 | 04-05-0058V | 19
05 | IN | NOBLE COUNTY | 1801830050B | 20-AUG-2003 | 03-05-4539A | 02
05 | IN | NOBLESVILLE, CITY OF | 18057C0165F | 30-OCT-2003 | 04-05-0041A | 01
05 | IN | NOBLESVILLE, CITY OF | 18057C0260F | 02-JUL-2003 | 03-05-2830A | 02
05 | IN | NOBLESVILLE, CITY OF | 18057C0270F | 02-JUL-2003 | 03-05-2830A | 02
05 | IN | NOBLESVILLE, CITY OF | 18057C0135F | 11-JUL-2003 | 03-05-3096A | 01
05 | IN | NOBLESVILLE, CITY OF | 18057C0130F | 05-SEP-2003 | 03-05-3263A | 02
05 | IN | NOBLESVILLE, CITY OF | 18057C0165F | 08-JUL-2003 | 03-05-3377P | 06
05 | IN | NOBLESVILLE, CITY OF | 18057C0130F | 18-JUL-2003 | 03-05-3490A | 01
05 | IN | NOBLESVILLE, CITY OF | 18057C0130F | 18-JUL-2003 | 03-05-3491A | 17
05 | IN | NOBLESVILLE, CITY OF | 18057C0145F | 01-OCT-2003 | 03-05-3528A | 02
05 | IN | NOBLESVILLE, CITY OF | 18057C0130F | 17-OCT-2003 | 03-05-3686A | 17
05 | IN | NOBLESVILLE, CITY OF | 18057C0130F | 02-JUL-2003 | 03-05-3785A | 02
05 | IN | NOBLESVILLE, CITY OF | 18057C0135F | 20-AUG-2003 | 03-05-3788A | 17
05 | IN | NOBLESVILLE, CITY OF | 18057C0140F | 05-SEP-2003 | 03-05-3823A | 02
05 | IN | NOBLESVILLE, CITY OF | 18057C0140F | 10-SEP-2003 | 03-05-3824A | 02
05 | IN | NOBLESVILLE, CITY OF | 18057C0140F | 13-AUG-2003 | 03-05-3833A | 02
05 | IN | NOBLESVILLE, CITY OF | 18057C0145F | 06-AUG-2003 | 03-05-4059A | 02
05 | IN | NOBLESVILLE, CITY OF | 18057C0260F | 25-JUL-2003 | 03-05-4212A | 02
05 | IN | NOBLESVILLE, CITY OF | 18057C0145F | 01-AUG-2003 | 03-05-4296A | 02
05 | IN | NOBLESVILLE, CITY OF | 18057C0265F | 23-JUL-2003 | 03-05-4409A | 02
05 | IN | NOBLESVILLE, CITY OF | 18057C0135F | 26-SEP-2003 | 03-05-4443A | 17
05 | IN | NOBLESVILLE, CITY OF | 18057C0145F | 24-DEC-2003 | 03-05-4493A | 17
05 | IN | NOBLESVILLE, CITY OF | 18057C0135F | 26-SEP-2003 | 03-05-4513A | 17
05 | IN | NOBLESVILLE, CITY OF | 18057C0135F | 06-AUG-2003 | 03-05-4543A | 02
05 | IN | NOBLESVILLE, CITY OF | 18057C0145F | 17-OCT-2003 | 03-05-4549A | 02
05 | IN | NOBLESVILLE, CITY OF | 18057C0130F | 01-OCT-2003 | 03-05-4572A | 17
05 | IN | NOBLESVILLE, CITY OF | 18057C0135F | 26-SEP-2003 | 03-05-4723A | 17
05 | IN | NOBLESVILLE, CITY OF | 18057C0135F | 24-DEC-2003 | 03-05-4744A | 17
05 | IN | NOBLESVILLE, CITY OF | 18057C0135F | 03-SEP-2003 | 03-05-4817A | 02
05 | IN | NOBLESVILLE, CITY OF | 18057C0265F | 03-SEP-2003 | 03-05-4828A | 01
05 | IN | NOBLESVILLE, CITY OF | 18057C0265F | 10-SEP-2003 | 03-05-4848A | 02
05 | IN | NOBLESVILLE, CITY OF | 18057C0135F | 26-SEP-2003 | 03-05-4886A | 17
05 | IN | NOBLESVILLE, CITY OF | 18057C0135F | 05-NOV-2003 | 03-05-4918A | 17
05 | IN | NOBLESVILLE, CITY OF | 18057C0145F | 22-AUG-2003 | 03-05-4937A | 02
05 | IN | NOBLESVILLE, CITY OF | 18057C0130F | 05-DEC-2003 | 03-05-4981A | 17
05 | IN | NOBLESVILLE, CITY OF | 18057C0135F | 22-OCT-2003 | 03-05-4995A | 17
05 | IN | NOBLESVILLE, CITY OF | 18057C0145F | 03-SEP-2003 | 03-05-5019A | 02
05 | IN | NOBLESVILLE, CITY OF | 18057C0145F | 22-SEP-2003 | 03-05-5125A | 02
05 | IN | NOBLESVILLE, CITY OF | 18057C0165F | 10-DEC-2003 | 03-05-5136A | 01
05 | IN | NOBLESVILLE, CITY OF | 18057C0135F | 17-SEP-2003 | 03-05-5152A | 02
05 | IN | NOBLESVILLE, CITY OF | 18057C0135F | 21-NOV-2003 | 03-05-5155A | 17
05 | IN | NOBLESVILLE, CITY OF | 18057C0135F | 17-OCT-2003 | 03-05-5202A | 17
05 | IN | NOBLESVILLE, CITY OF | 18057C0135F | 26-NOV-2003 | 03-05-5204A | 17
05 | IN | NOBLESVILLE, CITY OF | 18057C0265F | 03-DEC-2003 | 03-05-5205A | 02
05 | IN | NOBLESVILLE, CITY OF | 18057C0135F | 05-NOV-2003 | 03-05-5211A | 17
05 | IN | NOBLESVILLE, CITY OF | 18057C0135F | 10-OCT-2003 | 03-05-5224A | 17
05 | IN | NOBLESVILLE, CITY OF | 18057C0145F | 03-OCT-2003 | 03-05-5259A | 02
05 | IN | NOBLESVILLE, CITY OF | 18057C0235F | 07-NOV-2003 | 03-05-5271A | 02
05 | IN | NOBLESVILLE, CITY OF | 18057C0135F | 12-DEC-2003 | 03-05-5294A | 17
05 | IN | NOBLESVILLE, CITY OF | 18057C0130F | 01-OCT-2003 | 03-05-5407A | 02
05 | IN | NOBLESVILLE, CITY OF | 18057C0155F | 03-OCT-2003 | 03-05-5514A | 02
05 | IN | NOBLESVILLE, CITY OF | 18057C0265F | 17-OCT-2003 | 03-05-5520A | 02
05 | IN | NOBLESVILLE, CITY OF | 18057C0235F | 03-OCT-2003 | 03-05-5564A | 02
05 | IN | NOBLESVILLE, CITY OF | 18057C0140F | 10-OCT-2003 | 03-05-5573A | 02
05 | IN | NOBLESVILLE, CITY OF | 18057C0145F | 29-OCT-2003 | 03-05-5581A | 01
05 | IN | NOBLESVILLE, CITY OF | 18057C0265F | 05-NOV-2003 | 03-05-5599A | 02
05 | IN | NOBLESVILLE, CITY OF | 18057C0265F | 22-OCT-2003 | 03-05-5657A | 02
05 | IN | NOBLESVILLE, CITY OF | 18057C0135F | 14-NOV-2003 | 03-05-5679A | 17
05 | IN | NOBLESVILLE, CITY OF | 18057C0145F | 17-OCT-2003 | 03-05-5700A | 01
05 | IN | NOBLESVILLE, CITY OF | 18057C0145F | 22-OCT-2003 | 03-05-5739A | 02
05 | IN | NOBLESVILLE, CITY OF | 18057C0155F | 22-OCT-2003 | 03-05-5744A | 02
05 | IN | NOBLESVILLE, CITY OF | 18057C0135F | 10-DEC-2003 | 04-05-0128A | 17
05 | IN | NOBLESVILLE, CITY OF | 18057C0135F | 17-DEC-2003 | 04-05-0194A | 17
05 | IN | NOBLESVILLE, CITY OF | 18057C0145F | 24-OCT-2003 | 04-05-0198A | 02
05 | IN | NOBLESVILLE, CITY OF | 18057C0145F | 05-DEC-2003 | 04-05-0208A | 01
05 | IN | NOBLESVILLE, CITY OF | 18057C0135F | 05-NOV-2003 | 04-05-0216X | 02
05 | IN | NOBLESVILLE, CITY OF | 18057C0130F | 24-OCT-2003 | 04-05-0301A | 17
05 | IN | NOBLESVILLE, CITY OF | 18057C0135F | 24-DEC-2003 | 04-05-0338A | 17
05 | IN | NOBLESVILLE, CITY OF | 18057C0135F | 17-DEC-2003 | 04-05-0372A | 17
05 | IN | NOBLESVILLE, CITY OF | 18057C0235F | 12-DEC-2003 | 04-05-0418A | 02
05 | IN | NOBLESVILLE, CITY OF | 18057C0235F | 12-NOV-2003 | 04-05-0564A | 02
05 | IN | NOBLESVILLE, CITY OF | 18057C0130F | 26-NOV-2003 | 04-05-0579A | 17
05 | IN | NOBLESVILLE, CITY OF | 18057C0270F | 12-NOV-2003 | 04-05-0584A | 02
05 | IN | NOBLESVILLE, CITY OF | 18057C0165F | 17-DEC-2003 | 04-05-0631A | 01
05 | IN | NOBLESVILLE, CITY OF | 18057C0130F | 05-DEC-2003 | 04-05-0694A | 17
05 | IN | NOBLESVILLE, CITY OF | 18057C0235F | 26-NOV-2003 | 04-05-0703A | 02
05 | IN | NOBLESVILLE, CITY OF | 18057C0135F | 05-DEC-2003 | 04-05-1019A | 17
05 | IN | NOBLESVILLE, CITY OF | 18057C0235F | 10-DEC-2003 | 04-05-1052A | 02
05 | IN | NOBLESVILLE, CITY OF | 18057C0235F | 19-DEC-2003 | 04-05-1114A | 02
05 | IN | NORTH MANCHESTER, TOWN OF | 18169C0030D | 11-JUL-2003 | 03-05-2238A | 02
05 | IN | NORTH WEBSTER, TOWN OF | 18085C0045C | 13-AUG-2003 | 03-05-4719A | 02
05 | IN | OHIO COUNTY | 180406—03B | 10-DEC-2003 | 04-05-0305A | 02
05 | IN | PERRY COUNTY | 1801950006B | 10-DEC-2003 | 04-05-0365A | 02
05 | IN | PLYMOUTH, CITY OF | 180164—02B | 19-DEC-2003 | 03-05-5023A | 17
05 | IN | PORTER COUNTY | 1804250050B | 12-SEP-2003 | 03-05-3718A | 02
05 | IN | PORTER COUNTY | 1804250125B | 29-AUG-2003 | 03-05-4606A | 02
05 | IN | PORTER COUNTY | 1804250060B | 12-NOV-2003 | 03-05-5052A | 02
05 | IN | PORTLAND, CITY OF | 185178—02A | 21-NOV-2003 | 04-05-0599A | 02
05 | IN | SCHERERVILLE, TOWN OF | 1801420005B | 27-AUG-2003 | 03-05-3469A | 02
05 | IN | SCHERERVILLE, TOWN OF | 1801420005B | 11-JUL-2003 | 03-05-3753C | 02
05 | IN | SCHERERVILLE, TOWN OF | 1801420005B | 16-JUL-2003 | 03-05-4220A | 02
05 | IN | SCHERERVILLE, TOWN OF | 1801420005B | 25-JUL-2003 | 03-05-4251A | 02
05 | IN | SELLERSBURG, TOWN OF | 1800280001B | 10-OCT-2003 | 03-05-5608A | 02
05 | IN | SELLERSBURG, TOWN OF | 1804260125C | 10-OCT-2003 | 03-05-5608A | 02
05 | IN | SEYMOUR, CITY OF | 1800990004C | 02-JUL-2003 | 03-05-3829A | 02
05 | IN | SEYMOUR, CITY OF | 1800990004C | 09-JUL-2003 | 03-05-3836A | 02
05 | IN | SEYMOUR, CITY OF | 1800990004C | 11-JUL-2003 | 03-05-4171A | 02
05 | IN | SEYMOUR, CITY OF | 1800990004C | 01-AUG-2003 | 03-05-4465A | 02
05 | IN | SEYMOUR, CITY OF | 1800990004C | 13-AUG-2003 | 03-05-4754A | 02
05 | IN | SEYMOUR, CITY OF | 1800990004C | 03-SEP-2003 | 03-05-4858A | 02
05 | IN | SEYMOUR, CITY OF | 1800990004C | 26-SEP-2003 | 03-05-5304A | 02
05 | IN | SHELBY COUNTY | 1802350040B | 12-SEP-2003 | 03-05-4857A | 02
05 | IN | SPENCER COUNTY | 1802370150A | 05-SEP-2003 | 03-05-4946A | 02
05 | IN | SPENCER COUNTY | 1802370175A | 10-DEC-2003 | 04-05-0519A | 01
05 | IN | ST. JOSEPH COUNTY | 1802240040B | 08-OCT-2003 | 03-05-3162A | 17
05 | IN | ST. JOSEPH COUNTY | 1802240040B | 12-DEC-2003 | 03-05-4044A | 17
05 | IN | STEUBEN COUNTY | 1802430025B | 30-JUL-2003 | 03-05-4094A | 02
05 | IN | STEUBEN COUNTY | 1802430075B | 26-NOV-2003 | 03-05-4292A | 02
05 | IN | STEUBEN COUNTY | 1802430100B | 20-AUG-2003 | 03-05-4589A | 02
05 | IN | STEUBEN COUNTY | 1802430025B | 08-AUG-2003 | 03-05-4630A | 02
05 | IN | STEUBEN COUNTY | 1802430025B | 20-AUG-2003 | 03-05-4920A | 02
05 | IN | STEUBEN COUNTY | 1802430025B | 27-AUG-2003 | 03-05-4921A | 02
05 | IN | STEUBEN COUNTY | 1802430025B | 07-NOV-2003 | 03-05-5026A | 02
05 | IN | STEUBEN COUNTY | 1802430025B | 10-SEP-2003 | 03-05-5132A | 02
05 | IN | STEUBEN COUNTY | 1802430025B | 01-OCT-2003 | 03-05-5227A | 02
05 | IN | STEUBEN COUNTY | 1802430025B | 01-OCT-2003 | 03-05-5443A | 02
05 | IN | STEUBEN COUNTY | 1802430100B | 24-OCT-2003 | 03-05-5518A | 02
05 | IN | STEUBEN COUNTY | 1802430025B | 01-OCT-2003 | 03-05-5553A | 02
05 | IN | STEUBEN COUNTY | 1802430025B | 29-OCT-2003 | 04-05-0108A | 02
05 | IN | STEUBEN COUNTY | 1802430025B | 05-NOV-2003 | 04-05-0247A | 02
05 | IN | STEUBEN COUNTY | 1802430025B | 31-OCT-2003 | 04-05-0265A | 02
05 | IN | STEUBEN COUNTY | 1802430025B | 14-NOV-2003 | 04-05-0559A | 02
05 | IN | STEUBEN COUNTY | 1802430025B | 21-NOV-2003 | 04-05-0669A | 02
05 | IN | STEUBEN COUNTY | 1802430025B | 26-NOV-2003 | 04-05-0786A | 02
05 | IN | STEUBEN COUNTY | 1802430025B | 17-DEC-2003 | 04-05-0871A | 02
05 | IN | STEUBEN COUNTY | 1802430100B | 17-DEC-2003 | 04-05-0972A | 02
05 | IN | SULLIVAN COUNTY | 1804100005A | 18-JUL-2003 | 03-05-4289A | 02
05 | IN | SYRACUSE, TOWN OF | 18085C0031C | 18-JUL-2003 | 03-05-4314A | 02
05 | IN | SYRACUSE, TOWN OF | 18085C0031C | 24-SEP-2003 | 03-05-5251A | 02
05 | IN | SYRACUSE, TOWN OF | 18085C0031C | 31-OCT-2003 | 04-05-0332A | 02
05 | IN | SYRACUSE, TOWN OF | 18085C0031C | 19-NOV-2003 | 04-05-0402A | 02
05 | IN | TELL CITY, CITY OF | 180197—08B | 31-DEC-2003 | 04-05-1053A | 02
05 | IN | TELL CITY, CITY OF | 180197—12B | 31-DEC-2003 | 04-05-1053A | 02
05 | IN | TIPPECANOE COUNTY | 1804280020B | 01-AUG-2003 | 03-05-4233A | 02
05 | IN | TIPPECANOE COUNTY | 1804280070B | 26-SEP-2003 | 03-05-4588A | 02
05 | IN | TIPTON, CITY OF | 1802550001C | 01-AUG-2003 | 03-05-4027A | 02
05 | IN | TIPTON, CITY OF | 1802550001C | 22-SEP-2003 | 03-05-4320A | 02
05 | IN | TIPTON, CITY OF | 1802550001C | 22-SEP-2003 | 03-05-4370A | 02
05 | IN | TIPTON, CITY OF | 1802550001C | 10-DEC-2003 | 03-05-5197A | 17
05 | IN | TIPTON, CITY OF | 1802550001C | 24-DEC-2003 | 04-05-0777A | 02
05 | IN | VANDERBURGH COUNTY * | 1802560025C | 10-JUL-2003 | 03-05-3573A | 01
05 | IN | VANDERBURGH COUNTY * | 1802560025C | 08-JUL-2003 | 03-05-3574A | 01
05 | IN | VANDERBURGH COUNTY * | 1802560025C | 08-JUL-2003 | 03-05-3575A | 01
05 | IN | VANDERBURGH COUNTY * | 1802560025C | 08-JUL-2003 | 03-05-3584A | 01
05 | IN | VANDERBURGH COUNTY * | 1802560015C | 08-JUL-2003 | 03-05-3587A | 01
05 | IN | VANDERBURGH COUNTY * | 1802560025C | 21-JUL-2003 | 03-05-3589A | 01
05 | IN | VANDERBURGH COUNTY * | 1802560025C | 14-JUL-2003 | 03-05-3594A | 01
05 | IN | VANDERBURGH COUNTY * | 1802560075C | 21-JUL-2003 | 03-05-4104A | 02
05 | IN | VANDERBURGH COUNTY * | 1802560025C | 07-AUG-2003 | 03-05-4119A | 02
05 | IN | VANDERBURGH COUNTY * | 1802560025C | 07-AUG-2003 | 03-05-4120A | 02
05 | IN | VANDERBURGH COUNTY * | 1802560025C | 11-SEP-2003 | 03-05-4127A | 01
05 | IN | VANDERBURGH COUNTY * | 1802560025C | 19-AUG-2003 | 03-05-4129A | 01
05 | IN | VANDERBURGH COUNTY * | 1802560025C | 04-SEP-2003 | 03-05-4130A | 02
05 | IN | VANDERBURGH COUNTY * | 1802560015C | 21-AUG-2003 | 03-05-4137A | 01
05 | IN | VANDERBURGH COUNTY * | 1802560015C | 27-NOV-2003 | 03-05-4632A | 01
05 | IN | VANDERBURGH COUNTY * | 1802560025C | 21-AUG-2003 | 03-05-4641A | 02
05 | IN | VANDERBURGH COUNTY * | 1802560015C | 21-AUG-2003 | 03-05-4648A | 01
05 | IN | VANDERBURGH COUNTY * | 1802560015C | 25-AUG-2003 | 03-05-4651A | 02
05 | IN | VANDERBURGH COUNTY * | 1802560025C | 28-AUG-2003 | 03-05-4652A | 02
05 | IN | VANDERBURGH COUNTY * | 1802560025C | 02-SEP-2003 | 03-05-4654A | 01
05 | IN | VANDERBURGH COUNTY * | 1802560050B | 25-SEP-2003 | 03-05-4661A | 02
05 | IN | VANDERBURGH COUNTY * | 1802560025C | 04-SEP-2003 | 03-05-4670A | 01
05 | IN | VANDERBURGH COUNTY * | 1802560025C | 04-SEP-2003 | 03-05-4671A | 02
05 | IN | VANDERBURGH COUNTY * | 1802560100B | 09-OCT-2003 | 03-05-4673A | 02
05 | IN | VANDERBURGH COUNTY * | 1802560025C | 18-SEP-2003 | 03-05-4683A | 01
05 | IN | VANDERBURGH COUNTY * | 1802560015C | 15-SEP-2003 | 03-05-4684A | 01
05 | IN | VANDERBURGH COUNTY * | 1802560025C | 15-SEP-2003 | 03-05-4685A | 01
05 | IN | VANDERBURGH COUNTY * | 1802560025C | 15-SEP-2003 | 03-05-4686A | 01
05 | IN | VANDERBURGH COUNTY * | 1802560025C | 15-SEP-2003 | 03-05-4687A | 02
05 | IN | VANDERBURGH COUNTY * | 1802560075C | 23-OCT-2003 | 03-05-4696A | 02
05 | IN | VANDERBURGH COUNTY * | 1802560025C | 18-SEP-2003 | 03-05-5333A | 02
05 | IN | VANDERBURGH COUNTY * | 1802560100B | 22-SEP-2003 | 03-05-5339A | 01
05 | IN | VANDERBURGH COUNTY * | 1802560025C | 25-SEP-2003 | 03-05-5342A | 01
05 | IN | VANDERBURGH COUNTY * | 1802560025C | 20-OCT-2003 | 03-05-5345A | 01
05 | IN | VANDERBURGH COUNTY * | 1802560025C | 06-NOV-2003 | 03-05-5346A | 01
05 | IN | VANDERBURGH COUNTY * | 1802560100B | 20-OCT-2003 | 03-05-5347A | 01
05 | IN | VANDERBURGH COUNTY * | 1802560050B | 20-OCT-2003 | 03-05-5348A | 02
05 | IN | VANDERBURGH COUNTY * | 1802560025C | 17-NOV-2003 | 03-05-5354A | 01
05 | IN | VANDERBURGH COUNTY * | 1802560025C | 04-DEC-2003 | 03-05-5360A | 02
05 | IN | VANDERBURGH COUNTY * | 1802560025C | 30-OCT-2003 | 03-05-5363A | 02
05 | IN | VANDERBURGH COUNTY * | 1802560025C | 06-NOV-2003 | 03-05-5365A | 01
05 | IN | VANDERBURGH COUNTY * | 1802560025C | 30-OCT-2003 | 04-05-0032A | 01
05 | IN | VANDERBURGH COUNTY * | 1802560025C | 24-NOV-2003 | 04-05-0033A | 01
05 | IN | VANDERBURGH COUNTY * | 1802560075C | 23-OCT-2003 | 04-05-0034A | 02
05 | IN | VANDERBURGH COUNTY * | 1802560025C | 03-NOV-2003 | 04-05-0035A | 01
05 | IN | VANDERBURGH COUNTY * | 1802560025C | 03-NOV-2003 | 04-05-0036A | 02
05 | IN | VANDERBURGH COUNTY * | 1802560025C | 17-NOV-2003 | 04-05-0037A | 01
05 | IN | VANDERBURGH COUNTY * | 1802560015C | 20-NOV-2003 | 04-05-0042A | 01
05 | IN | VANDERBURGH COUNTY * | 1802560050B | 17-NOV-2003 | 04-05-0066A | 01
05 | IN | VANDERBURGH COUNTY * | 1802560025C | 03-NOV-2003 | 04-05-0067A | 01
05 | IN | VANDERBURGH COUNTY * | 1802560100B | 15-DEC-2003 | 04-05-0070A | 02
05 | IN | VANDERBURGH COUNTY * | 1802560025C | 17-NOV-2003 | 04-05-0071A | 02
05 | IN | VANDERBURGH COUNTY * | 1802560025C | 20-NOV-2003 | 04-05-0462A | 01
05 | IN | VANDERBURGH COUNTY * | 1802560025C | 24-NOV-2003 | 04-05-0463A | 02
05 | IN | VANDERBURGH COUNTY * | 1802560015C | 15-DEC-2003 | 04-05-0467A | 01
05 | IN | VANDERBURGH COUNTY * | 1802560025C | 26-NOV-2003 | 04-05-0468A | 01
05 | IN | VANDERBURGH COUNTY * | 1802560050B | 26-NOV-2003 | 04-05-0469A | 01
05 | IN | VANDERBURGH COUNTY * | 1802560025C | 24-NOV-2003 | 04-05-0470A | 01
05 | IN | VANDERBURGH COUNTY * | 1802560025C | 26-NOV-2003 | 04-05-0473A | 01
05 | IN | VANDERBURGH COUNTY * | 1802560025C | 15-DEC-2003 | 04-05-0477A | 01
05 | IN | VANDERBURGH COUNTY * | 1802560025C | 15-DEC-2003 | 04-05-0483A | 01
05 | IN | VANDERBURGH COUNTY * | 1802560050B | 04-DEC-2003 | 04-05-0488A | 02
05 | IN | VANDERBURGH COUNTY * | 1802560025C | 15-DEC-2003 | 04-05-0491A | 01
05 | IN | VANDERBURGH COUNTY * | 1802560025C | 15-DEC-2003 | 04-05-0492A | 01
05 | IN | VANDERBURGH COUNTY * | 1802560025C | 15-DEC-2003 | 04-05-0497A | 01
05 | IN | VIGO COUNTY | 1802630020B | 23-JUL-2003 | 03-05-3662A | 02
05 | IN | VIGO COUNTY | 1802630065B | 20-AUG-2003 | 03-05-4092A | 02
05 | IN | VIGO COUNTY | 1802630130B | 27-AUG-2003 | 03-05-4808A | 02
05 | IN | VIGO COUNTY | 1802630130B | 24-SEP-2003 | 03-05-5041A | 02
05 | IN | VIGO COUNTY | 1802630070B | 26-SEP-2003 | 03-05-5429A | 02
05 | IN | VIGO COUNTY | 1802630070B | 12-DEC-2003 | 03-05-5457A | 02
05 | IN | VIGO COUNTY | 1802630070B | 31-OCT-2003 | 04-05-0126A | 02
05 | IN | VIGO COUNTY | 1802630090B | 12-DEC-2003 | 04-05-0949A | 02
05 | IN | WARRICK COUNTY | 1804180175B | 20-AUG-2003 | 03-05-4510A | 01
05 | IN | WARRICK COUNTY | 1804180175B | 12-SEP-2003 | 03-05-5018A | 02
05 | IN | WARRICK COUNTY | 1804180175B | 05-NOV-2003 | 03-05-5479A | 02
05 | IN | WARSAW, CITY OF | 18085C0078C | 15-AUG-2003 | 03-05-4598A | 02
05 | IN | WARSAW, CITY OF | 18085C0059C | 22-SEP-2003 | 03-05-5100A | 02
05 | IN | WARSAW, CITY OF | 18085C0086C | 24-DEC-2003 | 04-05-0168A | 02
05 | IN | WARSAW, CITY OF | 18085C0086C | 10-DEC-2003 | 04-05-1036A | 02
05 | IN | WARSAW, CITY OF | 18085C0086C | 12-DEC-2003 | 04-05-1121A | 02
05 | IN | WELLS COUNTY | 1802880100C | 22-OCT-2003 | 03-05-5488A | 01
05 | IN | WESTFIELD, TOWN OF | 18057C0140F | 17-OCT-2003 | 03-05-3726A | 01
05 | IN | WESTFIELD, TOWN OF | 18057C0120F | 20-AUG-2003 | 03-05-3913A | 02
05 | IN | WESTFIELD, TOWN OF | 18057C0115F | 31-DEC-2003 | 03-05-4179A | 02
05 | IN | WESTFIELD, TOWN OF | 18057C0140F | 15-AUG-2003 | 03-05-4437A | 02
05 | IN | WESTFIELD, TOWN OF | 18057C0140F | 06-AUG-2003 | 03-05-4560A | 02
05 | IN | WESTFIELD, TOWN OF | 18057C0140F | 01-AUG-2003 | 03-05-4562A | 02
05 | IN | WESTFIELD, TOWN OF | 18057C0120F | 13-AUG-2003 | 03-05-4752A | 02
05 | IN | WESTFIELD, TOWN OF | 18057C0138F | 05-DEC-2003 | 03-05-4825A | 02
05 | IN | WESTFIELD, TOWN OF | 18057C0140F | 07-NOV-2003 | 03-05-5038A | 17
05 | IN | WESTFIELD, TOWN OF | 18057C0140F | 31-DEC-2003 | 03-05-5069A | 01
05 | IN | WESTFIELD, TOWN OF | 18057C0140F | 03-OCT-2003 | 03-05-5492A | 02
05 | IN | WESTFIELD, TOWN OF | 18057C0140F | 17-DEC-2003 | 04-05-0563A | 01
05 | IN | WESTFIELD, TOWN OF | 18057C0115F | 26-NOV-2003 | 04-05-0661A | 02
05 | IN | WHITE COUNTY | 1804470002C | 11-JUL-2003 | 03-05-3889A | 02
05 | IN | WHITE COUNTY | 1804470005C | 09-JUL-2003 | 03-05-4073A | 02
05 | IN | WHITE COUNTY | 1804470005C | 01-AUG-2003 | 03-05-4419A | 02
05 | IN | WHITE COUNTY | 1804470005C | 17-SEP-2003 | 03-05-4720A | 02
05 | IN | WHITE COUNTY | 1804470002C | 27-AUG-2003 | 03-05-4721A | 02
05 | IN | WHITE COUNTY | 1804470005C | 22-AUG-2003 | 03-05-4728A | 01
05 | IN | WHITE COUNTY | 1804470005C | 10-SEP-2003 | 03-05-5079A | 02
05 | IN | WHITE COUNTY | 1804470002C | 01-OCT-2003 | 03-05-5459A | 02
05 | IN | WHITE COUNTY | 1804470005C | 26-NOV-2003 | 04-05-0433A | 02
05 | IN | WHITE COUNTY | 1804470005C | 21-NOV-2003 | 04-05-0536A | 02
05 | IN | WHITE COUNTY | 1804470002C | 05-DEC-2003 | 04-05-1018A | 02
05 | IN | WHITLEY COUNTY | 1802980001B | 26-SEP-2003 | 03-05-5286A | 02
05 | IN | WHITLEY COUNTY | 1802980001B | 15-OCT-2003 | 03-05-5651A | 02
05 | IN | WHITLEY COUNTY | 1802980002B | 19-NOV-2003 | 04-05-0401A | 02
05 | IN | WHITLEY COUNTY | 1802980002B | 12-DEC-2003 | 04-05-0848A | 02
05 | MI | ADA, TOWNSHIP OF | 2602480010B | 29-AUG-2003 | 03-05-4456A | 17
05 | MI | ALBEE, TOWNSHIP OF | 26145C0245D | 20-AUG-2003 | 03-05-3884A | 02
05 | MI | ALBEE, TOWNSHIP OF | 26145C0245D | 26-SEP-2003 | 03-05-5325A | 02
05 | MI | ALBEE, TOWNSHIP OF | 26145C0240D | 21-NOV-2003 | 04-05-0683A | 02
05 | MI | ALGOMA, TOWNSHIP OF | 2607380010A | 23-JUL-2003 | 03-05-3363A | 02
05 | MI | ALPENA, CITY OF | 2600100005B | 26-SEP-2003 | 03-05-5292A | 02
05 | MI | ALPENA, TOWNSHIP OF | 2600110024B | 01-OCT-2003 | 03-05-4742A | 02
05 | MI | ALPENA, TOWNSHIP OF | 2600110024B | 08-OCT-2003 | 03-05-5321A | 02
05 | MI | ANN ARBOR, CITY OF | 2602130009C | 16-JUL-2003 | 03-05-3417A | 02
05 | MI | ANN ARBOR, CITY OF | 2602130010C | 09-JUL-2003 | 03-05-4217A | 02
05 | MI | ARCADIA, TOWNSHIP OF | 260306—03C | 17-SEP-2003 | 03-05-4455A | 02
05 | MI | ARGENTINE, TOWNSHIP OF | 2603920010A | 22-OCT-2003 | 03-05-4554A | 02
05 | MI | ARGENTINE, TOWNSHIP OF | 2603920010A | 20-AUG-2003 | 03-05-4790A | 02
05 | MI | ARLINGTON, TOWNSHIP OF | 2607050005B | 01-OCT-2003 | 03-05-4235A | 02
05 | MI | ASH, TOWNSHIP OF | 26115C0111D | 23-JUL-2003 | 03-05-3961A | 02
05 | MI | AU TRAIN, TOWNSHIP OF | 2603420025C | 17-DEC-2003 | 04-05-0746A | 02
05 | MI | AUGRES, TOWNSHIP OF | 2600130025B | 26-NOV-2003 | 04-05-0743A | 02
05 | MI | BALDWIN, TOWNSHIP OF | 2600990007D | 12-DEC-2003 | 04-05-0749A | 02
05 | MI | BALDWIN, TOWNSHIP OF | 2600990016D | 17-DEC-2003 | 04-05-0958A | 02
05 | MI | BANGOR, CHARTER TOWNSHIP OF | 26017C0140D | 30-JUL-2003 | 03-05-4283A | 02
05 | MI | BANGOR, CHARTER TOWNSHIP OF | 26017C0140D | 25-JUL-2003 | 03-05-4415A | 02
05 | MI | BANGOR, CHARTER TOWNSHIP OF | 26017C0140D | 13-AUG-2003 | 03-05-4533A | 02
05 | MI | BANGOR, CHARTER TOWNSHIP OF | 26017C0115D | 15-OCT-2003 | 03-05-5694A | 02
05 | MI | BANGOR, CHARTER TOWNSHIP OF | 26017C0140D | 26-NOV-2003 | 04-05-0147A | 02
05 | MI | BANGOR, CHARTER TOWNSHIP OF | 26017C0115D | 24-DEC-2003 | 04-05-0969A | 02
05 | MI | BANKS, TOWNSHIP OF | 2606430003B | 05-DEC-2003 | 04-05-0598A | 02
05 | MI | BAY MILLS, TOWNSHIP OF | 2603740050B | 18-JUL-2003 | 03-05-4081A | 02
05 | MI | BAY MILLS, TOWNSHIP OF | 2603740050B | 12-SEP-2003 | 03-05-5011A | 02
05 | MI | BAY MILLS, TOWNSHIP OF | 2603740050B | 31-OCT-2003 | 04-05-0359A | 02
05 | MI | BEAUGRAND, TOWNSHIP OF | 2606460002A | 22-SEP-2003 | 03-05-5057A | 02
05 | MI | BEDFORD, TOWNSHIP OF | 26115C0364D | 16-JUL-2003 | 03-05-4189A | 02
05 | MI | BENTON, TOWNSHIP OF | 2600310002B | 07-NOV-2003 | 03-05-5137A | 01
05 | MI | BERLIN, TOWNSHIP OF | 26115C0108D | 25-JUL-2003 | 03-05-4210A | 02
05 | MI | BERLIN, TOWNSHIP OF | 26115C0256D | 29-AUG-2003 | 03-05-4506A | 02
05 | MI | BERLIN, TOWNSHIP OF | 26115C0256D | 01-AUG-2003 | 03-05-4530A | 02
05 | MI | BERLIN, TOWNSHIP OF | 26115C0257D | 10-OCT-2003 | 03-05-5496A | 02
05 | MI | BERLIN, TOWNSHIP OF | 26115C0140D | 22-OCT-2003 | 03-05-5532A | 02
05 | MI | BERLIN, TOWNSHIP OF | 26115C0136D | 19-DEC-2003 | 04-05-0977A | 02
05 | MI | BEVERLY HILLS, VILLAGE OF | 2602560001B | 23-JUL-2003 | 03-05-3317A | 01
05 | MI | BIG RAPIDS, CITY OF | 260136—02B | 08-AUG-2003 | 03-05-3634A | 02
05 | MI | BIG RAPIDS, TOWNSHIP OF | 260135—06B | 24-DEC-2003 | 04-05-1017A | 02
05 | MI | BIRMINGHAM, CITY OF | 2601680005B | 12-NOV-2003 | 04-05-0580A | 02
05 | MI | BIRMINGHAM, CITY OF | 2601680005B | 31-DEC-2003 | 04-05-1275A | 02
05 | MI | BLISSFIELD, VILLAGE OF | 2603390001C | 12-SEP-2003 | 03-05-5128A | 02
05 | MI | BLISSFIELD, VILLAGE OF | 2603390001C | 26-SEP-2003 | 03-05-5257A | 02
05 | MI | BLISSFIELD, VILLAGE OF | 2603390001C | 07-NOV-2003 | 04-05-0204A | 02
05 | MI | BRANT, TOWNSHIP OF | 26145C0230D | 17-DEC-2003 | 04-05-1253A | 02
05 | MI | BREEN, TOWNSHIP OF | 2603890050B | 26-NOV-2003 | 04-05-0252A | 02
05 | MI | BROOMFIELD, TOWNSHIP OF | 26073C0275C | 13-AUG-2003 | 03-05-3273A | 02
05 | MI | BROOMFIELD, TOWNSHIP OF | 26073C0275C | 20-AUG-2003 | 03-05-4806A | 02
05 | MI | BROWNSTOWN, CHARTER TOWNSHIP OF | 2602180010B | 25-AUG-2003 | 03-05-2564P | 06
05 | MI | BROWNSTOWN, CHARTER TOWNSHIP OF | 2602180010B | 29-AUG-2003 | 03-05-4167A | 02
05 | MI | BROWNSTOWN, CHARTER TOWNSHIP OF | 2602180010B | 12-DEC-2003 | 04-05-0851A | 02
05 | MI | BRUCE, TOWNSHIP OF | 2608840025A | 07-JUL-2003 | 03-05-3680A | 02
05 | MI | BRUCE, TOWNSHIP OF | 2603750050A | 10-SEP-2003 | 03-05-5010A | 02
05 | MI | BUENA VISTA, TOWNSHIP OF | 26145C0085D | 10-OCT-2003 | 03-05-4724A | 02
05 | MI | BUENA VISTA, TOWNSHIP OF | 26145C0085D | 01-OCT-2003 | 03-05-5080A | 02
05 | MI | BURTON, CITY OF | 2602870001B | 19-NOV-2003 | 04-05-0151A | 02
05 | MI | BURTON, CITY OF | 2602870002B | 19-NOV-2003 | 04-05-0151A | 02
05 | MI | BURTON, CITY OF | 2602870005B | 05-NOV-2003 | 04-05-0328A | 02
05 | MI | CANTON, TOWNSHIP OF | 2602190009B | 08-JUL-2003 | 03-05-1836P | 06
05 | MI | CANTON, TOWNSHIP OF | 2602190005B | 22-SEP-2003 | 03-05-3458A | 02
05 | MI | CARROLLTON, TOWNSHIP OF | 26145C0080D | 22-OCT-2003 | 03-05-5428A | 02
05 | MI | CASCADE, CHARTER TOWNSHIP OF | 2608140025A | 18-JUL-2003 | 03-05-4237A | 02
05 | MI | CASCADE, CHARTER TOWNSHIP OF | 2608140025A | 27-AUG-2003 | 03-05-4509A | 02
05 | MI | CASCADE, CHARTER TOWNSHIP OF | 2608140025A | 19-DEC-2003 | 04-05-0329A | 02
05 | MI | CASCADE, CHARTER TOWNSHIP OF | 2608140025A | 19-DEC-2003 | 04-05-1246A | 02
05 | MI | CASEVILLE, TOWNSHIP OF | 2602570002A | 14-NOV-2003 | 03-05-5684A | 02
05 | MI | CEDARVILLE, TOWNSHIP OF | 2606590020C | 03-DEC-2003 | 04-05-0520A | 02
05 | MI | CHESANING, VILLAGE OF | 26145C0345D | 06-AUG-2003 | 03-05-4450A | 02
05 | MI | CHESTER, TOWNSHIP OF | 2608290025A | 03-DEC-2003 | 03-05-4438A | 02
05 | MI | CHESTERFIELD, TOWNSHIP OF | 2601200010B | 30-JUL-2003 | 03-05-4248A | 01
05 | MI | CHESTERFIELD, TOWNSHIP OF | 2601200010B | 29-AUG-2003 | 03-05-4932A | 02
05 | MI | CLARK, TOWNSHIP OF | 2607590050B | 09-JUL-2003 | 03-05-4083A | 02
05 | MI | CLARK, TOWNSHIP OF | 2607590050B | 17-OCT-2003 | 03-05-5683A | 02
05 | MI | CLARKSTON, CITY OF THE VILLAGE OF | 2604720001B | 07-JUL-2003 | 03-05-4015A | 02
05 | MI | CLAY, TOWNSHIP OF | 2601940003B | 02-JUL-2003 | 03-05-3664A | 02
05 | MI | CLAY, TOWNSHIP OF | 2601940003B | 07-JUL-2003 | 03-05-4006A | 02
05 | MI | CLAY, TOWNSHIP OF | 2601940003B | 17-OCT-2003 | 03-05-4053A | 02
05 | MI | CLAY, TOWNSHIP OF | 2601940003B | 10-SEP-2003 | 03-05-4890A | 02
05 | MI | CLAY, TOWNSHIP OF | 2601940001B | 12-SEP-2003 | 03-05-5013A | 02
05 | MI | CLAY, TOWNSHIP OF | 2601940003B | 05-NOV-2003 | 03-05-5228A | 02
05 | MI | CLAY, TOWNSHIP OF | 2601940001B | 01-OCT-2003 | 03-05-5406A | 02
05 | MI | CLAY, TOWNSHIP OF | 2601940003B | 10-DEC-2003 | 04-05-0540A | 02
05 | MI | CLAY, TOWNSHIP OF | 2601940003B | 05-DEC-2003 | 04-05-0657A | 02
05 | MI | CLEVELAND, TOWNSHIP OF | 260302—09A | 03-DEC-2003 | 03-05-5263A | 02
05 | MI | CLINTON, CHARTER TOWNSHIP OF | 2601210005E | 05-NOV-2003 | 03-05-4330A | 02
05 | MI | CLINTON, CHARTER TOWNSHIP OF | 2601210005E | 29-OCT-2003 | 03-05-5095A | 02
05 | MI | COLDWATER, CITY OF | 2608130005A | 01-OCT-2003 | 03-05-5401A | 02
05 | MI | COLON, TOWNSHIP OF | 2605100010A | 29-OCT-2003 | 04-05-0226A | 02
05 | MI | COMMERCE, TOWNSHIP OF | 2604730005B | 09-JUL-2003 | 03-05-4037A | 02
05 | MI | COMMERCE, TOWNSHIP OF | 2604730005B | 29-AUG-2003 | 03-05-4788A | 02
05 | MI | CONCORD, VILLAGE OF | 2604230001A | 24-OCT-2003 | 03-05-3462A | 01
05 | MI | DE WITT, TOWNSHIP OF | 2606310005B | 15-OCT-2003 | 03-05-5469A | 02
05 | MI | DEARBORN HEIGHTS, CITY OF | 2602210007C | 08-AUG-2003 | 03-05-4295A | 02
05 | MI | DEARBORN HEIGHTS, CITY OF | 2602210007C | 12-NOV-2003 | 03-05-4765A | 01
05 | MI | DEARBORN HEIGHTS, CITY OF | 2602210007C | 26-SEP-2003 | 03-05-5425A | 02
05 | MI | DEARBORN HEIGHTS, CITY OF | 2602210007C | 17-DEC-2003 | 04-05-1152A | 02
05 | MI | DEARBORN, CITY OF | 2602200005D | 25-JUL-2003 | 03-05-3103A | 02
05 | MI | DEARBORN, CITY OF | 2602200005D | 11-JUL-2003 | 03-05-3411A | 02
05 | MI | DEARBORN, CITY OF | 2602200005D | 08-OCT-2003 | 03-05-3688A | 02
05 | MI | DEARBORN, CITY OF | 2602200005D | 16-JUL-2003 | 03-05-4161A | 02
05 | MI | DEARBORN, CITY OF | 2602200005D | 06-AUG-2003 | 03-05-4194A | 02
05 | MI | DEARBORN, CITY OF | 2602200005D | 06-AUG-2003 | 03-05-4397A | 02
05 | MI | DEARBORN, CITY OF | 2602200005D | 06-AUG-2003 | 03-05-4404A | 02
05 | MI | DEARBORN, CITY OF | 2602200005D | 15-AUG-2003 | 03-05-4547A | 02
05 | MI | DEARBORN, CITY OF | 2602200005D | 10-SEP-2003 | 03-05-4706A | 02
05 | MI | DEARBORN, CITY OF | 2602200005D | 05-SEP-2003 | 03-05-4763A | 02
05 | MI | DEARBORN, CITY OF | 2602200005D | 27-AUG-2003 | 03-05-4831A | 02
05 | MI | DEARBORN, CITY OF | 2602200005D | 17-SEP-2003 | 03-05-4950A | 02
05 | MI | DEARBORN, CITY OF | 2602200005D | 22-OCT-2003 | 03-05-5395A | 02
05 | MI | DEARBORN, CITY OF | 2602200005D | 22-OCT-2003 | 03-05-5491A | 02
05 | MI | DEARBORN, CITY OF | 2602200005D | 22-OCT-2003 | 03-05-5565A | 02
05 | MI | DEARBORN, CITY OF | 2602200005D | 21-NOV-2003 | 03-05-5566A | 02
05 | MI | DEARBORN, CITY OF | 2602200005D | 29-OCT-2003 | 03-05-5567A | 02
05 | MI | DEARBORN, CITY OF | 2602200005D | 22-OCT-2003 | 03-05-5595A | 02
05 | MI | DEARBORN, CITY OF | 2602200005D | 12-NOV-2003 | 03-05-5610A | 02
05 | MI | DEARBORN, CITY OF | 2602200005D | 22-OCT-2003 | 03-05-5669A | 02
05 | MI | DEARBORN, CITY OF | 2602200005D | 24-OCT-2003 | 03-05-5670A | 02
05 | MI | DEARBORN, CITY OF | 2602200005D | 24-OCT-2003 | 04-05-0017A | 02
05 | MI | DEARBORN, CITY OF | 2602200005D | 12-NOV-2003 | 04-05-0133A | 02
05 | MI | DEARBORN, CITY OF | 2602200005D | 03-DEC-2003 | 04-05-0370A | 02
05 | MI | DEARBORN, CITY OF | 2602200005D | 26-NOV-2003 | 04-05-0640A | 02
05 | MI | DEARBORN, CITY OF | 2602200005D | 12-DEC-2003 | 04-05-0720A | 02
05 | MI | DEARBORN, CITY OF | 2602200005D | 12-DEC-2003 | 04-05-0912A | 02
05 | MI | DEARBORN, CITY OF | 2602200005D | 19-DEC-2003 | 04-05-0913A | 02
05 | MI | DEARBORN, CITY OF | 2602200005D | 12-DEC-2003 | 04-05-1085A | 02
05 | MI | DEARBORN, CITY OF | 2602200005D | 17-DEC-2003 | 04-05-1149A | 02
05 | MI | DEARBORN, CITY OF | 2602200005D | 19-DEC-2003 | 04-05-1151A | 02
05 | MI | DELHI, CHARTER TOWNSHIP OF | 2600880005C | 14-NOV-2003 | 03-05-5316A | 17
05 | MI | DELHI, CHARTER TOWNSHIP OF | 2600880005C | 24-OCT-2003 | 04-05-0223A | 02
05 | MI | DELTA, CHARTER TOWNSHIP OF | 2600660005D | 16-JUL-2003 | 03-05-4074A | 02
05 | MI | DELTA, CHARTER TOWNSHIP OF | 2600660010D | 23-JUL-2003 | 03-05-4319A | 02
05 | MI | DETOUR, TOWNSHIP OF | 2607750001A | 03-DEC-2003 | 04-05-0651A | 02
05 | MI | DOUGLAS, VILLAGE OF | 2603050001C | 09-JUL-2003 | 03-05-3266A | 02
05 | MI | DOUGLAS, VILLAGE OF | 2605490001A | 09-JUL-2003 | 03-05-3266A | 02
05 | MI | DRUMMOND ISLAND, TOWNSHIP OF | 2608030025A | 10-OCT-2003 | 03-05-5626A | 02
05 | MI | EAST TAWAS, CITY OF | 2601000001C | 17-OCT-2003 | 03-05-4733A | 02
05 | MI | ELBA, TOWNSHIP OF | 2607760001A | 08-OCT-2003 | 03-05-5446A | 02
05 | MI | ELK RAPIDS,VILLAGE OF | 2606990005C | 19-DEC-2003 | 04-05-0423A | 02
05 | MI | FABIUS, TOWNSHIP OF | 2607810025A | 20-AUG-2003 | 03-05-4700A | 02
05 | MI | FABIUS, TOWNSHIP OF | 2607810025A | 17-DEC-2003 | 04-05-0518A | 02
05 | MI | FARMINGTON HILLS, CITY OF | 2601720002C | 22-SEP-2003 | 03-05-1768A | 02
05 | MI | FARMINGTON HILLS, CITY OF | 2601720010C | 09-JUL-2003 | 03-05-2935A | 01
05 | MI | FARMINGTON HILLS, CITY OF | 2601720001C | 23-JUL-2003 | 03-05-3621A | 02
05 | MI | FARMINGTON HILLS, CITY OF | 2601720002C | 06-AUG-2003 | 03-05-4496A | 02
05 | MI | FARMINGTON HILLS, CITY OF | 2601720002C | 13-AUG-2003 | 03-05-4532A | 02
05 | MI | FARMINGTON HILLS, CITY OF | 2601720002C | 26-SEP-2003 | 03-05-4600A | 02
05 | MI | FARMINGTON HILLS, CITY OF | 2601720001C | 22-SEP-2003 | 03-05-4919A | 02
05 | MI | FARMINGTON HILLS, CITY OF | 2601720004C | 12-SEP-2003 | 03-05-4956A | 02
05 | MI | FARMINGTON HILLS, CITY OF | 2601720002C | 08-OCT-2003 | 03-05-5696X | 02
05 | MI | FARMINGTON HILLS, CITY OF | 2601720007C | 17-OCT-2003 | 03-05-5717A | 02
05 | MI | FARMINGTON HILLS, CITY OF | 2601720002C | 12-DEC-2003 | 04-05-0673A | 02
05 | MI | FARMINGTON HILLS, CITY OF | 2601720003C | 05-DEC-2003 | 04-05-0973A | 02
05 | MI | FLAT ROCK, CITY OF | 2602240003B | 30-JUL-2003 | 03-05-4301A | 02
05 | MI | FLAT ROCK, CITY OF | 2602240005B | 05-SEP-2003 | 03-05-4390A | 02
05 | MI | FLAT ROCK, CITY OF | 2602240003B | 22-AUG-2003 | 03-05-4874A | 02
05 | MI | FLAT ROCK, CITY OF | 2602240003B | 05-NOV-2003 | 03-05-5124A | 02
05 | MI | FORD RIVER, TOWNSHIP OF | 26041C0792C | 17-OCT-2003 | 03-05-5489A | 02
05 | MI | FRANKENLUST, TOWNSHIP OF | 26017C0200D | 06-AUG-2003 | 03-05-4155A | 02
05 | MI | FRANKENLUST, TOWNSHIP OF | 26017C0205D | 03-OCT-2003 | 03-05-5214A | 17
05 | MI | FRANKENLUST, TOWNSHIP OF | 26017C0205D | 29-OCT-2003 | 03-05-5582A | 02
05 | MI | FRANKENLUST, TOWNSHIP OF | 26017C0200D | 03-DEC-2003 | 03-05-5597A | 17
05 | MI | FRASER, CITY OF | 2601220001B | 09-JUL-2003 | 03-05-1926A | 02
05 | MI | FRASER, CITY OF | 2601220001B | 17-OCT-2003 | 03-05-3367P | 05
05 | MI | FRASER, CITY OF | 2601220001B | 18-JUL-2003 | 03-05-4282A | 02
05 | MI | FRASER, CITY OF | 2601220001B | 30-JUL-2003 | 03-05-4425A | 02
05 | MI | FRASER, CITY OF | 2601220001B | 17-SEP-2003 | 03-05-4542A | 17
05 | MI | FRASER, CITY OF | 2601220001B | 05-DEC-2003 | 03-05-4781A | 17
05 | MI | FRASER, CITY OF | 2601220001B | 10-SEP-2003 | 03-05-4923A | 02
05 | MI | FRASER, CITY OF | 2601220001B | 24-SEP-2003 | 03-05-5105A | 02
05 | MI | FRASER, CITY OF | 2601220001B | 08-OCT-2003 | 03-05-5241A | 02
05 | MI | FRASER, CITY OF | 2601220001B | 12-NOV-2003 | 03-05-5748A | 02
05 | MI | FRASER, CITY OF | 2601220001B | 17-DEC-2003 | 04-05-0959A | 02
05 | MI | FRASER, CITY OF | 2601220001B | 31-DEC-2003 | 04-05-1395A | 02
05 | MI | FRENCHTOWN, CHARTER TOWNSHIP OF | 26115C0241D | 24-OCT-2003 | 03-05-0527P | 06
05 | MI | FRENCHTOWN, CHARTER TOWNSHIP OF | 26115C0258D | 22-AUG-2003 | 03-05-3708A | 02
05 | MI | GAINES, TOWNSHIP OF | 2602930005A | 17-DEC-2003 | 03-05-3837A | 01
05 | MI | GEORGETOWN, CHARTER TOWNSHIP OF | 2605890005B | 13-AUG-2003 | 03-05-4331A | 01
05 | MI | GEORGETOWN, CHARTER TOWNSHIP OF | 2605890005B | 24-SEP-2003 | 03-05-4756A | 02
05 | MI | GEORGETOWN, CHARTER TOWNSHIP OF | 2605890003B | 17-DEC-2003 | 04-05-0914A | 02
05 | MI | GRAND HAVEN, TOWNSHIP OF | 2602700005B | 05-NOV-2003 | 04-05-0159A | 02
05 | MI | GRAND RAPIDS, CITY OF | 2601060025C | 24-OCT-2003 | 03-05-5287A | 02
05 | MI | GRANDVILLE, CITY OF | 2602710003B | 27-AUG-2003 | 03-05-4257A | 02
05 | MI | GRANDVILLE, CITY OF | 2602710002B | 29-AUG-2003 | 03-05-4820A | 02
05 | MI | GRANDVILLE, CITY OF | 2602710004B | 22-OCT-2003 | 03-05-5529A | 02
05 | MI | GRANDVILLE, CITY OF | 2602710002B | 29-OCT-2003 | 04-05-0229A | 02
05 | MI | GREEN OAK, TOWNSHIP OF | 2604400005B | 09-JUL-2003 | 03-05-4176A | 02
05 | MI | GREEN OAK, TOWNSHIP OF | 2604400005B | 16-JUL-2003 | 03-05-4297A | 02
05 | MI | GREEN OAK, TOWNSHIP OF | 2604400005B | 23-JUL-2003 | 03-05-4383A | 02
05 | MI | GREEN OAK, TOWNSHIP OF | 2604400015B | 27-AUG-2003 | 03-05-4872A | 02
05 | MI | GREEN OAK, TOWNSHIP OF | 2604400015B | 05-SEP-2003 | 03-05-4955A | 02
05 | MI | GREEN OAK, TOWNSHIP OF | 2604400015B | 24-SEP-2003 | 03-05-5064A | 02
05 | MI | GREEN OAK, TOWNSHIP OF | 2604400015B | 26-NOV-2003 | 03-05-5397A | 02
05 | MI | GREEN OAK, TOWNSHIP OF | 2604400015B | 17-OCT-2003 | 03-05-5656A | 02
05 | MI | GREENBUSH, TOWNSHIP OF | 2600010007C | 20-AUG-2003 | 03-05-3537A | 02
05 | MI | GREENBUSH, TOWNSHIP OF | 2600010007C | 22-AUG-2003 | 03-05-4071A | 02
05 | MI | GREENBUSH, TOWNSHIP OF | 2600010007C | 08-AUG-2003 | 03-05-4470A | 02
05 | MI | GREENBUSH, TOWNSHIP OF | 2600010004C | 08-AUG-2003 | 03-05-4550A | 02
05 | MI | GREENBUSH, TOWNSHIP OF | 2600010007C | 08-OCT-2003 | 03-05-4576A | 02
05 | MI | GREENBUSH, TOWNSHIP OF | 2600010007C | 08-OCT-2003 | 03-05-4824A | 02
05 | MI | GREENBUSH, TOWNSHIP OF | 2600010004C | 08-OCT-2003 | 03-05-4978A | 02
05 | MI | GREENBUSH, TOWNSHIP OF | 2600010007C | 29-OCT-2003 | 03-05-5231A | 02
05 | MI | GREENBUSH, TOWNSHIP OF | 2600010007C | 12-NOV-2003 | 03-05-5619A | 02
05 | MI | GREENBUSH, TOWNSHIP OF | 2600010007C | 05-NOV-2003 | 03-05-5697A | 02
05 | MI | GREENBUSH, TOWNSHIP OF | 2600010007C | 14-NOV-2003 | 04-05-0220A | 02
05 | MI | GREENBUSH, TOWNSHIP OF | 2600010004C | 19-NOV-2003 | 04-05-0551A | 02
05 | MI | GREENBUSH, TOWNSHIP OF | 2600010004C | 12-NOV-2003 | 04-05-0578A | 02
05 | MI | GREENBUSH, TOWNSHIP OF | 2600010004C | 14-NOV-2003 | 04-05-0628A | 02
05 | MI | GREENBUSH, TOWNSHIP OF | 2600010004C | 26-NOV-2003 | 04-05-0692A | 02
05 | MI | GREENBUSH, TOWNSHIP OF | 2600010004C | 19-NOV-2003 | 04-05-0734A | 02
05 | MI | GREENBUSH, TOWNSHIP OF | 2600010004C | 12-DEC-2003 | 04-05-0741A | 02
05 | MI | HAMBURG, TOWNSHIP OF | 2601180010C | 19-DEC-2003 | 04-05-1139A | 02
05 | MI | HAMPTON, TOWNSHIP OF | 26017C0180D | 19-DEC-2003 | 03-05-2941A | 01
05 | MI | HAMPTON, TOWNSHIP OF | 26017C0145D | 07-JUL-2003 | 03-05-3489A | 02
05 | MI | HAMPTON, TOWNSHIP OF | 26017C0150D | 07-JUL-2003 | 03-05-3489A | 02
05 | MI | HAMPTON, TOWNSHIP OF | 26017C0185D | 15-AUG-2003 | 03-05-4180A | 02
05 | MI | HAMPTON, TOWNSHIP OF | 26017C0190D | 31-DEC-2003 | 04-05-0146A | 02
05 | MI | HAMPTON, TOWNSHIP OF | 26017C0190D | 31-OCT-2003 | 04-05-0148A | 02
05 | MI | HAMPTON, TOWNSHIP OF | 26017C0185D | 05-NOV-2003 | 04-05-0149A | 02
05 | MI | HAMPTON, TOWNSHIP OF | 26017C0190D | 12-DEC-2003 | 04-05-0655A | 02
05 | MI | HAMPTON, TOWNSHIP OF | 26017C0185D | 26-NOV-2003 | 04-05-0700A | 02
05 | MI | HAMPTON, TOWNSHIP OF | 26017C0150D | 05-DEC-2003 | 04-05-0815A | 02
05 | MI | HARBOR SPRINGS, CITY OF | 2602720005C | 05-SEP-2003 | 03-05-2223A | 01
05 | MI | HARING, TOWNSHIP OF | 26165C0361C | 17-DEC-2003 | 04-05-1130A | 02
05 | MI | HARRISON, TOWNSHIP OF | 2601230010C | 22-AUG-2003 | 03-05-4284A | 02
05 | MI | HARRISON, TOWNSHIP OF | 2601230005C | 13-AUG-2003 | 03-05-4403A | 02
05 | MI | HARRISON, TOWNSHIP OF | 2601230010C | 24-SEP-2003 | 03-05-4552A | 02
05 | MI | HARRISON, TOWNSHIP OF | 2601230005C | 17-OCT-2003 | 03-05-4585A | 02
05 | MI | HARRISON, TOWNSHIP OF | 2601230005C | 29-AUG-2003 | 03-05-4750A | 02
05 | MI | HARRISON, TOWNSHIP OF | 2601230010C | 29-AUG-2003 | 03-05-4836A | 02
05 | MI | HARRISON, TOWNSHIP OF | 2601230010C | 26-SEP-2003 | 03-05-4865A | 02
05 | MI | HARRISON, TOWNSHIP OF | 2601230005C | 12-SEP-2003 | 03-05-4922A | 02
05 | MI | HARRISON, TOWNSHIP OF | 2601230005C | 17-SEP-2003 | 03-05-4965A | 02
05 | MI | HARRISON, TOWNSHIP OF | 2601230010C | 17-SEP-2003 | 03-05-4998A | 02
05 | MI | HARRISON, TOWNSHIP OF | 2601230010C | 14-NOV-2003 | 03-05-5054A | 01
05 | MI | HARRISON, TOWNSHIP OF | 2601230010C | 08-OCT-2003 | 03-05-5217A | 02
05 | MI | HARRISON, TOWNSHIP OF | 2601230010C | 26-SEP-2003 | 03-05-5320A | 02
05 | MI | HARRISON, TOWNSHIP OF | 2601230005C | 01-OCT-2003 | 03-05-5436A | 02
05 | MI | HARRISON, TOWNSHIP OF | 2601230010C | 29-OCT-2003 | 03-05-5474A | 02
05 | MI | HARRISON, TOWNSHIP OF | 2601230005C | 07-NOV-2003 | 03-05-5525A | 02
05 | MI | HARRISON, TOWNSHIP OF | 2601230010C | 14-NOV-2003 | 03-05-5560A | 02
05 | MI | HARRISON, TOWNSHIP OF | 2601230005C | 08-OCT-2003 | 03-05-5588A | 02
05 | MI | HARRISON, TOWNSHIP OF | 2601230010C | 17-OCT-2003 | 03-05-5705A | 02
05 | MI | HARRISON, TOWNSHIP OF | 2601230005C | 17-OCT-2003 | 03-05-5715A | 02
05 | MI | HARRISON, TOWNSHIP OF | 2601230005C | 17-OCT-2003 | 03-05-5718A | 02
05 | MI | HARRISON, TOWNSHIP OF | 2601230005C | 19-NOV-2003 | 04-05-0283A | 02
05 | MI | HARRISON, TOWNSHIP OF | 2601230005C | 26-NOV-2003 | 04-05-0727A | 02
05 | MI | HARRISON, TOWNSHIP OF | 2601230010C | 17-DEC-2003 | 04-05-0960A | 02
05 | MI | HARRISON, TOWNSHIP OF | 2601230010C | 12-DEC-2003 | 04-05-0961A | 02
05 | MI | HARRISON, TOWNSHIP OF | 2601230005C | 31-DEC-2003 | 04-05-1028A | 02
05 | MI | HARTLAND, TOWNSHIP OF | 2607840005B | 11-JUL-2003 | 03-05-3002A | 02
05 | MI | HAY, TOWNSHIP OF | 2609840001A | 27-AUG-2003 | 03-05-3628A | 02
05 | MI | HAY, TOWNSHIP OF | 2609840001A | 19-DEC-2003 | 03-05-5477A | 02
05 | MI | HAY, TOWNSHIP OF | 2609840001A | 26-NOV-2003 | 04-05-0791A | 02
05 | MI | HAY, TOWNSHIP OF | 2609840001A | 03-DEC-2003 | 04-05-0872A | 02
05 | MI | HOLLAND, TOWNSHIP OF | 2604920003D | 06-AUG-2003 | 03-05-3536A | 01
05 | MI | HOMER, TOWNSHIP OF | 2606540001B | 07-JUL-2003 | 03-05-3721A | 02
05 | MI | HOPE, TOWNSHIP OF | 2606810010B | 22-AUG-2003 | 03-05-4933A | 02
05 | MI | HUDSONVILLE, CITY OF | 2604930002A | 22-OCT-2003 | 03-05-5592A | 02
05 | MI | HUDSONVILLE, CITY OF | 2604930002A | 24-DEC-2003 | 04-05-1039A | 02
05 | MI | IDA, TOWNSHIP OF | 26115C0355D | 16-JUL-2003 | 03-05-2358A | 02
05 | MI | IDA, TOWNSHIP OF | 26115C0355D | 25-JUL-2003 | 03-05-3781A | 02
05 | MI | IDA, TOWNSHIP OF | 26115C0355D | 25-JUL-2003 | 03-05-3821A | 02
05 | MI | IDA, TOWNSHIP OF | 26115C0360D | 27-AUG-2003 | 03-05-4230A | 02
05 | MI | IDA, TOWNSHIP OF | 26115C0355D | 22-AUG-2003 | 03-05-4839A | 02
05 | MI | IDA, TOWNSHIP OF | 26115C0355D | 19-DEC-2003 | 04-05-1256A | 02
05 | MI | INDEPENDENCE, TOWNSHIP OF | 2604750006B | 03-OCT-2003 | 03-05-5483A | 02
05 | MI | INDEPENDENCE, TOWNSHIP OF | 2604750007B | 17-OCT-2003 | 03-05-5512A | 02
05 | MI | IRA, TOWNSHIP OF | 2601990005B | 03-SEP-2003 | 03-05-4859A | 02
05 | MI | ISABELLA, TOWNSHIP OF | 26073C0193C | 05-DEC-2003 | 04-05-0101A | 02
05 | MI | JACKSON, CITY OF | 2602730001C | 15-OCT-2003 | 03-05-5510A | 02
05 | MI | JAMES, TOWNSHIP OF | 26145C0130D | 02-JUL-2003 | 03-05-3766A | 02
05 | MI | JAMES, TOWNSHIP OF | 26145C0130D | 30-JUL-2003 | 03-05-4067A | 02
05 | MI | JAMES, TOWNSHIP OF | 26145C0125D | 26-SEP-2003 | 03-05-5309A | 02
05 | MI | KAWKAWLIN, TOWNSHIP OF | 26017C0110D | 12-NOV-2003 | 04-05-0137A | 02
05 | MI | KAWKAWLIN, TOWNSHIP OF | 26017C0135D | 12-NOV-2003 | 04-05-0137A | 02
05 | MI | KEEGO HARBOR, CITY OF | 2601730001B | 17-DEC-2003 | 04-05-0988A | 02
05 | MI | KIMBALL, TOWNSHIP OF | 260594—09A | 13-AUG-2003 | 03-05-4435A | 02
05 | MI | KOCHVILLE, TOWNSHIP OF | 26145C0080D | 03-DEC-2003 | 03-05-4870A | 02
05 | MI | KOCHVILLE, TOWNSHIP OF | 26145C0035D | 12-DEC-2003 | 04-05-0993A | 02
05 | MI | LAKE, TOWNSHIP OF | 260030—07A | 17-OCT-2003 | 03-05-5675A | 02
05 | MI | LAKE, TOWNSHIP OF | 260030—05A | 17-OCT-2003 | 03-05-5720A | 02
05 | MI | LAKETOWN, TOWNSHIP OF | 2602530005A | 12-NOV-2003 | 03-05-5042A | 02
05 | MI | LANSING, CITY OF | 2600900009B | 03-DEC-2003 | 03-05-1475P | 05
05 | MI | LANSING, CITY OF | 2600900013B | 18-DEC-2003 | 03-05-5253A | 02
05 | MI | LANSING, CITY OF | 2600900006B | 14-NOV-2003 | 04-05-0275A | 02
05 | MI | LANSING, TOWNSHIP OF | 2606320010A | 17-OCT-2003 | 03-05-5707A | 02
05 | MI | LEELANAU, TOWNSHIP OF | 260114—07B | 21-NOV-2003 | 04-05-0667A | 02
05 | MI | LEELANAU, TOWNSHIP OF | 260114—0B | 03-DEC-2003 | 04-05-0938A | 02
05 | MI | LINCOLN PARK, CITY OF | 2602340001B | 17-SEP-2003 | 03-05-5139A | 02
05 | MI | LOWELL, CITY OF | 2601080001B | 12-DEC-2003 | 04-05-0946A | 02
05 | MI | MACOMB, TOWNSHIP OF | 2604450020B | 15-SEP-2003 | 03-05-2565P | 06
05 | MI | MACOMB, TOWNSHIP OF | 2604450010B | 24-JUL-2003 | 03-05-2566P | 06
05 | MI | MACOMB, TOWNSHIP OF | 2604450020B | 24-JUL-2003 | 03-05-2566P | 06
05 | MI | MACOMB, TOWNSHIP OF | 2604450010B | 02-JUL-2003 | 03-05-3341A | 01
05 | MI | MACOMB, TOWNSHIP OF | 2604450010B | 17-OCT-2003 | 03-05-3423A | 01
05 | MI | MACOMB, TOWNSHIP OF | 2604450010B | 23-JUL-2003 | 03-05-4261A | 01
05 | MI | MACOMB, TOWNSHIP OF | 2604450010B | 22-OCT-2003 | 03-05-4903A | 02
05 | MI | MACOMB, TOWNSHIP OF | 2604450020B | 24-OCT-2003 | 03-05-5274A | 02
05 | MI | MACOMB, TOWNSHIP OF | 2604450010B | 24-DEC-2003 | 04-05-0911A | 02
05 | MI | MARENGO, TOWNSHIP OF | 2605630010A | 12-SEP-2003 | 03-05-4602A | 02
05 | MI | MASON, CITY OF | 2600920001B | 11-JUL-2003 | 03-05-3945A | 02
05 | MI | MASONVILLE, TOWNSHIP OF | 26041C0437C | 24-SEP-2003 | 03-05-3510A | 02
05 | MI | MENOMINEE, CITY OF | 2601380005B | 06-AUG-2003 | 03-05-3723A | 02
05 | MI | MENOMINEE, CITY OF | 2601380005B | 17-SEP-2003 | 03-05-4454A | 01
05 | MI | MENOMINEE, TOWNSHIP OF | 2607020005B | 17-OCT-2003 | 03-05-5123A | 02
05 | MI | MERIDIAN, CHARTER TOWNSHIP OF | 2600930013B | 07-JUL-2003 | 03-05-0445P | 05
05 | MI | MERIDIAN, CHARTER TOWNSHIP OF | 2600930015B | 20-AUG-2003 | 03-05-2996A | 17
05 | MI | MERIDIAN, CHARTER TOWNSHIP OF | 2600930015B | 18-JUL-2003 | 03-05-4229A | 02
05 | MI | MERIDIAN, CHARTER TOWNSHIP OF | 2600930010B | 26-SEP-2003 | 03-05-4269A | 02
05 | MI | MERIDIAN, CHARTER TOWNSHIP OF | 2600930015B | 05-SEP-2003 | 03-05-4392A | 02
05 | MI | MERIDIAN, CHARTER TOWNSHIP OF | 2600930015B | 27-AUG-2003 | 03-05-4935A | 02
05 | MI | MERIDIAN, CHARTER TOWNSHIP OF | 2600930015B | 31-OCT-2003 | 04-05-0153A | 02
05 | MI | MERIDIAN, CHARTER TOWNSHIP OF | 2600930013B | 12-DEC-2003 | 04-05-0210A | 17
05 | MI | MERIDIAN, CHARTER TOWNSHIP OF | 2600930010B | 19-NOV-2003 | 04-05-0527A | 02
05 | MI | MIDLAND, CITY OF | 2601400005D | 13-AUG-2003 | 03-05-2951A | 01
05 | MI | MIDLAND, CITY OF | 2601400005D | 12-SEP-2003 | 03-05-4709A | 01
05 | MI | MIDLAND, CITY OF | 2601400007D | 05-SEP-2003 | 03-05-4892A | 02
05 | MI | MIDLAND, CITY OF | 2601400008D | 12-NOV-2003 | 04-05-0152A | 02
05 | MI | MIDLAND, CITY OF | 2601400005D | 19-NOV-2003 | 04-05-0286A | 02
05 | MI | MONROE, CITY OF | 26115C0241D | 26-SEP-2003 | 03-05-5060A | 02
05 | MI | MONTAGUE, CITY OF | 2601600001B | 12-SEP-2003 | 03-05-5053A | 02
05 | MI | MUSKEGON, TOWNSHIP OF | 2601630005C | 06-AUG-2003 | 03-05-3499A | 02
05 | MI | NEW BALTIMORE, CITY OF | 2601250005B | 29-AUG-2003 | 03-05-4847A | 02
05 | MI | NEW BALTIMORE, CITY OF | 2601250005B | 10-SEP-2003 | 03-05-4896A | 02
05 | MI | NEW BUFFALO, TOWNSHIP OF | 2600390005B | 09-JUL-2003 | 03-05-3696A | 02
05 | MI | NEW BUFFALO, TOWNSHIP OF | 2600390005B | 10-DEC-2003 | 04-05-0517A | 02
05 | MI | NEWTON, TOWNSHIP OF | 2606470002B | 12-SEP-2003 | 03-05-4943A | 02
05 | MI | NILES, TOWNSHIP OF | 260041—07B | 10-DEC-2003 | 04-05-1074A | 02
05 | MI | NORTHFIELD, TOWNSHIP OF | 2606350005A | 17-OCT-2003 | 03-05-5546A | 02
05 | MI | NORTHVILLE, CITY OF | 2602350001B | 31-OCT-2003 | 03-05-5016A | 02
05 | MI | NORTHVILLE, CITY OF | 2602350001B | 12-SEP-2003 | 03-05-5066A | 02
05 | MI | NORTON SHORES, CITY OF | 2601650001A | 10-DEC-2003 | 03-05-5009A | 02
05 | MI | NORVELL, TOWNSHIP OF | 260424—03A | 02-JUL-2003 | 03-05-3914A | 02
05 | MI | ONEIDA, TOWNSHIP OF | 2600700025B | 22-AUG-2003 | 03-05-4072A | 02
05 | MI | ORCHARD LAKE VILLAGE, CITY OF | 2604770005A | 14-NOV-2003 | 04-05-0290A | 02
05 | MI | OSCODA, TOWNSHIP OF | 2601010025C | 30-JUL-2003 | 03-05-4477A | 02
05 | MI | OSCODA, TOWNSHIP OF | 2601010050C | 24-DEC-2003 | 04-05-0833A | 02
05 | MI | PARK, TOWNSHIP OF | 2601850001B | 27-AUG-2003 | 03-05-4537A | 02
05 | MI | PAW PAW, VILLAGE OF | 260598—01A | 27-AUG-2003 | 03-05-3780A | 02
05 | MI | PAW PAW, VILLAGE OF | 260598—01A | 03-OCT-2003 | 03-05-5508A | 02
05 | MI | PENNFIELD, TOWNSHIP OF | 2605640010A | 22-AUG-2003 | 03-05-4187A | 02
05 | MI | PINCONNING, TOWNSHIP OF | 26017C0040D | 23-JUL-2003 | 03-05-4068A | 02
05 | MI | PINCONNING, TOWNSHIP OF | 26017C0040D | 31-DEC-2003 | 04-05-1064A | 02
05 | MI | PLAINFIELD, TOWNSHIP OF | 2601090005B | 29-AUG-2003 | 03-05-4564A | 02
05 | MI | PLAINFIELD, TOWNSHIP OF | 2601090010B | 31-DEC-2003 | 04-05-0165A | 17
05 | MI | PLYMOUTH, CITY OF | 2602360001C | 10-SEP-2003 | 03-05-2363A | 17
05 | MI | PONTIAC, CITY OF | 2601770005B | 11-JUL-2003 | 03-05-3432A | 01
05 | MI | PORT AUSTIN, TOWNSHIP OF | 260290—02C | 12-NOV-2003 | 04-05-0360A | 02
05 | MI | POWELL, TOWNSHIP OF | 2604520075B | 05-DEC-2003 | 04-05-0432A | 02
05 | MI | PUTNAM, TOWNSHIP OF | 2604420020C | 15-OCT-2003 | 03-05-5681A | 02
05 | MI | PUTNAM, TOWNSHIP OF | 2604420015C | 05-DEC-2003 | 04-05-0916A | 02
05 | MI | RABER, TOWNSHIP OF | 2607860050A | 18-JUL-2003 | 03-05-3166A | 02
05 | MI | RABER, TOWNSHIP OF | 2607860025A | 09-JUL-2003 | 03-05-3848A | 02
05 | MI | REDFORD, TOWNSHIP OF | 2602380005B | 17-DEC-2003 | 04-05-1063A | 02
05 | MI | RIVERVIEW, CITY OF | 2602400005C | 12-SEP-2003 | 03-05-1723A | 01
05 | MI | RIVERVIEW, CITY OF | 2602400005C | 17-OCT-2003 | 03-05-3705A | 02
05 | MI | ROCKWOOD, CITY OF | 2602410005B | 22-OCT-2003 | 03-05-4979A | 02
05 | MI | RUTLAND, TOWNSHIP OF | 2606560005B | 05-DEC-2003 | 04-05-0861A | 02
05 | MI | SAGINAW, CITY OF | 26145C0135D | 05-NOV-2003 | 04-05-0104A | 02
05 | MI | SAGINAW, TOWNSHIP OF | 26145C0130D | 26-NOV-2003 | 03-05-5084A | 02
05 | MI | SALEM,TOWNSHIP OF | 2606360002B | 10-DEC-2003 | 03-05-4887A | 02
05 | MI | SALEM,TOWNSHIP OF | 2606360002A | 19-DEC-2003 | 04-05-0546A | 02
05 | MI | SAUGATUCK, CITY OF | 2603050001C | 15-OCT-2003 | 03-05-5622A | 02
05 | MI | SAUGATUCK, TOWNSHIP OF | 2600090005B | 10-OCT-2003 | 03-05-5594A | 02
05 | MI | SELMA, TOWNSHIP OF | 26165C0336C | 02-JUL-2003 | 03-05-3903A | 02
05 | MI | SELMA, TOWNSHIP OF | 26165C0338C | 03-SEP-2003 | 03-05-4868A | 02
05 | MI | SELMA, TOWNSHIP OF | 26165C0338C | 03-DEC-2003 | 04-05-0718A | 02
05 | MI | SHELBY, TOWNSHIP OF | 2601260020B | 08-OCT-2003 | 03-05-4708A | 02
05 | MI | SHELBY, TOWNSHIP OF | 2601260010B | 29-OCT-2003 | 04-05-0161A | 02
05 | MI | SHELBY, TOWNSHIP OF | 2601260010B | 12-NOV-2003 | 04-05-0209A | 02
05 | MI | SHELBY, TOWNSHIP OF | 2601260010B | 19-NOV-2003 | 04-05-0308A | 02
05 | MI | SHELBY, TOWNSHIP OF | 2601260010B | 31-DEC-2003 | 04-05-0439A | 02
05 | MI | SHERMAN, TOWNSHIP OF | 26073C0175C | 10-DEC-2003 | 04-05-0830A | 02
05 | MI | SILVER CREEK, TOWNSHIP OF | 260369—07B | 24-SEP-2003 | 03-05-5280A | 02
05 | MI | SILVER CREEK, TOWNSHIP OF | 260369—05B | 17-DEC-2003 | 03-05-5306A | 02
05 | MI | SILVER CREEK, TOWNSHIP OF | 260369—07B | 10-OCT-2003 | 03-05-5571A | 02
05 | MI | SILVER CREEK, TOWNSHIP OF | 260369—07B | 15-OCT-2003 | 03-05-5643A | 02
05 | MI | SILVER CREEK, TOWNSHIP OF | 260369—07B | 14-NOV-2003 | 04-05-0511A | 01
05 | MI | SIMS, TOWNSHIP OF | 2600150003C | 27-AUG-2003 | 03-05-4225A | 02
05 | MI | SODUS, TOWNSHIP OF | 2600460002B | 05-NOV-2003 | 04-05-0244A | 02
05 | MI | SPRING LAKE, TOWNSHIP OF | 2602810002B | 22-AUG-2003 | 03-05-4796A | 02
05 | MI | ST. CLAIR SHORES, CITY OF | 2601270005B | 16-JUL-2003 | 03-05-3451A | 02
05 | MI | ST. CLAIR SHORES, CITY OF | 2601270005B | 07-JUL-2003 | 03-05-3488A | 02
05 | MI | ST. CLAIR SHORES, CITY OF | 2601270005B | 13-AUG-2003 | 03-05-3652A | 02
05 | MI | ST. CLAIR SHORES, CITY OF | 2601270005B | 24-SEP-2003 | 03-05-3777A | 02
05 | MI | ST. CLAIR SHORES, CITY OF | 2601270005B | 16-JUL-2003 | 03-05-3810A | 01
05 | MI | ST. CLAIR SHORES, CITY OF | 2601270005B | 06-AUG-2003 | 03-05-3819A | 02
05 | MI | ST. CLAIR SHORES, CITY OF | 2601270005B | 17-OCT-2003 | 03-05-3929A | 02
05 | MI | ST. CLAIR SHORES, CITY OF | 2601270005B | 06-AUG-2003 | 03-05-3949A | 02
05 | MI | ST. CLAIR SHORES, CITY OF | 2601270005B | 26-SEP-2003 | 03-05-4020A | 02
05 | MI | ST. CLAIR SHORES, CITY OF | 2601270005B | 02-JUL-2003 | 03-05-4021A | 02
05 | MI | ST. CLAIR SHORES, CITY OF | 2601270005B | 02-JUL-2003 | 03-05-4036A | 02
05 | MI | ST. CLAIR SHORES, CITY OF | 2601270005B | 15-AUG-2003 | 03-05-4065A | 02
05 | MI | ST. CLAIR SHORES, CITY OF | 2601270005B | 07-JUL-2003 | 03-05-4087A | 02
05 | MI | ST. CLAIR SHORES, CITY OF | 2601270005B | 11-JUL-2003 | 03-05-4169A | 02
05 | MI | ST. CLAIR SHORES, CITY OF | 2601270005B | 11-JUL-2003 | 03-05-4190A | 02
05 | MI | ST. CLAIR SHORES, CITY OF | 2601270005B | 23-JUL-2003 | 03-05-4191A | 02
05 | MI | ST. CLAIR SHORES, CITY OF | 2601270005B | 11-JUL-2003 | 03-05-4193A | 02
05 | MI | ST. CLAIR SHORES, CITY OF | 2601270005B | 18-JUL-2003 | 03-05-4324A | 02
05 | MI | ST. CLAIR SHORES, CITY OF | 2601270005B | 23-JUL-2003 | 03-05-4381A | 02
05 | MI | ST. CLAIR SHORES, CITY OF | 2601270005B | 30-JUL-2003 | 03-05-4434A | 02
05 | MI | ST. CLAIR SHORES, CITY OF | 2601270005B | 01-AUG-2003 | 03-05-4475A | 02
05 | MI | ST. CLAIR SHORES, CITY OF | 2601270005B | 29-AUG-2003 | 03-05-4785A | 02
05 | MI | ST. CLAIR SHORES, CITY OF | 2601270005B | 27-AUG-2003 | 03-05-4803A | 02
05 | MI | ST. CLAIR SHORES, CITY OF | 2601270005B | 29-AUG-2003 | 03-05-4810A | 02
05 | MI | ST. CLAIR SHORES, CITY OF | 2601270005B | 03-SEP-2003 | 03-05-4867A | 02
05 | MI | ST. CLAIR SHORES, CITY OF | 2601270005B | 22-SEP-2003 | 03-05-4987A | 02
05 | MI | ST. CLAIR SHORES, CITY OF | 2601270005B | 22-SEP-2003 | 03-05-5007A | 02
05 | MI | ST. CLAIR SHORES, CITY OF | 2601270005B | 24-SEP-2003 | 03-05-5096A | 02
05 | MI | ST. CLAIR SHORES, CITY OF | 2601270005B | 26-SEP-2003 | 03-05-5200A | 02
05 | MI | ST. CLAIR SHORES, CITY OF | 2601270005B | 24-OCT-2003 | 03-05-5229A | 02
05 | MI | ST. CLAIR SHORES, CITY OF | 2601270005B | 03-OCT-2003 | 03-05-5315A | 02
05 | MI | ST. CLAIR SHORES, CITY OF | 2601270005B | 03-DEC-2003 | 03-05-5394A | 02
05 | MI | ST. CLAIR SHORES, CITY OF | 2601270005B | 08-OCT-2003 | 03-05-5449A | 02
05 | MI | ST. CLAIR SHORES, CITY OF | 2601270005B | 17-OCT-2003 | 03-05-5495A | 02
05 | MI | ST. CLAIR SHORES, CITY OF | 2601270005B | 08-OCT-2003 | 03-05-5511A | 02
05 | MI | ST. CLAIR SHORES, CITY OF | 2601270005B | 26-NOV-2003 | 03-05-5633A | 02
05 | MI | ST. CLAIR SHORES, CITY OF | 2601270005B | 24-OCT-2003 | 03-05-5719A | 02
05 | MI | ST. CLAIR SHORES, CITY OF | 2601270005B | 22-OCT-2003 | 03-05-5741A | 02
05 | MI | ST. CLAIR SHORES, CITY OF | 2601270005B | 24-OCT-2003 | 04-05-0016A | 02
05 | MI | ST. CLAIR SHORES, CITY OF | 2601270005B | 24-OCT-2003 | 04-05-0105A | 02
05 | MI | ST. CLAIR SHORES, CITY OF | 2601270005B | 10-DEC-2003 | 04-05-0110A | 02
05 | MI | ST. CLAIR SHORES, CITY OF | 2601270005B | 10-DEC-2003 | 04-05-0256A | 02
05 | MI | ST. CLAIR SHORES, CITY OF | 2601270005B | 19-NOV-2003 | 04-05-0279A | 02
05 | MI | ST. CLAIR SHORES, CITY OF | 2601270005B | 12-NOV-2003 | 04-05-0355A | 02
05 | MI | ST. CLAIR SHORES, CITY OF | 2601270005B | 12-DEC-2003 | 04-05-0373A | 02
05 | MI | ST. CLAIR SHORES, CITY OF | 2601270005B | 19-NOV-2003 | 04-05-0399A | 02
05 | MI | ST. CLAIR SHORES, CITY OF | 2601270005B | 10-DEC-2003 | 04-05-0410A | 02
05 | MI | ST. CLAIR SHORES, CITY OF | 2601270005B | 12-NOV-2003 | 04-05-0417A | 02
05 | MI | ST. CLAIR SHORES, CITY OF | 2601270005B | 12-NOV-2003 | 04-05-0553A | 02
05 | MI | ST. CLAIR SHORES, CITY OF | 2601270005B | 12-NOV-2003 | 04-05-0568A | 02
05 | MI | ST. CLAIR SHORES, CITY OF | 2601270005B | 31-DEC-2003 | 04-05-0654A | 02
05 | MI | ST. CLAIR SHORES, CITY OF | 2601270005B | 03-DEC-2003 | 04-05-0679A | 02
05 | MI | ST. CLAIR SHORES, CITY OF | 2601270005B | 10-DEC-2003 | 04-05-0864A | 02
05 | MI | ST. CLAIR SHORES, CITY OF | 2601270005B | 05-DEC-2003 | 04-05-0965A | 02
05 | MI | ST. CLAIR SHORES, CITY OF | 2601270005B | 05-DEC-2003 | 04-05-0966A | 02
05 | MI | ST. CLAIR SHORES, CITY OF | 2601270005B | 17-DEC-2003 | 04-05-0983A | 02
05 | MI | ST. CLAIR SHORES, CITY OF | 2601270005B | 17-DEC-2003 | 04-05-1025A | 02
05 | MI | ST. CLAIR SHORES, CITY OF | 2601270005B | 31-DEC-2003 | 04-05-1247A | 02
05 | MI | STANDISH, TOWNSHIP OF | 2600170015C | 13-AUG-2003 | 03-05-4603A | 02
05 | MI | STANDISH, TOWNSHIP OF | 2600170005C | 13-AUG-2003 | 03-05-4604A | 02
05 | MI | STERLING HEIGHTS, CITY OF | 2601280015F | 23-JUL-2003 | 03-05-4337A | 02
05 | MI | STERLING HEIGHTS, CITY OF | 2601280015F | 15-AUG-2003 | 03-05-4523A | 01
05 | MI | STERLING HEIGHTS, CITY OF | 2601280015F | 13-AUG-2003 | 03-05-4753A | 02
05 | MI | STERLING HEIGHTS, CITY OF | 2601280015F | 20-AUG-2003 | 03-05-4814A | 02
05 | MI | STERLING HEIGHTS, CITY OF | 2601280015F | 24-OCT-2003 | 03-05-4909A | 02
05 | MI | STERLING HEIGHTS, CITY OF | 2601280015F | 12-NOV-2003 | 03-05-5092A | 02
05 | MI | STERLING HEIGHTS, CITY OF | 2601280015F | 10-OCT-2003 | 03-05-5472A | 01
05 | MI | STERLING HEIGHTS, CITY OF | 2601280015F | 10-OCT-2003 | 03-05-5596A | 02
05 | MI | SUMMIT, TOWNSHIP OF | 2605750001A | 02-SEP-2003 | 02-05-3653P | 05
05 | MI | SUMMIT, TOWNSHIP OF | 2603070003A | 06-AUG-2003 | 03-05-3606A | 02
05 | MI | SUMMIT, TOWNSHIP OF | 2603070004A | 10-OCT-2003 | 03-05-4375A | 02
05 | MI | SUPERIOR, TOWNSHIP OF | 2603800002B | 10-DEC-2003 | 04-05-0339A | 02
05 | MI | SWAN CREEK, TOWNSHIP OF | 26145C0175D | 30-JUL-2003 | 03-05-2546A | 01
05 | MI | SWAN CREEK, TOWNSHIP OF | 26145C0125D | 22-OCT-2003 | 03-05-4954A | 02
05 | MI | SWAN CREEK, TOWNSHIP OF | 26145C0180D | 31-DEC-2003 | 04-05-1388A | 02
05 | MI | TALLMADGE, TOWNSHIP OF | 2604940010B | 20-AUG-2003 | 03-05-3198A | 02
05 | MI | TALLMADGE, TOWNSHIP OF | 2604940015B | 12-NOV-2003 | 03-05-5415A | 02
05 | MI | TAYLOR, CITY OF | 2607280004A | 14-NOV-2003 | 03-05-5587A | 17
05 | MI | TAYMOUTH, TOWNSHIP OF | 26145C0310D | 26-SEP-2003 | 03-05-4780A | 02
05 | MI | TAYMOUTH, TOWNSHIP OF | 26145C0250D | 29-AUG-2003 | 03-05-4985A | 02
05 | MI | TORCH LAKE, TOWNSHIP OF | 2604140025B | 19-DEC-2003 | 04-05-0990A | 02
05 | MI | TRENTON, CITY OF | 2602440003C | 12-NOV-2003 | 04-05-0292A | 02
05 | MI | TROY, CITY OF | 2601800004E | 09-JUL-2003 | 03-05-2376A | 02
05 | MI | TROY, CITY OF | 2601800006E | 02-JUL-2003 | 03-05-3826A | 02
05 | MI | TROY, CITY OF | 2601800004E | 11-JUL-2003 | 03-05-4236A | 02
05 | MI | TROY, CITY OF | 2601800002D | 22-OCT-2003 | 03-05-4428A | 02
05 | MI | TROY, CITY OF | 2601800006E | 06-AUG-2003 | 03-05-4495A | 02
05 | MI | TROY, CITY OF | 2601800003E | 22-OCT-2003 | 03-05-4717A | 02
05 | MI | TROY, CITY OF | 2601800004E | 12-SEP-2003 | 03-05-4928A | 02
05 | MI | TROY, CITY OF | 2601800004E | 12-NOV-2003 | 03-05-5070A | 02
05 | MI | TROY, CITY OF | 2601800003E | 22-SEP-2003 | 03-05-5129A | 02
05 | MI | TROY, CITY OF | 2601800004E | 08-OCT-2003 | 03-05-5319A | 02
05 | MI | TROY, CITY OF | 2601800006E | 31-OCT-2003 | 03-05-5685A | 02
05 | MI | TROY, CITY OF | 2601800006E | 15-OCT-2003 | 03-05-5686A | 02
05 | MI | TROY, CITY OF | 2601800002D | 26-NOV-2003 | 04-05-0525A | 02
05 | MI | TROY, CITY OF | 2601800004E | 03-DEC-2003 | 04-05-1032A | 02
05 | MI | UNION, TOWNSHIP OF | 2608050025A | 12-DEC-2003 | 04-05-0388A | 02
05 | MI | VICTOR, TOWNSHIP OF | 2607200010B | 18-JUL-2003 | 03-05-4354A | 02
05 | MI | VICTOR, TOWNSHIP OF | 2607200010B | 15-OCT-2003 | 03-05-5570A | 02
05 | MI | VICTOR, TOWNSHIP OF | 2607200010B | 29-OCT-2003 | 04-05-0170A | 02
05 | MI | WALKER, CITY OF | 2601100015B | 08-OCT-2003 | 03-05-4593A | 02
05 | MI | WARREN, CITY OF | 2601290010C | 22-AUG-2003 | 03-05-4747A | 02
05 | MI | WARREN, CITY OF | 2601290010C | 05-SEP-2003 | 03-05-4912A | 02
05 | MI | WARREN, CITY OF | 2601290010C | 24-DEC-2003 | 03-05-5061A | 01
05 | MI | WARREN, CITY OF | 2601290010C | 31-OCT-2003 | 04-05-0020A | 02
05 | MI | WARREN, CITY OF | 2601290010C | 19-DEC-2003 | 04-05-0975A | 02
05 | MI | WATERFORD, CHARTER TOWNSHIP OF | 2602840005B | 16-JUL-2003 | 03-05-3150A | 02
05 | MI | WATERFORD, CHARTER TOWNSHIP OF | 2602840020B | 07-JUL-2003 | 03-05-3890A | 02
05 | MI | WATERFORD, CHARTER TOWNSHIP OF | 2602840010B | 30-JUL-2003 | 03-05-4402A | 02
05 | MI | WATERFORD, CHARTER TOWNSHIP OF | 2602840005B | 18-DEC-2003 | 03-05-4416A | 02
05 | MI | WATERFORD, CHARTER TOWNSHIP OF | 2602840020B | 12-SEP-2003 | 03-05-5065A | 02
05 | MI | WATERFORD, CHARTER TOWNSHIP OF | 2602840020B | 22-OCT-2003 | 03-05-5213A | 02
05 | MI | WATERFORD, CHARTER TOWNSHIP OF | 2602840010B | 07-NOV-2003 | 04-05-0333A | 02
05 | MI | WATERFORD, CHARTER TOWNSHIP OF | 2602840020B | 14-NOV-2003 | 04-05-0409A | 02
05 | MI | WATERFORD, CHARTER TOWNSHIP OF | 2602840010B | 24-DEC-2003 | 04-05-0834A | 02
05 | MI | WATERFORD, CHARTER TOWNSHIP OF | 2602840010B | 10-DEC-2003 | 04-05-0976A | 02
05 | MI | WATERFORD, CHARTER TOWNSHIP OF | 2602840020B | 19-DEC-2003 | 04-05-1145A | 02
05 | MI | WATERFORD, CHARTER TOWNSHIP OF | 2602840020B | 19-DEC-2003 | 04-05-1282A | 02
05 | MI | WATERTOWN, CHARTER TOWNSHIP OF | 2602910010B | 17-DEC-2003 | 04-05-1266A | 02
05 | MI | WEST BLOOMFIELD, TOWNSHIP OF | 2601820005B | 01-OCT-2003 | 03-05-5067A | 02
05 | MI | WHITE LAKE, TOWNSHIP OF | 2604790005B | 18-JUL-2003 | 03-05-3613A | 02
05 | MI | WHITE LAKE, TOWNSHIP OF | 2604790005B | 21-NOV-2003 | 03-05-5613A | 02
05 | MI | WHITE LAKE, TOWNSHIP OF | 2604790010B | 07-NOV-2003 | 04-05-0221A | 02
05 | MI | WHITEWATER, TOWNSHIP OF | 2607940025A | 16-JUL-2003 | 03-05-4240A | 02
05 | MI | WHITEWATER, TOWNSHIP OF | 2607940025A | 15-AUG-2003 | 03-05-4575A | 02
05 | MI | WHITEWATER, TOWNSHIP OF | 2607940025A | 31-DEC-2003 | 04-05-0581A | 02
05 | MI | WHITEWATER, TOWNSHIP OF | 2607940025A | 10-DEC-2003 | 04-05-0687A | 02
05 | MI | WOLVERINE LAKE, VILLAGE OF | 260480—01A | 22-AUG-2003 | 03-05-4517A | 02
05 | MI | WOLVERINE LAKE, VILLAGE OF | 26048001A | 01-OCT-2003 | 03-05-5486A | 02
05 | MI | WOODHAVEN, CITY OF | 2607300005A | 01-AUG-2003 | 03-05-4531A | 02
05 | MI | WOODHAVEN, CITY OF | 2607300005A | 15-OCT-2003 | 03-05-4994A | 02
05 | MI | WOODHAVEN, CITY OF | 2607300005A | 21-NOV-2003 | 04-05-0790A | 02
05 | MI | YPSILANTI, TOWNSHIP OF | 2605420010B | 17-SEP-2003 | 03-05-4199A | 02
05 | MI | ZILWAUKEE, CITY OF | 26145C0085D | 24-OCT-2003 | 03-05-4264A | 02
05 | MI | ZILWAUKEE, CITY OF | 26145C0085D | 20-AUG-2003 | 03-05-4265A | 02
05 | MI | ZILWAUKEE, CITY OF | 26145C0085D | 25-JUL-2003 | 03-05-4488A | 02
05 | MI | ZILWAUKEE, CITY OF | 26145C0085D | 24-SEP-2003 | 03-05-5113A | 02
05 | MI | ZILWAUKEE, CITY OF | 26145C0085D | 26-SEP-2003 | 03-05-5314A | 02
05 | MN | AITKIN COUNTY | 2706280400C | 29-AUG-2003 | 03-05-4883A | 02
05 | MN | AITKIN COUNTY | 2706280400C | 12-SEP-2003 | 03-05-5265A | 02
05 | MN | AITKIN COUNTY | 2706280205C | 08-OCT-2003 | 03-05-5318A | 02
05 | MN | AITKIN COUNTY | 2706280400C | 15-OCT-2003 | 03-05-5634A | 02
05 | MN | AITKIN COUNTY | 2706280400C | 29-OCT-2003 | 04-05-0188A | 02
05 | MN | AITKIN COUNTY | 2706280400C | 03-DEC-2003 | 04-05-0454A | 02
05 | MN | AITKIN COUNTY | 2706280400C | 03-DEC-2003 | 04-05-0458A | 02
05 | MN | AITKIN, CITY OF | 2700010001B | 12-SEP-2003 | 03-05-5142A | 02
05 | MN | ALBERT LEA, CITY OF | 2701350003B | 05-DEC-2003 | 04-05-0325A | 01
05 | MN | ANDOVER, CITY OF | 2706890015B | 07-NOV-2003 | 03-05-4485A | 02
05 | MN | ANDOVER, CITY OF | 2706890015B | 21-NOV-2003 | 04-05-0013A | 01
05 | MN | ANDOVER, CITY OF | 2706890015B | 24-DEC-2003 | 04-05-0576A | 01
05 | MN | ANOKA COUNTY | 2700050025A | 11-JUL-2003 | 03-05-3649A | 02
05 | MN | ANOKA COUNTY | 2700050025A | 15-AUG-2003 | 03-05-3846A | 02
05 | MN | ANOKA COUNTY | 2700050100A | 01-OCT-2003 | 03-05-4005A | 02
05 | MN | ANOKA COUNTY | 2700050025A | 12-SEP-2003 | 03-05-4749A | 02
05 | MN | ANOKA COUNTY | 2700050050A | 10-DEC-2003 | 04-05-0782A | 02
05 | MN | ANOKA, CITY OF | 275227—04A | 17-DEC-2003 | 04-05-1239A | 02
05 | MN | BAYPORT, CITY OF | 275229—02A | 15-OCT-2003 | 03-05-5434A | 02
05 | MN | BENTON COUNTY | 2700190100C | 02-JUL-2003 | 03-05-2946A | 02
05 | MN | BENTON COUNTY | 2700190025B | 13-AUG-2003 | 03-05-3847A | 02
05 | MN | BENTON COUNTY | 2700190025B | 22-SEP-2003 | 03-05-4540A | 02
05 | MN | BLAINE, CITY OF | 2700070005D | 18-JUL-2003 | 03-05-2713A | 01
05 | MN | BLAINE, CITY OF | 2700070003D | 22-AUG-2003 | 03-05-3715A | 17
05 | MN | BLAINE, CITY OF | 2700070006D | 02-JUL-2003 | 03-05-3832A | 17
05 | MN | BLAINE, CITY OF | 2700070005D | 20-AUG-2003 | 03-05-4175A | 02
05 | MN | BLAINE, CITY OF | 2700070001D | 09-JUL-2003 | 03-05-4227A | 02
05 | MN | BLAINE, CITY OF | 2700070006D | 08-OCT-2003 | 03-05-4491A | 02
05 | MN | BLAINE, CITY OF | 2700070006D | 08-OCT-2003 | 03-05-4826A | 02
05 | MN | BLAINE, CITY OF | 2700070005D | 24-SEP-2003 | 03-05-5207A | 02
05 | MN | BLAINE, CITY OF | 2700070003D | 24-SEP-2003 | 03-05-5260A | 02
05 | MN | BLAINE, CITY OF | 2700070005D | 24-SEP-2003 | 03-05-5260A | 02
05 | MN | BLAINE, CITY OF | 2700070003D | 17-SEP-2003 | 03-05-5327A | 02
05 | MN | BLAINE, CITY OF | 2700070003D | 29-OCT-2003 | 03-05-5735A | 02
05 | MN | BLAINE, CITY OF | 2700070005D | 07-NOV-2003 | 04-05-0455A | 02
05 | MN | BLAINE, CITY OF | 2700070001D | 19-DEC-2003 | 04-05-1100A | 01
05 | MN | BLAINE, CITY OF | 2700070001D | 31-DEC-2003 | 04-05-1141A | 02
05 | MN | BLUE EARTH COUNTY | 2752310110D | 03-DEC-2003 | 04-05-0820A | 02
05 | MN | BROOKLYN PARK, CITY OF | 2701520001C | 15-DEC-2003 | 04-05-0478A | 02
05 | MN | CARVER COUNTY | 2700490075C | 07-NOV-2003 | 04-05-0114A | 02
05 | MN | CHATFIELD, CITY OF | 2701250001A | 16-JUL-2003 | 03-05-4178A | 01
05 | MN | CHISAGO COUNTY | 2706820125B | 27-AUG-2003 | 03-05-4093A | 02
05 | MN | CHISAGO COUNTY | 2706820125B | 13-AUG-2003 | 03-05-4341A | 02
05 | MN | CHISAGO COUNTY | 2706820025B | 21-NOV-2003 | 04-05-0404A | 02
05 | MN | CHISAGO COUNTY | 2706820025B | 26-NOV-2003 | 04-05-0918A | 02
05 | MN | CHISAGO, CITY OF | 2707070001A | 17-DEC-2003 | 04-05-0902A | 02
05 | MN | CIRCLE PINES, CITY OF | 2700090005A | 18-JUL-2003 | 03-05-3444A | 01
05 | MN | CLAY COUNTY | 2752350025C | 09-JUL-2003 | 03-05-2761A | 01
05 | MN | CLAY COUNTY | 2752350100C | 05-DEC-2003 | 03-05-5028A | 02
05 | MN | CLOQUET, CITY OF | 2700420020C | 19-DEC-2003 | 04-05-0561A | 01
05 | MN | COON RAPIDS,CITY OF | 2700110002A | 22-SEP-2003 | 03-05-5146A | 02
05 | MN | COON RAPIDS,CITY OF | 2700110002A | 19-NOV-2003 | 04-05-0590A | 02
05 | MN | COON RAPIDS,CITY OF | 2700110002A | 24-DEC-2003 | 04-05-1082A | 02
05 | MN | CROOKSTON, CITY OF | 2703640002C | 06-AUG-2003 | 03-05-3800A | 02
05 | MN | CROOKSTON, CITY OF | 2703640002C | 06-AUG-2003 | 03-05-4529A | 02
05 | MN | CROSSLAKE, CITY OF | 270095—08B | 30-JUL-2003 | 03-05-4241A | 02
05 | MN | CROSSLAKE, CITY OF | 270095—10B | 23-JUL-2003 | 03-05-4253A | 02
05 | MN | CROSSLAKE, CITY OF | 270095—04B | 03-SEP-2003 | 03-05-4882A | 02
05 | MN | CROSSLAKE, CITY OF | 270095—05B | 22-AUG-2003 | 03-05-4897A | 02
05 | MN | CROSSLAKE, CITY OF | 270095—08B | 22-OCT-2003 | 03-05-5552A | 02
05 | MN | CROSSLAKE, CITY OF | 270095—09B | 31-DEC-2003 | 04-05-1016A | 02
05 | MN | CROW WING COUNTY | 2700910275B | 03-SEP-2003 | 03-05-4989A | 02
05 | MN | DAKOTA COUNTY | 2701010275B | 06-AUG-2003 | 03-05-4221A | 02
05 | MN | DAKOTA COUNTY | 2701010225B | 15-OCT-2003 | 03-05-5658A | 02
05 | MN | DAKOTA COUNTY | 2701010175B | 19-NOV-2003 | 04-05-0116A | 02
05 | MN | DAYTON, CITY OF | 2701570004B | 20-OCT-2003 | 03-05-4642A | 02
05 | MN | DOUGLAS COUNTY | 2706230004B | 01-OCT-2003 | 03-05-5222A | 02
05 | MN | EAST GRAND FORKS, CITY OF | 2705030100B | 20-AUG-2003 | 03-05-4772A | 02
05 | MN | EDEN PRAIRIE, CITY OF | 2701590005C | 07-AUG-2003 | 03-05-3238A | 01
05 | MN | EDEN PRAIRIE, CITY OF | 2701590005C | 11-SEP-2003 | 03-05-4668A | 02
05 | MN | EDEN PRAIRIE, CITY OF | 2701590005C | 24-NOV-2003 | 04-05-0040A | 02
05 | MN | ELYSIAN, CITY OF | 27079C0425D | 17-SEP-2003 | 03-05-4711A | 02
05 | MN | ELYSIAN, CITY OF | 27079C0425D | 01-OCT-2003 | 03-05-5606X | 02
05 | MN | FARMINGTON, CITY OF | 2701040002C | 25-JUL-2003 | 03-05-4287A | 01
05 | MN | FARMINGTON, CITY OF | 2701040002C | 13-AUG-2003 | 03-05-4626A | 01
05 | MN | FILLMORE COUNTY | 2701240150B | 16-JUL-2003 | 03-05-4007A | 02
05 | MN | FILLMORE COUNTY | 2701240050B | 22-OCT-2003 | 03-05-5745A | 02
05 | MN | GOLDEN VALLEY, CITY OF | 2701620002C | 11-SEP-2003 | 03-05-4645A | 02
05 | MN | GOODHUE COUNTY | 2701400125A | 05-DEC-2003 | 04-05-0952A | 02
05 | MN | GREENFIELD, CITY OF | 2706730010C | 11-SEP-2003 | 03-05-4117A | 02
05 | MN | GREENWOOD, TOWNSHIP OF | 2707360575C | 31-DEC-2003 | 03-05-5575A | 02
05 | MN | GREENWOOD, TOWNSHIP OF | 2707360575C | 10-DEC-2003 | 04-05-0920A | 02
05 | MN | HADLEY, CITY OF | 270573—01H | 30-JUL-2003 | 03-05-2194A | 02
05 | MN | HAM LAKE, CITY OF | 2706740005B | 07-NOV-2003 | 04-05-0217A | 02
05 | MN | HAM LAKE, CITY OF | 2706740010B | 07-NOV-2003 | 04-05-0217A | 02
05 | MN | HAM LAKE, CITY OF | 2706740005B | 31-OCT-2003 | 04-05-0218A | 02
05 | MN | HIBBING, CITY OF | 2705770075A | 17-SEP-2003 | 03-05-4024A | 02
05 | MN | HUGO, CITY OF | 2705040010C | 17-OCT-2003 | 03-05-5584A | 02
05 | MN | ISANTI COUNTY | 2701970060B | 25-JUL-2003 | 03-05-4368A | 02
05 | MN | ISANTI COUNTY | 2701970075A | 10-SEP-2003 | 03-05-4880A | 02
05 | MN | ISANTI COUNTY | 2701970060B | 03-DEC-2003 | 04-05-0569A | 02
05 | MN | ISANTI COUNTY | 27059C0050D | 31-DEC-2003 | 04-05-1084A | 02
05 | MN | JACKSON COUNTY | 2706320150B | 21-NOV-2003 | 03-05-5547A | 02
05 | MN | KOOCHICHING COUNTY | 2702330006B | 06-AUG-2003 | 03-05-3873A | 02
05 | MN | KOOCHICHING COUNTY | 2702330006B | 06-AUG-2003 | 03-05-4009A | 02
05 | MN | KOOCHICHING COUNTY | 2702330006B | 30-JUL-2003 | 03-05-4421A | 02
05 | MN | KOOCHICHING COUNTY | 2702330006B | 13-AUG-2003 | 03-05-4516A | 02
05 | MN | KOOCHICHING COUNTY | 2702330006B | 22-SEP-2003 | 03-05-5120A | 02
05 | MN | KOOCHICHING COUNTY | 2702330006B | 17-OCT-2003 | 03-05-5551A | 02
05 | MN | KOOCHICHING COUNTY | 2702330011B | 15-OCT-2003 | 03-05-5627A | 02
05 | MN | KOOCHICHING COUNTY | 2702330006B | 24-OCT-2003 | 04-05-0124A | 02
05 | MN | KOOCHICHING COUNTY | 2702330006B | 21-NOV-2003 | 04-05-0509A | 02
05 | MN | LAKE ELMO, CITY OF | 2705050010B | 22-AUG-2003 | 03-05-4712A | 02
05 | MN | LE SUEUR COUNTY | 27079C0425D | 02-JUL-2003 | 03-05-3885A | 02
05 | MN | LE SUEUR COUNTY | 27079C0265D | 13-AUG-2003 | 03-05-4213A | 02
05 | MN | LE SUEUR COUNTY | 27079C0425D | 12-NOV-2003 | 04-05-0424A | 02
05 | MN | LE SUEUR COUNTY | 27079C0430D | 26-NOV-2003 | 04-05-0677A | 02
05 | MN | LEROY, CITY OF | 2705830001A | 21-NOV-2003 | 04-05-0235A | 17
05 | MN | LINCOLN COUNTY | 270653—26B | 10-OCT-2003 | 03-05-5430A | 02
05 | MN | LINCOLN COUNTY | 270653—026B | 31-DEC-2003 | 04-05-0006A | 01
05 | MN | LINO LAKES, CITY OF | 2700150010B | 11-AUG-2003 | 03-05-2599A | 02
05 | MN | LINO LAKES, CITY OF | 2700150010B | 14-NOV-2003 | 04-05-0646A | 02
05 | MN | LINO LAKES, CITY OF | 2700150010B | 17-DEC-2003 | 04-05-1102A | 02
05 | MN | LITTLE CANADA, CITY OF | 2703770002A | 22-OCT-2003 | 03-05-5730A | 02
05 | MN | MANTORVILLE, CITY OF | 2705850001B | 11-JUL-2003 | 03-05-3325A | 01
05 | MN | MAPLE GROVE, CITY OF | 2701690001B | 11-SEP-2003 | 03-05-4108A | 02
05 | MN | MAPLE GROVE, CITY OF | 2701690003B | 21-AUG-2003 | 03-05-4647A | 02
05 | MN | MAPLE GROVE, CITY OF | 2701690001B | 15-DEC-2003 | 04-05-0073A | 02
05 | MN | MAPLEWOOD, CITY OF | 270378—05C | 18-JUL-2003 | 03-05-3645A | 02
05 | MN | MAPLEWOOD, CITY OF | 270378—05A | 29-AUG-2003 | 03-05-4767A | 02
05 | MN | MAPLEWOOD, CITY OF | 270378—06C | 22-OCT-2003 | 03-05-4812A | 02
05 | MN | MARSHALL COUNTY | 2706380320B | 10-OCT-2003 | 03-05-5055A | 01
05 | MN | MARSHALL COUNTY | 2706380325B | 14-NOV-2003 | 03-05-5157A | 01
05 | MN | MEDINA, CITY OF | 2701710001B | 07-AUG-2003 | 03-05-4123A | 02
05 | MN | MEEKER COUNTY | 2702800006B | 07-NOV-2003 | 03-05-5616A | 02
05 | MN | MINNETONKA, CITY OF | 2701730002C | 15-DEC-2003 | 03-05-5356A | 02
05 | MN | MINNETONKA, CITY OF | 2701730002C | 26-NOV-2003 | 04-05-0475A | 02
05 | MN | MINNETRISTA, CITY OF | 270175—09B | 08-JUL-2003 | 03-05-3553A | 02
05 | MN | MINNETRISTA, CITY OF | 270175 B | 03-NOV-2003 | 03-05-4118P | 05
05 | MN | MONTICELLO, CITY OF | 2705410005B | 05-NOV-2003 | 03-05-4866A | 02
05 | MN | MONTICELLO, CITY OF | 2705410005B | 24-DEC-2003 | 04-05-0351A | 02
05 | MN | MOORHEAD, CITY OF | 2752440010D | 01-OCT-2003 | 03-05-4432A | 02
05 | MN | MOORHEAD, CITY OF | 2752440010D | 10-OCT-2003 | 03-05-5660A | 02
05 | MN | MOORHEAD, CITY OF | 2752440010D | 26-NOV-2003 | 04-05-0419A | 17
05 | MN | MORRISON COUNTY | 2706170290B | 22-AUG-2003 | 03-05-4472A | 02
05 | MN | MOWER COUNTY | 2703070095A | 11-JUL-2003 | 03-05-3937A | 02
05 | MN | MOWER COUNTY | 2703070175A | 29-OCT-2003 | 04-05-0002A | 02
05 | MN | MOWER COUNTY | 2703070175A | 31-OCT-2003 | 04-05-0250A | 02
05 | MN | MURRAY COUNTY | 2706450230A | 18-JUL-2003 | 03-05-4345A | 02
05 | MN | NEW BRIGHTON, CITY OF | 2703800005B | 29-AUG-2003 | 03-05-4732A | 02
05 | MN | NEW BRIGHTON, CITY OF | 2703800005B | 24-DEC-2003 | 03-05-5093A | 02
05 | MN | NORMAN COUNTY | 27107C0115D | 03-DEC-2003 | 04-05-1027A | 02
05 | MN | OLMSTED COUNTY | 27109C0075D | 24-OCT-2003 | 03-05-4843A | 02
05 | MN | OLMSTED COUNTY | 27109C0025D | 19-DEC-2003 | 04-05-1006A | 02
05 | MN | ORONOCO, CITY OF | 27109C0041D | 11-JUL-2003 | 03-05-3725A | 17
05 | MN | OTSEGO, CITY OF | 2707470002A | 19-DEC-2003 | 04-05-0430A | 01
05 | MN | PINE COUNTY | 2707040340B | 01-AUG-2003 | 03-05-4476A | 02
05 | MN | PINE COUNTY | 2707040325B | 17-DEC-2003 | 03-05-5649A | 01
05 | MN | PLYMOUTH, CITY OF | 2701790010C | 30-OCT-2003 | 03-05-3240A | 02
05 | MN | PLYMOUTH, CITY OF | 2701790005C | 21-AUG-2003 | 03-05-3566A | 02
05 | MN | PLYMOUTH, CITY OF | 2701790010C | 15-SEP-2003 | 03-05-3590A | 17
05 | MN | POLK COUNTY | 2705030175B | 22-AUG-2003 | 03-05-4734A | 02
05 | MN | POLK COUNTY | 2705030025B | 17-OCT-2003 | 03-05-5543A | 02
05 | MN | POLK COUNTY | 2705030175B | 21-NOV-2003 | 04-05-0593A | 02
05 | MN | POLK COUNTY | 2705030050B | 17-DEC-2003 | 04-05-1128A | 02
05 | MN | POPE COUNTY | 270368—15B | 13-AUG-2003 | 03-05-4346A | 02
05 | MN | PRIOR LAKE, CITY OF | 2704320002C | 29-OCT-2003 | 03-05-5589A | 02
05 | MN | PROCTOR, CITY OF | 2704250001C | 12-SEP-2003 | 03-05-5245A | 02
05 | MN | RAMSEY, CITY OF | 2706810005B | 30-JUL-2003 | 03-05-2612A | 02
05 | MN | RAMSEY, CITY OF | 2706810010B | 30-JUL-2003 | 03-05-2612A | 02
05 | MN | RAMSEY, CITY OF | 2706810010B | 24-OCT-2003 | 03-05-3744A | 17
05 | MN | RAMSEY, CITY OF | 2706810005B | 12-NOV-2003 | 03-05-3776A | 01
05 | MN | RAMSEY, CITY OF | 2706810020B | 26-SEP-2003 | 03-05-4157A | 17
05 | MN | RAMSEY, CITY OF | 2706810005B | 17-SEP-2003 | 03-05-5099A | 02
05 | MN | RICE COUNTY | 2706460025C | 18-JUL-2003 | 03-05-3822A | 02
05 | MN | RICE COUNTY | 2706460025C | 17-OCT-2003 | 03-05-4422A | 02
05 | MN | RICE COUNTY | 2706460025C | 22-OCT-2003 | 03-05-5104A | 02
05 | MN | RICE COUNTY | 2706460025C | 24-OCT-2003 | 03-05-5690A | 02
05 | MN | RICE COUNTY | 2706460100B | 12-NOV-2003 | 04-05-0571A | 02
05 | MN | RICE COUNTY | 2706460075B | 14-NOV-2003 | 04-05-0589A | 02
05 | MN | RICE COUNTY | 2706460025C | 26-NOV-2003 | 04-05-0600A | 02
05 | MN | RICE COUNTY | 2706460025C | 17-DEC-2003 | 04-05-1031A | 02
05 | MN | SAUK RAPIDS, CITY OF | 2700230002D | 19-NOV-2003 | 04-05-0375A | 02
05 | MN | SAVAGE, CITY OF | 2704330001C | 16-JUL-2003 | 03-05-4321A | 02
05 | MN | SHERBURNE COUNTY | 27141C0265E | 15-AUG-2003 | 03-05-2493A | 02
05 | MN | SHERBURNE COUNTY | 27141C0355E | 15-AUG-2003 | 03-05-2493A | 02
05 | MN | SHERBURNE COUNTY | 27141C0150E | 01-OCT-2003 | 03-05-2721C | 02
05 | MN | SHERBURNE COUNTY | 27141C0245E | 03-DEC-2003 | 03-05-3980P | 05
05 | MN | SHERBURNE COUNTY | 27141C0335E | 03-DEC-2003 | 03-05-3980P | 05
05 | MN | SHERBURNE COUNTY | 27141C0355E | 03-DEC-2003 | 03-05-3980P | 05
05 | MN | SHERBURNE COUNTY | 27141C0265E | 05-SEP-2003 | 03-05-4900A | 02
05 | MN | SHERBURNE COUNTY | 27141C0220E | 19-NOV-2003 | 03-05-4973A | 17
05 | MN | SHERBURNE COUNTY | 27141C0205E | 24-OCT-2003 | 03-05-5073A | 02
05 | MN | SHERBURNE COUNTY | 27141C0265E | 10-OCT-2003 | 03-05-5531A | 02
05 | MN | SHERBURNE COUNTY | 27141C0265E | 19-DEC-2003 | 04-05-1002A | 02
05 | MN | SHOREVIEW, CITY OF | 2703840001B | 02-JUL-2003 | 03-05-3749A | 01
05 | MN | SHOREVIEW, CITY OF | 2703840001B | 11-JUL-2003 | 03-05-3782A | 02
05 | MN | SHOREVIEW, CITY OF | 2703840001B | 09-JUL-2003 | 03-05-4098A | 02
05 | MN | SHOREVIEW, CITY OF | 2703840001B | 17-SEP-2003 | 03-05-4813A | 01
05 | MN | SHOREVIEW, CITY OF | 2703840001B | 10-DEC-2003 | 04-05-1094A | 02
05 | MN | SHOREWOOD, CITY OF | 2701850010C | 02-SEP-2003 | 03-05-4111A | 02
05 | MN | ST. LOUIS PARK, CITY OF | 2701840005B | 17-NOV-2003 | 03-05-2644A | 02
05 | MN | ST. LOUIS PARK, CITY OF | 2701840005B | 18-SEP-2003 | 03-05-4140A | 02
05 | MN | ST. LOUIS PARK, CITY OF | 2701840005B | 14-OCT-2003 | 03-05-4634A | 02
05 | MN | ST. LOUIS PARK, CITY OF | 2701840005B | 25-SEP-2003 | 03-05-4680A | 02
05 | MN | ST. PAUL, CITY OF | 2752480036F | 12-NOV-2003 | 03-05-4837A | 01
05 | MN | ST. PAUL, CITY OF | 2752480028F | 05-NOV-2003 | 03-05-5464A | 01
05 | MN | ST. PAUL, CITY OF | 2752480036F | 05-NOV-2003 | 03-05-5464A | 01
05 | MN | STEARNS COUNTY | 2705460085A | 22-SEP-2003 | 03-05-4461A | 02
05 | MN | STEARNS COUNTY | 2705460385B | 10-DEC-2003 | 03-05-5046A | 02
05 | MN | STEARNS COUNTY | 2705460265B | 19-NOV-2003 | 03-05-5049A | 02
05 | MN | STEARNS COUNTY | 2705460270B | 29-OCT-2003 | 04-05-0192A | 02
05 | MN | STEWARTVILLE, CITY OF | 27109C0451D | 31-DEC-2003 | 04-05-1120A | 02
05 | MN | VADNAIS HEIGHTS, CITY OF | 2703850001C | 06-AUG-2003 | 03-05-3197A | 02
05 | MN | VADNAIS HEIGHTS, CITY OF | 2703850001C | 03-SEP-2003 | 03-05-4906A | 02
05 | MN | VADNAIS HEIGHTS, CITY OF | 2703850001C | 24-SEP-2003 | 03-05-5312A | 02
05 | MN | WABASHA COUNTY | 27157C0380D | 27-AUG-2003 | 03-05-4822A | 02
05 | MN | WASHINGTON COUNTY | 2704990125B | 27-AUG-2003 | 03-05-3396A | 02
05 | MN | WASHINGTON COUNTY | 2704990025B | 24-SEP-2003 | 03-05-5412A | 02
05 | MN | WASHINGTON COUNTY | 2704990025B | 14-NOV-2003 | 04-05-0535A | 02
05 | MN | WATERTOWN, CITY OF | 2700560001C | 17-OCT-2003 | 03-05-3280A | 01
05 | MN | WATERVILLE, CITY OF | 27079C0427D | 02-JUL-2003 | 03-05-4028A | 02
05 | MN | WATERVILLE, CITY OF | 27079C0427D | 25-JUL-2003 | 03-05-4420A | 02
05 | MN | WATERVILLE, CITY OF | 27079C0427D | 22-OCT-2003 | 03-05-5526A | 02
05 | MN | WATERVILLE, CITY OF | 27079C0427D | 05-NOV-2003 | 04-05-0014A | 01
05 | MN | WAYZATA, CITY OF | 2701880005C | 25-SEP-2003 | 03-05-4105A | 02
05 | MN | WHITE BEAR LAKE, CITY OF | 270386—02B | 03-DEC-2003 | 03-05-5103A | 02
05 | MN | WHITE BEAR,TOWNSHIP OF | 2706880005B | 01-AUG-2003 | 03-05-3797A | 02
05 | MN | WHITE BEAR,TOWNSHIP OF | 2706880005B | 20-AUG-2003 | 03-05-4846A | 02
05 | MN | WHITE BEAR,TOWNSHIP OF | 2706880005B | 26-NOV-2003 | 04-05-0387A | 02
05 | MN | WILKIN COUNTY | 2705190175A | 30-JUL-2003 | 03-05-2949A | 02
05 | MN | WINDOM, CITY OF | 2700900001C | 22-OCT-2003 | 03-05-5029A | 17
05 | MN | WINONA COUNTY | 2705250225C | 06-AUG-2003 | 03-05-4478A | 02
05 | MN | WRIGHT COUNTY | 2705340009B | 13-AUG-2003 | 03-05-4219A | 02
05 | MN | WRIGHT COUNTY | 2705340042C | 12-DEC-2003 | 03-05-5266A | 02
05 | MN | WRIGHT COUNTY | 2705340044C | 22-OCT-2003 | 03-05-5642A | 02
05 | OH | ALLEN COUNTY | 3907580105B | 17-OCT-2003 | 03-05-5414A | 02
05 | OH | ALLIANCE, CITY OF | 3905080001B | 11-JUL-2003 | 03-05-3034A | 02
05 | OH | ALLIANCE, CITY OF | 3905080004B | 11-JUL-2003 | 03-05-3034A | 02
05 | OH | ARCANUM, VILLAGE OF | 3906840001B | 08-OCT-2003 | 03-05-5455A | 02
05 | OH | ARCANUM, VILLAGE OF | 3906840001B | 01-OCT-2003 | 03-05-5456A | 02
05 | OH | ARCANUM, VILLAGE OF | 3906840001B | 26-NOV-2003 | 03-05-5674A | 02
05 | OH | ASHTABULA COUNTY | 3900100125B | 30-JUL-2003 | 03-05-4336A | 02
05 | OH | ATHENS COUNTY | 3907600075B | 21-NOV-2003 | 04-05-0635A | 02
05 | OH | ATHENS, CITY OF | 3900160005B | 22-SEP-2003 | 03-05-4078A | 01
05 | OH | ATHENS, CITY OF | 3900160005B | 23-JUL-2003 | 03-05-4369A | 02
05 | OH | AUGLAIZE COUNTY | 39011C0080C | 16-JUL-2003 | 03-05-4226A | 02
05 | OH | AUGLAIZE COUNTY | 39011C0090C | 18-JUL-2003 | 03-05-4328A | 02
05 | OH | AUGLAIZE COUNTY | 39011C0025C | 12-DEC-2003 | 03-05-4852A | 02
05 | OH | AUGLAIZE COUNTY | 39011C0050C | 05-DEC-2003 | 03-05-5143A | 02
05 | OH | AUGLAIZE COUNTY | 39011C0090C | 05-NOV-2003 | 04-05-0203A | 02
05 | OH | AUGLAIZE COUNTY | 39011C0010C | 14-NOV-2003 | 04-05-0230A | 02
05 | OH | AURORA, CITY OF | 3904540003B | 17-DEC-2003 | 04-05-0816A | 01
05 | OH | AVON LAKE, CITY OF | 3906020002B | 24-SEP-2003 | 02-05-3235P | 05
05 | OH | AVON LAKE, CITY OF | 390602—02B | 12-DEC-2003 | 04-05-0945A | 02
05 | OH | AVON, CITY OF | 3903480005C | 15-SEP-2003 | 03-05-0530P | 05
05 | OH | AVON, CITY OF | 3903480005C | 06-AUG-2003 | 03-05-4239A | 02
05 | OH | BALTIMORE, VILLAGE OF | 3901590001B | 03-DEC-2003 | 04-05-0706A | 02
05 | OH | BAY VILLAGE, CITY OF | 3900930003B | 22-AUG-2003 | 03-05-4621A | 02
05 | OH | BEAVERCREEK, CITY OF | 3908760005B | 02-JUL-2003 | 03-05-3532A | 02
05 | OH | BELLBROOK, CITY OF | 3901940001B | 30-JUL-2003 | 03-05-4148A | 02
05 | OH | BELLBROOK, CITY OF | 3901940001B | 03-SEP-2003 | 03-05-4308A | 02
05 | OH | BELLBROOK, CITY OF | 3901940001B | 22-AUG-2003 | 03-05-4482A | 02
05 | OH | BELLEVUE, CITY OF | 3904870005B | 17-OCT-2003 | 03-05-5628A | 02
05 | OH | BELLEVUE, CITY OF | 3904870005B | 12-DEC-2003 | 04-05-0585A | 02
05 | OH | BEREA, CITY OF | 3900970001B | 12-DEC-2003 | 04-05-0853A | 02
05 | OH | BROOKLYN, CITY OF | 3901000001C | 06-AUG-2003 | 03-05-2991A | 02
05 | OH | BUTLER COUNTY | 3900370050C | 27-OCT-2003 | 03-05-1848P | 05
05 | OH | BUTLER COUNTY | 3900370045C | 25-JUL-2003 | 03-05-4238A | 01
05 | OH | CANAL FULTON, VILLAGE OF | 3905110001B | 16-JUL-2003 | 03-05-3612A | 02
05 | OH | CANAL FULTON, VILLAGE OF | 3905110001B | 10-DEC-2003 | 03-05-5691A | 02
05 | OH | CANAL FULTON, VILLAGE OF | 3907800015B | 10-DEC-2003 | 03-05-5691A | 02
05 | OH | CANAL FULTON, VILLAGE OF | 3905110001B | 21-NOV-2003 | 03-05-5713A | 02
05 | OH | CANTON, CITY OF | 3905120002B | 26-NOV-2003 | 04-05-0722A | 02
05 | OH | CARROLL COUNTY | 3907630075B | 26-SEP-2003 | 03-05-5283A | 02
05 | OH | CENTERVILLE, CITY OF | 3904080003C | 30-JUL-2003 | 03-05-4340A | 02
05 | OH | CHARDON, CITY OF | 3901910005C | 26-SEP-2003 | 03-05-5300A | 02
05 | OH | CHARDON, CITY OF | 3901910005C | 05-NOV-2003 | 04-05-0212A | 02
05 | OH | CINCINNATI, CITY OF | 3902100018B | 21-AUG-2003 | 03-05-4139A | 02
05 | OH | CINCINNATI, CITY OF | 3902100006B | 22-SEP-2003 | 03-05-5329A | 01
05 | OH | CLARK COUNTY | 3907320180A | 18-JUL-2003 | 03-05-4288A | 02
05 | OH | CLERMONT COUNTY | 3900650130E | 13-AUG-2003 | 03-05-3894A | 02
05 | OH | CLERMONT COUNTY | 3900650110D | 31-OCT-2003 | 03-05-4204A | 02
05 | OH | COLUMBUS, CITY OF | 39049C0290G | 15-AUG-2003 | 03-05-3155A | 01
05 | OH | COLUMBUS, CITY OF | 39049C0290G | 10-SEP-2003 | 03-05-4538A | 01
05 | OH | COLUMBUS, CITY OF | 39049C0295G | 20-AUG-2003 | 03-05-4628A | 01
05 | OH | COLUMBUS, CITY OF | 39049C0290G | 22-SEP-2003 | 03-05-4729A | 01
05 | OH | COLUMBUS, CITY OF | 39049C0295G | 24-OCT-2003 | 03-05-4916A | 01
05 | OH | COLUMBUS, CITY OF | 39049C0159G | 26-SEP-2003 | 03-05-5296A | 02
05 | OH | COLUMBUS, CITY OF | 39049C0159G | 12-DEC-2003 | 03-05-5404A | 02
05 | OH | COLUMBUS, CITY OF | 39049C0277G | 10-OCT-2003 | 03-05-5542A | 02
05 | OH | COLUMBUS, CITY OF | 39049C0120G | 01-OCT-2003 | 03-05-5554X | 01
05 | OH | CYGNET, VILLAGE OF | 3905840001B | 01-OCT-2003 | 03-05-5396A | 02
05 | OH | DAYTON, CITY OF | 3904090015D | 22-OCT-2003 | 03-05-5004A | 02
05 | OH | DAYTON, CITY OF | 3907750030C | 22-OCT-2003 | 03-05-5004A | 02
05 | OH | DAYTON, CITY OF | 3904090015D | 12-DEC-2003 | 04-05-0267A | 02
05 | OH | DAYTON, CITY OF | 3904090010C | 12-DEC-2003 | 04-05-1048A | 02
05 | OH | DELAWARE COUNTY | 39041C0095J | 24-SEP-2003 | 03-05-5233A | 02
05 | OH | DELAWARE, CITY OF | 39041C0115J | 09-JUL-2003 | 03-05-3682A | 02
05 | OH | DELAWARE, CITY OF | 39041C0115J | 02-JUL-2003 | 03-05-3683A | 02
05 | OH | DELAWARE, CITY OF | 39041C0115J | 13-AUG-2003 | 03-05-4792A | 02
05 | OH | DELAWARE, CITY OF | 39041C0115J | 13-AUG-2003 | 03-05-4793A | 02
05 | OH | DOVER, CITY OF | 3905430005B | 24-OCT-2003 | 03-05-5471A | 02
05 | OH | EASTLAKE, CITY OF | 3903130002B | 19-NOV-2003 | 04-05-0136A | 02
05 | OH | EASTLAKE, CITY OF | 3903130004B | 03-DEC-2003 | 04-05-0452A | 02
05 | OH | ERIE COUNTY | 3901530105B | 03-SEP-2003 | 03-05-3047A | 02
05 | OH | ERIE COUNTY | 3901530070B | 20-AUG-2003 | 03-05-3771A | 02
05 | OH | ERIE COUNTY | 3901530075C | 11-JUL-2003 | 03-05-3839A | 02
05 | OH | FAIRFIELD COUNTY | 3901580055D | 08-AUG-2003 | 03-05-4325A | 02
05 | OH | FAIRFIELD COUNTY | 3901580020D | 24-SEP-2003 | 03-05-5230A | 02
05 | OH | FAIRFIELD COUNTY | 3901580035D | 24-SEP-2003 | 03-05-5269A | 02
05 | OH | FAIRFIELD COUNTY | 3901580105D | 12-DEC-2003 | 04-05-0331A | 01
05 | OH | FAIRFIELD COUNTY | 3901580035D | 10-DEC-2003 | 04-05-0839A | 02
05 | OH | FAIRFIELD, CITY OF | 3900380005B | 18-JUL-2003 | 03-05-3968A | 02
05 | OH | FAIRFIELD, CITY OF | 3900380005B | 27-AUG-2003 | 03-05-4460A | 02
05 | OH | FAIRFIELD, CITY OF | 3900380005B | 01-OCT-2003 | 03-05-5448A | 02
05 | OH | FINDLAY, CITY OF | 3902440004B | 18-JUL-2003 | 03-05-4203A | 02
05 | OH | FINDLAY, CITY OF | 3902440004B | 23-JUL-2003 | 03-05-4209A | 02
05 | OH | FINDLAY, CITY OF | 3902440005C | 16-JUL-2003 | 03-05-4286A | 02
05 | OH | FINDLAY, CITY OF | 3902440005C | 18-JUL-2003 | 03-05-4294A | 02
05 | OH | FINDLAY, CITY OF | 3902440005C | 17-OCT-2003 | 03-05-4940A | 01
05 | OH | FINDLAY, CITY OF | 3902440004B | 12-SEP-2003 | 03-05-4993A | 02
05 | OH | FINDLAY, CITY OF | 3902440004B | 29-OCT-2003 | 03-05-5727A | 02
05 | OH | FRANKLIN COUNTY | 39049C0128G | 07-NOV-2003 | 04-05-0312A | 02
05 | OH | FRANKLIN COUNTY* | 39049C0238G | 03-JUL-2003 | 03-05-377P | 05
05 | OH | FRANKLIN COUNTY* | 39049C0239G | 03-JUL-2003 | 03-05-377P | 05
05 | OH | FREDERICKTOWN, VILLAGE OF | 3903090001B | 01-OCT-2003 | 03-05-5298A | 02
05 | OH | FULTON COUNTY | 3901820070C | 26-SEP-2003 | 03-05-5045A | 02
05 | OH | GAHANNA, CITY OF | 39049C0186G | 27-AUG-2003 | 03-05-3856A | 02
05 | OH | GAHANNA, CITY OF | 39049C0186G | 22-OCT-2003 | 03-05-5083A | 02
05 | OH | GALLIA COUNTY* | 39053C0284D | 17-OCT-2003 | 03-05-4693V | 19
05 | OH | GALLIA COUNTY* | 39053C0286D | 17-OCT-2003 | 03-05-4693V | 19
05 | OH | GALLIA COUNTY* | 39053C0368D | 17-OCT-2003 | 03-05-4693V | 19
05 | OH | GALLIPOLIS, CITY OF | 39053C0287D | 29-OCT-2003 | 04-05-0024A | 02
05 | OH | GEAUGA COUNTY | 3901900075B | 21-NOV-2003 | 03-05-5432A | 02
05 | OH | GLANDORF, VILLAGE OF | 390470—01B | 24-SEP-2003 | 03-05-5199A | 02
05 | OH | GREEN SPRINGS, VILLAGE OF | 3904920005B | 26-NOV-2003 | 04-05-0542A | 02
05 | OH | GREENE COUNTY | 3901930050B | 23-JUL-2003 | 03-05-1885A | 02
05 | OH | GROVE CITY, CITY OF | 39049C0238G | 03-JUL-2003 | 03-05-377P | 05
05 | OH | GROVE CITY, CITY OF | 39049C0239G | 03-JUL-2003 | 03-05-377P | 05
05 | OH | GROVE CITY, CITY OF | 39049C0326G | 24-OCT-2003 | 03-05-5724A | 02
05 | OH | GROVE CITY, CITY OF | 39049C0327G | 14-NOV-2003 | 04-05-0289A | 02
05 | OH | HAMILTON COUNTY * | 3902040060B | 11-AUG-2003 | 03-05-2638A | 02
05 | OH | HAMILTON COUNTY * | 3902040030B | 07-AUG-2003 | 03-05-3252A | 02
05 | OH | HAMILTON COUNTY * | 3902040025B | 24-JUL-2003 | 03-05-3554A | 02
05 | OH | HAMILTON COUNTY * | 3902040005B | 07-AUG-2003 | 03-05-4116A | 17
05 | OH | HAMILTON COUNTY * | 3902040030B | 11-SEP-2003 | 03-05-4633A | 02
05 | OH | HAMILTON COUNTY * | 3902040040C | 09-OCT-2003 | 03-05-4697A | 02
05 | OH | HAMILTON COUNTY * | 3902040045B | 20-NOV-2003 | 03-05-5359A | 02
05 | OH | HAMILTON COUNTY * | 3902040010B | 04-DEC-2003 | 04-05-0074A | 02
05 | OH | HANCOCK COUNTY | 3907670140B | 23-JUL-2003 | 03-05-4051A | 17
05 | OH | HANCOCK COUNTY | 3907670130B | 14-NOV-2003 | 04-05-0357A | 02
05 | OH | HANCOCK COUNTY | 3907670065B | 17-DEC-2003 | 04-05-0710A | 02
05 | OH | HANCOCK COUNTY | 3907670080B | 31-DEC-2003 | 04-05-1157A | 02
05 | OH | HARRISON COUNTY | 3902550001A | 12-NOV-2003 | 03-05-5545A | 02
05 | OH | HARRISON COUNTY | 3902550002A | 17-DEC-2003 | 04-05-0446A | 02
05 | OH | HOCKING COUNTY | 3902720125C | 06-AUG-2003 | 03-05-3403A | 02
05 | OH | HURON COUNTY | 3907700002B | 12-NOV-2003 | 03-05-5505A | 02
05 | OH | HURON COUNTY | 3907700002B | 21-NOV-2003 | 03-05-5506A | 02
05 | OH | KNOX COUNTY | 3903060090C | 03-OCT-2003 | 03-05-4245A | 02
05 | OH | KNOX COUNTY | 3903060090C | 17-SEP-2003 | 03-05-5151A | 02
05 | OH | KNOX COUNTY | 3903060100C | 29-OCT-2003 | 04-05-0158A | 02
05 | OH | KNOX COUNTY | 3903060135C | 05-DEC-2003 | 04-05-0701A | 02
05 | OH | LANCASTER, CITY OF | 3901610003D | 29-AUG-2003 | 03-05-4893A | 02
05 | OH | LAWRENCE COUNTY | 3903250135B | 12-SEP-2003 | 03-05-4500A | 02
05 | OH | LEBANON, CITY OF | 3905570005D | 11-JUL-2003 | 03-05-4205A | 02
05 | OH | LOGAN COUNTY | 3907720100C | 03-OCT-2003 | 03-05-4379A | 02
05 | OH | LOGAN COUNTY | 3907720025C | 23-JUL-2003 | 03-05-4380A | 02
05 | OH | LOGAN COUNTY | 3907720025C | 13-AUG-2003 | 03-05-4534A | 02
05 | OH | LOGAN COUNTY | 3907720025C | 26-SEP-2003 | 03-05-5323A | 02
05 | OH | LOGAN COUNTY | 3907720025C | 10-DEC-2003 | 04-05-0437A | 02
05 | OH | LOGAN COUNTY | 3907720025C | 21-NOV-2003 | 04-05-0633A | 02
05 | OH | LOGAN, CITY OF | 3902740001C | 14-NOV-2003 | 04-05-0107A | 01
05 | OH | LORAIN COUNTY | 3903460150B | 22-AUG-2003 | 03-05-4327A | 02
05 | OH | LORAIN, CITY OF | 3903510004C | 03-OCT-2003 | 03-05-5530A | 02
05 | OH | LORAIN, CITY OF | 3903510010C | 03-DEC-2003 | 03-05-5677A | 01
05 | OH | LOUISVILLE, CITY OF | 3905160002D | 07-JUL-2003 | 03-05-4061A | 02
05 | OH | LUCAS COUNTY | 39095C0064D | 26-SEP-2003 | 03-05-3406A | 02
05 | OH | LUCAS COUNTY | 39095C0062D | 10-OCT-2003 | 03-05-4300A | 02
05 | OH | LUCAS COUNTY | 39095C0062D | 07-NOV-2003 | 03-05-4302A | 02
05 | OH | LUCAS COUNTY | 39095C0053D | 06-AUG-2003 | 03-05-4355A | 02
05 | OH | LUCAS COUNTY | 39095C0059D | 18-JUL-2003 | 03-05-4366A | 02
05 | OH | LUCAS COUNTY | 39095C0034D | 01-AUG-2003 | 03-05-4520A | 02
05 | OH | LUCAS COUNTY | 39095C0053D | 27-AUG-2003 | 03-05-4609A | 02
05 | OH | LUCAS COUNTY | 39095C0061D | 17-SEP-2003 | 03-05-4879A | 01
05 | OH | LUCAS COUNTY | 39095C0240D | 03-DEC-2003 | 03-05-4931A | 01
05 | OH | LUCAS COUNTY | 39095C0360D | 27-AUG-2003 | 03-05-4952A | 02
05 | OH | LUCAS COUNTY | 39095C0061D | 22-SEP-2003 | 03-05-5086A | 02
05 | OH | LUCAS COUNTY | 39095C0145D | 08-OCT-2003 | 03-05-5258A | 02
05 | OH | LUCAS COUNTY | 39095C0053D | 26-SEP-2003 | 03-05-5284A | 02
05 | OH | LUCAS COUNTY | 39095C0053D | 17-DEC-2003 | 04-05-1144A | 02
05 | OH | MADISON COUNTY | 3907730175B | 13-AUG-2003 | 03-05-4558A | 02
05 | OH | MAHONING COUNTY | 3903670025B | 17-SEP-2003 | 03-05-5025A | 02
05 | OH | MAHONING COUNTY | 3903670050B | 10-DEC-2003 | 04-05-0354A | 02
05 | OH | MARIETTA, CITY OF | 3905660150B | 24-SEP-2003 | 03-05-3481A | 01
05 | OH | MARION COUNTY | 39101C0150C | 17-OCT-2003 | 03-05-5002A | 02
05 | OH | MAUMEE, CITY OF | 39095C0255D | 03-OCT-2003 | 03-05-4809A | 02
05 | OH | MAYFIELD, VILLAGE OF | 39011608D | 07-JUL-2003 | 03-05-4017A | 02
05 | OH | MAYFIELD, VILLAGE OF | 390116—08D | 21-NOV-2003 | 04-05-0708A | 02
05 | OH | MEDINA COUNTY | 3903780080B | 07-JUL-2003 | 03-05-4030A | 02
05 | OH | MEDINA COUNTY | 3903780100B | 12-DEC-2003 | 04-05-0314A | 01
05 | OH | MEIGS COUNTY | 39105C0238C | 01-AUG-2003 | 03-05-4388A | 02
05 | OH | MEIGS COUNTY | 39105C0180C | 10-SEP-2003 | 03-05-4430A | 02
05 | OH | MENTOR, CITY OF | 3903170010C | 11-JUL-2003 | 03-05-2989A | 17
05 | OH | MERCER COUNTY | 3903920025B | 10-SEP-2003 | 03-05-4925A | 02
05 | OH | MERCER COUNTY | 3903920100B | 27-AUG-2003 | 03-05-4949A | 02
05 | OH | MERCER COUNTY | 3903920100B | 24-SEP-2003 | 03-05-5289A | 02
05 | OH | MERCER COUNTY | 3903920100B | 01-OCT-2003 | 03-05-5433A | 02
05 | OH | MERCER COUNTY | 3903920100B | 17-OCT-2003 | 03-05-5528A | 02
05 | OH | MERCER COUNTY | 3903920100B | 15-OCT-2003 | 03-05-5638A | 02
05 | OH | MERCER COUNTY | 3903920100B | 31-OCT-2003 | 04-05-0169A | 02
05 | OH | MERCER COUNTY | 3903920100B | 19-NOV-2003 | 04-05-0281A | 02
05 | OH | MERCER COUNTY | 3903920100B | 26-NOV-2003 | 04-05-0317A | 02
05 | OH | MERCER COUNTY | 3903920100B | 12-NOV-2003 | 04-05-0444A | 02
05 | OH | MERCER COUNTY | 3903920100B | 12-NOV-2003 | 04-05-0451A | 02
05 | OH | MERCER COUNTY | 3903920100B | 05-DEC-2003 | 04-05-0967A | 02
05 | OH | MIAMI COUNTY | 3903980090B | 31-OCT-2003 | 03-05-5424A | 02
05 | OH | MIAMI COUNTY | 3903980150B | 22-OCT-2003 | 03-05-5637A | 02
05 | OH | MIAMI COUNTY | 3903980075C | 07-NOV-2003 | 04-05-0299A | 02
05 | OH | MIAMI COUNTY | 3903980075C | 05-DEC-2003 | 04-05-0693A | 02
05 | OH | MIDDLEPORT, VILLAGE OF | 39105C0218C | 01-AUG-2003 | 03-05-4474A | 02
05 | OH | MILLERSPORT, VILLAGE OF | 390689—01A | 17-SEP-2003 | 03-05-5150A | 02
05 | OH | MONTGOMERY COUNTY | 3907750040C | 30-JUL-2003 | 03-05-4363A | 02
05 | OH | MONTGOMERY COUNTY | 3907750050B | 08-OCT-2003 | 03-05-5305A | 02
05 | OH | MONTGOMERY COUNTY | 3907750040C | 17-OCT-2003 | 03-05-5746A | 02
05 | OH | MONTGOMERY COUNTY | 3907750040C | 26-NOV-2003 | 04-05-0698A | 02
05 | OH | MONTGOMERY COUNTY | 3907750050B | 12-DEC-2003 | 04-05-1007A | 02
05 | OH | MONTGOMERY COUNTY | 3907750040C | 17-DEC-2003 | 04-05-1068A | 02
05 | OH | MUNROE FALLS, CITY OF | 3908430001B | 19-DEC-2003 | 04-05-0632A | 02
05 | OH | NAPOLEON, CITY OF | 3902660005D | 24-DEC-2003 | 04-05-0986A | 02
05 | OH | NILES, CITY OF | 3905400005C | 13-AUG-2003 | 03-05-3521A | 17
05 | OH | NILES, CITY OF | 3905400005C | 09-JUL-2003 | 03-05-4218A | 02
05 | OH | NILES, CITY OF | 3905400005C | 09-JUL-2003 | 03-05-4222A | 02
05 | OH | NILES, CITY OF | 3905400005C | 16-JUL-2003 | 03-05-4309A | 02
05 | OH | NILES, CITY OF | 3905400005C | 01-AUG-2003 | 03-05-4462A | 02
05 | OH | NILES, CITY OF | 3905400005C | 13-AUG-2003 | 03-05-4627A | 02
05 | OH | NILES, CITY OF | 3905400005C | 05-SEP-2003 | 03-05-5021A | 02
05 | OH | NILES, CITY OF | 3905400005C | 12-SEP-2003 | 03-05-5135A | 02
05 | OH | NILES, CITY OF | 3905400005C | 08-OCT-2003 | 03-05-5410A | 01
05 | OH | NILES, CITY OF | 3905400005C | 08-OCT-2003 | 03-05-5476A | 02
05 | OH | NILES, CITY OF | 3905400005C | 17-OCT-2003 | 03-05-5716A | 02
05 | OH | NILES, CITY OF | 3905400005C | 21-NOV-2003 | 04-05-0412A | 17
05 | OH | NILES, CITY OF | 3905400005C | 03-DEC-2003 | 04-05-1033A | 02
05 | OH | NILES, CITY OF | 3905400005C | 19-DEC-2003 | 04-05-1241A | 02
05 | OH | NORTH RIDGEVILLE, CITY OF | 3903520005C | 11-JUL-2003 | 03-05-2269A | 17
05 | OH | NORTH RIDGEVILLE, CITY OF | 3903520005C | 20-AUG-2003 | 03-05-4760A | 02
05 | OH | NORTH RIDGEVILLE, CITY OF | 3903520005C | 19-NOV-2003 | 04-05-0201A | 02
05 | OH | NORTH RIDGEVILLE, CITY OF | 3903520005C | 21-NOV-2003 | 04-05-0255A | 17
05 | OH | NORTH RIDGEVILLE, CITY OF | 3903520005C | 31-DEC-2003 | 04-05-1163A | 02
05 | OH | OREGON, CITY OF | 39095C0276D | 27-AUG-2003 | 03-05-4735A | 02
05 | OH | OREGON, CITY OF | 39095C0257D | 05-NOV-2003 | 04-05-0448X | 02
05 | OH | OREGON, CITY OF | 39095C0276D | 05-NOV-2003 | 04-05-0448X | 02
05 | OH | OTTAWA COUNTY | 3904320125B | 01-AUG-2003 | 03-05-3843A | 02
05 | OH | OTTAWA COUNTY | 3904320025A | 05-SEP-2003 | 03-05-4899A | 02
05 | OH | OTTAWA COUNTY | 3904320200B | 17-SEP-2003 | 03-05-4975A | 02
05 | OH | OTTAWA COUNTY | 3904320125B | 15-OCT-2003 | 03-05-5077A | 02
05 | OH | OTTAWA COUNTY | 3904320200B | 12-NOV-2003 | 04-05-0304A | 02
05 | OH | OTTAWA COUNTY | 3904320200B | 12-NOV-2003 | 04-05-0575A | 02
05 | OH | OTTAWA COUNTY | 3904320125B | 26-NOV-2003 | 04-05-0695A | 02
05 | OH | OTTAWA, VILLAGE OF | 3904720002C | 01-AUG-2003 | 03-05-4356A | 02
05 | OH | OTTAWA, VILLAGE OF | 3904720002C | 15-OCT-2003 | 03-05-4569A | 02
05 | OH | OTTAWA, VILLAGE OF | 3904720002C | 10-OCT-2003 | 03-05-5536A | 02
05 | OH | OTTAWA, VILLAGE OF | 3904720002C | 29-OCT-2003 | 04-05-0141A | 02
05 | OH | OTTAWA, VILLAGE OF | 3904720002C | 05-NOV-2003 | 04-05-0200A | 02
05 | OH | OTTAWA, VILLAGE OF | 3904720002C | 03-DEC-2003 | 04-05-0716A | 02
05 | OH | PAINESVILLE, CITY OF | 390319—08A | 27-AUG-2003 | 03-05-3512A | 02
05 | OH | PARMA, CITY OF | 3901230004B | 13-AUG-2003 | 03-05-2434A | 02
05 | OH | PAULDING COUNTY | 3907770055C | 27-AUG-2003 | 03-05-4586A | 02
05 | OH | PAULDING COUNTY | 3907770025D | 03-DEC-2003 | 03-05-5742A | 02
05 | OH | PERRY COUNTY | 3907780025C | 10-OCT-2003 | 03-05-5558A | 02
05 | OH | PICKAWAY COUNTY | 39129C0400H | 14-NOV-2003 | 04-05-0636A | 02
05 | OH | PIONEER, VILLAGE OF | 3907850050B | 24-SEP-2003 | 03-05-5191A | 02
05 | OH | PORT CLINTON, CITY OF | 3904320125B | 16-JUL-2003 | 03-05-3027A | 02
05 | OH | PORTAGE COUNTY | 390453—34C | 14-NOV-2003 | 03-05-5481A | 02
05 | OH | PORTAGE COUNTY | 390453—34C | 22-OCT-2003 | 03-05-5734A | 02
05 | OH | PREBLE COUNTY | 3904600015B | 05-SEP-2003 | 03-05-2297A | 02
05 | OH | PREBLE COUNTY | 3904600015B | 19-DEC-2003 | 04-05-0352A | 02
05 | OH | PROSPECT, VILLAGE OF | 39101C0053C | 12-DEC-2003 | 04-05-0582A | 01
05 | OH | PUTNAM COUNTY | 3904650075B | 29-AUG-2003 | 03-05-3921A | 02
05 | OH | PUTNAM COUNTY | 3904650135B | 06-AUG-2003 | 03-05-4152A | 02
05 | OH | PUTNAM COUNTY | 3904650100B | 24-SEP-2003 | 03-05-5119A | 02
05 | OH | PUTNAM COUNTY | 3904650100B | 17-OCT-2003 | 03-05-5408A | 02
05 | OH | PUTNAM COUNTY | 3904650100B | 03-OCT-2003 | 03-05-5470A | 02
05 | OH | PUTNAM COUNTY | 3904650100B | 03-DEC-2003 | 03-05-5534A | 02
05 | OH | PUTNAM COUNTY | 3904650130B | 26-NOV-2003 | 04-05-0627A | 02
05 | OH | RACINE, VILLAGE OF | 39105C0331C | 22-OCT-2003 | 03-05-5467A | 02
05 | OH | RAVENNA, CITY OF | 390458—02A | 23-JUL-2003 | 03-05-2047C | 01
05 | OH | RICHLAND COUNTY | 3904760200B | 29-OCT-2003 | 04-05-0199A | 02
05 | OH | ROCKY RIVER, CITY OF | 3953720003B | 31-DEC-2003 | 04-05-1258A | 02
05 | OH | ROSS COUNTY | 39141C0400C | 17-OCT-2003 | 03-05-4703A | 02
05 | OH | ROSS COUNTY | 39141C0365C | 13-AUG-2003 | 03-05-4715A | 02
05 | OH | ROSS COUNTY | 39141C0400C | 08-OCT-2003 | 03-05-4819A | 02
05 | OH | ROSS COUNTY | 39141C0400C | 12-NOV-2003 | 03-05-4855A | 02
05 | OH | ROSS COUNTY | 39141C0375C | 08-OCT-2003 | 03-05-4888A | 02
05 | OH | ROSS COUNTY | 39141C0355C | 26-SEP-2003 | 03-05-5313A | 02
05 | OH | ROSS COUNTY | 39141C0365C | 26-SEP-2003 | 03-05-5313A | 02
05 | OH | ROSS COUNTY | 39141C0330C | 12-DEC-2003 | 04-05-0306A | 02
05 | OH | ROSS COUNTY | 39141C0345C | 31-DEC-2003 | 04-05-0592A | 02
05 | OH | ROSS COUNTY | 39141C0200C | 05-DEC-2003 | 04-05-1105A | 02
05 | OH | SANDUSKY COUNTY | 3904860200B | 16-JUL-2003 | 03-05-3478A | 02
05 | OH | SANDUSKY COUNTY | 3904860200B | 26-SEP-2003 | 03-05-4329A | 02
05 | OH | SANDUSKY, CITY OF | 390156—06B | 11-JUL-2003 | 03-05-3966A | 02
05 | OH | SCIOTO COUNTY | 39145C0381D | 07-JUL-2003 | 03-05-4084A | 02
05 | OH | SCIOTO COUNTY | 39145C0288D | 17-OCT-2003 | 03-05-5062A | 02
05 | OH | SCIOTO COUNTY | 39145C0438D | 10-OCT-2003 | 03-05-5497A | 02
05 | OH | SCIOTO COUNTY | 39145C0381D | 17-DEC-2003 | 04-05-0901A | 02
05 | OH | SEVILLE, VILLAGE OF | 3903840001B | 22-AUG-2003 | 03-05-3772A | 02
05 | OH | SEVILLE, VILLAGE OF | 3903840001B | 06-AUG-2003 | 03-05-4555A | 02
05 | OH | SEVILLE, VILLAGE OF | 3903840001B | 03-SEP-2003 | 03-05-4891A | 02
05 | OH | SEVILLE, VILLAGE OF | 3903840001B | 12-SEP-2003 | 03-05-5032A | 02
05 | OH | SEVILLE, VILLAGE OF | 3903840001B | 10-DEC-2003 | 03-05-5145A | 02
05 | OH | SHARONVILLE,CITY OF | 3902360001C | 23-OCT-2003 | 03-05-5353A | 02
05 | OH | SHELBY COUNTY | 3905030130C | 23-JUL-2003 | 03-05-3322A | 02
05 | OH | SHELBY COUNTY | 3905030060C | 23-JUL-2003 | 03-05-3538A | 02
05 | OH | SHELBY COUNTY | 3905030055C | 12-SEP-2003 | 03-05-5122A | 02
05 | OH | SOUTH AMHERST, VILLAGE OF | 3903560005A | 22-OCT-2003 | 04-05-0015A | 02
05 | OH | SPRINGBORO, CITY OF | 3905640001B | 17-JUL-2003 | 02-05-3976P | 05
05 | OH | SPRINGBORO, CITY OF | 3907570010B | 17-JUL-2003 | 02-05-3976P | 05
05 | OH | ST. MARYS, CITY OF | 39011C0080C | 10-OCT-2003 | 03-05-5502A | 02
05 | OH | STARK COUNTY | 3907800175B | 22-AUG-2003 | 03-05-4876A | 02
05 | OH | STARK COUNTY | 3907800085B | 05-SEP-2003 | 03-05-4895A | 02
05 | OH | STARK COUNTY | 3907800085B | 17-OCT-2003 | 03-05-4962A | 02
05 | OH | STARK COUNTY | 3907800085B | 15-OCT-2003 | 03-05-5293A | 02
05 | OH | STARK COUNTY | 3907800085B | 05-NOV-2003 | 04-05-0109A | 02
05 | OH | STRONGSVILLE, CITY OF | 3901320010B | 01-AUG-2003 | 03-05-0547P | 06
05 | OH | STRONGSVILLE, CITY OF | 3901320005B | 03-SEP-2003 | 03-05-4718A | 02
05 | OH | SUGAR GROVE, VILLAGE OF | 3901630001B | 29-AUG-2003 | 03-05-4854A | 02
05 | OH | SUMMIT COUNTY | 3907810115B | 22-SEP-2003 | 03-05-5196A | 02
05 | OH | SYLVANIA, CITY OF | 39095C0054D | 01-OCT-2003 | 03-05-4085A | 17
05 | OH | SYLVANIA, CITY OF | 39095C0053D | 24-OCT-2003 | 03-05-4347A | 02
05 | OH | SYLVANIA, CITY OF | 39095C0054D | 10-SEP-2003 | 03-05-4939A | 02
05 | OH | SYLVANIA, CITY OF | 39095C0051D | 26-NOV-2003 | 03-05-5640A | 01
05 | OH | TOLEDO, CITY OF | 39095C0059D | 07-JUL-2003 | 03-05-2906A | 02
05 | OH | TOLEDO, CITY OF | 39095C0057D | 07-JUL-2003 | 03-05-3175A | 02
05 | OH | TOLEDO, CITY OF | 39095C0059D | 26-SEP-2003 | 03-05-3176A | 02
05 | OH | TOLEDO, CITY OF | 39095C0059D | 16-JUL-2003 | 03-05-4160A | 02
05 | OH | TOLEDO, CITY OF | 39095C0059D | 09-JUL-2003 | 03-05-4182A | 02
05 | OH | TOLEDO, CITY OF | 39095C0059D | 16-JUL-2003 | 03-05-4267A | 02
05 | OH | TOLEDO, CITY OF | 39095C0079D | 18-JUL-2003 | 03-05-4268A | 02
05 | OH | TOLEDO, CITY OF | 39095C0059D | 09-JUL-2003 | 03-05-4278A | 02
05 | OH | TOLEDO, CITY OF | 39095C0062D | 23-JUL-2003 | 03-05-4315A | 02
05 | OH | TOLEDO, CITY OF | 39095C0105D | 06-AUG-2003 | 03-05-4418A | 02
05 | OH | TOLEDO, CITY OF | 39095C0059D | 13-AUG-2003 | 03-05-4587A | 02
05 | OH | TOLEDO, CITY OF | 39095C0059D | 20-AUG-2003 | 03-05-4610A | 02
05 | OH | TOLEDO, CITY OF | 39095C0059D | 03-SEP-2003 | 03-05-5068X | 02
05 | OH | TOLEDO, CITY OF | 39095C0059D | 10-OCT-2003 | 03-05-5276A | 02
05 | OH | TOLEDO, CITY OF | 39095C0078D | 07-NOV-2003 | 03-05-5465A | 02
05 | OH | TOLEDO, CITY OF | 39095C0083D | 12-DEC-2003 | 03-05-5639A | 02
05 | OH | TOLEDO, CITY OF | 39095C0091D | 12-DEC-2003 | 03-05-5639A | 02
05 | OH | TROY, CITY OF | 3904020005B | 09-JUL-2003 | 03-05-4003A | 02
05 | OH | TROY, CITY OF | 3904020005B | 08-OCT-2003 | 03-05-4873A | 17
05 | OH | TUSCARAWAS COUNTY | 3907820070B | 01-OCT-2003 | 03-05-5058A | 02
05 | OH | TUSCARAWAS COUNTY | 3907820090B | 31-OCT-2003 | 03-05-5450A | 02
05 | OH | TWINSBURG, CITY OF | 3905340004D | 24-JUL-2003 | 03-05-0441P | 05
05 | OH | TWINSBURG, CITY OF | 3905340004D | 29-OCT-2003 | 03-05-5420A | 01
05 | OH | UHRICHSVILLE, CITY OF | 3905470005C | 20-AUG-2003 | 03-05-3899A | 02
05 | OH | UHRICHSVILLE, CITY OF | 3905470005C | 01-AUG-2003 | 03-05-4385A | 02
05 | OH | UHRICHSVILLE, CITY OF | 3905470005C | 10-DEC-2003 | 04-05-0378A | 02
05 | OH | UNION COUNTY | 3908080050B | 07-JUL-2003 | 03-05-3398A | 02
05 | OH | UNION COUNTY | 3908080100B | 13-AUG-2003 | 03-05-4174A | 02
05 | OH | UNION COUNTY | 3908080100B | 29-AUG-2003 | 03-05-4535A | 02
05 | OH | UNION COUNTY | 3908080150B | 01-OCT-2003 | 03-05-5478A | 02
05 | OH | UNION COUNTY | 3908080150B | 17-OCT-2003 | 03-05-5569A | 02
05 | OH | UNION COUNTY | 3908080100B | 05-DEC-2003 | 04-05-0544A | 02
05 | OH | URBANCREST, VILLAGE OF | 39049C0238G | 03-JUL-2003 | 03-05-377P | 05
05 | OH | URBANCREST, VILLAGE OF | 39049C0239G | 03-JUL-2003 | 03-05-377P | 05
05 | OH | VAN WERT COUNTY | 3907840003B | 29-AUG-2003 | 03-05-4407A | 02
05 | OH | VAN WERT COUNTY | 3907840003A | 07-NOV-2003 | 04-05-0261A | 02
05 | OH | WASHINGTON COUNTY | 3905660125B | 29-AUG-2003 | 03-05-4783A | 02
05 | OH | WASHINGTON COUNTY | 3905660125B | 22-OCT-2003 | 03-05-5285A | 02
05 | OH | WASHINGTON COUNTY | 3905660125B | 12-NOV-2003 | 04-05-0271A | 02
05 | OH | WAYNE COUNTY | 39169C0110C | 31-DEC-2003 | 04-05-1348A | 02
05 | OH | WELLSTON, CITY OF | 390293—02B | 19-DEC-2003 | 04-05-1237A | 02
05 | OH | WHITEHOUSE, VILLAGE OF | 39095C0218D | 31-OCT-2003 | 03-05-5273A | 01
05 | OH | WHITEHOUSE, VILLAGE OF | 39095C0218D | 17-DEC-2003 | 04-05-0120A | 01
05 | OH | WHITEHOUSE, VILLAGE OF | 39095C0218D | 12-DEC-2003 | 04-05-0142A | 01
05 | OH | WILLIAMS COUNTY | 3907850150B | 18-JUL-2003 | 03-05-3508A | 02
05 | OH | WILLIAMS COUNTY | 3907850025B | 23-JUL-2003 | 03-05-3809A | 02
05 | OH | WILLIAMS COUNTY | 3907850075B | 01-OCT-2003 | 03-05-3880A | 02
05 | OH | WILLIAMS COUNTY | 3907850075B | 22-OCT-2003 | 03-05-4423A | 02
05 | OH | WILLIAMS COUNTY | 3907850150B | 17-OCT-2003 | 03-05-4960A | 02
05 | OH | WILLIAMS COUNTY | 3908270001A | 03-DEC-2003 | 03-05-5097A | 02
05 | OH | WILLIAMS COUNTY | 3907850050B | 21-NOV-2003 | 04-05-0435A | 02
05 | OH | WILLIAMS COUNTY | 3907850050B | 24-DEC-2003 | 04-05-0794A | 02
05 | OH | WOOD COUNTY | 3908090115B | 01-AUG-2003 | 03-05-3094A | 02
05 | OH | WOOD COUNTY | 3908090120B | 13-AUG-2003 | 03-05-3898A | 02
05 | OH | XENIA, CITY OF | 3901970005B | 08-AUG-2003 | 03-05-4411A | 17
05 | OH | XENIA, CITY OF | 3901970005B | 08-AUG-2003 | 03-05-4518A | 02
05 | OH | XENIA, CITY OF | 3901970005B | 12-DEC-2003 | 03-05-5723A | 02
05 | WI | ALLOUEZ, VILLAGE OF | 5500200125B | 21-JUL-2003 | 03-05-2656A | 02
05 | WI | ALLOUEZ, VILLAGE OF | 5500200125B | 21-JUL-2003 | 03-05-3230A | 02
05 | WI | ALLOUEZ, VILLAGE OF | 5500200125B | 07-AUG-2003 | 03-05-3570A | 02
05 | WI | ALLOUEZ, VILLAGE OF | 5500200125B | 27-OCT-2003 | 03-05-5335A | 02
05 | WI | ALLOUEZ, VILLAGE OF | 5500200125B | 22-DEC-2003 | 03-05-5351A | 02
05 | WI | BARRON COUNTY | 5505680050C | 03-DEC-2003 | 03-05-4759A | 02
05 | WI | BARRON COUNTY | 5505680050C | 12-DEC-2003 | 04-05-1126A | 02
05 | WI | BAYFIELD COUNTY | 5505390020B | 22-AUG-2003 | 03-05-4046A | 02
05 | WI | BAYFIELD COUNTY | 5505390006B | 01-OCT-2003 | 03-05-5413A | 02
05 | WI | BLOOMER, CITY OF | 5555490100B | 13-AUG-2003 | 03-05-4260A | 02
05 | WI | BROOKFIELD, CITY OF | 5504780005B | 26-NOV-2003 | 04-05-0253A | 02
05 | WI | BROWN COUNTY * | 5500200075B | 07-AUG-2003 | 03-05-3229A | 02
05 | WI | BROWN COUNTY * | 5500200075B | 21-AUG-2003 | 03-05-3237A | 02
05 | WI | CECIL, VILLAGE OF | 550416—01B | 30-JUL-2003 | 03-05-4391A | 02
05 | WI | CHIPPEWA COUNTY | 5555490075B | 27-AUG-2003 | 03-05-4497A | 02
05 | WI | CHIPPEWA COUNTY | 5555490075B | 27-AUG-2003 | 03-05-4800A | 02
05 | WI | CHIPPEWA COUNTY | 5555490275C | 15-OCT-2003 | 03-05-5615A | 02
05 | WI | CHIPPEWA COUNTY | 5555490275C | 12-NOV-2003 | 04-05-0123A | 02
05 | WI | CLARK COUNTY | 5500480100B | 08-AUG-2003 | 03-05-2535A | 17
05 | WI | CLARK COUNTY | 5500480270B | 03-SEP-2003 | 03-05-2737A | 02
05 | WI | CLINTONVILLE, CITY OF | 5504940002B | 24-OCT-2003 | 03-05-4929A | 01
05 | WI | COLFAX, VILLAGE OF | 5501200001B | 30-JUL-2003 | 03-05-2206A | 17
05 | WI | COLUMBIA COUNTY | 5505810075C | 30-JUL-2003 | 03-05-4427A | 02
05 | WI | COLUMBIA COUNTY | 5505810050C | 10-DEC-2003 | 04-05-0138A | 02
05 | WI | DANE COUNTY | 55025C0439F | 08-AUG-2003 | 03-05-4527A | 02
05 | WI | DANE COUNTY | 55025C0275F | 29-AUG-2003 | 03-05-4860A | 02
05 | WI | DANE COUNTY | 55025C0243F | 24-SEP-2003 | 03-05-5302A | 02
05 | WI | DANE COUNTY | 55025C0800F | 12-DEC-2003 | 04-05-0663A | 02
05 | WI | DANE COUNTY | 55025C0625F | 26-NOV-2003 | 04-05-0845X | 02
05 | WI | DANE COUNTY | 55025C0458F | 05-DEC-2003 | 04-05-0903A | 02
05 | WI | DANE COUNTY | 55025C0625F | 19-DEC-2003 | 04-05-0956A | 02
05 | WI | DANE COUNTY | 55025C0650F | 05-DEC-2003 | 04-05-1051A | 02
05 | WI | DANE COUNTY* | 5500770375A | 16-OCT-2003 | 03-05-2643A | 02
05 | WI | DE FOREST, VILLAGE OF | 55025C0251F | 14-JUL-2003 | 03-05-3223A | 02
05 | WI | DE FOREST, VILLAGE OF | 55025C0251F | 13-AUG-2003 | 03-05-4440A | 02
05 | WI | DE FOREST, VILLAGE OF | 55025C0251F | 05-SEP-2003 | 03-05-4515A | 02
05 | WI | DE FOREST, VILLAGE OF | 55025C0251F | 26-NOV-2003 | 04-05-0300A | 02
05 | WI | DE PERE, CITY OF | 5500200125B | 03-JUL-2003 | 03-05-2161A | 02
05 | WI | DE PERE, CITY OF | 5500210005C | 21-JUL-2003 | 03-05-3227A | 02
05 | WI | DODGE COUNTY | 5500940065B | 23-JUL-2003 | 03-05-3511A | 02
05 | WI | DODGE COUNTY | 5500940165B | 31-DEC-2003 | 04-05-0838A | 02
05 | WI | DODGE COUNTY | 5500940140B | 19-DEC-2003 | 04-05-1124A | 02
05 | WI | DOOR COUNTY | 5501090065A | 01-OCT-2003 | 03-05-4580A | 02
05 | WI | DOOR COUNTY | 5501090025A | 24-SEP-2003 | 03-05-5148A | 02
05 | WI | DOOR COUNTY | 5501090085A | 24-SEP-2003 | 03-05-5270A | 02
05 | WI | DOOR COUNTY | 5501090045A | 24-OCT-2003 | 03-05-5523A | 02
05 | WI | DOOR COUNTY | 5501090065A | 17-OCT-2003 | 03-05-5604A | 02
05 | WI | DOOR COUNTY | 5501090065A | 31-OCT-2003 | 04-05-0262A | 02
05 | WI | EAU CLAIRE COUNTY | 5555520040B | 29-OCT-2003 | 03-05-5667A | 02
05 | WI | EAU CLAIRE COUNTY | 5555520075B | 03-DEC-2003 | 04-05-0936A | 02
05 | WI | EAU CLAIRE, CITY OF | 5501280005D | 17-SEP-2003 | 03-05-5400A | 02
05 | WI | ELM GROVE, VILLAGE OF | 5505780001B | 22-OCT-2003 | 03-05-5115A | 02
05 | WI | FOND DU LAC COUNTY | 5501310085B | 11-JUL-2003 | 03-05-3878A | 02
05 | WI | FOND DU LAC COUNTY | 5501310085B | 22-AUG-2003 | 03-05-4791A | 02
05 | WI | FOND DU LAC COUNTY | 5501310170C | 05-NOV-2003 | 03-05-4904A | 02
05 | WI | FOND DU LAC COUNTY | 5501310170C | 10-OCT-2003 | 03-05-5623A | 02
05 | WI | FOND DU LAC COUNTY | 5501310135D | 22-OCT-2003 | 03-05-5722A | 02
05 | WI | FOND DU LAC COUNTY | 5501310170C | 29-OCT-2003 | 04-05-0185A | 02
05 | WI | FOND DU LAC COUNTY | 5501310120B | 29-OCT-2003 | 04-05-0193A | 02
05 | WI | FOND DU LAC COUNTY | 5501310070C | 12-NOV-2003 | 04-05-0320A | 02
05 | WI | FOND DU LAC COUNTY | 5501310080B | 21-NOV-2003 | 04-05-0538A | 02
05 | WI | FOND DU LAC, CITY OF | 5501360005D | 22-SEP-2003 | 03-05-4597A | 02
05 | WI | FOND DU LAC, CITY OF | 5501360005D | 24-SEP-2003 | 03-05-4947A | 02
05 | WI | FOND DU LAC, CITY OF | 5501360005D | 17-OCT-2003 | 03-05-5645A | 02
05 | WI | FOND DU LAC, CITY OF | 5501360005D | 05-NOV-2003 | 04-05-0003A | 02
05 | WI | FOND DU LAC, CITY OF | 5501360005D | 05-NOV-2003 | 04-05-0190A | 02
05 | WI | FOREST COUNTY | 5506030006A | 11-JUL-2003 | 03-05-0202A | 02
05 | WI | FOREST COUNTY | 5506030001A | 01-OCT-2003 | 03-05-5215A | 02
05 | WI | FOREST COUNTY | 5506030001A | 01-OCT-2003 | 03-05-5216A | 02
05 | WI | FOREST COUNTY | 5506030001A | 29-OCT-2003 | 04-05-0327A | 02
05 | WI | FRANKLIN, CITY OF | 5502730005B | 25-JUL-2003 | 03-05-4150A | 17
05 | WI | FREMONT, VILLAGE OF | 5504960001C | 10-DEC-2003 | 04-05-0843A | 02
05 | WI | GERMANTOWN, VILLAGE OF | 5504720008B | 11-AUG-2003 | 03-05-1465P | 05
05 | WI | GERMANTOWN, VILLAGE OF | 5504720009B | 31-DEC-2003 | 03-05-3125A | 01
05 | WI | GREEN BAY, CITY OF | 5500220020E | 03-NOV-2003 | 03-05-3586A | 02
05 | WI | GREEN LAKE COUNTY | 550165—04A | 11-JUL-2003 | 03-05-4252A | 02
05 | WI | GREEN LAKE COUNTY | 550165—03A | 19-NOV-2003 | 03-05-5726A | 17
05 | WI | GREENFIELD, CITY OF | 5502770001B | 10-SEP-2003 | 03-05-4372A | 02
05 | WI | HALES CORNERS, VILLAGE OF | 5505240001C | 18-JUL-2003 | 03-05-4338A | 02
05 | WI | HOWARD, VILLAGE OF | 5500230005B | 11-AUG-2003 | 03-05-3585A | 01
05 | WI | HOWARD, VILLAGE OF | 5500230005B | 27-OCT-2003 | 03-05-5337A | 02
05 | WI | HOWARD, VILLAGE OF | 5500230005B | 20-NOV-2003 | 04-05-0064A | 02
05 | WI | IOWA COUNTY | 5505220075B | 05-SEP-2003 | 03-05-4431A | 02
05 | WI | JACKSON COUNTY | 5505830125B | 21-NOV-2003 | 03-05-5600A | 02
05 | WI | JEFFERSON COUNTY | 5501910225A | 23-JUL-2003 | 03-05-2910A | 02
05 | WI | JEFFERSON COUNTY | 5501910250B | 02-JUL-2003 | 03-05-3790A | 02
05 | WI | JEFFERSON COUNTY | 5501910225A | 24-SEP-2003 | 03-05-5112A | 02
05 | WI | JEFFERSON COUNTY | 5501910200B | 08-OCT-2003 | 03-05-5579A | 02
05 | WI | JEFFERSON COUNTY | 5501910200B | 12-NOV-2003 | 04-05-0012A | 02
05 | WI | KENOSHA COUNTY | 5505230005B | 23-JUL-2003 | 03-05-3409A | 02
05 | WI | KEWASKUM, VILLAGE OF | 5504740001C | 09-JUL-2003 | 03-05-3971A | 02
05 | WI | KEWASKUM, VILLAGE OF | 5504740001C | 26-NOV-2003 | 04-05-0704A | 02
05 | WI | KEWASKUM, VILLAGE OF | 5504740001C | 10-DEC-2003 | 04-05-0821A | 02
05 | WI | LA CROSSE COUNTY * | 5502170160A | 05-AUG-2003 | 03-05-3243A | 02
05 | WI | LA CROSSE COUNTY * | 5502170120A | 08-SEP-2003 | 03-05-3592A | 02
05 | WI | LA CROSSE COUNTY * | 5502170120A | 11-AUG-2003 | 03-05-4101A | 02
05 | WI | LA CROSSE COUNTY * | 5502170120A | 09-OCT-2003 | 03-05-4115A | 02
05 | WI | LA CROSSE COUNTY * | 5502170120A | 29-SEP-2003 | 03-05-5330A | 02
05 | WI | LA CROSSE COUNTY * | 5502170070A | 15-DEC-2003 | 03-05-5358A | 02
05 | WI | LA CROSSE, CITY OF | 5555620005B | 14-JUL-2003 | 03-05-2633A | 01
05 | WI | LA CROSSE, CITY OF | 5555620006B | 21-JUL-2003 | 03-05-2648A | 01
05 | WI | LA CROSSE, CITY OF | 5555620005B | 26-SEP-2003 | 03-05-4122A | 01
05 | WI | LA CROSSE, CITY OF | 5555620005B | 14-OCT-2003 | 03-05-4657A | 01
05 | WI | LA CROSSE, CITY OF | 5555620005B | 06-OCT-2003 | 03-05-4676A | 02
05 | WI | LA CROSSE, CITY OF | 5555620005B | 23-OCT-2003 | 03-05-4688A | 01
05 | WI | LA CROSSE, CITY OF | 5555620008B | 27-OCT-2003 | 03-05-5336A | 02
05 | WI | LA CROSSE, CITY OF | 5555620006B | 06-NOV-2003 | 03-05-5344A | 01
05 | WI | LINCOLN COUNTY | 5505850115B | 21-NOV-2003 | 04-05-0645A | 02
05 | WI | MADISON, CITY OF | 55025C0394F | 14-NOV-2003 | 04-05-0537A | 02
05 | WI | MARATHON COUNTY | 5502450250B | 02-JUL-2003 | 03-05-3507A | 02
05 | WI | MARATHON COUNTY | 5502450625B | 15-OCT-2003 | 03-05-4012A | 02
05 | WI | MARATHON COUNTY | 5502450525B | 07-JUL-2003 | 03-05-4090A | 02
05 | WI | MARATHON COUNTY | 5502450375B | 06-AUG-2003 | 03-05-4304A | 02
05 | WI | MARATHON COUNTY | 5502450400B | 13-AUG-2003 | 03-05-4563A | 02
05 | WI | MARATHON COUNTY | 5502450525B | 27-AUG-2003 | 03-05-4938A | 02
05 | WI | MARATHON COUNTY | 5502450325B | 10-OCT-2003 | 03-05-5411A | 02
05 | WI | MARATHON COUNTY | 5502450625B | 24-OCT-2003 | 03-05-5562A | 02
05 | WI | MARATHON COUNTY | 5502450700B | 19-DEC-2003 | 04-05-0353A | 02
05 | WI | MARATHON COUNTY | 5502450400B | 31-DEC-2003 | 04-05-1013A | 02
05 | WI | MARATHON COUNTY | 5502450400B | 24-DEC-2003 | 04-05-1045A | 02
05 | WI | MARINETTE COUNTY | 5502590475B | 12-NOV-2003 | 04-05-0413A | 02
05 | WI | MARINETTE, CITY OF | 5502610001B | 17-OCT-2003 | 03-05-5090A | 02
05 | WI | MAZOMANIE, VILLAGE OF | 55025C0166F | 05-AUG-2003 | 03-05-3256A | 02
05 | WI | MENASHA, CITY OF | 55139C0110E | 02-JUL-2003 | 03-05-4019A | 02
05 | WI | MENASHA, CITY OF | 55139C0110E | 11-JUL-2003 | 03-05-4198A | 02
05 | WI | MENASHA, CITY OF | 55139C0110E | 11-JUL-2003 | 03-05-4208A | 02
05 | WI | MENASHA, CITY OF | 55139C0105E | 08-AUG-2003 | 03-05-4522A | 02
05 | WI | MENASHA, CITY OF | 55139C0110E | 22-AUG-2003 | 03-05-4590A | 02
05 | WI | MENASHA, CITY OF | 55139C0105E | 27-AUG-2003 | 03-05-4988A | 02
05 | WI | MENASHA, CITY OF | 55139C0105E | 12-SEP-2003 | 03-05-5039A | 02
05 | WI | MENASHA, CITY OF | 55139C0105E | 22-OCT-2003 | 03-05-5078A | 02
05 | WI | MENASHA, CITY OF | 55139C0110E | 17-SEP-2003 | 03-05-5288A | 02
05 | WI | MENASHA, CITY OF | 55139C0110E | 24-SEP-2003 | 03-05-5544A | 02
05 | WI | MENASHA, CITY OF | 55139C0105E | 12-NOV-2003 | 04-05-0371A | 02
05 | WI | MENASHA, CITY OF | 55139C0110E | 12-NOV-2003 | 04-05-0422A | 02
05 | WI | MENASHA, CITY OF | 55139C0110E | 21-NOV-2003 | 04-05-0788A | 02
05 | WI | MENASHA, CITY OF | 55139C0110E | 21-NOV-2003 | 04-05-0795A | 02
05 | WI | MENASHA, CITY OF | 55139C0110E | 19-DEC-2003 | 04-05-1261A | 02
05 | WI | MENOMONEE FALLS, VILLAGE OF | 5504830010C | 09-JUL-2003 | 03-05-3703A | 17
05 | WI | MEQUON, CITY OF | 55089C0080D | 06-AUG-2003 | 03-05-3874A | 02
05 | WI | MEQUON, CITY OF | 55089C0085D | 24-OCT-2003 | 04-05-0139A | 02
05 | WI | MEQUON, CITY OF | 55089C0090D | 21-NOV-2003 | 04-05-0713A | 02
05 | WI | MEQUON, CITY OF | 55089C0085D | 19-NOV-2003 | 04-05-0735A | 02
05 | WI | MEQUON, CITY OF | 55089C0085D | 31-DEC-2003 | 04-05-0968A | 02
05 | WI | MERTON, VILLAGE OF | 5504840001B | 11-JUL-2003 | 03-05-4088A | 02
05 | WI | MIDDLETON, CITY OF | 55025C0401F | 31-OCT-2003 | 03-05-5695A | 02
05 | WI | MONROE, CITY OF | 5501620001C | 09-JUL-2003 | 03-05-3186A | 01
05 | WI | MUSKEGO, CITY OF | 5504860004B | 18-JUL-2003 | 03-05-4299A | 02
05 | WI | NEENAH, CITY OF | 55139C0112E | 13-AUG-2003 | 03-05-4608A | 02
05 | WI | NEENAH, CITY OF | 55139C0111E | 19-NOV-2003 | 03-05-5507A | 02
05 | WI | NEW BERLIN, CITY OF | 5504870002C | 30-JUL-2003 | 03-05-3500A | 02
05 | WI | NEW BERLIN, CITY OF | 5504870004E | 10-OCT-2003 | 03-05-3775A | 02
05 | WI | NEW BERLIN, CITY OF | 5504870003E | 30-JUL-2003 | 03-05-4505A | 02
05 | WI | NEW BERLIN, CITY OF | 5504870004E | 10-SEP-2003 | 03-05-4877A | 02
05 | WI | NEW HOLSTEIN, CITY OF | 5500390001B | 01-OCT-2003 | 03-05-4305A | 01
05 | WI | OCONOMOWOC, CITY OF | 5504880002B | 12-DEC-2003 | 04-05-0744A | 17
05 | WI | OCONTO COUNTY | 5502940355B | 21-NOV-2003 | 04-05-0804A | 02
05 | WI | OMRO, CITY OF | 55139C0186E | 13-AUG-2003 | 03-05-4722A | 02
05 | WI | ONEIDA COUNTY | 55085C0200B | 26-SEP-2003 | 03-05-5277A | 02
05 | WI | OSHKOSH, CITY OF | 55139C0225E | 02-JUL-2003 | 03-05-4026A | 02
05 | WI | OSHKOSH, CITY OF | 55139C0225E | 23-JUL-2003 | 03-05-4362X | 02
05 | WI | OSHKOSH, CITY OF | 55139C0215E | 10-SEP-2003 | 03-05-5047A | 02
05 | WI | OSHKOSH, CITY OF | 55139C0225E | 15-OCT-2003 | 03-05-5223A | 02
05 | WI | OSHKOSH, CITY OF | 55139C0225E | 08-OCT-2003 | 03-05-5403A | 01
05 | WI | OSHKOSH, CITY OF | 55139C0335E | 26-NOV-2003 | 04-05-0186A | 01
05 | WI | OUTAGAMIE COUNTY | 5503020100C | 23-JUL-2003 | 03-05-3159A | 02
05 | WI | OUTAGAMIE COUNTY | 5503020050B | 16-JUL-2003 | 03-05-4086A | 02
05 | WI | OUTAGAMIE COUNTY | 5503020150B | 16-JUL-2003 | 03-05-4214A | 02
05 | WI | OUTAGAMIE COUNTY | 5503020100C | 18-JUL-2003 | 03-05-4291A | 02
05 | WI | OUTAGAMIE COUNTY | 5503020050B | 29-OCT-2003 | 03-05-4775A | 01
05 | WI | OUTAGAMIE COUNTY | 5503020050B | 07-NOV-2003 | 04-05-0297A | 02
05 | WI | OZAUKEE COUNTY | 55089C0050E | 15-OCT-2003 | 03-05-2335A | 01
05 | WI | OZAUKEE COUNTY | 55089C0020D | 25-JUL-2003 | 03-05-3001A | 02
05 | WI | PLEASANT PRAIRIE, VILLAGE OF | 5506130005B | 24-OCT-2003 | 03-05-5614A | 02
05 | WI | POLK COUNTY | 5505770280B | 01-AUG-2003 | 03-05-1593A | 02
05 | WI | POLK COUNTY | 5505770075B | 03-DEC-2003 | 04-05-0873A | 02
05 | WI | PORTAGE COUNTY | 5505720050C | 23-JUL-2003 | 03-05-3926A | 01
05 | WI | PORTAGE COUNTY | 5505720250C | 15-AUG-2003 | 03-05-4579A | 02
05 | WI | PORTAGE COUNTY | 5505720050C | 22-OCT-2003 | 03-05-5605A | 02
05 | WI | POYNETTE, VILLAGE OF | 5500640001C | 06-AUG-2003 | 03-05-3106A | 02
05 | WI | PRAIRIE DU CHIEN, CITY OF | 555573—01A | 06-AUG-2003 | 03-05-4254A | 02
05 | WI | PULASKI, VILLAGE OF | 5500240001B | 03-JUL-2003 | 03-05-2665A | 02
05 | WI | PULASKI, VILLAGE OF | 5500240001B | 14-JUL-2003 | 03-05-2666A | 02
05 | WI | PULASKI, VILLAGE OF | 5500240001B | 29-SEP-2003 | 03-05-2667A | 02
05 | WI | RACINE COUNTY | 5503470010B | 24-SEP-2003 | 03-05-3063A | 01
05 | WI | RACINE COUNTY | 5503470040B | 08-OCT-2003 | 03-05-3452A | 02
05 | WI | RACINE COUNTY | 5503470010B | 17-SEP-2003 | 03-05-4177A | 01
05 | WI | RACINE COUNTY | 5503470010B | 26-SEP-2003 | 03-05-4453A | 02
05 | WI | RACINE COUNTY | 5503470045B | 22-AUG-2003 | 03-05-4489A | 02
05 | WI | RACINE COUNTY | 5503470045B | 15-OCT-2003 | 03-05-4514A | 01
05 | WI | RACINE COUNTY | 5503470010B | 22-SEP-2003 | 03-05-4856A | 02
05 | WI | RACINE COUNTY | 5503470010B | 22-SEP-2003 | 03-05-5127A | 02
05 | WI | RACINE COUNTY | 5503470045B | 08-OCT-2003 | 03-05-5427A | 02
05 | WI | RACINE COUNTY | 5503470010B | 10-DEC-2003 | 03-05-5703A | 02
05 | WI | REEDSBURG, CITY OF | 55111C0195D | 05-NOV-2003 | 03-05-5118A | 02
05 | WI | RHINELANDER, CITY OF | 55085C0326B | 22-OCT-2003 | 03-05-4066A | 02
05 | WI | RICHLAND COUNTY | 5503560200B | 17-OCT-2003 | 03-05-5709A | 02
05 | WI | ROCK COUNTY | 5503630080A | 31-DEC-2003 | 04-05-0184A | 17
05 | WI | RUSK COUNTY | 5506020240B | 17-SEP-2003 | 03-05-4740A | 17
05 | WI | SAUK COUNTY | 55111C0200D | 01-OCT-2003 | 03-05-3335A | 02
05 | WI | SAUK COUNTY | 55111C0200D | 02-JUL-2003 | 03-05-4039A | 02
05 | WI | SAUK COUNTY | 55111C0275D | 10-SEP-2003 | 03-05-4481A | 02
05 | WI | SAUK COUNTY | 55111C0300D | 10-SEP-2003 | 03-05-4481A | 02
05 | WI | SAUK COUNTY | 55111C0200D | 22-SEP-2003 | 03-05-5242A | 02
05 | WI | SAUK COUNTY | 55111C0550D | 10-DEC-2003 | 04-05-0119A | 02
05 | WI | SAUK COUNTY | 55111C0625D | 12-DEC-2003 | 04-05-1008A | 02
05 | WI | SAUKVILLE, VILLAGE OF | 55089C0056E | 06-AUG-2003 | 03-05-4457A | 02
05 | WI | SAUKVILLE, VILLAGE OF | 55089C0056E | 12-DEC-2003 | 04-05-0324A | 01
05 | WI | SAWYER COUNTY | 5505910050B | 27-AUG-2003 | 03-05-4047A | 02
05 | WI | SAWYER COUNTY | 5505910125B | 19-NOV-2003 | 04-05-0438A | 02
05 | WI | SHAWANO COUNTY | 5504120175B | 22-AUG-2003 | 03-05-3295A | 17
05 | WI | SHAWANO COUNTY | 5504120150B | 11-JUL-2003 | 03-05-3893A | 02
05 | WI | SHAWANO COUNTY | 5504120150B | 12-NOV-2003 | 03-05-4041A | 02
05 | WI | SHAWANO COUNTY | 5504120150B | 07-JUL-2003 | 03-05-4049A | 02
05 | WI | SHAWANO COUNTY | 5504120150B | 10-SEP-2003 | 03-05-4623A | 02
05 | WI | SHAWANO COUNTY | 5504120150B | 01-OCT-2003 | 03-05-5563A | 02
05 | WI | SHAWANO COUNTY | 5504120150B | 29-OCT-2003 | 04-05-0143A | 02
05 | WI | SHAWANO COUNTY | 5504120150B | 12-DEC-2003 | 04-05-0925A | 02
05 | WI | SHEBOYGAN COUNTY | 5504240025B | 30-JUL-2003 | 03-05-3814A | 02
05 | WI | SHEBOYGAN COUNTY | 5504240125B | 22-AUG-2003 | 03-05-4907A | 02
05 | WI | SHELL LAKE, CITY OF | 5504690001E | 10-SEP-2003 | 03-05-5014A | 02
05 | WI | SHELL LAKE, CITY OF | 5504690001E | 24-OCT-2003 | 03-05-5116A | 02
05 | WI | SHIOCTON, VILLAGE OF | 5503090001B | 24-OCT-2003 | 03-05-4318A | 02
05 | WI | SPRING VALLEY, VILLAGE OF | 5503310005C | 03-DEC-2003 | 04-05-0234A | 02
05 | WI | ST. CROIX COUNTY | 555578—08B | 16-JUL-2003 | 03-05-3711A | 02
05 | WI | STODDARD, VILLAGE OF | 555582—C | 26-SEP-2003 | 03-05-5250A | 02
05 | WI | STURGEON BAY, CITY OF | 5501110005B | 06-AUG-2003 | 03-05-3641A | 02
05 | WI | STURGEON BAY, CITY OF | 5501110005B | 22-AUG-2003 | 03-05-4842A | 02
05 | WI | STURGEON BAY, CITY OF | 5501110005B | 24-DEC-2003 | 04-05-0750A | 01
05 | WI | THERESA, VILLAGE OF | 5501060001B | 05-NOV-2003 | 03-05-5646A | 17
05 | WI | THIENSVILLE, VILLAGE OF | 55089C0079D | 20-AUG-2003 | 03-05-4596A | 02
05 | WI | TOMAH, CITY OF | 5502910001B | 02-JUL-2003 | 03-05-3276A | 01
05 | WI | VERNON COUNTY | 5504500075B | 22-OCT-2003 | 03-05-4546A | 02
05 | WI | VERNON COUNTY | 5504500075B | 12-DEC-2003 | 04-05-1125X | 02
05 | WI | WASHBURN COUNTY | 5506060075B | 09-JUL-2003 | 03-05-4014A | 02
05 | WI | WASHBURN COUNTY | 5506060075B | 18-JUL-2003 | 03-05-4343A | 02
05 | WI | WASHBURN COUNTY | 5506060200B | 22-SEP-2003 | 03-05-5076A | 02
05 | WI | WASHBURN COUNTY | 5506060075B | 26-SEP-2003 | 03-05-5130A | 02
05 | WI | WASHBURN COUNTY | 5506060075B | 14-NOV-2003 | 04-05-0524A | 02
05 | WI | WASHBURN COUNTY | 5506060075B | 31-DEC-2003 | 04-05-1142A | 02
05 | WI | WASHINGTON COUNTY | 5504710040B | 20-AUG-2003 | 03-05-3794A | 02
05 | WI | WASHINGTON COUNTY | 5504710025B | 18-JUL-2003 | 03-05-4077A | 02
05 | WI | WASHINGTON COUNTY | 5504710025B | 29-OCT-2003 | 03-05-4815A | 02
05 | WI | WAUKESHA COUNTY | 5504760065B | 09-JUL-2003 | 03-05-3543A | 02
05 | WI | WAUKESHA COUNTY | 5504760010B | 27-AUG-2003 | 03-05-3840A | 02
05 | WI | WAUKESHA COUNTY | 5504760120B | 02-JUL-2003 | 03-05-3871A | 02
05 | WI | WAUKESHA COUNTY | 5504760015B | 18-JUL-2003 | 03-05-4312A | 02
05 | WI | WAUKESHA COUNTY | 5504760015B | 08-AUG-2003 | 03-05-4458A | 02
05 | WI | WAUKESHA COUNTY | 5504760130B | 24-OCT-2003 | 03-05-5063A | 02
05 | WI | WAUKESHA COUNTY | 5504760055B | 29-OCT-2003 | 03-05-5421A | 01
05 | WI | WAUKESHA COUNTY | 5504760055B | 22-OCT-2003 | 03-05-5500A | 02
05 | WI | WAUKESHA COUNTY | 5504760085B | 03-DEC-2003 | 04-05-0130A | 02
05 | WI | WAUKESHA COUNTY | 5504760055B | 05-DEC-2003 | 04-05-0747A | 02
05 | WI | WAUKESHA COUNTY | 5504760015B | 03-DEC-2003 | 04-05-1030A | 02
05 | WI | WAUKESHA, CITY OF | 5504910004B | 31-DEC-2003 | 04-05-1046A | 01
05 | WI | WAUNAKEE, VILLAGE OF | 55025C0237F | 10-SEP-2003 | 03-05-4930A | 02
05 | WI | WAUNAKEE, VILLAGE OF | 55025C0237F | 08-OCT-2003 | 03-05-5664X | 02
05 | WI | WAUNAKEE, VILLAGE OF | 55025C0237F | 31-DEC-2003 | 04-05-0514A | 17
05 | WI | WAUPACA COUNTY | 5504920205B | 24-OCT-2003 | 03-05-5509A | 02
05 | WI | WAUPACA COUNTY | 5504920210B | 24-OCT-2003 | 03-05-5509A | 02
05 | WI | WAUPACA COUNTY | 5504920130A | 10-OCT-2003 | 03-05-5593A | 02
05 | WI | WAUPACA COUNTY | 5504920145A | 22-OCT-2003 | 03-05-5736A | 02
05 | WI | WAUPACA COUNTY | 5504920130A | 29-OCT-2003 | 04-05-0021A | 02
05 | WI | WAUPACA COUNTY | 5504920145A | 17-DEC-2003 | 04-05-1243A | 02
05 | WI | WINNEBAGO COUNTY | 55139C0112E | 09-JUL-2003 | 03-05-4168A | 02
05 | WI | WINNEBAGO COUNTY | 55139C0225E | 08-AUG-2003 | 03-05-4512A | 02
05 | WI | WINNEBAGO COUNTY | 55139C0030E | 13-AUG-2003 | 03-05-4698A | 02
05 | WI | WINNEBAGO COUNTY | 55139C0150E | 08-OCT-2003 | 03-05-4941A | 02
05 | WI | WINNEBAGO COUNTY | 55139C0114E | 05-SEP-2003 | 03-05-4982A | 02
05 | WI | WINNEBAGO COUNTY | 55139C0250E | 12-SEP-2003 | 03-05-5005A | 02
05 | WI | WINNEBAGO COUNTY | 55139C0065E | 22-SEP-2003 | 03-05-5081A | 02
05 | WI | WINNEBAGO COUNTY | 55139C0350E | 26-SEP-2003 | 03-05-5085A | 02
05 | WI | WINNEBAGO COUNTY | 55139C0350E | 08-OCT-2003 | 03-05-5087A | 02
05 | WI | WINNEBAGO COUNTY | 55139C0350E | 08-OCT-2003 | 03-05-5088A | 02
05 | WI | WINNEBAGO COUNTY | 55139C0215E | 24-SEP-2003 | 03-05-5111A | 02
05 | WI | WINNEBAGO COUNTY | 55139C0365E | 24-SEP-2003 | 03-05-5194A | 02
05 | WI | WINNEBAGO COUNTY | 55139C0050E | 12-DEC-2003 | 03-05-5631A | 02
05 | WI | WINNEBAGO COUNTY | 55139C0225E | 31-OCT-2003 | 04-05-0189A | 02
05 | WI | WINNEBAGO COUNTY | 55139C0250E | 05-NOV-2003 | 04-05-0195A | 01
05 | WI | WINNEBAGO COUNTY | 55139C0050E | 19-NOV-2003 | 04-05-0295A | 02
05 | WI | WINNEBAGO COUNTY | 55139C0250E | 05-NOV-2003 | 04-05-0392A | 02
05 | WI | WINNEBAGO COUNTY | 55139C0170E | 10-DEC-2003 | 04-05-0421A | 17
05 | WI | WINNEBAGO COUNTY | 55139C0225E | 10-DEC-2003 | 04-05-0688A | 02
05 | WI | WINNEBAGO COUNTY | 55139C0250E | 17-DEC-2003 | 04-05-0847A | 02
05 | WI | WINNEBAGO COUNTY | 55139C0250E | 19-DEC-2003 | 04-05-0917A | 02
05 | WI | WINNEBAGO COUNTY | 55139C0200E | 19-DEC-2003 | 04-05-1049A | 01
05 | WI | WINNEBAGO COUNTY | 55139C0105E | 17-DEC-2003 | 04-05-1127A | 02
05 | WI | WINNEBAGO COUNTY | 55139C0335E | 24-DEC-2003 | 04-05-1294A | 02
05 | WI | WINNECONNE, VILLAGE OF | 55139C0176E | 17-SEP-2003 | 03-05-5402A | 02
05 | WI | WINNECONNE, VILLAGE OF | 55139C0177E | 12-DEC-2003 | 04-05-0231A | 01
05 | WI | WINNECONNE, VILLAGE OF | 55139C0177E | 10-DEC-2003 | 04-05-0368A | 02
05 | WI | WOOD COUNTY | 55141C0450E | 30-JUL-2003 | 03-05-3336A | 02
05 | WI | WOOD COUNTY | 55141C0125E | 10-DEC-2003 | 04-05-0313A | 02
06 | AR | ALMA, CITY OF | 05033C0187F | 16-JUL-2003 | 03-06-1773A | 01
06 | AR | ARKANSAS COUNTY | 0504180004B | 29-AUG-2003 | 03-06-1613A | 02
06 | AR | ARKANSAS COUNTY | 0504180004B | 29-OCT-2003 | 03-06-2914A | 02
06 | AR | BEEBE, CITY OF | 0504670013B | 07-NOV-2003 | 03-06-2953A | 02
06 | AR | BENTON COUNTY | 05007C0035E | 05-DEC-2003 | 02-06-152P | 05
06 | AR | BENTON COUNTY | 05007C0042F | 05-DEC-2003 | 02-06-152P | 05
06 | AR | BENTON COUNTY | 05007C0061F | 05-DEC-2003 | 02-06-152P | 05
06 | AR | BENTON COUNTY | 05007C0170E | 17-DEC-2003 | 04-06-019A | 02
06 | AR | BENTONVILLE, CITY OF | 05007C0044F | 29-OCT-2003 | 03-06-2599A | 02
06 | AR | BENTONVILLE, CITY OF | 05007C0063F | 03-OCT-2003 | 03-06-2741A | 02
06 | AR | BENTONVILLE, CITY OF | 05007C0044F | 31-DEC-2003 | 03-06-2822A | 02
06 | AR | BOONEVILLE, CITY OF | 050472—01B | 05-SEP-2003 | 03-06-1170A | 02
06 | AR | BOONEVILLE, CITY OF | 050472—01B | 03-DEC-2003 | 04-06-332X | 02
06 | AR | BRADLEY COUNTY | 0504200100B | 08-AUG-2003 | 03-06-2177A | 02
06 | AR | BRYANT, CITY OF | 0503080001C | 21-NOV-2003 | 03-06-2164A | 02
06 | AR | BRYANT, CITY OF | 0503080001C | 05-DEC-2003 | 04-06-480X | 02
06 | AR | CABOT, CITY OF | 0504480015B | 26-NOV-2003 | 03-06-676P | 05
06 | AR | CABOT, CITY OF | 0504480020B | 26-NOV-2003 | 03-06-676P | 05
06 | AR | CAMDEN, CITY OF | 0501630002A | 08-OCT-2003 | 03-06-2353A | 01
06 | AR | CAVE CITY, CITY OF | 0503130001C | 12-DEC-2003 | 03-06-2664A | 02
06 | AR | CLARKSVILLE, CITY OF | 0501120002C | 24-OCT-2003 | 03-06-2436A | 02
06 | AR | CLEBURNE COUNTY | 0504240100C | 12-NOV-2003 | 03-06-2746A | 02
06 | AR | CONWAY, CITY OF | 05045C0130F | 06-AUG-2003 | 03-06-2178A | 17
06 | AR | CONWAY, CITY OF | 05045C0130F | 26-SEP-2003 | 03-06-2830A | 01
06 | AR | CROSS COUNTY | 0500560008C | 22-OCT-2003 | 03-06-2011A | 02
06 | AR | CROSS COUNTY | 0500560008C | 24-OCT-2003 | 03-06-2016A | 02
06 | AR | CROSS COUNTY | 0500560008C | 17-OCT-2003 | 03-06-2064A | 02
06 | AR | ELKINS, CITY OF | 05143C0115E | 17-DEC-2003 | 04-06-483A | 02
06 | AR | ELM SPRINGS, TOWN OF | 05143C0016C | 01-OCT-2003 | 03-06-2813A | 02
06 | AR | FAULKNER COUNTY | 05045C0054F | 24-SEP-2003 | 03-06-2641A | 02
06 | AR | FAYETTEVILLE, CITY OF | 05143C0084D | 22-OCT-2003 | 03-06-1953A | 01
06 | AR | FAYETTEVILLE, CITY OF | 05143C0084D | 24-SEP-2003 | 03-06-2377A | 02
06 | AR | FORT SMITH, CITY OF | 0550130005D | 03-OCT-2003 | 03-06-2708A | 02
06 | AR | FORT SMITH, CITY OF | 0550130010D | 19-DEC-2003 | 03-06-2900A | 02
06 | AR | FORT SMITH, CITY OF | 0550130005D | 17-DEC-2003 | 04-06-500A | 02
06 | AR | GARLAND COUNTY | 05051C0154C | 24-OCT-2003 | 04-06-011A | 02
06 | AR | GARLAND COUNTY | 05051C0158C | 31-OCT-2003 | 04-06-096A | 02
06 | AR | GARLAND COUNTY | 05051C0154C | 12-NOV-2003 | 04-06-185A | 02
06 | AR | GARLAND COUNTY | 05051C0170C | 19-NOV-2003 | 04-06-202A | 02
06 | AR | GARLAND COUNTY | 05051C0155C | 19-DEC-2003 | 04-06-344A | 02
06 | AR | GARLAND COUNTY | 05051C0158C | 31-DEC-2003 | 04-06-489A | 02
06 | AR | GOSHEN, CITY OF | 05143C0125D | 18-JUL-2003 | 03-06-1685A | 02
06 | AR | GRANT COUNTY | 050434—01B | 03-OCT-2003 | 03-06-2642A | 02
06 | AR | HEBER SPRINGS, CITY OF | 0502400005B | 31-DEC-2003 | 04-06-220A | 17
06 | AR | HORSESHOE BEND, CITY OF | 0502560010B | 29-AUG-2003 | 03-06-2084A | 02
06 | AR | HOT SPRINGS, CITY OF | 05051C0156C | 15-OCT-2003 | 03-06-2799A | 02
06 | AR | JACKSONVILLE, CITY OF | 0501800005E | 29-DEC-2003 | 03-06-041P | 08
06 | AR | JACKSONVILLE, CITY OF | 0501800010E | 08-DEC-2003 | 03-06-1385P | 06
06 | AR | JEFFERSON COUNTY | 0504400170B | 24-SEP-2003 | 03-06-2400A | 17
06 | AR | JONESBORO, CITY OF | 05031C0043C | 17-OCT-2003 | 03-06-1962A | 02
06 | AR | JONESBORO, CITY OF | 05031C0131C | 31-DEC-2003 | 03-06-2370A | 02
06 | AR | KIBLER, CITY OF | 05033C0255E | 11-JUL-2003 | 03-06-1911A | 02
06 | AR | LITTLE ROCK, CITY OF | 0501810082F | 26-SEP-2003 | 03-06-1645A | 02
06 | AR | LITTLE ROCK, CITY OF | 0501810029F | 23-JUL-2003 | 03-06-1910A | 01
06 | AR | LITTLE ROCK, CITY OF | 0501810101F | 18-JUL-2003 | 03-06-1974A | 02
06 | AR | LITTLE ROCK, CITY OF | 0501810037F | 01-AUG-2003 | 03-06-1986A | 01
06 | AR | LITTLE ROCK, CITY OF | 0501810111F | 25-JUL-2003 | 03-06-2098A | 02
06 | AR | LITTLE ROCK, CITY OF | 0501810093F | 10-DEC-2003 | 03-06-2930A | 17
06 | AR | LOWELL, CITY OF | 05007C0164E | 15-AUG-2003 | 03-06-1028A | 02
06 | AR | MALVERN, CITY OF | 0500880001B | 11-AUG-2003 | 03-06-1704A | 01
06 | AR | MCGEHEE, CITY OF | 0500680005C | 01-AUG-2003 | 03-06-2147A | 02
06 | AR | NORTH LITTLE ROCK, CITY OF | 0501790278D | 05-DEC-2003 | 03-06-2753A | 01
06 | AR | NORTH LITTLE ROCK, CITY OF | 0501790286D | 05-DEC-2003 | 03-06-2753A | 01
06 | AR | NORTH LITTLE ROCK, CITY OF | 0501820004D | 10-OCT-2003 | 03-06-2797A | 02
06 | AR | NORTH LITTLE ROCK, CITY OF | 0501820006D | 24-DEC-2003 | 04-06-117A | 02
06 | AR | NORTH LITTLE ROCK, CITY OF | 0501820009D | 14-NOV-2003 | 04-06-264A | 02
06 | AR | NORTH LITTLE ROCK, CITY OF | 0501790278D | 17-DEC-2003 | 04-06-478A | 02
06 | AR | PALESTINE, CITY OF | 050359—01A | 30-JUL-2003 | 03-06-773A | 02
06 | AR | PERRY COUNTY | 05105C0128B | 22-AUG-2003 | 03-06-2071A | 02
06 | AR | PERRY COUNTY | 05105C0150B | 12-SEP-2003 | 03-06-2475A | 02
06 | AR | PERRY COUNTY | 05105C0150B | 03-OCT-2003 | 03-06-2834A | 02
06 | AR | PERRY COUNTY | 05105C0150B | 31-DEC-2003 | 04-06-580A | 02
06 | AR | PERRYVILLE, CITY OF | 05105C0129B | 03-OCT-2003 | 03-06-2736A | 02
06 | AR | PINE BLUFF, CITY OF | 0501090015B | 25-JUL-2003 | 03-06-2104A | 02
06 | AR | PINE BLUFF, CITY OF | 0501090005B | 03-DEC-2003 | 03-06-2610A | 02
06 | AR | PINE BLUFF, CITY OF | 0501090005B | 21-NOV-2003 | 03-06-2910A | 01
06 | AR | PULASKI COUNTY | 0501790480C | 29-AUG-2003 | 03-06-2500A | 02
06 | AR | ROGERS, CITY OF | 05007C0155H | 10-SEP-2003 | 03-06-2620A | 02
06 | AR | ROGERS, CITY OF | 05007C0155H | 19-DEC-2003 | 04-06-159A | 01
06 | AR | SALINE COUNTY | 0501910140B | 18-JUL-2003 | 03-06-2141A | 02
06 | AR | SHERWOOD, CITY OF | 0502350001E | 15-OCT-2003 | 03-06-2743A | 02
06 | AR | SILOAM SPRINGS, CITY OF | 05007C0208E | 11-JUL-2003 | 03-06-1836A | 02
06 | AR | SPRINGDALE, CITY OF | 05143C0017C | 26-NOV-2003 | 02-06-2147P | 05
06 | AR | SPRINGDALE, CITY OF | 05143C0019C | 26-NOV-2003 | 02-06-2147P | 05
06 | AR | STUTTGART, CITY OF | 0500020005C | 11-JUL-2003 | 03-06-1710A | 02
06 | AR | STUTTGART, CITY OF | 0500020005C | 30-JUL-2003 | 03-06-2161A | 02
06 | AR | TEXARKANA, CITY OF | 0501370059C | 02-JUL-2003 | 03-06-1660A | 02
06 | AR | TEXARKANA, CITY OF | 0501370057C | 26-SEP-2003 | 03-06-2357A | 01
06 | AR | TEXARKANA, CITY OF | 0501370059C | 03-DEC-2003 | 04-06-408X | 02
06 | AR | TEXARKANA, CITY OF | 0501370059C | 17-DEC-2003 | 04-06-446A | 02
06 | AR | VAN BUREN, CITY OF | 05033C0170G | 17-DEC-2003 | 03-06-1837A | 01
06 | AR | VAN BUREN, CITY OF | 05033C0170G | 29-OCT-2003 | 04-06-070A | 02
06 | AR | VAN BUREN, CITY OF | 05033C0235E | 29-OCT-2003 | 04-06-070A | 02
06 | AR | VAN BUREN, CITY OF | 05033C0170G | 17-DEC-2003 | 04-06-407A | 01
06 | AR | WALNUT RIDGE, CITY OF | 0501220001C | 29-AUG-2003 | 03-06-2564A | 02
06 | AR | WASHINGTON COUNTY | 05143C0025C | 13-AUG-2003 | 03-06-2311A | 02
06 | AR | WEST FORK, CITY OF | 05143C0170C | 24-OCT-2003 | 03-06-2768A | 02
06 | AR | WHITE COUNTY | 0504670009B | 07-JUL-2003 | 03-06-1885A | 02
06 | AR | WHITE COUNTY | 0504670015B | 03-DEC-2003 | 03-06-2800A | 02
06 | AR | WYNNE, CITY OF | 0500560008C | 22-OCT-2003 | 03-06-2014A | 02
06 | AR | YELL COUNTY | 05149C0175E | 22-OCT-2003 | 03-06-1841A | 02
06 | AR | YELL COUNTY | 05149C0050E | 31-OCT-2003 | 03-06-2644A | 02
06 | AR | YELLVILLE , CITY OF | 050136—01B | 24-OCT-2003 | 03-06-2131A | 02
06 | LA | ACADIA PARISH | 2200010185B | 08-OCT-2003 | 03-06-1599A | 02
06 | LA | ACADIA PARISH | 2200010075B | 16-JUL-2003 | 03-06-1998A | 02
06 | LA | ACADIA PARISH | 2200010185B | 06-AUG-2003 | 03-06-2352A | 02
06 | LA | ACADIA PARISH | 2200010275B | 01-OCT-2003 | 03-06-2597A | 02
06 | LA | ALEXANDRIA, CITY OF | 2201460015F | 11-JUL-2003 | 03-06-1805A | 02
06 | LA | ALEXANDRIA, CITY OF | 2201460010F | 15-AUG-2003 | 03-06-2091A | 01
06 | LA | ALEXANDRIA, CITY OF | 2201460015F | 15-AUG-2003 | 03-06-2200A | 02
06 | LA | ALLEN PARISH | 2200090225B | 02-JUL-2003 | 03-06-1695A | 02
06 | LA | ARNAUDVILLE, TOWN OF | 220166—01B | 31-OCT-2003 | 04-06-085A | 02
06 | LA | ASCENSION PARISH | 2200130040B | 02-JUL-2003 | 03-06-1057A | 02
06 | LA | ASCENSION PARISH | 2200130120C | 25-JUL-2003 | 03-06-2089A | 02
06 | LA | ASCENSION PARISH | 2200130110D | 05-NOV-2003 | 03-06-2136A | 01
06 | LA | ASCENSION PARISH | 2200130040B | 18-JUL-2003 | 03-06-2137A | 02
06 | LA | ASCENSION PARISH | 2200130040B | 03-SEP-2003 | 03-06-2188A | 02
06 | LA | ASCENSION PARISH | 2200130120C | 08-AUG-2003 | 03-06-2203A | 02
06 | LA | ASCENSION PARISH | 2200130040B | 26-SEP-2003 | 03-06-2225A | 02
06 | LA | ASCENSION PARISH | 2200130105C | 03-SEP-2003 | 03-06-2242A | 02
06 | LA | ASCENSION PARISH | 2200130105C | 08-AUG-2003 | 03-06-2245A | 02
06 | LA | ASCENSION PARISH | 2200130030C | 01-OCT-2003 | 03-06-2447A | 02
06 | LA | ASCENSION PARISH | 2200130045C | 27-AUG-2003 | 03-06-2515A | 02
06 | LA | ASCENSION PARISH | 2200130110D | 31-OCT-2003 | 03-06-2715A | 02
06 | LA | ASCENSION PARISH | 2200130045C | 14-NOV-2003 | 03-06-2773A | 01
06 | LA | ASCENSION PARISH | 2200130035C | 15-OCT-2003 | 03-06-2908A | 02
06 | LA | ASCENSION PARISH | 2200130025B | 21-NOV-2003 | 04-06-051A | 01
06 | LA | ASCENSION PARISH | 2200130035C | 14-NOV-2003 | 04-06-216A | 02
06 | LA | ASCENSION PARISH | 2200130070B | 31-DEC-2003 | 04-06-361A | 02
06 | LA | ASCENSION PARISH | 2200130045C | 31-DEC-2003 | 04-06-418A | 02
06 | LA | ASCENSION PARISH | 2200130130D | 24-DEC-2003 | 04-06-469A | 02
06 | LA | ASSUMPTION PARISH | 2200170150C | 05-SEP-2003 | 03-06-1624A | 02
06 | LA | AVOYELLES PARISH | 2200190075B | 11-JUL-2003 | 03-06-1896A | 02
06 | LA | AVOYELLES PARISH | 2200190075B | 19-NOV-2003 | 04-06-223A | 02
06 | LA | AVOYELLES PARISH | 2200190075B | 19-NOV-2003 | 04-06-224A | 02
06 | LA | BEAUREGARD PARISH | 2200260040B | 19-NOV-2003 | 04-06-025A | 02
06 | LA | BOGALUSA,CITY OF | 2202320005B | 26-NOV-2003 | 04-06-201A | 02
06 | LA | BOSSIER CITY, CITY OF | 2200330030C | 09-JUL-2003 | 03-06-1992A | 02
06 | LA | BOSSIER CITY, CITY OF | 2200310315B | 16-JUL-2003 | 03-06-2066A | 02
06 | LA | BOSSIER CITY, CITY OF | 2200330020C | 25-JUL-2003 | 03-06-2085A | 02
06 | LA | BOSSIER CITY, CITY OF | 2200330005C | 18-JUL-2003 | 03-06-2127A | 02
06 | LA | BOSSIER CITY, CITY OF | 2200330020C | 16-JUL-2003 | 03-06-2168A | 02
06 | LA | BOSSIER CITY, CITY OF | 2200330020C | 16-JUL-2003 | 03-06-2169A | 02
06 | LA | BOSSIER CITY, CITY OF | 2200310315B | 25-JUL-2003 | 03-06-2171A | 02
06 | LA | BOSSIER CITY, CITY OF | 2200330020C | 22-SEP-2003 | 03-06-2228A | 02
06 | LA | BOSSIER CITY, CITY OF | 2200330030C | 22-SEP-2003 | 03-06-2228A | 02
06 | LA | BOSSIER CITY, CITY OF | 2200330010C | 22-SEP-2003 | 03-06-2243A | 17
06 | LA | BOSSIER CITY, CITY OF | 2200330010C | 17-SEP-2003 | 03-06-2300A | 17
06 | LA | BOSSIER CITY, CITY OF | 2200310315B | 08-AUG-2003 | 03-06-2306A | 02
06 | LA | BOSSIER CITY, CITY OF | 2200330005C | 08-AUG-2003 | 03-06-2378A | 02
06 | LA | BOSSIER CITY, CITY OF | 2200330030C | 12-SEP-2003 | 03-06-2520A | 02
06 | LA | BOSSIER CITY, CITY OF | 2200310315B | 22-SEP-2003 | 03-06-2578A | 02
06 | LA | BOSSIER CITY, CITY OF | 2200330030C | 22-SEP-2003 | 03-06-2581A | 02
06 | LA | BOSSIER CITY, CITY OF | 2200330005C | 15-OCT-2003 | 03-06-2779A | 02
06 | LA | BOSSIER CITY, CITY OF | 2200330030C | 26-SEP-2003 | 03-06-2783A | 02
06 | LA | BOSSIER CITY, CITY OF | 2200330030C | 22-OCT-2003 | 03-06-2865A | 02
06 | LA | BOSSIER CITY, CITY OF | 2200330030C | 29-OCT-2003 | 03-06-2923A | 02
06 | LA | BOSSIER CITY, CITY OF | 2200330030C | 22-OCT-2003 | 03-06-2924A | 02
06 | LA | BOSSIER CITY, CITY OF | 2200310430B | 05-NOV-2003 | 04-06-023A | 02
06 | LA | BOSSIER CITY, CITY OF | 2200330030C | 05-NOV-2003 | 04-06-072A | 02
06 | LA | BOSSIER CITY, CITY OF | 2200330020C | 12-NOV-2003 | 04-06-112A | 02
06 | LA | BOSSIER CITY, CITY OF | 2200330005C | 21-NOV-2003 | 04-06-212A | 02
06 | LA | BOSSIER CITY, CITY OF | 2200310315B | 05-DEC-2003 | 04-06-353A | 02
06 | LA | BOSSIER CITY, CITY OF | 2200330030C | 10-DEC-2003 | 04-06-355A | 02
06 | LA | BOSSIER PARISH | 2200310025B | 02-JUL-2003 | 03-06-1500A | 02
06 | LA | BOSSIER PARISH | 2200310430B | 18-JUL-2003 | 03-06-1798A | 17
06 | LA | BOSSIER PARISH | 2200310390B | 16-JUL-2003 | 03-06-2126A | 02
06 | LA | BOSSIER PARISH | 2200310285B | 23-JUL-2003 | 03-06-2170A | 02
06 | LA | BOSSIER PARISH | 2200310390B | 16-JUL-2003 | 03-06-2173A | 02
06 | LA | BOSSIER PARISH | 2200310285B | 15-AUG-2003 | 03-06-2307A | 02
06 | LA | BOSSIER PARISH | 2200310390B | 15-AUG-2003 | 03-06-2308A | 02
06 | LA | BOSSIER PARISH | 2200310285B | 08-AUG-2003 | 03-06-2389A | 02
06 | LA | BOSSIER PARISH | 2200310390B | 03-OCT-2003 | 03-06-2628A | 02
06 | LA | BOSSIER PARISH | 2200310285B | 10-OCT-2003 | 03-06-2756A | 02
06 | LA | BOSSIER PARISH | 2200310285B | 15-OCT-2003 | 03-06-2821A | 01
06 | LA | BOSSIER PARISH | 2200310430B | 12-NOV-2003 | 04-06-173A | 02
06 | LA | CADDO PARISH | 22017C0250F | 25-JUL-2003 | 03-06-1811A | 02
06 | LA | CADDO PARISH | 22017C0580F | 27-AUG-2003 | 03-06-1999A | 02
06 | LA | CADDO PARISH | 22017C0250F | 06-AUG-2003 | 03-06-2299A | 02
06 | LA | CALCASIEU PARISH | 2200370350C | 05-SEP-2003 | 03-06-2001A | 02
06 | LA | CALCASIEU PARISH | 2200370275C | 21-NOV-2003 | 03-06-2503A | 02
06 | LA | CALCASIEU PARISH | 2200370575B | 10-OCT-2003 | 03-06-2633A | 01
06 | LA | CALCASIEU PARISH | 2200370375C | 31-OCT-2003 | 03-06-2947A | 02
06 | LA | CALCASIEU PARISH | 2200370375C | 24-OCT-2003 | 04-06-016A | 02
06 | LA | CARENCRO, TOWN OF | 22055C0010G | 02-JUL-2003 | 03-06-1503A | 02
06 | LA | CLAIBORNE PARISH | 2203620115B | 15-OCT-2003 | 03-06-2951A | 02
06 | LA | CONCORDIA PARISH | 2200530255B | 26-SEP-2003 | 03-06-2113A | 02
06 | LA | DENHAM SPRINGS, CITY OF | 22063C0205D | 25-JUL-2003 | 03-06-2179A | 02
06 | LA | DENHAM SPRINGS, CITY OF | 22063C0115D | 22-OCT-2003 | 03-06-2413A | 02
06 | LA | DENHAM SPRINGS, CITY OF | 22063C0115D | 22-SEP-2003 | 03-06-2433A | 02
06 | LA | DERIDDER, CITY OF | 2200270010D | 26-NOV-2003 | 04-06-301A | 02
06 | LA | DUSON, TOWN OF | 22055C0035H | 24-SEP-2003 | 03-06-2732A | 02
06 | LA | EAST BATON ROUGE PARISH | 2200580100D | 11-JUL-2003 | 03-06-1886A | 02
06 | LA | EAST BATON ROUGE PARISH | 2200580070D | 09-JUL-2003 | 03-06-1964A | 02
06 | LA | EAST BATON ROUGE PARISH | 2200580095D | 23-JUL-2003 | 03-06-2095A | 02
06 | LA | EAST BATON ROUGE PARISH | 2200580065D | 03-SEP-2003 | 03-06-2118A | 02
06 | LA | EAST BATON ROUGE PARISH | 2200580075D | 30-JUL-2003 | 03-06-2219A | 02
06 | LA | EAST BATON ROUGE PARISH | 2200580040D | 29-OCT-2003 | 03-06-2247A | 02
06 | LA | EAST BATON ROUGE PARISH | 2200580110D | 08-AUG-2003 | 03-06-2248A | 01
06 | LA | EAST BATON ROUGE PARISH | 2200580110D | 05-SEP-2003 | 03-06-2397A | 01
06 | LA | EAST BATON ROUGE PARISH | 2200580115D | 29-AUG-2003 | 03-06-2403A | 02
06 | LA | EAST BATON ROUGE PARISH | 2200580100D | 17-DEC-2003 | 03-06-2563A | 02
06 | LA | EAST BATON ROUGE PARISH | 2200580080D | 22-OCT-2003 | 03-06-2818A | 02
06 | LA | EAST BATON ROUGE PARISH | 2200580035D | 15-OCT-2003 | 03-06-2964A | 02
06 | LA | EAST BATON ROUGE PARISH | 2200580110D | 07-NOV-2003 | 04-06-008A | 01
06 | LA | EAST BATON ROUGE PARISH | 2200580010C | 29-OCT-2003 | 04-06-074A | 02
06 | LA | ESTHERWOOD, VILLAGE OF | 2200040001A | 03-DEC-2003 | 04-06-304A | 02
06 | LA | EUNICE, CITY OF | 2201680001B | 05-DEC-2003 | 04-06-013A | 02
06 | LA | EVANGELINE PARISH | 2200640007C | 02-JUL-2003 | 03-06-2004A | 02
06 | LA | FRENCH SETTLEMENT, VILLAGE OF | 22063C0355D | 01-OCT-2003 | 03-06-2632A | 02
06 | LA | JEFFERSON DAVIS PARISH | 2200950080B | 28-OCT-2003 | 03-06-1982A | 02
06 | LA | JEFFERSON PARISH | 22051C0040E | 08-AUG-2003 | 03-06-2304A | 02
06 | LA | KINDER, TOWN OF | 220010—01C | 02-JUL-2003 | 03-06-2010A | 02
06 | LA | KINDER, TOWN OF | 220010—01C | 14-NOV-2003 | 03-06-2729A | 02
06 | LA | KINDER, TOWN OF | 220010—01C | 15-OCT-2003 | 03-06-2916A | 02
06 | LA | KINDER, TOWN OF | 220010—01C | 24-OCT-2003 | 04-06-007A | 02
06 | LA | KINDER, TOWN OF | 220010—01C | 12-DEC-2003 | 04-06-055A | 02
06 | LA | KINDER, TOWN OF | 220010—01C | 19-DEC-2003 | 04-06-298A | 02
06 | LA | LAFAYETTE PARISH | 22055C0060G | 30-JUL-2003 | 03-06-2008A | 02
06 | LA | LAFAYETTE PARISH | 22055C0065G | 25-JUL-2003 | 03-06-2081A | 02
06 | LA | LAFAYETTE, CITY OF | 22055C0065G | 08-AUG-2003 | 03-06-1106A | 02
06 | LA | LAFAYETTE, CITY OF | 22055C0045G | 11-JUL-2003 | 03-06-1978A | 02
06 | LA | LAFAYETTE, CITY OF | 22055C0045G | 18-JUL-2003 | 03-06-2153A | 02
06 | LA | LAFAYETTE, CITY OF | 22055C0045G | 01-OCT-2003 | 03-06-2728A | 02
06 | LA | LAFAYETTE, CITY OF | 22055C0045G | 31-OCT-2003 | 03-06-2739A | 01
06 | LA | LAFAYETTE, CITY OF | 22055C0045G | 03-DEC-2003 | 03-06-2907A | 02
06 | LA | LAFAYETTE, CITY OF | 22055C0045G | 10-DEC-2003 | 04-06-375A | 02
06 | LA | LAFOURCHE PARISH | 2252020145C | 21-NOV-2003 | 03-06-2453A | 01
06 | LA | LAFOURCHE PARISH | 2252020140C | 24-SEP-2003 | 03-06-2702A | 02
06 | LA | LAKE CHARLES, CITY OF | 2200400010E | 20-AUG-2003 | 03-06-2301A | 02
06 | LA | LAKE CHARLES, CITY OF | 2200400010E | 03-SEP-2003 | 03-06-2600X | 02
06 | LA | LAKE CHARLES, CITY OF | 2200400010E | 10-OCT-2003 | 03-06-2794A | 02
06 | LA | LIVINGSTON PARISH | 22063C0285D | 01-AUG-2003 | 03-06-1556A | 02
06 | LA | LIVINGSTON PARISH | 22063C0139D | 26-SEP-2003 | 03-06-1703A | 02
06 | LA | LIVINGSTON PARISH | 22063C0120D | 23-JUL-2003 | 03-06-1912A | 02
06 | LA | LIVINGSTON PARISH | 22063C0125D | 06-AUG-2003 | 03-06-1913A | 02
06 | LA | LIVINGSTON PARISH | 22063C0125D | 02-JUL-2003 | 03-06-1921A | 02
06 | LA | LIVINGSTON PARISH | 22063C0025D | 11-JUL-2003 | 03-06-1922A | 02
06 | LA | LIVINGSTON PARISH | 22063C0125D | 09-JUL-2003 | 03-06-1991A | 02
06 | LA | LIVINGSTON PARISH | 22063C0175D | 11-JUL-2003 | 03-06-1993A | 02
06 | LA | LIVINGSTON PARISH | 22063C0225D | 18-JUL-2003 | 03-06-2129A | 02
06 | LA | LIVINGSTON PARISH | 22063C0120D | 30-JUL-2003 | 03-06-2184A | 02
06 | LA | LIVINGSTON PARISH | 22063C0205D | 30-JUL-2003 | 03-06-2185A | 02
06 | LA | LIVINGSTON PARISH | 22063C0205D | 21-NOV-2003 | 03-06-2205A | 02
06 | LA | LIVINGSTON PARISH | 22063C0210D | 21-NOV-2003 | 03-06-2205A | 02
06 | LA | LIVINGSTON PARISH | 22063C0125D | 30-JUL-2003 | 03-06-2229A | 02
06 | LA | LIVINGSTON PARISH | 22063C0125D | 13-AUG-2003 | 03-06-2246A | 02
06 | LA | LIVINGSTON PARISH | 22063C0120D | 08-AUG-2003 | 03-06-2385A | 02
06 | LA | LIVINGSTON PARISH | 22063C0120D | 08-AUG-2003 | 03-06-2386A | 02
06 | LA | LIVINGSTON PARISH | 22063C0370D | 01-OCT-2003 | 03-06-2396A | 02
06 | LA | LIVINGSTON PARISH | 22063C0138D | 12-SEP-2003 | 03-06-2432A | 02
06 | LA | LIVINGSTON PARISH | 22063C0225D | 27-AUG-2003 | 03-06-2495A | 02
06 | LA | LIVINGSTON PARISH | 22063C0125D | 26-SEP-2003 | 03-06-2631A | 02
06 | LA | LIVINGSTON PARISH | 22063C0125D | 08-OCT-2003 | 03-06-2747A | 02
06 | LA | LIVINGSTON PARISH | 22063C0210D | 03-DEC-2003 | 03-06-2859A | 02
06 | LA | LIVINGSTON PARISH | 22063C0210D | 22-OCT-2003 | 03-06-2912A | 17
06 | LA | LIVINGSTON PARISH | 22063C0228D | 31-OCT-2003 | 03-06-2944A | 02
06 | LA | LIVINGSTON PARISH | 22063C0115D | 18-JUL-2003 | 03-06-944A | 01
06 | LA | LIVINGSTON PARISH | 22063C0115D | 12-NOV-2003 | 04-06-152A | 02
06 | LA | LIVINGSTON PARISH | 22063C0225D | 10-DEC-2003 | 04-06-215A | 02
06 | LA | LIVINGSTON PARISH | 22063C0150D | 24-DEC-2003 | 04-06-476A | 02
06 | LA | LIVINGSTON PARISH | 22063C0125D | 24-DEC-2003 | 04-06-494A | 02
06 | LA | LIVINGSTON, TOWN OF | 22063C0255D | 29-OCT-2003 | 03-06-2935A | 02
06 | LA | MOREHOUSE PARISH | 2203670150B | 12-DEC-2003 | 03-06-2451A | 02
06 | LA | NATCHITOCHES PARISH | 2201290320C | 23-JUL-2003 | 03-06-1505A | 01
06 | LA | NATCHITOCHES PARISH | 2201290255C | 14-NOV-2003 | 03-06-2711A | 02
06 | LA | NEW ORLEANS/ORLEANS PARISH | 2252030095E | 18-JUL-2003 | 03-06-1906A | 02
06 | LA | NEW ORLEANS/ORLEANS PARISH | 2252030095E | 17-OCT-2003 | 03-06-2841A | 02
06 | LA | OUACHITA PARISH | 22073C0045E | 24-DEC-2003 | 03-06-2963A | 02
06 | LA | PINEVILLE, CITY OF | 2201510005B | 03-SEP-2003 | 03-06-2444A | 02
06 | LA | RAPIDES PARISH | 2201450250C | 16-JUL-2003 | 03-06-1422A | 02
06 | LA | RAPIDES PARISH | 2201450165B | 27-AUG-2003 | 03-06-1778A | 02
06 | LA | RAPIDES PARISH | 2201450175B | 12-SEP-2003 | 03-06-2096A | 02
06 | LA | RAPIDES PARISH | 2201450175B | 09-JUL-2003 | 03-06-2111A | 02
06 | LA | RAPIDES PARISH | 2201450125B | 03-SEP-2003 | 03-06-2163A | 02
06 | LA | RAPIDES PARISH | 2201450250C | 20-AUG-2003 | 03-06-2165A | 01
06 | LA | RAPIDES PARISH | 2201450250C | 21-NOV-2003 | 04-06-189A | 02
06 | LA | RICHLAND PARISH | 220154—11C | 06-AUG-2003 | 03-06-2298A | 02
06 | LA | RICHLAND PARISH | 220154—01C | 05-DEC-2003 | 03-06-2827A | 02
06 | LA | SABINE PARISH | 22085C0375C | 16-JUL-2003 | 03-06-1990A | 02
06 | LA | SCOTT, CITY OF | 22055C0040H | 09-JUL-2003 | 03-06-1957A | 02
06 | LA | SCOTT, CITY OF | 22055C0040H | 05-NOV-2003 | 04-06-158A | 02
06 | LA | SHREVEPORT, CITY OF | 22017C0451F | 18-JUL-2003 | 03-06-1901A | 02
06 | LA | SHREVEPORT, CITY OF | 22017C0486F | 16-JUL-2003 | 03-06-2074A | 01
06 | LA | SHREVEPORT, CITY OF | 22017C0488F | 16-JUL-2003 | 03-06-2080A | 02
06 | LA | SHREVEPORT, CITY OF | 22017C0585F | 11-JUL-2003 | 03-06-2086A | 02
06 | LA | SHREVEPORT, CITY OF | 22017C0487F | 09-JUL-2003 | 03-06-2090A | 02
06 | LA | SHREVEPORT, CITY OF | 22017C0487F | 16-JUL-2003 | 03-06-2128A | 02
06 | LA | SHREVEPORT, CITY OF | 22017C0487F | 18-JUL-2003 | 03-06-2166A | 02
06 | LA | SHREVEPORT, CITY OF | 22017C0487F | 23-JUL-2003 | 03-06-2167A | 02
06 | LA | SHREVEPORT, CITY OF | 22017C0487F | 18-JUL-2003 | 03-06-2172A | 02
06 | LA | SHREVEPORT, CITY OF | 22017C0487F | 20-AUG-2003 | 03-06-2318A | 02
06 | LA | SHREVEPORT, CITY OF | 22017C0487F | 27-AUG-2003 | 03-06-2516X | 01
06 | LA | SHREVEPORT, CITY OF | 22017C0478F | 03-SEP-2003 | 03-06-2574A | 02
06 | LA | SHREVEPORT, CITY OF | 22017C0487F | 17-SEP-2003 | 03-06-2577A | 02
06 | LA | SHREVEPORT, CITY OF | 22017C0451F | 14-NOV-2003 | 03-06-2722A | 02
06 | LA | SHREVEPORT, CITY OF | 22017C0477F | 24-SEP-2003 | 03-06-2795A | 02
06 | LA | SHREVEPORT, CITY OF | 22017C0487F | 24-OCT-2003 | 03-06-2858A | 02
06 | LA | SHREVEPORT, CITY OF | 22017C0477F | 12-NOV-2003 | 04-06-066A | 02
06 | LA | SHREVEPORT, CITY OF | 22017C0468F | 05-DEC-2003 | 04-06-165A | 02
06 | LA | SHREVEPORT, CITY OF | 22017C0487F | 19-NOV-2003 | 04-06-255A | 02
06 | LA | SHREVEPORT, CITY OF | 22017C0487F | 10-DEC-2003 | 04-06-354A | 02
06 | LA | ST. CHARLES PARISH | 2201600050C | 30-JUL-2003 | 03-06-1879A | 02
06 | LA | ST. CHARLES PARISH | 2201600125C | 24-OCT-2003 | 03-06-2650A | 02
06 | LA | ST. JOHN THE BAPTIST PARISH | 2201640225C | 11-JUL-2003 | 03-06-1830A | 01
06 | LA | ST. LANDRY PARISH | 2201650100B | 07-JUL-2003 | 03-06-1638A | 02
06 | LA | ST. TAMMANY PARISH | 2252050275C | 03-SEP-2003 | 03-06-1850A | 02
06 | LA | ST. TAMMANY PARISH | 2252050210C | 05-NOV-2003 | 03-06-2023A | 02
06 | LA | ST. TAMMANY PARISH | 2252050125C | 22-OCT-2003 | 03-06-2438A | 02
06 | LA | ST. TAMMANY PARISH | 2252050245C | 22-OCT-2003 | 03-06-2699A | 02
06 | LA | ST. TAMMANY PARISH | 2252050050C | 05-NOV-2003 | 03-06-2716A | 02
06 | LA | ST. TAMMANY PARISH | 2252050125C | 07-NOV-2003 | 04-06-161A | 02
06 | LA | TANGIPAHOA PARISH | 2202060225E | 18-JUL-2003 | 03-06-1790A | 02
06 | LA | TANGIPAHOA PARISH | 2202060175E | 08-AUG-2003 | 03-06-1985A | 01
06 | LA | TANGIPAHOA PARISH | 2202060225E | 22-AUG-2003 | 03-06-2315A | 02
06 | LA | TANGIPAHOA PARISH | 2202060205D | 20-AUG-2003 | 03-06-2404A | 02
06 | LA | TANGIPAHOA PARISH | 2202060175E | 03-SEP-2003 | 03-06-2484A | 02
06 | LA | TANGIPAHOA PARISH | 2202060195D | 03-OCT-2003 | 03-06-2608A | 01
06 | LA | TANGIPAHOA PARISH | 2202060165E | 10-OCT-2003 | 03-06-2780A | 02
06 | LA | UNION PARISH | 2203590275C | 24-SEP-2003 | 03-06-2152A | 01
06 | LA | VERMILION PARISH | 2202210275D | 22-AUG-2003 | 03-06-2362A | 02
06 | LA | VERMILION PARISH | 2202210275D | 13-AUG-2003 | 03-06-2363A | 02
06 | LA | VIDALIA, TOWN OF | 2200570005C | 19-NOV-2003 | 03-06-2394A | 02
06 | LA | VILLE PLATTE, TOWN OF | 2200700001C | 16-JUL-2003 | 03-06-1512A | 02
06 | LA | WEST CARROLL PARISH | 220243—15B | 03-DEC-2003 | 03-06-2645A | 02
06 | LA | WEST CARROLL PARISH | 220243—12B | 12-NOV-2003 | 03-06-2798A | 02
06 | LA | WEST FELICIANA PARISH | 2202450003B | 20-AUG-2003 | 03-06-2013A | 02
06 | LA | WEST FELICIANA PARISH | 2202450007B | 19-NOV-2003 | 03-06-2572A | 02
06 | LA | WEST MONROE, CITY OF | 22073C0045E | 12-SEP-2003 | 03-06-2182A | 02
06 | LA | WINN PARISH | 2203690095B | 26-SEP-2003 | 03-06-2450A | 02
06 | LA | WINNSBORO, TOWN OF | 2200740005B | 10-OCT-2003 | 03-06-2763A | 02
06 | LA | ZACHARY, CITY OF | 2200610005B | 12-AUG-2003 | 03-06-1997A | 02
06 | LA | ZACHARY, CITY OF | 2200610005B | 24-SEP-2003 | 03-06-2305A | 02
06 | LA | ZACHARY, CITY OF | 2200610005B | 30-SEP-2003 | 03-06-827P | 05
06 | LA | ZACHARY, CITY OF | 2200610005B | 22-OCT-2003 | 04-06-018A | 01
06 | NM | ALAMOGORDO, CITY OF | 3500450004B | 10-DEC-2003 | 04-06-348A | 02
06 | NM | ALBUQUERQUE, CITY OF | 35001C0328D | 15-AUG-2003 | 03-06-1002P | 06
06 | NM | ALBUQUERQUE, CITY OF | 35001C0386E | 20-AUG-2003 | 03-06-1725A | 01
06 | NM | ALBUQUERQUE, CITY OF | 35001C0327D | 09-OCT-2003 | 03-06-1734P | 06
06 | NM | ALBUQUERQUE, CITY OF | 35001C0309D | 21-OCT-2003 | 03-06-1742P | 06
06 | NM | ALBUQUERQUE, CITY OF | 35001C0328D | 21-OCT-2003 | 03-06-1742P | 06
06 | NM | ALBUQUERQUE, CITY OF | 35001C0114D | 06-AUG-2003 | 03-06-1756A | 02
06 | NM | ALBUQUERQUE, CITY OF | 35001C0331D | 25-JUL-2003 | 03-06-2077A | 01
06 | NM | ALBUQUERQUE, CITY OF | 35001C0354D | 25-JUL-2003 | 03-06-2213A | 01
06 | NM | ALBUQUERQUE, CITY OF | 35001C0341D | 29-AUG-2003 | 03-06-2425A | 02
06 | NM | ALBUQUERQUE, CITY OF | 35001C0367F | 16-DEC-2003 | 03-06-2531P | 06
06 | NM | ALBUQUERQUE, CITY OF | 35001C0137F | 16-DEC-2003 | 03-06-2543P | 06
06 | NM | ALBUQUERQUE, CITY OF | 35001C0341D | 01-OCT-2003 | 03-06-2583A | 02
06 | NM | ALBUQUERQUE, CITY OF | 35001C0327D | 12-SEP-2003 | 03-06-2590A | 02
06 | NM | ALBUQUERQUE, CITY OF | 35001C0327D | 03-OCT-2003 | 03-06-2678P | 06
06 | NM | ALBUQUERQUE, CITY OF | 35001C0137E | 04-AUG-2003 | 03-06-412P | 06
06 | NM | ALBUQUERQUE, CITY OF | 35001C0141E | 31-OCT-2003 | 04-06-090A | 02
06 | NM | ALBUQUERQUE, CITY OF | 35001C0327E | 20-NOV-2003 | 04-06-244P | 06
06 | NM | ALBUQUERQUE, CITY OF | 35001C0328E | 20-NOV-2003 | 04-06-245P | 06
06 | NM | ALBUQUERQUE, CITY OF | 35001C0327E | 20-NOV-2003 | 04-06-246P | 06
06 | NM | ALBUQUERQUE, CITY OF | 35001C0137F | 20-NOV-2003 | 04-06-247P | 06
06 | NM | ALBUQUERQUE, CITY OF | 35001C0161F | 09-DEC-2003 | 04-06-394P | 06
06 | NM | BERNALILLO COUNTY | 35001C0338D | 22-OCT-2003 | 02-06-1424P | 05
06 | NM | BERNALILLO COUNTY | 35001C0339D | 22-OCT-2003 | 02-06-1424P | 05
06 | NM | BERNALILLO COUNTY | 35001C0531D | 10-SEP-2003 | 03-06-2603A | 02
06 | NM | BERNALILLO COUNTY | 35001C0329D | 08-SEP-2003 | 03-06-445P | 06
06 | NM | BERNALILLO COUNTY | 35001C0309E | 20-NOV-2003 | 04-06-242P | 06
06 | NM | BERNALILLO COUNTY | 35001C0328E | 20-NOV-2003 | 04-06-242P | 06
06 | NM | BERNALILLO COUNTY | 35001C0187E | 24-DEC-2003 | 04-06-308A | 02
06 | NM | BOSQUE FARMS, CITY OF | 3501420002B | 23-JUL-2003 | 03-06-2222A | 02
06 | NM | BOSQUE FARMS, CITY OF | 3501420002B | 08-AUG-2003 | 03-06-2410X | 02
06 | NM | BOSQUE FARMS, CITY OF | 3501420002B | 17-OCT-2003 | 03-06-2833A | 01
06 | NM | CARLSBAD, CITY OF | 3500170004C | 31-DEC-2003 | 04-06-163A | 02
06 | NM | CORRALES, VILLAGE OF | 35043C0914C | 27-AUG-2003 | 03-06-1648A | 02
06 | NM | DONA ANA COUNTY | 35013C1050F | 06-AUG-2003 | 03-06-2048P | 06
06 | NM | FARMINGTON, CITY OF | 3500670042E | 27-AUG-2003 | 03-06-1691A | 02
06 | NM | FARMINGTON, CITY OF | 3500670039E | 01-AUG-2003 | 03-06-2237A | 02
06 | NM | FARMINGTON, CITY OF | 3500670042E | 10-DEC-2003 | 04-06-295A | 02
06 | NM | LAS CRUCES, CITY OF | 35013C0632F | 15-AUG-2003 | 03-06-1210P | 05
06 | NM | LAS CRUCES, CITY OF | 35013C0631E | 13-AUG-2003 | 03-06-2392X | 01
06 | NM | LAS CRUCES, CITY OF | 35013C0518F | 10-SEP-2003 | 03-06-2586A | 02
06 | NM | LAS CRUCES, CITY OF | 35013C0631E | 14-NOV-2003 | 04-06-069A | 02
06 | NM | LOS LUNAS, VILLAGE OF | 3501440005A | 24-OCT-2003 | 04-06-076A | 02
06 | NM | LOS LUNAS, VILLAGE OF | 3501440005A | 19-DEC-2003 | 04-06-362A | 01
06 | NM | ROSWELL, CITY OF | 3500060006C | 22-OCT-2003 | 03-06-2860A | 02
06 | NM | SAN JUAN COUNTY | 3500640510C | 10-OCT-2003 | 03-06-2132A | 01
06 | NM | SANTA FE COUNTY | 3500690175B | 24-SEP-2003 | 03-06-1542P | 06
06 | NM | SANTA FE, CITY OF | 3500700011B | 25-JUL-2003 | 03-06-2069A | 02
06 | NM | SANTA FE, CITY OF | 3500700003B | 15-AUG-2003 | 03-06-2073A | 02
06 | NM | SANTA FE, CITY OF | 3500700005C | 01-OCT-2003 | 03-06-2579A | 02
06 | NM | SANTA FE, CITY OF | 3500700005C | 01-OCT-2003 | 03-06-2582A | 02
06 | NM | SANTA FE, CITY OF | 3500700008B | 17-OCT-2003 | 03-06-2817A | 02
06 | NM | TUCUMCARI, CITY OF | 35037C0662C | 08-OCT-2003 | 03-06-2755A | 02
06 | NM | VALENCIA COUNTY | 3500860185D | 03-SEP-2003 | 03-06-2134A | 02
06 | NM | VALENCIA COUNTY | 3500860185D | 15-AUG-2003 | 03-06-2204A | 02
06 | NM | VALENCIA COUNTY | 3500860185D | 24-SEP-2003 | 03-06-2725A | 02
06 | NM | VALENCIA COUNTY | 3500860195D | 12-DEC-2003 | 03-06-2787A | 02
06 | NM | VALENCIA COUNTY | 3500860185D | 19-DEC-2003 | 04-06-299A | 01
06 | OK | BARTLESVILLE, CITY OF | 4002200016D | 29-OCT-2003 | 03-06-1328A | 02
06 | OK | BARTLESVILLE, CITY OF | 4004590055B | 29-OCT-2003 | 03-06-1328A | 02
06 | OK | BETHANY, CITY OF | 40109C0195G | 15-OCT-2003 | 03-06-2202A | 01
06 | OK | BLAINE COUNTY | 4000110200A | 08-AUG-2003 | 03-06-1324A | 02
06 | OK | BLANCHARD, CITY OF | 4005380050A | 16-JUL-2003 | 03-06-2019A | 02
06 | OK | BROKEN ARROW, CITY OF | 40143C0541J | 30-JUL-2003 | 03-06-1723A | 02
06 | OK | BROKEN ARROW, CITY OF | 40143C0631H | 02-JUL-2003 | 03-06-1970A | 02
06 | OK | BROKEN ARROW, CITY OF | 40143C0541J | 05-SEP-2003 | 03-06-2585A | 02
06 | OK | BROKEN ARROW, CITY OF | 40143C0541J | 24-SEP-2003 | 03-06-2648A | 02
06 | OK | BROKEN ARROW, CITY OF | 40143C0537J | 01-OCT-2003 | 03-06-2816A | 02
06 | OK | BROKEN ARROW, CITY OF | 40143C0537J | 01-OCT-2003 | 03-06-2835A | 02
06 | OK | BROKEN ARROW, CITY OF | 40143C0534H | 08-OCT-2003 | 03-06-2843A | 02
06 | OK | BROKEN ARROW, CITY OF | 40143C0537J | 19-NOV-2003 | 04-06-267A | 02
06 | OK | BROKEN ARROW, CITY OF | 40143C0631H | 24-DEC-2003 | 04-06-365A | 02
06 | OK | CADDO COUNTY | 40015C0355D | 15-OCT-2003 | 03-06-2466A | 02
06 | OK | CHEROKEE COUNTY | 40021C0075C | 03-OCT-2003 | 03-06-2721A | 02
06 | OK | CLEVELAND COUNTY | 40027C0080F | 07-NOV-2003 | 03-06-1477A | 02
06 | OK | CLEVELAND COUNTY | 40027C0080F | 15-AUG-2003 | 03-06-2232A | 02
06 | OK | CLEVELAND COUNTY | 40027C0110F | 27-AUG-2003 | 03-06-2469A | 02
06 | OK | CRAIG COUNTY | 4005400150A | 31-OCT-2003 | 04-06-114A | 02
06 | OK | CREEK COUNTY | 4004900150C | 26-NOV-2003 | 04-06-306A | 02
06 | OK | DAVIS, CITY OF | 400366—01A | 15-OCT-2003 | 03-06-2777A | 02
06 | OK | DELAWARE COUNTY | 40041C0160D | 23-JUL-2003 | 03-06-2076A | 02
06 | OK | DELAWARE COUNTY | 40041C0280D | 12-SEP-2003 | 03-06-2616A | 02
06 | OK | DELAWARE COUNTY | 40041C0450D | 22-SEP-2003 | 03-06-2646A | 02
06 | OK | DELAWARE COUNTY | 40041C0180D | 19-DEC-2003 | 04-06-433A | 02
06 | OK | EDMOND, CITY OF | 40109C0080G | 29-AUG-2003 | 03-06-1863A | 02
06 | OK | EDMOND, CITY OF | 40109C0086G | 11-JUL-2003 | 03-06-1870A | 02
06 | OK | EDMOND, CITY OF | 40109C0069G | 18-JUL-2003 | 03-06-2103A | 02
06 | OK | EDMOND, CITY OF | 40109C0069G | 10-SEP-2003 | 03-06-2309A | 02
06 | OK | EDMOND, CITY OF | 40109C0069G | 27-AUG-2003 | 03-06-2401A | 02
06 | OK | EDMOND, CITY OF | 40109C0069G | 26-SEP-2003 | 03-06-2481A | 02
06 | OK | EDMOND, CITY OF | 40109C0090G | 17-SEP-2003 | 03-06-2665A | 02
06 | OK | EDMOND, CITY OF | 40109C0060G | 26-SEP-2003 | 03-06-2738A | 02
06 | OK | EDMOND, CITY OF | 40109C0080G | 31-DEC-2003 | 04-06-584A | 02
06 | OK | EL RENO, CITY OF | 40017C0295D | 26-SEP-2003 | 03-06-2567A | 02
06 | OK | EL RENO, CITY OF | 40017C0315D | 12-NOV-2003 | 04-06-073A | 02
06 | OK | ELK CITY, CITY OF | 4000100005C | 03-OCT-2003 | 03-06-2931A | 02
06 | OK | ENID, CITY OF | 40047C0115C | 25-JUL-2003 | 03-06-1643A | 02
06 | OK | ENID, CITY OF | 40047C0115C | 22-OCT-2003 | 03-06-2847A | 02
06 | OK | ENID, CITY OF | 40047C0115C | 15-OCT-2003 | 03-06-2853A | 02
06 | OK | GARFIELD COUNTY | 40047C0175C | 02-JUL-2003 | 03-06-1857A | 02
06 | OK | GARFIELD COUNTY | 40047C0095D | 17-SEP-2003 | 03-06-2663A | 02
06 | OK | GRADY COUNTY | 4004830275C | 03-OCT-2003 | 03-06-1637A | 02
06 | OK | GROVE, TOWN OF | 40041C0177D | 31-OCT-2003 | 04-06-087A | 02
06 | OK | JENKS, CITY OF | 40143C0605H | 11-JUL-2003 | 03-06-1814A | 17
06 | OK | JENKS, CITY OF | 40143C0605H | 19-DEC-2003 | 04-06-514A | 02
06 | OK | KANSAS, TOWN OF | 40041C0575D | 26-NOV-2003 | 03-06-2758A | 02
06 | OK | KAY COUNTY | 4004770200A | 26-NOV-2003 | 04-06-314A | 02
06 | OK | KINGFISHER COUNTY | 40073C0305C | 22-SEP-2003 | 03-06-2649A | 01
06 | OK | KINGFISHER COUNTY | 40073C0305C | 21-NOV-2003 | 04-06-207A | 01
06 | OK | LAHOMA, TOWN OF | 40047C0090C | 11-JUL-2003 | 03-06-1597A | 02
06 | OK | LAWTON, CITY OF | 40031C0250D | 18-JUL-2003 | 03-06-076P | 05
06 | OK | LAWTON, CITY OF | 40031C0252C | 16-JUL-2003 | 03-06-2148A | 02
06 | OK | LAWTON, CITY OF | 40031C0232C | 15-AUG-2003 | 03-06-2379A | 02
06 | OK | LE FLORE COUNTY | 4004840008B | 24-DEC-2003 | 04-06-589A | 02
06 | OK | LINCOLN COUNTY | 4004570175B | 16-JUL-2003 | 03-06-1519A | 02
06 | OK | MIDWEST CITY, CITY OF | 40109C0405G | 11-JUL-2003 | 03-06-1157A | 02
06 | OK | MIDWEST CITY, CITY OF | 40109C0385G | 02-JUL-2003 | 03-06-1925A | 02
06 | OK | MIDWEST CITY, CITY OF | 40109C0385G | 23-JUL-2003 | 03-06-2195A | 02
06 | OK | MIDWEST CITY, CITY OF | 40109C0405G | 03-OCT-2003 | 03-06-2233A | 02
06 | OK | MIDWEST CITY, CITY OF | 40109C0385G | 10-SEP-2003 | 03-06-2350A | 02
06 | OK | MIDWEST CITY, CITY OF | 40109C0385G | 26-SEP-2003 | 03-06-2815A | 02
06 | OK | MIDWEST CITY, CITY OF | 40109C0405G | 05-DEC-2003 | 04-06-342A | 02
06 | OK | MOORE, CITY OF | 40027C0037F | 05-SEP-2003 | 03-06-1852A | 02
06 | OK | MOORE, CITY OF | 40027C0037F | 17-SEP-2003 | 03-06-2297A | 02
06 | OK | MUSKOGEE COUNTY | 40101C0225D | 26-SEP-2003 | 03-06-2028A | 02
06 | OK | MUSKOGEE COUNTY | 40101C0107D | 09-JUL-2003 | 03-06-2108A | 02
06 | OK | MUSKOGEE, CITY OF | 40101C0150D | 16-JUL-2003 | 03-06-1908A | 02
06 | OK | NOBLE COUNTY | 4001320200A | 13-AUG-2003 | 03-06-1678A | 02
06 | OK | NORMAN,CITY OF | 40027C0080F | 11-JUL-2003 | 03-06-1952A | 02
06 | OK | NORMAN,CITY OF | 40027C0095G | 12-SEP-2003 | 03-06-2745A | 02
06 | OK | NORMAN,CITY OF | 40027C0105F | 26-NOV-2003 | 04-06-285A | 02
06 | OK | NORMAN,CITY OF | 40027C0095G | 10-DEC-2003 | 04-06-349A | 02
06 | OK | NORMAN,CITY OF | 40027C0095G | 17-DEC-2003 | 04-06-438A | 02
06 | OK | NORTH ENID, TOWN OF | 40047C0115C | 17-SEP-2003 | 03-06-2619A | 02
06 | OK | OKLAHOMA CITY, CITY OF | 40109C0361G | 29-SEP-2003 | 02-06-654P | 05
06 | OK | OKLAHOMA CITY, CITY OF | 40109C0060G | 13-AUG-2003 | 03-06-1300A | 01
06 | OK | OKLAHOMA CITY, CITY OF | 40109C0216G | 07-JUL-2003 | 03-06-1343A | 02
06 | OK | OKLAHOMA CITY, CITY OF | 40109C0064G | 01-AUG-2003 | 03-06-1389P | 05
06 | OK | OKLAHOMA CITY, CITY OF | 40109C0069G | 31-OCT-2003 | 03-06-1823A | 02
06 | OK | OKLAHOMA CITY, CITY OF | 40109C0214G | 23-JUL-2003 | 03-06-1967A | 02
06 | OK | OKLAHOMA CITY, CITY OF | 40109C0265G | 20-AUG-2003 | 03-06-2120A | 02
06 | OK | OKLAHOMA CITY, CITY OF | 40109C0270G | 20-AUG-2003 | 03-06-2120A | 02
06 | OK | OKLAHOMA CITY, CITY OF | 40109C0206G | 30-JUL-2003 | 03-06-2143A | 02
06 | OK | OKLAHOMA CITY, CITY OF | 40109C0460G | 22-AUG-2003 | 03-06-2145A | 02
06 | OK | OKLAHOMA CITY, CITY OF | 40109C0216G | 22-SEP-2003 | 03-06-2312A | 02
06 | OK | OKLAHOMA CITY, CITY OF | 40109C0207G | 24-SEP-2003 | 03-06-2380A | 02
06 | OK | OKLAHOMA CITY, CITY OF | 40109C0368G | 22-AUG-2003 | 03-06-2420A | 02
06 | OK | OKLAHOMA CITY, CITY OF | 40109C0414G | 21-NOV-2003 | 03-06-2422A | 02
06 | OK | OKLAHOMA CITY, CITY OF | 40109C0182G | 20-AUG-2003 | 03-06-2471A | 02
06 | OK | OKLAHOMA CITY, CITY OF | 40109C0218G | 27-AUG-2003 | 03-06-2477A | 02
06 | OK | OKLAHOMA CITY, CITY OF | 40109C0219G | 03-SEP-2003 | 03-06-2496A | 02
06 | OK | OKLAHOMA CITY, CITY OF | 40109C0211G | 22-AUG-2003 | 03-06-2514A | 02
06 | OK | OKLAHOMA CITY, CITY OF | 40109C0201G | 01-OCT-2003 | 03-06-2522A | 01
06 | OK | OKLAHOMA CITY, CITY OF | 40109C0351G | 22-SEP-2003 | 03-06-2561A | 02
06 | OK | OKLAHOMA CITY, CITY OF | 40109C0216G | 03-SEP-2003 | 03-06-2570A | 02
06 | OK | OKLAHOMA CITY, CITY OF | 40109C0211G | 12-SEP-2003 | 03-06-2580A | 02
06 | OK | OKLAHOMA CITY, CITY OF | 40109C0217G | 22-SEP-2003 | 03-06-2654A | 02
06 | OK | OKLAHOMA CITY, CITY OF | 40109C0419G | 01-OCT-2003 | 03-06-2667A | 01
06 | OK | OKLAHOMA CITY, CITY OF | 40109C0218G | 17-SEP-2003 | 03-06-2704A | 02
06 | OK | OKLAHOMA CITY, CITY OF | 40109C0412G | 19-NOV-2003 | 03-06-2850A | 02
06 | OK | OKLAHOMA CITY, CITY OF | 40109C0183G | 05-NOV-2003 | 03-06-2861A | 02
06 | OK | OKLAHOMA CITY, CITY OF | 40109C0183G | 31-DEC-2003 | 03-06-2870A | 02
06 | OK | OKLAHOMA CITY, CITY OF | 40109C0218G | 15-OCT-2003 | 03-06-2909A | 02
06 | OK | OKLAHOMA CITY, CITY OF | 40109C0387G | 15-OCT-2003 | 03-06-2911A | 02
06 | OK | OKLAHOMA CITY, CITY OF | 40109C0203G | 15-OCT-2003 | 03-06-2950A | 02
06 | OK | OKLAHOMA CITY, CITY OF | 40109C0214G | 01-AUG-2003 | 03-06-359A | 02
06 | OK | OKLAHOMA CITY, CITY OF | 40109C0216G | 29-OCT-2003 | 04-06-005A | 02
06 | OK | OKLAHOMA CITY, CITY OF | 40109C0183G | 17-OCT-2003 | 04-06-009A | 02
06 | OK | OKLAHOMA CITY, CITY OF | 40109C0214G | 05-NOV-2003 | 04-06-103A | 02
06 | OK | OKLAHOMA CITY, CITY OF | 40109C0218G | 05-NOV-2003 | 04-06-104A | 02
06 | OK | OKLAHOMA CITY, CITY OF | 40109C0202G | 07-NOV-2003 | 04-06-208A | 02
06 | OK | OKLAHOMA CITY, CITY OF | 40109C0216G | 21-NOV-2003 | 04-06-213A | 02
06 | OK | OKLAHOMA CITY, CITY OF | 40109C0206G | 10-DEC-2003 | 04-06-352A | 02
06 | OK | OKLAHOMA CITY, CITY OF | 40109C0208G | 10-DEC-2003 | 04-06-352A | 02
06 | OK | OKLAHOMA CITY, CITY OF | 40109C0391G | 12-DEC-2003 | 04-06-430A | 02
06 | OK | OKLAHOMA CITY, CITY OF | 40109C0214G | 12-DEC-2003 | 04-06-441A | 02
06 | OK | OKLAHOMA CITY, CITY OF | 40109C0391G | 17-DEC-2003 | 04-06-443A | 02
06 | OK | OKLAHOMA COUNTY | 40109C0276G | 15-AUG-2003 | 03-06-1697A | 02
06 | OK | OKLAHOMA COUNTY | 40109C0035G | 07-NOV-2003 | 03-06-2154A | 02
06 | OK | OKLAHOMA COUNTY | 40109C0045G | 15-AUG-2003 | 03-06-2240A | 02
06 | OK | OKLAHOMA COUNTY | 40109C0214G | 19-DEC-2003 | 04-06-542A | 02
06 | OK | OWASSO, CITY OF | 40143C0236H | 19-NOV-2003 | 03-06-2598A | 02
06 | OK | OWASSO, CITY OF | 40143C0228H | 17-SEP-2003 | 03-06-2714A | 02
06 | OK | PAWHUSKA, CITY OF | 4001520001B | 12-DEC-2003 | 03-06-2766A | 17
06 | OK | PIEDMONT, CITY OF | 40017C0180D | 09-JUL-2003 | 03-06-1696A | 02
06 | OK | PIEDMONT, CITY OF | 40017C0190D | 03-SEP-2003 | 03-06-1833A | 02
06 | OK | PITTSBURG COUNTY | 4004940009A | 03-SEP-2003 | 03-06-2198A | 02
06 | OK | PONCA CITY, CITY OF | 4000800005C | 23-JUL-2003 | 03-06-1164A | 02
06 | OK | PONTOTOC COUNTY | 4004950005A | 10-OCT-2003 | 03-06-2772A | 02
06 | OK | POTTAWATOMIE COUNTY | 40125C0125D | 08-OCT-2003 | 03-06-2697A | 02
06 | OK | POTTAWATOMIE COUNTY | 40125C0085D | 17-OCT-2003 | 03-06-2802A | 01
06 | OK | ROGERS COUNTY | 4053790075B | 25-JUL-2003 | 03-06-111P | 06
06 | OK | ROGERS COUNTY | 4053790120B | 12-SEP-2003 | 03-06-1392P | 05
06 | OK | ROGERS COUNTY | 4053790075B | 02-JUL-2003 | 03-06-2059A | 02
06 | OK | ROGERS COUNTY | 4053790075B | 16-JUL-2003 | 03-06-2092A | 02
06 | OK | ROGERS COUNTY | 4053790200B | 19-NOV-2003 | 03-06-2431A | 02
06 | OK | ROGERS COUNTY | 4053790105C | 07-NOV-2003 | 03-06-2730A | 17
06 | OK | ROGERS COUNTY | 4053790140B | 22-SEP-2003 | 03-06-2790A | 02
06 | OK | ROGERS COUNTY | 4053790075B | 10-OCT-2003 | 03-06-2803A | 02
06 | OK | ROGERS COUNTY | 4053790105C | 12-DEC-2003 | 04-06-481A | 02
06 | OK | SALLISAW, CITY OF | 40135C0165E | 12-NOV-2003 | 03-06-2733A | 02
06 | OK | SEQUOYAH COUNTY | 40135C0150D | 10-DEC-2003 | 04-06-427A | 02
06 | OK | SHAWNEE, CITY OF | 40125C0101D | 17-OCT-2003 | 03-06-2954A | 02
06 | OK | SHAWNEE, CITY OF | 40125C0101D | 17-OCT-2003 | 03-06-2968A | 02
06 | OK | STILLWATER, CITY OF | 4053800005D | 22-OCT-2003 | 03-06-2807A | 02
06 | OK | TECUMSEH, CITY OF | 40125C0111D | 24-OCT-2003 | 04-06-068A | 02
06 | OK | THE VILLAGE, CITY OF | 40109C0208G | 26-SEP-2003 | 03-06-2775A | 02
06 | OK | TULSA COUNTY | 40143C0539J | 16-JUL-2003 | 03-06-2102A | 02
06 | OK | TULSA COUNTY | 40143C0630H | 14-NOV-2003 | 03-06-2419A | 17
06 | OK | TULSA, CITY OF | 40143C0526J | 29-SEP-2003 | 03-06-1535P | 05
06 | OK | TULSA, CITY OF | 40143C0528J | 29-SEP-2003 | 03-06-1535P | 05
06 | OK | TULSA, CITY OF | 40143C0369J | 01-OCT-2003 | 03-06-1541P | 05
06 | OK | TULSA, CITY OF | 40143C0507J | 02-JUL-2003 | 03-06-1783A | 02
06 | OK | TULSA, CITY OF | 40143C0512H | 30-DEC-2003 | 03-06-1939P | 05
06 | OK | TULSA, CITY OF | 40143C0520H | 30-DEC-2003 | 03-06-1939P | 05
06 | OK | TULSA, CITY OF | 40143C0528J | 09-OCT-2003 | 03-06-1945P | 05
06 | OK | TULSA, CITY OF | 40143C0505H | 30-JUL-2003 | 03-06-2083A | 02
06 | OK | TULSA, CITY OF | 40143C0507J | 11-JUL-2003 | 03-06-2156X | 02
06 | OK | TULSA, CITY OF | 40143C0526J | 17-SEP-2003 | 03-06-2519A | 02
06 | OK | TULSA, CITY OF | 40143C0368J | 01-OCT-2003 | 03-06-2734A | 02
06 | OK | TULSA, CITY OF | 40143C0369J | 01-OCT-2003 | 03-06-2734A | 02
06 | OK | TULSA, CITY OF | 40143C0520H | 05-NOV-2003 | 03-06-831P | 05
06 | OK | TULSA, CITY OF | 40143C0526J | 24-OCT-2003 | 04-06-004A | 02
06 | OK | TULSA, CITY OF | 40143C0369J | 24-OCT-2003 | 04-06-006A | 02
06 | OK | TULSA, CITY OF | 40143C0505H | 19-DEC-2003 | 04-06-424A | 02
06 | OK | TULSA, CITY OF | 40143C0345H | 10-DEC-2003 | 04-06-465A | 02
06 | OK | VINITA, CITY OF | 4000500001C | 05-DEC-2003 | 04-06-364A | 02
06 | OK | WAGONER COUNTY | 4002150031B | 14-NOV-2003 | 03-06-2215A | 02
06 | OK | WALTERS, CITY OF | 40033C0050B | 01-OCT-2003 | 03-06-2558A | 02
06 | OK | WARR ACRES, CITY OF | 40109C0211G | 10-SEP-2003 | 03-06-1463A | 02
06 | OK | WARR ACRES, CITY OF | 40109C0211G | 16-JUL-2003 | 03-06-2082A | 02
06 | OK | WARR ACRES, CITY OF | 40109C0211G | 24-SEP-2003 | 03-06-2241A | 02
06 | OK | WARR ACRES, CITY OF | 40109C0211G | 19-NOV-2003 | 04-06-340A | 02
06 | OK | WASHINGTON COUNTY | 4004590065A | 11-JUL-2003 | 03-06-1859A | 02
06 | OK | WASHINGTON COUNTY | 4004590100A | 20-AUG-2003 | 03-06-2487A | 02
06 | OK | WASHINGTON COUNTY | 4004590065A | 29-AUG-2003 | 03-06-2513A | 02
06 | OK | WASHINGTON COUNTY | 4004590100A | 01-OCT-2003 | 03-06-2760A | 02
06 | TX | ABILENE, CITY OF | 4810140005B | 24-NOV-2003 | 03-06-198P | 05
06 | TX | ABILENE, CITY OF | 4810140006B | 24-NOV-2003 | 03-06-198P | 05
06 | TX | ADDISON, TOWN OF | 48113C0185J | 25-JUL-2003 | 03-06-2115A | 02
06 | TX | ALLEN, CITY OF | 48085C0295G | 06-AUG-2003 | 02-06-1097P | 05
06 | TX | ALLEN, CITY OF | 48085C0430G | 05-NOV-2003 | 04-06-001A | 02
06 | TX | ALPINE, CITY OF | 4800850002B | 26-NOV-2003 | 04-06-281A | 02
06 | TX | ARLINGTON, CITY OF | 48439C0577H | 22-JUL-2003 | 03-06-1010P | 05
06 | TX | ARLINGTON, CITY OF | 48439C0429J | 11-JUL-2003 | 03-06-1761A | 02
06 | TX | ARLINGTON, CITY OF | 48439C0461H | 05-SEP-2003 | 03-06-1807A | 02
06 | TX | ARLINGTON, CITY OF | 48439C0440J | 20-AUG-2003 | 03-06-2454A | 02
06 | TX | ARLINGTON, CITY OF | 48439C0441J | 27-AUG-2003 | 03-06-2553A | 02
06 | TX | ARLINGTON, CITY OF | 48439C0444H | 03-OCT-2003 | 03-06-2837A | 02
06 | TX | ARLINGTON, CITY OF | 48439C0433J | 12-NOV-2003 | 04-06-263A | 02
06 | TX | ARLINGTON, CITY OF | 48439C0462H | 26-NOV-2003 | 04-06-270A | 02
06 | TX | ARLINGTON, CITY OF | 48439C0444H | 10-DEC-2003 | 04-06-374A | 02
06 | TX | ATASCOSA COUNTY | 4800140125B | 24-SEP-2003 | 03-06-2358A | 02
06 | TX | AUSTIN COUNTY | 48015C0275C | 24-SEP-2003 | 03-06-2596A | 02
06 | TX | AUSTIN COUNTY | 48015C0300C | 24-SEP-2003 | 03-06-2596A | 02
06 | TX | AUSTIN, CITY OF | 48453C0200E | 31-JUL-2003 | 02-06-2609P | 06
06 | TX | AUSTIN, CITY OF | 48453C0255F | 11-JUL-2003 | 03-06-2124A | 02
06 | TX | AUSTIN, CITY OF | 48453C0285E | 13-AUG-2003 | 03-06-2384A | 02
06 | TX | AUSTIN, CITY OF | 48453C0165E | 03-SEP-2003 | 03-06-2508X | 02
06 | TX | AUSTIN, CITY OF | 48453C0255F | 10-SEP-2003 | 03-06-2562A | 02
06 | TX | AUSTIN, CITY OF | 48453C0200E | 12-SEP-2003 | 03-06-2623A | 02
06 | TX | AUSTIN, CITY OF | 48453C0245E | 12-NOV-2003 | 03-06-2757A | 02
06 | TX | AUSTIN, CITY OF | 48453C0255F | 26-SEP-2003 | 03-06-2814X | 02
06 | TX | AUSTIN, CITY OF | 48453C0165E | 10-OCT-2003 | 03-06-2906A | 02
06 | TX | AUSTIN, CITY OF | 48453C0255F | 05-NOV-2003 | 03-06-2949A | 02
06 | TX | AUSTIN, CITY OF | 48453C0210F | 31-DEC-2003 | 04-06-282A | 02
06 | TX | BANDERA COUNTY | 4800200265A | 03-DEC-2003 | 03-06-2793A | 02
06 | TX | BANDERA COUNTY | 4800200130A | 24-DEC-2003 | 04-06-193A | 02
06 | TX | BASTROP COUNTY | 48021C0200C | 16-JUL-2003 | 03-06-1602A | 02
06 | TX | BEAUMONT, CITY OF | 4854570050D | 19-NOV-2003 | 02-06-2312P | 05
06 | TX | BELL COUNTY | 4807060225B | 02-JUL-2003 | 03-06-1816A | 02
06 | TX | BELLMEAD, CITY OF | 4804570005B | 25-JUL-2003 | 03-06-1864A | 01
06 | TX | BENBROOK, CITY OF | 48439C0380H | 09-JUL-2003 | 03-06-1969A | 02
06 | TX | BENBROOK, CITY OF | 48439C0390J | 24-SEP-2003 | 03-06-2764A | 02
06 | TX | BENBROOK, CITY OF | 48439C0380H | 17-DEC-2003 | 04-06-482A | 02
06 | TX | BENBROOK, CITY OF | 48439C0385J | 17-DEC-2003 | 04-06-482A | 02
06 | TX | BENBROOK, CITY OF | 48439C0390J | 17-DEC-2003 | 04-06-482A | 02
06 | TX | BENBROOK, CITY OF | 48439C0395J | 17-DEC-2003 | 04-06-482A | 02
06 | TX | BEXAR COUNTY | 48029C0229F | 30-OCT-2003 | 03-06-1205P | 06
06 | TX | BEXAR COUNTY | 48029C0237F | 30-OCT-2003 | 03-06-1205P | 06
06 | TX | BEXAR COUNTY | 48029C0313E | 16-JUL-2003 | 03-06-1246A | 02
06 | TX | BEXAR COUNTY | 48029C0085E | 18-JUL-2003 | 03-06-1388P | 06
06 | TX | BEXAR COUNTY | 48029C0416E | 13-AUG-2003 | 03-06-1824A | 02
06 | TX | BEXAR COUNTY | 48029C0085E | 15-AUG-2003 | 03-06-2238A | 02
06 | TX | BEXAR COUNTY | 48029C0130F | 18-AUG-2003 | 03-06-678P | 06
06 | TX | BEXAR COUNTY | 48029C0140F | 18-AUG-2003 | 03-06-678P | 06
06 | TX | BEXAR COUNTY | 48029C0231E | 12-AUG-2003 | 03-06-837P | 06
06 | TX | BEXAR COUNTY | 48029C0232F | 12-AUG-2003 | 03-06-837P | 06
06 | TX | BEXAR COUNTY | 48029C0233F | 12-AUG-2003 | 03-06-837P | 06
06 | TX | BEXAR COUNTY | 48029C0234F | 12-AUG-2003 | 03-06-837P | 06
06 | TX | BONHAM WATER AUTHORITY | 4815820005A | 26-SEP-2003 | 03-06-2662A | 02
06 | TX | BOSQUE COUNTY | 480051—34B | 02-JUL-2003 | 03-06-1996A | 02
06 | TX | BRENHAM, CITY OF | 4806480002B | 17-SEP-2003 | 03-06-2121A | 01
06 | TX | BROWN COUNTY | 4807170006B | 05-NOV-2003 | 03-06-2823A | 02
06 | TX | BROWN COUNTY | 4807170003B | 05-DEC-2003 | 04-06-356A | 02
06 | TX | BROWNSVILLE, CITY OF | 4801010350B | 03-SEP-2003 | 03-06-2226A | 01
06 | TX | BROWNWOOD, CITY OF | 4800870002D | 05-DEC-2003 | 04-06-089A | 01
06 | TX | BUFFALO SPRINGS, VILLAGE OF | 48303C0336D | 31-OCT-2003 | 03-06-2824A | 02
06 | TX | BUFFALO SPRINGS, VILLAGE OF | 48303C0338D | 31-OCT-2003 | 03-06-2824A | 02
06 | TX | BURNET COUNTY | 48053C0210C | 17-OCT-2003 | 03-06-2556A | 02
06 | TX | BURNET COUNTY | 48053C0284C | 10-SEP-2003 | 03-06-2568A | 02
06 | TX | CALDWELL COUNTY | 4800940075C | 25-JUL-2003 | 03-06-2210A | 02
06 | TX | CALDWELL COUNTY | 4800940180C | 22-OCT-2003 | 03-06-2840A | 02
06 | TX | CALDWELL COUNTY | 4800940180C | 07-NOV-2003 | 04-06-204X | 02
06 | TX | CAMERON COUNTY | 4801010150B | 10-SEP-2003 | 03-06-2364A | 02
06 | TX | CAMERON COUNTY | 4801010150B | 29-AUG-2003 | 03-06-2372A | 02
06 | TX | CARROLLTON, CITY OF | 48113C0020J | 02-JUL-2003 | 03-06-1979A | 02
06 | TX | CARROLLTON, CITY OF | 48113C0160J | 15-AUG-2003 | 03-06-2207A | 02
06 | TX | CARROLLTON, CITY OF | 48113C0160J | 31-DEC-2003 | 03-06-2820A | 17
06 | TX | CARROLLTON, CITY OF | 48113C0020J | 07-OCT-2003 | 03-06-435P | 05
06 | TX | CARROLLTON, CITY OF | 48113C0180J | 30-OCT-2003 | 03-06-838P | 05
06 | TX | CEDAR HILL, CITY OF | 48113C0605J | 07-JUL-2003 | 02-06-2216P | 06
06 | TX | CEDAR HILL, CITY OF | 48113C0605J | 06-AUG-2003 | 03-06-2174A | 02
06 | TX | CEDAR HILL, CITY OF | 48113C0605J | 08-OCT-2003 | 03-06-2920A | 02
06 | TX | CEDAR PARK, CITY OF | 48491C0306C | 17-OCT-2003 | 02-06-1089P | 05
06 | TX | CELINA, CITY OF | 48085C0110G | 08-AUG-2003 | 03-06-2005A | 01
06 | TX | CLAY COUNTY | 48077C0150D | 02-JUL-2003 | 03-06-1843A | 02
06 | TX | CLEBURNE, CITY OF | 48251C0113G | 21-NOV-2003 | 03-06-2087A | 01
06 | TX | COLLEGE STATION, CITY OF | 48041C0142C | 30-OCT-2003 | 03-06-102P | 05
06 | TX | COLLEYVILLE, CITY OF | 48439C0195H | 06-AUG-2003 | 03-06-2191A | 02
06 | TX | COLLEYVILLE, CITY OF | 48439C0307J | 07-NOV-2003 | 03-06-2622A | 02
06 | TX | COLLEYVILLE, CITY OF | 48439C0330J | 07-NOV-2003 | 03-06-2622A | 02
06 | TX | COLLEYVILLE, CITY OF | 48439C0195H | 21-NOV-2003 | 04-06-057A | 02
06 | TX | COLLEYVILLE, CITY OF | 48439C0330J | 31-DEC-2003 | 04-06-078A | 02
06 | TX | COLLEYVILLE, CITY OF | 48439C0215H | 24-OCT-2003 | 04-06-081A | 02
06 | TX | COLLEYVILLE, CITY OF | 48439C0215H | 03-DEC-2003 | 04-06-284A | 02
06 | TX | COLLEYVILLE, CITY OF | 48439C0330J | 03-DEC-2003 | 04-06-284A | 02
06 | TX | COLLIN COUNTY | 48085C0430G | 14-JUL-2003 | 03-06-1384P | 06
06 | TX | COLLIN COUNTY | 48085C0125G | 05-NOV-2003 | 03-06-2435A | 02
06 | TX | COLLIN COUNTY | 48085C0280G | 17-SEP-2003 | 03-06-2602A | 02
06 | TX | COMAL COUNTY | 4854630065C | 11-JUL-2003 | 03-06-1708A | 02
06 | TX | COMAL COUNTY | 4854630065C | 05-NOV-2003 | 04-06-118A | 02
06 | TX | COMBINE, CITY OF | 48113C0685J | 01-OCT-2003 | 03-06-2819A | 02
06 | TX | CONROE, CITY OF | 48339C0378F | 06-AUG-2003 | 03-06-1119A | 02
06 | TX | COPPELL, CITY OF | 48113C0155J | 01-OCT-2003 | 03-06-844P | 05
06 | TX | COPPELL, CITY OF | 48121C0705F | 01-OCT-2003 | 03-06-844P | 05
06 | TX | COPPELL, CITY OF | 48113C0135J | 05-DEC-2003 | 04-06-472A | 02
06 | TX | COPPELL, CITY OF | 48113C0155J | 31-DEC-2003 | 04-06-503A | 02
06 | TX | CORSICANA, CITY OF | 4804980005A | 03-OCT-2003 | 03-06-2748A | 02
06 | TX | DALLAS, CITY OF | 48113C0360K | 02-JUL-2003 | 03-06-1780A | 02
06 | TX | DALLAS, CITY OF | 48113C0480J | 02-JUL-2003 | 03-06-1960A | 02
06 | TX | DALLAS, CITY OF | 48113C0185J | 23-JUL-2003 | 03-06-2061A | 02
06 | TX | DALLAS, CITY OF | 48113C0360K | 09-JUL-2003 | 03-06-2097A | 02
06 | TX | DALLAS, CITY OF | 48113C0360K | 29-AUG-2003 | 03-06-2192A | 02
06 | TX | DALLAS, CITY OF | 48113C0190J | 15-AUG-2003 | 03-06-2224A | 02
06 | TX | DALLAS, CITY OF | 48113C0040J | 08-AUG-2003 | 03-06-2369A | 02
06 | TX | DALLAS, CITY OF | 48113C0330J | 17-SEP-2003 | 03-06-2407A | 01
06 | TX | DALLAS, CITY OF | 48113C0045J | 20-AUG-2003 | 03-06-2411A | 02
06 | TX | DALLAS, CITY OF | 48113C0185J | 24-OCT-2003 | 03-06-2442A | 02
06 | TX | DALLAS, CITY OF | 48113C0185J | 17-OCT-2003 | 03-06-2456A | 02
06 | TX | DALLAS, CITY OF | 48113C0355J | 29-AUG-2003 | 03-06-2506A | 02
06 | TX | DALLAS, CITY OF | 48113C0365J | 26-SEP-2003 | 03-06-2638A | 01
06 | TX | DALLAS, CITY OF | 48113C0505J | 26-SEP-2003 | 03-06-2700A | 02
06 | TX | DALLAS, CITY OF | 48113C0355J | 22-SEP-2003 | 03-06-2706A | 02
06 | TX | DALLAS, CITY OF | 48113C0360K | 22-SEP-2003 | 03-06-2706A | 02
06 | TX | DALLAS, CITY OF | 48113C0360K | 17-SEP-2003 | 03-06-2719A | 02
06 | TX | DALLAS, CITY OF | 48113C0040J | 26-SEP-2003 | 03-06-2765A | 02
06 | TX | DALLAS, CITY OF | 48113C0355J | 29-OCT-2003 | 03-06-2848A | 02
06 | TX | DALLAS, CITY OF | 48113C0215J | 19-DEC-2003 | 03-06-2854A | 02
06 | TX | DALLAS, CITY OF | 48113C0355J | 19-NOV-2003 | 03-06-2948A | 02
06 | TX | DALLAS, CITY OF | 48113C0480J | 01-OCT-2003 | 03-06-830P | 08
06 | TX | DALLAS, CITY OF | 48113C0310J | 03-DEC-2003 | 04-06-162A | 01
06 | TX | DALLAS, CITY OF | 48113C0355J | 05-DEC-2003 | 04-06-176A | 01
06 | TX | DALLAS, CITY OF | 48113C0365J | 21-NOV-2003 | 04-06-261A | 02
06 | TX | DALLAS, CITY OF | 48113C0365J | 05-DEC-2003 | 04-06-369A | 02
06 | TX | DALLAS, CITY OF | 48113C0185J | 12-DEC-2003 | 04-06-422A | 02
06 | TX | DENTON COUNTY | 48121C0065F | 07-JUL-2003 | 03-06-1616A | 02
06 | TX | DENTON COUNTY | 48121C0195F | 07-NOV-2003 | 03-06-2831A | 01
06 | TX | DESOTO, CITY OF | 48113C0630J | 24-SEP-2003 | 03-06-2781A | 02
06 | TX | DESOTO, CITY OF | 48113C0630J | 24-DEC-2003 | 04-06-325A | 02
06 | TX | DOUBLE OAK, TOWN OF | 48121C0540E | 31-DEC-2003 | 03-06-1890A | 01
06 | TX | DOUBLE OAK, TOWN OF | 48121C0540E | 10-SEP-2003 | 03-06-2624A | 02
06 | TX | EASTLAND COUNTY | 4807930007A | 20-AUG-2003 | 03-06-1847A | 02
06 | TX | EDINBURG,CITY OF | 4803380015E | 16-DEC-2003 | 03-06-1004P | 05
06 | TX | EDINBURG,CITY OF | 4803380030E | 16-DEC-2003 | 03-06-1004P | 05
06 | TX | EDINBURG,CITY OF | 4803340325D | 03-SEP-2003 | 03-06-153P | 05
06 | TX | EDINBURG,CITY OF | 4803380020E | 03-SEP-2003 | 03-06-153P | 05
06 | TX | EDINBURG,CITY OF | 4803380015E | 19-NOV-2003 | 03-06-1769A | 01
06 | TX | EDINBURG,CITY OF | 4803380030E | 11-JUL-2003 | 03-06-2117A | 02
06 | TX | EDINBURG,CITY OF | 4803380030E | 20-AUG-2003 | 03-06-2139A | 01
06 | TX | EDINBURG,CITY OF | 4803380015E | 05-DEC-2003 | 03-06-2576A | 02
06 | TX | EL PASO, CITY OF | 4802140044B | 18-JUL-2003 | 03-06-1995A | 02
06 | TX | EL PASO, CITY OF | 4802140044B | 13-AUG-2003 | 03-06-2317X | 02
06 | TX | EL PASO, CITY OF | 4802140045B | 03-DEC-2003 | 04-06-305A | 02
06 | TX | EULESS, CITY OF | 48439C0330J | 05-NOV-2003 | 03-06-2811A | 02
06 | TX | FAIRVIEW, CITY OF | 48085C0315G | 01-OCT-2003 | 02-06-1413P | 06
06 | TX | FAIRVIEW, TOWN OF | 48085C0315G | 03-DEC-2003 | 04-06-470A | 02
06 | TX | FARMERS BRANCH, CITY OF | 48113C0170J | 07-NOV-2003 | 04-06-164A | 02
06 | TX | FLOWER MOUND, TOWN OF | 48121C0540E | 15-OCT-2003 | 03-06-1926P | 05
06 | TX | FORT BEND COUNTY | 48157C0215J | 29-OCT-2003 | 02-06-2301P | 05
06 | TX | FORT BEND COUNTY | 48157C0220J | 29-OCT-2003 | 02-06-2301P | 05
06 | TX | FORT BEND COUNTY | 48157C0290J | 11-JUL-2003 | 03-06-1563A | 01
06 | TX | FORT BEND COUNTY | 48157C0270J | 17-SEP-2003 | 03-06-2351A | 02
06 | TX | FORT BEND COUNTY | 48157C0550J | 10-SEP-2003 | 03-06-2406A | 02
06 | TX | FORT BEND COUNTY | 48157C0270J | 10-SEP-2003 | 03-06-2499A | 02
06 | TX | FORT BEND COUNTY M.U.D. #81 | 48157C0075J | 31-OCT-2003 | 04-06-082A | 02
06 | TX | FORT WORTH, CITY OF | 48439C0427J | 24-JUL-2003 | 02-06-1714P | 05
06 | TX | FORT WORTH, CITY OF | 48439C0170H | 08-JUL-2003 | 02-06-2303P | 05
06 | TX | FORT WORTH, CITY OF | 48439C0265H | 09-OCT-2003 | 02-06-2311P | 05
06 | TX | FORT WORTH, CITY OF | 48439C0165H | 05-DEC-2003 | 03-06-1202P | 05
06 | TX | FORT WORTH, CITY OF | 48439C0170H | 19-NOV-2003 | 03-06-1203P | 05
06 | TX | FORT WORTH, CITY OF | 48439C0170H | 28-NOV-2003 | 03-06-1206P | 05
06 | TX | FORT WORTH, CITY OF | 48439C0285J | 07-OCT-2003 | 03-06-1376P | 05
06 | TX | FORT WORTH, CITY OF | 48439C0395J | 03-SEP-2003 | 03-06-1469A | 02
06 | TX | FORT WORTH, CITY OF | 48439C0140H | 08-AUG-2003 | 03-06-1669A | 02
06 | TX | FORT WORTH, CITY OF | 48439C0395J | 25-JUL-2003 | 03-06-1897A | 02
06 | TX | FORT WORTH, CITY OF | 48439C0430H | 09-JUL-2003 | 03-06-1958A | 02
06 | TX | FORT WORTH, CITY OF | 48439C0395J | 15-AUG-2003 | 03-06-2220A | 02
06 | TX | FORT WORTH, CITY OF | 48439C0395J | 29-AUG-2003 | 03-06-2310A | 02
06 | TX | FORT WORTH, CITY OF | 48439C0260H | 19-DEC-2003 | 03-06-2337P | 06
06 | TX | FORT WORTH, CITY OF | 48439C0169H | 07-OCT-2003 | 03-06-2341P | 06
06 | TX | FORT WORTH, CITY OF | 48439C0360H | 17-OCT-2003 | 03-06-2368A | 17
06 | TX | FORT WORTH, CITY OF | 48439C0260H | 19-DEC-2003 | 03-06-2426A | 02
06 | TX | FORT WORTH, CITY OF | 48439C0395J | 05-SEP-2003 | 03-06-2601X | 02
06 | TX | FORT WORTH, CITY OF | 48439C0415H | 28-NOV-2003 | 03-06-276P | 05
06 | TX | FORT WORTH, CITY OF | 48439C0260H | 26-NOV-2003 | 04-06-079A | 01
06 | TX | FORT WORTH, CITY OF | 48439C0260H | 24-DEC-2003 | 04-06-181A | 02
06 | TX | FRISCO, CITY OF | 48085C0405G | 13-AUG-2003 | 03-06-2356A | 02
06 | TX | FRISCO, CITY OF | 48085C0405G | 08-OCT-2003 | 03-06-2634A | 02
06 | TX | FRISCO, CITY OF | 48085C0245G | 14-NOV-2003 | 01-06-1415P | 05
06 | TX | FRISCO, CITY OF | 48085C0265G | 14-NOV-2003 | 01-06-1415P | 05
06 | TX | GARLAND, CITY OF | 48113C0380K | 01-SEP-2003 | 03-06-1938P | 06
06 | TX | GARLAND, CITY OF | 48113C0380K | 10-JUL-2003 | 03-06-2181A | 02
06 | TX | GARLAND, CITY OF | 48113C0220K | 20-AUG-2003 | 03-06-2256A | 17
06 | TX | GARLAND, CITY OF | 48113C0220K | 22-AUG-2003 | 03-06-2257A | 01
06 | TX | GARLAND, CITY OF | 48113C0220K | 30-JUL-2003 | 03-06-2258A | 02
06 | TX | GARLAND, CITY OF | 48113C0220K | 29-AUG-2003 | 03-06-2259A | 17
06 | TX | GARLAND, CITY OF | 48113C0230J | 27-AUG-2003 | 03-06-2261A | 17
06 | TX | GARLAND, CITY OF | 48113C0220K | 22-SEP-2003 | 03-06-2263A | 02
06 | TX | GARLAND, CITY OF | 48113C0380K | 06-AUG-2003 | 03-06-2264A | 02
06 | TX | GARLAND, CITY OF | 48113C0220K | 22-AUG-2003 | 03-06-2265A | 17
06 | TX | GARLAND, CITY OF | 48113C0220K | 01-AUG-2003 | 03-06-2266A | 02
06 | TX | GARLAND, CITY OF | 48113C0220K | 26-SEP-2003 | 03-06-2267A | 17
06 | TX | GARLAND, CITY OF | 48113C0220K | 24-SEP-2003 | 03-06-2268A | 17
06 | TX | GARLAND, CITY OF | 48113C0240J | 15-OCT-2003 | 03-06-2269A | 17
06 | TX | GARLAND, CITY OF | 48113C0240J | 01-AUG-2003 | 03-06-2270A | 02
06 | TX | GARLAND, CITY OF | 48113C0240J | 13-AUG-2003 | 03-06-2271A | 02
06 | TX | GARLAND, CITY OF | 48113C0210K | 15-AUG-2003 | 03-06-2272A | 02
06 | TX | GARLAND, CITY OF | 48113C0210K | 01-AUG-2003 | 03-06-2273A | 02
06 | TX | GARLAND, CITY OF | 48113C0220K | 01-AUG-2003 | 03-06-2274A | 02
06 | TX | GARLAND, CITY OF | 48113C0380K | 30-JUL-2003 | 03-06-2275A | 02
06 | TX | GARLAND, CITY OF | 48113C0380K | 30-JUL-2003 | 03-06-2276A | 02
06 | TX | GARLAND, CITY OF | 48113C0380K | 08-OCT-2003 | 03-06-2277A | 02
06 | TX | GARLAND, CITY OF | 48113C0360K | 06-AUG-2003 | 03-06-2278A | 02
06 | TX | GARLAND, CITY OF | 48113C0360K | 22-AUG-2003 | 03-06-2279A | 17
06 | TX | GARLAND, CITY OF | 48113C0360K | 22-AUG-2003 | 03-06-2280A | 02
06 | TX | GARLAND, CITY OF | 48113C0220K | 06-AUG-2003 | 03-06-2281A | 02
06 | TX | GARLAND, CITY OF | 48113C0380K | 06-AUG-2003 | 03-06-2282A | 02
06 | TX | GARLAND, CITY OF | 48113C0380K | 06-AUG-2003 | 03-06-2283A | 02
06 | TX | GARLAND, CITY OF | 48113C0220K | 27-AUG-2003 | 03-06-2284A | 02
06 | TX | GARLAND, CITY OF | 48113C0220K | 06-AUG-2003 | 03-06-2285A | 02
06 | TX | GARLAND, CITY OF | 48113C0360K | 20-AUG-2003 | 03-06-2286A | 17
06 | TX | GARLAND, CITY OF | 48113C0220K | 06-AUG-2003 | 03-06-2287A | 02
06 | TX | GARLAND, CITY OF | 48113C0210K | 15-AUG-2003 | 03-06-2288A | 02
06 | TX | GARLAND, CITY OF | 48113C0210K | 30-JUL-2003 | 03-06-2289A | 02
06 | TX | GARLAND, CITY OF | 48113C0210K | 13-AUG-2003 | 03-06-2290A | 02
06 | TX | GARLAND, CITY OF | 48113C0210K | 22-AUG-2003 | 03-06-2291A | 17
06 | TX | GARLAND, CITY OF | 48113C0210K | 29-AUG-2003 | 03-06-2292A | 17
06 | TX | GARLAND, CITY OF | 48113C0210K | 22-AUG-2003 | 03-06-2293A | 17
06 | TX | GARLAND, CITY OF | 48113C0220K | 15-AUG-2003 | 03-06-2294A | 02
06 | TX | GARLAND, CITY OF | 48113C0240J | 27-AUG-2003 | 03-06-2295A | 02
06 | TX | GARLAND, CITY OF | 48113C0220K | 08-AUG-2003 | 03-06-2296A | 02
06 | TX | GARLAND, CITY OF | 48113C0220K | 13-AUG-2003 | 03-06-2417A | 02
06 | TX | GARLAND, CITY OF | 48113C0360K | 15-AUG-2003 | 03-06-2418A | 17
06 | TX | GARLAND, CITY OF | 48113C0220K | 20-AUG-2003 | 03-06-2510A | 02
06 | TX | GARLAND, CITY OF | 48113C0220K | 22-SEP-2003 | 03-06-2709A | 02
06 | TX | GARLAND, CITY OF | 48113C0210K | 24-SEP-2003 | 03-06-2737A | 02
06 | TX | GARLAND, CITY OF | 48113C0210K | 26-SEP-2003 | 03-06-2806A | 02
06 | TX | GARLAND, CITY OF | 48113C0210K | 17-OCT-2003 | 03-06-2851A | 02
06 | TX | GARLAND, CITY OF | 48113C0220K | 15-OCT-2003 | 03-06-2937A | 02
06 | TX | GARLAND, CITY OF | 48113C0210K | 29-OCT-2003 | 03-06-2940A | 02
06 | TX | GARLAND, CITY OF | 48113C0210K | 19-NOV-2003 | 03-06-2966A | 17
06 | TX | GARLAND, CITY OF | 48113C0220K | 10-DEC-2003 | 04-06-107A | 02
06 | TX | GARLAND, CITY OF | 48113C0240J | 21-NOV-2003 | 04-06-210A | 02
06 | TX | GEORGETOWN, CITY OF | 48491C0100C | 26-NOV-2003 | 03-06-695P | 05
06 | TX | GEORGETOWN, CITY OF | 48491C0115C | 26-NOV-2003 | 03-06-695P | 05
06 | TX | GEORGETOWN, CITY OF | 48491C0125C | 26-NOV-2003 | 03-06-695P | 05
06 | TX | GILLESPIE COUNTY | 48171C0275C | 23-JUL-2003 | 03-06-1496A | 02
06 | TX | GILLESPIE COUNTY | 48171C0450C | 23-JUL-2003 | 03-06-1496A | 02
06 | TX | GILLESPIE COUNTY | 48171C0300C | 07-NOV-2003 | 03-06-2639A | 02
06 | TX | GILLESPIE COUNTY | 48171C0475C | 07-NOV-2003 | 03-06-2639A | 02
06 | TX | GILLESPIE COUNTY | 48171C0425C | 05-DEC-2003 | 04-06-012A | 02
06 | TX | GILLESPIE COUNTY | 48171C0450C | 19-NOV-2003 | 04-06-283A | 02
06 | TX | GILMER, CITY OF | 481036B | 26-NOV-2003 | 03-06-2946A | 02
06 | TX | GONZALES COUNTY | 4802530175A | 05-SEP-2003 | 03-06-1955A | 02
06 | TX | GONZALES, CITY OF | 4802540001B | 05-NOV-2003 | 04-06-109A | 02
06 | TX | GONZALES, CITY OF | 4802540001B | 07-NOV-2003 | 04-06-124A | 02
06 | TX | GONZALES, CITY OF | 4802540001B | 05-NOV-2003 | 04-06-125A | 02
06 | TX | GRAND PRAIRIE, CITY OF | 48113C0465J | 16-JUL-2003 | 03-06-1968A | 01
06 | TX | GRAND PRAIRIE, CITY OF | 48113C0445J | 16-JUL-2003 | 03-06-2138A | 02
06 | TX | GRAND PRAIRIE, CITY OF | 48113C0445J | 01-AUG-2003 | 03-06-2189A | 02
06 | TX | GRAND PRAIRIE, CITY OF | 48113C0445J | 17-SEP-2003 | 03-06-2647X | 02
06 | TX | GRAND PRAIRIE, CITY OF | 48113C0295J | 31-OCT-2003 | 03-06-2959A | 02
06 | TX | GRAND PRAIRIE, CITY OF | 48113C0445J | 18-JUL-2003 | 03-06-574A | 02
06 | TX | GRAND PRAIRIE, CITY OF | 48113C0435J | 19-NOV-2003 | 04-06-192A | 02
06 | TX | GRAPEVINE, CITY OF | 48439C0205H | 25-JUL-2003 | 03-06-1001P | 06
06 | TX | GRAPEVINE, CITY OF | 48439C0205H | 18-JUL-2003 | 03-06-2146A | 02
06 | TX | GREENVILLE, CITY OF | 48231C0180F | 11-JUL-2003 | 03-06-1428A | 17
06 | TX | GROOM, CITY OF | 480726—02A | 23-JUL-2003 | 03-06-1159A | 02
06 | TX | GUADALUPE COUNTY | 4802660150C | 31-OCT-2003 | 03-06-2919A | 02
06 | TX | GUADALUPE COUNTY | 4802660175C | 12-NOV-2003 | 04-06-200A | 02
06 | TX | HALTOM CITY, CITY OF | 48439C0311J | 31-DEC-2003 | 04-06-502A | 02
06 | TX | HARLINGEN, CITY OF | 4801010150B | 22-AUG-2003 | 03-06-1574A | 02
06 | TX | HARLINGEN, CITY OF | 4854770015B | 02-JUL-2003 | 03-06-1994A | 02
06 | TX | HARRIS COUNTY | 48201C0405J | 30-JUL-2003 | 03-06-1893A | 01
06 | TX | HARRIS COUNTY | 48201C0655K | 02-JUL-2003 | 03-06-2017A | 02
06 | TX | HARRIS COUNTY | 48201C0235K | 25-JUL-2003 | 03-06-2094A | 17
06 | TX | HARRIS COUNTY | 48201C0380J | 01-AUG-2003 | 03-06-2227A | 17
06 | TX | HARRIS COUNTY | 48201C0390J | 01-AUG-2003 | 03-06-2227A | 17
06 | TX | HARRIS COUNTY | 48201C0515J | 05-NOV-2003 | 03-06-2234A | 02
06 | TX | HARRIS COUNTY | 48201C0205J | 15-AUG-2003 | 03-06-2415A | 02
06 | TX | HARRIS COUNTY | 48201C0465K | 17-SEP-2003 | 03-06-2461A | 02
06 | TX | HARRIS COUNTY | 48201C0290J | 12-SEP-2003 | 03-06-2463A | 01
06 | TX | HARRIS COUNTY | 48201C0245K | 27-AUG-2003 | 03-06-2492A | 02
06 | TX | HARRIS COUNTY | 48201C0320K | 22-SEP-2003 | 03-06-2752A | 02
06 | TX | HARRIS COUNTY | 48201C0805J | 15-OCT-2003 | 03-06-2855A | 01
06 | TX | HARRIS COUNTY | 48201C1030K | 17-OCT-2003 | 03-06-2856A | 01
06 | TX | HARRIS COUNTY | 48201C0495J | 07-NOV-2003 | 04-06-056A | 01
06 | TX | HARRIS COUNTY | 48201C0495J | 21-NOV-2003 | 04-06-115A | 01
06 | TX | HARRIS COUNTY | 48201C0455J | 03-DEC-2003 | 04-06-183A | 01
06 | TX | HARRIS COUNTY | 48201C0320K | 17-DEC-2003 | 04-06-444A | 02
06 | TX | HARRIS COUNTY | 48201C0515J | 17-DEC-2003 | 04-06-512A | 02
06 | TX | HENDERSON COUNTY | 48213C0180C | 15-OCT-2003 | 03-06-1594A | 02
06 | TX | HENDERSON COUNTY | 48213C0225C | 03-DEC-2003 | 03-06-2448A | 02
06 | TX | HIDALGO COUNTY | 4803340400C | 09-JUL-2003 | 03-06-2109A | 02
06 | TX | HIDALGO COUNTY | 4803340295D | 29-OCT-2003 | 03-06-2239A | 02
06 | TX | HIGHLAND PARK, TOWN OF | 48113C0335J | 25-JUL-2003 | 03-06-2159A | 02
06 | TX | HIGHLAND PARK, TOWN OF | 48113C0335J | 17-SEP-2003 | 03-06-2416A | 02
06 | TX | HIGHLAND VILLAGE, VILLAGE OF | 48121C0533F | 24-OCT-2003 | 03-06-2571A | 02
06 | TX | HILL COUNTY | 4808570004A | 11-JUL-2003 | 03-06-1596A | 02
06 | TX | HONDO, CITY OF | 4804740005B | 31-DEC-2003 | 04-06-497A | 02
06 | TX | HOOD COUNTY | 4803560145B | 10-SEP-2003 | 03-06-1880A | 02
06 | TX | HOOD COUNTY | 4803560065B | 27-AUG-2003 | 03-06-2505A | 02
06 | TX | HOOD COUNTY | 4803560145B | 12-SEP-2003 | 03-06-2626A | 02
06 | TX | HOOD COUNTY | 4803560035B | 12-NOV-2003 | 03-06-2742A | 02
06 | TX | HOOD COUNTY | 4803560130C | 26-SEP-2003 | 03-06-2754A | 02
06 | TX | HOUSTON, CITY OF | 48201C0860K | 20-AUG-2003 | 03-06-1891A | 02
06 | TX | HOUSTON, CITY OF | 48201C0670K | 01-AUG-2003 | 03-06-1951A | 01
06 | TX | HOUSTON, CITY OF | 48201C0320K | 06-AUG-2003 | 03-06-2158A | 02
06 | TX | HOUSTON, CITY OF | 48201C0840K | 30-JUL-2003 | 03-06-2160A | 02
06 | TX | HOUSTON, CITY OF | 48201C0645J | 05-SEP-2003 | 03-06-2349A | 02
06 | TX | HOUSTON, CITY OF | 48201C0810K | 17-OCT-2003 | 03-06-2428A | 17
06 | TX | HOUSTON, CITY OF | 48201C0830K | 01-OCT-2003 | 03-06-2605A | 02
06 | TX | HOUSTON, CITY OF | 48201C0830K | 10-SEP-2003 | 03-06-2651A | 02
06 | TX | HOUSTON, CITY OF | 48201C0830K | 24-SEP-2003 | 03-06-2778A | 02
06 | TX | HOUSTON, CITY OF | 48201C0855K | 17-OCT-2003 | 03-06-2863A | 02
06 | TX | HOUSTON, CITY OF | 48201C0460J | 14-JUL-2003 | 03-06-438P | 06
06 | TX | HOUSTON, CITY OF | 48201C0860K | 19-DEC-2003 | 04-06-060A | 02
06 | TX | HOUSTON, CITY OF | 48201C0860K | 31-DEC-2003 | 04-06-099A | 02
06 | TX | HOUSTON, CITY OF | 48201C0860K | 26-NOV-2003 | 04-06-303A | 02
06 | TX | HOUSTON, CITY OF | 48201C0315K | 12-DEC-2003 | 04-06-473A | 02
06 | TX | HOWE, TOWN OF | 48181C0210E | 03-SEP-2003 | 03-06-2504A | 02
06 | TX | HURST, CITY OF | 48439C0304J | 29-JUL-2003 | 02-06-236P | 05
06 | TX | HURST, CITY OF | 48439C0304J | 31-OCT-2003 | 03-06-1214P | 05
06 | TX | HUTCHINS, CITY OF | 48113C0515J | 06-AUG-2003 | 03-06-1320A | 01
06 | TX | IOWA COLONY, TOWN OF | 48039C0115H | 31-DEC-2003 | 04-06-336A | 02
06 | TX | IRVING, CITY OF | 48113C0315J | 20-AUG-2003 | 03-06-2075A | 01
06 | TX | IRVING, CITY OF | 48113C0315J | 03-DEC-2003 | 03-06-2366A | 02
06 | TX | IRVING, CITY OF | 48113C0315J | 31-OCT-2003 | 04-06-084A | 02
06 | TX | IRVING, CITY OF | 48113C0315J | 05-DEC-2003 | 04-06-347A | 02
06 | TX | JUSTIN, CITY OF | 48121C0485E | 22-SEP-2003 | 03-06-108P | 06
06 | TX | KELLER, CITY OF | 48439C0190H | 26-SEP-2003 | 03-06-2805A | 02
06 | TX | KELLER, CITY OF | 48439C0190H | 19-NOV-2003 | 04-06-177A | 02
06 | TX | KENDALL COUNTY | 4804170190B | 21-AUG-2003 | 03-06-2055P | 06
06 | TX | KENDALL COUNTY | 4804170150B | 12-NOV-2003 | 03-06-2330P | 06
06 | TX | KENDALL COUNTY | 4804170175B | 01-AUG-2003 | 03-06-970A | 02
06 | TX | KENDALL COUNTY | 4804170125B | 07-NOV-2003 | 04-06-187A | 02
06 | TX | KERRVILLE, CITY OF | 48265C0170E | 12-NOV-2003 | 04-06-003A | 02
06 | TX | KILLEEN, CITY OF | 4807060130B | 13-AUG-2003 | 03-06-1655A | 02
06 | TX | KILLEEN, CITY OF | 4800310003C | 01-AUG-2003 | 03-06-2208A | 02
06 | TX | KILLEEN, CITY OF | 4807060130B | 15-OCT-2003 | 03-06-2302A | 01
06 | TX | KILLEEN, CITY OF | 4807060130B | 22-SEP-2003 | 03-06-2584X | 02
06 | TX | KILLEEN, CITY OF | 4807060130B | 12-NOV-2003 | 03-06-2791A | 01
06 | TX | KYLE, CITY OF | 48209C0185E | 17-NOV-2003 | 03-06-1735P | 05
06 | TX | KYLE, CITY OF | 48209C0205E | 17-NOV-2003 | 03-06-1735P | 05
06 | TX | LAGO VISTA, CITY OF | 48453C0792F | 25-JUL-2003 | 03-06-1567A | 02
06 | TX | LAGO VISTA, CITY OF | 48453C0803F | 14-NOV-2003 | 03-06-2826A | 02
06 | TX | LAKE DALLAS, CITY OF | 48121C0532E | 26-NOV-2003 | 03-06-2927A | 02
06 | TX | LAKEWAY, CITY OF | 48453C0330E | 07-NOV-2003 | 04-06-154A | 02
06 | TX | LAMPASAS, CITY OF | 4808990225B | 17-DEC-2003 | 04-06-485A | 02
06 | TX | LANCASTER, CITY OF | 48113C0635J | 18-SEP-2003 | 02-06-2623P | 05
06 | TX | LAREDO, CITY OF | 4806510005B | 23-JUL-2003 | 03-06-2123A | 02
06 | TX | LEAGUE CITY, CITY OF | 4854880011D | 29-AUG-2003 | 03-06-2552A | 02
06 | TX | LEANDER, CITY OF | 48491C0212C | 25-JUL-2003 | 03-06-1227A | 02
06 | TX | LIBERTY COUNTY | 4804380300B | 15-OCT-2003 | 03-06-2762A | 02
06 | TX | LIBERTY, CITY OF | 4804410025A | 27-AUG-2003 | 01-06-1554P | 05
06 | TX | LITTLE ELM, TOWN OF | 48121C0420E | 14-NOV-2003 | 01-06-1415P | 06
06 | TX | LITTLE ELM, TOWN OF | 48121C0410E | 19-DEC-2003 | 03-06-2904P | 06
06 | TX | LITTLE ELM, TOWN OF | 48121C0420E | 19-DEC-2003 | 03-06-2904P | 06
06 | TX | LLANO COUNTY | 4812340210B | 02-JUL-2003 | 03-06-1475A | 02
06 | TX | LONGVIEW, CITY OF | 4802640015E | 06-OCT-2003 | 02-06-1532P | 05
06 | TX | LONGVIEW, CITY OF | 4802640010D | 21-AUG-2003 | 02-06-1841P | 05
06 | TX | LONGVIEW, CITY OF | 4802640025E | 03-SEP-2003 | 03-06-2588A | 02
06 | TX | LONGVIEW, CITY OF | 4802640015E | 08-OCT-2003 | 03-06-2925A | 02
06 | TX | LONGVIEW, CITY OF | 4802640010D | 12-NOV-2003 | 04-06-195A | 02
06 | TX | LONGVIEW, CITY OF | 4802640010D | 21-NOV-2003 | 04-06-221A | 02
06 | TX | LOWRY CROSSING, CITY OF | 48085C0325G | 06-AUG-2003 | 03-06-2319A | 02
06 | TX | LOWRY CROSSING, CITY OF | 48085C0325G | 12-NOV-2003 | 04-06-209A | 02
06 | TX | LUBBOCK COUNTY | 48303C0275D | 23-JUL-2003 | 03-06-1842A | 02
06 | TX | LUBBOCK COUNTY | 48303C0275D | 27-AUG-2003 | 03-06-2072A | 02
06 | TX | LUBBOCK COUNTY | 48303C0400D | 05-DEC-2003 | 03-06-2446A | 02
06 | TX | LUBBOCK COUNTY | 48303C0275D | 27-AUG-2003 | 03-06-2470A | 02
06 | TX | LUBBOCK COUNTY | 48303C0275D | 17-OCT-2003 | 03-06-2592A | 01
06 | TX | LUBBOCK COUNTY | 48303C0275D | 10-SEP-2003 | 03-06-2595A | 02
06 | TX | LUBBOCK COUNTY | 48303C0275D | 12-SEP-2003 | 03-06-2630A | 02
06 | TX | LUBBOCK COUNTY | 48303C0275D | 05-DEC-2003 | 04-06-432A | 02
06 | TX | LUBBOCK, CITY OF | 48303C0295D | 02-JUL-2003 | 03-06-1867A | 02
06 | TX | LUBBOCK, CITY OF | 48303C0295D | 16-JUL-2003 | 03-06-2060A | 02
06 | TX | LUBBOCK, CITY OF | 48303C0315D | 23-JUL-2003 | 03-06-2196A | 02
06 | TX | LUBBOCK, CITY OF | 48303C0290D | 25-JUL-2003 | 03-06-2209A | 02
06 | TX | LUBBOCK, CITY OF | 48303C0290D | 13-AUG-2003 | 03-06-2249A | 02
06 | TX | LUBBOCK, CITY OF | 48303C0290D | 13-AUG-2003 | 03-06-2250A | 02
06 | TX | LUBBOCK, CITY OF | 48303C0315D | 30-JUL-2003 | 03-06-2313A | 02
06 | TX | LUBBOCK, CITY OF | 48303C0290D | 20-AUG-2003 | 03-06-2355A | 01
06 | TX | LUBBOCK, CITY OF | 48303C0305D | 08-AUG-2003 | 03-06-2359A | 02
06 | TX | LUBBOCK, CITY OF | 48303C0280D | 08-AUG-2003 | 03-06-2360A | 02
06 | TX | LUBBOCK, CITY OF | 48303C0290D | 08-AUG-2003 | 03-06-2375A | 02
06 | TX | LUBBOCK, CITY OF | 48303C0295D | 26-SEP-2003 | 03-06-2409A | 01
06 | TX | LUBBOCK, CITY OF | 48303C0285D | 20-AUG-2003 | 03-06-2421A | 02
06 | TX | LUBBOCK, CITY OF | 48303C0295D | 20-AUG-2003 | 03-06-2429A | 02
06 | TX | LUBBOCK, CITY OF | 48303C0305D | 22-AUG-2003 | 03-06-2434A | 02
06 | TX | LUBBOCK, CITY OF | 48303C0290D | 13-AUG-2003 | 03-06-2449A | 02
06 | TX | LUBBOCK, CITY OF | 48303C0410D | 24-DEC-2003 | 03-06-2508A | 01
06 | TX | LUBBOCK, CITY OF | 48303C0290D | 10-SEP-2003 | 03-06-2652A | 02
06 | TX | LUBBOCK, CITY OF | 4804520305D | 22-SEP-2003 | 03-06-2717A | 02
06 | TX | LUBBOCK, CITY OF | 48303C0290D | 17-SEP-2003 | 03-06-2724A | 02
06 | TX | LUBBOCK, CITY OF | 48303C0295D | 26-SEP-2003 | 03-06-2769A | 02
06 | TX | LUBBOCK, CITY OF | 48303C0290D | 22-SEP-2003 | 03-06-2770A | 02
06 | TX | LUBBOCK, CITY OF | 48303C0295D | 03-OCT-2003 | 03-06-2804A | 01
06 | TX | LUBBOCK, CITY OF | 48303C0295D | 03-OCT-2003 | 03-06-2844A | 02
06 | TX | LUBBOCK, CITY OF | 48303C0290D | 15-AUG-2003 | 03-06-967A | 02
06 | TX | LUBBOCK, CITY OF | 48303C0290D | 31-OCT-2003 | 04-06-094A | 02
06 | TX | LUBBOCK, CITY OF | 48303C0290D | 07-NOV-2003 | 04-06-097A | 02
06 | TX | LUBBOCK, CITY OF | 48303C0290D | 12-NOV-2003 | 04-06-100A | 02
06 | TX | LUBBOCK, CITY OF | 48303C0295D | 31-OCT-2003 | 04-06-121A | 02
06 | TX | LUBBOCK, CITY OF | 48303C0290D | 12-NOV-2003 | 04-06-153A | 02
06 | TX | LUBBOCK, CITY OF | 48303C0285D | 31-OCT-2003 | 04-06-168A | 02
06 | TX | LUBBOCK, CITY OF | 48303C0290D | 26-NOV-2003 | 04-06-297A | 02
06 | TX | LUBBOCK, CITY OF | 48303C0290D | 05-DEC-2003 | 04-06-350A | 02
06 | TX | LUBBOCK, CITY OF | 48303C0290D | 05-DEC-2003 | 04-06-351X | 02
06 | TX | LUBBOCK, CITY OF | 48303C0295D | 17-DEC-2003 | 04-06-401A | 02
06 | TX | LUBBOCK, CITY OF | 48303C0290D | 05-DEC-2003 | 04-06-402A | 02
06 | TX | LUBBOCK, CITY OF | 48303C0315D | 12-DEC-2003 | 04-06-404A | 02
06 | TX | LUBBOCK, CITY OF | 48303C0290D | 10-DEC-2003 | 04-06-451A | 02
06 | TX | LUBBOCK, CITY OF | 48303C0295D | 19-DEC-2003 | 04-06-518A | 02
06 | TX | LUBBOCK, CITY OF | 48303C0295D | 24-DEC-2003 | 04-06-530A | 02
06 | TX | LUBBOCK, CITY OF | 48303C0295D | 19-DEC-2003 | 04-06-533A | 02
06 | TX | LUBBOCK, CITY OF | 48303C0290D | 24-DEC-2003 | 04-06-538X | 02
06 | TX | LUBBOCK, CITY OF | 48303C0295D | 31-DEC-2003 | 04-06-585A | 02
06 | TX | LUFKIN,CITY OF | 4800090010C | 10-DEC-2003 | 04-06-405A | 02
06 | TX | MANSFIELD, CITY OF | 48439C0557H | 18-SEP-2003 | 02-06-1674P | 05
06 | TX | MANVEL, TOWN OF | 48039C0040I | 01-OCT-2003 | 03-06-2569A | 02
06 | TX | MARBLE FALLS, CITY OF | 48053C0312D | 17-OCT-2003 | 03-06-2627A | 02
06 | TX | MCKINNEY, CITY OF | 48085C0280G | 02-JUL-2003 | 03-06-2018A | 02
06 | TX | MCKINNEY, CITY OF | 48085C0305G | 31-DEC-2003 | 03-06-2789A | 01
06 | TX | MCLENNAN COUNTY | 4804560170B | 03-SEP-2003 | 03-06-2517A | 02
06 | TX | MCLENNAN COUNTY | 4804560140B | 12-DEC-2003 | 03-06-2566A | 17
06 | TX | MEADOWLAKES, CITY OF | 48053C0312C | 02-JUL-2003 | 03-06-1566A | 02
06 | TX | MEDINA COUNTY | 4804720175B | 11-JUL-2003 | 03-06-2162A | 02
06 | TX | MEDINA COUNTY | 4804720100B | 22-OCT-2003 | 03-06-2703A | 02
06 | TX | MESQUITE, CITY OF | 48113C0390J | 04-DEC-2003 | 03-06-1543P | 05
06 | TX | MESQUITE, CITY OF | 48113C0530J | 25-JUL-2003 | 03-06-2155A | 02
06 | TX | MESQUITE, CITY OF | 48113C0370J | 10-SEP-2003 | 03-06-2726A | 01
06 | TX | MESQUITE, CITY OF | 48113C0390J | 31-OCT-2003 | 04-06-061A | 02
06 | TX | MIDLAND COUNTY | 48329C0207E | 12-DEC-2003 | 04-06-160A | 01
06 | TX | MIDLAND, CITY OF | 48329C0087E | 13-AUG-2003 | 03-06-1587A | 02
06 | TX | MIDLAND, CITY OF | 48329C0069E | 27-AUG-2003 | 03-06-1882A | 02
06 | TX | MIDLAND, CITY OF | 48329C0100E | 30-JUL-2003 | 03-06-1905A | 01
06 | TX | MIDLAND, CITY OF | 48329C0088E | 02-JUL-2003 | 03-06-1984A | 02
06 | TX | MIDLAND, CITY OF | 48329C0087E | 11-JUL-2003 | 03-06-2112A | 02
06 | TX | MIDLAND, CITY OF | 48329C0069E | 10-OCT-2003 | 03-06-2214A | 02
06 | TX | MIDLAND, CITY OF | 48329C0069E | 01-AUG-2003 | 03-06-2217A | 02
06 | TX | MIDLAND, CITY OF | 48329C0069E | 30-JUL-2003 | 03-06-2218A | 02
06 | TX | MIDLAND, CITY OF | 48329C0068E | 21-OCT-2003 | 03-06-2541P | 06
06 | TX | MIDLAND, CITY OF | 48329C0069E | 21-OCT-2003 | 03-06-2541P | 06
06 | TX | MIDLAND, CITY OF | 48329C0089E | 17-SEP-2003 | 03-06-2636A | 02
06 | TX | MIDLAND, CITY OF | 48329C0182E | 22-OCT-2003 | 03-06-2792A | 01
06 | TX | MIDLAND, CITY OF | 48329C0088E | 15-OCT-2003 | 03-06-2809A | 02
06 | TX | MIDLAND, CITY OF | 48329C0069E | 07-NOV-2003 | 03-06-2922A | 02
06 | TX | MIDLAND, CITY OF | 48329C0088E | 03-DEC-2003 | 04-06-316A | 02
06 | TX | MIDLAND, CITY OF | 48329C0069E | 10-DEC-2003 | 04-06-429A | 02
06 | TX | MISSOURI CITY, CITY OF | 48157C0270J | 11-JUL-2003 | 03-06-1233A | 01
06 | TX | MISSOURI CITY, CITY OF | 48157C0255J | 12-NOV-2003 | 03-06-1736P | 06
06 | TX | MISSOURI CITY, CITY OF | 48157C0265J | 12-NOV-2003 | 03-06-1736P | 06
06 | TX | MONTAGUE COUNTY | 48337C0260C | 25-JUL-2003 | 03-06-1079A | 02
06 | TX | MONTAGUE COUNTY | 48337C0260C | 15-OCT-2003 | 03-06-2961A | 02
06 | TX | MONTGOMERY COUNTY | 48339C0405F | 13-AUG-2003 | 03-06-1510A | 02
06 | TX | MONTGOMERY COUNTY | 48339C0535F | 17-SEP-2003 | 03-06-1786A | 02
06 | TX | MONTGOMERY COUNTY | 48339C0705F | 16-JUL-2003 | 03-06-2099A | 01
06 | TX | MONTGOMERY COUNTY | 48339C0215F | 10-OCT-2003 | 03-06-2381A | 02
06 | TX | MONTGOMERY COUNTY | 48339C0195F | 22-SEP-2003 | 03-06-2606A | 02
06 | TX | MONTGOMERY COUNTY | 48339C0215F | 22-SEP-2003 | 03-06-2723A | 02
06 | TX | MONTGOMERY COUNTY | 48339C0730G | 26-NOV-2003 | 04-06-052A | 02
06 | TX | MONTGOMERY COUNTY | 48339C0505F | 10-DEC-2003 | 04-06-337A | 02
06 | TX | MOORE COUNTY | 48339C0205F | 22-SEP-2003 | 03-06-2441A | 01
06 | TX | NASSAU BAY, CITY OF | 48201C1090K | 05-SEP-2003 | 03-06-2483A | 02
06 | TX | NAVASOTA, CITY OF | 4802650005A | 10-DEC-2003 | 04-06-440A | 02
06 | TX | NORTH RICHLAND HILLS, CITY OF | 48439C0284H | 18-JUL-2003 | 03-06-1020P | 06
06 | TX | NORTH RICHLAND HILLS, CITY OF | 48439C0303H | 18-JUL-2003 | 03-06-1020P | 06
06 | TX | NORTH RICHLAND HILLS, CITY OF | 48439C0189H | 07-OCT-2003 | 03-06-444P | 05
06 | TX | NORTH RICHLAND HILLS, CITY OF | 48439C0190H | 07-OCT-2003 | 03-06-444P | 05
06 | TX | NORTH RICHLAND HILLS, CITY OF | 48439C0189H | 17-DEC-2003 | 04-06-531A | 02
06 | TX | OAK RIDGE NORTH, CITY OF | 48339C0539G | 17-DEC-2003 | 04-06-157A | 02
06 | TX | ODESSA, CITY OF | 48135C0140D | 18-JUL-2003 | 03-06-1352A | 01
06 | TX | ODESSA, CITY OF | 48135C0135D | 09-JUL-2003 | 03-06-1840A | 02
06 | TX | ODESSA, CITY OF | 48135C0170D | 15-AUG-2003 | 03-06-2026A | 02
06 | TX | ODESSA, CITY OF | 48135C0140D | 23-JUL-2003 | 03-06-2133A | 02
06 | TX | ODESSA, CITY OF | 48135C0135D | 08-AUG-2003 | 03-06-2180A | 02
06 | TX | ODESSA, CITY OF | 48135C0135D | 13-AUG-2003 | 03-06-2374A | 02
06 | TX | ODESSA, CITY OF | 48135C0170D | 13-AUG-2003 | 03-06-2382A | 02
06 | TX | ODESSA, CITY OF | 48135C0140D | 03-SEP-2003 | 03-06-2480A | 02
06 | TX | ODESSA, CITY OF | 48135C0170D | 03-OCT-2003 | 03-06-2767A | 02
06 | TX | ODESSA, CITY OF | 48135C0140D | 24-OCT-2003 | 04-06-021A | 02
06 | TX | ODESSA, CITY OF | 48135C0140D | 26-NOV-2003 | 04-06-318A | 02
06 | TX | ODESSA, CITY OF | 48135C0170D | 03-DEC-2003 | 04-06-327A | 02
06 | TX | ORANGE COUNTY | 4805100025B | 10-OCT-2003 | 03-06-2825A | 02
06 | TX | PALO PINTO COUNTY | 4805160100A | 09-JUL-2003 | 03-06-1789A | 02
06 | TX | PALO PINTO COUNTY | 4805160100A | 14-NOV-2003 | 04-06-054A | 02
06 | TX | PARIS, CITY OF | 4804270002B | 25-AUG-2003 | 02-06-2435P | 06
06 | TX | PARIS, CITY OF | 4804270001B | 15-OCT-2003 | 03-06-2867A | 02
06 | TX | PASADENA, CITY OF | 48201C1080J | 16-JUL-2003 | 03-06-1722A | 02
06 | TX | PEARLAND, CITY OF | 48039C0065J | 16-JUL-2003 | 03-06-1666A | 02
06 | TX | PEARLAND, CITY OF | 48039C0030I | 11-JUL-2003 | 03-06-176P | 05
06 | TX | PEARLAND, CITY OF | 48039C0040I | 11-JUL-2003 | 03-06-176P | 05
06 | TX | PEARLAND, CITY OF | 48039C0045J | 18-JUL-2003 | 03-06-1972A | 01
06 | TX | PLAINVIEW, CITY OF | 4802750004B | 18-JUL-2003 | 03-06-1796A | 02
06 | TX | PLAINVIEW, CITY OF | 4802750004B | 08-OCT-2003 | 03-06-2376A | 02
06 | TX | PLAINVIEW, CITY OF | 4802750004B | 22-AUG-2003 | 03-06-2398A | 02
06 | TX | PLAINVIEW, CITY OF | 4802750004B | 31-OCT-2003 | 04-06-064A | 02
06 | TX | PLANO, CITY OF | 48085C0440G | 07-NOV-2003 | 03-06-1861A | 02
06 | TX | PLANO, CITY OF | 48085C0445G | 01-AUG-2003 | 03-06-1918A | 17
06 | TX | PLANO, CITY OF | 48085C0440G | 03-SEP-2003 | 03-06-2216A | 17
06 | TX | PLANO, CITY OF | 48085C0440G | 20-AUG-2003 | 03-06-2493A | 02
06 | TX | PLANO, CITY OF | 48085C0410G | 16-DEC-2003 | 03-06-685P | 05
06 | TX | PLANO, CITY OF | 48085C0445G | 31-OCT-2003 | 04-06-108A | 02
06 | TX | POLK COUNTY | 4805260006B | 29-OCT-2003 | 03-06-2928A | 02
06 | TX | RANSOM CANYON, TOWN OF | 48303C0339D | 25-JUL-2003 | 03-06-1881A | 02
06 | TX | RICHARDSON, CITY OF | 48113C0205J | 22-SEP-2003 | 03-06-2594A | 02
06 | TX | RICHARDSON, CITY OF | 48113C0185J | 24-OCT-2003 | 03-06-2864A | 02
06 | TX | RICHARDSON, CITY OF | 48113C0205J | 12-NOV-2003 | 03-06-427P | 05
06 | TX | RICHARDSON, CITY OF | 48113C0210K | 12-NOV-2003 | 03-06-427P | 05
06 | TX | RICHARDSON, CITY OF | 48113C0205J | 03-DEC-2003 | 04-06-421A | 02
06 | TX | RICHMOND, CITY OF | 48157C0230J | 05-DEC-2003 | 04-06-186A | 17
06 | TX | ROANOKE, CITY OF | 48121C0655E | 16-DEC-2003 | 03-06-1024P | 06
06 | TX | ROCKWALL, CITY OF | 4805470005C | 03-DEC-2003 | 03-06-2698A | 02
06 | TX | ROCKWALL, CITY OF | 4805470005C | 31-DEC-2003 | 04-06-058A | 01
06 | TX | ROUND ROCK, CITY OF | 48491C0240C | 31-OCT-2003 | 03-06-1213P | 06
06 | TX | ROUND ROCK, CITY OF | 48491C0330D | 31-OCT-2003 | 03-06-1213P | 06
06 | TX | ROUND ROCK, CITY OF | 48491C0330D | 18-JUL-2003 | 03-06-1689A | 02
06 | TX | ROUND ROCK, CITY OF | 48491C0330D | 19-DEC-2003 | 04-06-279A | 02
06 | TX | ROWLETT, CITY OF | 48113C0235J | 14-NOV-2003 | 03-06-2759A | 17
06 | TX | SACHSE, CITY OF | 48113C0230J | 29-OCT-2003 | 03-06-2629A | 17
06 | TX | SAGINAW, CITY OF | 48439C0260H | 20-AUG-2003 | 03-06-2402A | 02
06 | TX | SAGINAW, CITY OF | 48439C0260H | 17-SEP-2003 | 03-06-2472A | 01
06 | TX | SAGINAW, CITY OF | 48439C0260H | 05-NOV-2003 | 04-06-010X | 01
06 | TX | SAGINAW, CITY OF | 48439C0260H | 07-NOV-2003 | 04-06-123A | 02
06 | TX | SAN ANGELO, CITY OF | 4806230015D | 10-SEP-2003 | 03-06-2478A | 02
06 | TX | SAN ANGELO, CITY OF | 4806230010D | 30-DEC-2003 | 03-06-2684P | 05
06 | TX | SAN ANTONIO, CITY OF | 48029C0284F | 12-NOV-2003 | 03-06-039P | 05
06 | TX | SAN ANTONIO, CITY OF | 48029C0244F | 16-JUL-2003 | 03-06-2012A | 02
06 | TX | SAN ANTONIO, CITY OF | 48029C0293F | 11-JUL-2003 | 03-06-2025A | 02
06 | TX | SAN ANTONIO, CITY OF | 48029C0428F | 09-JUL-2003 | 03-06-2065A | 02
06 | TX | SAN ANTONIO, CITY OF | 48029C0241F | 23-JUL-2003 | 03-06-2176A | 02
06 | TX | SAN ANTONIO, CITY OF | 48029C0095E | 22-AUG-2003 | 03-06-2314A | 02
06 | TX | SAN ANTONIO, CITY OF | 48029C0232F | 22-AUG-2003 | 03-06-2314A | 02
06 | TX | SAN ANTONIO, CITY OF | 48029C0283F | 22-AUG-2003 | 03-06-2393A | 02
06 | TX | SAN ANTONIO, CITY OF | 48029C0429E | 20-AUG-2003 | 03-06-2445A | 02
06 | TX | SAN ANTONIO, CITY OF | 48029C0239F | 27-AUG-2003 | 03-06-2468A | 02
06 | TX | SAN ANTONIO, CITY OF | 48029C0291F | 12-SEP-2003 | 03-06-2640A | 02
06 | TX | SAN ANTONIO, CITY OF | 48029C0283F | 24-OCT-2003 | 03-06-2676P | 06
06 | TX | SAN ANTONIO, CITY OF | 48029C0277F | 05-NOV-2003 | 03-06-2689P | 06
06 | TX | SAN ANTONIO, CITY OF | 48029C0477E | 27-NOV-2003 | 03-06-268A | 02
06 | TX | SAN ANTONIO, CITY OF | 48029C0293F | 14-JUL-2003 | 03-06-683P | 05
06 | TX | SAN ANTONIO, CITY OF | 48029C0417F | 05-NOV-2003 | 04-06-020A | 02
06 | TX | SAN ANTONIO, CITY OF | 48029C0234F | 29-OCT-2003 | 04-06-022A | 02
06 | TX | SAN ANTONIO, CITY OF | 48029C0277F | 30-OCT-2003 | 04-06-041P | 06
06 | TX | SAN ANTONIO, CITY OF | 48029C0257F | 05-NOV-2003 | 04-06-083A | 02
06 | TX | SAN ANTONIO, CITY OF | 48029C0284F | 21-NOV-2003 | 04-06-280A | 02
06 | TX | SAN ANTONIO, CITY OF | 48029C0140F | 21-NOV-2003 | 04-06-409A | 02
06 | TX | SAN MARCOS, CITY OF | 48209C0229E | 30-SEP-2003 | 02-06-1681P | 05
06 | TX | SEALY, CITY OF | 48015C0235D | 01-AUG-2003 | 03-06-2190A | 01
06 | TX | SHERMAN, CITY OF | 48181C0145E | 15-OCT-2003 | 03-06-2941A | 02
06 | TX | SHERMAN, CITY OF | 48181C0145E | 24-DEC-2003 | 04-06-420A | 02
06 | TX | SOCORRO, CITY OF | 4802120236B | 19-NOV-2003 | 03-06-2796C | 01
06 | TX | SOCORRO, CITY OF | 4802120237B | 19-NOV-2003 | 03-06-2796C | 01
06 | TX | SOMERVELL COUNTY | 48425C0050C | 12-SEP-2003 | 03-06-2464A | 02
06 | TX | STEPHENS COUNTY | 48429C0095C | 22-OCT-2003 | 03-06-2952A | 02
06 | TX | SUNSET VALLEY, CITY OF | 48453C0210F | 10-DEC-2003 | 04-06-122A | 02
06 | TX | TARRANT COUNTY | 48439C0160H | 27-AUG-2003 | 03-06-152P | 05
06 | TX | TARRANT COUNTY | 48439C0232H | 18-JUL-2003 | 03-06-2119A | 02
06 | TX | TAYLOR COUNTY | 4810140006B | 27-AUG-2003 | 03-06-2486A | 02
06 | TX | TERRELL HILLS, CITY OF | 48029C0456F | 14-NOV-2003 | 04-06-175A | 02
06 | TX | TERRELL, CITY OF | 4804160005B | 16-DEC-2003 | 03-06-1932P | 05
06 | TX | TERRY COUNTY | 48491C0325D | 11-JUL-2003 | 03-06-1168A | 02
06 | TX | THE COLONY, CITY OF | 48121C0558F | 14-NOV-2003 | 03-06-2862A | 02
06 | TX | TRAVIS COUNTY | 48453C0075E | 08-AUG-2003 | 02-06-2603P | 06
06 | TX | TRAVIS COUNTY | 48453C0285E | 12-AUG-2003 | 03-06-1396P | 06
06 | TX | TRAVIS COUNTY | 48453C0290E | 12-AUG-2003 | 03-06-1396P | 06
06 | TX | TRAVIS COUNTY | 48453C0055E | 17-AUG-2003 | 03-06-1538P | 06
06 | TX | TYLER, CITY OF | 4805710019B | 12-SEP-2003 | 03-06-1888A | 02
06 | TX | TYLER, CITY OF | 4805710014B | 15-OCT-2003 | 03-06-2029A | 01
06 | TX | UNIVERSAL CITY, CITY OF | 48029C0316E | 26-NOV-2003 | 04-06-317A | 02
06 | TX | VICTORIA COUNTY | 4806370200B | 13-AUG-2003 | 03-06-2100A | 01
06 | TX | VICTORIA, CITY OF | 4806380005G | 11-JUL-2003 | 03-06-1822A | 02
06 | TX | VICTORIA, CITY OF | 4806380005G | 03-OCT-2003 | 03-06-2488A | 17
06 | TX | VICTORIA, CITY OF | 4806380010E | 31-OCT-2003 | 04-06-101A | 02
06 | TX | WALKER COUNTY | 4810420007C | 12-NOV-2003 | 04-06-199A | 02
06 | TX | WALLER COUNTY | 4806400130C | 03-DEC-2003 | 04-06-357A | 02
06 | TX | WEBB COUNTY | 4810590650B | 10-SEP-2003 | 03-06-2465A | 01
06 | TX | WHITE SETTLEMENT, CITY OF | 48439C0265H | 05-NOV-2003 | 03-06-2932A | 02
06 | TX | WICHITA FALLS, CITY OF | 4806620025E | 12-DEC-2003 | 04-06-063A | 02
06 | TX | WILLIAMSON COUNTY | 48491C0244C | 16-JUL-2003 | 03-06-1753A | 02
06 | TX | WILLIAMSON COUNTY | 48491C0325D | 25-JUL-2003 | 03-06-2251X | 02
06 | TX | WILLIAMSON COUNTY | 48491C0244C | 10-OCT-2003 | 03-06-2511A | 02
06 | TX | WINDCREST, CITY OF | 48029C0313E | 25-JUL-2003 | 03-06-1569A | 02
06 | TX | WINDCREST, CITY OF | 48029C0313E | 17-SEP-2003 | 03-06-2661A | 02
06 | TX | WISE COUNTY | 48497C0290C | 30-JUL-2003 | 03-06-2002A | 02
06 | TX | WOOD COUNTY | 4810550007A | 07-JUL-2003 | 03-06-1607A | 02
07 | IA | ALGONA, CITY OF | 1901800005B | 29-AUG-2003 | 03-07-1260A | 01
07 | IA | ANKENY, CITY OF | 1902260003C | 10-OCT-2003 | 03-07-1369A | 01
07 | IA | ANKENY, CITY OF | 1909010039B | 07-NOV-2003 | 03-07-1478A | 01
07 | IA | ATLANTIC, CITY OF | 1900490005B | 31-OCT-2003 | 04-07-080A | 17
07 | IA | BLACK HAWK COUNTY | 1905350065B | 16-JUL-2003 | 03-07-1059A | 01
07 | IA | BREMER COUNTY | 19017C0025C | 06-AUG-2003 | 03-07-1202A | 02
07 | IA | BREMER COUNTY | 19017C0100C | 26-NOV-2003 | 04-07-153A | 02
07 | IA | BUCHANAN COUNTY | 1908480025C | 29-AUG-2003 | 03-07-1308A | 02
07 | IA | BUCK GROVE, CITY OF | 190093—01A | 05-NOV-2003 | 04-07-088A | 02
07 | IA | BUTLER COUNTY | 1908500100B | 24-SEP-2003 | 03-07-1394A | 02
07 | IA | CAMANCHE, CITY OF | 1900860005B | 05-NOV-2003 | 03-07-1320A | 01
07 | IA | CAMANCHE, CITY OF | 1900860005B | 24-DEC-2003 | 04-07-222A | 02
07 | IA | CEDAR FALLS, CITY OF | 1900170002B | 18-JUL-2003 | 03-07-1027A | 02
07 | IA | CEDAR FALLS, CITY OF | 1900170002B | 13-AUG-2003 | 03-07-1213A | 02
07 | IA | CEDAR FALLS, CITY OF | 1900170002B | 22-AUG-2003 | 03-07-1310X | 02
07 | IA | CEDAR RAPIDS, CITY OF | 1901870020B | 15-OCT-2003 | 03-07-1303A | 02
07 | IA | CLINTON COUNTY | 190859—21B | 22-AUG-2003 | 03-07-1091A | 02
07 | IA | CLINTON, CITY OF | 1900880005B | 23-JUL-2003 | 03-07-788A | 01
07 | IA | CLIVE, CITY OF | 1904880005C | 02-JUL-2003 | 03-07-1088A | 02
07 | IA | CLIVE, CITY OF | 1904880005C | 13-AUG-2003 | 03-07-1217A | 02
07 | IA | CLIVE, CITY OF | 1904880005C | 05-SEP-2003 | 03-07-1364A | 02
07 | IA | CLIVE, CITY OF | 1904880005C | 22-OCT-2003 | 04-07-021A | 02
07 | IA | CLIVE, CITY OF | 1904880005C | 21-NOV-2003 | 04-07-065A | 02
07 | IA | CLIVE, CITY OF | 1904880005C | 29-OCT-2003 | 04-07-086A | 02
07 | IA | COLFAX, CITY OF | 190163—01B | 12-SEP-2003 | 03-07-1179A | 02
07 | IA | CORALVILLE, CITY OF | 19103C0090D | 26-NOV-2003 | 04-07-139A | 01
07 | IA | COUNCIL BLUFFS, CITY OF | 1902350005D | 26-NOV-2003 | 04-07-024A | 02
07 | IA | DALLAS COUNTY | 19049C0118D | 08-OCT-2003 | 03-07-866A | 01
07 | IA | DAVENPORT, CITY OF | 1902420005B | 10-SEP-2003 | 03-07-1154A | 02
07 | IA | DAVENPORT, CITY OF | 1902420005B | 25-JUL-2003 | 03-07-1157A | 02
07 | IA | DAVENPORT, CITY OF | 1902420004C | 01-OCT-2003 | 03-07-1159A | 02
07 | IA | DELAWARE COUNTY | 1908630003A | 15-OCT-2003 | 03-07-1492A | 02
07 | IA | DELAWARE COUNTY | 1908630003A | 24-DEC-2003 | 04-07-225A | 02
07 | IA | DICKINSON COUNTY | 1908640050C | 27-AUG-2003 | 03-07-1274A | 02
07 | IA | DICKINSON COUNTY | 1908640050C | 27-AUG-2003 | 03-07-1275A | 02
07 | IA | DICKINSON COUNTY | 1908640050C | 08-OCT-2003 | 03-07-1358A | 02
07 | IA | DICKINSON COUNTY | 1908640100C | 17-SEP-2003 | 03-07-1390A | 02
07 | IA | FAIRBANK, CITY OF | 190329—01A | 26-NOV-2003 | 03-07-1413A | 02
07 | IA | FAIRFIELD, CITY OF | 1901680005D | 17-SEP-2003 | 03-07-1353A | 02
07 | IA | GREENE COUNTY | 1908690004B | 03-SEP-2003 | 03-07-1016A | 02
07 | IA | GUTHRIE COUNTY | 1908710004B | 16-JUL-2003 | 03-07-1001A | 02
07 | IA | GUTHRIE COUNTY | 1908710007B | 01-OCT-2003 | 03-07-1448A | 02
07 | IA | HARPERS FERRY, CITY OF | 190316—01A | 12-SEP-2003 | 03-07-1270A | 02
07 | IA | HARRISON COUNTY | 1901430025A | 07-NOV-2003 | 04-07-062A | 02
07 | IA | HUMBOLDT, CITY OF | 1901550005B | 22-AUG-2003 | 03-07-1307A | 02
07 | IA | HUMBOLDT, CITY OF | 1901550005B | 10-OCT-2003 | 03-07-1329A | 01
07 | IA | HUMBOLDT, CITY OF | 1901550005B | 05-SEP-2003 | 03-07-1378A | 02
07 | IA | HUMBOLDT, CITY OF | 1901550005B | 15-OCT-2003 | 03-07-1450A | 02
07 | IA | HUMBOLDT, CITY OF | 1901550005B | 05-NOV-2003 | 04-07-092A | 01
07 | IA | HUMBOLDT, CITY OF | 1901550005B | 19-DEC-2003 | 04-07-256A | 02
07 | IA | INDEPENDENCE, CITY OF | 1900310001C | 12-SEP-2003 | 03-07-1103A | 02
07 | IA | INDIANOLA, CITY OF | 19181C0080D | 20-AUG-2003 | 03-07-1106A | 02
07 | IA | IOWA CITY, CITY OF | 19103C0130D | 18-JUL-2003 | 02-07-356P | 05
07 | IA | IOWA CITY, CITY OF | 19103C0135D | 18-JUL-2003 | 02-07-356P | 05
07 | IA | IOWA CITY, CITY OF | 19103C0090D | 13-AUG-2003 | 03-07-1148A | 01
07 | IA | IOWA CITY, CITY OF | 19103C0090D | 22-AUG-2003 | 03-07-1211A | 01
07 | IA | IOWA CITY, CITY OF | 19103C0090D | 02-JUL-2003 | 03-07-682A | 02
07 | IA | IOWA CITY, CITY OF | 19103C0090D | 31-DEC-2003 | 04-07-312A | 02
07 | IA | JONES COUNTY | 1909190225B | 18-JUL-2003 | 03-07-1147A | 02
07 | IA | LINN COUNTY | 1908290065B | 03-OCT-2003 | 03-07-1440A | 02
07 | IA | MAQUOKETA, CITY OF | 190160—01B | 10-OCT-2003 | 03-07-1493A | 02
07 | IA | MARENGO, CITY OF | 1901570001D | 03-DEC-2003 | 03-07-1469A | 01
07 | IA | MARENGO, CITY OF | 1901570001D | 03-DEC-2003 | 04-07-209A | 02
07 | IA | MARENGO, CITY OF | 1901570001D | 17-DEC-2003 | 04-07-213A | 02
07 | IA | MARION COUNTY | 190889—14B | 12-SEP-2003 | 03-07-991A | 02
07 | IA | MARION, CITY OF | 1901910005B | 27-AUG-2003 | 03-07-1193A | 17
07 | IA | MARION, CITY OF | 1901910004B | 07-JUL-2003 | 03-07-453A | 02
07 | IA | MARSHALLTOWN, CITY OF | 1902000001B | 13-AUG-2003 | 03-07-1137A | 02
07 | IA | MASON CITY, CITY OF | 1900600002B | 03-DEC-2003 | 04-07-081A | 02
07 | IA | MILLS COUNTY | 1908910050B | 11-JUL-2003 | 03-07-1104A | 02
07 | IA | MUSCATINE, CITY OF | 1902130002B | 16-JUL-2003 | 03-07-1095A | 02
07 | IA | NORTH LIBERTY, CITY OF | 19103C0060D | 31-DEC-2003 | 03-07-1352A | 01
07 | IA | NORWALK, CITY OF | 19181C0010D | 20-AUG-2003 | 03-07-1180A | 02
07 | IA | NORWALK, CITY OF | 19181C0010D | 23-JUL-2003 | 03-07-1184A | 02
07 | IA | POLK COUNTY | 1909010140B | 19-DEC-2003 | 04-07-289A | 02
07 | IA | SHELL ROCK, CITY OF | 1903380001B | 19-DEC-2003 | 04-07-149A | 02
07 | IA | SPENCER, CITY OF | 1900710005B | 02-JUL-2003 | 03-07-1024A | 01
07 | IA | SPENCER, CITY OF | 1900710005B | 23-JUL-2003 | 03-07-1166A | 02
07 | IA | SPENCER, CITY OF | 1900710005B | 30-JUL-2003 | 03-07-1187A | 02
07 | IA | SPENCER, CITY OF | 1900710005B | 05-SEP-2003 | 03-07-1227A | 01
07 | IA | SPENCER, CITY OF | 1900710005B | 05-DEC-2003 | 04-07-130A | 01
07 | IA | STACYVILLE, CITY OF | 190461—01A | 24-OCT-2003 | 03-07-1402A | 02
07 | IA | URBANDALE, CITY OF | 1902300005D | 31-DEC-2003 | 04-07-264A | 01
07 | IA | VINTON, CITY OF | 1900160005B | 23-JUL-2003 | 03-07-544A | 01
07 | IA | WARREN COUNTY | 19181C0010D | 24-SEP-2003 | 03-07-1343A | 02
07 | IA | WARREN COUNTY | 19181C0100D | 09-JUL-2003 | 03-07-981A | 02
07 | IA | WATERLOO, CITY OF | 1900250008E | 01-AUG-2003 | 03-07-1178A | 02
07 | IA | WATERLOO, CITY OF | 1900250015E | 15-OCT-2003 | 03-07-1318A | 02
07 | IA | WATERLOO, CITY OF | 1900250005E | 17-SEP-2003 | 03-07-1376A | 02
07 | IA | WATERLOO, CITY OF | 1900250015E | 25-JUL-2003 | 03-07-917A | 02
07 | IA | WEST DES MOINES, CITY OF | 1902310005B | 25-JUL-2003 | 03-07-1168A | 02
07 | IA | WEST DES MOINES, CITY OF | 1902310005B | 26-SEP-2003 | 03-07-1435A | 02
07 | IA | WYOMING,CITY OF | 1904340001B | 05-SEP-2003 | 03-07-1313A | 02
07 | IA | WYOMING,CITY OF | 1904340001B | 05-SEP-2003 | 03-07-1317A | 02
07 | IA | WYOMING,CITY OF | 1904340001B | 12-SEP-2003 | 03-07-1367A | 02
07 | IA | WYOMING,CITY OF | 1904340001B | 12-SEP-2003 | 03-07-1368A | 02
07 | IA | WYOMING,CITY OF | 1904340001B | 22-SEP-2003 | 03-07-1385A | 02
07 | IA | WYOMING,CITY OF | 1904340001B | 22-OCT-2003 | 04-07-052X | 02
07 | KS | ALBERT, CITY OF | 2000170001A | 29-AUG-2003 | 03-07-1273A | 02
07 | KS | BALDWIN CITY, CITY OF | 20045C0127C | 10-SEP-2003 | 03-07-1173A | 02
07 | KS | BARTON COUNTY | 2000160390C | 10-OCT-2003 | 03-07-1311A | 02
07 | KS | BASEHOR, CITY OF | 2001870001 | 29-SEP-2003 | 02-07-674P | 06
07 | KS | BELLE PLAINE, CITY OF | 20191C0120B | 25-JUL-2003 | 03-07-1165A | 02
07 | KS | BOURBON COUNTY | 2000220006B | 24-SEP-2003 | 03-07-1012A | 02
07 | KS | BUTLER COUNTY | 2000370240C | 11-JUL-2003 | 03-07-1128A | 02
07 | KS | CHEROKEE COUNTY | 2000440300B | 26-NOV-2003 | 04-07-116A | 02
07 | KS | COWLEY COUNTY | 2005630225B | 06-AUG-2003 | 03-07-1198A | 02
07 | KS | DERBY, CITY OF | 2003230001C | 11-JUL-2003 | 03-07-1121A | 02
07 | KS | DERBY, CITY OF | 2003230002C | 25-JUL-2003 | 03-07-1163A | 02
07 | KS | DERBY, CITY OF | 2003230001C | 12-DEC-2003 | 03-07-883P | 05
07 | KS | DICKINSON COUNTY | 20041C0050C | 14-NOV-2003 | 04-07-103A | 02
07 | KS | EL DORADO, CITY OF | 2000390001D | 02-JUL-2003 | 03-07-971A | 02
07 | KS | EUDORA, CITY OF | 20045C0044C | 19-DEC-2003 | 04-07-284A | 02
07 | KS | FINNEY COUNTY | 2000990275B | 12-DEC-2003 | 04-07-142A | 02
07 | KS | FORT SCOTT, CITY OF | 2000230005C | 20-AUG-2003 | 03-07-1238A | 02
07 | KS | GALVA, CITY OF | 2004970001A | 17-SEP-2003 | 03-07-1420A | 02
07 | KS | GARDEN CITY, CITY OF | 2051860005D | 05-NOV-2003 | 04-07-015A | 02
07 | KS | GARDEN PLAIN, CITY OF | 2003210175A | 12-DEC-2003 | 04-07-203A | 02
07 | KS | HALSTEAD, CITY OF | 2001310001D | 17-SEP-2003 | 03-07-1399A | 02
07 | KS | HALSTEAD, CITY OF | 2001310001D | 17-SEP-2003 | 03-07-1423A | 02
07 | KS | HUTCHINSON, CITY OF | 20155C0285D | 01-OCT-2003 | 03-07-1433A | 02
07 | KS | JACKSON COUNTY | 2006190095C | 24-DEC-2003 | 04-07-247A | 02
07 | KS | JEFFERSON COUNTY | 2001470075B | 15-OCT-2003 | 03-07-1498A | 02
07 | KS | JEFFERSON COUNTY | 2001470125C | 22-OCT-2003 | 04-07-006A | 02
07 | KS | JUNCTION CITY, CITY OF | 2005790065C | 06-AUG-2003 | 03-07-1156A | 01
07 | KS | KINGMAN COUNTY | 2005890006B | 03-OCT-2003 | 03-07-1354A | 02
07 | KS | LAWRENCE, CITY OF | 20045C0076C | 09-JUL-2003 | 03-07-1127A | 02
07 | KS | LAWRENCE, CITY OF | 20045C0038C | 13-AUG-2003 | 03-07-1188A | 02
07 | KS | LAWRENCE, CITY OF | 20045C0036C | 12-SEP-2003 | 03-07-1366A | 02
07 | KS | LAWRENCE, CITY OF | 20045C0036C | 22-SEP-2003 | 03-07-1373A | 02
07 | KS | LAWRENCE, CITY OF | 20045C0076C | 24-SEP-2003 | 03-07-1383A | 01
07 | KS | LAWRENCE, CITY OF | 20045C0036C | 29-OCT-2003 | 03-07-1487A | 01
07 | KS | LAWRENCE, CITY OF | 20045C0060C | 13-AUG-2003 | 03-07-980A | 01
07 | KS | LAWRENCE, CITY OF | 20045C0036C | 24-DEC-2003 | 04-07-259A | 02
07 | KS | LENEXA, CITY OF | 20091C0201F | 13-AUG-2003 | 03-07-1143A | 17
07 | KS | LIBERAL, CITY OF | 2003300020C | 07-JUL-2003 | 03-07-924A | 01
07 | KS | LYON COUNTY | 2002010125B | 19-DEC-2003 | 04-07-111A | 02
07 | KS | LYON COUNTY | 2002010150B | 26-NOV-2003 | 04-07-191A | 02
07 | KS | MANHATTAN, CITY OF | 2003000002D | 05-SEP-2003 | 03-07-1236A | 02
07 | KS | MANHATTAN, CITY OF | 2003000004D | 03-SEP-2003 | 03-07-1339A | 02
07 | KS | MANHATTAN, CITY OF | 2002980155B | 12-DEC-2003 | 03-07-497P | 05
07 | KS | MCPHERSON COUNTY | 2002140200B | 03-OCT-2003 | 03-07-1471A | 02
07 | KS | MCPHERSON, CITY OF | 2002170015D | 02-JUL-2003 | 03-07-1033A | 01
07 | KS | MCPHERSON, CITY OF | 2002170005D | 20-AUG-2003 | 03-07-1248A | 02
07 | KS | MCPHERSON, CITY OF | 2002170015D | 05-SEP-2003 | 03-07-1362A | 02
07 | KS | MCPHERSON, CITY OF | 2002170005D | 24-SEP-2003 | 03-07-1431A | 02
07 | KS | MCPHERSON, CITY OF | 2002170005D | 12-NOV-2003 | 04-07-128A | 02
07 | KS | MULVANE, CITY OF | 2003260005D | 18-JUL-2003 | 03-07-1126A | 02
07 | KS | NEWTON, CITY OF | 2001330005C | 14-NOV-2003 | 03-07-1374A | 02
07 | KS | NICKERSON, CITY OF | 20155C0090D | 02-JUL-2003 | 03-07-1003A | 02
07 | KS | NICKERSON, CITY OF | 20155C0090D | 26-SEP-2003 | 03-07-1425A | 02
07 | KS | NORTON, CITY OF | 200248—01B | 25-JUL-2003 | 03-07-1134A | 02
07 | KS | NORTON, CITY OF | 200248—01B | 18-JUL-2003 | 03-07-1146A | 02
07 | KS | OLATHE, CITY OF | 20091C0306F | 15-AUG-2003 | 03-07-1064A | 02
07 | KS | OLATHE, CITY OF | 20091C0213F | 16-JUL-2003 | 03-07-1129A | 02
07 | KS | OLATHE, CITY OF | 20091C0194F | 05-DEC-2003 | 03-07-1141A | 17
07 | KS | OLATHE, CITY OF | 20091C0213F | 27-AUG-2003 | 03-07-997A | 02
07 | KS | OVERLAND PARK, CITY OF | 20091C0211F | 25-SEP-2003 | 02-07-792P | 05
07 | KS | OVERLAND PARK, CITY OF | 20091C0213F | 25-SEP-2003 | 02-07-792P | 05
07 | KS | OVERLAND PARK, CITY OF | 20091C0208F | 02-JUL-2003 | 03-07-1067A | 02
07 | KS | OVERLAND PARK, CITY OF | 20091C0204F | 01-AUG-2003 | 03-07-1078A | 02
07 | KS | OVERLAND PARK, CITY OF | 20091C0204F | 07-JUL-2003 | 03-07-1080A | 02
07 | KS | OVERLAND PARK, CITY OF | 20091C0204F | 07-JUL-2003 | 03-07-1097A | 01
07 | KS | OVERLAND PARK, CITY OF | 20091C0204F | 08-AUG-2003 | 03-07-1192A | 17
07 | KS | OVERLAND PARK, CITY OF | 20091C0204F | 01-AUG-2003 | 03-07-1195A | 01
07 | KS | OVERLAND PARK, CITY OF | 20091C0204F | 29-AUG-2003 | 03-07-1200A | 17
07 | KS | OVERLAND PARK, CITY OF | 20091C0209F | 29-AUG-2003 | 03-07-1306A | 02
07 | KS | OVERLAND PARK, CITY OF | 20091C0208F | 21-NOV-2003 | 04-07-114A | 02
07 | KS | OVERLAND PARK, CITY OF | 20091C0208F | 26-NOV-2003 | 04-07-163A | 01
07 | KS | OVERLAND PARK, CITY OF | 20091C0331F | 24-DEC-2003 | 04-07-168A | 17
07 | KS | OVERLAND PARK, CITY OF | 20091C0213F | 17-DEC-2003 | 04-07-194A | 02
07 | KS | OVERLAND PARK, CITY OF | 20091C0331F | 24-DEC-2003 | 04-07-244A | 17
07 | KS | RENO COUNTY | 20155C0140D | 01-OCT-2003 | 03-07-1201A | 17
07 | KS | RENO COUNTY | 20155C0315D | 10-DEC-2003 | 04-07-228A | 02
07 | KS | RENO COUNTY | 20155C0315D | 10-DEC-2003 | 04-07-229A | 02
07 | KS | RICE COUNTY | 2002900004B | 05-DEC-2003 | 04-07-143A | 01
07 | KS | RICE COUNTY | 2002900008C | 05-DEC-2003 | 04-07-178A | 02
07 | KS | RICE COUNTY | 2002900008C | 31-DEC-2003 | 04-07-306A | 02
07 | KS | RILEY COUNTY | 2002980155B | 07-JUL-2003 | 03-07-1111A | 02
07 | KS | RILEY COUNTY | 2002980150B | 05-NOV-2003 | 03-07-1359A | 02
07 | KS | RILEY COUNTY | 20161C0215E | 05-DEC-2003 | 03-07-1361A | 02
07 | KS | RILEY COUNTY | 20161C0333E | 21-NOV-2003 | 04-07-075A | 02
07 | KS | RILEY COUNTY | 20161C0364E | 17-DEC-2003 | 04-07-196A | 17
07 | KS | ROELAND PARK, CITY OF | 20091C0094F | 10-SEP-2003 | 03-07-1335A | 02
07 | KS | SALINA, CITY OF | 2003190015B | 09-JUL-2003 | 03-07-1086A | 02
07 | KS | SALINA, CITY OF | 2003190015B | 01-AUG-2003 | 03-07-1183A | 02
07 | KS | SALINA, CITY OF | 2003190015B | 20-AUG-2003 | 03-07-1240A | 02
07 | KS | SALINA, CITY OF | 2003190015B | 21-NOV-2003 | 03-07-1341A | 02
07 | KS | SALINA, CITY OF | 2003190015B | 22-SEP-2003 | 03-07-1396A | 02
07 | KS | SALINA, CITY OF | 2003190015B | 17-OCT-2003 | 03-07-1451A | 02
07 | KS | SALINA, CITY OF | 2003190015B | 08-OCT-2003 | 03-07-1459A | 02
07 | KS | SALINA, CITY OF | 2003190015B | 08-OCT-2003 | 03-07-1465A | 02
07 | KS | SALINA, CITY OF | 2003190015B | 10-OCT-2003 | 03-07-1472A | 02
07 | KS | SALINA, CITY OF | 2003190015B | 01-OCT-2003 | 03-07-1473A | 02
07 | KS | SALINA, CITY OF | 2003190015B | 15-OCT-2003 | 03-07-1484A | 02
07 | KS | SALINA, CITY OF | 2003190015B | 03-OCT-2003 | 03-07-1485A | 02
07 | KS | SALINA, CITY OF | 2003190015B | 15-OCT-2003 | 03-07-1486A | 02
07 | KS | SALINA, CITY OF | 2003190015B | 17-OCT-2003 | 03-07-1500A | 02
07 | KS | SALINA, CITY OF | 2003190005B | 11-JUL-2003 | 03-07-428A | 02
07 | KS | SALINA, CITY OF | 2003190015B | 31-OCT-2003 | 04-07-072A | 02
07 | KS | SALINA, CITY OF | 2003190015B | 07-NOV-2003 | 04-07-095A | 02
07 | KS | SALINA, CITY OF | 2003190015B | 12-NOV-2003 | 04-07-108A | 02
07 | KS | SALINA, CITY OF | 2003190015B | 07-NOV-2003 | 04-07-127A | 02
07 | KS | SALINA, CITY OF | 2003190015B | 12-DEC-2003 | 04-07-184A | 02
07 | KS | SALINA, CITY OF | 2003190005B | 05-DEC-2003 | 04-07-207A | 02
07 | KS | SALINA, CITY OF | 2003190015B | 10-DEC-2003 | 04-07-219A | 02
07 | KS | SALINA, CITY OF | 2003190015B | 10-DEC-2003 | 04-07-238A | 02
07 | KS | SALINA, CITY OF | 2003190015B | 31-DEC-2003 | 04-07-275A | 02
07 | KS | SALINE COUNTY | 2003160030B | 23-JUL-2003 | 03-07-1009A | 02
07 | KS | SALINE COUNTY | 2003160030B | 23-JUL-2003 | 03-07-1034A | 02
07 | KS | SALINE COUNTY | 2003160065B | 16-JUL-2003 | 03-07-1050A | 02
07 | KS | SALINE COUNTY | 2003160060B | 12-SEP-2003 | 03-07-1182A | 02
07 | KS | SALINE COUNTY | 2003160060B | 29-OCT-2003 | 03-07-1209A | 02
07 | KS | SALINE COUNTY | 2003160060B | 22-AUG-2003 | 03-07-1237A | 02
07 | KS | SALINE COUNTY | 2003160090B | 17-SEP-2003 | 03-07-1261A | 01
07 | KS | SALINE COUNTY | 2003160125B | 17-SEP-2003 | 03-07-1350A | 02
07 | KS | SALINE COUNTY | 2003160060B | 02-JUL-2003 | 03-07-962A | 02
07 | KS | SALINE COUNTY | 2003160125B | 13-AUG-2003 | 03-07-988A | 02
07 | KS | SALINE COUNTY | 2003160125B | 12-NOV-2003 | 04-07-020A | 01
07 | KS | SEDGWICK COUNTY | 2003210025A | 17-SEP-2003 | 03-07-1048A | 01
07 | KS | SEDGWICK COUNTY | 2003210125A | 03-OCT-2003 | 03-07-1427A | 02
07 | KS | SEDGWICK COUNTY | 2003210125A | 29-OCT-2003 | 03-07-1434A | 02
07 | KS | SEDGWICK COUNTY | 2003210225A | 17-OCT-2003 | 03-07-1456A | 02
07 | KS | SEDGWICK COUNTY | 2003210300A | 01-OCT-2003 | 03-07-1458A | 02
07 | KS | SEDGWICK COUNTY | 2003210300A | 12-NOV-2003 | 04-07-084A | 02
07 | KS | SEDGWICK COUNTY | 2003210300A | 24-DEC-2003 | 04-07-180A | 01
07 | KS | SEDGWICK COUNTY | 2003210200A | 24-DEC-2003 | 04-07-230A | 02
07 | KS | SEDGWICK, CITY OF | 2001340001D | 06-AUG-2003 | 03-07-902A | 02
07 | KS | SEDGWICK, CITY OF | 2001340001D | 12-NOV-2003 | 04-07-122A | 02
07 | KS | SHAWNEE COUNTY | 2003310050C | 05-DEC-2003 | 03-07-1494A | 02
07 | KS | SHAWNEE, CITY OF | 20091C0185F | 19-NOV-2003 | 04-07-165X | 02
07 | KS | SOLOMON, CITY OF | 20041C0061C | 26-NOV-2003 | 03-07-1401A | 02
07 | KS | SUMNER COUNTY | 20191C0085B | 11-JUL-2003 | 03-07-755A | 17
07 | KS | SUMNER COUNTY | 20191C0375B | 02-JUL-2003 | 03-07-951A | 02
07 | KS | TOPEKA, CITY OF | 2003310095C | 10-OCT-2003 | 03-07-1167A | 02
07 | KS | TOPEKA, CITY OF | 2051870011C | 19-DEC-2003 | 03-07-1464A | 02
07 | KS | VALLEY CENTER, CITY OF | 200327H&I | 02-JUL-2003 | 03-07-879P | 05
07 | KS | WAMEGO, CITY OF | 2002760002C | 23-JUL-2003 | 03-07-974A | 17
07 | KS | WELLINGTON, CITY OF | 20191C0245B | 23-OCT-2003 | 02-07-555P | 05
07 | KS | WELLINGTON, CITY OF | 20191C0385B | 23-OCT-2003 | 02-07-555P | 05
07 | KS | WHITEWATER, CITY OF | 200559—01A | 03-DEC-2003 | 03-07-1119A | 02
07 | KS | WICHITA, CITY OF | 2003280035B | 02-JUL-2003 | 03-07-1073A | 02
07 | KS | WICHITA, CITY OF | 2003280035B | 02-JUL-2003 | 03-07-1074A | 02
07 | KS | WICHITA, CITY OF | 2003210150A | 10-SEP-2003 | 03-07-1136A | 01
07 | KS | WICHITA, CITY OF | 2003210200A | 06-AUG-2003 | 03-07-1171A | 02
07 | KS | WICHITA, CITY OF | 2003280025B | 13-AUG-2003 | 03-07-1205A | 02
07 | KS | WICHITA, CITY OF | 2003280025B | 20-AUG-2003 | 03-07-1262A | 02
07 | KS | WICHITA, CITY OF | 2003280020B | 03-SEP-2003 | 03-07-1269A | 01
07 | KS | WICHITA, CITY OF | 2003280015B | 27-AUG-2003 | 03-07-1272X | 02
07 | KS | WICHITA, CITY OF | 2003280005B | 17-SEP-2003 | 03-07-1355A | 01
07 | KS | WICHITA, CITY OF | 2003280025B | 10-SEP-2003 | 03-07-1382A | 02
07 | KS | WICHITA, CITY OF | 2003280015B | 26-SEP-2003 | 03-07-1398A | 02
07 | KS | WICHITA, CITY OF | 2003280005B | 01-OCT-2003 | 03-07-1407A | 01
07 | KS | WICHITA, CITY OF | 2003280020B | 22-SEP-2003 | 03-07-1430A | 02
07 | KS | WICHITA, CITY OF | 2003280030B | 08-OCT-2003 | 03-07-1461A | 02
07 | KS | WICHITA, CITY OF | 2003280005B | 15-OCT-2003 | 03-07-1503A | 01
07 | KS | WICHITA, CITY OF | 2003280025B | 24-OCT-2003 | 04-07-007A | 02
07 | KS | WICHITA, CITY OF | 2003280020B | 05-NOV-2003 | 04-07-066A | 02
07 | KS | WICHITA, CITY OF | 2003280025B | 05-NOV-2003 | 04-07-093A | 02
07 | KS | WICHITA, CITY OF | 2003280015B | 26-NOV-2003 | 04-07-141A | 02
07 | KS | WICHITA, CITY OF | 2003280015B | 19-NOV-2003 | 04-07-155A | 02
07 | KS | WICHITA, CITY OF | 2003280005B | 24-DEC-2003 | 04-07-220A | 01
07 | KS | WICHITA, CITY OF | 2003280030B | 24-DEC-2003 | 04-07-270A | 02
07 | MO | ADRIAN, CITY OF | 290749—01A | 11-JUL-2003 | 03-07-1084A | 02
07 | MO | ANDERSON, CITY OF | 2908170025B | 03-DEC-2003 | 04-07-110A | 01
07 | MO | ANDERSON, CITY OF | 2908170050B | 03-DEC-2003 | 04-07-110A | 01
07 | MO | ARBYRD, CITY OF | 2901230001A | 26-SEP-2003 | 03-07-1436A | 02
07 | MO | ARBYRD, CITY OF | 2901230001A | 03-DEC-2003 | 04-07-150A | 02
07 | MO | BARTON COUNTY | 2907850006B | 24-OCT-2003 | 03-07-1131A | 02
07 | MO | BATES COUNTY | 2907860001B | 09-JUL-2003 | 03-07-769A | 02
07 | MO | BATES COUNTY | 2907860001B | 26-NOV-2003 | 04-07-187X | 02
07 | MO | BATES COUNTY | 2907860001B | 19-DEC-2003 | 04-07-277X | 02
07 | MO | BENTON COUNTY | 2900270125B | 24-OCT-2003 | 04-07-019A | 02
07 | MO | BONNE TERRE, CITY OF | 290321—01B | 19-NOV-2003 | 04-07-053A | 02
07 | MO | BULL CREEK, VILLAGE OF | 290435A | 24-SEP-2003 | 03-07-1011A | 02
07 | MO | CALLAWAY COUNTY | 2900490250B | 08-OCT-2003 | 03-07-1223A | 02
07 | MO | CAMDEN COUNTY | 2907890006B | 30-JUL-2003 | 03-07-1056A | 02
07 | MO | CAMDEN COUNTY | 2907890003B | 20-AUG-2003 | 03-07-1231A | 02
07 | MO | CAMDEN COUNTY | 2907890005B | 03-OCT-2003 | 03-07-1462A | 02
07 | MO | CAMDEN COUNTY | 2907890005B | 15-OCT-2003 | 03-07-933A | 02
07 | MO | CAMDEN COUNTY | 2907890001B | 03-DEC-2003 | 04-07-001A | 02
07 | MO | CAMDEN COUNTY | 2907890006B | 29-OCT-2003 | 04-07-054A | 02
07 | MO | CAMDEN COUNTY | 2907890002B | 26-NOV-2003 | 04-07-159A | 02
07 | MO | CAMDEN COUNTY | 2907890002B | 19-DEC-2003 | 04-07-164A | 02
07 | MO | CAPE GIRARDEAU COUNTY | 2907900135B | 07-JUL-2003 | 03-07-1083A | 02
07 | MO | CAPE GIRARDEAU, CITY OF | 2904580007B | 30-JUL-2003 | 03-07-834A | 01
07 | MO | CARTER COUNTY | 2900600100A | 03-DEC-2003 | 04-07-119A | 02
07 | MO | CARTHAGE, CITY OF | 2901810001B | 17-DEC-2003 | 04-07-183A | 02
07 | MO | CASS COUNTY | 2907830025C | 05-SEP-2003 | 03-07-1253A | 02
07 | MO | CASS COUNTY | 2907830125B | 01-OCT-2003 | 03-07-1389A | 02
07 | MO | CASS COUNTY | 2907830200B | 17-OCT-2003 | 03-07-1414A | 02
07 | MO | CASS COUNTY | 2907830200B | 08-OCT-2003 | 03-07-1442A | 02
07 | MO | CASS COUNTY | 2907830125B | 07-NOV-2003 | 04-07-091X | 02
07 | MO | CASS COUNTY | 2907830025C | 24-DEC-2003 | 04-07-254A | 02
07 | MO | CHARITON COUNTY | 2900730175B | 19-NOV-2003 | 04-07-016A | 02
07 | MO | CHESTERFIELD, CITY OF | 29189C0161H | 09-JUL-2003 | 03-07-1122A | 02
07 | MO | CHESTERFIELD, CITY OF | 29189C0161H | 03-OCT-2003 | 03-07-1426A | 02
07 | MO | CHESTERFIELD, CITY OF | 29189C0145H | 15-OCT-2003 | 03-07-1454A | 01
07 | MO | CHESTERFIELD, CITY OF | 29189C0161H | 07-JUL-2003 | 03-07-861A | 02
07 | MO | CHILLICOTHE, CITY OF | 2902160005B | 03-DEC-2003 | 04-07-063A | 02
07 | MO | CLAY COUNTY | 2900860050C | 25-JUL-2003 | 03-07-1172A | 02
07 | MO | CLAY COUNTY | 2900860015B | 29-AUG-2003 | 03-07-1301A | 02
07 | MO | CLAY COUNTY | 2900860040C | 17-SEP-2003 | 03-07-1412A | 02
07 | MO | CLAY COUNTY | 2900860040C | 19-NOV-2003 | 04-07-017A | 02
07 | MO | CLAY COUNTY | 2900860050C | 14-NOV-2003 | 04-07-018A | 02
07 | MO | CLAY COUNTY | 2900860080B | 19-NOV-2003 | 04-07-138A | 02
07 | MO | CLAY COUNTY | 2900860055B | 10-DEC-2003 | 04-07-140A | 02
07 | MO | CLAY COUNTY | 2900860050C | 10-DEC-2003 | 04-07-231A | 02
07 | MO | CLAY COUNTY | 2900860040C | 24-DEC-2003 | 04-07-232A | 02
07 | MO | CLAY COUNTY | 2900860040C | 24-DEC-2003 | 04-07-253A | 02
07 | MO | CLAY COUNTY | 2900860040C | 19-DEC-2003 | 04-07-274A | 02
07 | MO | CLINTON, CITY OF | 2901550002B | 25-JUL-2003 | 03-07-1169A | 02
07 | MO | CLINTON, CITY OF | 2901550001B | 01-JUL-2003 | 03-07-500P | 06
07 | MO | CLINTON, CITY OF | 2901550002B | 01-JUL-2003 | 03-07-500P | 06
07 | MO | COLUMBIA, CITY OF | 2900360006B | 02-JUL-2003 | 03-07-1101A | 02
07 | MO | COLUMBIA, CITY OF | 2900360011C | 13-AUG-2003 | 03-07-1175A | 01
07 | MO | COMMERCE, CITY OF | 2908370050C | 23-JUL-2003 | 03-07-1116A | 02
07 | MO | CRAWFORD COUNTY | 2907950004B | 01-AUG-2003 | 03-07-1204A | 02
07 | MO | DADE COUNTY | 29057C0115B | 26-NOV-2003 | 03-07-1504A | 02
07 | MO | DARDENNE PRAIRIE, TOWN OF | 29183C0239E | 03-SEP-2003 | 03-07-1145A | 17
07 | MO | DES PERES, CITY OF | 29189C0281J | 12-NOV-2003 | 03-07-1365A | 02
07 | MO | FLORISSANT, CITY OF | 29189C0062J | 03-OCT-2003 | 03-07-1342A | 17
07 | MO | FLORISSANT, CITY OF | 29189C0066J | 10-SEP-2003 | 03-07-1344A | 02
07 | MO | FLORISSANT, CITY OF | 29189C0062J | 19-DEC-2003 | 04-07-147A | 17
07 | MO | FRANKLIN COUNTY | 2904930180B | 23-JUL-2003 | 03-07-674A | 02
07 | MO | FREDERICKTOWN, CITY OF | 29123C0170C | 16-JUL-2003 | 03-07-1102A | 02
07 | MO | FREDERICKTOWN, CITY OF | 29123C0170C | 03-OCT-2003 | 03-07-1428A | 02
07 | MO | GASCONADE COUNTY | 2908010037C | 19-DEC-2003 | 04-07-241A | 02
07 | MO | GLADSTONE, CITY OF | 2900910001C | 31-DEC-2003 | 04-07-292A | 02
07 | MO | GREENE COUNTY | 2907820130C | 25-JUL-2003 | 03-07-1069A | 02
07 | MO | GREENE COUNTY | 2907820130C | 01-OCT-2003 | 03-07-1348A | 02
07 | MO | GREENE COUNTY | 2907820125C | 03-DEC-2003 | 03-07-1479A | 02
07 | MO | GREENE COUNTY | 2907820040B | 03-DEC-2003 | 04-07-077A | 02
07 | MO | GREENE COUNTY | 2907820070C | 14-NOV-2003 | 04-07-079A | 02
07 | MO | HARRISONVILLE, CITY OF | 2900680004B | 17-OCT-2003 | 02-07-670P | 05
07 | MO | HAZELWOOD, CITY OF | 29189C0041H | 19-AUG-2003 | 03-07-106P | 06
07 | MO | HAZELWOOD, CITY OF | 29189C0042H | 19-AUG-2003 | 03-07-106P | 06
07 | MO | HAZELWOOD, CITY OF | 29189C0061J | 03-DEC-2003 | 04-07-201A | 02
07 | MO | HAZELWOOD, CITY OF | 29189C0063H | 03-DEC-2003 | 04-07-201A | 02
07 | MO | HERMANN, CITY OF | 2901410001C | 19-DEC-2003 | 04-07-242A | 02
07 | MO | HOWARD COUNTY | 2901620175C | 01-OCT-2003 | 03-07-1357A | 02
07 | MO | INDEPENDENCE,CITY OF | 2901720020E | 31-OCT-2003 | 04-07-085A | 02
07 | MO | JACKSON COUNTY | 2904920075D | 30-JUL-2003 | 03-07-1190A | 02
07 | MO | JACKSON, CITY OF | 2952650002C | 25-JUL-2003 | 03-07-1151A | 02
07 | MO | JASPER COUNTY | 2908070100B | 08-OCT-2003 | 03-07-1404A | 02
07 | MO | JASPER COUNTY | 2908070200B | 17-SEP-2003 | 03-07-759A | 02
07 | MO | JEFFERSON CITY, CITY OF | 2901080004C | 19-DEC-2003 | 04-07-288A | 02
07 | MO | JEFFERSON COUNTY | 2908080085C | 15-AUG-2003 | 03-07-1057A | 01
07 | MO | JEFFERSON COUNTY | 2908080085C | 15-AUG-2003 | 03-07-1058A | 01
07 | MO | JEFFERSON COUNTY | 2908080085C | 18-JUL-2003 | 03-07-1135A | 02
07 | MO | JEFFERSON COUNTY | 2908080095C | 10-OCT-2003 | 03-07-1144A | 02
07 | MO | JEFFERSON COUNTY | 2908080090D | 07-NOV-2003 | 03-07-1447A | 02
07 | MO | JEFFERSON COUNTY | 2908080080C | 03-DEC-2003 | 03-07-1474A | 02
07 | MO | JEFFERSON COUNTY | 2908080160B | 08-OCT-2003 | 03-07-1476A | 02
07 | MO | JEFFERSON COUNTY | 2908080085C | 31-OCT-2003 | 03-07-1481A | 01
07 | MO | JEFFERSON COUNTY | 2908080085C | 02-JUL-2003 | 03-07-906A | 01
07 | MO | JEFFERSON COUNTY | 2908080085C | 08-AUG-2003 | 03-07-937A | 01
07 | MO | JEFFERSON COUNTY | 2908080080C | 17-DEC-2003 | 04-07-011A | 02
07 | MO | JEFFERSON COUNTY | 2908080085C | 12-NOV-2003 | 04-07-094A | 02
07 | MO | JEFFERSON COUNTY | 2908080085C | 14-NOV-2003 | 04-07-098A | 01
07 | MO | JEFFERSON COUNTY | 2908080090D | 26-NOV-2003 | 04-07-162A | 02
07 | MO | JOHNSON COUNTY | 2908090200A | 30-JUL-2003 | 03-07-1124A | 02
07 | MO | JOPLIN, CITY OF | 2901830015C | 27-AUG-2003 | 03-07-1246A | 02
07 | MO | KANSAS CITY, CITY OF | 2901730025B | 16-JUL-2003 | 03-07-1114A | 02
07 | MO | KANSAS CITY, CITY OF | 2901730090B | 25-JUL-2003 | 03-07-1170A | 02
07 | MO | KANSAS CITY, CITY OF | 2901730030B | 12-SEP-2003 | 03-07-1360A | 02
07 | MO | KANSAS CITY, CITY OF | 2901730055B | 29-AUG-2003 | 03-07-479P | 05
07 | MO | KANSAS CITY, CITY OF | 2901730060B | 29-AUG-2003 | 03-07-479P | 05
07 | MO | KANSAS CITY, CITY OF | 2901730025B | 24-OCT-2003 | 03-07-686A | 01
07 | MO | KANSAS CITY, CITY OF | 2901730030B | 26-NOV-2003 | 03-07-847A | 02
07 | MO | KANSAS CITY, CITY OF | 2901730080B | 07-NOV-2003 | 04-07-089A | 02
07 | MO | LAKE LOTAWANA, CITY OF | 2906970001A | 20-AUG-2003 | 03-07-1216A | 02
07 | MO | LAKE ST. LOUIS, CITY OF | 29183C0220E | 10-OCT-2003 | 03-07-1312A | 02
07 | MO | LAKE ST. LOUIS, CITY OF | 29183C0220F | 26-SEP-2003 | 03-07-1417A | 02
07 | MO | LAKE ST. LOUIS, CITY OF | 29183C0220E | 15-OCT-2003 | 03-07-1443A | 02
07 | MO | LAKE ST. LOUIS, CITY OF | 29183C0220F | 17-OCT-2003 | 03-07-1452A | 02
07 | MO | LAKE ST. LOUIS, CITY OF | 29183C0220F | 08-AUG-2003 | 03-07-567A | 02
07 | MO | LAKE ST. LOUIS, CITY OF | 29183C0220F | 07-NOV-2003 | 04-07-109A | 02
07 | MO | LAKE ST. LOUIS, CITY OF | 29183C0220F | 05-DEC-2003 | 04-07-117A | 02
07 | MO | LAKE ST. LOUIS, CITY OF | 29183C0220F | 03-DEC-2003 | 04-07-204A | 02
07 | MO | LAKE WINNEBAGO, CITY OF | 2908770001A | 08-OCT-2003 | 03-07-1468A | 02
07 | MO | LAKE WINNEBAGO, CITY OF | 2908770001A | 26-NOV-2003 | 04-07-071A | 02
07 | MO | LAKE WINNEBAGO, CITY OF | 2908770001A | 12-DEC-2003 | 04-07-260A | 02
07 | MO | LEE'S SUMMIT, CITY OF | 2901740007C | 22-AUG-2003 | 03-07-1245A | 02
07 | MO | LEE'S SUMMIT, CITY OF | 2901740005C | 26-NOV-2003 | 03-07-1316A | 02
07 | MO | LEE'S SUMMIT, CITY OF | 2901740008C | 19-NOV-2003 | 04-07-169A | 02
07 | MO | LEE'S SUMMIT, CITY OF | 2901740008C | 19-NOV-2003 | 04-07-170A | 02
07 | MO | LEXINGTON, CITY OF | 2907070005B | 19-DEC-2003 | 03-07-1356A | 02
07 | MO | MADISON COUNTY | 29123C0160C | 07-JUL-2003 | 03-07-1053A | 02
07 | MO | MADISON COUNTY | 29123C0300C | 26-NOV-2003 | 03-07-1267A | 02
07 | MO | MADISON COUNTY | 29123C0200C | 10-SEP-2003 | 03-07-1332A | 02
07 | MO | MADISON COUNTY | 29123C0075C | 05-NOV-2003 | 04-07-083A | 02
07 | MO | MADISON COUNTY | 29123C0170C | 12-DEC-2003 | 04-07-206A | 02
07 | MO | MARION COUNTY | 2902220004A | 11-JUL-2003 | 03-07-1100A | 02
07 | MO | MARION COUNTY | 2902220002A | 16-JUL-2003 | 03-07-851A | 02
07 | MO | MARYLAND HEIGHTS, CITY OF | 29189C0156H | 17-SEP-2003 | 03-07-1375A | 02
07 | MO | MARYLAND HEIGHTS, CITY OF | 29189C0152H | 17-DEC-2003 | 04-07-246A | 02
07 | MO | MCDONALD COUNTY | 2908170150B | 05-NOV-2003 | 04-07-073A | 02
07 | MO | MILAN, CITY OF | 2904340002B | 27-AUG-2003 | 03-07-1155A | 02
07 | MO | MOLINE ACRES, CITY OF | 29189C0201H | 09-JUL-2003 | 03-07-461A | 02
07 | MO | MONITEAU COUNTY | 2902370125B | 24-SEP-2003 | 03-07-1429A | 02
07 | MO | MONITEAU COUNTY | 29189C0259H | 17-DEC-2003 | 04-07-245A | 02
07 | MO | MONTGOMERY COUNTY | 2902420175B | 01-OCT-2003 | 03-07-1305A | 02
07 | MO | MORGAN COUNTY | 2902440200B | 07-JUL-2003 | 03-07-1096A | 02
07 | MO | MORGAN COUNTY | 2902440200B | 05-SEP-2003 | 03-07-1142A | 02
07 | MO | MORGAN COUNTY | 2902440200B | 15-OCT-2003 | 03-07-1197A | 02
07 | MO | MORGAN COUNTY | 2902440200B | 15-OCT-2003 | 03-07-1406A | 02
07 | MO | NEWTON COUNTY | 2908200105B | 22-AUG-2003 | 03-07-1085A | 02
07 | MO | NORTH KANSAS CITY, CITY OF | 290099—01B | 16-JUL-2003 | 03-07-947A | 02
07 | MO | O'FALLON, CITY OF | 29183C0237E | 06-AUG-2003 | 03-07-1162A | 01
07 | MO | O'FALLON, CITY OF | 29183C0430E | 29-OCT-2003 | 03-07-1381A | 01
07 | MO | O'FALLON, CITY OF | 29183C0230F | 17-SEP-2003 | 03-07-1386A | 02
07 | MO | O'FALLON, CITY OF | 29183C0230F | 08-OCT-2003 | 03-07-1482A | 02
07 | MO | O'FALLON, CITY OF | 29183C0241E | 19-AUG-2003 | 03-07-942A | 01
07 | MO | O'FALLON, CITY OF | 29183C0230F | 12-DEC-2003 | 04-07-212A | 01
07 | MO | ORRICK, CITY OF | 2903090001B | 19-DEC-2003 | 04-07-195A | 01
07 | MO | OSAGE BEACH, CITY OF | 290671—02 | 18-JUL-2003 | 03-07-1112A | 02
07 | MO | OSAGE BEACH, CITY OF | 290671—02A | 15-AUG-2003 | 03-07-1222A | 02
07 | MO | OSAGE BEACH, CITY OF | 290671—02A | 17-OCT-2003 | 03-07-1400A | 02
07 | MO | OSAGE BEACH, CITY OF | 290671—02A | 19-DEC-2003 | 03-07-1453A | 02
07 | MO | OZARK, CITY OF | 2900790005B | 18-JUL-2003 | 03-07-1004A | 02
07 | MO | OZARK, CITY OF | 2900790005B | 18-JUL-2003 | 03-07-992A | 02
07 | MO | PACIFIC, CITY OF | 2901340001C | 01-AUG-2003 | 03-07-1160A | 02
07 | MO | PACIFIC, CITY OF | 2901340001C | 22-SEP-2003 | 03-07-1194A | 02
07 | MO | PACIFIC, CITY OF | 2901340001C | 22-OCT-2003 | 03-07-1499A | 02
07 | MO | PACIFIC, CITY OF | 2901340001C | 05-DEC-2003 | 04-07-146A | 01
07 | MO | PETTIS COUNTY | 2908230200B | 10-SEP-2003 | 03-07-1397A | 02
07 | MO | PIKE COUNTY | 2902860006B | 30-JUL-2003 | 03-07-807A | 02
07 | MO | PLATTE COUNTY | 2904750125A | 23-JUL-2003 | 03-07-871A | 02
07 | MO | RAYTOWN, CITY OF | 2901760005B | 10-OCT-2003 | 03-07-1257A | 02
07 | MO | REPUBLIC, CITY OF | 2901480001B | 30-JUL-2003 | 03-07-1068A | 01
07 | MO | REYNOLDS COUNTY | 2908290225A | 05-DEC-2003 | 04-07-176A | 02
07 | MO | RIPLEY COUNTY | 2908300200A | 15-AUG-2003 | 03-07-1212A | 02
07 | MO | RIVERSIDE, CITY OF | 2902960001B | 29-AUG-2003 | 03-07-480P | 05
07 | MO | SCOTT CITY, CITY OF | 2904140001B | 26-SEP-2003 | 03-07-1470A | 02
07 | MO | SCOTT COUNTY | 2908370075B | 14-NOV-2003 | 04-07-074A | 01
07 | MO | SEDALIA, CITY OF | 2902830001C | 08-AUG-2003 | 03-07-1186A | 02
07 | MO | SEDALIA, CITY OF | 2902830001C | 16-JUL-2003 | 03-07-911A | 02
07 | MO | SPRINGFIELD, CITY OF | 2901490006B | 01-AUG-2003 | 03-07-706A | 17
07 | MO | SPRINGFIELD, CITY OF | 2901490007B | 03-DEC-2003 | 04-07-172A | 02
07 | MO | ST. CHARLES COUNTY | 29183C0435E | 18-JUL-2003 | 03-07-1149A | 01
07 | MO | ST. CHARLES COUNTY | 29183C0451E | 23-JUL-2003 | 03-07-1152A | 02
07 | MO | ST. CHARLES COUNTY | 29183C0230F | 05-SEP-2003 | 03-07-1302A | 02
07 | MO | ST. CHARLES COUNTY | 29183C0435E | 05-SEP-2003 | 03-07-1323A | 02
07 | MO | ST. CHARLES COUNTY | 29183C0260E | 19-NOV-2003 | 04-07-008A | 01
07 | MO | ST. CHARLES COUNTY | 29183C0451E | 14-NOV-2003 | 04-07-134A | 02
07 | MO | ST. CHARLES COUNTY | 29183C0280E | 10-DEC-2003 | 04-07-181A | 02
07 | MO | ST. CHARLES COUNTY | 29183C0435E | 17-DEC-2003 | 04-07-251A | 02
07 | MO | ST. CHARLES, CITY OF | 29183C0267E | 29-AUG-2003 | 03-07-1314A | 02
07 | MO | ST. CHARLES, CITY OF | 29183C0260E | 03-DEC-2003 | 03-07-1483A | 01
07 | MO | ST. JAMES, CITY OF | 290661—01A | 13-AUG-2003 | 03-07-852A | 02
07 | MO | ST. JOSEPH, CITY OF | 2900430020C | 12-NOV-2003 | 04-07-133A | 02
07 | MO | ST. LOUIS COUNTY | 29189C0287H | 11-JUL-2003 | 03-07-1049A | 01
07 | MO | ST. LOUIS COUNTY | 29189C0312H | 23-JUL-2003 | 03-07-1164A | 02
07 | MO | ST. LOUIS COUNTY | 29189C0316H | 23-JUL-2003 | 03-07-1164A | 02
07 | MO | ST. LOUIS COUNTY | 29189C0182H | 24-OCT-2003 | 03-07-1214A | 01
07 | MO | ST. LOUIS COUNTY | 29189C0405H | 01-OCT-2003 | 03-07-1258A | 02
07 | MO | ST. LOUIS COUNTY | 29189C0385H | 03-DEC-2003 | 03-07-1277P | 06
07 | MO | ST. LOUIS COUNTY | 29189C0316H | 24-SEP-2003 | 03-07-1438A | 02
07 | MO | ST. LOUIS COUNTY | 29189C0201H | 17-DEC-2003 | 04-07-056A | 02
07 | MO | ST. LOUIS COUNTY | 29189C0315H | 17-DEC-2003 | 04-07-121A | 01
07 | MO | ST. LOUIS COUNTY | 29189C0059H | 03-DEC-2003 | 04-07-186A | 01
07 | MO | ST. LOUIS COUNTY | 29189C0265H | 31-DEC-2003 | 04-07-221A | 02
07 | MO | ST. LOUIS, CITY OF | 2903850040A | 13-AUG-2003 | 03-07-1041A | 02
07 | MO | ST. PETERS, CITY OF | 29183C0264E | 25-JUL-2003 | 03-07-1038A | 02
07 | MO | ST. PETERS, CITY OF | 29183C0264E | 16-JUL-2003 | 03-07-1120A | 02
07 | MO | ST. PETERS, CITY OF | 29183C0451E | 13-AUG-2003 | 03-07-1229A | 02
07 | MO | ST. PETERS, CITY OF | 29183C0244E | 03-SEP-2003 | 03-07-1330A | 02
07 | MO | ST. PETERS, CITY OF | 29183C0262E | 02-JUL-2003 | 03-07-965A | 02
07 | MO | ST. PETERS, CITY OF | 29183C0435E | 19-NOV-2003 | 04-07-012A | 01
07 | MO | ST. PETERS, CITY OF | 29183C0264E | 17-DEC-2003 | 04-07-223A | 02
07 | MO | STONE COUNTY | 2904290025B | 30-JUL-2003 | 03-07-1185A | 02
07 | MO | STONE COUNTY | 2904290100B | 19-NOV-2003 | 04-07-167A | 02
07 | MO | SUNSET HILLS, CITY OF | 29189C0293H | 19-DEC-2003 | 03-07-1252A | 02
07 | MO | SUNSET HILLS, CITY OF | 29189C0291H | 08-OCT-2003 | 03-07-1466A | 02
07 | MO | TANEY COUNTY | 290435—22A | 31-OCT-2003 | 03-07-1490A | 01
07 | MO | TOWN AND COUNTRY, CITY OF | 29189C0276J | 15-OCT-2003 | 03-07-111P | 05
07 | MO | UNIVERSITY CITY, CITY OF | 29189C0187H | 19-NOV-2003 | 04-07-067A | 01
07 | MO | WARDSVILLE, CITY OF | 2901070175B | 26-SEP-2003 | 03-07-1415A | 02
07 | MO | WARDSVILLE, CITY OF | 2901070175B | 19-DEC-2003 | 04-07-234A | 02
07 | MO | WARREN COUNTY | 2904430125B | 27-AUG-2003 | 02-07-671P | 06
07 | MO | WEBB CITY, CITY OF | 2901870001B | 11-JUL-2003 | 03-07-930A | 01
07 | MO | WEBSTER COUNTY | 29225C0250A | 03-OCT-2003 | 03-07-1319A | 02
07 | MO | WEBSTER COUNTY | 29225C0150A | 14-NOV-2003 | 03-07-1422A | 02
07 | MO | WEBSTER COUNTY | 29225C0100A | 12-NOV-2003 | 03-07-1497A | 02
07 | MO | WEBSTER COUNTY | 29225C0300A | 19-DEC-2003 | 04-07-273A | 02
07 | MO | WEST PLAINS, CITY OF | 2901660003D | 08-OCT-2003 | 03-07-1457A | 02
07 | MO | WRIGHT CITY, CITY OF | 2904430075C | 27-AUG-2003 | 03-07-1018A | 01
07 | MO | WRIGHT CITY, CITY OF | 2904430075C | 12-NOV-2003 | 03-07-1161A | 02
07 | NE | AURORA, CITY OF | 3101050005C | 05-NOV-2003 | 04-07-101A | 02
07 | NE | BELLEVUE, CITY OF | 31153C0065F | 03-OCT-2003 | 03-07-1446A | 02
07 | NE | BELLEVUE, CITY OF | 31153C0070F | 17-DEC-2003 | 04-07-131A | 02
07 | NE | BELLEVUE, CITY OF | 31153C0065F | 10-DEC-2003 | 04-07-200A | 02
07 | NE | BUFFALO COUNTY | 3104190007B | 15-OCT-2003 | 03-07-1488A | 02
07 | NE | CASS COUNTY | 3104070125B | 12-NOV-2003 | 04-07-123A | 02
07 | NE | CEDAR CREEK, VILLAGE OF | 3100300005A | 31-OCT-2003 | 03-07-1437A | 02
07 | NE | COLFAX COUNTY | 31037C0130C | 07-NOV-2003 | 04-07-107A | 02
07 | NE | COLUMBUS, CITY OF | 3152720005D | 08-OCT-2003 | 03-07-1392A | 01
07 | NE | COLUMBUS, CITY OF | 3152720015D | 08-OCT-2003 | 03-07-1392A | 01
07 | NE | COLUMBUS, CITY OF | 3152720015D | 11-JUL-2003 | 03-07-708A | 01
07 | NE | CRETE, CITY OF | 3101860003C | 10-SEP-2003 | 03-07-1328A | 02
07 | NE | DEWITT, VILLAGE OF | 3101870005A | 03-SEP-2003 | 03-07-1333A | 02
07 | NE | FREMONT, CITY OF | 3100690002C | 09-JUL-2003 | 03-07-1076A | 02
07 | NE | FREMONT, CITY OF | 3100690002C | 12-DEC-2003 | 03-07-1228A | 01
07 | NE | FREMONT, CITY OF | 3100690002C | 16-JUL-2003 | 03-07-822A | 01
07 | NE | FREMONT, CITY OF | 3100690002C | 26-NOV-2003 | 04-07-157A | 17
07 | NE | FREMONT, CITY OF | 3100690002C | 24-DEC-2003 | 04-07-252A | 01
07 | NE | FREMONT, CITY OF | 3100690003C | 24-DEC-2003 | 04-07-252A | 01
07 | NE | GAGE COUNTY | 3100880003B | 22-SEP-2003 | 03-07-1113A | 02
07 | NE | GAGE COUNTY | 3100880001B | 30-JUL-2003 | 03-07-1150A | 02
07 | NE | GRAND ISLAND, CITY OF | 3101030005B | 11-JUL-2003 | 03-07-1079A | 02
07 | NE | GRAND ISLAND, CITY OF | 3101030020B | 25-JUL-2003 | 03-07-1158X | 02
07 | NE | GRAND ISLAND, CITY OF | 3101030015B | 01-AUG-2003 | 03-07-1199A | 02
07 | NE | GRAND ISLAND, CITY OF | 3101030020B | 20-AUG-2003 | 03-07-1241A | 02
07 | NE | GRAND ISLAND, CITY OF | 3101030015B | 20-AUG-2003 | 03-07-1242A | 02
07 | NE | GRAND ISLAND, CITY OF | 3101030015B | 22-AUG-2003 | 03-07-1271X | 02
07 | NE | GRAND ISLAND, CITY OF | 3101030015B | 03-SEP-2003 | 03-07-1336A | 02
07 | NE | GRAND ISLAND, CITY OF | 3101030015B | 10-SEP-2003 | 03-07-1345A | 02
07 | NE | GRAND ISLAND, CITY OF | 3101030020B | 08-OCT-2003 | 03-07-1372A | 02
07 | NE | GRAND ISLAND, CITY OF | 3101030015B | 26-SEP-2003 | 03-07-1405A | 02
07 | NE | GRAND ISLAND, CITY OF | 3101030015B | 22-OCT-2003 | 03-07-1408A | 02
07 | NE | GRAND ISLAND, CITY OF | 3101030010B | 15-OCT-2003 | 03-07-1491A | 02
07 | NE | GRAND ISLAND, CITY OF | 3101030015B | 24-OCT-2003 | 04-07-023A | 02
07 | NE | GRAND ISLAND, CITY OF | 3101030015B | 31-OCT-2003 | 04-07-057A | 02
07 | NE | GRAND ISLAND, CITY OF | 3101030005B | 29-OCT-2003 | 04-07-058A | 02
07 | NE | GRAND ISLAND, CITY OF | 3101030015B | 05-NOV-2003 | 04-07-106A | 02
07 | NE | GRAND ISLAND, CITY OF | 3101030020B | 19-NOV-2003 | 04-07-148A | 02
07 | NE | GRAND ISLAND, CITY OF | 3101000100C | 05-DEC-2003 | 04-07-208A | 02
07 | NE | GRAND ISLAND, CITY OF | 3101000100C | 05-DEC-2003 | 04-07-210A | 02
07 | NE | HALL COUNTY | 3101000050C | 03-SEP-2003 | 03-07-1309A | 02
07 | NE | HALL COUNTY | 3101000050C | 08-OCT-2003 | 03-07-1346A | 17
07 | NE | HAMILTON COUNTY | 3104410025A | 16-JUL-2003 | 03-07-1099A | 02
07 | NE | HAMILTON COUNTY | 3104410100A | 31-OCT-2003 | 04-07-002A | 02
07 | NE | LANCASTER COUNTY | 31109C0600E | 01-OCT-2003 | 03-07-1393A | 02
07 | NE | LANCASTER COUNTY | 31109C0600E | 01-OCT-2003 | 03-07-1395A | 02
07 | NE | LEXINGTON, CITY OF | 3100630010A | 13-AUG-2003 | 03-07-1177A | 01
07 | NE | LINCOLN, CITY OF | 31109C0316E | 23-JUL-2003 | 03-07-1055A | 02
07 | NE | LINCOLN, CITY OF | 31109C0316E | 13-AUG-2003 | 03-07-1105A | 02
07 | NE | LINCOLN, CITY OF | 31109C0330E | 16-JUL-2003 | 03-07-1132A | 02
07 | NE | LINCOLN, CITY OF | 31109C0310E | 30-JUL-2003 | 03-07-1191A | 02
07 | NE | LINCOLN, CITY OF | 31109C0315E | 24-SEP-2003 | 03-07-1379A | 01
07 | NE | LINCOLN, CITY OF | 31109C0310E | 22-SEP-2003 | 03-07-1380A | 01
07 | NE | LINCOLN, CITY OF | 31109C0305E | 24-SEP-2003 | 03-07-1441A | 02
07 | NE | LINCOLN, CITY OF | 31109C0315E | 15-OCT-2003 | 03-07-1455A | 01
07 | NE | LINCOLN, CITY OF | 31109C0305E | 21-NOV-2003 | 04-07-100A | 02
07 | NE | LINCOLN, CITY OF | 31109C0315E | 19-NOV-2003 | 04-07-120A | 02
07 | NE | MERRICK COUNTY | 3104570175B | 07-JUL-2003 | 03-07-1098A | 02
07 | NE | MERRICK COUNTY | 3104570150A | 27-AUG-2003 | 03-07-1255A | 02
07 | NE | MERRICK COUNTY | 3104570150A | 27-AUG-2003 | 03-07-1264A | 02
07 | NE | MERRICK COUNTY | 3104570150A | 27-AUG-2003 | 03-07-1265A | 02
07 | NE | MERRICK COUNTY | 3104570150A | 05-SEP-2003 | 03-07-1324A | 02
07 | NE | MERRICK COUNTY | 3104570150A | 01-OCT-2003 | 03-07-1338A | 02
07 | NE | MERRICK COUNTY | 3104570200B | 31-OCT-2003 | 03-07-1444A | 02
07 | NE | MERRICK COUNTY | 3104570200B | 31-OCT-2003 | 03-07-1445A | 02
07 | NE | MERRICK COUNTY | 3104570150A | 13-AUG-2003 | 03-07-850A | 02
07 | NE | MERRICK COUNTY | 3104570150A | 10-DEC-2003 | 04-07-190A | 02
07 | NE | MERRICK COUNTY | 3104570150A | 24-DEC-2003 | 04-07-272A | 02
07 | NE | NORFOLK, CITY OF | 3101470020C | 11-JUL-2003 | 03-07-1065A | 02
07 | NE | OMAHA, CITY OF | 3152740030F | 12-SEP-2003 | 03-07-1108A | 02
07 | NE | OMAHA, CITY OF | 3152740025F | 30-JUL-2003 | 03-07-1189A | 02
07 | NE | OMAHA, CITY OF | 3152740050F | 15-AUG-2003 | 03-07-1208A | 02
07 | NE | OMAHA, CITY OF | 3152740050F | 01-OCT-2003 | 03-07-1321A | 02
07 | NE | OMAHA, CITY OF | 3152740045G | 03-DEC-2003 | 03-07-1337A | 02
07 | NE | OMAHA, CITY OF | 3152740020F | 26-NOV-2003 | 03-07-1480A | 01
07 | NE | OMAHA, CITY OF | 3152740045G | 03-DEC-2003 | 04-07-082A | 02
07 | NE | OMAHA, CITY OF | 3152740025F | 26-NOV-2003 | 04-07-102A | 02
07 | NE | OMAHA, CITY OF | 3152740025F | 19-DEC-2003 | 04-07-198A | 01
07 | NE | OMAHA, CITY OF | 3152740020F | 19-DEC-2003 | 04-07-199A | 01
07 | NE | PAPILLION, CITY OF | 31153C0065F | 20-AUG-2003 | 03-07-1206A | 02
07 | NE | PAPILLION, CITY OF | 31153C0065F | 03-OCT-2003 | 03-07-1244A | 01
07 | NE | PLATTE CENTER, VILLAGE OF | 3101780001B | 05-DEC-2003 | 04-07-096A | 02
07 | NE | PLATTE COUNTY | 3104670225D | 07-JUL-2003 | 03-07-1090A | 02
07 | NE | PLATTE COUNTY | 3104670050C | 09-JUL-2003 | 03-07-857A | 02
07 | NE | PLATTE COUNTY | 3104670075C | 12-NOV-2003 | 04-07-069A | 02
07 | NE | SARPY COUNTY | 31153C0135F | 08-OCT-2003 | 03-07-1123A | 02
07 | NE | SCHUYLER, CITY OF | 31037C0130C | 12-SEP-2003 | 03-07-1304A | 01
07 | NE | SCHUYLER, CITY OF | 31037C0130C | 09-JUL-2003 | 03-07-944A | 02
07 | NE | SCHUYLER, CITY OF | 31037C0130C | 31-DEC-2003 | 04-07-299A | 02
07 | NE | SYRACUSE, CITY OF | 310166—01B | 29-OCT-2003 | 04-07-022A | 02
07 | NE | WAYNE, CITY OF | 3102310003B | 25-JUL-2003 | 03-07-1174A | 02
07 | NE | YORK COUNTY | 3104860006B | 29-OCT-2003 | 04-07-078A | 02
07 | NE | YORK COUNTY | 3104860004B | 12-DEC-2003 | 04-07-179A | 02
07 | NE | YORK, CITY OF | 3102370005B | 27-AUG-2003 | 02-07-661P | 05
07 | NE | YORK, CITY OF | 3102370010B | 27-AUG-2003 | 02-07-661P | 05
08 | CO | ADAMS COUNTY | 08001C0309G | 20-AUG-2003 | 03-08-0104P | 05
08 | CO | ADAMS COUNTY | 08001C0320G | 20-AUG-2003 | 03-08-0104P | 05
08 | CO | ADAMS COUNTY | 08001C0330G | 20-AUG-2003 | 03-08-0104P | 05
08 | CO | ADAMS COUNTY | 08001C0340G | 20-AUG-2003 | 03-08-0104P | 05
08 | CO | ADAMS COUNTY | 08001C0030G | 29-AUG-2003 | 03-08-0374P | 06
08 | CO | ADAMS COUNTY | 08001C0320G | 05-SEP-2003 | 03-08-0578A | 01
08 | CO | ADAMS COUNTY | 08001C0035G | 04-DEC-2003 | 03-08-0601P | 06
08 | CO | ARAPAHOE COUNTY | 08005C0170J | 24-JUL-2003 | 03-08-0362P | 05
08 | CO | ARAPAHOE COUNTY | 08005C0485J | 03-DEC-2003 | 04-08-0061A | 02
08 | CO | ARAPAHOE COUNTY | 08005C0460J | 23-DEC-2003 | 04-08-0133A | 02
08 | CO | ARVADA, CITY OF | 08059C0183E | 21-NOV-2003 | 04-08-0006A | 02
08 | CO | ARVADA, CITY OF | 08059C0183E | 21-NOV-2003 | 04-08-0009A | 02
08 | CO | ARVADA, CITY OF | 08059C0211E | 25-NOV-2003 | 04-08-0034A | 02
08 | CO | ARVADA, CITY OF | 08059C0203E | 30-DEC-2003 | 04-08-0068A | 02
08 | CO | ARVADA, CITY OF | 08059C0183E | 05-DEC-2003 | 04-08-0105A | 02
08 | CO | AURORA, CITY OF | 0800020040E | 19-AUG-2003 | 03-08-0574A | 02
08 | CO | BASALT,TOWN OF | 0800520052C | 05-NOV-2003 | 03-08-0551A | 02
08 | CO | BLACK HAWK, CITY OF | 0800760001B | 15-SEP-2003 | 02-08-526P | 05
08 | CO | BOULDER COUNTY | 08013C0395F | 22-AUG-2003 | 03-08-0600A | 02
08 | CO | BOULDER COUNTY | 08013C0405F | 24-SEP-2003 | 03-08-0631A | 01
08 | CO | BOULDER COUNTY | 08013C0229F | 23-DEC-2003 | 04-08-0065A | 02
08 | CO | BOULDER, CITY OF | 08013C0535F | 25-JUL-2003 | 03-08-0485A | 02
08 | CO | BOULDER, CITY OF | 08013C0395F | 19-AUG-2003 | 03-08-0487A | 02
08 | CO | BOULDER, CITY OF | 08013C0535F | 10-OCT-2003 | 03-08-0493X | 06
08 | CO | BOULDER, CITY OF | 08013C0395F | 20-AUG-2003 | 03-08-0502A | 02
08 | CO | BOULDER, CITY OF | 08013C0395F | 05-SEP-2003 | 03-08-0605A | 02
08 | CO | BOULDER, CITY OF | 08013C0415F | 15-OCT-2003 | 04-08-0001A | 01
08 | CO | BROOMFIELD, CITY AND COUNTY OF | 0850730010D | 25-SEP-2003 | 03-08-0061P | 05
08 | CO | BUENA VISTA, TOWN OF | 0800300001C | 15-OCT-2003 | 03-08-0623A | 02
08 | CO | CHAFFEE COUNTY | 0802690400B | 16-DEC-2003 | 03-08-0697A | 02
08 | CO | CHERRY HILLS VILLAGE, CITY OF | 08005C0165J | 04-DEC-2003 | 04-08-0019A | 17
08 | CO | COLORADO SPRINGS, CITY OF | 08041C0742F | 31-JUL-2003 | 02-08-394P | 05
08 | CO | COLORADO SPRINGS, CITY OF | 08041C0753F | 31-JUL-2003 | 02-08-394P | 05
08 | CO | COLORADO SPRINGS, CITY OF | 08041C0761F | 31-JUL-2003 | 02-08-394P | 05
08 | CO | COLORADO SPRINGS, CITY OF | 08041C0729F | 02-JUL-2003 | 02-08-490P | 05
08 | CO | COLORADO SPRINGS, CITY OF | 08041C0513F | 09-OCT-2003 | 03-08-0212P | 05
08 | CO | COLORADO SPRINGS, CITY OF | 08041C0726F | 09-OCT-2003 | 03-08-0212P | 05
08 | CO | COLORADO SPRINGS, CITY OF | 08041C0741F | 14-JUL-2003 | 03-08-0225A | 01
08 | CO | COLORADO SPRINGS, CITY OF | 08041C0726F | 05-AUG-2003 | 03-08-0321A | 02
08 | CO | COLORADO SPRINGS, CITY OF | 08041C0743F | 31-JUL-2003 | 03-08-0509A | 01
08 | CO | COLORADO SPRINGS, CITY OF | 08041C0726F | 31-OCT-2003 | 04-08-0022A | 02
08 | CO | COLORADO SPRINGS, CITY OF | 08041C0761F | 23-DEC-2003 | 04-08-0075A | 02
08 | CO | DENVER, CITY AND COUNTY OF | 0800460020E | 24-JUL-2003 | 03-08-0362P | 05
08 | CO | DENVER, CITY AND COUNTY OF | 0800460025E | 24-JUL-2003 | 03-08-0362P | 05
08 | CO | DENVER, CITY AND COUNTY OF | 0800460018C | 22-SEP-2003 | 03-08-0440A | 02
08 | CO | DENVER, CITY AND COUNTY OF | 0800460014C | 22-AUG-2003 | 03-08-0464A | 02
08 | CO | DENVER, CITY AND COUNTY OF | 0800460010C | 24-SEP-2003 | 03-08-0563A | 02
08 | CO | DENVER, CITY AND COUNTY OF | 0800460018C | 17-OCT-2003 | 03-08-0657A | 02
08 | CO | DENVER, CITY AND COUNTY OF | 0800460018C | 22-OCT-2003 | 03-08-0665A | 02
08 | CO | DOLORES, TOWN OF | 0801220001A | 05-NOV-2003 | 03-08-0609A | 02
08 | CO | DOUGLAS COUNTY | 0800490070E | 30-JUL-2003 | 02-08-186P | 05
08 | CO | DOUGLAS COUNTY | 0800490185D | 30-JUL-2003 | 03-08-0096P | 05
08 | CO | DOUGLAS COUNTY | 0800490195C | 30-JUL-2003 | 03-08-0096P | 05
08 | CO | DOUGLAS COUNTY | 0800490195C | 25-NOV-2003 | 03-08-0498A | 02
08 | CO | DOUGLAS COUNTY | 0800490020C | 22-SEP-2003 | 03-08-0615A | 02
08 | CO | EAGLE COUNTY | 0800510243C | 21-NOV-2003 | 04-08-0015A | 02
08 | CO | EL PASO COUNTY | 08041C0575F | 26-NOV-2003 | 03-08-0385P | 05
08 | CO | EL PASO COUNTY | 08041C0277F | 09-JUL-2003 | 03-08-0462A | 02
08 | CO | EL PASO COUNTY | 08041C0350F | 25-JUL-2003 | 03-08-0478A | 02
08 | CO | EL PASO COUNTY | 08041C0575F | 16-SEP-2003 | 03-08-0519A | 02
08 | CO | EL PASO COUNTY | 08041C0277F | 31-JUL-2003 | 03-08-0522A | 02
08 | CO | EL PASO COUNTY | 08041C0952F | 06-AUG-2003 | 03-08-0533A | 02
08 | CO | EL PASO COUNTY | 08041C0490F | 16-SEP-2003 | 03-08-0541A | 17
08 | CO | EL PASO COUNTY | 08041C0744F | 08-OCT-2003 | 03-08-0628A | 02
08 | CO | EL PASO COUNTY | 08041C0276F | 26-SEP-2003 | 03-08-0635A | 02
08 | CO | EL PASO COUNTY | 08041C0951F | 08-OCT-2003 | 03-08-0636A | 02
08 | CO | EL PASO COUNTY | 08041C0825F | 23-DEC-2003 | 04-08-0043A | 02
08 | CO | FIRESTONE, TOWN OF | 0802660850C | 14-JUL-2003 | 03-08-0309P | 06
08 | CO | FIRESTONE, TOWN OF | 0802660855C | 14-JUL-2003 | 03-08-0309P | 06
08 | CO | FLORENCE, CITY OF | 0800700342D | 31-JUL-2003 | 03-08-0518A | 02
08 | CO | FORT COLLINS, CITY OF | 0801020011C | 17-DEC-2003 | 04-08-0120X | 05
08 | CO | GOLDEN, CITY OF | 08059C0189E | 17-NOV-2003 | 04-08-0010A | 02
08 | CO | GREEN MOUNTAIN FALLS, TOWN OF | 08041C0459F | 08-OCT-2003 | 03-08-0411A | 17
08 | CO | GUNNISON, CITY OF | 0800800002C | 09-JUL-2003 | 03-08-0483A | 02
08 | CO | GYPSUM, TOWN OF | 0802950001C | 16-SEP-2003 | 03-08-0603A | 02
08 | CO | JEFFERSON COUNTY | 08059C0405E | 26-SEP-2003 | 03-08-0544A | 02
08 | CO | JEFFERSON COUNTY | 08059C0295E | 06-AUG-2003 | 03-08-0585A | 02
08 | CO | JEFFERSON COUNTY | 08059C0410E | 08-OCT-2003 | 03-08-0634A | 02
08 | CO | JEFFERSON COUNTY | 08059C0385E | 01-OCT-2003 | 03-08-0638A | 02
08 | CO | JEFFERSON COUNTY | 08059C0385E | 29-OCT-2003 | 03-08-0668A | 02
08 | CO | JEFFERSON COUNTY | 08059C0385E | 01-OCT-2003 | 03-08-0671A | 02
08 | CO | JEFFERSON COUNTY | 08059C0385E | 31-OCT-2003 | 03-08-0676A | 02
08 | CO | JEFFERSON COUNTY | 08059C0385E | 16-DEC-2003 | 04-08-0027A | 02
08 | CO | JEFFERSON COUNTY | 08059C0405E | 23-DEC-2003 | 04-08-0047A | 02
08 | CO | JEFFERSON COUNTY | 08059C0415E | 31-OCT-2003 | 04-08-0048A | 01
08 | CO | JEFFERSON COUNTY | 08059C0385E | 17-NOV-2003 | 04-08-0050A | 02
08 | CO | JEFFERSON COUNTY | 08059C0385E | 17-NOV-2003 | 04-08-0056A | 02
08 | CO | JEFFERSON COUNTY | 08059C0405E | 16-DEC-2003 | 04-08-0078A | 02
08 | CO | JEFFERSON COUNTY | 08059C0410E | 17-DEC-2003 | 04-08-0084A | 02
08 | CO | JEFFERSON COUNTY | 08059C0355E | 16-DEC-2003 | 04-08-0085A | 02
08 | CO | JEFFERSON COUNTY | 08059C0385E | 17-DEC-2003 | 04-08-0119A | 02
08 | CO | LAFAYETTE, CITY OF | 08013C0576H | 21-NOV-2003 | 04-08-0023A | 02
08 | CO | LAFAYETTE, CITY OF | 08013C0577H | 31-OCT-2003 | 04-08-0044A | 01
08 | CO | LAKEWOOD, CITY OF | 08059C0315E | 25-SEP-2003 | 03-08-0167P | 05
08 | CO | LAKEWOOD, CITY OF | 08059C0302E | 19-NOV-2003 | 04-08-0017A | 02
08 | CO | LAKEWOOD, CITY OF | 08059C0305E | 17-DEC-2003 | 04-08-0058A | 02
08 | CO | LAKEWOOD, CITY OF | 08059C0305E | 16-DEC-2003 | 04-08-0067A | 02
08 | CO | LAKEWOOD, CITY OF | 08059C0305E | 16-DEC-2003 | 04-08-0079A | 02
08 | CO | LARIMER COUNTY | 0801010178D | 02-JUL-2003 | 03-08-0437A | 02
08 | CO | LARIMER COUNTY | 0801010179E | 16-SEP-2003 | 03-08-0491A | 02
08 | CO | LARIMER COUNTY | 0801010179E | 27-AUG-2003 | 03-08-0492A | 02
08 | CO | LARIMER COUNTY | 0801010231B | 05-NOV-2003 | 03-08-0604A | 17
08 | CO | LARIMER COUNTY | 0801010180E | 05-NOV-2003 | 03-08-0686A | 01
08 | CO | LARIMER COUNTY | 0801010192C | 17-DEC-2003 | 04-08-0120X | 06
08 | CO | LARIMER COUNTY | 0801010163D | 19-DEC-2003 | 04-08-0126A | 02
08 | CO | LITTLETON, CITY OF | 0800170010D | 28-AUG-2003 | 03-08-0030P | 05
08 | CO | LITTLETON, CITY OF | 0800170010D | 09-JUL-2003 | 03-08-0441A | 01
08 | CO | LONGMONT, CITY OF | 08013C0286F | 16-DEC-2003 | 04-08-0037A | 02
08 | CO | LONGMONT, CITY OF | 08013C0287F | 16-DEC-2003 | 04-08-0037A | 02
08 | CO | LOUISVILLE, CITY OF | 08013C0559G | 26-SEP-2003 | 03-08-0616A | 02
08 | CO | LOVELAND, CITY OF | 0801030010D | 16-DEC-2003 | 04-08-0052A | 01
08 | CO | MANITOU SPRINGS, CITY OF | 08041C0706F | 13-AUG-2003 | 03-08-0375A | 02
08 | CO | MONTROSE COUNTY | 0801240402B | 08-AUG-2003 | 03-08-0540A | 02
08 | CO | NORTHGLENN, CITY OF | 08001C0037G | 29-AUG-2003 | 03-08-0433P | 06
08 | CO | PAGOSA SPRINGS, TOWN OF | 0800190005C | 29-OCT-2003 | 03-08-0532A | 02
08 | CO | PARKER, TOWN OF | 0803100070D | 30-JUL-2003 | 02-08-186P | 05
08 | CO | PARKER, TOWN OF | 0803100185B | 05-DEC-2003 | 03-08-0521P | 06
08 | CO | PUEBLO COUNTY | 0801470245B | 25-JUL-2003 | 03-08-0434A | 02
08 | CO | PUEBLO COUNTY | 0801470225B | 19-DEC-2003 | 03-08-0693A | 02
08 | CO | SILVERTON, TOWN OF | 0801650005B | 06-OCT-2003 | 03-08-0639A | 02
08 | CO | STEAMBOAT SPRINGS, CITY OF | 0801590002C | 23-DEC-2003 | 04-08-0057A | 02
08 | CO | THORNTON, CITY OF | 08001C0039G | 02-JUL-2003 | 03-08-0249P | 06
08 | CO | THORNTON, CITY OF | 08001C0045G | 02-JUL-2003 | 03-08-0249P | 06
08 | CO | THORNTON, CITY OF | 08001C0030G | 29-AUG-2003 | 03-08-0374P | 06
08 | CO | THORNTON, CITY OF | 08001C0037G | 29-AUG-2003 | 03-08-0433P | 06
08 | CO | THORNTON, CITY OF | 08001C0045G | 19-DEC-2003 | 04-08-0090A | 01
08 | CO | WELD COUNTY | 0802660488C | 22-OCT-2003 | 03-08-0366A | 02
08 | CO | WELD COUNTY | 0802660475D | 16-JUL-2003 | 03-08-0429A | 02
08 | CO | WELD COUNTY | 0802660850C | 01-OCT-2003 | 03-08-0614A | 02
08 | CO | WELLINGTON, TOWN OF | 0801040001D | 29-OCT-2003 | 03-08-0651A | 02
08 | CO | WESTMINSTER, CITY OF | 0800080003C | 10-JUL-2003 | 03-08-0145P | 05
08 | CO | WESTMINSTER, CITY OF | 0800080007D | 10-JUL-2003 | 03-08-0145P | 05
08 | CO | WESTMINSTER, CITY OF | 08059C0103E | 18-AUG-2003 | 03-08-0506P | 05
08 | CO | WESTMINSTER, CITY OF | 08059C0111E | 18-AUG-2003 | 03-08-0506P | 05
08 | CO | WESTMINSTER, CITY OF | 08059C0093E | 05-SEP-2003 | 03-08-0545P | 06
08 | CO | WINTER PARK, TOWN OF | 0803050001A | 14-JUL-2003 | 03-08-0435A | 02
08 | CO | WRAY, CITY OF | 0801910001C | 31-JUL-2003 | 03-08-0514A | 02
08 | MT | BOZEMAN, CITY OF | 3000280012C | 19-DEC-2003 | 04-08-0106A | 01
08 | MT | CARBON COUNTY | 3001390115B | 08-AUG-2003 | 03-08-0378A | 02
08 | MT | CASCADE COUNTY | 3000080418B | 09-JUL-2003 | 03-08-0414A | 02
08 | MT | CASCADE COUNTY | 3000080240C | 06-AUG-2003 | 03-08-0424A | 17
08 | MT | CASCADE COUNTY | 3000080170B | 14-JUL-2003 | 03-08-0431A | 17
08 | MT | CASCADE COUNTY | 3000080240C | 27-AUG-2003 | 03-08-0486A | 17
08 | MT | FAIRVIEW, CITY OF | 300064—01B | 29-OCT-2003 | 03-08-0640A | 02
08 | MT | FLATHEAD COUNTY | 3000231805D | 02-JUL-2003 | 02-08-300P | 06
08 | MT | FLATHEAD COUNTY | 3000231840E | 02-SEP-2003 | 03-08-0569A | 02
08 | MT | FLATHEAD COUNTY | 3000232315D | 02-SEP-2003 | 03-08-0570A | 02
08 | MT | FLATHEAD COUNTY | 3000232305D | 02-SEP-2003 | 03-08-0571A | 02
08 | MT | FLATHEAD COUNTY | 3000232310D | 26-SEP-2003 | 03-08-0581A | 01
08 | MT | FLATHEAD COUNTY | 3000232310D | 17-OCT-2003 | 03-08-0582A | 01
08 | MT | FLATHEAD COUNTY | 3000232330D | 17-OCT-2003 | 03-08-0582A | 01
08 | MT | FLATHEAD COUNTY | 3000231800C | 19-NOV-2003 | 03-08-0629A | 02
08 | MT | FLATHEAD COUNTY | 3000232315D | 12-NOV-2003 | 04-08-0031A | 02
08 | MT | GALLATIN COUNTY | 3000270190B | 19-DEC-2003 | 04-08-0088A | 02
08 | MT | GREAT FALLS, CITY OF | 3000100005D | 10-SEP-2003 | 03-08-0576A | 02
08 | MT | JEFFERSON COUNTY | 3001540550B | 24-JUL-2003 | 03-08-0397A | 02
08 | MT | JEFFERSON COUNTY | 3001540550B | 10-SEP-2003 | 03-08-0503A | 02
08 | MT | KALISPELL, CITY OF | 3000250005C | 02-JUL-2003 | 02-08-300P | 06
08 | MT | LEWIS AND CLARK COUNTY | 3000381625D | 19-AUG-2003 | 03-08-0488A | 02
08 | MT | LEWIS AND CLARK COUNTY | 3000381544D | 03-SEP-2003 | 03-08-0618A | 02
08 | MT | LINCOLN COUNTY | 3001570585B | 02-JUL-2003 | 03-08-0357A | 02
08 | MT | LINCOLN COUNTY | 3001570620B | 17-SEP-2003 | 03-08-0554A | 02
08 | MT | LINCOLN COUNTY | 3001570585B | 05-SEP-2003 | 03-08-0564A | 02
08 | MT | LINCOLN COUNTY | 3001570475B | 17-OCT-2003 | 04-08-0018X | 02
08 | MT | MINERAL COUNTY | 3001590010B | 27-AUG-2003 | 03-08-0592A | 02
08 | MT | MISSOULA COUNTY | 30063C1850D | 10-OCT-2003 | 03-08-0405A | 02
08 | MT | MISSOULA COUNTY | 30063C1470D | 22-AUG-2003 | 03-08-0577A | 17
08 | MT | MISSOULA COUNTY | 30063C0875D | 17-SEP-2003 | 03-08-0588A | 02
08 | MT | MISSOULA COUNTY | 30063C0875D | 17-DEC-2003 | 03-08-0648A | 02
08 | MT | MISSOULA, CITY OF | 30063C1215D | 17-SEP-2003 | 03-08-0590A | 02
08 | MT | PARK COUNTY | 3001600011B | 09-JUL-2003 | 03-08-0372A | 02
08 | MT | PARK COUNTY | 3001600014B | 17-DEC-2003 | 03-08-0658A | 02
08 | MT | PLAINS, TOWN OF | 300074—01 | 21-JUL-2003 | 02-08-115P | 06
08 | MT | PLAINS, TOWN OF | 300074—02 | 21-JUL-2003 | 02-08-115P | 06
08 | MT | PLAINS, TOWN OF | 300074—01B | 15-AUG-2003 | 03-08-0495X | 06
08 | MT | PLAINS, TOWN OF | 300074—02B | 15-AUG-2003 | 03-08-0495X | 06
08 | MT | RICHLAND COUNTY | 3001650525B | 25-NOV-2003 | 03-08-0626A | 02
08 | MT | SANDERS COUNTY | 3000720017B | 21-JUL-2003 | 02-08-115P | 06
08 | MT | SANDERS COUNTY | 3000720018A | 21-JUL-2003 | 02-08-115P | 06
08 | MT | SANDERS COUNTY | 3000720022A | 21-JUL-2003 | 02-08-115P | 06
08 | MT | SANDERS COUNTY | 3000720023A | 21-JUL-2003 | 02-08-115P | 06
08 | MT | SANDERS COUNTY | 3000720024A | 21-JUL-2003 | 02-08-115P | 06
08 | MT | SANDERS COUNTY | 3000720017C | 15-AUG-2003 | 03-08-0495X | 06
08 | MT | SANDERS COUNTY | 3000720018B | 15-AUG-2003 | 03-08-0495X | 06
08 | MT | SANDERS COUNTY | 3000720022B | 15-AUG-2003 | 03-08-0495X | 06
08 | MT | SANDERS COUNTY | 3000720023B | 15-AUG-2003 | 03-08-0495X | 06
08 | MT | SANDERS COUNTY | 3000720024B | 15-AUG-2003 | 03-08-0495X | 06
08 | MT | STILLWATER COUNTY | 3000780513B | 21-NOV-2003 | 03-08-0586A | 02
08 | MT | STILLWATER COUNTY | 3000780516B | 19-NOV-2003 | 03-08-0611A | 17
08 | MT | STILLWATER COUNTY | 3000780400B | 17-DEC-2003 | 04-08-0040A | 02
08 | MT | STILLWATER COUNTY | 3000780575B | 30-DEC-2003 | 04-08-0113A | 02
08 | MT | YELLOWSTONE COUNTY | 3001421160A | 19-NOV-2003 | 04-08-0025A | 02
08 | ND | BELFIELD, CITY OF | 3801160001C | 21-NOV-2003 | 04-08-0030A | 02
08 | ND | BENSON COUNTY | 38005C0225C | 17-NOV-2003 | 03-08-0598A | 02
08 | ND | BISMARCK, CITY OF | 3801490020B | 16-JUL-2003 | 03-08-0382A | 01
08 | ND | BISMARCK, CITY OF | 3801490025A | 08-AUG-2003 | 03-08-0466A | 02
08 | ND | BISMARCK, CITY OF | 3801490025A | 31-JUL-2003 | 03-08-0490A | 01
08 | ND | BISMARCK, CITY OF | 3801490025A | 25-NOV-2003 | 04-08-0020A | 01
08 | ND | BISMARCK, CITY OF | 3801490025A | 17-DEC-2003 | 04-08-0094A | 01
08 | ND | BURLEIGH COUNTY | 3800170780A | 25-NOV-2003 | 04-08-0055A | 02
08 | ND | DICKINSON, CITY OF | 3801170004D | 27-AUG-2003 | 03-08-0561A | 02
08 | ND | FARGO, CITY OF | 3853640035E | 16-DEC-2003 | 04-08-0087A | 02
08 | ND | GRAND FORKS, CITY OF | 3853650010D | 05-NOV-2003 | 03-08-0684A | 01
08 | ND | GRAND FORKS, CITY OF | 3853650010D | 05-NOV-2003 | 04-08-0003A | 02
08 | ND | HARWOOD, CITY OF | 3803380001C | 22-SEP-2003 | 03-08-0613A | 02
08 | ND | HARWOOD, CITY OF | 3803380002C | 05-NOV-2003 | 03-08-0682A | 01
08 | ND | HARWOOD, CITY OF | 3803380001C | 16-DEC-2003 | 04-08-0110A | 02
08 | ND | LANGDON, CITY OF | 3800250413C | 05-AUG-2003 | 03-08-0567A | 02
08 | ND | LISBON, CITY OF | 3800910001B | 23-DEC-2003 | 04-08-0081A | 02
08 | ND | MANDAN, CITY OF | 3800720020B | 14-JUL-2003 | 03-08-0338A | 01
08 | ND | MANDAN, CITY OF | 3800720020B | 16-JUL-2003 | 03-08-0343A | 01
08 | ND | MANDAN, CITY OF | 3800720020B | 17-NOV-2003 | 03-08-0633A | 02
08 | ND | MINOT, CITY OF | 38101C0779D | 05-SEP-2003 | 03-08-0504A | 01
08 | ND | MINOT, CITY OF | 38101C0787D | 22-OCT-2003 | 03-08-0654A | 02
08 | ND | MINTO, CITY OF | 3801380001B | 05-NOV-2003 | 03-08-0546A | 02
08 | ND | REILES ACRES, CITY OF | 3803240001C | 16-DEC-2003 | 03-08-0622A | 01
08 | ND | STANLEY, TOWNSHIP OF | 3802580005B | 09-JUL-2003 | 03-08-0467X | 01
08 | ND | STANLEY, TOWNSHIP OF | 3802580010C | 13-AUG-2003 | 03-08-0530A | 01
08 | ND | STANLEY, TOWNSHIP OF | 3802580005B | 08-AUG-2003 | 03-08-0562A | 02
08 | ND | VALLEY CITY, CITY OF | 3800020002E | 05-SEP-2003 | 03-08-0553A | 02
08 | ND | WARREN, TOWNSHIP OF | 3802650001B | 05-SEP-2003 | 03-08-0442A | 01
08 | SD | ABERDEEN, CITY OF | 46013C0310C | 21-NOV-2003 | 03-08-0475A | 02
08 | SD | ABERDEEN, CITY OF | 46013C0245C | 06-AUG-2003 | 03-08-0510A | 02
08 | SD | ABERDEEN, CITY OF | 46013C0265C | 19-AUG-2003 | 03-08-0547A | 01
08 | SD | ABERDEEN, CITY OF | 46013C0265C | 19-AUG-2003 | 03-08-0559A | 01
08 | SD | ABERDEEN, CITY OF | 46013C0245C | 06-AUG-2003 | 03-08-0579A | 02
08 | SD | ABERDEEN, CITY OF | 46013C0265C | 16-DEC-2003 | 04-08-0095A | 02
08 | SD | ABERDEEN, CITY OF | 46013C0265C | 17-DEC-2003 | 04-08-0096A | 02
08 | SD | BIG STONE CITY, CITY OF | 460156—01 | 17-NOV-2003 | 03-08-0642A | 02
08 | SD | BROOKINGS COUNTY | 4602530005B | 21-NOV-2003 | 03-08-0513A | 02
08 | SD | CUSTER COUNTY | 4600180085B | 22-OCT-2003 | 03-08-0667A | 02
08 | SD | CUSTER COUNTY | 4600180085B | 29-OCT-2003 | 03-08-0680A | 02
08 | SD | CUSTER COUNTY | 4600180085B | 29-OCT-2003 | 03-08-0683A | 02
08 | SD | CUSTER COUNTY | 4600180065C | 12-NOV-2003 | 04-08-0035A | 02
08 | SD | DAY COUNTY | 46037C0300A | 19-NOV-2003 | 03-08-0663A | 02
08 | SD | DELL RAPIDS, CITY OF | 4600570150C | 25-NOV-2003 | 03-08-0652A | 01
08 | SD | DELL RAPIDS, CITY OF | 4600570150C | 04-DEC-2003 | 04-08-0107X | 01
08 | SD | FORT PIERRE, CITY OF | 4654190002D | 31-JUL-2003 | 03-08-0517A | 02
08 | SD | LAKE COUNTY | 4602760150B | 24-JUL-2003 | 03-08-0548X | 02
08 | SD | MADISON, CITY OF | 4600440002B | 29-OCT-2003 | 03-08-0688A | 02
08 | SD | MADISON, CITY OF | 4600440002B | 03-DEC-2003 | 04-08-0063A | 01
08 | SD | MINNEHAHA COUNTY | 4600570100C | 26-SEP-2003 | 03-08-0625A | 02
08 | SD | MINNEHAHA COUNTY | 4600570150C | 26-SEP-2003 | 03-08-0655A | 02
08 | SD | MINNEHAHA COUNTY | 4600570165C | 17-DEC-2003 | 03-08-0690A | 02
08 | SD | MINNEHAHA COUNTY | 4600570150C | 19-NOV-2003 | 04-08-0004A | 02
08 | SD | PHILIP, CITY OF | 460033—01B | 01-OCT-2003 | 03-08-0380A | 02
08 | SD | RAPID CITY, CITY OF | 4654200012F | 03-DEC-2003 | 03-08-0334A | 17
08 | SD | RAPID CITY, CITY OF | 4654200012F | 05-AUG-2003 | 03-08-0494A | 17
08 | SD | RAPID CITY, CITY OF | 4654200011F | 12-NOV-2003 | 03-08-0681A | 17
08 | SD | RAPID CITY, CITY OF | 4654200004F | 16-DEC-2003 | 04-08-0053A | 02
08 | SD | REDFIELD, CITY OF | 4600810005B | 27-AUG-2003 | 03-08-0403A | 02
08 | SD | SANBORN COUNTY | 4600740075B | 24-SEP-2003 | 03-08-0400A | 01
08 | SD | SIOUX FALLS, CITY OF | 4600570110C | 16-SEP-2003 | 03-08-0550A | 01
08 | SD | SIOUX FALLS, CITY OF | 4600570105C | 05-NOV-2003 | 03-08-0678A | 01
08 | SD | SPEARFISH, CITY OF | 4600460005E | 17-SEP-2003 | 03-08-0575A | 02
08 | SD | SPEARFISH, CITY OF | 4600460004E | 12-NOV-2003 | 03-08-0647A | 02
08 | SD | UNION COUNTY | 460242—40D | 09-JUL-2003 | 03-08-0489A | 02
08 | SD | WATERTOWN, CITY OF | 4600160010B | 01-OCT-2003 | 03-08-0584A | 02
08 | SD | WATERTOWN, CITY OF | 4600160010B | 15-OCT-2003 | 03-08-0589A | 01
08 | SD | WATERTOWN, CITY OF | 4600160010B | 26-SEP-2003 | 03-08-0606A | 02
08 | SD | WEBSTER, CITY OF | 46037C0450A | 22-SEP-2003 | 03-08-0662A | 02
08 | SD | YANKTON COUNTY | 4600880006C | 19-DEC-2003 | 04-08-0060A | 02
08 | SD | YANKTON, CITY OF | 4600930001C | 09-JUL-2003 | 03-08-0497A | 02
08 | SD | YANKTON, CITY OF | 4600930003C | 08-AUG-2003 | 03-08-0505A | 02
08 | UT | ALPINE, CITY OF | 4902280005A | 16-JUL-2003 | 03-08-0423A | 02
08 | UT | ALPINE, CITY OF | 4902280005A | 05-SEP-2003 | 03-08-0538A | 02
08 | UT | ALPINE, CITY OF | 4902280005A | 23-DEC-2003 | 04-08-0102A | 02
08 | UT | BOUNTIFUL, CITY OF | 4900390005C | 25-JUL-2003 | 03-08-0458A | 02
08 | UT | BOUNTIFUL, CITY OF | 4900390005C | 05-NOV-2003 | 03-08-0595A | 02
08 | UT | CEDAR CITY, CITY OF | 4900740003B | 02-JUL-2003 | 03-08-0481X | 01
08 | UT | CEDAR CITY, CITY OF | 4900740004B | 02-JUL-2003 | 03-08-0481X | 01
08 | UT | LEHI, CITY OF | 4902090120C | 27-OCT-2003 | 03-08-0587A | 01
08 | UT | LINDON, CITY OF | 4902100005C | 24-JUL-2003 | 03-08-0477A | 02
08 | UT | MOAB, CITY OF | 4900720001C | 01-OCT-2003 | 03-08-0641A | 02
08 | UT | MORGAN CITY,CITY OF | 4900930001B | 29-OCT-2003 | 03-08-0627A | 02
08 | UT | OAKLEY, TOWN OF | 4901380001B | 07-JUL-2003 | 03-08-0407A | 02
08 | UT | OAKLEY, TOWN OF | 4901380001B | 10-OCT-2003 | 03-08-0644A | 02
08 | UT | PARADISE, TOWN OF | 490025—01 | 03-SEP-2003 | 03-08-0572A | 02
08 | UT | PARK CITY, CITY OF | 4901390005B | 13-AUG-2003 | 03-08-0461A | 02
08 | UT | RIVERDALE, CITY OF | 4901900001D | 05-DEC-2003 | 04-08-0042A | 02
08 | UT | ROY, CITY OF | 490223—04B | 16-SEP-2003 | 03-08-0593A | 02
08 | UT | SALT LAKE COUNTY | 49035C0466E | 02-SEP-2003 | 03-08-0543A | 02
08 | UT | VERNAL, CITY OF | 4901490005A | 18-SEP-2003 | 02-08-142P | 06
08 | UT | WASHINGTON,CITY OF | 4901820015C | 20-AUG-2003 | 03-08-0443A | 02
08 | UT | WASHINGTON,CITY OF | 4901820015C | 05-SEP-2003 | 03-08-0643X | 02
08 | UT | WEST JORDAN, CITY OF | 49035C0427E | 17-NOV-2003 | 04-08-0002A | 02
08 | UT | WEST JORDAN, CITY OF | 49035C0430E | 25-NOV-2003 | 04-08-0099A | 02
08 | WY | ALBANY COUNTY | 5600010034B | 16-JUL-2003 | 03-08-0401A | 02
08 | WY | CASPER, CITY OF | 5600370015C | 05-DEC-2003 | 04-08-0032A | 02
08 | WY | CHEYENNE, CITY OF | 5600300005E | 24-JUL-2003 | 03-08-0480A | 02
08 | WY | CHEYENNE, CITY OF | 5600300005E | 10-SEP-2003 | 03-08-0482A | 01
08 | WY | DUBOIS, TOWN OF | 5600183792D | 03-SEP-2003 | 03-08-0469A | 02
08 | WY | LARAMIE COUNTY | 5600290505D | 24-OCT-2003 | 02-08-289P | 06
08 | WY | LARAMIE COUNTY | 5600290515E | 24-OCT-2003 | 02-08-289P | 06
08 | WY | LARAMIE COUNTY | 5600290520E | 24-OCT-2003 | 02-08-289P | 06
08 | WY | MOUNTAIN VIEW, TOWN OF | 5600920001B | 17-NOV-2003 | 03-08-0610P | 06
08 | WY | PARK COUNTY | 5600850022B | 14-JUL-2003 | 03-08-0415A | 02
08 | WY | ROCK SPRINGS, CITY OF | 5600510005E | 17-OCT-2003 | 03-08-0594A | 02
08 | WY | SHERIDAN COUNTY | 5600470003B | 17-SEP-2003 | 03-08-0583A | 02
08 | WY | TETON COUNTY | 56039C0655B | 19-NOV-2003 | 03-08-0507P | 05
08 | WY | UINTA COUNTY | 5600530150B | 15-OCT-2003 | 03-08-0560A | 02
08 | WY | UINTA COUNTY | 5600530350B | 17-NOV-2003 | 03-08-0610P | 06
09 | AZ | APACHE COUNTY | 0400012275B | 22-OCT-2003 | 03-09-0868A | 02
09 | AZ | CHANDLER, CITY OF | 04013C2265F | 22-AUG-2003 | 03-09-1108A | 01
09 | AZ | CHANDLER, CITY OF | 04013C3030G | 22-AUG-2003 | 03-09-1108A | 01
09 | AZ | CHANDLER, CITY OF | 04013C2635G | 02-JUL-2003 | 03-09-1162A | 02
09 | AZ | COCONINO COUNTY | 0400193600B | 17-SEP-2003 | 03-09-0953A | 02
09 | AZ | EL MIRAGE, CITY OF | 04013C1165H | 28-AUG-2003 | 02-09-945P | 05
09 | AZ | EL MIRAGE, CITY OF | 04013C1170G | 28-AUG-2003 | 02-09-945P | 05
09 | AZ | EL MIRAGE, CITY OF | 04013C1605H | 28-AUG-2003 | 02-09-945P | 05
09 | AZ | EL MIRAGE, CITY OF | 04013C1610H | 28-AUG-2003 | 02-09-945P | 05
09 | AZ | FLAGSTAFF, CITY OF | 0400200008B | 27-AUG-2003 | 03-09-1483A | 02
09 | AZ | GILA BEND, TOWN OF | 04013C3470E | 13-NOV-2003 | 02-09-807P | 05
09 | AZ | GILA BEND, TOWN OF | 04013C3475E | 13-NOV-2003 | 02-09-807P | 05
09 | AZ | GILA BEND, TOWN OF | 04013C3490F | 13-NOV-2003 | 02-09-807P | 05
09 | AZ | GILA BEND, TOWN OF | 04013C3480G | 13-NOV-2003 | 02-09-857P | 05
09 | AZ | GILA BEND, TOWN OF | 04013C3490F | 13-NOV-2003 | 02-09-857P | 05
09 | AZ | GILA BEND, TOWN OF | 04013C3480G | 09-OCT-2003 | 02-09-858P | 05
09 | AZ | GILA BEND, TOWN OF | 04013C3485G | 09-OCT-2003 | 02-09-858P | 05
09 | AZ | GILA COUNTY | 0400281925B | 24-SEP-2003 | 03-09-0187P | 05
09 | AZ | GILA COUNTY | 0400280065B | 16-SEP-2003 | 03-09-1248A | 02
09 | AZ | GILBERT, TOWN OF | 04013C2680G | 02-JUL-2003 | 03-09-0870A | 02
09 | AZ | GILBERT, TOWN OF | 04013C2685G | 02-JUL-2003 | 03-09-0870A | 02
09 | AZ | GILBERT, TOWN OF | 04013C2660F | 13-AUG-2003 | 03-09-1018A | 01
09 | AZ | GILBERT, TOWN OF | 04013C2655F | 16-JUL-2003 | 03-09-1257A | 02
09 | AZ | GILBERT, TOWN OF | 04013C2655F | 16-JUL-2003 | 03-09-1263A | 01
09 | AZ | GILBERT, TOWN OF | 04013C2680G | 20-AUG-2003 | 03-09-1264A | 02
09 | AZ | GILBERT, TOWN OF | 04013C2655F | 05-AUG-2003 | 03-09-1338X | 01
09 | AZ | GILBERT, TOWN OF | 04013C2660F | 27-AUG-2003 | 03-09-1438A | 01
09 | AZ | GILBERT, TOWN OF | 04013C2655F | 13-AUG-2003 | 03-09-1441A | 02
09 | AZ | GILBERT, TOWN OF | 04013C2655F | 05-DEC-2003 | 03-09-1675A | 01
09 | AZ | GLENDALE, CITY OF | 04013C1615J | 01-JUL-2003 | 02-09-1125P | 06
09 | AZ | GLENDALE, CITY OF | 04013C1645F | 18-JUL-2003 | 03-09-1206A | 01
09 | AZ | GLOBE, CITY OF | 0400290010B | 24-SEP-2003 | 03-09-0187P | 05
09 | AZ | LA PAZ COUNTY | 0401220545B | 21-NOV-2003 | 04-09-0047A | 02
09 | AZ | MARICOPA COUNTY | 04013C1615J | 01-JUL-2003 | 02-09-1125P | 06
09 | AZ | MARICOPA COUNTY | 04013C0370F | 13-NOV-2003 | 02-09-1240P | 05
09 | AZ | MARICOPA COUNTY | 04013C3470E | 13-NOV-2003 | 02-09-807P | 05
09 | AZ | MARICOPA COUNTY | 04013C3490F | 13-NOV-2003 | 02-09-807P | 05
09 | AZ | MARICOPA COUNTY | 04013C3480G | 13-NOV-2003 | 02-09-857P | 05
09 | AZ | MARICOPA COUNTY | 04013C3490F | 13-NOV-2003 | 02-09-857P | 05
09 | AZ | MARICOPA COUNTY | 04013C3491F | 13-NOV-2003 | 02-09-857P | 05
09 | AZ | MARICOPA COUNTY | 04013C3480G | 09-OCT-2003 | 02-09-858P | 05
09 | AZ | MARICOPA COUNTY | 04013C1165H | 28-AUG-2003 | 02-09-945P | 05
09 | AZ | MARICOPA COUNTY | 04013C1170G | 28-AUG-2003 | 02-09-945P | 05
09 | AZ | MARICOPA COUNTY | 04013C1605H | 28-AUG-2003 | 02-09-945P | 05
09 | AZ | MARICOPA COUNTY | 04013C1610H | 28-AUG-2003 | 02-09-945P | 05
09 | AZ | MARICOPA COUNTY | 04013C0780G | 02-JUL-2003 | 03-09-1103A | 02
09 | AZ | MARICOPA COUNTY | 04013C0795G | 07-JUL-2003 | 03-09-1223A | 17
09 | AZ | MARICOPA COUNTY | 04013C0395G | 27-AUG-2003 | 03-09-1293A | 01
09 | AZ | MARICOPA COUNTY | 04013C0795G | 17-NOV-2003 | 03-09-1602A | 01
09 | AZ | MARICOPA COUNTY | 04013C0760F | 27-OCT-2003 | 03-09-1673A | 01
09 | AZ | MESA, CITY OF | 04013C2635G | 12-NOV-2003 | 03-09-1614A | 02
09 | AZ | MESA, CITY OF | 04013C2195F | 08-OCT-2003 | 03-09-1622A | 01
09 | AZ | MESA, CITY OF | 04013C2185F | 26-SEP-2003 | 03-09-1644A | 01
09 | AZ | MESA, CITY OF | 04013C2195F | 08-OCT-2003 | 04-09-0023A | 01
09 | AZ | MESA, CITY OF | 04013C2195F | 17-OCT-2003 | 04-09-0025A | 02
09 | AZ | MESA, CITY OF | 04013C2195F | 10-OCT-2003 | 04-09-0026A | 01
09 | AZ | MESA, CITY OF | 04013C2195F | 10-OCT-2003 | 04-09-0027A | 01
09 | AZ | MESA, CITY OF | 04013C2195F | 08-OCT-2003 | 04-09-0030A | 01
09 | AZ | ORO VALLEY, TOWN OF | 04019C1039K | 14-JUL-2003 | 03-09-1208A | 01
09 | AZ | PARADISE VALLEY, TOWN OF | 04013C1690F | 01-OCT-2003 | 03-09-1392A | 02
09 | AZ | PHOENIX, CITY OF | 04013C2105E | 17-JUL-2003 | 02-09-943P | 05
09 | AZ | PHOENIX, CITY OF | 04013C1210G | 13-NOV-2003 | 03-09-0522P | 05
09 | AZ | PHOENIX, CITY OF | 04013C2155F | 16-JUL-2003 | 03-09-0663A | 02
09 | AZ | PHOENIX, CITY OF | 04013C2135E | 25-JUL-2003 | 03-09-0693A | 02
09 | AZ | PHOENIX, CITY OF | 04013C2605E | 24-SEP-2003 | 03-09-0784A | 02
09 | AZ | PHOENIX, CITY OF | 04013C1655J | 05-AUG-2003 | 03-09-1265A | 02
09 | AZ | PHOENIX, CITY OF | 04013C2130F | 31-JUL-2003 | 03-09-1348A | 02
09 | AZ | PHOENIX, CITY OF | 04013C2135E | 22-AUG-2003 | 03-09-1423A | 02
09 | AZ | PHOENIX, CITY OF | 04013C2610E | 17-SEP-2003 | 03-09-1517A | 01
09 | AZ | PHOENIX, CITY OF | 04013C2130F | 22-SEP-2003 | 03-09-1542A | 02
09 | AZ | PHOENIX, CITY OF | 04013C2135E | 27-OCT-2003 | 03-09-1548A | 01
09 | AZ | PHOENIX, CITY OF | 04013C2130F | 29-OCT-2003 | 03-09-1670A | 02
09 | AZ | PHOENIX, CITY OF | 04013C1680G | 17-DEC-2003 | 04-09-0179P | 06
09 | AZ | PHOENIX, CITY OF | 04013C2130F | 16-DEC-2003 | 04-09-0193A | 02
09 | AZ | PHOENIX, CITY OF | 04013C1655J | 30-DEC-2003 | 04-09-0209A | 02
09 | AZ | PHOENIX, CITY OF | 04013C1655J | 05-DEC-2003 | 04-09-0296A | 01
09 | AZ | PHOENIX, CITY OF | 04013C1660G | 23-DEC-2003 | 04-09-0392A | 02
09 | AZ | PIMA COUNTY | 04019C2225K | 14-JUL-2003 | 03-09-0430P | 06
09 | AZ | PIMA COUNTY | 04019C2220K | 18-SEP-2003 | 03-09-0493P | 06
09 | AZ | PIMA COUNTY | 04019C2880K | 25-SEP-2003 | 03-09-0541P | 05
09 | AZ | PIMA COUNTY | 04019C2890K | 25-SEP-2003 | 03-09-0541P | 05
09 | AZ | PIMA COUNTY | 04019C1616K | 09-JUL-2003 | 03-09-0982A | 02
09 | AZ | PIMA COUNTY | 04019C1635K | 18-JUL-2003 | 03-09-1102A | 02
09 | AZ | PIMA COUNTY | 04019C2245K | 16-JUL-2003 | 03-09-1138A | 02
09 | AZ | PIMA COUNTY | 04019C2225K | 05-AUG-2003 | 03-09-1154A | 02
09 | AZ | PIMA COUNTY | 04019C1610K | 08-OCT-2003 | 03-09-1514A | 02
09 | AZ | PIMA COUNTY | 04019C1645K | 29-OCT-2003 | 03-09-1628A | 02
09 | AZ | PIMA COUNTY | 04019C2280K | 19-NOV-2003 | 03-09-1641A | 17
09 | AZ | PIMA COUNTY | 04019C1605K | 16-DEC-2003 | 04-09-0162A | 02
09 | AZ | PIMA COUNTY | 04019C2280K | 16-DEC-2003 | 04-09-0267A | 02
09 | AZ | PIMA COUNTY | 04019C1605K | 19-DEC-2003 | 04-09-0273A | 02
09 | AZ | PINAL COUNTY | 0400770125D | 16-DEC-2003 | 04-09-0052A | 02
09 | AZ | PINETOP-LAKESIDE, TOWN OF | 0401270005C | 19-NOV-2003 | 04-09-0036A | 02
09 | AZ | PRESCOTT VALLEY, TOWN OF | 04025C2101F | 06-NOV-2003 | 03-09-0757P | 05
09 | AZ | PRESCOTT VALLEY, TOWN OF | 04025C2102F | 06-NOV-2003 | 03-09-0757P | 05
09 | AZ | PRESCOTT VALLEY, TOWN OF | 04025C2102F | 05-NOV-2003 | 03-09-1634A | 02
09 | AZ | PRESCOTT VALLEY, TOWN OF | 04025C1739F | 15-OCT-2003 | 03-09-1707A | 02
09 | AZ | PRESCOTT VALLEY, TOWN OF | 04025C2102F | 19-NOV-2003 | 04-09-0161A | 02
09 | AZ | PRESCOTT VALLEY, TOWN OF | 04025C2102F | 17-DEC-2003 | 04-09-0223A | 02
09 | AZ | PRESCOTT, CITY OF | 04025C2090F | 19-NOV-2003 | 04-09-0005A | 17
09 | AZ | SANTA CRUZ COUNTY | 0400900280B | 05-AUG-2003 | 03-09-1151A | 02
09 | AZ | SANTA CRUZ COUNTY | 0400900020B | 17-SEP-2003 | 03-09-1291A | 02
09 | AZ | SANTA CRUZ COUNTY | 0400900145A | 21-NOV-2003 | 03-09-1457A | 02
09 | AZ | SCOTTSDALE, CITY OF | 04013C2155F | 23-OCT-2003 | 03-09-0482P | 05
09 | AZ | SCOTTSDALE, CITY OF | 04013C2160E | 23-OCT-2003 | 03-09-0482P | 05
09 | AZ | SCOTTSDALE, CITY OF | 04013C2160E | 09-JUL-2003 | 03-09-0986A | 02
09 | AZ | SCOTTSDALE, CITY OF | 04013C2160E | 17-OCT-2003 | 03-09-1207A | 02
09 | AZ | SCOTTSDALE, CITY OF | 04013C1695G | 19-NOV-2003 | 03-09-1699A | 02
09 | AZ | SCOTTSDALE, CITY OF | 04013C1705F | 19-DEC-2003 | 04-09-0246A | 02
09 | AZ | SIERRA VISTA, CITY OF | 0400170015D | 22-AUG-2003 | 03-09-1296A | 01
09 | AZ | SURPRISE, TOWN OF | 04013C1165H | 28-AUG-2003 | 02-09-945P | 05
09 | AZ | SURPRISE, TOWN OF | 04013C1170G | 28-AUG-2003 | 02-09-945P | 05
09 | AZ | TEMPE, CITY OF | 04013C2165G | 06-OCT-2003 | 03-09-1584A | 02
09 | AZ | TOLLESON, CITY OF | 04013C2105E | 17-JUL-2003 | 02-09-943P | 05
09 | AZ | TUCSON, CITY OF | 04019C2258K | 23-OCT-2003 | 02-09-873P | 05
09 | AZ | TUCSON, CITY OF | 04019C2270K | 23-OCT-2003 | 02-09-873P | 05
09 | AZ | TUCSON, CITY OF | 04019C1643K | 14-JUL-2003 | 03-09-0952A | 02
09 | AZ | TUCSON, CITY OF | 04019C1619K | 03-SEP-2003 | 03-09-0965A | 02
09 | AZ | TUCSON, CITY OF | 04019C2227K | 01-OCT-2003 | 03-09-1233A | 02
09 | AZ | TUCSON, CITY OF | 04019C2227K | 06-AUG-2003 | 03-09-1353A | 02
09 | AZ | TUCSON, CITY OF | 04019C2254K | 30-DEC-2003 | 04-09-0294A | 02
09 | AZ | WILLCOX, CITY OF | 0400180001C | 16-DEC-2003 | 04-09-0090A | 02
09 | AZ | YOUNGTOWN, TOWN OF | 04013C1610H | 28-AUG-2003 | 02-09-945P | 05
09 | AZ | YOUNGTOWN, TOWN OF | 04013C1610H | 28-AUG-2003 | 03-09-1014X | 05
09 | AZ | YOUNGTOWN, TOWN OF | 04013C1610H | 10-SEP-2003 | 03-09-1272A | 01
09 | CA | AGOURA HILLS, CITY OF | 0650720002B | 17-NOV-2003 | 04-09-0189A | 02
09 | CA | ALAMEDA COUNTY | 0600010210C | 21-NOV-2003 | 02-09-1365P | 06
09 | CA | ALAMEDA COUNTY | 0600010090D | 02-JUL-2003 | 03-09-1096A | 02
09 | CA | ALAMEDA COUNTY | 0600010090D | 25-JUL-2003 | 03-09-1241A | 02
09 | CA | ALAMEDA COUNTY | 0600010090D | 25-JUL-2003 | 03-09-1328A | 02
09 | CA | ALAMEDA COUNTY | 0600010090D | 30-DEC-2003 | 04-09-0232A | 02
09 | CA | ANAHEIM, CITY OF | 06059C0008F | 13-AUG-2003 | 03-09-1196A | 02
09 | CA | ANAHEIM, CITY OF | 06059C0008F | 30-DEC-2003 | 04-09-0073A | 02
09 | CA | ANDERSON, CITY OF | 0603590001C | 17-OCT-2003 | 03-09-1594A | 02
09 | CA | ANDERSON, CITY OF | 0603590001C | 29-OCT-2003 | 03-09-1618A | 17
09 | CA | ANTIOCH, CITY OF | 0600250355C | 10-JUL-2003 | 03-09-0509P | 06
09 | CA | APPLE VALLEY, CITY OF | 06071C5840F | 30-DEC-2003 | 04-09-0330A | 02
09 | CA | ARCATA, CITY OF | 0600610004E | 19-DEC-2003 | 04-09-0213A | 02
09 | CA | ARVIN, CITY OF | 0600760005A | 17-JUL-2003 | 02-09-866P | 05
09 | CA | BAKERSFIELD, CITY OF | 0600770045B | 17-JUL-2003 | 02-09-866P | 05
09 | CA | BAKERSFIELD, CITY OF | 0600770050B | 17-JUL-2003 | 02-09-866P | 05
09 | CA | BAKERSFIELD, CITY OF | 0600770004B | 21-OCT-2003 | 03-09-1525P | 06
09 | CA | BAKERSFIELD, CITY OF | 0600770027B | 21-OCT-2003 | 03-09-1525P | 06
09 | CA | BURLINGAME, CITY OF | 0650190004C | 30-DEC-2003 | 04-09-0301A | 02
09 | CA | CATHEDRAL CITY, CITY OF | 0607040005D | 10-SEP-2003 | 03-09-1335A | 01
09 | CA | CHULA VISTA, CITY OF | 06073C1916F | 31-JUL-2003 | 03-09-1271A | 02
09 | CA | CITRUS HEIGHTS, CITY OF | 0602620095E | 05-SEP-2003 | 03-09-1118A | 02
09 | CA | CITRUS HEIGHTS, CITY OF | 0602620085E | 22-AUG-2003 | 03-09-1496A | 02
09 | CA | CLAYTON, CITY OF | 0600270001C | 09-JUL-2003 | 03-09-1201A | 02
09 | CA | CLEARLAKE, CITY OF | 0607140005C | 14-JUL-2003 | 03-09-0969A | 02
09 | CA | COLUSA COUNTY | 06011C0535F | 14-JUL-2003 | 03-09-1159A | 02
09 | CA | COLUSA COUNTY | 06011C0805F | 23-DEC-2003 | 04-09-0288A | 02
09 | CA | CONCORD, CITY OF | 0650220010C | 11-AUG-2003 | 03-09-0859P | 05
09 | CA | CONCORD, CITY OF | 0650220009B | 22-SEP-2003 | 03-09-1076A | 02
09 | CA | CONCORD, CITY OF | 0650220008B | 25-JUL-2003 | 03-09-1109A | 02
09 | CA | CONCORD, CITY OF | 0650220002B | 05-SEP-2003 | 03-09-1113A | 02
09 | CA | CONCORD, CITY OF | 0650220010C | 27-AUG-2003 | 03-09-1402A | 02
09 | CA | CONCORD, CITY OF | 0650220006C | 15-OCT-2003 | 03-09-1480A | 02
09 | CA | CONCORD, CITY OF | 0650220007C | 29-OCT-2003 | 03-09-1642A | 02
09 | CA | CONTRA COSTA COUNTY | 0600250290D | 03-DEC-2003 | 00-09-915V | 19
09 | CA | CONTRA COSTA COUNTY | 0600250355C | 10-JUL-2003 | 02-09-1468P | 06
09 | CA | CONTRA COSTA COUNTY | 0600250355C | 10-JUL-2003 | 03-09-0509P | 06
09 | CA | CONTRA COSTA COUNTY | 0600250350B | 02-JUL-2003 | 03-09-0587A | 02
09 | CA | CONTRA COSTA COUNTY | 0600250525B | 05-AUG-2003 | 03-09-0887A | 02
09 | CA | CONTRA COSTA COUNTY | 0600250550B | 05-SEP-2003 | 03-09-1017A | 01
09 | CA | CONTRA COSTA COUNTY | 0600250230C | 27-AUG-2003 | 03-09-1116P | 06
09 | CA | CONTRA COSTA COUNTY | 0600250470C | 29-OCT-2003 | 03-09-1147P | 05
09 | CA | CONTRA COSTA COUNTY | 0600250400B | 05-AUG-2003 | 03-09-1148A | 01
09 | CA | CONTRA COSTA COUNTY | 0600250470C | 09-SEP-2003 | 03-09-1165P | 06
09 | CA | CONTRA COSTA COUNTY | 0600250280C | 22-AUG-2003 | 03-09-1261A | 02
09 | CA | CONTRA COSTA COUNTY | 0600250280C | 22-AUG-2003 | 03-09-1267A | 02
09 | CA | CONTRA COSTA COUNTY | 0600250280C | 22-AUG-2003 | 03-09-1283A | 02
09 | CA | CONTRA COSTA COUNTY | 0600250350B | 06-AUG-2003 | 03-09-1318A | 02
09 | CA | CONTRA COSTA COUNTY | 0600250175B | 20-AUG-2003 | 03-09-1329A | 02
09 | CA | CONTRA COSTA COUNTY | 0600250280C | 22-AUG-2003 | 03-09-1414A | 02
09 | CA | CONTRA COSTA COUNTY | 0600250280C | 03-SEP-2003 | 03-09-1458A | 02
09 | CA | CORONA, CITY OF | 0602500005F | 02-SEP-2003 | 03-09-1319A | 02
09 | CA | CORONA, CITY OF | 0602451360C | 30-SEP-2003 | 03-09-1489P | 06
09 | CA | COTATI, CITY OF | 0603770001D | 22-AUG-2003 | 03-09-1307A | 02
09 | CA | DANVILLE, TOWN OF | 0607070001B | 23-DEC-2003 | 04-09-0077A | 02
09 | CA | DAVIS, CITY OF | 0604240017C | 31-JUL-2003 | 03-09-1323A | 01
09 | CA | DAVIS, CITY OF | 0604240036C | 22-AUG-2003 | 03-09-1340A | 01
09 | CA | DAVIS, CITY OF | 0604240037C | 22-AUG-2003 | 03-09-1340A | 01
09 | CA | DAVIS, CITY OF | 0604240036C | 27-AUG-2003 | 03-09-1408A | 01
09 | CA | DINUBA, CITY OF | 0650660280B | 13-AUG-2003 | 03-09-0741A | 01
09 | CA | DINUBA, CITY OF | 0604030001B | 17-DEC-2003 | 03-09-1595A | 01
09 | CA | EAST PALO ALTO, CITY OF | 0607080001B | 25-JUL-2003 | 03-09-1238A | 01
09 | CA | ESCONDIDO, CITY OF | 06073C1076F | 18-JUL-2003 | 03-09-0758A | 02
09 | CA | ESCONDIDO, CITY OF | 06073C0818F | 08-OCT-2003 | 03-09-1341A | 01
09 | CA | ESCONDIDO, CITY OF | 06073C0811F | 15-OCT-2003 | 03-09-1606A | 02
09 | CA | ESCONDIDO, CITY OF | 06073C0813F | 15-OCT-2003 | 03-09-1606A | 02
09 | CA | FAIRFIELD, CITY OF | 0603700009D | 16-DEC-2003 | 04-09-0068A | 02
09 | CA | FILLMORE, CITY OF | 0604150001D | 07-NOV-2003 | 02-09-927P | 05
09 | CA | FORTUNA, CITY OF | 0600630001B | 14-JUL-2003 | 03-09-1156A | 02
09 | CA | FORTUNA, CITY OF | 0600630002B | 20-AUG-2003 | 03-09-1401A | 02
09 | CA | FRESNO COUNTY | 06019C2675F | 25-NOV-2003 | 03-09-1533A | 02
09 | CA | FRESNO COUNTY | 06019C1620F | 07-NOV-2003 | 03-09-1549A | 01
09 | CA | FRESNO COUNTY | 06019C2130F | 26-SEP-2003 | 03-09-1613A | 02
09 | CA | GOLETA, CITY OF | 0603310730C | 17-OCT-2003 | 03-09-1672A | 02
09 | CA | HAYWARD, CITY OF | 0650330019E | 18-JUL-2003 | 03-09-1038A | 01
09 | CA | HAYWARD, CITY OF | 0650330011E | 03-SEP-2003 | 03-09-1456A | 01
09 | CA | HAYWARD, CITY OF | 0650330011E | 26-SEP-2003 | 03-09-1609A | 02
09 | CA | HAYWARD, CITY OF | 0650330020E | 17-NOV-2003 | 04-09-0029A | 01
09 | CA | HAYWARD, CITY OF | 0650330011E | 03-DEC-2003 | 04-09-0153A | 01
09 | CA | HEMET, CITY OF | 0602530005D | 01-OCT-2003 | 03-09-1596A | 01
09 | CA | HEMET, CITY OF | 0602530005D | 12-NOV-2003 | 03-09-1685A | 01
09 | CA | HEMET, CITY OF | 0602530005D | 12-NOV-2003 | 04-09-0078A | 01
09 | CA | HEMET, CITY OF | 0602530005D | 16-DEC-2003 | 04-09-0195A | 01
09 | CA | HEMET, CITY OF | 0602530005D | 16-DEC-2003 | 04-09-0208A | 01
09 | CA | HERCULES, CITY OF | 0604340008B | 17-SEP-2003 | 03-09-1217A | 02
09 | CA | HERCULES, CITY OF | 0604340009B | 31-JUL-2003 | 03-09-1301A | 01
09 | CA | HESPERIA, CITY OF | 06071C6495G | 21-NOV-2003 | 04-09-0096A | 02
09 | CA | HESPERIA, CITY OF | 06071C6495G | 30-DEC-2003 | 04-09-0279A | 02
09 | CA | HUMBOLDT COUNTY | 0600601105C | 16-DEC-2003 | 04-09-0003A | 02
09 | CA | HUMBOLDT COUNTY | 0600601700B | 25-NOV-2003 | 04-09-0105A | 02
09 | CA | HUNTINGTON BEACH, CITY OF | 06059C0036F | 17-NOV-2003 | 03-09-1215A | 02
09 | CA | HUNTINGTON BEACH, CITY OF | 06059C0036F | 05-AUG-2003 | 03-09-1287A | 02
09 | CA | HUNTINGTON BEACH, CITY OF | 06059C0036F | 13-AUG-2003 | 03-09-1459A | 02
09 | CA | HUNTINGTON BEACH, CITY OF | 06059C0036F | 27-AUG-2003 | 03-09-1508A | 02
09 | CA | IRVINE, CITY OF | 06059C0048F | 10-SEP-2003 | 03-09-1545A | 02
09 | CA | KERN COUNTY | 0600751045B | 17-JUL-2003 | 02-09-866P | 05
09 | CA | KERN COUNTY | 0600751050B | 17-JUL-2003 | 02-09-866P | 05
09 | CA | KERN COUNTY | 0600751275B | 17-JUL-2003 | 02-09-866P | 05
09 | CA | KERN COUNTY | 0600751285B | 17-JUL-2003 | 02-09-866P | 05
09 | CA | KERN COUNTY | 0600751300C | 17-JUL-2003 | 02-09-866P | 05
09 | CA | KERN COUNTY | 0600751275B | 08-AUG-2003 | 03-09-0715A | 01
09 | CA | KERN COUNTY | 0600751625B | 02-JUL-2003 | 03-09-1112A | 02
09 | CA | KERN COUNTY | 0600751315B | 31-JUL-2003 | 03-09-1282A | 02
09 | CA | KERN COUNTY | 0600751275B | 19-DEC-2003 | 04-09-0114A | 01
09 | CA | LA HABRA, CITY OF | 06059C0001E | 29-OCT-2003 | 03-09-1465A | 02
09 | CA | LA HABRA, CITY OF | 06059C0001E | 07-NOV-2003 | 03-09-1536P | 06
09 | CA | LAKE COUNTY | 0600900655A | 22-SEP-2003 | 03-09-1433A | 02
09 | CA | LAKE COUNTY | 0600900825A | 05-NOV-2003 | 03-09-1651A | 02
09 | CA | LAKE ELSINORE, CITY OF | 0606362034F | 19-AUG-2003 | 01-09-879V | 19
09 | CA | LAKE ELSINORE, CITY OF | 0606362042F | 19-AUG-2003 | 01-09-879V | 19
09 | CA | LAKE ELSINORE, CITY OF | 0606362044F | 19-AUG-2003 | 01-09-879V | 19
09 | CA | LAKE ELSINORE, CITY OF | 0606362706F | 19-AUG-2003 | 01-09-879V | 19
09 | CA | LIVERMORE, CITY OF | 0600080005B | 21-NOV-2003 | 02-09-1365P | 06
09 | CA | LOMPOC, CITY OF | 0603340002D | 15-OCT-2003 | 03-09-1604A | 01
09 | CA | LOMPOC, CITY OF | 0603340003D | 15-OCT-2003 | 03-09-1604A | 01
09 | CA | LOS ANGELES COUNTY | 0650430340B | 26-SEP-2003 | 03-09-0311P | 06
09 | CA | LOS ANGELES, CITY OF | 0601370005C | 24-SEP-2003 | 03-09-0922A | 02
09 | CA | LOS ANGELES, CITY OF | 0601370071C | 08-OCT-2003 | 03-09-1050A | 02
09 | CA | LOS ANGELES, CITY OF | 0601370029C | 07-JUL-2003 | 03-09-1144A | 02
09 | CA | LOS ANGELES, CITY OF | 0601370071C | 18-JUL-2003 | 03-09-1204A | 02
09 | CA | LOS ANGELES, CITY OF | 0601370064C | 29-OCT-2003 | 03-09-1246A | 02
09 | CA | LOS ANGELES, CITY OF | 0601370015C | 14-AUG-2003 | 03-09-1275A | 02
09 | CA | LOS ANGELES, CITY OF | 0601370086C | 02-SEP-2003 | 03-09-1280A | 02
09 | CA | LOS ANGELES, CITY OF | 0601370071C | 22-AUG-2003 | 03-09-1427A | 02
09 | CA | LOS ANGELES, CITY OF | 0601370071C | 13-AUG-2003 | 03-09-1439A | 02
09 | CA | LOS ANGELES, CITY OF | 0601370073D | 17-SEP-2003 | 03-09-1551A | 02
09 | CA | LOS ANGELES, CITY OF | 0601370071C | 17-NOV-2003 | 04-09-0088A | 02
09 | CA | LOS ANGELES, CITY OF | 0601370071C | 17-NOV-2003 | 04-09-0137A | 02
09 | CA | LOS ANGELES, CITY OF | 0601370071C | 19-DEC-2003 | 04-09-0138A | 02
09 | CA | LOS ANGELES, CITY OF | 0601370071C | 17-NOV-2003 | 04-09-0159A | 02
09 | CA | LOS ANGELES, CITY OF | 0601370071C | 16-DEC-2003 | 04-09-0236A | 02
09 | CA | LOS ANGELES, CITY OF | 0601370071C | 30-DEC-2003 | 04-09-0287A | 02
09 | CA | MARIN COUNTY | 0601730250A | 02-JUL-2003 | 03-09-0975A | 02
09 | CA | MARIN COUNTY | 0601730465A | 19-AUG-2003 | 03-09-1146A | 02
09 | CA | MARIN COUNTY | 0601730256A | 22-SEP-2003 | 03-09-1385A | 02
09 | CA | MARIN COUNTY | 0601730276A | 15-OCT-2003 | 03-09-1537A | 02
09 | CA | MARIN COUNTY | 0601730419B | 17-DEC-2003 | 04-09-0333A | 02
09 | CA | MARTINEZ, CITY OF | 0650440002B | 24-JUL-2003 | 03-09-0874A | 02
09 | CA | MARTINEZ, CITY OF | 0650440002B | 21-NOV-2003 | 04-09-0016A | 01
09 | CA | MENDOCINO COUNTY | 0601830803B | 11-SEP-2003 | 03-09-0317P | 05
09 | CA | MENDOCINO COUNTY | 0601830811B | 11-SEP-2003 | 03-09-0317P | 05
09 | CA | MENDOCINO COUNTY | 0601830713B | 09-JUL-2003 | 03-09-0881A | 02
09 | CA | MENDOCINO COUNTY | 0601830794B | 03-DEC-2003 | 04-09-0008A | 02
09 | CA | MENLO PARK, CITY OF | 0603210008D | 31-JUL-2003 | 03-09-1279A | 02
09 | CA | MENLO PARK, CITY OF | 0603210008D | 20-AUG-2003 | 03-09-1359A | 02
09 | CA | MENLO PARK, CITY OF | 0603210008D | 19-NOV-2003 | 04-09-0117A | 02
09 | CA | MENLO PARK, CITY OF | 0603210008D | 16-DEC-2003 | 04-09-0200A | 02
09 | CA | MENLO PARK, CITY OF | 0603210007D | 17-DEC-2003 | 04-09-0282A | 01
09 | CA | MENLO PARK, CITY OF | 0603210008D | 17-DEC-2003 | 04-09-0282A | 01
09 | CA | MENLO PARK, CITY OF | 0603210007D | 16-DEC-2003 | 04-09-0300A | 02
09 | CA | MERCED COUNTY | 06047C0445E | 25-JUL-2003 | 03-09-1163A | 01
09 | CA | MERCED COUNTY | 06047C0470E | 24-SEP-2003 | 03-09-1220A | 01
09 | CA | MERCED COUNTY | 06047C0445E | 06-OCT-2003 | 03-09-1305A | 02
09 | CA | MERCED COUNTY | 06047C0410E | 21-NOV-2003 | 04-09-0004A | 01
09 | CA | MERCED COUNTY | 06047C0465E | 03-DEC-2003 | 04-09-0080A | 01
09 | CA | MERCED, CITY OF | 06047C0430E | 08-AUG-2003 | 03-09-1357A | 01
09 | CA | MERCED, CITY OF | 06047C0440E | 17-OCT-2003 | 03-09-1624A | 01
09 | CA | MERCED, CITY OF | 06047C0420E | 25-NOV-2003 | 03-09-1696A | 01
09 | CA | MERCED, CITY OF | 06047C0420E | 23-DEC-2003 | 04-09-0203A | 01
09 | CA | MILL VALLEY, CITY OF | 0601770005B | 06-OCT-2003 | 03-09-1588A | 02
09 | CA | MILPITAS, CITY OF | 0603440001G | 02-JUL-2003 | 03-09-1254A | 02
09 | CA | MILPITAS, CITY OF | 0603440001G | 31-JUL-2003 | 03-09-1322A | 02
09 | CA | MILPITAS, CITY OF | 0603440001G | 31-JUL-2003 | 03-09-1324A | 02
09 | CA | MILPITAS, CITY OF | 0603440003G | 31-JUL-2003 | 03-09-1347A | 02
09 | CA | MILPITAS, CITY OF | 0603440003G | 31-JUL-2003 | 03-09-1356A | 02
09 | CA | MILPITAS, CITY OF | 0603440001G | 08-AUG-2003 | 03-09-1378A | 02
09 | CA | MILPITAS, CITY OF | 0603440001G | 05-AUG-2003 | 03-09-1398A | 02
09 | CA | MILPITAS, CITY OF | 0603440001G | 13-AUG-2003 | 03-09-1422A | 02
09 | CA | MILPITAS, CITY OF | 0603440001G | 13-AUG-2003 | 03-09-1428A | 02
09 | CA | MILPITAS, CITY OF | 0603440001G | 13-AUG-2003 | 03-09-1430A | 02
09 | CA | MILPITAS, CITY OF | 0603440001G | 13-AUG-2003 | 03-09-1444A | 02
09 | CA | MILPITAS, CITY OF | 0603440001G | 13-AUG-2003 | 03-09-1464A | 02
09 | CA | MILPITAS, CITY OF | 0603440001G | 19-AUG-2003 | 03-09-1474A | 02
09 | CA | MILPITAS, CITY OF | 0603440001G | 22-AUG-2003 | 03-09-1509A | 02
09 | CA | MILPITAS, CITY OF | 0603440001G | 22-AUG-2003 | 03-09-1518A | 02
09 | CA | MILPITAS, CITY OF | 0603440001G | 22-AUG-2003 | 03-09-1519A | 02
09 | CA | MILPITAS, CITY OF | 0603440001G | 22-AUG-2003 | 03-09-1520A | 02
09 | CA | MILPITAS, CITY OF | 0603440001G | 22-AUG-2003 | 03-09-1522A | 02
09 | CA | MILPITAS, CITY OF | 0603440001G | 03-SEP-2003 | 03-09-1544A | 02
09 | CA | MILPITAS, CITY OF | 0603440001G | 03-SEP-2003 | 03-09-1553A | 02
09 | CA | MILPITAS, CITY OF | 0603440001G | 17-SEP-2003 | 03-09-1560A | 02
09 | CA | MILPITAS, CITY OF | 0603440001G | 17-SEP-2003 | 03-09-1577A | 02
09 | CA | MILPITAS, CITY OF | 0603440001G | 17-SEP-2003 | 03-09-1592A | 02
09 | CA | MILPITAS, CITY OF | 0603440001G | 17-SEP-2003 | 03-09-1593A | 02
09 | CA | MILPITAS, CITY OF | 0603440001G | 08-OCT-2003 | 03-09-1640A | 02
09 | CA | MILPITAS, CITY OF | 0603440001G | 08-OCT-2003 | 03-09-1668A | 02
09 | CA | MILPITAS, CITY OF | 0603440001G | 08-OCT-2003 | 03-09-1679A | 02
09 | CA | MILPITAS, CITY OF | 0603440001G | 15-OCT-2003 | 03-09-1690A | 02
09 | CA | MILPITAS, CITY OF | 0603440001G | 15-OCT-2003 | 03-09-1695A | 02
09 | CA | MILPITAS, CITY OF | 0603440001G | 08-OCT-2003 | 03-09-1700A | 02
09 | CA | MILPITAS, CITY OF | 0603440001G | 08-OCT-2003 | 03-09-1701A | 02
09 | CA | MILPITAS, CITY OF | 0603440003G | 08-OCT-2003 | 03-09-1702A | 02
09 | CA | MILPITAS, CITY OF | 0603440003G | 29-OCT-2003 | 04-09-0065A | 02
09 | CA | MILPITAS, CITY OF | 0603440003G | 29-OCT-2003 | 04-09-0084A | 02
09 | CA | MILPITAS, CITY OF | 0603440003G | 05-NOV-2003 | 04-09-0131A | 02
09 | CA | MILPITAS, CITY OF | 0603440001G | 05-NOV-2003 | 04-09-0144A | 02
09 | CA | MILPITAS, CITY OF | 0603440001G | 05-DEC-2003 | 04-09-0251A | 02
09 | CA | MILPITAS, CITY OF | 0603440001G | 05-DEC-2003 | 04-09-0276A | 02
09 | CA | MILPITAS, CITY OF | 0603440001G | 23-DEC-2003 | 04-09-0331A | 02
09 | CA | MISSION VIEJO, CIY OF | 06059C0058F | 24-JUL-2003 | 03-09-1097A | 02
09 | CA | MONTEREY COUNTY | 0601950015E | 16-JUL-2003 | 03-09-0963A | 02
09 | CA | MONTEREY COUNTY | 0601950015E | 23-DEC-2003 | 04-09-0258A | 02
09 | CA | MORENO VALLEY, CITY OF | 0650740020B | 17-DEC-2003 | 04-09-0118A | 02
09 | CA | MORGAN HILL, CITY OF | 0603460001C | 29-OCT-2003 | 03-09-1567A | 01
09 | CA | MORGAN HILL, CITY OF | 0603460002C | 07-NOV-2003 | 03-09-1571A | 01
09 | CA | MORGAN HILL, CITY OF | 0603460001C | 19-DEC-2003 | 04-09-0281A | 02
09 | CA | MORRO BAY, CITY OF | 0603070005C | 22-AUG-2003 | 03-09-1429A | 02
09 | CA | MURRIETA, CITY OF | 0607512745A | 25-NOV-2003 | 04-09-0055A | 01
09 | CA | NAPA COUNTY | 0602050275A | 01-OCT-2003 | 03-09-1278A | 17
09 | CA | NAPA COUNTY | 0602050365A | 23-DEC-2003 | 04-09-0198A | 02
09 | CA | NAPA, CITY OF | 0602070005D | 22-AUG-2003 | 03-09-1292A | 02
09 | CA | NAPA, CITY OF | 0602070010C | 05-SEP-2003 | 03-09-1313A | 02
09 | CA | NEVADA COUNTY | 0602100475B | 31-JUL-2003 | 03-09-0487A | 02
09 | CA | NEVADA COUNTY | 0602100483C | 20-AUG-2003 | 03-09-1139A | 02
09 | CA | NEVADA COUNTY | 0602100650B | 13-AUG-2003 | 03-09-1311A | 02
09 | CA | NEWMAN, CITY OF | 0603840885B | 08-OCT-2003 | 03-09-1461A | 01
09 | CA | NEWMAN, CITY OF | 0603840895B | 08-OCT-2003 | 03-09-1461A | 01
09 | CA | NOVATO, CITY OF | 0601780004C | 15-OCT-2003 | 03-09-1598A | 02
09 | CA | OAKLEY, CITY OF | 0607660355A | 19-DEC-2003 | 04-09-0053A | 01
09 | CA | OCEANSIDE, CITY OF | 06073C0759F | 21-NOV-2003 | 02-09-1057P | 05
09 | CA | OCEANSIDE, CITY OF | 06073C0752G | 18-JUL-2003 | 03-09-1125A | 01
09 | CA | OCEANSIDE, CITY OF | 06073C0752G | 13-AUG-2003 | 03-09-1336A | 01
09 | CA | OCEANSIDE, CITY OF | 06073C0752G | 24-SEP-2003 | 03-09-1462A | 02
09 | CA | ORANGE COUNTY | 06059C0018E | 09-JUL-2003 | 03-09-1093A | 02
09 | CA | ORANGE COUNTY | 06059C0051E | 31-OCT-2003 | 03-09-1697A | 02
09 | CA | PALO ALTO, CITY OF | 0603480003E | 22-SEP-2003 | 03-09-1091A | 02
09 | CA | PALO ALTO, CITY OF | 0603480002E | 31-JUL-2003 | 03-09-1235A | 02
09 | CA | PALO ALTO, CITY OF | 0603480002E | 14-JUL-2003 | 03-09-1258A | 02
09 | CA | PALO ALTO, CITY OF | 0603480002E | 16-JUL-2003 | 03-09-1298A | 02
09 | CA | PALO ALTO, CITY OF | 0603480003E | 08-OCT-2003 | 03-09-1317A | 02
09 | CA | PALO ALTO, CITY OF | 0603480003E | 22-SEP-2003 | 03-09-1475A | 02
09 | CA | PALO ALTO, CITY OF | 0603480003E | 17-SEP-2003 | 03-09-1476A | 02
09 | CA | PALO ALTO, CITY OF | 0603480003E | 29-OCT-2003 | 04-09-0059A | 02
09 | CA | PALO ALTO, CITY OF | 0603480002E | 19-NOV-2003 | 04-09-0184A | 02
09 | CA | PALO ALTO, CITY OF | 0603480002E | 05-DEC-2003 | 04-09-0216A | 02
09 | CA | PALO ALTO, CITY OF | 0603480003E | 05-DEC-2003 | 04-09-0216A | 02
09 | CA | PALO ALTO, CITY OF | 0603480002E | 19-DEC-2003 | 04-09-0298A | 02
09 | CA | PALOS VERDES ESTATES, CITY OF | 0601450005B | 16-JUL-2003 | 03-09-1043A | 02
09 | CA | PALOS VERDES ESTATES, CITY OF | 0601450005B | 04-DEC-2003 | 03-09-1639A | 02
09 | CA | PERRIS, CITY OF | 0602580010D | 01-OCT-2003 | 03-09-1303A | 02
09 | CA | PERRIS, CITY OF | 0602580010D | 05-SEP-2003 | 03-09-1371A | 01
09 | CA | PERRIS, CITY OF | 0602580010D | 05-NOV-2003 | 04-09-0032A | 02
09 | CA | PETALUMA, CITY OF | 0603790002C | 06-AUG-2003 | 03-09-0938A | 01
09 | CA | PETALUMA, CITY OF | 0603790002C | 26-SEP-2003 | 03-09-1000A | 02
09 | CA | PLACER COUNTY | 06061C0412F | 13-AUG-2003 | 02-09-810P | 05
09 | CA | PLACER COUNTY | 06061C0225F | 15-OCT-2003 | 03-09-1586A | 02
09 | CA | PLACER COUNTY | 06061C0067F | 23-DEC-2003 | 04-09-0314A | 02
09 | CA | PLEASANT HILL, CITY OF | 0600340003C | 03-DEC-2003 | 00-09-913V | 19
09 | CA | PLEASANT HILL, CITY OF | 0600340005C | 03-DEC-2003 | 00-09-913V | 19
09 | CA | PLEASANTON, CITY OF | 0600120003D | 18-JUL-2003 | 03-09-1026A | 02
09 | CA | PLEASANTON, CITY OF | 0600120003D | 05-SEP-2003 | 03-09-1482A | 02
09 | CA | PLUMAS COUNTY | 060244—01C | 13-AUG-2003 | 03-09-0735A | 02
09 | CA | PLUMAS COUNTY | 0602441100C | 19-NOV-2003 | 04-09-0020A | 02
09 | CA | PLUMAS COUNTY | 0602441350C | 16-DEC-2003 | 04-09-0038A | 02
09 | CA | PORT HUENEME, CITY OF | 0650510001B | 24-SEP-2003 | 03-09-1192A | 02
09 | CA | PORTERVILLE, CITY OF | 0604070010D | 17-NOV-2003 | 04-09-0075A | 01
09 | CA | POWAY, CITY OF | 06073C1359F | 24-SEP-2003 | 03-09-1394A | 02
09 | CA | RANCHO CUCAMONGA, CITY OF | 06071C8630F | 18-JUL-2003 | 03-09-0820A | 02
09 | CA | RANCHO CUCAMONGA, CITY OF | 06071C7890F | 21-JUL-2003 | 03-09-1073P | 06
09 | CA | RANCHO CUCAMONGA, CITY OF | 06071C7890F | 10-SEP-2003 | 03-09-1419A | 02
09 | CA | RANCHO CUCAMONGA, CITY OF | 06071C7890F | 17-OCT-2003 | 03-09-1500A | 02
09 | CA | RANCHO CUCAMONGA, CITY OF | 06071C7890F | 15-OCT-2003 | 03-09-1603A | 02
09 | CA | RANCHO CUCAMONGA, CITY OF | 06071C7890F | 03-DEC-2003 | 04-09-0149A | 02
09 | CA | RED BLUFF, CITY OF | 0650530002F | 25-JUL-2003 | 03-09-1227A | 02
09 | CA | RED BLUFF, CITY OF | 0650530001F | 31-JUL-2003 | 03-09-1247A | 02
09 | CA | RED BLUFF, CITY OF | 0650530001F | 10-SEP-2003 | 03-09-1610X | 02
09 | CA | REDDING, CITY OF | 0603600015C | 20-AUG-2003 | 03-09-1045A | 02
09 | CA | REDDING, CITY OF | 0603600025D | 21-NOV-2003 | 04-09-0130A | 02
09 | CA | REDLANDS, CITY OF | 06071C8711F | 18-JUL-2003 | 03-09-0927A | 01
09 | CA | RICHMOND, CITY OF | 0600350015D | 27-AUG-2003 | 03-09-1116P | 05
09 | CA | RICHMOND, CITY OF | 0600350020C | 27-AUG-2003 | 03-09-1116P | 05
09 | CA | RIVERSIDE COUNTY | 0602452710C | 12-NOV-2003 | 03-09-1009A | 02
09 | CA | RIVERSIDE COUNTY | 0602451625C | 06-OCT-2003 | 03-09-1410A | 01
09 | CA | RIVERSIDE COUNTY | 0602452065C | 27-AUG-2003 | 03-09-1418A | 01
09 | CA | RIVERSIDE, CITY OF | 0602600030B | 31-JUL-2003 | 03-09-1304A | 02
09 | CA | RIVERSIDE, CITY OF | 0602600030B | 12-NOV-2003 | 03-09-1677A | 02
09 | CA | RIVERSIDE, CITY OF | 0602600030B | 29-OCT-2003 | 03-09-1678A | 02
09 | CA | ROCKLIN, CITY OF | 06061C0412F | 13-AUG-2003 | 02-09-810P | 05
09 | CA | ROSEVILLE, CITY OF | 06061C0394F | 22-OCT-2003 | 03-09-0484A | 02
09 | CA | SACRAMENTO COUNTY | 0602620310F | 14-AUG-2003 | 03-09-0080P | 05
09 | CA | SACRAMENTO COUNTY | 0602620320E | 14-AUG-2003 | 03-09-0080P | 05
09 | CA | SACRAMENTO COUNTY | 0602620310F | 21-JUL-2003 | 03-09-0432P | 05
09 | CA | SACRAMENTO COUNTY | 0602620400D | 06-OCT-2003 | 03-09-1466A | 01
09 | CA | SACRAMENTO COUNTY | 0602620345C | 17-DEC-2003 | 04-09-0212A | 01
09 | CA | SACRAMENTO, CITY OF | 0602660005F | 02-OCT-2003 | 03-09-1032P | 06
09 | CA | SACRAMENTO, CITY OF | 0602660015F | 26-AUG-2003 | 03-09-1085P | 06
09 | CA | SACRAMENTO, CITY OF | 0602660010F | 07-JUL-2003 | 03-09-1153A | 02
09 | CA | SACRAMENTO, CITY OF | 0602660030F | 25-JUL-2003 | 03-09-1243A | 01
09 | CA | SALINAS, CITY OF | 0602020002D | 05-DEC-2003 | 04-09-0172A | 17
09 | CA | SAN BERNARDINO COUNTY | 06071C7315F | 31-JUL-2003 | 03-09-1119A | 02
09 | CA | SAN BERNARDINO, CITY OF | 06071C7930F | 13-AUG-2003 | 03-09-0808A | 02
09 | CA | SAN BUENAVENTURA, CITY OF | 0604190010C | 16-DEC-2003 | 04-09-0141A | 01
09 | CA | SAN CARLOS, CITY OF | 0603270001C | 16-JUL-2003 | 03-09-1044A | 02
09 | CA | SAN CARLOS, CITY OF | 0603270001C | 17-SEP-2003 | 03-09-1529A | 01
09 | CA | SAN CARLOS, CITY OF | 0603270001C | 03-DEC-2003 | 04-09-0187A | 01
09 | CA | SAN CLEMENTE, CITY OF | 06059C0079F | 02-DEC-2003 | 03-09-0200P | 06
09 | CA | SAN DIEGO COUNTY | 06073C1669F | 24-JUL-2003 | 03-09-0198P | 05
09 | CA | SAN DIEGO COUNTY | 06073C1927F | 04-DEC-2003 | 03-09-1277A | 01
09 | CA | SAN DIEGO COUNTY | 06073C1931F | 04-DEC-2003 | 03-09-1277A | 01
09 | CA | SAN DIEGO COUNTY | 06073C0787G | 16-SEP-2003 | 03-09-1314A | 02
09 | CA | SAN DIEGO COUNTY | 06073C1662F | 10-SEP-2003 | 03-09-1413A | 01
09 | CA | SAN DIEGO, CITY OF | 06073C1904F | 21-AUG-2003 | 03-09-0450P | 05
09 | CA | SAN DIEGO, CITY OF | 06073C1876F | 01-JUL-2003 | 03-09-0515P | 06
09 | CA | SAN DIEGO, CITY OF | 06073C1877F | 01-JUL-2003 | 03-09-0515P | 06
09 | CA | SAN DIEGO, CITY OF | 06073C1091F | 31-JUL-2003 | 03-09-0598A | 01
09 | CA | SAN DIEGO, CITY OF | 06073C2154F | 22-AUG-2003 | 03-09-0633P | 06
09 | CA | SAN DIEGO, CITY OF | 06073C1613F | 13-AUG-2003 | 03-09-0926A | 02
09 | CA | SAN DIEGO, CITY OF | 06073C1614F | 20-AUG-2003 | 03-09-1054A | 02
09 | CA | SAN DIEGO, CITY OF | 06073C1088F | 20-NOV-2003 | 03-09-1057P | 05
09 | CA | SAN DIEGO, CITY OF |  | 08-JUL-2003 | 03-09-1082P | 06
09 | CA | SAN DIEGO, CITY OF | 06073C2162F | 06-AUG-2003 | 03-09-1126A | 02
09 | CA | SAN DIEGO, CITY OF | 06073C1594F | 09-JUL-2003 | 03-09-1193A | 02
09 | CA | SAN DIEGO, CITY OF | 06073C1363F | 02-SEP-2003 | 03-09-1232A | 01
09 | CA | SAN DIEGO, CITY OF | 06073C1876F | 06-AUG-2003 | 03-09-1343X | 06
09 | CA | SAN DIEGO, CITY OF | 06073C1877F | 06-AUG-2003 | 03-09-1343X | 06
09 | CA | SAN DIEGO, CITY OF | 06073C1363F | 17-OCT-2003 | 04-09-0044A | 01
09 | CA | SAN JACINTO, CITY OF | 0650560005D | 26-SEP-2003 | 03-09-1213A | 01
09 | CA | SAN JACINTO, CITY OF | 0650560005D | 10-OCT-2003 | 03-09-1528A | 01
09 | CA | SAN JOAQUIN COUNTY | 0602990470B | 30-DEC-2003 | 04-09-0095A | 02
09 | CA | SAN JOSE, CITY OF | 0603490010E | 18-JUL-2003 | 03-09-1094A | 02
09 | CA | SAN JOSE, CITY OF | 0603490037D | 06-OCT-2003 | 03-09-1170A | 02
09 | CA | SAN JOSE, CITY OF | 0603490037D | 06-OCT-2003 | 03-09-1171A | 02
09 | CA | SAN JOSE, CITY OF | 0603490037D | 08-OCT-2003 | 03-09-1182A | 02
09 | CA | SAN JOSE, CITY OF | 0603490048E | 02-JUL-2003 | 03-09-1244A | 02
09 | CA | SAN JOSE, CITY OF | 0603490009G | 02-JUL-2003 | 03-09-1251A | 02
09 | CA | SAN JOSE, CITY OF | 0603490048E | 09-JUL-2003 | 03-09-1274A | 02
09 | CA | SAN JOSE, CITY OF | 0603490048E | 16-JUL-2003 | 03-09-1308A | 02
09 | CA | SAN JOSE, CITY OF | 0603490048E | 05-AUG-2003 | 03-09-1351A | 02
09 | CA | SAN JOSE, CITY OF | 0603490037D | 05-AUG-2003 | 03-09-1354A | 02
09 | CA | SAN JOSE, CITY OF | 0603490026D | 13-AUG-2003 | 03-09-1379A | 02
09 | CA | SAN JOSE, CITY OF | 0603490047E | 13-AUG-2003 | 03-09-1387A | 02
09 | CA | SAN JOSE, CITY OF | 0603490020F | 13-AUG-2003 | 03-09-1389A | 02
09 | CA | SAN JOSE, CITY OF | 0603490048E | 08-AUG-2003 | 03-09-1395A | 02
09 | CA | SAN JOSE, CITY OF | 0603490009G | 13-AUG-2003 | 03-09-1406A | 02
09 | CA | SAN JOSE, CITY OF | 0603490053E | 20-AUG-2003 | 03-09-1424A | 02
09 | CA | SAN JOSE, CITY OF | 0603490047E | 13-AUG-2003 | 03-09-1447A | 02
09 | CA | SAN JOSE, CITY OF | 0603490020F | 13-AUG-2003 | 03-09-1452A | 02
09 | CA | SAN JOSE, CITY OF | 0603490026D | 13-AUG-2003 | 03-09-1455A | 02
09 | CA | SAN JOSE, CITY OF | 0603490026D | 05-SEP-2003 | 03-09-1468A | 02
09 | CA | SAN JOSE, CITY OF | 0603490037D | 26-SEP-2003 | 03-09-1481A | 02
09 | CA | SAN JOSE, CITY OF | 0603490020F | 20-AUG-2003 | 03-09-1484A | 02
09 | CA | SAN JOSE, CITY OF | 0603490014E | 20-AUG-2003 | 03-09-1492A | 02
09 | CA | SAN JOSE, CITY OF | 0603490047E | 20-AUG-2003 | 03-09-1493A | 02
09 | CA | SAN JOSE, CITY OF | 0603490037D | 22-AUG-2003 | 03-09-1501A | 02
09 | CA | SAN JOSE, CITY OF | 0603490020F | 22-AUG-2003 | 03-09-1516A | 02
09 | CA | SAN JOSE, CITY OF | 0603490026D | 03-SEP-2003 | 03-09-1530A | 02
09 | CA | SAN JOSE, CITY OF | 0603490020F | 05-SEP-2003 | 03-09-1546A | 02
09 | CA | SAN JOSE, CITY OF | 0603490048E | 17-SEP-2003 | 03-09-1555A | 02
09 | CA | SAN JOSE, CITY OF | 0603490020F | 17-SEP-2003 | 03-09-1556A | 02
09 | CA | SAN JOSE, CITY OF | 0603490047E | 17-SEP-2003 | 03-09-1558A | 02
09 | CA | SAN JOSE, CITY OF | 0603490014E | 26-SEP-2003 | 03-09-1625A | 02
09 | CA | SAN JOSE, CITY OF | 0603490048E | 01-OCT-2003 | 03-09-1698X | 02
09 | CA | SAN JOSE, CITY OF | 0603490031D | 08-OCT-2003 | 03-09-1706A | 02
09 | CA | SAN JOSE, CITY OF | 0603490026D | 15-OCT-2003 | 03-09-1709A | 02
09 | CA | SAN JOSE, CITY OF | 0603490020F | 15-OCT-2003 | 04-09-0013A | 02
09 | CA | SAN JOSE, CITY OF | 0603490020F | 15-OCT-2003 | 04-09-0033A | 02
09 | CA | SAN JOSE, CITY OF | 0603490009G | 15-OCT-2003 | 04-09-0034A | 02
09 | CA | SAN JOSE, CITY OF | 0603490047E | 15-OCT-2003 | 04-09-0035A | 02
09 | CA | SAN JOSE, CITY OF | 0603490047E | 19-NOV-2003 | 04-09-0042A | 02
09 | CA | SAN JOSE, CITY OF | 0603490010E | 29-OCT-2003 | 04-09-0060A | 02
09 | CA | SAN JOSE, CITY OF | 0603490020F | 29-OCT-2003 | 04-09-0061A | 02
09 | CA | SAN JOSE, CITY OF | 0603490047E | 05-NOV-2003 | 04-09-0067A | 02
09 | CA | SAN JOSE, CITY OF | 0603490020F | 29-OCT-2003 | 04-09-0089A | 02
09 | CA | SAN JOSE, CITY OF | 0603490026D | 05-NOV-2003 | 04-09-0093A | 02
09 | CA | SAN JOSE, CITY OF | 0603490009G | 25-NOV-2003 | 04-09-0097A | 02
09 | CA | SAN JOSE, CITY OF | 0603490009G | 17-NOV-2003 | 04-09-0112A | 02
09 | CA | SAN JOSE, CITY OF | 0603490019E | 05-NOV-2003 | 04-09-0121A | 02
09 | CA | SAN JOSE, CITY OF | 0603490020F | 05-NOV-2003 | 04-09-0129A | 02
09 | CA | SAN JOSE, CITY OF | 0603490047E | 19-NOV-2003 | 04-09-0136A | 02
09 | CA | SAN JOSE, CITY OF | 0603490037D | 17-NOV-2003 | 04-09-0170A | 02
09 | CA | SAN JOSE, CITY OF | 0603490020F | 17-NOV-2003 | 04-09-0181A | 02
09 | CA | SAN JOSE, CITY OF | 0603490020F | 17-NOV-2003 | 04-09-0183A | 02
09 | CA | SAN JOSE, CITY OF | 0603490026D | 03-DEC-2003 | 04-09-0194A | 02
09 | CA | SAN JOSE, CITY OF | 0603490020F | 25-NOV-2003 | 04-09-0196A | 02
09 | CA | SAN JOSE, CITY OF | 0603490037D | 03-DEC-2003 | 04-09-0230A | 02
09 | CA | SAN JOSE, CITY OF | 0603490009F | 05-DEC-2003 | 04-09-0253A | 02
09 | CA | SAN JOSE, CITY OF | 0603490020F | 05-DEC-2003 | 04-09-0254A | 02
09 | CA | SAN JOSE, CITY OF | 0603490014E | 05-DEC-2003 | 04-09-0262A | 02
09 | CA | SAN JOSE, CITY OF | 0603490029D | 05-DEC-2003 | 04-09-0271A | 02
09 | CA | SAN JOSE, CITY OF | 0603490020F | 05-DEC-2003 | 04-09-0286A | 02
09 | CA | SAN LUIS OBISPO COUNTY | 0603040625C | 25-AUG-2003 | 02-09-1531P | 06
09 | CA | SAN LUIS OBISPO COUNTY | 0603040625C | 10-SEP-2003 | 03-09-1384A | 01
09 | CA | SAN LUIS OBISPO COUNTY | 0603040465C | 03-DEC-2003 | 04-09-0101A | 02
09 | CA | SAN LUIS OBISPO COUNTY | 0603040351B | 16-DEC-2003 | 04-09-0157A | 02
09 | CA | SAN LUIS OBISPO, CITY OF | 0603100005C | 25-AUG-2003 | 02-09-1531P | 06
09 | CA | SAN LUIS OBISPO, CITY OF | 0603100005C | 29-OCT-2003 | 03-09-1570A | 01
09 | CA | SAN LUIS OBISPO, CITY OF | 0603100005C | 17-OCT-2003 | 03-09-1647A | 02
09 | CA | SAN LUIS OBISPO, CITY OF | 0603100005C | 25-NOV-2003 | 03-09-1708A | 02
09 | CA | SAN MARCOS, CITY OF | 06073C0793F | 31-JUL-2003 | 03-09-0123P | 05
09 | CA | SAN MARCOS, CITY OF | 06073C0793F | 05-AUG-2003 | 03-09-0764A | 01
09 | CA | SAN RAFAEL, CITY OF | 0650580020B | 14-JUL-2003 | 03-09-0941A | 02
09 | CA | SAN RAFAEL, CITY OF | 0650580015B | 17-OCT-2003 | 03-09-1499A | 02
09 | CA | SANTA BARBARA COUNTY | 0603310765E | 09-OCT-2003 | 02-09-179P | 05
09 | CA | SANTA BARBARA COUNTY | 0603310740D | 02-JUL-2003 | 03-09-0855A | 01
09 | CA | SANTA BARBARA COUNTY | 0603310730C | 27-AUG-2003 | 03-09-1471A | 02
09 | CA | SANTA BARBARA, CITY OF | 0603350005D | 05-NOV-2003 | 03-09-1635A | 02
09 | CA | SANTA BARBARA, CITY OF | 0603350005D | 05-DEC-2003 | 04-09-0104A | 02
09 | CA | SANTA CLARA COUNTY | 0603370255E | 07-JUL-2003 | 03-09-1142A | 02
09 | CA | SANTA CLARA COUNTY | 0603370610E | 05-AUG-2003 | 03-09-1231A | 02
09 | CA | SANTA CLARA COUNTY | 0603370620E | 17-SEP-2003 | 03-09-1454A | 02
09 | CA | SANTA CLARA COUNTY | 0603370255E | 05-NOV-2003 | 04-09-0066A | 02
09 | CA | SANTA CLARA COUNTY | 0603370255E | 29-OCT-2003 | 04-09-0087A | 02
09 | CA | SANTA CLARA, CITY OF | 0603500005D | 07-JUL-2003 | 03-09-1168A | 02
09 | CA | SANTA CLARA, CITY OF | 0603500001D | 07-JUL-2003 | 03-09-1239A | 02
09 | CA | SANTA CLARA, CITY OF | 0603500003D | 05-AUG-2003 | 03-09-1339A | 02
09 | CA | SANTA CLARA, CITY OF | 0603500003D | 20-AUG-2003 | 03-09-1386A | 02
09 | CA | SANTA CLARA, CITY OF | 0603500003D | 01-OCT-2003 | 03-09-1667A | 02
09 | CA | SANTA CLARA, CITY OF | 0603500005D | 22-OCT-2003 | 04-09-0069A | 02
09 | CA | SANTA CLARA, CITY OF | 0603500005D | 05-NOV-2003 | 04-09-0135A | 02
09 | CA | SANTA CLARA, CITY OF | 0603500003D | 23-DEC-2003 | 04-09-0355A | 02
09 | CA | SANTA CLARITA, CITY OF | 0607290365C | 01-OCT-2003 | 03-09-0945A | 01
09 | CA | SANTA CLARITA, CITY OF | 0607290480C | 17-NOV-2003 | 03-09-1575A | 02
09 | CA | SANTA CRUZ COUNTY | 0603530415B | 14-AUG-2003 | 03-09-0475P | 05
09 | CA | SANTA CRUZ COUNTY | 0603530360B | 20-AUG-2003 | 03-09-1252A | 02
09 | CA | SANTA MARIA, CITY OF | 0603360005D | 17-SEP-2003 | 03-09-1491A | 02
09 | CA | SELMA, CITY OF | 06019C2675F | 16-SEP-2003 | 03-09-1181A | 02
09 | CA | SHASTA COUNTY | 0603580500B | 16-SEP-2003 | 03-09-0946A | 02
09 | CA | SHASTA COUNTY | 0603580275B | 29-OCT-2003 | 03-09-1576A | 02
09 | CA | SHASTA COUNTY | 0603580680C | 05-NOV-2003 | 03-09-1643A | 02
09 | CA | SHASTA COUNTY | 0603580715B | 25-NOV-2003 | 03-09-1703A | 02
09 | CA | SHASTA COUNTY | 0603580680C | 05-DEC-2003 | 04-09-0037A | 01
09 | CA | SHASTA COUNTY | 0603580705B | 03-DEC-2003 | 04-09-0048A | 02
09 | CA | SHASTA COUNTY | 0603580050B | 17-DEC-2003 | 04-09-0062A | 02
09 | CA | SHASTA LAKE, CITY OF | 0607580005A | 19-NOV-2003 | 03-09-1689A | 02
09 | CA | SIMI VALLEY, CITY OF | 0604210006B | 14-JUL-2003 | 03-09-1051A | 02
09 | CA | SIMI VALLEY, CITY OF | 0604210006B | 14-JUL-2003 | 03-09-1052A | 02
09 | CA | SIMI VALLEY, CITY OF | 0604210006B | 14-JUL-2003 | 03-09-1053A | 02
09 | CA | SIMI VALLEY, CITY OF | 0604210008B | 02-JUL-2003 | 03-09-1098A | 02
09 | CA | SIMI VALLEY, CITY OF | 0604210006B | 20-AUG-2003 | 03-09-1327A | 02
09 | CA | SIMI VALLEY, CITY OF | 0604210002B | 05-AUG-2003 | 03-09-1337A | 02
09 | CA | SIMI VALLEY, CITY OF | 0604210002B | 03-SEP-2003 | 03-09-1358A | 02
09 | CA | SIMI VALLEY, CITY OF | 0604210009B | 31-JUL-2003 | 03-09-1381A | 02
09 | CA | SIMI VALLEY, CITY OF | 0604210009B | 05-AUG-2003 | 03-09-1382A | 02
09 | CA | SIMI VALLEY, CITY OF | 0604210008B | 17-SEP-2003 | 03-09-1396A | 02
09 | CA | SIMI VALLEY, CITY OF | 0604210008B | 20-AUG-2003 | 03-09-1397A | 02
09 | CA | SIMI VALLEY, CITY OF | 0604210002B | 08-OCT-2003 | 03-09-1403A | 02
09 | CA | SIMI VALLEY, CITY OF | 0604210006B | 20-AUG-2003 | 03-09-1416A | 02
09 | CA | SIMI VALLEY, CITY OF | 0604210008B | 20-AUG-2003 | 03-09-1432A | 02
09 | CA | SIMI VALLEY, CITY OF | 0604210006B | 20-AUG-2003 | 03-09-1473A | 02
09 | CA | SIMI VALLEY, CITY OF | 0604210008B | 20-AUG-2003 | 03-09-1473A | 02
09 | CA | SIMI VALLEY, CITY OF | 0604210009B | 17-SEP-2003 | 03-09-1554A | 02
09 | CA | SIMI VALLEY, CITY OF | 0604210009B | 18-NOV-2003 | 03-09-1657P | 05
09 | CA | SIMI VALLEY, CITY OF | 0604210004B | 15-OCT-2003 | 03-09-1659A | 02
09 | CA | SIMI VALLEY, CITY OF | 0604210004B | 15-OCT-2003 | 03-09-1661A | 02
09 | CA | SIMI VALLEY, CITY OF | 0604210004B | 03-DEC-2003 | 03-09-1705A | 02
09 | CA | SIMI VALLEY, CITY OF | 0604210002B | 17-OCT-2003 | 04-09-0002A | 02
09 | CA | SIMI VALLEY, CITY OF | 0604210008B | 17-OCT-2003 | 04-09-0018A | 02
09 | CA | SIMI VALLEY, CITY OF | 0604210009B | 25-NOV-2003 | 04-09-0091A | 02
09 | CA | SIMI VALLEY, CITY OF | 0604210006B | 05-NOV-2003 | 04-09-0126A | 02
09 | CA | SIMI VALLEY, CITY OF | 0604210008B | 05-NOV-2003 | 04-09-0126A | 02
09 | CA | SIMI VALLEY, CITY OF | 0604210004B | 30-DEC-2003 | 04-09-0249A | 02
09 | CA | SIMI VALLEY, CITY OF | 0604210009B | 30-DEC-2003 | 04-09-0266A | 02
09 | CA | SIMI VALLEY, CITY OF | 0604210008B | 30-DEC-2003 | 04-09-0277A | 02
09 | CA | SIMI VALLEY, CITY OF | 0604210009B | 17-DEC-2003 | 04-09-0284A | 02
09 | CA | SIMI VALLEY, CITY OF | 0604210008B | 17-DEC-2003 | 04-09-0285A | 02
09 | CA | SIMI VALLEY, CITY OF | 0604210004B | 23-DEC-2003 | 04-09-0334A | 02
09 | CA | SOLANA BEACH,CITY OF | 06073C1307F | 20-AUG-2003 | 03-09-1290A | 02
09 | CA | SOLANO COUNTY | 0606310406B | 08-OCT-2003 | 03-09-1648A | 02
09 | CA | SONOMA COUNTY | 0603750905B | 08-OCT-2003 | 03-09-1262A | 02
09 | CA | SONOMA COUNTY | 0603750515B | 01-OCT-2003 | 03-09-1443A | 02
09 | CA | SONOMA COUNTY | 0603750745B | 25-NOV-2003 | 03-09-1712A | 02
09 | CA | SOUTH LAKE TAHOE, CITY OF | 0650600010B | 03-SEP-2003 | 03-09-1064A | 02
09 | CA | SOUTH LAKE TAHOE, CITY OF | 0650600010B | 06-AUG-2003 | 03-09-1183A | 17
09 | CA | SOUTH LAKE TAHOE, CITY OF | 0650600010B | 05-SEP-2003 | 03-09-1591A | 02
09 | CA | STOCKTON, CITY OF | 0603020005E | 22-AUG-2003 | 03-09-1122A | 02
09 | CA | SUNNYVALE, CITY OF | 0603520001D | 03-SEP-2003 | 03-09-1534A | 02
09 | CA | SUNNYVALE, CITY OF | 0603520001D | 03-SEP-2003 | 03-09-1539A | 02
09 | CA | SUNNYVALE, CITY OF | 0603520001D | 05-SEP-2003 | 03-09-1547A | 02
09 | CA | SUNNYVALE, CITY OF | 0603520001D | 10-SEP-2003 | 03-09-1574A | 02
09 | CA | SUNNYVALE, CITY OF | 0603520001D | 10-SEP-2003 | 03-09-1581A | 02
09 | CA | SUNNYVALE, CITY OF | 0603520001D | 15-OCT-2003 | 03-09-1687A | 02
09 | CA | SUNNYVALE, CITY OF | 0603520001D | 19-NOV-2003 | 04-09-0164A | 02
09 | CA | SUNNYVALE, CITY OF | 0603520001D | 19-NOV-2003 | 04-09-0180A | 02
09 | CA | SUNNYVALE, CITY OF | 0603520001D | 25-NOV-2003 | 04-09-0211A | 02
09 | CA | SUNNYVALE, CITY OF | 0603520001D | 17-DEC-2003 | 04-09-0293A | 02
09 | CA | SUTTER CREEK, CITY OF | 0604580005B | 19-SEP-2003 | 03-09-0678P | 05
09 | CA | TEHAMA COUNTY | 0650640090C | 02-JUL-2003 | 03-09-0977A | 02
09 | CA | TEHAMA COUNTY | 0650640290D | 26-SEP-2003 | 03-09-1377A | 02
09 | CA | TEHAMA COUNTY | 0650640457C | 10-OCT-2003 | 03-09-1590A | 02
09 | CA | TEMECULA, CITY OF | 0607420010B | 06-NOV-2003 | 02-09-1356P | 05
09 | CA | THOUSAND OAKS, CITY OF | 0604220015B | 22-AUG-2003 | 03-09-1391A | 02
09 | CA | THOUSAND OAKS, CITY OF | 0604220015B | 27-AUG-2003 | 03-09-1440A | 02
09 | CA | TIBURON, CITY OF | 0601730465A | 06-OCT-2003 | 03-09-1066A | 02
09 | CA | TRINITY COUNTY | 06105C0625B | 25-NOV-2003 | 04-09-0115A | 02
09 | CA | TRUCKEE, TOWN OF | 0602100484C | 10-OCT-2003 | 03-09-1585A | 02
09 | CA | TRUCKEE, TOWN OF | 0602100503C | 16-DEC-2003 | 04-09-0145A | 02
09 | CA | TULARE COUNTY | 0650661025B | 16-JUL-2003 | 03-09-0772A | 01
09 | CA | TULARE COUNTY | 0650660805B | 14-JUL-2003 | 03-09-0840A | 02
09 | CA | TULARE COUNTY | 0650660625B | 24-SEP-2003 | 03-09-1084A | 01
09 | CA | TULARE COUNTY | 0650660845B | 13-AUG-2003 | 03-09-1306A | 02
09 | CA | TULARE COUNTY | 0650660860B | 19-NOV-2003 | 03-09-1442A | 02
09 | CA | UKIAH, CITY OF | 0601860001E | 11-SEP-2003 | 03-09-0317P | 06
09 | CA | UNION CITY, CITY OF | 0600140010C | 26-SEP-2003 | 03-09-1589A | 01
09 | CA | VACAVILLE, CITY OF | 0603730014C | 17-OCT-2003 | 03-09-1488A | 02
09 | CA | VACAVILLE, CITY OF | 0603730012C | 24-SEP-2003 | 03-09-1557A | 02
09 | CA | VACAVILLE, CITY OF | 0603730011C | 21-NOV-2003 | 04-09-0098A | 02
09 | CA | VACAVILLE, CITY OF | 0603730014C | 23-DEC-2003 | 04-09-0316A | 02
09 | CA | VENTURA COUNTY | 0604130620B | 07-NOV-2003 | 02-09-927P | 05
09 | CA | VENTURA COUNTY | 0604130640B | 07-NOV-2003 | 02-09-927P | 05
09 | CA | VENTURA COUNTY | 0604130645B | 24-JUL-2003 | 03-09-1033A | 01
09 | CA | VENTURA COUNTY | 0604130765B | 19-NOV-2003 | 03-09-1289A | 02
09 | CA | VENTURA COUNTY | 0604130940B | 27-AUG-2003 | 03-09-1400A | 02
09 | CA | VISALIA, CITY OF | 0650660650C | 22-AUG-2003 | 03-09-1132A | 01
09 | CA | VISALIA, CITY OF | 0604090010C | 15-OCT-2003 | 03-09-1505A | 01
09 | CA | VISALIA, CITY OF | 0650660650C | 03-SEP-2003 | 03-09-1580X | 01
09 | CA | VISALIA, CITY OF | 0604090010C | 15-OCT-2003 | 03-09-1601A | 01
09 | CA | VISALIA, CITY OF | 0604090010C | 30-DEC-2003 | 04-09-0235A | 01
09 | CA | VISALIA, CITY OF | 0604090010C | 03-DEC-2003 | 04-09-0272A | 01
09 | CA | WATSONVILLE, CITY OF | 0603530415B | 14-AUG-2003 | 03-09-0475P | 05
09 | CA | WATSONVILLE, CITY OF | 0603570004C | 27-AUG-2003 | 03-09-1407A | 01
09 | CA | WESTMINSTER, CITY OF | 06059C0027F | 23-DEC-2003 | 04-09-0302A | 02
09 | CA | WILLOWS, CITY OF | 0600590001C | 12-NOV-2003 | 03-09-0974A | 01
09 | CA | WINDSOR, TOWN OF | 0603750545B | 20-AUG-2003 | 03-09-1390A | 02
09 | CA | WINDSOR, TOWN OF | 0603750540B | 08-OCT-2003 | 03-09-1541A | 02
09 | CA | WOODLAND, CITY OF | 0604260410C | 09-JUL-2003 | 02-09-1469P | 05
09 | CA | WOODLAND, CITY OF | 0604260420C | 09-JUL-2003 | 02-09-1469P | 05
09 | CA | WOODLAND, CITY OF | 0604260430C | 09-JUL-2003 | 02-09-1469P | 05
09 | CA | WOODLAND, CITY OF | 0604260440C | 09-JUL-2003 | 02-09-1469P | 05
09 | CA | WOODLAND, CITY OF | 0604230405D | 22-AUG-2003 | 03-09-1042A | 02
09 | CA | WOODLAND, CITY OF | 0604230440F | 05-SEP-2003 | 03-09-1543A | 02
09 | CA | WOODLAND, CITY OF | 0604260440C | 21-NOV-2003 | 03-09-1615A | 02
09 | CA | WOODLAND, CITY OF | 0604260440C | 29-OCT-2003 | 03-09-1681A | 02
09 | CA | WOODLAND, CITY OF | 0604260440C | 21-NOV-2003 | 04-09-0049A | 02
09 | CA | WOODLAND, CITY OF | 0604260440C | 21-NOV-2003 | 04-09-0120A | 02
09 | CA | WOODLAND, CITY OF | 0604230410D | 25-NOV-2003 | 04-09-0231A | 01
09 | CA | WOODLAND, CITY OF | 0604260410C | 03-DEC-2003 | 04-09-0283X | 01
09 | CA | WOODSIDE, TOWN OF | 0603300010B | 21-NOV-2003 | 03-09-1487A | 02
09 | CA | YOLO COUNTY | 0604230410D | 09-JUL-2003 | 02-09-1469P | 05
09 | CA | YOLO COUNTY | 0604230420D | 09-JUL-2003 | 02-09-1469P | 05
09 | CA | YOLO COUNTY | 0604230430F | 09-JUL-2003 | 02-09-1469P | 05
09 | CA | YOLO COUNTY | 0604230440F | 09-JUL-2003 | 02-09-1469P | 05
09 | CA | YOLO COUNTY | 0604230630C | 03-SEP-2003 | 03-09-1425A | 01
09 | CA | YOLO COUNTY | 0604230585D | 31-OCT-2003 | 03-09-1692A | 01
09 | CA | YREKA, CITY OF | 0603670003B | 13-AUG-2003 | 03-09-1160A | 02
09 | CA | YUCAIPA, CITY OF | 06071C8740F | 02-SEP-2003 | 03-09-0821P | 05
09 | CA | YUCAIPA, CITY OF | 06071C8745F | 02-SEP-2003 | 03-09-0821P | 05
09 | CA | YUCAIPA, CITY OF | 06071C8740F | 25-JUL-2003 | 03-09-1140A | 02
09 | HI | HAWAII COUNTY | 1551660880C | 16-OCT-2003 | 02-09-368P | 05
09 | HI | HAWAII COUNTY | 1551660890C | 16-OCT-2003 | 02-09-368P | 05
09 | HI | HAWAII COUNTY | 1551660890C | 15-JUL-2003 | 03-09-0853P | 05
09 | HI | HAWAII COUNTY | 1551660164D | 07-NOV-2003 | 03-09-1346A | 01
09 | HI | HONOLULU , CITY AND COUNTY OF | 15003C0270E | 07-JUL-2003 | 03-09-0970A | 02
09 | HI | HONOLULU , CITY AND COUNTY OF | 15003C0155E | 25-NOV-2003 | 04-09-0031A | 02
09 | HI | MAUI COUNTY | 1500030265C | 29-OCT-2003 | 03-09-1321A | 02
09 | HI | MAUI COUNTY | 1500030265C | 30-DEC-2003 | 04-09-0335A | 02
09 | NV | CLARK COUNTY | 32003C2568D | 24-JUL-2003 | 02-09-1022R | 08
09 | NV | CLARK COUNTY | 32003C2195E | 31-JUL-2003 | 02-09-1071P | 05
09 | NV | CLARK COUNTY | 32003C2585E | 31-JUL-2003 | 02-09-1071P | 05
09 | NV | CLARK COUNTY | 32003C2195E | 08-SEP-2003 | 02-09-287P | 06
09 | NV | CLARK COUNTY | 32003C2620E | 06-NOV-2003 | 03-09-0270P | 06
09 | NV | CLARK COUNTY | 32003C2955E | 06-NOV-2003 | 03-09-0270P | 06
09 | NV | CLARK COUNTY | 32003C2562E | 25-SEP-2003 | 03-09-0763P | 06
09 | NV | CLARK COUNTY | 32003C2562E | 13-AUG-2003 | 03-09-0980X | 05
09 | NV | CLARK COUNTY | 32003C2566E | 13-AUG-2003 | 03-09-0980X | 05
09 | NV | CLARK COUNTY | 32003C2567E | 13-AUG-2003 | 03-09-0980X | 05
09 | NV | CLARK COUNTY | 32003C2568E | 13-AUG-2003 | 03-09-0980X | 05
09 | NV | CLARK COUNTY | 32003C2569E | 13-AUG-2003 | 03-09-0980X | 05
09 | NV | CLARK COUNTY | 32003C2580E | 13-AUG-2003 | 03-09-0980X | 05
09 | NV | CLARK COUNTY | 32003C2583E | 13-AUG-2003 | 03-09-0980X | 05
09 | NV | CLARK COUNTY | 32003C2585E | 13-AUG-2003 | 03-09-0980X | 05
09 | NV | CLARK COUNTY | 32003C2590E | 13-AUG-2003 | 03-09-0980X | 05
09 | NV | CLARK COUNTY | 32003C2910E | 13-AUG-2003 | 03-09-0980X | 05
09 | NV | CLARK COUNTY | 32003C1105E | 26-SEP-2003 | 03-09-1175A | 01
09 | NV | CLARK COUNTY | 32003C2580E | 02-JUL-2003 | 03-09-1195A | 02
09 | NV | CLARK COUNTY | 32003C2580E | 05-AUG-2003 | 03-09-1230A | 02
09 | NV | CLARK COUNTY | 32003C2180E | 27-AUG-2003 | 03-09-1470A | 02
09 | NV | CLARK COUNTY | 32003C2585E | 02-SEP-2003 | 03-09-1568A | 02
09 | NV | CLARK COUNTY | 32003C2585E | 11-SEP-2003 | 03-09-1569P | 05
09 | NV | CLARK COUNTY | 32003C2910E | 17-DEC-2003 | 04-09-0051A | 02
09 | NV | CLARK COUNTY | 32003C2562E | 08-DEC-2003 | 04-09-0124P | 06
09 | NV | HENDERSON, CITY OF | 32003C2615E | 06-NOV-2003 | 02-09-605P | 06
09 | NV | HENDERSON, CITY OF | 32003C2605E | 06-NOV-2003 | 03-09-0270P | 05
09 | NV | HENDERSON, CITY OF | 32003C2615E | 06-NOV-2003 | 03-09-0270P | 05
09 | NV | HENDERSON, CITY OF | 32003C2620E | 06-NOV-2003 | 03-09-0270P | 05
09 | NV | HENDERSON, CITY OF | 32003C2955E | 06-NOV-2003 | 03-09-0270P | 05
09 | NV | HENDERSON, CITY OF | 32003C2580E | 13-AUG-2003 | 03-09-0980X | 05
09 | NV | HENDERSON, CITY OF | 32003C2590E | 13-AUG-2003 | 03-09-0980X | 05
09 | NV | HENDERSON, CITY OF | 32003C2590E | 16-JUL-2003 | 03-09-0992A | 02
09 | NV | HENDERSON, CITY OF | 32003C2615E | 02-JUL-2003 | 03-09-1120A | 01
09 | NV | HENDERSON, CITY OF | 32003C2930E | 31-JUL-2003 | 03-09-1161P | 06
09 | NV | HENDERSON, CITY OF | 32003C2610E | 06-AUG-2003 | 03-09-1320A | 01
09 | NV | HENDERSON, CITY OF | 32003C2615E | 06-NOV-2003 | 03-09-1436P | 06
09 | NV | HENDERSON, CITY OF | 32003C2930E | 11-SEP-2003 | 03-09-1495X | 06
09 | NV | HENDERSON, CITY OF | 32003C2605E | 25-NOV-2003 | 03-09-1662A | 01
09 | NV | HENDERSON, CITY OF | 32003C2610E | 25-NOV-2003 | 03-09-1662A | 01
09 | NV | HENDERSON, CITY OF | 32003C2580E | 21-NOV-2003 | 04-09-0001A | 02
09 | NV | LAS VEGAS, CITY OF | 32003C2145E | 18-AUG-2003 | 03-09-0687P | 06
09 | NV | LAS VEGAS, CITY OF | 32003C2155E | 07-JUL-2003 | 03-09-1150A | 02
09 | NV | LAS VEGAS, CITY OF | 32003C2135E | 31-DEC-2003 | 04-09-0178P | 06
09 | NV | LAS VEGAS, CITY OF | 32003C2155E | 31-DEC-2003 | 04-09-0178P | 06
09 | NV | LYON COUNTY | 3200290055C | 10-SEP-2003 | 03-09-1420A | 02
09 | NV | NORTH LAS VEGAS, CITY OF | 32003C2176E | 13-AUG-2003 | 03-09-0913A | 02
09 | NV | NORTH LAS VEGAS, CITY OF | 32003C2160E | 07-JUL-2003 | 03-09-0996A | 02
09 | NV | NORTH LAS VEGAS, CITY OF | 32003C2160E | 11-DEC-2003 | 03-09-1664P | 06
09 | NV | NORTH LAS VEGAS, CITY OF | 32003C2176E | 11-DEC-2003 | 03-09-1664P | 06
09 | NV | NORTH LAS VEGAS, CITY OF | 32003C2178E | 11-DEC-2003 | 03-09-1664P | 06
09 | NV | RENO, CITY OF | 32031C2825E | 01-OCT-2003 | 03-09-1380A | 02
09 | NV | RENO, CITY OF | 32031C3186E | 21-NOV-2003 | 03-09-1680A | 01
09 | NV | SPARKS, CITY OF | 32031C3003E | 29-OCT-2003 | 03-09-1600A | 02
09 | NV | WASHOE COUNTY | 32031C2825E | 09-JUL-2003 | 03-09-1199A | 02
09 | NV | WASHOE COUNTY | 32031C3158E | 31-OCT-2003 | 03-09-1302A | 02
09 | NV | WASHOE COUNTY | 32031C3225E | 08-OCT-2003 | 03-09-1446A | 02
10 | AK | ANCHORAGE, MUNICIPALITY OF | 0200050243C | 14-JUL-2003 | 03-10-0473A | 02
10 | AK | ANCHORAGE, MUNICIPALITY OF | 0200050230B | 27-AUG-2003 | 03-10-0594A | 02
10 | AK | ANCHORAGE, MUNICIPALITY OF | 0200050240C | 10-OCT-2003 | 03-10-0697A | 02
10 | AK | ANCHORAGE, MUNICIPALITY OF | 0200050243C | 10-OCT-2003 | 03-10-0713A | 02
10 | AK | ANCHORAGE, MUNICIPALITY OF | 0200050105B | 08-OCT-2003 | 03-10-0841A | 02
10 | AK | ANCHORAGE, MUNICIPALITY OF | 0200050243C | 10-OCT-2003 | 03-10-0842A | 02
10 | AK | ANCHORAGE, MUNICIPALITY OF | 0200050240C | 10-OCT-2003 | 03-10-0843A | 02
10 | AK | ANCHORAGE, MUNICIPALITY OF | 0200050243C | 05-DEC-2003 | 04-10-0125A | 02
10 | AK | FAIRBANKS-NORTH STAR BOROUGH | 0250090181G | 24-JUL-2003 | 03-10-0551A | 02
10 | AK | FAIRBANKS-NORTH STAR BOROUGH | 0250090181G | 13-AUG-2003 | 03-10-0696A | 02
10 | AK | JUNEAU, CITY AND BOROUGH OF | 0200090885B | 05-DEC-2003 | 03-10-0681A | 02
10 | AK | JUNEAU, CITY AND BOROUGH OF | 0200090885B | 01-OCT-2003 | 03-10-0798A | 02
10 | AK | MATANUSKA-SUSITNA, BOROUGH OF | 0200219740D | 10-SEP-2003 | 03-10-0783A | 02
10 | ID | ADA COUNTY | 16001C0140H | 02-SEP-2003 | 03-10-0607A | 01
10 | ID | ADA COUNTY | 16001C0291H | 03-NOV-2003 | 03-10-0614P | 06
10 | ID | ADA COUNTY | 16001C0295H | 03-NOV-2003 | 03-10-0614P | 06
10 | ID | ADA COUNTY | 16001C0254H | 07-JUL-2003 | 03-10-0629A | 01
10 | ID | ADA COUNTY | 16001C0250J | 06-OCT-2003 | 03-10-0658A | 02
10 | ID | ADA COUNTY | 16001C0140H | 31-JUL-2003 | 03-10-0753X | 17
10 | ID | ADA COUNTY | 16001C0258H | 20-AUG-2003 | 03-10-0762A | 02
10 | ID | ADA COUNTY | 16001C0250J | 06-OCT-2003 | 03-10-0776A | 02
10 | ID | ADA COUNTY | 16001C0143H | 27-AUG-2003 | 03-10-0815X | 01
10 | ID | ADA COUNTY | 16001C0254H | 27-OCT-2003 | 03-10-0852A | 02
10 | ID | ADA COUNTY | 16001C0254H | 08-OCT-2003 | 03-10-0855A | 01
10 | ID | ADA COUNTY | 16001C0258H | 30-DEC-2003 | 04-10-0145A | 02
10 | ID | BINGHAM COUNTY | 1600180425B | 27-OCT-2003 | 03-10-0688A | 02
10 | ID | BINGHAM COUNTY | 1600180425B | 22-OCT-2003 | 03-10-0878A | 02
10 | ID | BOISE, CITY OF | 16001C0291H | 03-NOV-2003 | 03-10-0614P | 06
10 | ID | BOISE, CITY OF | 16001C0295H | 03-NOV-2003 | 03-10-0614P | 06
10 | ID | BONNER COUNTY | 1602060210B | 20-AUG-2003 | 03-10-0655A | 02
10 | ID | BONNER COUNTY | 1602060355D | 13-AUG-2003 | 03-10-0707A | 02
10 | ID | BONNER COUNTY | 1602060355D | 20-AUG-2003 | 03-10-0745A | 02
10 | ID | BONNER COUNTY | 1602060170B | 08-OCT-2003 | 03-10-0781A | 02
10 | ID | BONNER COUNTY | 1602060075B | 16-SEP-2003 | 03-10-0791A | 01
10 | ID | BONNER COUNTY | 1602060195B | 23-DEC-2003 | 04-10-0042A | 02
10 | ID | BONNER COUNTY | 1602060325B | 19-DEC-2003 | 04-10-0050A | 02
10 | ID | BONNER COUNTY | 1602060400C | 16-DEC-2003 | 04-10-0062A | 02
10 | ID | BONNEVILLE COUNTY | 1600270235D | 02-JUL-2003 | 03-10-0542A | 02
10 | ID | BONNEVILLE COUNTY | 1600270315C | 05-NOV-2003 | 03-10-0916A | 02
10 | ID | CANYON COUNTY | 1602080209D | 03-JUL-2003 | 02-10-391P | 05
10 | ID | CANYON COUNTY | 1602080217C | 03-JUL-2003 | 02-10-391P | 05
10 | ID | CANYON COUNTY | 1602080228D | 03-JUL-2003 | 02-10-391P | 05
10 | ID | CANYON COUNTY | 1602080236C | 03-JUL-2003 | 02-10-391P | 05
10 | ID | EAGLE, CITY OF | 16001C0154H | 22-OCT-2003 | 03-10-0577A | 17
10 | ID | EAGLE, CITY OF | 16001C0161H | 05-AUG-2003 | 03-10-0615A | 02
10 | ID | EAGLE, CITY OF | 16001C0162H | 05-AUG-2003 | 03-10-0615A | 02
10 | ID | EAGLE, CITY OF | 16001C0153H | 17-SEP-2003 | 03-10-0748A | 02
10 | ID | EAGLE, CITY OF | 16001C0154H | 12-NOV-2003 | 03-10-0823A | 01
10 | ID | FREMONT COUNTY | 1600610125B | 30-DEC-2003 | 03-10-0667A | 02
10 | ID | GARDEN CITY, CITY OF | 16001C0166H | 25-JUL-2003 | 03-10-0535A | 02
10 | ID | GARDEN CITY, CITY OF | 16001C0169H | 02-SEP-2003 | 03-10-0596A | 02
10 | ID | GARDEN CITY, CITY OF | 16001C0169H | 09-JUL-2003 | 03-10-0665A | 02
10 | ID | GARDEN CITY, CITY OF | 16001C0167H | 21-NOV-2003 | 03-10-0768A | 02
10 | ID | GARDEN CITY, CITY OF | 16001C0169H | 02-SEP-2003 | 03-10-0787X | 02
10 | ID | GARDEN CITY, CITY OF | 16001C0169H | 22-SEP-2003 | 03-10-0839A | 02
10 | ID | GARDEN CITY, CITY OF | 16001C0169H | 05-NOV-2003 | 03-10-0877A | 02
10 | ID | GARDEN CITY, CITY OF | 16001C0169H | 27-OCT-2003 | 03-10-0905A | 02
10 | ID | GEM COUNTY | 1601270215A | 04-DEC-2003 | 03-10-0299P | 05
10 | ID | GEM COUNTY | 1601270280A | 04-DEC-2003 | 03-10-0299P | 05
10 | ID | GOODING, CITY OF | 1600640001C | 21-NOV-2003 | 03-10-0888A | 02
10 | ID | HAMER, CITY OF | 16051C0150B | 19-DEC-2003 | 03-10-0726A | 02
10 | ID | JEFFERSON COUNTY | 16051C0359B | 06-OCT-2003 | 03-10-0813A | 02
10 | ID | KOOTENAI COUNTY | 1600760125C | 06-AUG-2003 | 03-10-0529A | 02
10 | ID | KOOTENAI COUNTY | 1600760270C | 02-JUL-2003 | 03-10-0624A | 02
10 | ID | KOOTENAI COUNTY | 1600760190D | 16-SEP-2003 | 03-10-0670A | 02
10 | ID | KOOTENAI COUNTY | 1600760125C | 31-JUL-2003 | 03-10-0672A | 02
10 | ID | KOOTENAI COUNTY | 1600760155C | 10-SEP-2003 | 03-10-0680A | 02
10 | ID | KOOTENAI COUNTY | 1600760155C | 29-OCT-2003 | 03-10-0775A | 02
10 | ID | KOOTENAI COUNTY | 1600760155C | 30-DEC-2003 | 04-10-0139A | 02
10 | ID | KOOTENAI COUNTY | 1600760155C | 30-DEC-2003 | 04-10-0151A | 02
10 | ID | LATAH COUNTY | 1600860400B | 16-SEP-2003 | 03-10-0464A | 02
10 | ID | LATAH COUNTY | 1600860355B | 13-AUG-2003 | 03-10-0685A | 02
10 | ID | LEMHI COUNTY | 1600920665A | 19-DEC-2003 | 03-10-0899A | 02
10 | ID | LEMHI COUNTY | 1600920290B | 29-OCT-2003 | 04-10-0014A | 02
10 | ID | MADISON COUNTY | 16065C0020D | 24-JUL-2003 | 03-10-0565A | 02
10 | ID | MCCALL, CITY OF | 1601750001A | 31-OCT-2003 | 03-10-0890A | 02
10 | ID | MERIDIAN, CITY OF | 16001C0232H | 20-AUG-2003 | 03-10-0727A | 02
10 | ID | MERIDIAN, CITY OF | 16001C0231H | 15-OCT-2003 | 03-10-0814A | 02
10 | ID | MERIDIAN, CITY OF | 16001C0232H | 05-NOV-2003 | 03-10-0906A | 01
10 | ID | MERIDIAN, CITY OF | 16001C0232H | 17-NOV-2003 | 04-10-0019A | 02
10 | ID | MERIDIAN, CITY OF | 16001C0232H | 19-NOV-2003 | 04-10-0038A | 02
10 | ID | MERIDIAN, CITY OF | 16001C0232H | 05-NOV-2003 | 04-10-0056A | 02
10 | ID | MIDDLETON, CITY OF | 1600370001E | 03-JUL-2003 | 02-10-391P | 05
10 | ID | MOSCOW, CITY OF | 1600900002D | 06-OCT-2003 | 03-10-0850A | 02
10 | ID | NAMPA, CITY OF | 1600380002C | 17-NOV-2003 | 03-10-0896A | 02
10 | ID | REXBURG, CITY OF | 16065C0020D | 13-AUG-2003 | 03-10-0710A | 02
10 | ID | SANDPOINT,CITY OF | 1600250001C | 30-DEC-2003 | 04-10-0141A | 02
10 | ID | SHOSHONE, CITY OF | 1600960001C | 31-OCT-2003 | 03-10-0868A | 02
10 | ID | STAR, CITY OF | 16001C0130H | 31-JUL-2003 | 03-10-0659A | 02
10 | ID | STAR, CITY OF | 16001C0140H | 16-JUL-2003 | 03-10-0702X | 17
10 | ID | VALLEY COUNTY | 1602200175A | 19-AUG-2003 | 03-10-0651A | 02
10 | ID | VALLEY COUNTY | 1602200705A | 03-DEC-2003 | 04-10-0068A | 02
10 | ID | VALLEY COUNTY | 1602200475A | 16-DEC-2003 | 04-10-0079A | 02
10 | ID | VALLEY COUNTY | 1602200175A | 25-NOV-2003 | 04-10-0087A | 02
10 | ID | WASHINGTON COUNTY | 1602210405B | 20-AUG-2003 | 03-10-0723A | 02
10 | ID | WEISER,CITY OF | 1601240005B | 16-DEC-2003 | 04-10-0021A | 02
10 | OR | ALBANY, CITY OF | 4101370005F | 10-SEP-2003 | 03-10-0422A | 02
10 | OR | ALBANY, CITY OF | 4101370001F | 19-AUG-2003 | 03-10-0630A | 02
10 | OR | ALBANY, CITY OF | 4101370004F | 03-SEP-2003 | 03-10-0739A | 02
10 | OR | ALBANY, CITY OF | 4101370004F | 03-DEC-2003 | 04-10-0080A | 02
10 | OR | BAKER COUNTY | 41001C0300C | 13-AUG-2003 | 03-10-0541A | 02
10 | OR | BAY CITY, CITY OF | 4101970001B | 06-AUG-2003 | 03-10-0392A | 02
10 | OR | BAY CITY, CITY OF | 4101970001B | 17-DEC-2003 | 04-10-0009A | 02
10 | OR | BEAVERTON, CITY OF | 4102400006C | 23-DEC-2003 | 04-10-0135A | 01
10 | OR | BEND, CITY OF | 41017C0215C | 23-DEC-2003 | 04-10-0124A | 02
10 | OR | BEND, CITY OF | 41017C0215C | 30-DEC-2003 | 04-10-0160A | 02
10 | OR | BENTON COUNTY | 4100080250C | 24-JUL-2003 | 03-10-0578A | 02
10 | OR | BENTON COUNTY | 4100080067C | 22-OCT-2003 | 03-10-0763A | 02
10 | OR | CHILOQUIN, CITY OF | 4101110001B | 10-SEP-2003 | 03-10-0770A | 02
10 | OR | CLACKAMAS COUNTY | 4155880280A | 16-JUL-2003 | 03-10-0634A | 02
10 | OR | CLACKAMAS COUNTY | 4155880020A | 05-SEP-2003 | 03-10-0709A | 02
10 | OR | CLACKAMAS COUNTY | 4155880260A | 08-OCT-2003 | 03-10-0761A | 02
10 | OR | CLACKAMAS COUNTY | 4155880020A | 16-DEC-2003 | 03-10-0873A | 02
10 | OR | CLACKAMAS COUNTY | 4155880020A | 17-NOV-2003 | 04-10-0028A | 02
10 | OR | CLACKAMAS COUNTY | 4155880145A | 05-DEC-2003 | 04-10-0059A | 02
10 | OR | COBURG, CITY OF | 41039C0639F | 22-SEP-2003 | 03-10-0784A | 02
10 | OR | COBURG, CITY OF | 41039C0639A | 05-NOV-2003 | 03-10-0832A | 02
10 | OR | COLUMBIA COUNTY | 41009C0465C | 19-AUG-2003 | 03-10-0645A | 02
10 | OR | COOS BAY, CITY OF | 4100440008B | 24-SEP-2003 | 03-10-0620A | 01
10 | OR | COOS COUNTY | 4100420165B | 16-SEP-2003 | 03-10-0497A | 02
10 | OR | COOS COUNTY | 4100420250B | 06-AUG-2003 | 03-10-0592A | 02
10 | OR | COOS COUNTY | 4100420135B | 14-JUL-2003 | 03-10-0637A | 02
10 | OR | COOS COUNTY | 4100420350B | 19-AUG-2003 | 03-10-0663A | 02
10 | OR | COOS COUNTY | 4100420135B | 02-SEP-2003 | 03-10-0786A | 02
10 | OR | COOS COUNTY | 4100420135B | 17-SEP-2003 | 03-10-0795A | 02
10 | OR | COOS COUNTY | 4100420250B | 29-OCT-2003 | 03-10-0894A | 02
10 | OR | COOS COUNTY | 4100420165B | 12-NOV-2003 | 03-10-0902A | 02
10 | OR | CORVALLIS, CITY OF | 4100090002E | 22-AUG-2003 | 03-10-0661A | 01
10 | OR | CORVALLIS, CITY OF | 4100090002E | 24-JUL-2003 | 03-10-0664A | 02
10 | OR | COTTAGE GROVE, CITY OF | 41039C2087F | 27-AUG-2003 | 03-10-0755A | 02
10 | OR | CRESWELL, CITY OF | 41039C1642F | 22-SEP-2003 | 03-10-0519A | 02
10 | OR | CRESWELL, CITY OF | 41039C1642F | 27-AUG-2003 | 03-10-0611A | 02
10 | OR | CRESWELL, CITY OF | 41039C1642F | 19-DEC-2003 | 04-10-0092A | 01
10 | OR | CURRY COUNTY | 4100520520C | 31-JUL-2003 | 03-10-0509A | 02
10 | OR | CURRY COUNTY | 4100520105C | 08-OCT-2003 | 03-10-0782A | 02
10 | OR | DESCHUTES COUNTY | 41017C0140C | 13-AUG-2003 | 03-10-0703A | 02
10 | OR | DOUGLAS COUNTY | 4100590930A | 06-OCT-2003 | 03-10-0588A | 02
10 | OR | DOUGLAS COUNTY | 4100590930A | 10-OCT-2003 | 03-10-0674A | 02
10 | OR | DOUGLAS COUNTY | 4100590940A | 20-AUG-2003 | 03-10-0754A | 02
10 | OR | DOUGLAS COUNTY | 4100591140B | 22-OCT-2003 | 03-10-0772A | 02
10 | OR | DOUGLAS COUNTY | 4100591175A | 17-DEC-2003 | 03-10-0883A | 02
10 | OR | DOUGLAS COUNTY | 4100590740C | 19-NOV-2003 | 04-10-0012A | 02
10 | OR | DOUGLAS COUNTY | 4100590930A | 05-DEC-2003 | 04-10-0061A | 02
10 | OR | DRAIN, CITY OF | 4100610001B | 02-SEP-2003 | 03-10-0573A | 02
10 | OR | EUGENE, CITY OF | 41039C1104F | 02-JUL-2003 | 03-10-0403A | 02
10 | OR | EUGENE, CITY OF | 41039C1104F | 05-SEP-2003 | 03-10-0543A | 02
10 | OR | EUGENE, CITY OF | 41039C1129F | 17-NOV-2003 | 03-10-0647A | 02
10 | OR | EUGENE, CITY OF | 41039C1136F | 31-JUL-2003 | 03-10-0704A | 02
10 | OR | EUGENE, CITY OF | 41039C1136F | 20-AUG-2003 | 03-10-0716A | 02
10 | OR | EUGENE, CITY OF | 41039C1129F | 20-AUG-2003 | 03-10-0717A | 02
10 | OR | EUGENE, CITY OF | 41039C1126F | 22-AUG-2003 | 03-10-0758A | 02
10 | OR | EUGENE, CITY OF | 41039C1104F | 16-SEP-2003 | 03-10-0820A | 01
10 | OR | EUGENE, CITY OF | 41039C1126F | 02-SEP-2003 | 03-10-0822X | 02
10 | OR | EUGENE, CITY OF | 41039C1116F | 06-OCT-2003 | 03-10-0838A | 01
10 | OR | EUGENE, CITY OF | 41039C1104F | 31-OCT-2003 | 03-10-0889A | 01
10 | OR | EUGENE, CITY OF | 41039C1116F | 03-DEC-2003 | 04-10-0039A | 01
10 | OR | EUGENE, CITY OF | 41039C1136F | 30-DEC-2003 | 04-10-0144A | 02
10 | OR | FAIRVIEW, CITY OF | 4101800001D | 05-AUG-2003 | 03-10-0449A | 01
10 | OR | FAIRVIEW, CITY OF | 4101800001D | 07-JUL-2003 | 03-10-0471A | 02
10 | OR | FAIRVIEW, CITY OF | 4101800001D | 25-NOV-2003 | 04-10-0013A | 02
10 | OR | FLORENCE, CITY OF | 41039C1427F | 24-JUL-2003 | 03-10-0498A | 02
10 | OR | GLADSTONE, CITY OF | 4100170001B | 27-OCT-2003 | 04-10-0025A | 02
10 | OR | HILLSBORO, CITY OF | 4102430003B | 20-AUG-2003 | 03-10-0741A | 02
10 | OR | INDEPENDENCE, CITY OF | 41053C0140C | 16-DEC-2003 | 04-10-0035A | 02
10 | OR | JACKSON COUNTY | 4155890313B | 22-AUG-2003 | 03-10-0617A | 02
10 | OR | JACKSON COUNTY | 4155890407B | 16-DEC-2003 | 03-10-0779A | 02
10 | OR | JACKSON COUNTY | 4155890477C | 25-NOV-2003 | 03-10-0806A | 02
10 | OR | JACKSON COUNTY | 4155890526B | 29-OCT-2003 | 03-10-0851A | 02
10 | OR | JACKSON COUNTY | 4155890314B | 27-OCT-2003 | 03-10-0893A | 02
10 | OR | JACKSON COUNTY | 4155890314B | 12-NOV-2003 | 03-10-0900A | 02
10 | OR | JACKSON COUNTY | 4155890285B | 17-OCT-2003 | 04-10-0003A | 02
10 | OR | JACKSON COUNTY | 4155890412B | 30-DEC-2003 | 04-10-0118A | 02
10 | OR | JACKSON COUNTY | 4155890477C | 16-DEC-2003 | 04-10-0154X | 02
10 | OR | JACKSONVILLE, CITY OF | 4100950001B | 19-DEC-2003 | 03-10-0861A | 02
10 | OR | JOSEPHINE COUNTY | 4155900138B | 02-JUL-2003 | 03-10-0567A | 02
10 | OR | JOSEPHINE COUNTY | 4155900386B | 15-OCT-2003 | 03-10-0807A | 02
10 | OR | JOSEPHINE COUNTY | 4155900207B | 12-NOV-2003 | 03-10-0887A | 02
10 | OR | JOSEPHINE COUNTY | 4155900237D | 23-DEC-2003 | 04-10-0107A | 02
10 | OR | KEIZER, CITY OF | 41047C0194G | 06-OCT-2003 | 03-10-0869A | 02
10 | OR | KEIZER, CITY OF | 41047C0194G | 31-OCT-2003 | 03-10-0913A | 02
10 | OR | KEIZER, CITY OF | 41047C0194G | 16-DEC-2003 | 04-10-0037A | 02
10 | OR | LA GRANDE, CITY OF | 4102600002D | 13-AUG-2003 | 03-10-0524A | 02
10 | OR | LAKE OSWEGO, CITY OF | 4100180002C | 22-OCT-2003 | 03-10-0904A | 02
10 | OR | LAKESIDE, CITY OF | 4102780001B | 19-NOV-2003 | 03-10-0876A | 02
10 | OR | LANE COUNTY | 41039C0945F | 16-JUL-2003 | 03-10-0429A | 02
10 | OR | LANE COUNTY | 41039C1180F | 02-JUL-2003 | 03-10-0511A | 02
10 | OR | LANE COUNTY | 41039C0602F | 18-JUL-2003 | 03-10-0548A | 02
10 | OR | LANE COUNTY | 41039C1126F | 24-JUL-2003 | 03-10-0558A | 02
10 | OR | LANE COUNTY | 41039C1685F | 19-AUG-2003 | 03-10-0582A | 02
10 | OR | LANE COUNTY | 41039C1660F | 02-JUL-2003 | 03-10-0590A | 02
10 | OR | LANE COUNTY | 41039C1660F | 31-JUL-2003 | 03-10-0599A | 02
10 | OR | LANE COUNTY | 41039C0940F | 07-JUL-2003 | 03-10-0613A | 02
10 | OR | LANE COUNTY | 41039C1685F | 06-AUG-2003 | 03-10-0616A | 02
10 | OR | LANE COUNTY | 41039C1685F | 27-AUG-2003 | 03-10-0638A | 02
10 | OR | LANE COUNTY | 41039C0639F | 06-AUG-2003 | 03-10-0662A | 02
10 | OR | LANE COUNTY | 41039C1075F | 26-SEP-2003 | 03-10-0677A | 02
10 | OR | LANE COUNTY | 41039C1180F | 31-JUL-2003 | 03-10-0711A | 02
10 | OR | LANE COUNTY | 41039C1107F | 22-AUG-2003 | 03-10-0721A | 02
10 | OR | LANE COUNTY | 41039C1167F | 07-NOV-2003 | 03-10-0756A | 02
10 | OR | LANE COUNTY | 41039C2400F | 05-SEP-2003 | 03-10-0757A | 02
10 | OR | LANE COUNTY | 41039C1104F | 17-OCT-2003 | 03-10-0840A | 02
10 | OR | LANE COUNTY | 41039C2135F | 10-SEP-2003 | 03-10-0844A | 02
10 | OR | LANE COUNTY | 41039C1690F | 17-OCT-2003 | 03-10-0854A | 02
10 | OR | LANE COUNTY | 41039C1075F | 05-DEC-2003 | 03-10-0886A | 02
10 | OR | LANE COUNTY | 41039C0643F | 07-NOV-2003 | 03-10-0892A | 02
10 | OR | LANE COUNTY | 41039C1107F | 07-NOV-2003 | 03-10-0898A | 02
10 | OR | LANE COUNTY | 41039C0639F | 12-NOV-2003 | 03-10-0912A | 02
10 | OR | LANE COUNTY | 41039C1107F | 17-DEC-2003 | 04-10-0084A | 02
10 | OR | LINCOLN CITY, CITY OF | 4101300001C | 16-JUL-2003 | 03-10-0361A | 02
10 | OR | LINCOLN CITY, CITY OF | 4101300001C | 27-AUG-2003 | 03-10-0587A | 02
10 | OR | LINCOLN CITY, CITY OF | 4101300001C | 20-AUG-2003 | 03-10-0743A | 02
10 | OR | LINCOLN CITY, CITY OF | 4101300001C | 12-NOV-2003 | 03-10-0845A | 02
10 | OR | LINCOLN CITY, CITY OF | 4101300001C | 17-DEC-2003 | 04-10-0116A | 02
10 | OR | LINCOLN COUNTY | 4101290425B | 31-JUL-2003 | 03-10-0493A | 02
10 | OR | LINCOLN COUNTY | 4101290450B | 02-SEP-2003 | 03-10-0686A | 02
10 | OR | LINCOLN COUNTY | 4101290025B | 04-DEC-2003 | 03-10-0846A | 02
10 | OR | LINCOLN COUNTY | 4101290025B | 29-OCT-2003 | 03-10-0859A | 02
10 | OR | LINCOLN COUNTY | 4101290025B | 03-DEC-2003 | 04-10-0010A | 02
10 | OR | LINN COUNTY | 4101360195B | 24-JUL-2003 | 03-10-0583A | 02
10 | OR | LINN COUNTY | 4101360555B | 31-JUL-2003 | 03-10-0669A | 02
10 | OR | LINN COUNTY | 4101360025B | 19-AUG-2003 | 03-10-0687A | 02
10 | OR | LINN COUNTY | 4101360680B | 13-AUG-2003 | 03-10-0691A | 02
10 | OR | LINN COUNTY | 4101360040B | 12-NOV-2003 | 03-10-0884A | 02
10 | OR | LINN COUNTY | 4101360560B | 16-DEC-2003 | 04-10-0002A | 02
10 | OR | LINN COUNTY | 4101360025B | 25-NOV-2003 | 04-10-0007A | 02
10 | OR | MEDFORD, CITY OF | 4100960002C | 02-SEP-2003 | 03-10-0712A | 01
10 | OR | MEDFORD, CITY OF | 4155890416B | 31-JUL-2003 | 03-10-0749A | 02
10 | OR | MULTNOMAH COUNTY | 4101790160B | 10-SEP-2003 | 03-10-0792A | 02
10 | OR | MULTNOMAH COUNTY | 4101790160B | 01-OCT-2003 | 03-10-0891X | 02
10 | OR | MULTNOMAH COUNTY | 4101790215B | 16-DEC-2003 | 04-10-0136A | 02
10 | OR | MULTNOMAH COUNTY | 4101790215B | 30-DEC-2003 | 04-10-0143A | 02
10 | OR | OAKLAND, CITY OF | 4100590550A | 21-NOV-2003 | 03-10-0858A | 02
10 | OR | OAKRIDGE, CITY OF | 41039C2476F | 31-OCT-2003 | 03-10-0863A | 02
10 | OR | PHILOMATH, CITY OF | 4100110001B | 23-DEC-2003 | 04-10-0110A | 02
10 | OR | POLK COUNTY | 41053C0067D | 08-AUG-2003 | 03-10-0544P | 06
10 | OR | POLK COUNTY | 41053C0069E | 08-AUG-2003 | 03-10-0544P | 06
10 | OR | POLK COUNTY | 41053C0150C | 10-SEP-2003 | 03-10-0722A | 01
10 | OR | POLK COUNTY | 41053C0130C | 21-NOV-2003 | 03-10-0788A | 02
10 | OR | POLK COUNTY | 41053C0067D | 16-DEC-2003 | 04-10-0026A | 17
10 | OR | ROCKAWAY, CITY OF | 4102010001C | 08-AUG-2003 | 03-10-0481A | 02
10 | OR | ROCKAWAY, CITY OF | 4102010001C | 22-OCT-2003 | 03-10-0867A | 02
10 | OR | ROSEBURG, CITY OF | 4100670005E | 14-JUL-2003 | 03-10-0612A | 02
10 | OR | ROSEBURG, CITY OF | 4100670005E | 05-SEP-2003 | 03-10-0628A | 02
10 | OR | ROSEBURG, CITY OF | 4100670005E | 07-JUL-2003 | 03-10-0653A | 02
10 | OR | ROSEBURG, CITY OF | 4100670005E | 03-SEP-2003 | 03-10-0829A | 02
10 | OR | ROSEBURG, CITY OF | 4100670005E | 08-OCT-2003 | 03-10-0835A | 02
10 | OR | ROSEBURG, CITY OF | 4100670005E | 30-DEC-2003 | 03-10-0837A | 02
10 | OR | ROSEBURG, CITY OF | 4100670005E | 05-NOV-2003 | 03-10-0903A | 02
10 | OR | ROSEBURG, CITY OF | 4100670005E | 30-DEC-2003 | 04-10-0170A | 02
10 | OR | ROSEBURG, CITY OF | 4100670005E | 30-DEC-2003 | 04-10-0171A | 02
10 | OR | SALEM, CITY OF | 41047C0331G | 08-AUG-2003 | 03-10-0544P | 06
10 | OR | SALEM, CITY OF | 41047C0334H | 13-AUG-2003 | 03-10-0744A | 02
10 | OR | SALEM, CITY OF | 41047C0342H | 22-SEP-2003 | 03-10-0780A | 02
10 | OR | SALEM, CITY OF | 41047C0334H | 02-SEP-2003 | 03-10-0789A | 02
10 | OR | SALEM, CITY OF | 41047C0344H | 27-OCT-2003 | 03-10-0920A | 02
10 | OR | SALEM, CITY OF | 41047C0333H | 19-NOV-2003 | 04-10-0006A | 02
10 | OR | SCAPPOOSE, CITY OF | 41009C0444C | 09-JUL-2003 | 03-10-0646A | 02
10 | OR | SCAPPOOSE, CITY OF | 41009C0444C | 22-OCT-2003 | 03-10-0831A | 02
10 | OR | SODAVILLE, CITY OF | 4101360380B | 07-JUL-2003 | 03-10-0523A | 02
10 | OR | SPRINGFIELD, CITY OF | 41039C1167F | 27-AUG-2003 | 03-10-0785A | 02
10 | OR | TIGARD, CITY OF | 4102760002B | 31-JUL-2003 | 03-10-0515A | 17
10 | OR | TILLAMOOK COUNTY | 4101960305A | 03-DEC-2003 | 04-10-0016A | 02
10 | OR | WALLOWA COUNTY | 41063C0600B | 24-JUL-2003 | 03-10-0250A | 02
10 | OR | WASHINGTON COUNTY | 4102380364C | 09-JUL-2003 | 03-10-0423A | 02
10 | OR | WASHINGTON COUNTY | 4102380313B | 19-AUG-2003 | 03-10-0719A | 02
10 | OR | WASHINGTON COUNTY | 4102380506C | 07-NOV-2003 | 03-10-0767A | 02
10 | OR | WASHINGTON COUNTY | 4102380362B | 31-OCT-2003 | 04-10-0004A | 02
10 | OR | WILSONVILLE, CITY OF | 4100250004C | 16-DEC-2003 | 04-10-0121A | 02
10 | OR | WINSTON, CITY OF | 4155930001D | 05-AUG-2003 | 03-10-0393A | 01
10 | OR | YAMHILL COUNTY | 4102490314C | 24-JUL-2003 | 03-10-0562A | 02
10 | WA | ABERDEEN, CITY OF | 5300580004B | 08-AUG-2003 | 03-10-0546A | 02
10 | WA | ASOTIN, CITY OF | 53003C0077B | 19-NOV-2003 | 03-10-0836A | 02
10 | WA | BAINBRIDGE ISLAND, CITY OF | 5300920310B | 20-AUG-2003 | 03-10-0740A | 02
10 | WA | BATTLE GROUND, CITY OF | 5300250001B | 01-OCT-2003 | 03-10-0803A | 02
10 | WA | BENTON COUNTY | 5302370636D | 29-OCT-2003 | 04-10-0001A | 02
10 | WA | BENTON COUNTY | 5302370636D | 19-DEC-2003 | 04-10-0088A | 02
10 | WA | BLAINE, CITY OF | 5302730005A | 05-NOV-2003 | 03-10-0910A | 02
10 | WA | BOTHELL, CITY OF | 53033C0352G | 16-DEC-2003 | 04-10-0055A | 17
10 | WA | BURLINGTON, CITY OF | 5301510250C | 06-AUG-2003 | 03-10-0692A | 02
10 | WA | BURLINGTON, CITY OF | 5301530001B | 20-AUG-2003 | 03-10-0777A | 02
10 | WA | BURLINGTON, CITY OF | 5301530001B | 17-OCT-2003 | 03-10-0907A | 02
10 | WA | CARNATION, CITY OF | 53033C0419G | 15-OCT-2003 | 03-10-0872A | 02
10 | WA | CENTRALIA, CITY OF | 5301030002B | 17-DEC-2003 | 04-10-0112A | 02
10 | WA | CHEHALIS, CITY OF | 5301040002B | 03-SEP-2003 | 03-10-0812A | 02
10 | WA | CHELAN COUNTY | 5300150600A | 07-NOV-2003 | 03-10-0533A | 02
10 | WA | CHELAN COUNTY | 5300150250B | 08-AUG-2003 | 03-10-0641A | 02
10 | WA | CONCONULLY, TOWN OF | 5301180001B | 22-OCT-2003 | 03-10-0747A | 02
10 | WA | COWLITZ COUNTY | 5300320205E | 22-AUG-2003 | 03-10-0639A | 02
10 | WA | EPHRATA, CITY OF | 5300510001B | 23-DEC-2003 | 03-10-0675A | 02
10 | WA | EPHRATA, CITY OF | 5300510001B | 16-DEC-2003 | 03-10-0810A | 02
10 | WA | FERNDALE, TOWN OF | 5302010005B | 21-NOV-2003 | 04-10-0027A | 02
10 | WA | GRAYS HARBOR COUNTY | 5300570390B | 15-JUL-2003 | 02-10-422P | 08
10 | WA | GRAYS HARBOR COUNTY | 5300570350B | 29-OCT-2003 | 03-10-0811A | 02
10 | WA | GRAYS HARBOR COUNTY | 5300570510B | 01-OCT-2003 | 03-10-0821A | 02
10 | WA | GRAYS HARBOR COUNTY | 5300570350B | 27-OCT-2003 | 03-10-0830A | 02
10 | WA | HOQUIAM, CITY OF | 5300570225B | 10-SEP-2003 | 03-10-0601A | 02
10 | WA | ISLAND COUNTY | 53029C0350D | 13-AUG-2003 | 03-10-0705A | 02
10 | WA | ISLAND COUNTY | 53029C0045D | 17-SEP-2003 | 03-10-0773A | 02
10 | WA | ISLAND COUNTY | 53029C0445D | 19-NOV-2003 | 04-10-0034A | 02
10 | WA | ISLAND COUNTY | 53029C0320D | 16-DEC-2003 | 04-10-0109A | 02
10 | WA | JEFFERSON COUNTY | 5300690170B | 22-SEP-2003 | 03-10-0796A | 02
10 | WA | KING COUNTY | 53033C0744G | 16-SEP-2003 | 03-10-0508A | 02
10 | WA | KING COUNTY | 53033C0687F | 31-JUL-2003 | 03-10-0549A | 02
10 | WA | KING COUNTY | 53033C0981F | 02-JUL-2003 | 03-10-0576A | 02
10 | WA | KING COUNTY | 53033C1290F | 19-AUG-2003 | 03-10-0640A | 02
10 | WA | KING COUNTY | 53033C0685F | 13-AUG-2003 | 03-10-0682A | 02
10 | WA | KING COUNTY | 53033C0950F | 26-SEP-2003 | 03-10-0799A | 02
10 | WA | KING COUNTY | 53033C0744G | 24-SEP-2003 | 03-10-0897X | 01
10 | WA | KING COUNTY | 53033C1225F | 17-NOV-2003 | 04-10-0024A | 02
10 | WA | KING COUNTY | 53033C0709G | 30-DEC-2003 | 04-10-0073A | 02
10 | WA | KING COUNTY | 53033C1076H | 19-DEC-2003 | 04-10-0138A | 02
10 | WA | KING COUNTY | 53033C0680F | 16-DEC-2003 | 04-10-0149A | 02
10 | WA | KITSAP COUNTY | 5300920305B | 16-JUL-2003 | 03-10-0636A | 02
10 | WA | KITSAP COUNTY | 5300920305B | 24-JUL-2003 | 03-10-0742X | 02
10 | WA | KITSAP COUNTY | 5300920380B | 17-SEP-2003 | 03-10-0790A | 02
10 | WA | KITSAP COUNTY | 5300920295B | 25-NOV-2003 | 04-10-0053A | 02
10 | WA | KITSAP COUNTY | 5300920315B | 25-NOV-2003 | 04-10-0053A | 02
10 | WA | KITTITAS COUNTY | 5300950125B | 27-AUG-2003 | 03-10-0693A | 02
10 | WA | KITTITAS COUNTY | 5300950439B | 23-DEC-2003 | 04-10-0076A | 02
10 | WA | KLICKITAT COUNTY | 5300990025B | 29-OCT-2003 | 03-10-0679A | 02
10 | WA | LAKE STEVENS, CITY OF | 53061C0743E | 17-DEC-2003 | 04-10-0008A | 02
10 | WA | LEWIS COUNTY | 5301020460B | 05-SEP-2003 | 03-10-0581A | 02
10 | WA | LEWIS COUNTY | 5301020455B | 02-JUL-2003 | 03-10-0584A | 02
10 | WA | LEWIS COUNTY | 5301020270B | 19-AUG-2003 | 03-10-0648A | 02
10 | WA | LEWIS COUNTY | 5301020042B | 16-SEP-2003 | 03-10-0694A | 02
10 | WA | LEWIS COUNTY | 5301020205B | 22-SEP-2003 | 03-10-0794A | 02
10 | WA | LEWIS COUNTY | 5301020370B | 17-NOV-2003 | 03-10-0800A | 02
10 | WA | LEWIS COUNTY | 5301020555B | 16-DEC-2003 | 04-10-0054A | 02
10 | WA | LEWIS COUNTY | 5301020465B | 30-DEC-2003 | 04-10-0113A | 02
10 | WA | MASON COUNTY | 5301150110C | 19-AUG-2003 | 03-10-0649A | 02
10 | WA | MOUNT VERNON, CITY OF | 5301580001B | 05-NOV-2003 | 03-10-0856A | 01
10 | WA | OAK HARBOR, CITY OF | 53029C0120D | 12-NOV-2003 | 04-10-0085A | 02
10 | WA | OKANOGAN COUNTY | 5301170675D | 06-AUG-2003 | 03-10-0690A | 02
10 | WA | OLYMPIA, CITY OF | 5301910002B | 26-DEC-2003 | 03-10-0337P | 05
10 | WA | OLYMPIA, CITY OF | 5301910004B | 26-DEC-2003 | 03-10-0337P | 05
10 | WA | OLYMPIA, CITY OF | 5301910006B | 26-DEC-2003 | 03-10-0337P | 05
10 | WA | OLYMPIA, CITY OF | 5301910007B | 18-JUL-2003 | 03-10-0597A | 02
10 | WA | OLYMPIA, CITY OF | 5301910002B | 12-NOV-2003 | 03-10-0808A | 02
10 | WA | OLYMPIA, CITY OF | 5301910004B | 23-DEC-2003 | 04-10-0077A | 02
10 | WA | PACIFIC COUNTY | 5301260031B | 20-AUG-2003 | 03-10-0657A | 02
10 | WA | PEND OREILLE COUNTY | 53051C0720C | 17-NOV-2003 | 04-10-0041A | 02
10 | WA | PIERCE COUNTY | 5301380314C | 16-JUL-2003 | 03-10-0447A | 02
10 | WA | PIERCE COUNTY | 5301380375C | 02-JUL-2003 | 03-10-0580A | 02
10 | WA | PIERCE COUNTY | 5301380250C | 13-AUG-2003 | 03-10-0668A | 02
10 | WA | PIERCE COUNTY | 5301380875C | 31-OCT-2003 | 03-10-0771A | 02
10 | WA | PIERCE COUNTY | 5301380075C | 26-SEP-2003 | 03-10-0778A | 02
10 | WA | PIERCE COUNTY | 5301380350D | 15-OCT-2003 | 03-10-0824A | 02
10 | WA | RAYMOND, CITY OF | 5301290005B | 29-OCT-2003 | 04-10-0011A | 02
10 | WA | RENTON, CITY OF | 53033C1003F | 19-NOV-2003 | 03-10-0797A | 02
10 | WA | RICHLAND, CITY OF | 5355330010E | 19-NOV-2003 | 04-10-0017A | 02
10 | WA | SAN JUAN COUNTY | 5301490004B | 06-AUG-2003 | 03-10-0540A | 02
10 | WA | SEATTLE, CITY OF | 53033C0333F | 25-JUL-2003 | 03-10-0273A | 02
10 | WA | SKAGIT COUNTY | 5301510050C | 31-JUL-2003 | 03-10-0683A | 02
10 | WA | SKAGIT COUNTY | 5301510225C | 24-JUL-2003 | 03-10-0698A | 02
10 | WA | SKAGIT COUNTY | 5301510450C | 05-NOV-2003 | 03-10-0862A | 02
10 | WA | SKAGIT COUNTY | 5301510225C | 25-NOV-2003 | 04-10-0045A | 02
10 | WA | SKAGIT COUNTY | 5301510225C | 03-DEC-2003 | 04-10-0065A | 02
10 | WA | SKAGIT COUNTY | 5301510425C | 16-DEC-2003 | 04-10-0099A | 02
10 | WA | SKAGIT COUNTY | 5301510050C | 30-DEC-2003 | 04-10-0122A | 02
10 | WA | SNOHOMISH COUNTY | 53061C1310E | 16-JUL-2003 | 03-10-0409A | 02
10 | WA | SNOHOMISH COUNTY | 53061C1360E | 02-JUL-2003 | 03-10-0566A | 02
10 | WA | SNOHOMISH COUNTY | 53061C0115E | 27-OCT-2003 | 03-10-0871A | 02
10 | WA | SNOHOMISH COUNTY | 53061C0739E | 29-OCT-2003 | 03-10-0915A | 02
10 | WA | SNOHOMISH COUNTY | 53061C1055E | 29-OCT-2003 | 03-10-0915A | 02
10 | WA | SNOHOMISH COUNTY | 53061C1330E | 31-OCT-2003 | 04-10-0060A | 02
10 | WA | SNOHOMISH COUNTY | 53061C0735E | 23-DEC-2003 | 04-10-0106A | 17
10 | WA | SOUTH CLE ELUM, CITY OF | 5302630001A | 14-JUL-2003 | 03-10-0484A | 02
10 | WA | SPOKANE COUNTY | 5301740085B | 21-NOV-2003 | 03-10-0805A | 02
10 | WA | SULTAN, CITY OF | 53061C1406E | 02-JUL-2003 | 03-10-0608A | 02
10 | WA | SULTAN, CITY OF | 53061C1406E | 14-JUL-2003 | 03-10-0695A | 02
10 | WA | SULTAN, CITY OF | 53061C1402E | 22-OCT-2003 | 03-10-0880A | 02
10 | WA | SULTAN, CITY OF | 53061C1406E | 21-NOV-2003 | 04-10-0063A | 01
10 | WA | THURSTON COUNTY | 5301880168C | 26-DEC-2003 | 03-10-0337P | 05
10 | WA | THURSTON COUNTY | 5301880169C | 26-DEC-2003 | 03-10-0337P | 05
10 | WA | THURSTON COUNTY | 5301880195C | 02-JUL-2003 | 03-10-0603A | 02
10 | WA | THURSTON COUNTY | 5301880270C | 20-AUG-2003 | 03-10-0656A | 02
10 | WA | THURSTON COUNTY | 5301880075C | 27-OCT-2003 | 03-10-0919A | 02
10 | WA | THURSTON COUNTY | 5301880435C | 30-DEC-2003 | 04-10-0105A | 02
10 | WA | TUMWATER, CITY OF | 5301920001C | 26-DEC-2003 | 03-10-0337P | 05
10 | WA | TUMWATER, CITY OF | 5301920002C | 26-DEC-2003 | 03-10-0337P | 05
10 | WA | WESTPORT, CITY OF | 5300670005C | 15-JUL-2003 | 02-10-422P | 08
10 | WA | WHATCOM COUNTY | 530198—15B | 20-AUG-2003 | 03-10-0632A | 02
10 | WA | WHATCOM COUNTY | 5301980068B | 13-AUG-2003 | 03-10-0751A | 02
10 | WA | WHATCOM COUNTY | 5301980068B | 13-AUG-2003 | 03-10-0765A | 02
10 | WA | WHATCOM COUNTY | 5301980068B | 15-OCT-2003 | 03-10-0769A | 02
10 | WA | WHATCOM COUNTY | 530198—32B | 08-OCT-2003 | 03-10-0834A | 02
10 | WA | WHATCOM COUNTY | 5301980068B | 15-OCT-2003 | 03-10-0882A | 02
10 | WA | YAKIMA COUNTY | 5302170690B | 22-AUG-2003 | 03-10-0330A | 02
10 | WA | YAKIMA COUNTY | 5302171070C | 08-OCT-2003 | 03-10-0819A | 02
10 | WA | YAKIMA COUNTY | 5302170990B | 30-DEC-2003 | 04-10-0126A | 02

Region | State | Community | Panel | Panel date
01 | ME | BEALS, TOWN OF | 2301330001C | 02-JUL-2003
01 | ME | BEALS, TOWN OF | 2301330002C | 02-JUL-2003
01 | ME | BEALS, TOWN OF | 2301330003C | 02-JUL-2003
01 | ME | BEALS, TOWN OF | 2301330004C | 02-JUL-2003
01 | ME | BEALS, TOWN OF | 2301330005C | 02-JUL-2003
01 | ME | BEALS, TOWN OF | 2301330006C | 02-JUL-2003
01 | ME | BEALS, TOWN OF | 2301330007C | 02-JUL-2003
01 | ME | BEALS, TOWN OF | 2301330009C | 02-JUL-2003
01 | ME | BEALS, TOWN OF | 2301330010C | 02-JUL-2003
01 | ME | BEALS, TOWN OF | 230133IND0A | 02-JUL-2003
01 | MA | SCITUATE, TOWN OF | 2502820001E | 16-OCT-2003
01 | MA | SCITUATE, TOWN OF | 2502820002E | 16-OCT-2003
01 | MA | SCITUATE, TOWN OF | 2502820003E | 16-OCT-2003
01 | MA | SCITUATE, TOWN OF | 2502820004E | 16-OCT-2003
01 | MA | SCITUATE, TOWN OF | 2502820005E | 16-OCT-2003
01 | MA | SCITUATE, TOWN OF | 2502820006E | 16-OCT-2003
01 | MA | SCITUATE, TOWN OF | 2502820007E | 16-OCT-2003
01 | MA | SCITUATE, TOWN OF | 250282IND0A | 16-OCT-2003
02 | NJ | ESTELL MANOR, CITY OF | 3405730013C | 02-JUL-2003
02 | NJ | ESTELL MANOR, CITY OF | 3405730015C | 02-JUL-2003
02 | NJ | ESTELL MANOR, CITY OF | 3405730020C | 02-JUL-2003
02 | NJ | ESTELL MANOR, CITY OF | 3405730040C | 02-JUL-2003
02 | NJ | ESTELL MANOR, CITY OF | 3405730051C | 02-JUL-2003
02 | NJ | ESTELL MANOR, CITY OF | 3405730053C | 02-JUL-2003
02 | NJ | ESTELL MANOR, CITY OF | 3405730055C | 02-JUL-2003
02 | NJ | ESTELL MANOR, CITY OF | 3405730060C | 02-JUL-2003
02 | NJ | ESTELL MANOR, CITY OF | 3405730062C | 02-JUL-2003
02 | NJ | ESTELL MANOR, CITY OF | 3405730066C | 02-JUL-2003
02 | NJ | ESTELL MANOR, CITY OF | 3405730080C | 02-JUL-2003
02 | NJ | ESTELL MANOR, CITY OF | 3405730085C | 02-JUL-2003
02 | NJ | ESTELL MANOR, CITY OF | 3405730090C | 02-JUL-2003
02 | NJ | ESTELL MANOR, CITY OF | 3405730095C | 02-JUL-2003
02 | NJ | ESTELL MANOR, CITY OF | 340573IND0A | 02-JUL-2003
02 | NJ | OCEAN, TOWNSHIP OF | 3403190001E | 02-JUL-2003
02 | NJ | OCEAN, TOWNSHIP OF | 3403190002E | 02-JUL-2003
02 | NJ | OCEAN, TOWNSHIP OF | 3403190003E | 02-JUL-2003
02 | NJ | OCEAN, TOWNSHIP OF | 3403190005E | 02-JUL-2003
02 | NJ | OCEAN, TOWNSHIP OF | 3403190006E | 02-JUL-2003
02 | NJ | OCEAN, TOWNSHIP OF | 340319IND0A | 02-JUL-2003
02 | NY | SARANAC, TOWN OF | 3601710005C | 02-JUL-2003
02 | NY | SARANAC, TOWN OF | 3601710010C | 02-JUL-2003
02 | NY | SARANAC, TOWN OF | 3601710015C | 02-JUL-2003
02 | NY | SARANAC, TOWN OF | 3601710020C | 02-JUL-2003
02 | NY | SARANAC, TOWN OF | 3601710030C | 02-JUL-2003
02 | NY | SARANAC, TOWN OF | 3601710035C | 02-JUL-2003
02 | NY | SARANAC, TOWN OF | 3601710040C | 02-JUL-2003
02 | NY | SARANAC, TOWN OF | 3601710044C | 02-JUL-2003
02 | NY | SARANAC, TOWN OF | 3601710045C | 02-JUL-2003
02 | NY | SARANAC, TOWN OF | 3601710055C | 02-JUL-2003
02 | NY | SARANAC, TOWN OF | 3601710056C | 02-JUL-2003
02 | NY | SARANAC, TOWN OF | 3601710058C | 02-JUL-2003
02 | NY | SARANAC, TOWN OF | 3601710061C | 02-JUL-2003
02 | NY | SARANAC, TOWN OF | 3601710062C | 02-JUL-2003
02 | NY | SARANAC, TOWN OF | 3601710063C | 02-JUL-2003
02 | NY | SARANAC, TOWN OF | 3601710064C | 02-JUL-2003
02 | NY | SARANAC, TOWN OF | 3601710066C | 02-JUL-2003
02 | NY | SARANAC, TOWN OF | 3601710070C | 02-JUL-2003
02 | NY | SARANAC, TOWN OF | 3601710080C | 02-JUL-2003
02 | NY | SARANAC, TOWN OF | 3601710085C | 02-JUL-2003
02 | NY | SARANAC, TOWN OF | 3601710102C | 02-JUL-2003
02 | NY | SARANAC, TOWN OF | 3601710105C | 02-JUL-2003
02 | NY | SARANAC, TOWN OF | 3601710106C | 02-JUL-2003
02 | NY | SARANAC, TOWN OF | 3601710107C | 02-JUL-2003
02 | NY | SARANAC, TOWN OF | 3601710130C | 02-JUL-2003
02 | NY | SARANAC, TOWN OF | 3601710135C | 02-JUL-2003
02 | NY | SARANAC, TOWN OF | 360171IND0A | 02-JUL-2003
03 | PA | ALLENTOWN, CITY OF | 42077C0256E ** | 02-JUL-2003
03 | PA | ALLENTOWN, CITY OF | 42077CIND0A | 02-JUL-2003
03 | PA | BEDMINSTER, TOWNSHIP OF | 42017C0180G** | 03-SEP-2003
03 | PA | BEDMINSTER, TOWNSHIP OF | 42017CIND1A | 03-SEP-2003
03 | PA | BEDMINSTER, TOWNSHIP OF | 42017CIND2A | 03-SEP-2003
03 | PA | BRIDGETON, TOWNSHIP OF | 42017C0087G | 03-SEP-2003
03 | PA | BRIDGETON, TOWNSHIP OF | 42017CIND1A | 03-SEP-2003
03 | PA | BRIDGETON, TOWNSHIP OF | 42017CIND2A | 03-SEP-2003
03 | PA | BUCKINGHAM, TOWNSHIP OF | 42017C0190G** | 03-SEP-2003
03 | PA | BUCKINGHAM, TOWNSHIP OF | 42017CIND1A | 03-SEP-2003
03 | PA | BUCKINGHAM, TOWNSHIP OF | 42017CIND2A | 03-SEP-2003
03 | PA | BUCKS COUNTY* | 42017C0087G | 03-SEP-2003
03 | PA | BUCKS COUNTY* | 42017C0089G | 03-SEP-2003
03 | PA | BUCKS COUNTY* | 42017C0180G | 03-SEP-2003
03 | PA | BUCKS COUNTY* | 42017C0190G | 03-SEP-2003
03 | PA | BUCKS COUNTY* | 42017CIND1A | 03-SEP-2003
03 | PA | BUCKS COUNTY* | 42017CIND2A | 03-SEP-2003
03 | PA | COLLEGE, TOWNSHIP OF | 4202590005D | 16-DEC-2003
03 | PA | COLLEGE, TOWNSHIP OF | 4202590010D | 16-DEC-2003
03 | PA | COLLEGE, TOWNSHIP OF | 4202590015D | 16-DEC-2003
03 | PA | COLLEGE, TOWNSHIP OF | 4202590016D | 16-DEC-2003
03 | PA | COLLEGE, TOWNSHIP OF | 420259IND0A | 16-DEC-2003
03 | PA | FERGUSON, TOWNSHIP OF | 4202600010E | 16-DEC-2003
03 | PA | FERGUSON, TOWNSHIP OF | 4202600015E | 16-DEC-2003
03 | PA | FERGUSON, TOWNSHIP OF | 4202600020E | 16-DEC-2003
03 | PA | FERGUSON, TOWNSHIP OF | 4202600030E | 16-DEC-2003
03 | PA | FERGUSON, TOWNSHIP OF | 4202600035E | 16-DEC-2003
03 | PA | FERGUSON, TOWNSHIP OF | 4202600040E | 16-DEC-2003
03 | PA | FERGUSON, TOWNSHIP OF | 4202600045E | 16-DEC-2003
03 | PA | FERGUSON, TOWNSHIP OF | 420260IND0A | 16-DEC-2003
03 | PA | HARRIS, TOWNSHIP OF | 4202620015C | 16-DEC-2003
03 | PA | HARRIS, TOWNSHIP OF | 4202620017C | 16-DEC-2003
03 | PA | HARRIS, TOWNSHIP OF | 4202620020C | 16-DEC-2003
03 | PA | HARRIS, TOWNSHIP OF | 4202620040C | 16-DEC-2003
03 | PA | HARRIS, TOWNSHIP OF | 420262IND0A | 16-DEC-2003
03 | PA | LEHIGH COUNTY | 42077C0256E ** | 02-JUL-2003
03 | PA | LEHIGH COUNTY | 42077CIND0A | 02-JUL-2003
03 | PA | PLUMSTEAD, TOWNSHIP OF | 42017C0180G** | 03-SEP-2003
03 | PA | PLUMSTEAD, TOWNSHIP OF | 42017C0190G** | 03-SEP-2003
03 | PA | PLUMSTEAD, TOWNSHIP OF | 42017CIND1A | 03-SEP-2003
03 | PA | PLUMSTEAD, TOWNSHIP OF | 42017CIND2A | 03-SEP-2003
03 | PA | SALISBURY, TOWNSHIP OF | 42077C0256E | 02-JUL-2003
03 | PA | SALISBURY, TOWNSHIP OF | 42077CIND0A | 02-JUL-2003
03 | PA | SOLEBURY, TOWNSHIP OF | 42017C0190G** | 03-SEP-2003
03 | PA | SOLEBURY, TOWNSHIP OF | 42017CIND1A | 03-SEP-2003
03 | PA | SOLEBURY, TOWNSHIP OF | 42017CIND2A | 03-SEP-2003
03 | PA | TINICUM, TOWNSHIP OF | 42017C0087G | 03-SEP-2003
03 | PA | TINICUM, TOWNSHIP OF | 42017C0089G | 03-SEP-2003
03 | PA | TINICUM, TOWNSHIP OF | 42017C0180G | 03-SEP-2003
03 | PA | TINICUM, TOWNSHIP OF | 42017C0190G | 03-SEP-2003
03 | PA | TINICUM, TOWNSHIP OF | 42017CIND1A | 03-SEP-2003
03 | PA | TINICUM, TOWNSHIP OF | 42017CIND2A | 03-SEP-2003
03 | VA | EDINBURG, TOWN OF | 51171C0254C | 16-JUL-2003
03 | VA | EDINBURG, TOWN OF | 51171C0258C | 16-JUL-2003
03 | VA | EDINBURG, TOWN OF | 51171CIND0A | 16-JUL-2003
03 | VA | MOUNT JACKSON, TOWN OF | 51171C0245C | 16-JUL-2003
03 | VA | MOUNT JACKSON, TOWN OF | 51171C0265C | 16-JUL-2003
03 | VA | MOUNT JACKSON, TOWN OF | 51171C0360C | 16-JUL-2003
03 | VA | MOUNT JACKSON, TOWN OF | 51171C0380C | 16-JUL-2003
03 | VA | MOUNT JACKSON, TOWN OF | 51171CIND0A | 16-JUL-2003
03 | VA | NEW MARKET, TOWN OF | 51171C0370C | 16-JUL-2003
03 | VA | NEW MARKET, TOWN OF | 51171CIND0A | 16-JUL-2003
03 | VA | SHENANDOAH COUNTY * | 51171C0025C | 16-JUL-2003
03 | VA | SHENANDOAH COUNTY * | 51171C0050C | 16-JUL-2003
03 | VA | SHENANDOAH COUNTY * | 51171C0075C | 16-JUL-2003
03 | VA | SHENANDOAH COUNTY * | 51171C0125C | 16-JUL-2003
03 | VA | SHENANDOAH COUNTY * | 51171C0143C | 16-JUL-2003
03 | VA | SHENANDOAH COUNTY * | 51171C0144C | 16-JUL-2003
03 | VA | SHENANDOAH COUNTY * | 51171C0150C | 16-JUL-2003
03 | VA | SHENANDOAH COUNTY * | 51171C0154C | 16-JUL-2003
03 | VA | SHENANDOAH COUNTY * | 51171C0155C | 16-JUL-2003
03 | VA | SHENANDOAH COUNTY * | 51171C0158C | 16-JUL-2003
03 | VA | SHENANDOAH COUNTY * | 51171C0160C | 16-JUL-2003
03 | VA | SHENANDOAH COUNTY * | 51171C0163C | 16-JUL-2003
03 | VA | SHENANDOAH COUNTY * | 51171C0165C | 16-JUL-2003
03 | VA | SHENANDOAH COUNTY * | 51171C0170C | 16-JUL-2003
03 | VA | SHENANDOAH COUNTY * | 51171C0180C | 16-JUL-2003
03 | VA | SHENANDOAH COUNTY * | 51171C0200C | 16-JUL-2003
03 | VA | SHENANDOAH COUNTY * | 51171C0225C | 16-JUL-2003
03 | VA | SHENANDOAH COUNTY * | 51171C0245C | 16-JUL-2003
03 | VA | SHENANDOAH COUNTY * | 51171C0250C | 16-JUL-2003
03 | VA | SHENANDOAH COUNTY * | 51171C0254C | 16-JUL-2003
03 | VA | SHENANDOAH COUNTY * | 51171C0255C | 16-JUL-2003
03 | VA | SHENANDOAH COUNTY * | 51171C0258C | 16-JUL-2003
03 | VA | SHENANDOAH COUNTY * | 51171C0260C | 16-JUL-2003
03 | VA | SHENANDOAH COUNTY * | 51171C0265C | 16-JUL-2003
03 | VA | SHENANDOAH COUNTY * | 51171C0270C | 16-JUL-2003
03 | VA | SHENANDOAH COUNTY * | 51171C0280C | 16-JUL-2003
03 | VA | SHENANDOAH COUNTY * | 51171C0300C | 16-JUL-2003
03 | VA | SHENANDOAH COUNTY * | 51171C0350C | 16-JUL-2003
03 | VA | SHENANDOAH COUNTY * | 51171C0355C | 16-JUL-2003
03 | VA | SHENANDOAH COUNTY * | 51171C0360C | 16-JUL-2003
03 | VA | SHENANDOAH COUNTY * | 51171C0365C | 16-JUL-2003
03 | VA | SHENANDOAH COUNTY * | 51171C0370C | 16-JUL-2003
03 | VA | SHENANDOAH COUNTY * | 51171C0380C | 16-JUL-2003
03 | VA | SHENANDOAH COUNTY * | 51171C0385C | 16-JUL-2003
03 | VA | SHENANDOAH COUNTY * | 51171C0450C | 16-JUL-2003
03 | VA | SHENANDOAH COUNTY * | 51171CIND0A | 16-JUL-2003
03 | VA | STRASBURG, TOWN OF | 51171C0075C | 16-JUL-2003
03 | VA | STRASBURG, TOWN OF | 51171C0160C | 16-JUL-2003
03 | VA | STRASBURG, TOWN OF | 51171C0180C | 16-JUL-2003
03 | VA | STRASBURG, TOWN OF | 51171CIND0A | 16-JUL-2003
03 | VA | TOMS BROOK, TOWN OF | 51171C0154C | 16-JUL-2003
03 | VA | TOMS BROOK, TOWN OF | 51171C0158C | 16-JUL-2003
03 | VA | TOMS BROOK, TOWN OF | 51171CIND0A | 16-JUL-2003
03 | VA | WOODSTOCK, TOWN OF | 51171C0143C | 16-JUL-2003
03 | VA | WOODSTOCK, TOWN OF | 51171C0144C | 16-JUL-2003
03 | VA | WOODSTOCK, TOWN OF | 51171C0163C | 16-JUL-2003
03 | VA | WOODSTOCK, TOWN OF | 51171C0260C | 16-JUL-2003
03 | VA | WOODSTOCK, TOWN OF | 51171C0280C | 16-JUL-2003
03 | VA | WOODSTOCK, TOWN OF | 51171CIND0A | 16-JUL-2003
03 | WV | OCEANA, TOWN OF | 5402190001C | 16-JUL-2003
03 | WV | SMITHERS, TOWN OF | 5400330001C | 16-JUL-2003
04 | AL | MONTGOMERY COUNTY * | 01101C0015G | 04-AUG-2003
04 | AL | MONTGOMERY COUNTY * | 01101C0020G | 04-AUG-2003
04 | AL | MONTGOMERY COUNTY * | 01101C0030G | 04-AUG-2003
04 | AL | MONTGOMERY COUNTY * | 01101C0035G | 04-AUG-2003
04 | AL | MONTGOMERY COUNTY * | 01101C0040G | 04-AUG-2003
04 | AL | MONTGOMERY COUNTY * | 01101C0042G | 04-AUG-2003
04 | AL | MONTGOMERY COUNTY * | 01101C0045G | 04-AUG-2003
04 | AL | MONTGOMERY COUNTY * | 01101C0055G | 04-AUG-2003
04 | AL | MONTGOMERY COUNTY * | 01101C0060G | 04-AUG-2003
04 | AL | MONTGOMERY COUNTY * | 01101C0065G | 04-AUG-2003
04 | AL | MONTGOMERY COUNTY * | 01101C0069G | 04-AUG-2003
04 | AL | MONTGOMERY COUNTY * | 01101C0070G | 04-AUG-2003
04 | AL | MONTGOMERY COUNTY * | 01101C0090G | 04-AUG-2003
04 | AL | MONTGOMERY COUNTY * | 01101C0095G | 04-AUG-2003
04 | AL | MONTGOMERY COUNTY * | 01101C0105G | 04-AUG-2003
04 | AL | MONTGOMERY COUNTY * | 01101C0110G | 04-AUG-2003
04 | AL | MONTGOMERY COUNTY * | 01101C0115G | 04-AUG-2003
04 | AL | MONTGOMERY COUNTY * | 01101C0120G | 04-AUG-2003
04 | AL | MONTGOMERY COUNTY * | 01101C0140G | 04-AUG-2003
04 | AL | MONTGOMERY COUNTY * | 01101C0145G | 04-AUG-2003
04 | AL | MONTGOMERY COUNTY * | 01101C0157G | 04-AUG-2003
04 | AL | MONTGOMERY COUNTY * | 01101C0159G | 04-AUG-2003
04 | AL | MONTGOMERY COUNTY * | 01101C0162G | 04-AUG-2003
04 | AL | MONTGOMERY COUNTY * | 01101C0165G | 04-AUG-2003
04 | AL | MONTGOMERY COUNTY * | 01101C0166G | 04-AUG-2003
04 | AL | MONTGOMERY COUNTY * | 01101C0167G | 04-AUG-2003
04 | AL | MONTGOMERY COUNTY * | 01101C0170G | 04-AUG-2003
04 | AL | MONTGOMERY COUNTY * | 01101C0180G | 04-AUG-2003
04 | AL | MONTGOMERY COUNTY * | 01101C0185G | 04-AUG-2003
04 | AL | MONTGOMERY COUNTY * | 01101C0190G | 04-AUG-2003
04 | AL | MONTGOMERY COUNTY * | 01101C0195G | 04-AUG-2003
04 | AL | MONTGOMERY COUNTY * | 01101C0205G | 04-AUG-2003
04 | AL | MONTGOMERY COUNTY * | 01101C0215G | 04-AUG-2003
04 | AL | MONTGOMERY COUNTY * | 01101C0220G | 04-AUG-2003
04 | AL | MONTGOMERY COUNTY * | 01101C0250G | 04-AUG-2003
04 | AL | MONTGOMERY COUNTY * | 01101C0275G | 04-AUG-2003
04 | AL | MONTGOMERY COUNTY * | 01101C0285G | 04-AUG-2003
04 | AL | MONTGOMERY COUNTY * | 01101C0300G | 04-AUG-2003
04 | AL | MONTGOMERY COUNTY * | 01101C0305G | 04-AUG-2003
04 | AL | MONTGOMERY COUNTY * | 01101C0315G | 04-AUG-2003
04 | AL | MONTGOMERY COUNTY * | 01101C0325G | 04-AUG-2003
04 | AL | MONTGOMERY COUNTY * | 01101C0350G | 04-AUG-2003
04 | AL | MONTGOMERY COUNTY * | 01101C0375G | 04-AUG-2003
04 | AL | MONTGOMERY COUNTY * | 01101C0400G | 04-AUG-2003
04 | AL | MONTGOMERY COUNTY * | 01101C0425G | 04-AUG-2003
04 | AL | MONTGOMERY COUNTY * | 01101C0450G | 04-AUG-2003
04 | AL | MONTGOMERY COUNTY * | 01101C0475G | 04-AUG-2003
04 | AL | MONTGOMERY COUNTY * | 01101C0500G | 04-AUG-2003
04 | AL | MONTGOMERY COUNTY * | 01101CIND0A | 04-AUG-2003
04 | AL | MONTGOMERY, CITY OF | 01101C0020G | 04-AUG-2003
04 | AL | MONTGOMERY, CITY OF | 01101C0040G | 04-AUG-2003
04 | AL | MONTGOMERY, CITY OF | 01101C0042G | 04-AUG-2003
04 | AL | MONTGOMERY, CITY OF | 01101C0044G | 04-AUG-2003
04 | AL | MONTGOMERY, CITY OF | 01101C0045G | 04-AUG-2003
04 | AL | MONTGOMERY, CITY OF | 01101C0063G | 04-AUG-2003
04 | AL | MONTGOMERY, CITY OF | 01101C0064G | 04-AUG-2003
04 | AL | MONTGOMERY, CITY OF | 01101C0065G | 04-AUG-2003
04 | AL | MONTGOMERY, CITY OF | 01101C0068G | 04-AUG-2003
04 | AL | MONTGOMERY, CITY OF | 01101C0069G | 04-AUG-2003
04 | AL | MONTGOMERY, CITY OF | 01101C0070G | 04-AUG-2003
04 | AL | MONTGOMERY, CITY OF | 01101C0090G | 04-AUG-2003
04 | AL | MONTGOMERY, CITY OF | 01101C0110G | 04-AUG-2003
04 | AL | MONTGOMERY, CITY OF | 01101C0120G | 04-AUG-2003
04 | AL | MONTGOMERY, CITY OF | 01101C0130G | 04-AUG-2003
04 | AL | MONTGOMERY, CITY OF | 01101C0132G | 04-AUG-2003
04 | AL | MONTGOMERY, CITY OF | 01101C0134G | 04-AUG-2003
04 | AL | MONTGOMERY, CITY OF | 01101C0135G | 04-AUG-2003
04 | AL | MONTGOMERY, CITY OF | 01101C0140G | 04-AUG-2003
04 | AL | MONTGOMERY, CITY OF | 01101C0145G | 04-AUG-2003
04 | AL | MONTGOMERY, CITY OF | 01101C0151G | 04-AUG-2003
04 | AL | MONTGOMERY, CITY OF | 01101C0152G | 04-AUG-2003
04 | AL | MONTGOMERY, CITY OF | 01101C0153G | 04-AUG-2003
04 | AL | MONTGOMERY, CITY OF | 01101C0154G | 04-AUG-2003
04 | AL | MONTGOMERY, CITY OF | 01101C0156G | 04-AUG-2003
04 | AL | MONTGOMERY, CITY OF | 01101C0157G | 04-AUG-2003
04 | AL | MONTGOMERY, CITY OF | 01101C0158G | 04-AUG-2003
04 | AL | MONTGOMERY, CITY OF | 01101C0159G | 04-AUG-2003
04 | AL | MONTGOMERY, CITY OF | 01101C0162G | 04-AUG-2003
04 | AL | MONTGOMERY, CITY OF | 01101C0165G | 04-AUG-2003
04 | AL | MONTGOMERY, CITY OF | 01101C0166G | 04-AUG-2003
04 | AL | MONTGOMERY, CITY OF | 01101C0167G | 04-AUG-2003
04 | AL | MONTGOMERY, CITY OF | 01101C0170G | 04-AUG-2003
04 | AL | MONTGOMERY, CITY OF | 01101C0180G | 04-AUG-2003
04 | AL | MONTGOMERY, CITY OF | 01101C0190G | 04-AUG-2003
04 | AL | MONTGOMERY, CITY OF | 01101CIND0A | 04-AUG-2003
04 | AL | PIKE ROAD, TOWN OF | 01101C0166G | 04-AUG-2003
04 | AL | PIKE ROAD, TOWN OF | 01101C0167G | 04-AUG-2003
04 | AL | PIKE ROAD, TOWN OF | 01101C0170G | 04-AUG-2003
04 | AL | PIKE ROAD, TOWN OF | 01101C0190G | 04-AUG-2003
04 | AL | PIKE ROAD, TOWN OF | 01101C0285G | 04-AUG-2003
04 | AL | PIKE ROAD, TOWN OF | 01101C0305G | 04-AUG-2003
04 | AL | PIKE ROAD, TOWN OF | 01101CIND0A | 04-AUG-2003
04 | FL | AUBURNDALE, CITY OF | 12105CIND0A | 19-NOV-2003
04 | FL | BARTOW, CITY OF | 12105CIND0A | 19-NOV-2003
04 | FL | BELLEAIR BEACH, CITY OF | 12103C0111G | 03-SEP-2003
04 | FL | BELLEAIR BEACH, CITY OF | 12103C0112G | 03-SEP-2003
04 | FL | BELLEAIR BEACH, CITY OF | 12103CIND1A | 03-SEP-2003
04 | FL | BELLEAIR BEACH, CITY OF | 12103CIND2A | 03-SEP-2003
04 | FL | BELLEAIR BLUFFS, CITY OF | 12103C0112G | 03-SEP-2003
04 | FL | BELLEAIR BLUFFS, CITY OF | 12103C0116G | 03-SEP-2003
04 | FL | BELLEAIR BLUFFS, CITY OF | 12103CIND1A | 03-SEP-2003
04 | FL | BELLEAIR BLUFFS, CITY OF | 12103CIND2A | 03-SEP-2003
04 | FL | BELLEAIR SHORE, TOWN OF | 12103C0111G | 03-SEP-2003
04 | FL | BELLEAIR SHORE, TOWN OF | 12103C0112G | 03-SEP-2003
04 | FL | BELLEAIR SHORE, TOWN OF | 12103CIND1A | 03-SEP-2003
04 | FL | BELLEAIR SHORE, TOWN OF | 12103CIND2A | 03-SEP-2003
04 | FL | BELLEAIR, TOWN OF | 12103C0104G | 03-SEP-2003
04 | FL | BELLEAIR, TOWN OF | 12103C0108G | 03-SEP-2003
04 | FL | BELLEAIR, TOWN OF | 12103C0112G | 03-SEP-2003
04 | FL | BELLEAIR, TOWN OF | 12103C0116G | 03-SEP-2003
04 | FL | BELLEAIR, TOWN OF | 12103CIND1A | 03-SEP-2003
04 | FL | BELLEAIR, TOWN OF | 12103CIND2A | 03-SEP-2003
04 | FL | CLEARWATER, CITY OF | 12103C0064G | 03-SEP-2003
04 | FL | CLEARWATER, CITY OF | 12103C0069G | 03-SEP-2003
04 | FL | CLEARWATER, CITY OF | 12103C0086G | 03-SEP-2003
04 | FL | CLEARWATER, CITY OF | 12103C0087G | 03-SEP-2003
04 | FL | CLEARWATER, CITY OF | 12103C0088G | 03-SEP-2003
04 | FL | CLEARWATER, CITY OF | 12103C0089G | 03-SEP-2003
04 | FL | CLEARWATER, CITY OF | 12103C0102G | 03-SEP-2003
04 | FL | CLEARWATER, CITY OF | 12103C0104G | 03-SEP-2003
04 | FL | CLEARWATER, CITY OF | 12103C0106G | 03-SEP-2003
04 | FL | CLEARWATER, CITY OF | 12103C0107G | 03-SEP-2003
04 | FL | CLEARWATER, CITY OF | 12103C0108G | 03-SEP-2003
04 | FL | CLEARWATER, CITY OF | 12103C0109G | 03-SEP-2003
04 | FL | CLEARWATER, CITY OF | 12103C0112G | 03-SEP-2003
04 | FL | CLEARWATER, CITY OF | 12103C0116G | 03-SEP-2003
04 | FL | CLEARWATER, CITY OF | 12103C0117G | 03-SEP-2003
04 | FL | CLEARWATER, CITY OF | 12103C0126G | 03-SEP-2003
04 | FL | CLEARWATER, CITY OF | 12103C0127G | 03-SEP-2003
04 | FL | CLEARWATER, CITY OF | 12103C0128G | 03-SEP-2003
04 | FL | CLEARWATER, CITY OF | 12103C0129G | 03-SEP-2003
04 | FL | CLEARWATER, CITY OF | 12103C0131G | 03-SEP-2003
04 | FL | CLEARWATER, CITY OF | 12103C0133G | 03-SEP-2003
04 | FL | CLEARWATER, CITY OF | 12103C0134G | 03-SEP-2003
04 | FL | CLEARWATER, CITY OF | 12103CIND1A | 03-SEP-2003
04 | FL | CLEARWATER, CITY OF | 12103CIND2A | 03-SEP-2003
04 | FL | COLLIER COUNTY * | 12021CIND0A | 02-OCT-2003
04 | FL | COLLIER COUNTY * | 12021C0100G | 02-OCT-2003
04 | FL | COLLIER COUNTY * | 12021C0125G | 02-OCT-2003
04 | FL | COLLIER COUNTY * | 12021C0150G | 02-OCT-2003
04 | FL | COLLIER COUNTY * | 12021C0178G | 02-OCT-2003
04 | FL | COLLIER COUNTY * | 12021C0179G | 02-OCT-2003
04 | FL | COLLIER COUNTY * | 12021C0185G | 02-OCT-2003
04 | FL | COLLIER COUNTY * | 12021C0187G | 02-OCT-2003
04 | FL | COLLIER COUNTY * | 12021C0189G | 02-OCT-2003
04 | FL | COLLIER COUNTY * | 12021C0191G | 02-OCT-2003
04 | FL | COLLIER COUNTY * | 12021C0193G | 02-OCT-2003
04 | FL | COLLIER COUNTY * | 12021C0195G | 02-OCT-2003
04 | FL | COLLIER COUNTY * | 12021C0215G | 02-OCT-2003
04 | FL | COLLIER COUNTY * | 12021C0225G | 02-OCT-2003
04 | FL | COLLIER COUNTY * | 12021C0250G | 02-OCT-2003
04 | FL | COLLIER COUNTY * | 12021C0275G | 02-OCT-2003
04 | FL | COLLIER COUNTY * | 12021C0377G | 02-OCT-2003
04 | FL | COLLIER COUNTY * | 12021C0379G | 02-OCT-2003
04 | FL | COLLIER COUNTY * | 12021C0381G | 02-OCT-2003
04 | FL | COLLIER COUNTY * | 12021C0383G | 02-OCT-2003
04 | FL | COLLIER COUNTY * | 12021C0385G | 02-OCT-2003
04 | FL | COLLIER COUNTY * | 12021C0387G | 02-OCT-2003
04 | FL | COLLIER COUNTY * | 12021C0391G | 02-OCT-2003
04 | FL | COLLIER COUNTY * | 12021C0392G | 02-OCT-2003
04 | FL | COLLIER COUNTY * | 12021C0393G | 02-OCT-2003
04 | FL | COLLIER COUNTY * | 12021C0394G | 02-OCT-2003
04 | FL | COLLIER COUNTY * | 12021C0415G | 02-OCT-2003
04 | FL | COLLIER COUNTY * | 12021C0425G | 02-OCT-2003
04 | FL | COLLIER COUNTY * | 12021C0450G | 02-OCT-2003
04 | FL | COLLIER COUNTY * | 12021C0581G | 02-OCT-2003
04 | FL | COLLIER COUNTY * | 12021C0582G | 02-OCT-2003
04 | FL | COLLIER COUNTY * | 12021C0583G | 02-OCT-2003
04 | FL | COLLIER COUNTY * | 12021C0584G | 02-OCT-2003
04 | FL | COLLIER COUNTY * | 12021C0595G | 02-OCT-2003
04 | FL | COLLIER COUNTY * | 12021C0601G | 02-OCT-2003
04 | FL | COLLIER COUNTY * | 12021C0603G | 02-OCT-2003
04 | FL | COLLIER COUNTY * | 12021C0605G | 02-OCT-2003
04 | FL | COLLIER COUNTY * | 12021C0610G | 02-OCT-2003
04 | FL | COLLIER COUNTY * | 12021C0615G | 02-OCT-2003
04 | FL | COLLIER COUNTY * | 12021C0620G | 02-OCT-2003
04 | FL | COLLIER COUNTY * | 12021C0650G | 02-OCT-2003
04 | FL | COLLIER COUNTY * | 12021C0675G | 02-OCT-2003
04 | FL | COLLIER COUNTY * | 12021C0785G | 02-OCT-2003
04 | FL | COLLIER COUNTY * | 12021C0801G | 02-OCT-2003
04 | FL | COLLIER COUNTY * | 12021C0802G | 02-OCT-2003
04 | FL | COLLIER COUNTY * | 12021C0803G | 02-OCT-2003
04 | FL | COLLIER COUNTY * | 12021C0804G | 02-OCT-2003
04 | FL | COLLIER COUNTY * | 12021C0811G | 02-OCT-2003
04 | FL | COLLIER COUNTY * | 12021C0812G | 02-OCT-2003
04 | FL | COLLIER COUNTY * | 12021C0817G | 02-OCT-2003
04 | FL | COLLIER COUNTY * | 12021C0825G | 02-OCT-2003
04 | FL | COLLIER COUNTY * | 12021C0850G | 02-OCT-2003
04 | FL | COLLIER COUNTY * | 12021C0875G | 02-OCT-2003
04 | FL | COLLIER COUNTY * | 12021C0900G | 02-OCT-2003
04 | FL | COLLIER COUNTY * | 12021C0925G | 02-OCT-2003
04 | FL | COLLIER COUNTY * | 12021C1000G | 02-OCT-2003
04 | FL | COLLIER COUNTY * | 12021C1025G | 02-OCT-2003
04 | FL | COLLIER COUNTY * | 12021C1035G | 02-OCT-2003
04 | FL | COLLIER COUNTY * | 12021C1050G | 02-OCT-2003
04 | FL | COLLIER COUNTY * | 12021C1055G | 02-OCT-2003
04 | FL | COLLIER COUNTY * | 12021C1075G | 02-OCT-2003
04 | FL | COLLIER COUNTY * | 12021C1100G | 02-OCT-2003
04 | FL | COLLIER COUNTY * | 12021C1125G | 02-OCT-2003
04 | FL | DAVENPORT, CITY OF | 12105CIND0A | 19-NOV-2003
04 | FL | DUNDEE, TOWN OF | 12105C0555G | 19-NOV-2003
04 | FL | DUNDEE, TOWN OF | 12105CIND0A | 19-NOV-2003
04 | FL | DUNEDIN, CITY OF | 12103C0054G | 03-SEP-2003
04 | FL | DUNEDIN, CITY OF | 12103C0058G | 03-SEP-2003
04 | FL | DUNEDIN, CITY OF | 12103C0062G | 03-SEP-2003
04 | FL | DUNEDIN, CITY OF | 12103C0064G | 03-SEP-2003
04 | FL | DUNEDIN, CITY OF | 12103C0066G | 03-SEP-2003
04 | FL | DUNEDIN, CITY OF | 12103C0067G | 03-SEP-2003
04 | FL | DUNEDIN, CITY OF | 12103C0068G | 03-SEP-2003
04 | FL | DUNEDIN, CITY OF | 12103C0069G | 03-SEP-2003
04 | FL | DUNEDIN, CITY OF | 12103C0086G | 03-SEP-2003
04 | FL | DUNEDIN, CITY OF | 12103C0088G | 03-SEP-2003
04 | FL | DUNEDIN, CITY OF | 12103C0102G | 03-SEP-2003
04 | FL | DUNEDIN, CITY OF | 12103C0106G | 03-SEP-2003
04 | FL | DUNEDIN, CITY OF | 12103C0107G | 03-SEP-2003
04 | FL | DUNEDIN, CITY OF | 12103CIND1A | 03-SEP-2003
04 | FL | DUNEDIN, CITY OF | 12103CIND2A | 03-SEP-2003
04 | FL | EAGLE LAKE, CITY OF | 12105CIND0A | 19-NOV-2003
04 | FL | EVERGLADES, CITY OF |  | 02-OCT-2003
04 | FL | EVERGLADES, CITY OF |  | 02-OCT-2003
04 | FL | FORT MEADE, CITY OF | 12105CIND0A | 19-NOV-2003
04 | FL | FROSTPROOF, CITY OF | 12105CIND0A | 19-NOV-2003
04 | FL | GULFPORT, CITY OF | 12103C0213G | 03-SEP-2003
04 | FL | GULFPORT, CITY OF | 12103C0214G | 03-SEP-2003
04 | FL | GULFPORT, CITY OF | 12103C0276G | 03-SEP-2003
04 | FL | GULFPORT, CITY OF | 12103C0277G | 03-SEP-2003
04 | FL | GULFPORT, CITY OF | 12103CIND1A | 03-SEP-2003
04 | FL | GULFPORT, CITY OF | 12103CIND2A | 03-SEP-2003
04 | FL | HAINES CITY, CITY OF | 12105CIND0A | 19-NOV-2003
04 | FL | HASTINGS, TOWN OF | 12109C0432G | 03-SEP-2003
04 | FL | HASTINGS, TOWN OF | 12109C0434G | 03-SEP-2003
04 | FL | HASTINGS, TOWN OF | 12109CIND1A | 03-SEP-2003
04 | FL | HASTINGS, TOWN OF | 12109CIND2A | 03-SEP-2003
04 | FL | HILLCREST HEIGHTS, TOWN OF | 12105CIND0A | 19-NOV-2003
04 | FL | HILLIARD, TOWN OF | 1205730001B | 01-OCT-2003
04 | FL | INDIAN ROCKS BEACH, CITY OF | 12103C0111G | 03-SEP-2003
04 | FL | INDIAN ROCKS BEACH, CITY OF | 12103C0112G | 03-SEP-2003
04 | FL | INDIAN ROCKS BEACH, CITY OF | 12103C0113G | 03-SEP-2003
04 | FL | INDIAN ROCKS BEACH, CITY OF | 12103C0114G | 03-SEP-2003
04 | FL | INDIAN ROCKS BEACH, CITY OF | 12103C0176G | 03-SEP-2003
04 | FL | INDIAN ROCKS BEACH, CITY OF | 12103CIND1A | 03-SEP-2003
04 | FL | INDIAN ROCKS BEACH, CITY OF | 12103CIND2A | 03-SEP-2003
04 | FL | INDIAN SHORES, TOWN OF | 12103CIND1A | 03-SEP-2003
04 | FL | INDIAN SHORES, TOWN OF | 12103CIND2A | 03-SEP-2003
04 | FL | INDIAN SHORES, TOWN OF | 12103C0176G | 03-SEP-2003
04 | FL | INDIAN SHORES, TOWN OF | 12103C0177G | 03-SEP-2003
04 | FL | INDIAN SHORES, TOWN OF | 12103C0179G | 03-SEP-2003
04 | FL | KENNETH CITY, TOWN OF | 12103C0203G | 03-SEP-2003
04 | FL | KENNETH CITY, TOWN OF | 12103C0204G | 03-SEP-2003
04 | FL | KENNETH CITY, TOWN OF | 12103C0211G | 03-SEP-2003
04 | FL | KENNETH CITY, TOWN OF | 12103C0212G | 03-SEP-2003
04 | FL | KENNETH CITY, TOWN OF | 12103CIND1A | 03-SEP-2003
04 | FL | KENNETH CITY, TOWN OF | 12103CIND2A | 03-SEP-2003
04 | FL | LAKE ALFRED, CITY OF | 12105CIND0A | 19-NOV-2003
04 | FL | LAKE HAMILTON, TOWN OF | 12105CIND0A | 19-NOV-2003
04 | FL | LAKE WALES, CITY OF | 12105C0535G | 19-NOV-2003
04 | FL | LAKE WALES, CITY OF | 12105C0545G | 19-NOV-2003
04 | FL | LAKE WALES, CITY OF | 12105C0555G | 19-NOV-2003
04 | FL | LAKE WALES, CITY OF | 12105C0565G | 19-NOV-2003
04 | FL | LAKE WALES, CITY OF | 12105CIND0A | 19-NOV-2003
04 | FL | LAKELAND, CITY OF | 12105CIND0A | 19-NOV-2003
04 | FL | LARGO, CITY OF | 12103C0109G | 03-SEP-2003
04 | FL | LARGO, CITY OF | 12103C0112G | 03-SEP-2003
04 | FL | LARGO, CITY OF | 12103C0113G | 03-SEP-2003
04 | FL | LARGO, CITY OF | 12103C0114G | 03-SEP-2003
04 | FL | LARGO, CITY OF | 12103C0116G | 03-SEP-2003
04 | FL | LARGO, CITY OF | 12103C0117G | 03-SEP-2003
04 | FL | LARGO, CITY OF | 12103C0118G | 03-SEP-2003
04 | FL | LARGO, CITY OF | 12103C0119G | 03-SEP-2003
04 | FL | LARGO, CITY OF | 12103C0128G | 03-SEP-2003
04 | FL | LARGO, CITY OF | 12103C0136G | 03-SEP-2003
04 | FL | LARGO, CITY OF | 12103C0138G | 03-SEP-2003
04 | FL | LARGO, CITY OF | 12103CIND1A | 03-SEP-2003
04 | FL | LARGO, CITY OF | 12103CIND2A | 03-SEP-2003
04 | FL | MADEIRA BEACH, CITY OF | 12103C0191G | 03-SEP-2003
04 | FL | MADEIRA BEACH, CITY OF | 12103C0192G | 03-SEP-2003
04 | FL | MADEIRA BEACH, CITY OF | 12103C0193G | 03-SEP-2003
04 | FL | MADEIRA BEACH, CITY OF | 12103CIND1A | 03-SEP-2003
04 | FL | MADEIRA BEACH, CITY OF | 12103CIND2A | 03-SEP-2003
04 | FL | MARCO ISLAND, CITY OF | 12021CIND0A | 02-OCT-2003
04 | FL | MARCO ISLAND, CITY OF | 12021C0785G | 02-OCT-2003
04 | FL | MARCO ISLAND, CITY OF | 12021C0801G | 02-OCT-2003
04 | FL | MARCO ISLAND, CITY OF | 12021C0802G | 02-OCT-2003
04 | FL | MARCO ISLAND, CITY OF | 12021C0803G | 02-OCT-2003
04 | FL | MARCO ISLAND, CITY OF | 12021C0804G | 02-OCT-2003
04 | FL | MARCO ISLAND, CITY OF | 12021C0811G | 02-OCT-2003
04 | FL | MARCO ISLAND, CITY OF | 12021C0812G | 02-OCT-2003
04 | FL | MARCO ISLAND, CITY OF | 12021C0817G | 02-OCT-2003
04 | FL | MARCO ISLAND, CITY OF | 12021C0825G | 02-OCT-2003
04 | FL | MULBERRY, CITY OF | 12105CIND0A | 19-NOV-2003
04 | FL | NAPLES, CITY OF | 12021CIND0A | 02-OCT-2003
04 | FL | NAPLES, CITY OF | 12021C0379G | 02-OCT-2003
04 | FL | NAPLES, CITY OF | 12021C0383G | 02-OCT-2003
04 | FL | NAPLES, CITY OF | 12021C0387G | 02-OCT-2003
04 | FL | NAPLES, CITY OF | 12021C0391G | 02-OCT-2003
04 | FL | NAPLES, CITY OF | 12021C0392G | 02-OCT-2003
04 | FL | NAPLES, CITY OF | 12021C0393G | 02-OCT-2003
04 | FL | NAPLES, CITY OF | 12021C0394G | 02-OCT-2003
04 | FL | NAPLES, CITY OF | 12021C0581G | 02-OCT-2003
04 | FL | NAPLES, CITY OF | 12021C0583G | 02-OCT-2003
04 | FL | NORTH REDINGTON BEACH, TOWN OF | 12103C0179G | 03-SEP-2003
04 | FL | NORTH REDINGTON BEACH, TOWN OF | 12103C0183G | 03-SEP-2003
04 | FL | NORTH REDINGTON BEACH, TOWN OF | 12103C0187G | 03-SEP-2003
04 | FL | NORTH REDINGTON BEACH, TOWN OF | 12103CIND1A | 03-SEP-2003
04 | FL | NORTH REDINGTON BEACH, TOWN OF | 12103CIND2A | 03-SEP-2003
04 | FL | OLDSMAR, CITY OF | 12103C0083G | 03-SEP-2003
04 | FL | OLDSMAR, CITY OF | 12103C0084G | 03-SEP-2003
04 | FL | OLDSMAR, CITY OF | 12103C0087G | 03-SEP-2003
04 | FL | OLDSMAR, CITY OF | 12103C0091G | 03-SEP-2003
04 | FL | OLDSMAR, CITY OF | 12103C0092G | 03-SEP-2003
04 | FL | OLDSMAR, CITY OF | 12103C0093G | 03-SEP-2003
04 | FL | OLDSMAR, CITY OF | 12103C0094G | 03-SEP-2003
04 | FL | OLDSMAR, CITY OF | 12103CIND1A | 03-SEP-2003
04 | FL | OLDSMAR, CITY OF | 12103CIND2A | 03-SEP-2003
04 | FL | PINELLAS COUNTY * | 12103C0015G | 03-SEP-2003
04 | FL | PINELLAS COUNTY * | 12103C0016G | 03-SEP-2003
04 | FL | PINELLAS COUNTY * | 12103C0017G | 03-SEP-2003
04 | FL | PINELLAS COUNTY * | 12103C0018G | 03-SEP-2003
04 | FL | PINELLAS COUNTY * | 12103C0019G | 03-SEP-2003
04 | FL | PINELLAS COUNTY * | 12103C0036G | 03-SEP-2003
04 | FL | PINELLAS COUNTY * | 12103C0037G | 03-SEP-2003
04 | FL | PINELLAS COUNTY * | 12103C0038G | 03-SEP-2003
04 | FL | PINELLAS COUNTY * | 12103C0039G | 03-SEP-2003
04 | FL | PINELLAS COUNTY * | 12103C0041G | 03-SEP-2003
04 | FL | PINELLAS COUNTY * | 12103C0042G | 03-SEP-2003
04 | FL | PINELLAS COUNTY * | 12103C0043G | 03-SEP-2003
04 | FL | PINELLAS COUNTY * | 12103C0044G | 03-SEP-2003
04 | FL | PINELLAS COUNTY * | 12103C0054G | 03-SEP-2003
04 | FL | PINELLAS COUNTY * | 12103C0056G | 03-SEP-2003
04 | FL | PINELLAS COUNTY * | 12103C0057G | 03-SEP-2003
04 | FL | PINELLAS COUNTY * | 12103C0058G | 03-SEP-2003
04 | FL | PINELLAS COUNTY * | 12103C0059G | 03-SEP-2003
04 | FL | PINELLAS COUNTY * | 12103C0062G | 03-SEP-2003
04 | FL | PINELLAS COUNTY * | 12103C0064G | 03-SEP-2003
04 | FL | PINELLAS COUNTY * | 12103C0066G | 03-SEP-2003
04 | FL | PINELLAS COUNTY * | 12103C0067G | 03-SEP-2003
04 | FL | PINELLAS COUNTY * | 12103C0068G | 03-SEP-2003
04 | FL | PINELLAS COUNTY * | 12103C0069G | 03-SEP-2003
04 | FL | PINELLAS COUNTY * | 12103C0076G | 03-SEP-2003
04 | FL | PINELLAS COUNTY * | 12103C0077G | 03-SEP-2003
04 | FL | PINELLAS COUNTY * | 12103C0078G | 03-SEP-2003
04 | FL | PINELLAS COUNTY * | 12103C0079G | 03-SEP-2003
04 | FL | PINELLAS COUNTY * | 12103C0081G | 03-SEP-2003
04 | FL | PINELLAS COUNTY * | 12103C0082G | 03-SEP-2003
04 | FL | PINELLAS COUNTY * | 12103C0083G | 03-SEP-2003
04 | FL | PINELLAS COUNTY * | 12103C0084G | 03-SEP-2003
04 | FL | PINELLAS COUNTY * | 12103C0086G | 03-SEP-2003
04 | FL | PINELLAS COUNTY * | 12103C0087G | 03-SEP-2003
04 | FL | PINELLAS COUNTY * | 12103C0088G | 03-SEP-2003
04 | FL | PINELLAS COUNTY * | 12103C0089G | 03-SEP-2003
04 | FL | PINELLAS COUNTY * | 12103C0091G | 03-SEP-2003
04 | FL | PINELLAS COUNTY * | 12103C0092G | 03-SEP-2003
04 | FL | PINELLAS COUNTY * | 12103C0093G | 03-SEP-2003
04 | FL | PINELLAS COUNTY * | 12103C0094G | 03-SEP-2003
04 | FL | PINELLAS COUNTY * | 12103C0102G | 03-SEP-2003
04 | FL | PINELLAS COUNTY * | 12103C0104G | 03-SEP-2003
04 | FL | PINELLAS COUNTY * | 12103C0106G | 03-SEP-2003
04 | FL | PINELLAS COUNTY * | 12103C0107G | 03-SEP-2003
04 | FL | PINELLAS COUNTY * | 12103C0108G | 03-SEP-2003
04 | FL | PINELLAS COUNTY * | 12103C0109G | 03-SEP-2003
04 | FL | PINELLAS COUNTY * | 12103C0111G | 03-SEP-2003
04 | FL | PINELLAS COUNTY * | 12103C0112G | 03-SEP-2003
04 | FL | PINELLAS COUNTY * | 12103C0113G | 03-SEP-2003
04 | FL | PINELLAS COUNTY * | 12103C0114G | 03-SEP-2003
04 | FL | PINELLAS COUNTY * | 12103C0116G | 03-SEP-2003
04 | FL | PINELLAS COUNTY * | 12103C0117G | 03-SEP-2003
04 | FL | PINELLAS COUNTY * | 12103C0118G | 03-SEP-2003
04 | FL | PINELLAS COUNTY * | 12103C0119G | 03-SEP-2003
04 | FL | PINELLAS COUNTY * | 12103C0126G | 03-SEP-2003
04 | FL | PINELLAS COUNTY * | 12103C0127G | 03-SEP-2003
04 | FL | PINELLAS COUNTY * | 12103C0128G | 03-SEP-2003
04 | FL | PINELLAS COUNTY * | 12103C0129G | 03-SEP-2003
04 | FL | PINELLAS COUNTY * | 12103C0131G | 03-SEP-2003
04 | FL | PINELLAS COUNTY * | 12103C0133G | 03-SEP-2003
04 | FL | PINELLAS COUNTY * | 12103C0134G | 03-SEP-2003
04 | FL | PINELLAS COUNTY * | 12103C0136G | 03-SEP-2003
04 | FL | PINELLAS COUNTY * | 12103C0137G | 03-SEP-2003
04 | FL | PINELLAS COUNTY * | 12103C0138G | 03-SEP-2003
04 | FL | PINELLAS COUNTY * | 12103C0139G | 03-SEP-2003
04 | FL | PINELLAS COUNTY * | 12103C0141G | 03-SEP-2003
04 | FL | PINELLAS COUNTY * | 12103C0142G | 03-SEP-2003
04 | FL | PINELLAS COUNTY * | 12103C0143G | 03-SEP-2003
04 | FL | PINELLAS COUNTY * | 12103C0144G | 03-SEP-2003
04 | FL | PINELLAS COUNTY * | 12103C0163G | 03-SEP-2003
04 | FL | PINELLAS COUNTY * | 12103C0176G | 03-SEP-2003
04 | FL | PINELLAS COUNTY * | 12103C0177G | 03-SEP-2003
04 | FL | PINELLAS COUNTY * | 12103C0179G | 03-SEP-2003
04 | FL | PINELLAS COUNTY * | 12103C0181G | 03-SEP-2003
04 | FL | PINELLAS COUNTY * | 12103C0182G | 03-SEP-2003
04 | FL | PINELLAS COUNTY * | 12103C0183G | 03-SEP-2003
04 | FL | PINELLAS COUNTY * | 12103C0184G | 03-SEP-2003
04 | FL | PINELLAS COUNTY * | 12103C0187G | 03-SEP-2003
04 | FL | PINELLAS COUNTY * | 12103C0191G | 03-SEP-2003
04 | FL | PINELLAS COUNTY * | 12103C0192G | 03-SEP-2003
04 | FL | PINELLAS COUNTY * | 12103C0193G | 03-SEP-2003
04 | FL | PINELLAS COUNTY * | 12103C0194G | 03-SEP-2003
04 | FL | PINELLAS COUNTY * | 12103C0201G | 03-SEP-2003
04 | FL | PINELLAS COUNTY * | 12103C0202G | 03-SEP-2003
04 | FL | PINELLAS COUNTY * | 12103C0203G | 03-SEP-2003
04 | FL | PINELLAS COUNTY * | 12103C0204G | 03-SEP-2003
04 | FL | PINELLAS COUNTY * | 12103C0206G | 03-SEP-2003
04 | FL | PINELLAS COUNTY * | 12103C0207G | 03-SEP-2003
04 | FL | PINELLAS COUNTY * | 12103C0208G | 03-SEP-2003
04 | FL | PINELLAS COUNTY * | 12103C0209G | 03-SEP-2003
04 | FL | PINELLAS COUNTY * | 12103C0211G | 03-SEP-2003
04 | FL | PINELLAS COUNTY * | 12103C0212G | 03-SEP-2003
04 | FL | PINELLAS COUNTY * | 12103C0213G | 03-SEP-2003
04 | FL | PINELLAS COUNTY * | 12103C0214G | 03-SEP-2003
04 | FL | PINELLAS COUNTY * | 12103C0216G | 03-SEP-2003
04 | FL | PINELLAS COUNTY * | 12103C0217G | 03-SEP-2003
04 | FL | PINELLAS COUNTY * | 12103C0218G | 03-SEP-2003
04 | FL | PINELLAS COUNTY * | 12103C0219G | 03-SEP-2003
04 | FL | PINELLAS COUNTY * | 12103C0226G | 03-SEP-2003
04 | FL | PINELLAS COUNTY * | 12103C0228G | 03-SEP-2003
04 | FL | PINELLAS COUNTY * | 12103C0229G | 03-SEP-2003
04 | FL | PINELLAS COUNTY * | 12103C0236G | 03-SEP-2003
04 | FL | PINELLAS COUNTY * | 12103C0238G | 03-SEP-2003
04 | FL | PINELLAS COUNTY * | 12103C0257G | 03-SEP-2003
04 | FL | PINELLAS COUNTY * | 12103C0276G | 03-SEP-2003
04 | FL | PINELLAS COUNTY * | 12103C0277G | 03-SEP-2003
04 | FL | PINELLAS COUNTY * | 12103C0278G | 03-SEP-2003
04 | FL | PINELLAS COUNTY * | 12103C0279G | 03-SEP-2003
04 | FL | PINELLAS COUNTY * | 12103C0281G | 03-SEP-2003
04 | FL | PINELLAS COUNTY * | 12103C0282G | 03-SEP-2003
04 | FL | PINELLAS COUNTY * | 12103C0283G | 03-SEP-2003
04 | FL | PINELLAS COUNTY * | 12103C0284G | 03-SEP-2003
04 | FL | PINELLAS COUNTY * | 12103C0286G | 03-SEP-2003
04 | FL | PINELLAS COUNTY * | 12103C0287G | 03-SEP-2003
04 | FL | PINELLAS COUNTY * | 12103C0288G | 03-SEP-2003
04 | FL | PINELLAS COUNTY * | 12103C0289G | 03-SEP-2003
04 | FL | PINELLAS COUNTY * | 12103C0295G | 03-SEP-2003
04 | FL | PINELLAS COUNTY * | 12103C0301G | 03-SEP-2003
04 | FL | PINELLAS COUNTY * | 12103C0326G | 03-SEP-2003
04 | FL | PINELLAS COUNTY * | 12103C0327G | 03-SEP-2003
04 | FL | PINELLAS COUNTY * | 12103CIND1A | 03-SEP-2003
04 | FL | PINELLAS COUNTY * | 12103CIND2A | 03-SEP-2003
04 | FL | PINELLAS PARK, CITY OF | 12103C0138G | 03-SEP-2003
04 | FL | PINELLAS PARK, CITY OF | 12103C0139G | 03-SEP-2003
04 | FL | PINELLAS PARK, CITY OF | 12103C0143G | 03-SEP-2003
04 | FL | PINELLAS PARK, CITY OF | 12103C0201G | 03-SEP-2003
04 | FL | PINELLAS PARK, CITY OF | 12103C0202G | 03-SEP-2003
04 | FL | PINELLAS PARK, CITY OF | 12103C0203G | 03-SEP-2003
04 | FL | PINELLAS PARK, CITY OF | 12103C0204G | 03-SEP-2003
04 | FL | PINELLAS PARK, CITY OF | 12103C0206G | 03-SEP-2003
04 | FL | PINELLAS PARK, CITY OF | 12103C0208G | 03-SEP-2003
04 | FL | PINELLAS PARK, CITY OF | 12103CIND1A | 03-SEP-2003
04 | FL | PINELLAS PARK, CITY OF | 12103CIND2A | 03-SEP-2003
04 | FL | POLK CITY, TOWN OF | 12105CIND0A | 19-NOV-2003
04 | FL | POLK COUNTY* | 12105C0535G | 19-NOV-2003
04 | FL | POLK COUNTY* | 12105C0545G | 19-NOV-2003
04 | FL | POLK COUNTY* | 12105C0555G | 19-NOV-2003
04 | FL | POLK COUNTY* | 12105C0565G | 19-NOV-2003
04 | FL | POLK COUNTY* | 12105CIND0A | 19-NOV-2003
04 | FL | REDINGTON BEACH, TOWN OF | 12103C0179G | 03-SEP-2003
04 | FL | REDINGTON BEACH, TOWN OF | 12103C0183G | 03-SEP-2003
04 | FL | REDINGTON BEACH, TOWN OF | 12103C0187G | 03-SEP-2003
04 | FL | REDINGTON BEACH, TOWN OF | 12103C0191G | 03-SEP-2003
04 | FL | REDINGTON BEACH, TOWN OF | 12103CIND1A | 03-SEP-2003
04 | FL | REDINGTON BEACH, TOWN OF | 12103CIND2A | 03-SEP-2003
04 | FL | REDINGTON SHORES, TOWN OF | 12103C0179G | 03-SEP-2003
04 | FL | REDINGTON SHORES, TOWN OF | 12103CIND1A | 03-SEP-2003
04 | FL | REDINGTON SHORES, TOWN OF | 12103CIND2A | 03-SEP-2003
04 | FL | SAFETY HARBOR, CITY OF | 12103C0087G | 03-SEP-2003
04 | FL | SAFETY HARBOR, CITY OF | 12103C0089G | 03-SEP-2003
04 | FL | SAFETY HARBOR, CITY OF | 12103C0091G | 03-SEP-2003
04 | FL | SAFETY HARBOR, CITY OF | 12103C0093G | 03-SEP-2003
04 | FL | SAFETY HARBOR, CITY OF | 12103C0127G | 03-SEP-2003
04 | FL | SAFETY HARBOR, CITY OF | 12103CIND1A | 03-SEP-2003
04 | FL | SAFETY HARBOR, CITY OF | 12103CIND2A | 03-SEP-2003
04 | FL | SEMINOLE, CITY OF | 12103C0181G | 03-SEP-2003
04 | FL | SEMINOLE, CITY OF | 12103C0183G | 03-SEP-2003
04 | FL | SEMINOLE, CITY OF | 12103C0184G | 03-SEP-2003
04 | FL | SEMINOLE, CITY OF | 12103C0192G | 03-SEP-2003
04 | FL | SEMINOLE, CITY OF | 12103CIND1A | 03-SEP-2003
04 | FL | SEMINOLE, CITY OF | 12103CIND2A | 03-SEP-2003
04 | FL | SOUTH PASADENA, CITY OF | 12103C0194G | 03-SEP-2003
04 | FL | SOUTH PASADENA, CITY OF | 12103C0213G | 03-SEP-2003
04 | FL | SOUTH PASADENA, CITY OF | 12103C0257G | 03-SEP-2003
04 | FL | SOUTH PASADENA, CITY OF | 12103C0276G | 03-SEP-2003
04 | FL | SOUTH PASADENA, CITY OF | 12103CIND1A | 03-SEP-2003
04 | FL | SOUTH PASADENA, CITY OF | 12103CIND2A | 03-SEP-2003
04 | FL | ST. AUGUSTINE BEACH, CITY OF | 12109C0318G | 03-SEP-2003
04 | FL | ST. AUGUSTINE BEACH, CITY OF | 12109C0319G | 03-SEP-2003
04 | FL | ST. AUGUSTINE BEACH, CITY OF | 12109C0381G | 03-SEP-2003
04 | FL | ST. AUGUSTINE BEACH, CITY OF | 12109C0382G | 03-SEP-2003
04 | FL | ST. AUGUSTINE BEACH, CITY OF | 12109C0384G | 03-SEP-2003
04 | FL | ST. AUGUSTINE BEACH, CITY OF | 12109CIND1A | 03-SEP-2003
04 | FL | ST. AUGUSTINE BEACH, CITY OF | 12109CIND2A | 03-SEP-2003
04 | FL | ST. AUGUSTINE, CITY OF | 12109C0312G | 03-SEP-2003
04 | FL | ST. AUGUSTINE, CITY OF | 12109C0314G | 03-SEP-2003
04 | FL | ST. AUGUSTINE, CITY OF | 12109C0316G | 03-SEP-2003
04 | FL | ST. AUGUSTINE, CITY OF | 12109C0318G | 03-SEP-2003
04 | FL | ST. AUGUSTINE, CITY OF | 12109C0377G | 03-SEP-2003
04 | FL | ST. AUGUSTINE, CITY OF | 12109C0381G | 03-SEP-2003
04 | FL | ST. AUGUSTINE, CITY OF | 12109CIND1A | 03-SEP-2003
04 | FL | ST. AUGUSTINE, CITY OF | 12109CIND2A | 03-SEP-2003
04 | FL | ST. JOHNS COUNTY * | 12109C0018G | 03-SEP-2003
04 | FL | ST. JOHNS COUNTY * | 12109C0019G | 03-SEP-2003
04 | FL | ST. JOHNS COUNTY * | 12109C0049G | 03-SEP-2003
04 | FL | ST. JOHNS COUNTY * | 12109C0063G | 03-SEP-2003
04 | FL | ST. JOHNS COUNTY * | 12109C0064G | 03-SEP-2003
04 | FL | ST. JOHNS COUNTY * | 12109C0082G | 03-SEP-2003
04 | FL | ST. JOHNS COUNTY * | 12109C0085G | 03-SEP-2003
04 | FL | ST. JOHNS COUNTY * | 12109C0095G | 03-SEP-2003
04 | FL | ST. JOHNS COUNTY * | 12109C0101G | 03-SEP-2003
04 | FL | ST. JOHNS COUNTY * | 12109C0103G | 03-SEP-2003
04 | FL | ST. JOHNS COUNTY * | 12109C0111G | 03-SEP-2003
04 | FL | ST. JOHNS COUNTY * | 12109C0113G | 03-SEP-2003
04 | FL | ST. JOHNS COUNTY * | 12109C0132G | 03-SEP-2003
04 | FL | ST. JOHNS COUNTY * | 12109C0133G | 03-SEP-2003
04 | FL | ST. JOHNS COUNTY * | 12109C0134G | 03-SEP-2003
04 | FL | ST. JOHNS COUNTY * | 12109C0141G | 03-SEP-2003
04 | FL | ST. JOHNS COUNTY * | 12109C0142G | 03-SEP-2003
04 | FL | ST. JOHNS COUNTY * | 12109C0144G | 03-SEP-2003
04 | FL | ST. JOHNS COUNTY * | 12109C0150G | 03-SEP-2003
04 | FL | ST. JOHNS COUNTY * | 12109C0151G | 03-SEP-2003
04 | FL | ST. JOHNS COUNTY * | 12109C0152G | 03-SEP-2003
04 | FL | ST. JOHNS COUNTY * | 12109C0153G | 03-SEP-2003
04 | FL | ST. JOHNS COUNTY * | 12109C0154G | 03-SEP-2003
04 | FL | ST. JOHNS COUNTY * | 12109C0157G | 03-SEP-2003
04 | FL | ST. JOHNS COUNTY * | 12109C0159G | 03-SEP-2003
04 | FL | ST. JOHNS COUNTY * | 12109C0160G | 03-SEP-2003
04 | FL | ST. JOHNS COUNTY * | 12109C0161G | 03-SEP-2003
04 | FL | ST. JOHNS COUNTY * | 12109C0162G | 03-SEP-2003
04 | FL | ST. JOHNS COUNTY * | 12109C0163G | 03-SEP-2003
04 | FL | ST. JOHNS COUNTY * | 12109C0164G | 03-SEP-2003
04 | FL | ST. JOHNS COUNTY * | 12109C0170G | 03-SEP-2003
04 | FL | ST. JOHNS COUNTY * | 12109C0178G | 03-SEP-2003
04 | FL | ST. JOHNS COUNTY * | 12109C0180G | 03-SEP-2003
04 | FL | ST. JOHNS COUNTY * | 12109C0185G | 03-SEP-2003
04 | FL | ST. JOHNS COUNTY * | 12109C0190G | 03-SEP-2003
04 | FL | ST. JOHNS COUNTY * | 12109C0195G | 03-SEP-2003
04 | FL | ST. JOHNS COUNTY * | 12109C0201G | 03-SEP-2003
04 | FL | ST. JOHNS COUNTY * | 12109C0202G | 03-SEP-2003
04 | FL | ST. JOHNS COUNTY * | 12109C0203G | 03-SEP-2003
04 | FL | ST. JOHNS COUNTY * | 12109C0204G | 03-SEP-2003
04 | FL | ST. JOHNS COUNTY * | 12109C0212G | 03-SEP-2003
04 | FL | ST. JOHNS COUNTY * | 12109C0214G | 03-SEP-2003
04 | FL | ST. JOHNS COUNTY * | 12109C0215G | 03-SEP-2003
04 | FL | ST. JOHNS COUNTY * | 12109C0251G | 03-SEP-2003
04 | FL | ST. JOHNS COUNTY * | 12109C0252G | 03-SEP-2003
04 | FL | ST. JOHNS COUNTY * | 12109C0256G | 03-SEP-2003
04 | FL | ST. JOHNS COUNTY * | 12109C0257G | 03-SEP-2003
04 | FL | ST. JOHNS COUNTY * | 12109C0258G | 03-SEP-2003
04 | FL | ST. JOHNS COUNTY * | 12109C0259G | 03-SEP-2003
04 | FL | ST. JOHNS COUNTY * | 12109C0267G | 03-SEP-2003
04 | FL | ST. JOHNS COUNTY * | 12109C0275G | 03-SEP-2003
04 | FL | ST. JOHNS COUNTY * | 12109C0276G | 03-SEP-2003
04 | FL | ST. JOHNS COUNTY * | 12109C0277G | 03-SEP-2003
04 | FL | ST. JOHNS COUNTY * | 12109C0278G | 03-SEP-2003
04 | FL | ST. JOHNS COUNTY * | 12109C0279G | 03-SEP-2003
04 | FL | ST. JOHNS COUNTY * | 12109C0283G | 03-SEP-2003
04 | FL | ST. JOHNS COUNTY * | 12109C0285G | 03-SEP-2003
04 | FL | ST. JOHNS COUNTY * | 12109C0286G | 03-SEP-2003
04 | FL | ST. JOHNS COUNTY * | 12109C0291G | 03-SEP-2003
04 | FL | ST. JOHNS COUNTY * | 12109C0292G | 03-SEP-2003
04 | FL | ST. JOHNS COUNTY * | 12109C0294G | 03-SEP-2003
04 | FL | ST. JOHNS COUNTY * | 12109C0300G | 03-SEP-2003
04 | FL | ST. JOHNS COUNTY * | 12109C0301G | 03-SEP-2003
04 | FL | ST. JOHNS COUNTY * | 12109C0302G | 03-SEP-2003
04 | FL | ST. JOHNS COUNTY * | 12109C0303G | 03-SEP-2003
04 | FL | ST. JOHNS COUNTY * | 12109C0304G | 03-SEP-2003
04 | FL | ST. JOHNS COUNTY * | 12109C0306G | 03-SEP-2003
04 | FL | ST. JOHNS COUNTY * | 12109C0308G | 03-SEP-2003
04 | FL | ST. JOHNS COUNTY * | 12109C0311G | 03-SEP-2003
04 | FL | ST. JOHNS COUNTY * | 12109C0312G | 03-SEP-2003
04 | FL | ST. JOHNS COUNTY * | 12109C0313G | 03-SEP-2003
04 | FL | ST. JOHNS COUNTY * | 12109C0314G | 03-SEP-2003
04 | FL | ST. JOHNS COUNTY * | 12109C0316G | 03-SEP-2003
04 | FL | ST. JOHNS COUNTY * | 12109C0318G | 03-SEP-2003
04 | FL | ST. JOHNS COUNTY * | 12109C0319G | 03-SEP-2003
04 | FL | ST. JOHNS COUNTY * | 12109C0350G | 03-SEP-2003
04 | FL | ST. JOHNS COUNTY * | 12109C0357G | 03-SEP-2003
04 | FL | ST. JOHNS COUNTY * | 12109C0375G | 03-SEP-2003
04 | FL | ST. JOHNS COUNTY * | 12109C0376G | 03-SEP-2003
04 | FL | ST. JOHNS COUNTY * | 12109C0377G | 03-SEP-2003
04 | FL | ST. JOHNS COUNTY * | 12109C0378G | 03-SEP-2003
04 | FL | ST. JOHNS COUNTY * | 12109C0379G | 03-SEP-2003
04 | FL | ST. JOHNS COUNTY * | 12109C0381G | 03-SEP-2003
04 | FL | ST. JOHNS COUNTY * | 12109C0382G | 03-SEP-2003
04 | FL | ST. JOHNS COUNTY * | 12109C0383G | 03-SEP-2003
04 | FL | ST. JOHNS COUNTY * | 12109C0384G | 03-SEP-2003
04 | FL | ST. JOHNS COUNTY * | 12109C0387G | 03-SEP-2003
04 | FL | ST. JOHNS COUNTY * | 12109C0389G | 03-SEP-2003
04 | FL | ST. JOHNS COUNTY * | 12109C0390G | 03-SEP-2003
04 | FL | ST. JOHNS COUNTY * | 12109C0391G | 03-SEP-2003
04 | FL | ST. JOHNS COUNTY * | 12109C0392G | 03-SEP-2003
04 | FL | ST. JOHNS COUNTY * | 12109C0393G | 03-SEP-2003
04 | FL | ST. JOHNS COUNTY * | 12109C0394G | 03-SEP-2003
04 | FL | ST. JOHNS COUNTY * | 12109C0413G | 03-SEP-2003
04 | FL | ST. JOHNS COUNTY * | 12109C0432G | 03-SEP-2003
04 | FL | ST. JOHNS COUNTY * | 12109C0434G | 03-SEP-2003
04 | FL | ST. JOHNS COUNTY * | 12109C0455G | 03-SEP-2003
04 | FL | ST. JOHNS COUNTY * | 12109C0465G | 03-SEP-2003
04 | FL | ST. JOHNS COUNTY * | 12109C0475G | 03-SEP-2003
04 | FL | ST. JOHNS COUNTY * | 12109C0482G | 03-SEP-2003
04 | FL | ST. JOHNS COUNTY * | 12109C0484G | 03-SEP-2003
04 | FL | ST. JOHNS COUNTY * | 12109C0500G | 03-SEP-2003
04 | FL | ST. JOHNS COUNTY * | 12109C0501G | 03-SEP-2003
04 | FL | ST. JOHNS COUNTY * | 12109C0503G | 03-SEP-2003
04 | FL | ST. JOHNS COUNTY * | 12109C0511G | 03-SEP-2003
04 | FL | ST. JOHNS COUNTY * | 12109C0512G | 03-SEP-2003
04 | FL | ST. JOHNS COUNTY * | 12109C0555G | 03-SEP-2003
04 | FL | ST. JOHNS COUNTY * | 12109C0560G | 03-SEP-2003
04 | FL | ST. JOHNS COUNTY * | 12109CIND1A | 03-SEP-2003
04 | FL | ST. JOHNS COUNTY * | 12109CIND2A | 03-SEP-2003
04 | FL | ST. PETE BEACH, CITY OF | 12103C0194G | 03-SEP-2003
04 | FL | ST. PETE BEACH, CITY OF | 12103C0213G | 03-SEP-2003
04 | FL | ST. PETE BEACH, CITY OF | 12103C0257G | 03-SEP-2003
04 | FL | ST. PETE BEACH, CITY OF | 12103C0276G | 03-SEP-2003
04 | FL | ST. PETE BEACH, CITY OF | 12103C0278G | 03-SEP-2003
04 | FL | ST. PETE BEACH, CITY OF | 12103C0286G | 03-SEP-2003
04 | FL | ST. PETE BEACH, CITY OF | 12103CIND1A | 03-SEP-2003
04 | FL | ST. PETE BEACH, CITY OF | 12103CIND2A | 03-SEP-2003
04 | FL | ST. PETERSBURG, CITY OF | 12103C0143G | 03-SEP-2003
04 | FL | ST. PETERSBURG, CITY OF | 12103C0144G | 03-SEP-2003
04 | FL | ST. PETERSBURG, CITY OF | 12103C0192G | 03-SEP-2003
04 | FL | ST. PETERSBURG, CITY OF | 12103C0194G | 03-SEP-2003
04 | FL | ST. PETERSBURG, CITY OF | 12103C0206G | 03-SEP-2003
04 | FL | ST. PETERSBURG, CITY OF | 12103C0207G | 03-SEP-2003
04 | FL | ST. PETERSBURG, CITY OF | 12103C0208G | 03-SEP-2003
04 | FL | ST. PETERSBURG, CITY OF | 12103C0209G | 03-SEP-2003
04 | FL | ST. PETERSBURG, CITY OF | 12103C0211G | 03-SEP-2003
04 | FL | ST. PETERSBURG, CITY OF | 12103C0212G | 03-SEP-2003
04 | FL | ST. PETERSBURG, CITY OF | 12103C0213G | 03-SEP-2003
04 | FL | ST. PETERSBURG, CITY OF | 12103C0214G | 03-SEP-2003
04 | FL | ST. PETERSBURG, CITY OF | 12103C0216G | 03-SEP-2003
04 | FL | ST. PETERSBURG, CITY OF | 12103C0217G | 03-SEP-2003
04 | FL | ST. PETERSBURG, CITY OF | 12103C0218G | 03-SEP-2003
04 | FL | ST. PETERSBURG, CITY OF | 12103C0219G | 03-SEP-2003
04 | FL | ST. PETERSBURG, CITY OF | 12103C0226G | 03-SEP-2003
04 | FL | ST. PETERSBURG, CITY OF | 12103C0228G | 03-SEP-2003
04 | FL | ST. PETERSBURG, CITY OF | 12103C0229G | 03-SEP-2003
04 | FL | ST. PETERSBURG, CITY OF | 12103C0236G | 03-SEP-2003
04 | FL | ST. PETERSBURG, CITY OF | 12103C0238G | 03-SEP-2003
04 | FL | ST. PETERSBURG, CITY OF | 12103C0277G | 03-SEP-2003
04 | FL | ST. PETERSBURG, CITY OF | 12103C0278G | 03-SEP-2003
04 | FL | ST. PETERSBURG, CITY OF | 12103C0279G | 03-SEP-2003
04 | FL | ST. PETERSBURG, CITY OF | 12103C0281G | 03-SEP-2003
04 | FL | ST. PETERSBURG, CITY OF | 12103C0282G | 03-SEP-2003
04 | FL | ST. PETERSBURG, CITY OF | 12103C0283G | 03-SEP-2003
04 | FL | ST. PETERSBURG, CITY OF | 12103C0284G | 03-SEP-2003
04 | FL | ST. PETERSBURG, CITY OF | 12103C0301G | 03-SEP-2003
04 | FL | ST. PETERSBURG, CITY OF | 12103CIND1A | 03-SEP-2003
04 | FL | ST. PETERSBURG, CITY OF | 12103CIND2A | 03-SEP-2003
04 | FL | TARPON SPRINGS, CITY OF | 12103C0016G | 03-SEP-2003
04 | FL | TARPON SPRINGS, CITY OF | 12103C0017G | 03-SEP-2003
04 | FL | TARPON SPRINGS, CITY OF | 12103C0018G | 03-SEP-2003
04 | FL | TARPON SPRINGS, CITY OF | 12103C0019G | 03-SEP-2003
04 | FL | TARPON SPRINGS, CITY OF | 12103C0036G | 03-SEP-2003
04 | FL | TARPON SPRINGS, CITY OF | 12103C0038G | 03-SEP-2003
04 | FL | TARPON SPRINGS, CITY OF | 12103C0056G | 03-SEP-2003
04 | FL | TARPON SPRINGS, CITY OF | 12103C0057G | 03-SEP-2003
04 | FL | TARPON SPRINGS, CITY OF | 12103C0076G | 03-SEP-2003
04 | FL | TARPON SPRINGS, CITY OF | 12103CIND1A | 03-SEP-2003
04 | FL | TARPON SPRINGS, CITY OF | 12103CIND2A | 03-SEP-2003
04 | FL | THE VILLAGE OF HIGHLAND PARK, CITY OF | 12105CIND0A | 19-NOV-2003
04 | FL | TREASURE ISLAND, CITY OF | 12103C0191G | 03-SEP-2003
04 | FL | TREASURE ISLAND, CITY OF | 12103C0192G | 03-SEP-2003
04 | FL | TREASURE ISLAND, CITY OF | 12103C0193G | 03-SEP-2003
04 | FL | TREASURE ISLAND, CITY OF | 12103C0194G | 03-SEP-2003
04 | FL | TREASURE ISLAND, CITY OF | 12103C0257G | 03-SEP-2003
04 | FL | TREASURE ISLAND, CITY OF | 12103CIND1A | 03-SEP-2003
04 | FL | TREASURE ISLAND, CITY OF | 12103CIND2A | 03-SEP-2003
04 | FL | WINTER HAVEN, CITY OF | 12105C0535G | 19-NOV-2003
04 | FL | WINTER HAVEN, CITY OF | 12105CIND0A | 19-NOV-2003
04 | MS | BRANDON, CITY OF | 28121C0183E | 05-NOV-2003
04 | MS | BRANDON, CITY OF | 28121C0184E | 05-NOV-2003
04 | MS | BRANDON, CITY OF | 28121C0191E | 05-NOV-2003
04 | MS | BRANDON, CITY OF | 28121C0192E | 05-NOV-2003
04 | MS | BRANDON, CITY OF | 28121C0193E | 05-NOV-2003
04 | MS | BRANDON, CITY OF | 28121C0194E | 05-NOV-2003
04 | MS | BRANDON, CITY OF | 28121C0211E | 05-NOV-2003
04 | MS | BRANDON, CITY OF | 28121C0215E | 05-NOV-2003
04 | MS | BRANDON, CITY OF | 28121C0220E | 05-NOV-2003
04 | MS | BRANDON, CITY OF | 28121C0335E | 05-NOV-2003
04 | MS | BRANDON, CITY OF | 28121C0355E | 05-NOV-2003
04 | MS | BRANDON, CITY OF | 28121CIND0A | 05-NOV-2003
04 | MS | FLORENCE, TOWN OF | 28121C0317E | 05-NOV-2003
04 | MS | FLORENCE, TOWN OF | 28121C0319E | 05-NOV-2003
04 | MS | FLORENCE, TOWN OF | 28121C0336E | 05-NOV-2003
04 | MS | FLORENCE, TOWN OF | 28121C0338E | 05-NOV-2003
04 | MS | FLORENCE, TOWN OF | 28121CIND0A | 05-NOV-2003
04 | MS | FLOWOOD, CITY OF | 28121C0159E | 05-NOV-2003
04 | MS | FLOWOOD, CITY OF | 28121C0166E | 05-NOV-2003
04 | MS | FLOWOOD, CITY OF | 28121C0167E | 05-NOV-2003
04 | MS | FLOWOOD, CITY OF | 28121C0168E | 05-NOV-2003
04 | MS | FLOWOOD, CITY OF | 28121C0169E | 05-NOV-2003
04 | MS | FLOWOOD, CITY OF | 28121C0177E | 05-NOV-2003
04 | MS | FLOWOOD, CITY OF | 28121C0178E | 05-NOV-2003
04 | MS | FLOWOOD, CITY OF | 28121C0179E | 05-NOV-2003
04 | MS | FLOWOOD, CITY OF | 28121C0181E | 05-NOV-2003
04 | MS | FLOWOOD, CITY OF | 28121C0182E | 05-NOV-2003
04 | MS | FLOWOOD, CITY OF | 28121C0183E | 05-NOV-2003
04 | MS | FLOWOOD, CITY OF | 28121C0186E | 05-NOV-2003
04 | MS | FLOWOOD, CITY OF | 28121C0187E | 05-NOV-2003
04 | MS | FLOWOOD, CITY OF | 28121C0205E | 05-NOV-2003
04 | MS | FLOWOOD, CITY OF | 28121CIND0A | 05-NOV-2003
04 | MS | JASPER COUNTY * | 2803020001B | 01-DEC-2003
04 | MS | JASPER COUNTY * | 2803020002B | 01-DEC-2003
04 | MS | JASPER COUNTY * | 2803020003B | 01-DEC-2003
04 | MS | JASPER COUNTY * | 2803020004B | 01-DEC-2003
04 | MS | JASPER COUNTY * | 2803020005B | 01-DEC-2003
04 | MS | JASPER COUNTY * | 2803020006B | 01-DEC-2003
04 | MS | JASPER COUNTY * | 2803020007B | 01-DEC-2003
04 | MS | JASPER COUNTY * | 2803020008B | 01-DEC-2003
04 | MS | JASPER COUNTY * | 2803029999A | 01-DEC-2003
04 | MS | JASPER COUNTY * | 280302IND0A | 01-DEC-2003
04 | MS | MONTICELLO, TOWN OF | 2802250005B | 17-SEP-2003
04 | MS | PEARL, CITY OF | 28121C0167E | 05-NOV-2003
04 | MS | PEARL, CITY OF | 28121C0168E | 05-NOV-2003
04 | MS | PEARL, CITY OF | 28121C0169E | 05-NOV-2003
04 | MS | PEARL, CITY OF | 28121C0186E | 05-NOV-2003
04 | MS | PEARL, CITY OF | 28121C0187E | 05-NOV-2003
04 | MS | PEARL, CITY OF | 28121C0188E | 05-NOV-2003
04 | MS | PEARL, CITY OF | 28121C0189E | 05-NOV-2003
04 | MS | PEARL, CITY OF | 28121C0191E | 05-NOV-2003
04 | MS | PEARL, CITY OF | 28121C0193E | 05-NOV-2003
04 | MS | PEARL, CITY OF | 28121C0307E | 05-NOV-2003
04 | MS | PEARL, CITY OF | 28121C0326E | 05-NOV-2003
04 | MS | PEARL, CITY OF | 28121C0330E | 05-NOV-2003
04 | MS | PEARL, CITY OF | 28121C0335E | 05-NOV-2003
04 | MS | PEARL, CITY OF | 28121CIND0A | 05-NOV-2003
04 | MS | PELAHATCHIE, TOWN OF | 28121C0230E | 05-NOV-2003
04 | MS | PELAHATCHIE, TOWN OF | 28121C0233E | 05-NOV-2003
04 | MS | PELAHATCHIE, TOWN OF | 28121C0234E | 05-NOV-2003
04 | MS | PELAHATCHIE, TOWN OF | 28121C0240E | 05-NOV-2003
04 | MS | PELAHATCHIE, TOWN OF | 28121C0241E | 05-NOV-2003
04 | MS | PELAHATCHIE, TOWN OF | 28121CIND0A | 05-NOV-2003
04 | MS | PUCKETT, TOWNSHIP OF | 28121C0510E | 05-NOV-2003
04 | MS | PUCKETT, TOWNSHIP OF | 28121CIND0A | 05-NOV-2003
04 | MS | RANKIN COUNTY * | 28121C0020E | 05-NOV-2003
04 | MS | RANKIN COUNTY * | 28121C0040E | 05-NOV-2003
04 | MS | RANKIN COUNTY * | 28121C0045E | 05-NOV-2003
04 | MS | RANKIN COUNTY * | 28121C0065E | 05-NOV-2003
04 | MS | RANKIN COUNTY * | 28121C0070E | 05-NOV-2003
04 | MS | RANKIN COUNTY * | 28121C0080E | 05-NOV-2003
04 | MS | RANKIN COUNTY * | 28121C0085E | 05-NOV-2003
04 | MS | RANKIN COUNTY * | 28121C0090E | 05-NOV-2003
04 | MS | RANKIN COUNTY * | 28121C0095E | 05-NOV-2003
04 | MS | RANKIN COUNTY * | 28121C0105E | 05-NOV-2003
04 | MS | RANKIN COUNTY * | 28121C0110E | 05-NOV-2003
04 | MS | RANKIN COUNTY * | 28121C0115E | 05-NOV-2003
04 | MS | RANKIN COUNTY * | 28121C0120E | 05-NOV-2003
04 | MS | RANKIN COUNTY * | 28121C0159E | 05-NOV-2003
04 | MS | RANKIN COUNTY * | 28121C0164E | 05-NOV-2003
04 | MS | RANKIN COUNTY * | 28121C0166E | 05-NOV-2003
04 | MS | RANKIN COUNTY * | 28121C0167E | 05-NOV-2003
04 | MS | RANKIN COUNTY * | 28121C0168E | 05-NOV-2003
04 | MS | RANKIN COUNTY * | 28121C0169E | 05-NOV-2003
04 | MS | RANKIN COUNTY * | 28121C0176E | 05-NOV-2003
04 | MS | RANKIN COUNTY * | 28121C0177E | 05-NOV-2003
04 | MS | RANKIN COUNTY * | 28121C0178E | 05-NOV-2003
04 | MS | RANKIN COUNTY * | 28121C0179E | 05-NOV-2003
04 | MS | RANKIN COUNTY * | 28121C0181E | 05-NOV-2003
04 | MS | RANKIN COUNTY * | 28121C0182E | 05-NOV-2003
04 | MS | RANKIN COUNTY * | 28121C0183E | 05-NOV-2003
04 | MS | RANKIN COUNTY * | 28121C0184E | 05-NOV-2003
04 | MS | RANKIN COUNTY * | 28121C0186E | 05-NOV-2003
04 | MS | RANKIN COUNTY * | 28121C0187E | 05-NOV-2003
04 | MS | RANKIN COUNTY * | 28121C0188E | 05-NOV-2003
04 | MS | RANKIN COUNTY * | 28121C0189E | 05-NOV-2003
04 | MS | RANKIN COUNTY * | 28121C0191E | 05-NOV-2003
04 | MS | RANKIN COUNTY * | 28121C0192E | 05-NOV-2003
04 | MS | RANKIN COUNTY * | 28121C0193E | 05-NOV-2003
04 | MS | RANKIN COUNTY * | 28121C0194E | 05-NOV-2003
04 | MS | RANKIN COUNTY * | 28121C0205E | 05-NOV-2003
04 | MS | RANKIN COUNTY * | 28121C0210E | 05-NOV-2003
04 | MS | RANKIN COUNTY * | 28121C0211E | 05-NOV-2003
04 | MS | RANKIN COUNTY * | 28121C0215E | 05-NOV-2003
04 | MS | RANKIN COUNTY * | 28121C0220E | 05-NOV-2003
04 | MS | RANKIN COUNTY * | 28121C0230E | 05-NOV-2003
04 | MS | RANKIN COUNTY * | 28121C0233E | 05-NOV-2003
04 | MS | RANKIN COUNTY * | 28121C0234E | 05-NOV-2003
04 | MS | RANKIN COUNTY * | 28121C0235E | 05-NOV-2003
04 | MS | RANKIN COUNTY * | 28121C0240E | 05-NOV-2003
04 | MS | RANKIN COUNTY * | 28121C0241E | 05-NOV-2003
04 | MS | RANKIN COUNTY * | 28121C0242E | 05-NOV-2003
04 | MS | RANKIN COUNTY * | 28121C0245E | 05-NOV-2003
04 | MS | RANKIN COUNTY * | 28121C0255E | 05-NOV-2003
04 | MS | RANKIN COUNTY * | 28121C0265E | 05-NOV-2003
04 | MS | RANKIN COUNTY * | 28121C0295E | 05-NOV-2003
04 | MS | RANKIN COUNTY * | 28121C0305E | 05-NOV-2003
04 | MS | RANKIN COUNTY * | 28121C0306E | 05-NOV-2003
04 | MS | RANKIN COUNTY * | 28121C0307E | 05-NOV-2003
04 | MS | RANKIN COUNTY * | 28121C0308E | 05-NOV-2003
04 | MS | RANKIN COUNTY * | 28121C0309E | 05-NOV-2003
04 | MS | RANKIN COUNTY * | 28121C0315E | 05-NOV-2003
04 | MS | RANKIN COUNTY * | 28121C0317E | 05-NOV-2003
04 | MS | RANKIN COUNTY * | 28121C0319E | 05-NOV-2003
04 | MS | RANKIN COUNTY * | 28121C0320E | 05-NOV-2003
04 | MS | RANKIN COUNTY * | 28121C0326E | 05-NOV-2003
04 | MS | RANKIN COUNTY * | 28121C0330E | 05-NOV-2003
04 | MS | RANKIN COUNTY * | 28121C0335E | 05-NOV-2003
04 | MS | RANKIN COUNTY * | 28121C0336E | 05-NOV-2003
04 | MS | RANKIN COUNTY * | 28121C0338E | 05-NOV-2003
04 | MS | RANKIN COUNTY * | 28121C0340E | 05-NOV-2003
04 | MS | RANKIN COUNTY * | 28121C0345E | 05-NOV-2003
04 | MS | RANKIN COUNTY * | 28121C0355E | 05-NOV-2003
04 | MS | RANKIN COUNTY * | 28121C0360E | 05-NOV-2003
04 | MS | RANKIN COUNTY * | 28121C0365E | 05-NOV-2003
04 | MS | RANKIN COUNTY * | 28121C0370E | 05-NOV-2003
04 | MS | RANKIN COUNTY * | 28121C0380E | 05-NOV-2003
04 | MS | RANKIN COUNTY * | 28121C0385E | 05-NOV-2003
04 | MS | RANKIN COUNTY * | 28121C0390E | 05-NOV-2003
04 | MS | RANKIN COUNTY * | 28121C0395E | 05-NOV-2003
04 | MS | RANKIN COUNTY * | 28121C0405E | 05-NOV-2003
04 | MS | RANKIN COUNTY * | 28121C0415E | 05-NOV-2003
04 | MS | RANKIN COUNTY * | 28121C0430E | 05-NOV-2003
04 | MS | RANKIN COUNTY * | 28121C0435E | 05-NOV-2003
04 | MS | RANKIN COUNTY * | 28121C0440E | 05-NOV-2003
04 | MS | RANKIN COUNTY * | 28121C0455E | 05-NOV-2003
04 | MS | RANKIN COUNTY * | 28121C0460E | 05-NOV-2003
04 | MS | RANKIN COUNTY * | 28121C0470E | 05-NOV-2003
04 | MS | RANKIN COUNTY * | 28121C0480E | 05-NOV-2003
04 | MS | RANKIN COUNTY * | 28121C0485E | 05-NOV-2003
04 | MS | RANKIN COUNTY * | 28121C0490E | 05-NOV-2003
04 | MS | RANKIN COUNTY * | 28121C0495E | 05-NOV-2003
04 | MS | RANKIN COUNTY * | 28121C0505E | 05-NOV-2003
04 | MS | RANKIN COUNTY * | 28121C0510E | 05-NOV-2003
04 | MS | RANKIN COUNTY * | 28121C0515E | 05-NOV-2003
04 | MS | RANKIN COUNTY * | 28121C0520E | 05-NOV-2003
04 | MS | RANKIN COUNTY * | 28121C0530E | 05-NOV-2003
04 | MS | RANKIN COUNTY * | 28121C0540E | 05-NOV-2003
04 | MS | RANKIN COUNTY * | 28121CIND0A | 05-NOV-2003
04 | MS | RICHLAND, CITY OF | 28121C0164E | 05-NOV-2003
04 | MS | RICHLAND, CITY OF | 28121C0168E | 05-NOV-2003
04 | MS | RICHLAND, CITY OF | 28121C0169E | 05-NOV-2003
04 | MS | RICHLAND, CITY OF | 28121C0306E | 05-NOV-2003
04 | MS | RICHLAND, CITY OF | 28121C0307E | 05-NOV-2003
04 | MS | RICHLAND, CITY OF | 28121C0308E | 05-NOV-2003
04 | MS | RICHLAND, CITY OF | 28121C0309E | 05-NOV-2003
04 | MS | RICHLAND, CITY OF | 28121CIND0A | 05-NOV-2003
04 | NC | ATLANTIC BEACH, TOWN OF | 37031CIND0A | 16-JUL-2003
04 | NC | ATLANTIC BEACH, TOWN OF | 3720636500J | 16-JUL-2003
04 | NC | ATLANTIC BEACH, TOWN OF | 3720637500J | 16-JUL-2003
04 | NC | ATLANTIC BEACH, TOWN OF | 3720638500J | 16-JUL-2003
04 | NC | ATLANTIC BEACH, TOWN OF | 3720639500J | 16-JUL-2003
04 | NC | BEAUFORT, TOWN OF | 37031CIND0A | 16-JUL-2003
04 | NC | BEAUFORT, TOWN OF | 3720639500J | 16-JUL-2003
04 | NC | BEAUFORT, TOWN OF | 3720639600J | 16-JUL-2003
04 | NC | BEAUFORT, TOWN OF | 3720730500J | 16-JUL-2003
04 | NC | BEAUFORT, TOWN OF | 3720730600J | 16-JUL-2003
04 | NC | BEAUFORT, TOWN OF | 3720730700J | 16-JUL-2003
04 | NC | BEAUFORT, TOWN OF | 3720731500J | 16-JUL-2003
04 | NC | BEAUFORT, TOWN OF | 3720731600J | 16-JUL-2003
04 | NC | BEAUFORT, TOWN OF | 3720731700J | 16-JUL-2003
04 | NC | BOGUE, TOWN OF | 37031CIND0A | 16-JUL-2003
04 | NC | BOGUE, TOWN OF | 3720538400J | 16-JUL-2003
04 | NC | BOGUE, TOWN OF | 3720538500J | 16-JUL-2003
04 | NC | BOGUE, TOWN OF | 3720539400J | 16-JUL-2003
04 | NC | BOGUE, TOWN OF | 3720539500J | 16-JUL-2003
04 | NC | CAPE CARTERET, TOWN OF | 37031CIND0A | 16-JUL-2003
04 | NC | CAPE CARTERET, TOWN OF | 3720537400J | 16-JUL-2003
04 | NC | CAPE CARTERET, TOWN OF | 3720538400J | 16-JUL-2003
04 | NC | CAPE CARTERET, TOWN OF | 3720538500J | 16-JUL-2003
04 | NC | CARTERET COUNTY * | 37031CIND0A | 16-JUL-2003
04 | NC | CARTERET COUNTY * | 3720534600J | 16-JUL-2003
04 | NC | CARTERET COUNTY * | 3720534800J | 16-JUL-2003
04 | NC | CARTERET COUNTY * | 3720536300J | 16-JUL-2003
04 | NC | CARTERET COUNTY * | 3720536400J | 16-JUL-2003
04 | NC | CARTERET COUNTY * | 3720536500J | 16-JUL-2003
04 | NC | CARTERET COUNTY * | 3720536600J | 16-JUL-2003
04 | NC | CARTERET COUNTY * | 3720536800J | 16-JUL-2003
04 | NC | CARTERET COUNTY * | 3720537200J | 16-JUL-2003
04 | NC | CARTERET COUNTY * | 3720537300J | 16-JUL-2003
04 | NC | CARTERET COUNTY * | 3720537400J | 16-JUL-2003
04 | NC | CARTERET COUNTY * | 3720537500J | 16-JUL-2003
04 | NC | CARTERET COUNTY * | 3720538300J | 16-JUL-2003
04 | NC | CARTERET COUNTY * | 3720538400J | 16-JUL-2003
04 | NC | CARTERET COUNTY * | 3720538500J | 16-JUL-2003
04 | NC | CARTERET COUNTY * | 3720538600J | 16-JUL-2003
04 | NC | CARTERET COUNTY * | 3720538800J | 16-JUL-2003
04 | NC | CARTERET COUNTY * | 3720539300J | 16-JUL-2003
04 | NC | CARTERET COUNTY * | 3720539400J | 16-JUL-2003
04 | NC | CARTERET COUNTY * | 3720539500J | 16-JUL-2003
04 | NC | CARTERET COUNTY * | 3720630300J | 16-JUL-2003
04 | NC | CARTERET COUNTY * | 3720630400J | 16-JUL-2003
04 | NC | CARTERET COUNTY * | 3720630500J | 16-JUL-2003
04 | NC | CARTERET COUNTY * | 3720630600J | 16-JUL-2003
04 | NC | CARTERET COUNTY * | 3720630800J | 16-JUL-2003
04 | NC | CARTERET COUNTY * | 3720631400J | 16-JUL-2003
04 | NC | CARTERET COUNTY * | 3720631500J | 16-JUL-2003
04 | NC | CARTERET COUNTY * | 3720632400J | 16-JUL-2003
04 | NC | CARTERET COUNTY * | 3720632500J | 16-JUL-2003
04 | NC | CARTERET COUNTY * | 3720632600J | 16-JUL-2003
04 | NC | CARTERET COUNTY * | 3720632700J | 16-JUL-2003
04 | NC | CARTERET COUNTY * | 3720632800J | 16-JUL-2003
04 | NC | CARTERET COUNTY * | 3720632900J | 16-JUL-2003
04 | NC | CARTERET COUNTY * | 3720633400J | 16-JUL-2003
04 | NC | CARTERET COUNTY * | 3720633500J | 16-JUL-2003
04 | NC | CARTERET COUNTY * | 3720633600J | 16-JUL-2003
04 | NC | CARTERET COUNTY * | 3720633700J | 16-JUL-2003
04 | NC | CARTERET COUNTY * | 3720633800J | 16-JUL-2003
04 | NC | CARTERET COUNTY * | 3720633900J | 16-JUL-2003
04 | NC | CARTERET COUNTY * | 3720634400J | 16-JUL-2003
04 | NC | CARTERET COUNTY * | 3720634500J | 16-JUL-2003
04 | NC | CARTERET COUNTY * | 3720634600J | 16-JUL-2003
04 | NC | CARTERET COUNTY * | 3720634700J | 16-JUL-2003
04 | NC | CARTERET COUNTY * | 3720634800J | 16-JUL-2003
04 | NC | CARTERET COUNTY * | 3720634900J | 16-JUL-2003
04 | NC | CARTERET COUNTY * | 3720635400J | 16-JUL-2003
04 | NC | CARTERET COUNTY * | 3720635500J | 16-JUL-2003
04 | NC | CARTERET COUNTY * | 3720635600J | 16-JUL-2003
04 | NC | CARTERET COUNTY * | 3720635700J | 16-JUL-2003
04 | NC | CARTERET COUNTY * | 3720635800J | 16-JUL-2003
04 | NC | CARTERET COUNTY * | 3720635900J | 16-JUL-2003
04 | NC | CARTERET COUNTY * | 3720636500J | 16-JUL-2003
04 | NC | CARTERET COUNTY * | 3720636600J | 16-JUL-2003
04 | NC | CARTERET COUNTY * | 3720636700J | 16-JUL-2003
04 | NC | CARTERET COUNTY * | 3720636800J | 16-JUL-2003
04 | NC | CARTERET COUNTY * | 3720637500J | 16-JUL-2003
04 | NC | CARTERET COUNTY * | 3720637600J | 16-JUL-2003
04 | NC | CARTERET COUNTY * | 3720637700J | 16-JUL-2003
04 | NC | CARTERET COUNTY * | 3720638500J | 16-JUL-2003
04 | NC | CARTERET COUNTY * | 3720638600J | 16-JUL-2003
04 | NC | CARTERET COUNTY * | 3720638700J | 16-JUL-2003
04 | NC | CARTERET COUNTY * | 3720638800J | 16-JUL-2003
04 | NC | CARTERET COUNTY * | 3720639500J | 16-JUL-2003
04 | NC | CARTERET COUNTY * | 3720639600J | 16-JUL-2003
04 | NC | CARTERET COUNTY * | 3720639700J | 16-JUL-2003
04 | NC | CARTERET COUNTY * | 3720646000J | 16-JUL-2003
04 | NC | CARTERET COUNTY * | 3720648000J | 16-JUL-2003
04 | NC | CARTERET COUNTY * | 3720648200J | 16-JUL-2003
04 | NC | CARTERET COUNTY * | 3720648400J | 16-JUL-2003
04 | NC | CARTERET COUNTY * | 3720730400J | 16-JUL-2003
04 | NC | CARTERET COUNTY * | 3720730500J | 16-JUL-2003
04 | NC | CARTERET COUNTY * | 3720730600J | 16-JUL-2003
04 | NC | CARTERET COUNTY * | 3720730700J | 16-JUL-2003
04 | NC | CARTERET COUNTY * | 3720730800J | 16-JUL-2003
04 | NC | CARTERET COUNTY * | 3720731400J | 16-JUL-2003
04 | NC | CARTERET COUNTY * | 3720731500J | 16-JUL-2003
04 | NC | CARTERET COUNTY * | 3720731600J | 16-JUL-2003
04 | NC | CARTERET COUNTY * | 3720731700J | 16-JUL-2003
04 | NC | CARTERET COUNTY * | 3720732300J | 16-JUL-2003
04 | NC | CARTERET COUNTY * | 3720732400J | 16-JUL-2003
04 | NC | CARTERET COUNTY * | 3720732500J | 16-JUL-2003
04 | NC | CARTERET COUNTY * | 3720732600J | 16-JUL-2003
04 | NC | CARTERET COUNTY * | 3720732700J | 16-JUL-2003
04 | NC | CARTERET COUNTY * | 3720732800J | 16-JUL-2003
04 | NC | CARTERET COUNTY * | 3720733100J | 16-JUL-2003
04 | NC | CARTERET COUNTY * | 3720733200J | 16-JUL-2003
04 | NC | CARTERET COUNTY * | 3720733300J | 16-JUL-2003
04 | NC | CARTERET COUNTY * | 3720733400J | 16-JUL-2003
04 | NC | CARTERET COUNTY * | 3720733500J | 16-JUL-2003
04 | NC | CARTERET COUNTY * | 3720733600J | 16-JUL-2003
04 | NC | CARTERET COUNTY * | 3720733700J | 16-JUL-2003
04 | NC | CARTERET COUNTY * | 3720734100J | 16-JUL-2003
04 | NC | CARTERET COUNTY * | 3720734200J | 16-JUL-2003
04 | NC | CARTERET COUNTY * | 3720734300J | 16-JUL-2003
04 | NC | CARTERET COUNTY * | 3720734400J | 16-JUL-2003
04 | NC | CARTERET COUNTY * | 3720734500J | 16-JUL-2003
04 | NC | CARTERET COUNTY * | 3720734600J | 16-JUL-2003
04 | NC | CARTERET COUNTY * | 3720734800J | 16-JUL-2003
04 | NC | CARTERET COUNTY * | 3720735300J | 16-JUL-2003
04 | NC | CARTERET COUNTY * | 3720735400J | 16-JUL-2003
04 | NC | CARTERET COUNTY * | 3720735500J | 16-JUL-2003
04 | NC | CARTERET COUNTY * | 3720736500J | 16-JUL-2003
04 | NC | CARTERET COUNTY * | 3720736600J | 16-JUL-2003
04 | NC | CARTERET COUNTY * | 3720736700J | 16-JUL-2003
04 | NC | CARTERET COUNTY * | 3720736800J | 16-JUL-2003
04 | NC | CARTERET COUNTY * | 3720737600J | 16-JUL-2003
04 | NC | CARTERET COUNTY * | 3720737700J | 16-JUL-2003
04 | NC | CARTERET COUNTY * | 3720738800J | 16-JUL-2003
04 | NC | CARTERET COUNTY * | 3720738900J | 16-JUL-2003
04 | NC | CARTERET COUNTY * | 3720739900J | 16-JUL-2003
04 | NC | CARTERET COUNTY * | 3720740000J | 16-JUL-2003
04 | NC | CARTERET COUNTY * | 3720740200J | 16-JUL-2003
04 | NC | CARTERET COUNTY * | 3720740400J | 16-JUL-2003
04 | NC | CARTERET COUNTY * | 3720742000J | 16-JUL-2003
04 | NC | CARTERET COUNTY * | 3720742200J | 16-JUL-2003
04 | NC | CARTERET COUNTY * | 3720742400J | 16-JUL-2003
04 | NC | CARTERET COUNTY * | 3720742600J | 16-JUL-2003
04 | NC | CARTERET COUNTY * | 3720744000J | 16-JUL-2003
04 | NC | CARTERET COUNTY * | 3720744200J | 16-JUL-2003
04 | NC | CARTERET COUNTY * | 3720744400J | 16-JUL-2003
04 | NC | CARTERET COUNTY * | 3720744600J | 16-JUL-2003
04 | NC | CARTERET COUNTY * | 3720744800J | 16-JUL-2003
04 | NC | CARTERET COUNTY * | 3720746000J | 16-JUL-2003
04 | NC | CARTERET COUNTY * | 3720746200J | 16-JUL-2003
04 | NC | CARTERET COUNTY * | 3720746400J | 16-JUL-2003
04 | NC | CARTERET COUNTY * | 3720746600J | 16-JUL-2003
04 | NC | CARTERET COUNTY * | 3720746800J | 16-JUL-2003
04 | NC | CARTERET COUNTY * | 3720748000J | 16-JUL-2003
04 | NC | CARTERET COUNTY * | 3720748100J | 16-JUL-2003
04 | NC | CARTERET COUNTY * | 3720748200J | 16-JUL-2003
04 | NC | CARTERET COUNTY * | 3720748300J | 16-JUL-2003
04 | NC | CARTERET COUNTY * | 3720748400J | 16-JUL-2003
04 | NC | CARTERET COUNTY * | 3720748500J | 16-JUL-2003
04 | NC | CARTERET COUNTY * | 3720748600J | 16-JUL-2003
04 | NC | CARTERET COUNTY * | 3720749000J | 16-JUL-2003
04 | NC | CARTERET COUNTY * | 3720749100J | 16-JUL-2003
04 | NC | CARTERET COUNTY * | 3720749200J | 16-JUL-2003
04 | NC | CARTERET COUNTY * | 3720749300J | 16-JUL-2003
04 | NC | CARTERET COUNTY * | 3720749400J | 16-JUL-2003
04 | NC | CARTERET COUNTY * | 3720749500J | 16-JUL-2003
04 | NC | CARTERET COUNTY * | 3720840000J | 16-JUL-2003
04 | NC | CARTERET COUNTY * | 3720840100J | 16-JUL-2003
04 | NC | CARTERET COUNTY * | 3720840200J | 16-JUL-2003
04 | NC | CARTERET COUNTY * | 3720840300J | 16-JUL-2003
04 | NC | CARTERET COUNTY * | 3720840400J | 16-JUL-2003
04 | NC | CARTERET COUNTY * | 3720840500J | 16-JUL-2003
04 | NC | CARTERET COUNTY * | 3720840600J | 16-JUL-2003
04 | NC | CARTERET COUNTY * | 3720840700J | 16-JUL-2003
04 | NC | CARTERET COUNTY * | 3720841100J | 16-JUL-2003
04 | NC | CARTERET COUNTY * | 3720841200J | 16-JUL-2003
04 | NC | CARTERET COUNTY * | 3720841300J | 16-JUL-2003
04 | NC | CARTERET COUNTY * | 3720841400J | 16-JUL-2003
04 | NC | CARTERET COUNTY * | 3720841500J | 16-JUL-2003
04 | NC | CARTERET COUNTY * | 3720841600J | 16-JUL-2003
04 | NC | CARTERET COUNTY * | 3720841700J | 16-JUL-2003
04 | NC | CARTERET COUNTY * | 3720842200J | 16-JUL-2003
04 | NC | CARTERET COUNTY * | 3720842300J | 16-JUL-2003
04 | NC | CARTERET COUNTY * | 3720842500J | 16-JUL-2003
04 | NC | CARTERET COUNTY * | 3720842600J | 16-JUL-2003
04 | NC | CARTERET COUNTY * | 3720843300J | 16-JUL-2003
04 | NC | CARTERET COUNTY * | 3720843400J | 16-JUL-2003
04 | NC | CARTERET COUNTY * | 3720843500J | 16-JUL-2003
04 | NC | CARTERET COUNTY * | 3720844400J | 16-JUL-2003
04 | NC | CARTERET COUNTY * | 3720844500J | 16-JUL-2003
04 | NC | CARTERET COUNTY * | 3720844600J | 16-JUL-2003
04 | NC | CARTERET COUNTY * | 3720845500J | 16-JUL-2003
04 | NC | CARTERET COUNTY * | 3720845600J | 16-JUL-2003
04 | NC | CARTERET COUNTY * | 3720845700J | 16-JUL-2003
04 | NC | CARTERET COUNTY * | 3720846600J | 16-JUL-2003
04 | NC | CARTERET COUNTY * | 3720846700J | 16-JUL-2003
04 | NC | CARTERET COUNTY * | 3720846800J | 16-JUL-2003
04 | NC | CARTERET COUNTY * | 3720847700J | 16-JUL-2003
04 | NC | CARTERET COUNTY * | 3720847800J | 16-JUL-2003
04 | NC | CARTERET COUNTY * | 3720847900J | 16-JUL-2003
04 | NC | CARTERET COUNTY * | 3720848800J | 16-JUL-2003
04 | NC | CARTERET COUNTY * | 3720848900K | 16-JUL-2003
04 | NC | CARTERET COUNTY * | 3720849900K | 16-JUL-2003
04 | NC | CEDAR POINT, TOWN OF | 37031CIND0A | 16-JUL-2003
04 | NC | CEDAR POINT, TOWN OF | 3720536400J | 16-JUL-2003
04 | NC | CEDAR POINT, TOWN OF | 3720537400J | 16-JUL-2003
04 | NC | CEDAR POINT, TOWN OF | 3720537500J | 16-JUL-2003
04 | NC | CEDAR POINT, TOWN OF | 3720538400J | 16-JUL-2003
04 | NC | CEDAR POINT, TOWN OF | 3720538500J | 16-JUL-2003
04 | NC | EMERALD ISLE, TOWN OF | 37031CIND0A | 16-JUL-2003
04 | NC | EMERALD ISLE, TOWN OF | 3720537200J | 16-JUL-2003
04 | NC | EMERALD ISLE, TOWN OF | 3720537300J | 16-JUL-2003
04 | NC | EMERALD ISLE, TOWN OF | 3720538300J | 16-JUL-2003
04 | NC | EMERALD ISLE, TOWN OF | 3720538400J | 16-JUL-2003
04 | NC | EMERALD ISLE, TOWN OF | 3720539300J | 16-JUL-2003
04 | NC | EMERALD ISLE, TOWN OF | 3720539400J | 16-JUL-2003
04 | NC | EMERALD ISLE, TOWN OF | 3720630300J | 16-JUL-2003
04 | NC | EMERALD ISLE, TOWN OF | 3720630400J | 16-JUL-2003
04 | NC | EMERALD ISLE, TOWN OF | 3720631400J | 16-JUL-2003
04 | NC | EMERALD ISLE, TOWN OF | 3720632400J | 16-JUL-2003
04 | NC | HYDE COUNTY * | 37095CIND0B | 16-JUL-2003
04 | NC | HYDE COUNTY * | 3720848900K | 16-JUL-2003
04 | NC | HYDE COUNTY * | 3720849900K | 16-JUL-2003
04 | NC | INDIAN BEACH, TOWN OF | 37031CIND0A | 16-JUL-2003
04 | NC | INDIAN BEACH, TOWN OF | 3720632400J | 16-JUL-2003
04 | NC | INDIAN BEACH, TOWN OF | 3720633400J | 16-JUL-2003
04 | NC | INDIAN BEACH, TOWN OF | 3720633500J | 16-JUL-2003
04 | NC | INDIAN BEACH, TOWN OF | 3720634400J | 16-JUL-2003
04 | NC | INDIAN BEACH, TOWN OF | 3720634500J | 16-JUL-2003
04 | NC | MOREHEAD CITY, TOWN OF | 37031CIND0A | 16-JUL-2003
04 | NC | MOREHEAD CITY, TOWN OF | 3720634600J | 16-JUL-2003
04 | NC | MOREHEAD CITY, TOWN OF | 3720634700J | 16-JUL-2003
04 | NC | MOREHEAD CITY, TOWN OF | 3720635600J | 16-JUL-2003
04 | NC | MOREHEAD CITY, TOWN OF | 3720635700J | 16-JUL-2003
04 | NC | MOREHEAD CITY, TOWN OF | 3720636600J | 16-JUL-2003
04 | NC | MOREHEAD CITY, TOWN OF | 3720636700J | 16-JUL-2003
04 | NC | MOREHEAD CITY, TOWN OF | 3720637600J | 16-JUL-2003
04 | NC | MOREHEAD CITY, TOWN OF | 3720637700J | 16-JUL-2003
04 | NC | MOREHEAD CITY, TOWN OF | 3720638500J | 16-JUL-2003
04 | NC | MOREHEAD CITY, TOWN OF | 3720638600J | 16-JUL-2003
04 | NC | MOREHEAD CITY, TOWN OF | 3720638700J | 16-JUL-2003
04 | NC | MOREHEAD CITY, TOWN OF | 3720639500J | 16-JUL-2003
04 | NC | MOREHEAD CITY, TOWN OF | 3720639600J | 16-JUL-2003
04 | NC | MOREHEAD CITY, TOWN OF | 3720639700J | 16-JUL-2003
04 | NC | NEWPORT, TOWN OF | 37031CIND0A | 16-JUL-2003
04 | NC | NEWPORT, TOWN OF | 3720632700J | 16-JUL-2003
04 | NC | NEWPORT, TOWN OF | 3720632800J | 16-JUL-2003
04 | NC | NEWPORT, TOWN OF | 3720632900J | 16-JUL-2003
04 | NC | NEWPORT, TOWN OF | 3720633600J | 16-JUL-2003
04 | NC | NEWPORT, TOWN OF | 3720633700J | 16-JUL-2003
04 | NC | NEWPORT, TOWN OF | 3720633800J | 16-JUL-2003
04 | NC | NEWPORT, TOWN OF | 3720633900J | 16-JUL-2003
04 | NC | NEWPORT, TOWN OF | 3720634600J | 16-JUL-2003
04 | NC | NEWPORT, TOWN OF | 3720634700J | 16-JUL-2003
04 | NC | NEWPORT, TOWN OF | 3720634800J | 16-JUL-2003
04 | NC | NEWPORT, TOWN OF | 3720634900J | 16-JUL-2003
04 | NC | NEWPORT, TOWN OF | 3720635700J | 16-JUL-2003
04 | NC | NEWPORT, TOWN OF | 3720635800J | 16-JUL-2003
04 | NC | NEWPORT, TOWN OF | 3720635900J | 16-JUL-2003
04 | NC | NEWPORT, TOWN OF | 3720636800J | 16-JUL-2003
04 | NC | PELETIER, TOWN OF | 37031CIND0A | 16-JUL-2003
04 | NC | PELETIER, TOWN OF | 3720536600J | 16-JUL-2003
04 | NC | PELETIER, TOWN OF | 3720537500J | 16-JUL-2003
04 | NC | PELETIER, TOWN OF | 3720538500J | 16-JUL-2003
04 | NC | PELETIER, TOWN OF | 3720538600J | 16-JUL-2003
04 | NC | PINE KNOLL SHORES, TOWN OF | 37031CIND0A | 16-JUL-2003
04 | NC | PINE KNOLL SHORES, TOWN OF | 3720634400J | 16-JUL-2003
04 | NC | PINE KNOLL SHORES, TOWN OF | 3720634500J | 16-JUL-2003
04 | NC | PINE KNOLL SHORES, TOWN OF | 3720635400J | 16-JUL-2003
04 | NC | PINE KNOLL SHORES, TOWN OF | 3720635500J | 16-JUL-2003
04 | NC | PINE KNOLL SHORES, TOWN OF | 3720636500J | 16-JUL-2003
04 | NC | SCOTLAND COUNTY * | 3710842000K | 16-DEC-2003
04 | NC | SCOTLAND COUNTY * | 3710842200K | 16-DEC-2003
04 | NC | SCOTLAND COUNTY * | 3710842400K | 16-DEC-2003
04 | NC | SCOTLAND COUNTY * | 3710846000K | 16-DEC-2003
04 | NC | SCOTLAND COUNTY * | 3710846200K | 16-DEC-2003
04 | NC | SCOTLAND COUNTY * | 3710848000K | 16-DEC-2003
04 | NC | SCOTLAND COUNTY * | 37165CIND0B | 16-DEC-2003
04 | NC | WAGRAM, TOWN OF | 3710848000K | 16-DEC-2003
04 | NC | WAGRAM, TOWN OF | 37165CIND0B | 16-DEC-2003
04 | SC | BERKELEY COUNTY * | 45015C0025D | 16-OCT-2003
04 | SC | BERKELEY COUNTY * | 45015C0050D | 16-OCT-2003
04 | SC | BERKELEY COUNTY * | 45015C0075D | 16-OCT-2003
04 | SC | BERKELEY COUNTY * | 45015C0095D | 16-OCT-2003
04 | SC | BERKELEY COUNTY * | 45015C0100D | 16-OCT-2003
04 | SC | BERKELEY COUNTY * | 45015C0105D | 16-OCT-2003
04 | SC | BERKELEY COUNTY * | 45015C0110D | 16-OCT-2003
04 | SC | BERKELEY COUNTY * | 45015C0115D | 16-OCT-2003
04 | SC | BERKELEY COUNTY * | 45015C0120D | 16-OCT-2003
04 | SC | BERKELEY COUNTY * | 45015C0150D | 16-OCT-2003
04 | SC | BERKELEY COUNTY * | 45015C0175D | 16-OCT-2003
04 | SC | BERKELEY COUNTY * | 45015C0200D | 16-OCT-2003
04 | SC | BERKELEY COUNTY * | 45015C0225D | 16-OCT-2003
04 | SC | BERKELEY COUNTY * | 45015C0230D | 16-OCT-2003
04 | SC | BERKELEY COUNTY * | 45015C0235D | 16-OCT-2003
04 | SC | BERKELEY COUNTY * | 45015C0240D | 16-OCT-2003
04 | SC | BERKELEY COUNTY * | 45015C0245D | 16-OCT-2003
04 | SC | BERKELEY COUNTY * | 45015C0275D | 16-OCT-2003
04 | SC | BERKELEY COUNTY * | 45015C0300D | 16-OCT-2003
04 | SC | BERKELEY COUNTY * | 45015C0325D | 16-OCT-2003
04 | SC | BERKELEY COUNTY * | 45015C0350D | 16-OCT-2003
04 | SC | BERKELEY COUNTY * | 45015C0365D | 16-OCT-2003
04 | SC | BERKELEY COUNTY * | 45015C0370D | 16-OCT-2003
04 | SC | BERKELEY COUNTY * | 45015C0375D | 16-OCT-2003
04 | SC | BERKELEY COUNTY * | 45015C0380D | 16-OCT-2003
04 | SC | BERKELEY COUNTY * | 45015C0385D | 16-OCT-2003
04 | SC | BERKELEY COUNTY * | 45015C0390D | 16-OCT-2003
04 | SC | BERKELEY COUNTY * | 45015C0395D | 16-OCT-2003
04 | SC | BERKELEY COUNTY * | 45015C0405D | 16-OCT-2003
04 | SC | BERKELEY COUNTY * | 45015C0410D | 16-OCT-2003
04 | SC | BERKELEY COUNTY * | 45015C0415D | 16-OCT-2003
04 | SC | BERKELEY COUNTY * | 45015C0420D | 16-OCT-2003
04 | SC | BERKELEY COUNTY * | 45015C0440D | 16-OCT-2003
04 | SC | BERKELEY COUNTY * | 45015C0445D | 16-OCT-2003
04 | SC | BERKELEY COUNTY * | 45015C0450D | 16-OCT-2003
04 | SC | BERKELEY COUNTY * | 45015C0475D | 16-OCT-2003
04 | SC | BERKELEY COUNTY * | 45015C0500D | 16-OCT-2003
04 | SC | BERKELEY COUNTY * | 45015C0525D | 16-OCT-2003
04 | SC | BERKELEY COUNTY * | 45015C0535D | 16-OCT-2003
04 | SC | BERKELEY COUNTY * | 45015C0555D | 16-OCT-2003
04 | SC | BERKELEY COUNTY * | 45015C0560D | 16-OCT-2003
04 | SC | BERKELEY COUNTY * | 45015C0570D | 16-OCT-2003
04 | SC | BERKELEY COUNTY * | 45015C0580D | 16-OCT-2003
04 | SC | BERKELEY COUNTY * | 45015C0585D | 16-OCT-2003
04 | SC | BERKELEY COUNTY * | 45015C0590D | 16-OCT-2003
04 | SC | BERKELEY COUNTY * | 45015C0595D | 16-OCT-2003
04 | SC | BERKELEY COUNTY * | 45015C0605D | 16-OCT-2003
04 | SC | BERKELEY COUNTY * | 45015C0610D | 16-OCT-2003
04 | SC | BERKELEY COUNTY * | 45015C0615D | 16-OCT-2003
04 | SC | BERKELEY COUNTY * | 45015C0620D | 16-OCT-2003
04 | SC | BERKELEY COUNTY * | 45015C0630D | 16-OCT-2003
04 | SC | BERKELEY COUNTY * | 45015C0635D | 16-OCT-2003
04 | SC | BERKELEY COUNTY * | 45015C0640D | 16-OCT-2003
04 | SC | BERKELEY COUNTY * | 45015C0645D | 16-OCT-2003
04 | SC | BERKELEY COUNTY * | 45015C0675D | 16-OCT-2003
04 | SC | BERKELEY COUNTY * | 45015C0680D | 16-OCT-2003
04 | SC | BERKELEY COUNTY * | 45015C0685D | 16-OCT-2003
04 | SC | BERKELEY COUNTY * | 45015C0695D | 16-OCT-2003
04 | SC | BERKELEY COUNTY * | 45015C0705D | 16-OCT-2003
04 | SC | BERKELEY COUNTY * | 45015C0710D | 16-OCT-2003
04 | SC | BERKELEY COUNTY * | 45015C0714D | 16-OCT-2003
04 | SC | BERKELEY COUNTY * | 45015C0715D | 16-OCT-2003
04 | SC | BERKELEY COUNTY * | 45015C0716D | 16-OCT-2003
04 | SC | BERKELEY COUNTY * | 45015C0717D | 16-OCT-2003
04 | SC | BERKELEY COUNTY * | 45015C0718D | 16-OCT-2003
04 | SC | BERKELEY COUNTY * | 45015C0719D | 16-OCT-2003
04 | SC | BERKELEY COUNTY * | 45015C0730D | 16-OCT-2003
04 | SC | BERKELEY COUNTY * | 45015C0735D | 16-OCT-2003
04 | SC | BERKELEY COUNTY * | 45015C0736D | 16-OCT-2003
04 | SC | BERKELEY COUNTY * | 45015C0736D | 16-OCT-2003
04 | SC | BERKELEY COUNTY * | 45015C0738D | 16-OCT-2003
04 | SC | BERKELEY COUNTY * | 45015C0739D | 16-OCT-2003
04 | SC | BERKELEY COUNTY * | 45015C0745D | 16-OCT-2003
04 | SC | BERKELEY COUNTY * | 45015C0752D | 16-OCT-2003
04 | SC | BERKELEY COUNTY * | 45015C0756D | 16-OCT-2003
04 | SC | BERKELEY COUNTY * | 45015C0757D | 16-OCT-2003
04 | SC | BERKELEY COUNTY * | 45015C0758D | 16-OCT-2003
04 | SC | BERKELEY COUNTY * | 45015C0759D | 16-OCT-2003
04 | SC | BERKELEY COUNTY * | 45015C0776D | 16-OCT-2003
04 | SC | BERKELEY COUNTY * | 45015CIND0A | 16-OCT-2003
04 | SC | BONNEAU, TOWN OF | 45015C0230D | 16-OCT-2003
04 | SC | BONNEAU, TOWN OF | 45015C0240D | 16-OCT-2003
04 | SC | BONNEAU, TOWN OF | 45015CIND0A | 16-OCT-2003
04 | SC | CHARLESTON, CITY OF | 45015C0710D | 16-OCT-2003
04 | SC | CHARLESTON, CITY OF | 45015C0714D | 16-OCT-2003
04 | SC | CHARLESTON, CITY OF | 45015C0715D | 16-OCT-2003
04 | SC | CHARLESTON, CITY OF | 45015C0716D | 16-OCT-2003
04 | SC | CHARLESTON, CITY OF | 45015C0717D | 16-OCT-2003
04 | SC | CHARLESTON, CITY OF | 45015C0718D | 16-OCT-2003
04 | SC | CHARLESTON, CITY OF | 45015C0719D | 16-OCT-2003
04 | SC | CHARLESTON, CITY OF | 45015C0730D | 16-OCT-2003
04 | SC | CHARLESTON, CITY OF | 45015C0735D | 16-OCT-2003
04 | SC | CHARLESTON, CITY OF | 45015C0736D | 16-OCT-2003
04 | SC | CHARLESTON, CITY OF | 45015C0737D | 16-OCT-2003
04 | SC | CHARLESTON, CITY OF | 45015C0738D | 16-OCT-2003
04 | SC | CHARLESTON, CITY OF | 45015C0739D | 16-OCT-2003
04 | SC | CHARLESTON, CITY OF | 45015C0745D | 16-OCT-2003
04 | SC | CHARLESTON, CITY OF | 45015C0752D | 16-OCT-2003
04 | SC | CHARLESTON, CITY OF | 45015C0756D | 16-OCT-2003
04 | SC | CHARLESTON, CITY OF | 45015C0757D | 16-OCT-2003
04 | SC | CHARLESTON, CITY OF | 45015C0758D | 16-OCT-2003
04 | SC | CHARLESTON, CITY OF | 45015C0759D | 16-OCT-2003
04 | SC | CHARLESTON, CITY OF | 45015C0776D | 16-OCT-2003
04 | SC | CHARLESTON, CITY OF | 45015CIND0A | 16-OCT-2003
04 | SC | FAIRFAX, TOWN OF | 4500100001B | 01-JUL-2003
04 | SC | FAIRFAX, TOWN OF | 4500100002B | 01-JUL-2003
04 | SC | GOOSE CREEK, CITY OF | 45015C0590D | 16-OCT-2003
04 | SC | GOOSE CREEK, CITY OF | 45015C0595D | 16-OCT-2003
04 | SC | GOOSE CREEK, CITY OF | 45015C0615D | 16-OCT-2003
04 | SC | GOOSE CREEK, CITY OF | 45015C0620D | 16-OCT-2003
04 | SC | GOOSE CREEK, CITY OF | 45015C0680D | 16-OCT-2003
04 | SC | GOOSE CREEK, CITY OF | 45015C0685D | 16-OCT-2003
04 | SC | GOOSE CREEK, CITY OF | 45015C0705D | 16-OCT-2003
04 | SC | GOOSE CREEK, CITY OF | 45015C0710D | 16-OCT-2003
04 | SC | GOOSE CREEK, CITY OF | 45015C0715D | 16-OCT-2003
04 | SC | GOOSE CREEK, CITY OF | 45015C0716D | 16-OCT-2003
04 | SC | GOOSE CREEK, CITY OF | 45015CIND0A | 16-OCT-2003
04 | SC | HANAHAN, CITY OF | 45015C0685D | 16-OCT-2003
04 | SC | HANAHAN, CITY OF | 45015C0695D | 16-OCT-2003
04 | SC | HANAHAN, CITY OF | 45015C0705D | 16-OCT-2003
04 | SC | HANAHAN, CITY OF | 45015C0715D | 16-OCT-2003
04 | SC | HANAHAN, CITY OF | 45015CIND0A | 16-OCT-2003
04 | SC | HORRY COUNTY * | 45051C0225J | 17-SEP-2003
04 | SC | HORRY COUNTY * | 45051C0250J | 17-SEP-2003
04 | SC | HORRY COUNTY * | 45051C0395J | 17-SEP-2003
04 | SC | HORRY COUNTY * | 45051C0405J | 17-SEP-2003
04 | SC | HORRY COUNTY * | 45051C0410J | 17-SEP-2003
04 | SC | HORRY COUNTY * | 45051C0415J | 17-SEP-2003
04 | SC | HORRY COUNTY * | 45051C0420J | 17-SEP-2003
04 | SC | HORRY COUNTY * | 45051C0560J | 17-SEP-2003
04 | SC | HORRY COUNTY * | 45051C0580J | 17-SEP-2003
04 | SC | HORRY COUNTY * | 45051CIND0A | 17-SEP-2003
04 | SC | JAMESTOWN, TOWN OF | 45015C0300D | 16-OCT-2003
04 | SC | JAMESTOWN, TOWN OF | 45015CIND0A | 16-OCT-2003
04 | SC | LANCASTER COUNTY * | 4501200170B | 19-NOV-2003
04 | SC | LANCASTER COUNTY * | 4501200275C | 19-NOV-2003
04 | SC | LANCASTER COUNTY * | 4501200300C | 19-NOV-2003
04 | SC | LANCASTER COUNTY * | 450120IND0A | 19-NOV-2003
04 | SC | LORIS, CITY OF | 45051C0225J | 17-SEP-2003
04 | SC | LORIS, CITY OF | 45051C0250J | 17-SEP-2003
04 | SC | LORIS, CITY OF | 45051CIND0A | 17-SEP-2003
04 | SC | MONCKS CORNER, TOWN OF | 45015C0385D | 16-OCT-2003
04 | SC | MONCKS CORNER, TOWN OF | 45015C0395D | 16-OCT-2003
04 | SC | MONCKS CORNER, TOWN OF | 45015C0405D | 16-OCT-2003
04 | SC | MONCKS CORNER, TOWN OF | 45015C0415D | 16-OCT-2003
04 | SC | MONCKS CORNER, TOWN OF | 45015CIND0A | 16-OCT-2003
04 | SC | ST. STEPHEN, TOWN OF | 45015C0115D | 16-OCT-2003
04 | SC | ST. STEPHEN, TOWN OF | 45015C0120D | 16-OCT-2003
04 | SC | ST. STEPHEN, TOWN OF | 45015CIND0A | 16-OCT-2003
04 | TN | ROCKWOOD, CITY OF | 475443IND0A | 04-AUG-2003
04 | TN | ROCKWOOD, CITY OF | 4754430002B | 04-AUG-2003
04 | TN | ROCKWOOD, CITY OF | 4754430003B | 04-AUG-2003
04 | TN | ROCKWOOD, CITY OF | 4754430004B | 04-AUG-2003
04 | TN | ROCKWOOD, CITY OF | 4754430005B | 04-AUG-2003
04 | TN | ROCKWOOD, CITY OF | 4754430006B | 04-AUG-2003
05 | IL | ALORTON, VILLAGE OF | 17163C0160D | 05-NOV-2003
05 | IL | ALORTON, VILLAGE OF | 17163C0180D | 05-NOV-2003
05 | IL | ALORTON, VILLAGE OF | 17163CIND0A** | 05-NOV-2003
05 | IL | BELLEVILLE, CITY OF | 17163C0180D | 05-NOV-2003
05 | IL | BELLEVILLE, CITY OF | 17163C0185D | 05-NOV-2003
05 | IL | BELLEVILLE, CITY OF | 17163C0190D | 05-NOV-2003
05 | IL | BELLEVILLE, CITY OF | 17163C0195D | 05-NOV-2003
05 | IL | BELLEVILLE, CITY OF | 17163C0213D | 05-NOV-2003
05 | IL | BELLEVILLE, CITY OF | 17163C0215D | 05-NOV-2003
05 | IL | BELLEVILLE, CITY OF | 17163C0220D | 05-NOV-2003
05 | IL | BELLEVILLE, CITY OF | 17163C0310D | 05-NOV-2003
05 | IL | BELLEVILLE, CITY OF | 17163C0330D | 05-NOV-2003
05 | IL | BELLEVILLE, CITY OF | 17163C0335D | 05-NOV-2003
05 | IL | BELLEVILLE, CITY OF | 17163CIND0A** | 05-NOV-2003
05 | IL | BROOKLYN, VILLAGE OF | 17163C0020D | 05-NOV-2003
05 | IL | BROOKLYN, VILLAGE OF | 17163CIND0A** | 05-NOV-2003
05 | IL | CAHOKIA, VILLAGE OF | 17163C0155D | 05-NOV-2003
05 | IL | CAHOKIA, VILLAGE OF | 17163C0160D | 05-NOV-2003
05 | IL | CAHOKIA, VILLAGE OF | 17163C0165D | 05-NOV-2003
05 | IL | CAHOKIA, VILLAGE OF | 17163C0170D | 05-NOV-2003
05 | IL | CAHOKIA, VILLAGE OF | 17163C0190D | 05-NOV-2003
05 | IL | CAHOKIA, VILLAGE OF | 17163CIND0A** | 05-NOV-2003
05 | IL | CASEYVILLE, VILLAGE OF | 17163C0043D | 05-NOV-2003
05 | IL | CASEYVILLE, VILLAGE OF | 17163C0044D | 05-NOV-2003
05 | IL | CASEYVILLE, VILLAGE OF | 17163C0065D | 05-NOV-2003
05 | IL | CASEYVILLE, VILLAGE OF | 17163C0185D | 05-NOV-2003
05 | IL | CASEYVILLE, VILLAGE OF | 17163CIND0A** | 05-NOV-2003
05 | IL | CENTREVILLE, CITY OF | 17163C0160D | 05-NOV-2003
05 | IL | CENTREVILLE, CITY OF | 17163C0180D | 05-NOV-2003
05 | IL | CENTREVILLE, CITY OF | 17163C0190D | 05-NOV-2003
05 | IL | CENTREVILLE, CITY OF | 17163CIND0A** | 05-NOV-2003
05 | IL | DUPO, VILLAGE OF | 17163C0165D | 05-NOV-2003
05 | IL | DUPO, VILLAGE OF | 17163C0280D | 05-NOV-2003
05 | IL | DUPO, VILLAGE OF | 17163CIND0A** | 05-NOV-2003
05 | IL | EAST CARONDELET, VILLAGE OF | 17163C0145D | 05-NOV-2003
05 | IL | EAST CARONDELET, VILLAGE OF | 17163C0165D | 05-NOV-2003
05 | IL | EAST CARONDELET, VILLAGE OF | 17163CIND0A** | 05-NOV-2003
05 | IL | EAST ST. LOUIS, CITY OF | 17163C0020D | 05-NOV-2003
05 | IL | EAST ST. LOUIS, CITY OF | 17163C0038D | 05-NOV-2003
05 | IL | EAST ST. LOUIS, CITY OF | 17163C0160D | 05-NOV-2003
05 | IL | EAST ST. LOUIS, CITY OF | 17163C0180D | 05-NOV-2003
05 | IL | EAST ST. LOUIS, CITY OF | 17163C0185D | 05-NOV-2003
05 | IL | EAST ST. LOUIS, CITY OF | 17163CIND0A** | 05-NOV-2003
05 | IL | FAIRMONT CITY, VILLAGE OF | 17163C0038D | 05-NOV-2003
05 | IL | FAIRMONT CITY, VILLAGE OF | 17163C0039D | 05-NOV-2003
05 | IL | FAIRMONT CITY, VILLAGE OF | 17163C0040D | 05-NOV-2003
05 | IL | FAIRMONT CITY, VILLAGE OF | 17163CIND0A** | 05-NOV-2003
05 | IL | FAIRVIEW HGTS., CITY OF | 17163C0185D | 05-NOV-2003
05 | IL | FAIRVIEW HGTS., CITY OF | 17163C0201D | 05-NOV-2003
05 | IL | FAIRVIEW HGTS., CITY OF | 17163C0203D | 05-NOV-2003
05 | IL | FAIRVIEW HGTS., CITY OF | 17163C0205D | 05-NOV-2003
05 | IL | FAIRVIEW HGTS., CITY OF | 17163CIND0A** | 05-NOV-2003
05 | IL | FAYETTEVILLE, VILLAGE OF | 17163C0370D | 05-NOV-2003
05 | IL | FAYETTEVILLE, VILLAGE OF | 17163C0460D | 05-NOV-2003
05 | IL | FAYETTEVILLE, VILLAGE OF | 17163CIND0A** | 05-NOV-2003
05 | IL | FREEBURG, VILLAGE OF | 17163C0335D | 05-NOV-2003
05 | IL | FREEBURG, VILLAGE OF | 17163C0345D | 05-NOV-2003
05 | IL | FREEBURG, VILLAGE OF | 17163CIND0A** | 05-NOV-2003
05 | IL | LEBANON, CITY OF | 17163C0230D | 05-NOV-2003
05 | IL | LEBANON, CITY OF | 17163C0235D | 05-NOV-2003
05 | IL | LEBANON, CITY OF | 17163CIND0A** | 05-NOV-2003
05 | IL | LENZBURG, VILLAGE OF | 17163C0465D | 05-NOV-2003
05 | IL | LENZBURG, VILLAGE OF | 17163C0470D | 05-NOV-2003
05 | IL | LENZBURG, VILLAGE OF | 17163CIND0A** | 05-NOV-2003
05 | IL | MARISSA, VILLAGE OF | 17163C0470D | 05-NOV-2003
05 | IL | MARISSA, VILLAGE OF | 17163C0490D | 05-NOV-2003
05 | IL | MARISSA, VILLAGE OF | 17163C0535D | 05-NOV-2003
05 | IL | MARISSA, VILLAGE OF | 17163C0555D | 05-NOV-2003
05 | IL | MARISSA, VILLAGE OF | 17163CIND0A** | 05-NOV-2003
05 | IL | MASCOUTAH, CITY OF | 17163C0240D | 05-NOV-2003
05 | IL | MASCOUTAH, CITY OF | 17163C0245D | 05-NOV-2003
05 | IL | MASCOUTAH, CITY OF | 17163C0355D | 05-NOV-2003
05 | IL | MASCOUTAH, CITY OF | 17163C0360D | 05-NOV-2003
05 | IL | MASCOUTAH, CITY OF | 17163CIND0A** | 05-NOV-2003
05 | IL | MILLSTADT, VILLAGE OF | 17163C0305D | 05-NOV-2003
05 | IL | MILLSTADT, VILLAGE OF | 17163CIND0A** | 05-NOV-2003
05 | IL | MONMOUTH, CITY OF | 1706760002C | 05-NOV-2003
05 | IL | MONMOUTH, CITY OF | 1706760005C | 05-NOV-2003
05 | IL | MONMOUTH, CITY OF | 170676IND0A** | 05-NOV-2003
05 | IL | NEW ATHENS, VILLAGE OF | 17163C0435D | 05-NOV-2003
05 | IL | NEW ATHENS, VILLAGE OF | 17163C0445D | 05-NOV-2003
05 | IL | NEW ATHENS, VILLAGE OF | 17163C0455D | 05-NOV-2003
05 | IL | NEW ATHENS, VILLAGE OF | 17163C0465D | 05-NOV-2003
05 | IL | NEW ATHENS, VILLAGE OF | 17163CIND0A** | 05-NOV-2003
05 | IL | OFALLON, CITY OF | 17163C0205D | 05-NOV-2003
05 | IL | OFALLON, CITY OF | 17163C0206D | 05-NOV-2003
05 | IL | OFALLON, CITY OF | 17163C0210D | 05-NOV-2003
05 | IL | OFALLON, CITY OF | 17163C0220D | 05-NOV-2003
05 | IL | OFALLON, CITY OF | 17163C0230D | 05-NOV-2003
05 | IL | OFALLON, CITY OF | 17163C0240D | 05-NOV-2003
05 | IL | OFALLON, CITY OF | 17163CIND0A** | 05-NOV-2003
05 | IL | SAUGET, VILLAGE OF | 17163C0155D | 05-NOV-2003
05 | IL | SAUGET, VILLAGE OF | 17163C0160D | 05-NOV-2003
05 | IL | SAUGET, VILLAGE OF | 17163CIND0A** | 05-NOV-2003
05 | IL | SHILOH, VILLAGE OF | 17163C0205D | 05-NOV-2003
05 | IL | SHILOH, VILLAGE OF | 17163C0210D | 05-NOV-2003
05 | IL | SHILOH, VILLAGE OF | 17163C0215D | 05-NOV-2003
05 | IL | SHILOH, VILLAGE OF | 17163C0220D | 05-NOV-2003
05 | IL | SHILOH, VILLAGE OF | 17163C0240D | 05-NOV-2003
05 | IL | SHILOH, VILLAGE OF | 17163CIND0A** | 05-NOV-2003
05 | IL | SMITHTON, VILLAGE OF | 17163C0320D | 05-NOV-2003
05 | IL | SMITHTON, VILLAGE OF | 17163C0340D | 05-NOV-2003
05 | IL | SMITHTON, VILLAGE OF | 17163C0410D | 05-NOV-2003
05 | IL | SMITHTON, VILLAGE OF | 17163C0430D | 05-NOV-2003
05 | IL | SMITHTON, VILLAGE OF | 17163CIND0A** | 05-NOV-2003
05 | IL | ST. CLAIR COUNTY * | 17163C0020D | 05-NOV-2003
05 | IL | ST. CLAIR COUNTY * | 17163C0038D | 05-NOV-2003
05 | IL | ST. CLAIR COUNTY * | 17163C0039D | 05-NOV-2003
05 | IL | ST. CLAIR COUNTY * | 17163C0040D | 05-NOV-2003
05 | IL | ST. CLAIR COUNTY * | 17163C0043D | 05-NOV-2003
05 | IL | ST. CLAIR COUNTY * | 17163C0044D | 05-NOV-2003
05 | IL | ST. CLAIR COUNTY * | 17163C0045D | 05-NOV-2003
05 | IL | ST. CLAIR COUNTY * | 17163C0065D | 05-NOV-2003
05 | IL | ST. CLAIR COUNTY * | 17163C0070D | 05-NOV-2003
05 | IL | ST. CLAIR COUNTY * | 17163C0090D | 05-NOV-2003
05 | IL | ST. CLAIR COUNTY * | 17163C0095D | 05-NOV-2003
05 | IL | ST. CLAIR COUNTY * | 17163C0115D | 05-NOV-2003
05 | IL | ST. CLAIR COUNTY * | 17163C0145D | 05-NOV-2003
05 | IL | ST. CLAIR COUNTY * | 17163C0155D | 05-NOV-2003
05 | IL | ST. CLAIR COUNTY * | 17163C0160D | 05-NOV-2003
05 | IL | ST. CLAIR COUNTY * | 17163C0165D | 05-NOV-2003
05 | IL | ST. CLAIR COUNTY * | 17163C0170D | 05-NOV-2003
05 | IL | ST. CLAIR COUNTY * | 17163C0180D | 05-NOV-2003
05 | IL | ST. CLAIR COUNTY * | 17163C0185D | 05-NOV-2003
05 | IL | ST. CLAIR COUNTY * | 17163C0190D | 05-NOV-2003
05 | IL | ST. CLAIR COUNTY * | 17163C0195D | 05-NOV-2003
05 | IL | ST. CLAIR COUNTY * | 17163C0201D | 05-NOV-2003
05 | IL | ST. CLAIR COUNTY * | 17163C0203D | 05-NOV-2003
05 | IL | ST. CLAIR COUNTY * | 17163C0205D | 05-NOV-2003
05 | IL | ST. CLAIR COUNTY * | 17163C0206D | 05-NOV-2003
05 | IL | ST. CLAIR COUNTY * | 17163C0210D | 05-NOV-2003
05 | IL | ST. CLAIR COUNTY * | 17163C0213D | 05-NOV-2003
05 | IL | ST. CLAIR COUNTY * | 17163C0215D | 05-NOV-2003
05 | IL | ST. CLAIR COUNTY * | 17163C0220D | 05-NOV-2003
05 | IL | ST. CLAIR COUNTY * | 17163C0230D | 05-NOV-2003
05 | IL | ST. CLAIR COUNTY * | 17163C0235D | 05-NOV-2003
05 | IL | ST. CLAIR COUNTY * | 17163C0240D | 05-NOV-2003
05 | IL | ST. CLAIR COUNTY * | 17163C0245D | 05-NOV-2003
05 | IL | ST. CLAIR COUNTY * | 17163C0255D | 05-NOV-2003
05 | IL | ST. CLAIR COUNTY * | 17163C0280D | 05-NOV-2003
05 | IL | ST. CLAIR COUNTY * | 17163C0285D | 05-NOV-2003
05 | IL | ST. CLAIR COUNTY * | 17163C0295D | 05-NOV-2003
05 | IL | ST. CLAIR COUNTY * | 17163C0305D | 05-NOV-2003
05 | IL | ST. CLAIR COUNTY * | 17163C0310D | 05-NOV-2003
05 | IL | ST. CLAIR COUNTY * | 17163C0315D | 05-NOV-2003
05 | IL | ST. CLAIR COUNTY * | 17163C0320D | 05-NOV-2003
05 | IL | ST. CLAIR COUNTY * | 17163C0330D | 05-NOV-2003
05 | IL | ST. CLAIR COUNTY * | 17163C0335D | 05-NOV-2003
05 | IL | ST. CLAIR COUNTY * | 17163C0340D | 05-NOV-2003
05 | IL | ST. CLAIR COUNTY * | 17163C0345D | 05-NOV-2003
05 | IL | ST. CLAIR COUNTY * | 17163C0355D | 05-NOV-2003
05 | IL | ST. CLAIR COUNTY * | 17163C0360D | 05-NOV-2003
05 | IL | ST. CLAIR COUNTY * | 17163C0365D | 05-NOV-2003
05 | IL | ST. CLAIR COUNTY * | 17163C0370D | 05-NOV-2003
05 | IL | ST. CLAIR COUNTY * | 17163C0380D | 05-NOV-2003
05 | IL | ST. CLAIR COUNTY * | 17163C0390D | 05-NOV-2003
05 | IL | ST. CLAIR COUNTY * | 17163C0405D | 05-NOV-2003
05 | IL | ST. CLAIR COUNTY * | 17163C0410D | 05-NOV-2003
05 | IL | ST. CLAIR COUNTY * | 17163C0420D | 05-NOV-2003
05 | IL | ST. CLAIR COUNTY * | 17163C0430D | 05-NOV-2003
05 | IL | ST. CLAIR COUNTY * | 17163C0435D | 05-NOV-2003
05 | IL | ST. CLAIR COUNTY * | 17163C0440D | 05-NOV-2003
05 | IL | ST. CLAIR COUNTY * | 17163C0445D | 05-NOV-2003
05 | IL | ST. CLAIR COUNTY * | 17163C0455D | 05-NOV-2003
05 | IL | ST. CLAIR COUNTY * | 17163C0460D | 05-NOV-2003
05 | IL | ST. CLAIR COUNTY * | 17163C0465D | 05-NOV-2003
05 | IL | ST. CLAIR COUNTY * | 17163C0470D | 05-NOV-2003
05 | IL | ST. CLAIR COUNTY * | 17163C0480D | 05-NOV-2003
05 | IL | ST. CLAIR COUNTY * | 17163C0490D | 05-NOV-2003
05 | IL | ST. CLAIR COUNTY * | 17163C0510D | 05-NOV-2003
05 | IL | ST. CLAIR COUNTY * | 17163C0530D | 05-NOV-2003
05 | IL | ST. CLAIR COUNTY * | 17163C0535D | 05-NOV-2003
05 | IL | ST. CLAIR COUNTY * | 17163C0555D | 05-NOV-2003
05 | IL | ST. CLAIR COUNTY * | 17163CIND0A** | 05-NOV-2003
05 | IL | ST. LIBORY, VILLAGE OF | 17163C0480D | 05-NOV-2003
05 | IL | ST. LIBORY, VILLAGE OF | 17163CIND0A** | 05-NOV-2003
05 | IL | SUMMERFIELD, VILLAGE OF | 17163C0235D | 05-NOV-2003
05 | IL | SUMMERFIELD, VILLAGE OF | 17163C0255D | 05-NOV-2003
05 | IL | SUMMERFIELD, VILLAGE OF | 17163CIND0A** | 05-NOV-2003
05 | IL | SWANSEA, VILLAGE OF | 17163C0185D | 05-NOV-2003
05 | IL | SWANSEA, VILLAGE OF | 17163C0195D | 05-NOV-2003
05 | IL | SWANSEA, VILLAGE OF | 17163C0203D | 05-NOV-2003
05 | IL | SWANSEA, VILLAGE OF | 17163C0205D | 05-NOV-2003
05 | IL | SWANSEA, VILLAGE OF | 17163C0213D | 05-NOV-2003
05 | IL | SWANSEA, VILLAGE OF | 17163C0215D | 05-NOV-2003
05 | IL | SWANSEA, VILLAGE OF | 17163CIND0A** | 05-NOV-2003
05 | IL | WASHINGTON PARK, VILLAGE OF | 17163C0038D | 05-NOV-2003
05 | IL | WASHINGTON PARK, VILLAGE OF | 17163C0039D | 05-NOV-2003
05 | IL | WASHINGTON PARK, VILLAGE OF | 17163C0180D | 05-NOV-2003
05 | IL | WASHINGTON PARK, VILLAGE OF | 17163CIND0A** | 05-NOV-2003
05 | IN | ADAMS COUNTY * | 18001C0020D | 16-OCT-2003
05 | IN | ADAMS COUNTY * | 18001C0040D | 16-OCT-2003
05 | IN | ADAMS COUNTY * | 18001C0045D | 16-OCT-2003
05 | IN | ADAMS COUNTY * | 18001C0105D | 16-OCT-2003
05 | IN | ADAMS COUNTY * | 18001C0110D | 16-OCT-2003
05 | IN | ADAMS COUNTY * | 18001C0115D | 16-OCT-2003
05 | IN | ADAMS COUNTY * | 18001C0120D | 16-OCT-2003
05 | IN | ADAMS COUNTY * | 18001C0130D | 16-OCT-2003
05 | IN | ADAMS COUNTY * | 18001C0136D | 16-OCT-2003
05 | IN | ADAMS COUNTY * | 18001C0138D | 16-OCT-2003
05 | IN | ADAMS COUNTY * | 18001C0140D | 16-OCT-2003
05 | IN | ADAMS COUNTY * | 18001C0160D | 16-OCT-2003
05 | IN | ADAMS COUNTY * | 18001C0170D | 16-OCT-2003
05 | IN | ADAMS COUNTY * | 18001C0180D | 16-OCT-2003
05 | IN | ADAMS COUNTY * | 18001C0185D | 16-OCT-2003
05 | IN | ADAMS COUNTY * | 18001C0190D | 16-OCT-2003
05 | IN | ADAMS COUNTY * | 18001C0195D | 16-OCT-2003
05 | IN | ADAMS COUNTY * | 18001C0205D | 16-OCT-2003
05 | IN | ADAMS COUNTY * | 18001C0215D | 16-OCT-2003
05 | IN | ADAMS COUNTY * | 18001C0235D | 16-OCT-2003
05 | IN | ADAMS COUNTY * | 18001C0255D | 16-OCT-2003
05 | IN | ADAMS COUNTY * | 18001C0260D | 16-OCT-2003
05 | IN | ADAMS COUNTY * | 18001C0280D | 16-OCT-2003
05 | IN | ADAMS COUNTY * | 18001CIND0A** | 16-OCT-2003
05 | IN | ALLEN COUNTY * | 18003C0010F | 05-NOV-2003
05 | IN | ALLEN COUNTY * | 18003C0015F | 05-NOV-2003
05 | IN | ALLEN COUNTY * | 18003C0020F | 05-NOV-2003
05 | IN | ALLEN COUNTY * | 18003C0030F | 05-NOV-2003
05 | IN | ALLEN COUNTY * | 18003C0035F | 05-NOV-2003
05 | IN | ALLEN COUNTY * | 18003C0045F | 05-NOV-2003
05 | IN | ALLEN COUNTY * | 18003C0050F | 05-NOV-2003
05 | IN | ALLEN COUNTY * | 18003C0055F | 05-NOV-2003
05 | IN | ALLEN COUNTY * | 18003C0060F | 05-NOV-2003
05 | IN | ALLEN COUNTY * | 18003C0065F | 05-NOV-2003
05 | IN | ALLEN COUNTY * | 18003C0070F | 05-NOV-2003
05 | IN | ALLEN COUNTY * | 18003C0075F | 05-NOV-2003
05 | IN | ALLEN COUNTY * | 18003C0080F | 05-NOV-2003
05 | IN | ALLEN COUNTY * | 18003C0085F | 05-NOV-2003
05 | IN | ALLEN COUNTY * | 18003C0090F | 05-NOV-2003
05 | IN | ALLEN COUNTY * | 18003C0095F | 05-NOV-2003
05 | IN | ALLEN COUNTY * | 18003C0100F | 05-NOV-2003
05 | IN | ALLEN COUNTY * | 18003C0105F | 05-NOV-2003
05 | IN | ALLEN COUNTY * | 18003C0110F | 05-NOV-2003
05 | IN | ALLEN COUNTY * | 18003C0115F | 05-NOV-2003
05 | IN | ALLEN COUNTY * | 18003C0120F | 05-NOV-2003
05 | IN | ALLEN COUNTY * | 18003C0125F | 05-NOV-2003
05 | IN | ALLEN COUNTY * | 18003C0130F | 05-NOV-2003
05 | IN | ALLEN COUNTY * | 18003C0135F | 05-NOV-2003
05 | IN | ALLEN COUNTY * | 18003C0140F | 05-NOV-2003
05 | IN | ALLEN COUNTY * | 18003C0145F | 05-NOV-2003
05 | IN | ALLEN COUNTY * | 18003C0150F | 05-NOV-2003
05 | IN | ALLEN COUNTY * | 18003C0155F | 05-NOV-2003
05 | IN | ALLEN COUNTY * | 18003C0160F | 05-NOV-2003
05 | IN | ALLEN COUNTY * | 18003C0165F | 05-NOV-2003
05 | IN | ALLEN COUNTY * | 18003C0170F | 05-NOV-2003
05 | IN | ALLEN COUNTY * | 18003C0175F | 05-NOV-2003
05 | IN | ALLEN COUNTY * | 18003C0180F | 05-NOV-2003
05 | IN | ALLEN COUNTY * | 18003C0185F | 05-NOV-2003
05 | IN | ALLEN COUNTY * | 18003C0190F | 05-NOV-2003
05 | IN | ALLEN COUNTY * | 18003C0195F | 05-NOV-2003
05 | IN | ALLEN COUNTY * | 18003C0200F | 05-NOV-2003
05 | IN | ALLEN COUNTY * | 18003C0205F | 05-NOV-2003
05 | IN | ALLEN COUNTY * | 18003C0210F | 05-NOV-2003
05 | IN | ALLEN COUNTY * | 18003C0215F | 05-NOV-2003
05 | IN | ALLEN COUNTY * | 18003C0220F | 05-NOV-2003
05 | IN | ALLEN COUNTY * | 18003C0225F | 05-NOV-2003
05 | IN | ALLEN COUNTY * | 18003C0230F | 05-NOV-2003
05 | IN | ALLEN COUNTY * | 18003C0235F | 05-NOV-2003
05 | IN | ALLEN COUNTY * | 18003C0240F | 05-NOV-2003
05 | IN | ALLEN COUNTY * | 18003C0245F | 05-NOV-2003
05 | IN | ALLEN COUNTY * | 18003C0250F | 05-NOV-2003
05 | IN | ALLEN COUNTY * | 18003C0255F | 05-NOV-2003
05 | IN | ALLEN COUNTY * | 18003C0260F | 05-NOV-2003
05 | IN | ALLEN COUNTY * | 18003C0265F | 05-NOV-2003
05 | IN | ALLEN COUNTY * | 18003C0270F | 05-NOV-2003
05 | IN | ALLEN COUNTY * | 18003C0275F | 05-NOV-2003
05 | IN | ALLEN COUNTY * | 18003C0280F | 05-NOV-2003
05 | IN | ALLEN COUNTY * | 18003C0285F | 05-NOV-2003
05 | IN | ALLEN COUNTY * | 18003C0290F | 05-NOV-2003
05 | IN | ALLEN COUNTY * | 18003C0295F | 05-NOV-2003
05 | IN | ALLEN COUNTY * | 18003C0305F | 05-NOV-2003
05 | IN | ALLEN COUNTY * | 18003CIND0A** | 05-NOV-2003
05 | IN | BERNE, CITY OF | 18001C0190D | 16-OCT-2003
05 | IN | BERNE, CITY OF | 18001C0195D | 16-OCT-2003
05 | IN | BERNE, CITY OF | 18001CIND0A** | 16-OCT-2003
05 | IN | DECATUR, CITY OF | 18001C0105D | 16-OCT-2003
05 | IN | DECATUR, CITY OF | 18001C0110D | 16-OCT-2003
05 | IN | DECATUR, CITY OF | 18001C0120D | 16-OCT-2003
05 | IN | DECATUR, CITY OF | 18001CIND0A** | 16-OCT-2003
05 | IN | FORT WAYNE, CITY OF | 18003C0095F | 05-NOV-2003
05 | IN | FORT WAYNE, CITY OF | 18003C0100F | 05-NOV-2003
05 | IN | FORT WAYNE, CITY OF | 18003C0105F | 05-NOV-2003
05 | IN | FORT WAYNE, CITY OF | 18003C0110F | 05-NOV-2003
05 | IN | FORT WAYNE, CITY OF | 18003C0140F | 05-NOV-2003
05 | IN | FORT WAYNE, CITY OF | 18003C0145F | 05-NOV-2003
05 | IN | FORT WAYNE, CITY OF | 18003C0150F | 05-NOV-2003
05 | IN | FORT WAYNE, CITY OF | 18003C0155F | 05-NOV-2003
05 | IN | FORT WAYNE, CITY OF | 18003C0185F | 05-NOV-2003
05 | IN | FORT WAYNE, CITY OF | 18003C0190F | 05-NOV-2003
05 | IN | FORT WAYNE, CITY OF | 18003C0195F | 05-NOV-2003
05 | IN | FORT WAYNE, CITY OF | 18003C0200F | 05-NOV-2003
05 | IN | FORT WAYNE, CITY OF | 18003C0230F | 05-NOV-2003
05 | IN | FORT WAYNE, CITY OF | 18003C0235F | 05-NOV-2003
05 | IN | FORT WAYNE, CITY OF | 18003CIND0A** | 05-NOV-2003
05 | IN | GENEVA, TOWN OF | 18001C0255D | 16-OCT-2003
05 | IN | GENEVA, TOWN OF | 18001CIND0A** | 16-OCT-2003
05 | IN | GRABILL, TOWN OF | 18003C0070F | 05-NOV-2003
05 | IN | GRABILL, TOWN OF | 18003CIND0A** | 05-NOV-2003
05 | IN | HUNTERTOWN, TOWN OF | 18003C0055F | 05-NOV-2003
05 | IN | HUNTERTOWN, TOWN OF | 18003CIND0A** | 05-NOV-2003
05 | IN | LEO-CEDARVILLE, TOWN OF | 18003C0065F | 05-NOV-2003
05 | IN | LEO-CEDARVILLE, TOWN OF | 18003C0070F | 05-NOV-2003
05 | IN | LEO-CEDARVILLE, TOWN OF | 18003CIND0A** | 05-NOV-2003
05 | IN | MONROEVILLE, TOWN OF | 18003C0260F | 05-NOV-2003
05 | IN | MONROEVILLE, TOWN OF | 18003CIND0A** | 05-NOV-2003
05 | IN | NEW HAVEN, CITY OF | 18003C0155F | 05-NOV-2003
05 | IN | NEW HAVEN, CITY OF | 18003C0160F | 05-NOV-2003
05 | IN | NEW HAVEN, CITY OF | 18003C0200F | 05-NOV-2003
05 | IN | NEW HAVEN, CITY OF | 18003C0205F | 05-NOV-2003
05 | IN | NEW HAVEN, CITY OF | 18003CIND0A** | 05-NOV-2003
05 | IN | WOODBURN, CITY OF | 18003C0125F | 05-NOV-2003
05 | IN | WOODBURN, CITY OF | 18003C0170F | 05-NOV-2003
05 | IN | WOODBURN, CITY OF | 18003CIND0A** | 05-NOV-2003
05 | MN | BRAHAM, CITY OF | 27059C0100D | 05-NOV-2003
05 | MN | BRAHAM, CITY OF | 27059CIND0A** | 05-NOV-2003
05 | MN | CAMBRIDGE, CITY OF | 27059C0160D | 05-NOV-2003
05 | MN | CAMBRIDGE, CITY OF | 27059C0170D | 05-NOV-2003
05 | MN | CAMBRIDGE, CITY OF | 27059C0180D | 05-NOV-2003
05 | MN | CAMBRIDGE, CITY OF | 27059C0190D | 05-NOV-2003
05 | MN | CAMBRIDGE, CITY OF | 27059CIND0A** | 05-NOV-2003
05 | MN | ISANTI COUNTY * | 27059C0025D | 05-NOV-2003
05 | MN | ISANTI COUNTY * | 27059C0050D | 05-NOV-2003
05 | MN | ISANTI COUNTY * | 27059C0075D | 05-NOV-2003
05 | MN | ISANTI COUNTY * | 27059C0100D | 05-NOV-2003
05 | MN | ISANTI COUNTY * | 27059C0125D | 05-NOV-2003
05 | MN | ISANTI COUNTY * | 27059C0135D | 05-NOV-2003
05 | MN | ISANTI COUNTY * | 27059C0145D | 05-NOV-2003
05 | MN | ISANTI COUNTY * | 27059C0150D | 05-NOV-2003
05 | MN | ISANTI COUNTY * | 27059C0155D | 05-NOV-2003
05 | MN | ISANTI COUNTY * | 27059C0160D | 05-NOV-2003
05 | MN | ISANTI COUNTY * | 27059C0165D | 05-NOV-2003
05 | MN | ISANTI COUNTY * | 27059C0170D | 05-NOV-2003
05 | MN | ISANTI COUNTY * | 27059C0180D | 05-NOV-2003
05 | MN | ISANTI COUNTY * | 27059C0185D | 05-NOV-2003
05 | MN | ISANTI COUNTY * | 27059C0190D | 05-NOV-2003
05 | MN | ISANTI COUNTY * | 27059C0195D | 05-NOV-2003
05 | MN | ISANTI COUNTY * | 27059C0225D | 05-NOV-2003
05 | MN | ISANTI COUNTY * | 27059C0250D | 05-NOV-2003
05 | MN | ISANTI COUNTY * | 27059C0275D | 05-NOV-2003
05 | MN | ISANTI COUNTY * | 27059C0280D | 05-NOV-2003
05 | MN | ISANTI COUNTY * | 27059C0282D | 05-NOV-2003
05 | MN | ISANTI COUNTY * | 27059C0285D | 05-NOV-2003
05 | MN | ISANTI COUNTY * | 27059C0290D | 05-NOV-2003
05 | MN | ISANTI COUNTY * | 27059C0295D | 05-NOV-2003
05 | MN | ISANTI COUNTY * | 27059C0301D | 05-NOV-2003
05 | MN | ISANTI COUNTY * | 27059C0305D | 05-NOV-2003
05 | MN | ISANTI COUNTY * | 27059C0325D | 05-NOV-2003
05 | MN | ISANTI COUNTY * | 27059C0350D | 05-NOV-2003
05 | MN | ISANTI COUNTY * | 27059CIND0A** | 05-NOV-2003
05 | MN | ISANTI, CITY OF | 27059C0282D | 05-NOV-2003
05 | MN | ISANTI, CITY OF | 27059C0301D | 05-NOV-2003
05 | MN | ISANTI, CITY OF | 27059CIND0A** | 05-NOV-2003
05 | MN | UPPER SIOUX COMMUNITY | 2707790005A | 03-SEP-2003
05 | MN | UPPER SIOUX COMMUNITY | 2707790010A | 03-SEP-2003
05 | MN | UPPER SIOUX COMMUNITY | 2707790020A | 03-SEP-2003
05 | MN | UPPER SIOUX COMMUNITY | 270779IND0A** | 03-SEP-2003
05 | OH | BRUNSWICK, CITY OF | 3903800001C | 02-DEC-2003
05 | OH | BRUNSWICK, CITY OF | 3903800002C | 02-DEC-2003
05 | OH | BRUNSWICK, CITY OF | 3903800003C | 02-DEC-2003
05 | OH | BRUNSWICK, CITY OF | 3903800004C | 02-DEC-2003
05 | OH | BRUNSWICK, CITY OF | 3903800005C | 02-DEC-2003
05 | OH | BRUNSWICK, CITY OF | 3903800006C | 02-DEC-2003
05 | OH | BRUNSWICK, CITY OF | 3903800009C | 02-DEC-2003
05 | OH | BRUNSWICK, CITY OF | 390380IND0A** | 02-DEC-2003
05 | OH | CHESHIRE, VILLAGE OF | 39053C0178D | 16-OCT-2003
05 | OH | CHESHIRE, VILLAGE OF | 39053CIND0A** | 16-OCT-2003
05 | OH | CROWN CITY, VILLAGE OF | 39053C0381D | 16-OCT-2003
05 | OH | CROWN CITY, VILLAGE OF | 39053C0382D | 16-OCT-2003
05 | OH | CROWN CITY, VILLAGE OF | 39053C0383D | 16-OCT-2003
05 | OH | CROWN CITY, VILLAGE OF | 39053C0384D | 16-OCT-2003
05 | OH | CROWN CITY, VILLAGE OF | 39053CIND0A** | 16-OCT-2003
05 | OH | GALLIA COUNTY* | 39053C0020D | 16-OCT-2003
05 | OH | GALLIA COUNTY* | 39053C0040D | 16-OCT-2003
05 | OH | GALLIA COUNTY* | 39053C0105D | 16-OCT-2003
05 | OH | GALLIA COUNTY* | 39053C0110D | 16-OCT-2003
05 | OH | GALLIA COUNTY* | 39053C0120D | 16-OCT-2003
05 | OH | GALLIA COUNTY* | 39053C0130D | 16-OCT-2003
05 | OH | GALLIA COUNTY* | 39053C0135D | 16-OCT-2003
05 | OH | GALLIA COUNTY* | 39053C0140D | 16-OCT-2003
05 | OH | GALLIA COUNTY* | 39053C0144D | 16-OCT-2003
05 | OH | GALLIA COUNTY* | 39053C0145D | 16-OCT-2003
05 | OH | GALLIA COUNTY* | 39053C0155D | 16-OCT-2003
05 | OH | GALLIA COUNTY* | 39053C0157D | 16-OCT-2003
05 | OH | GALLIA COUNTY* | 39053C0159D | 16-OCT-2003
05 | OH | GALLIA COUNTY* | 39053C0163D | 16-OCT-2003
05 | OH | GALLIA COUNTY* | 39053C0164D | 16-OCT-2003
05 | OH | GALLIA COUNTY* | 39053C0165D | 16-OCT-2003
05 | OH | GALLIA COUNTY* | 39053C0166D | 16-OCT-2003
05 | OH | GALLIA COUNTY* | 39053C0167D | 16-OCT-2003
05 | OH | GALLIA COUNTY* | 39053C0168D | 16-OCT-2003
05 | OH | GALLIA COUNTY* | 39053C0169D | 16-OCT-2003
05 | OH | GALLIA COUNTY* | 39053C0176D | 16-OCT-2003
05 | OH | GALLIA COUNTY* | 39053C0178D | 16-OCT-2003
05 | OH | GALLIA COUNTY* | 39053C0186D | 16-OCT-2003
05 | OH | GALLIA COUNTY* | 39053C0205D | 16-OCT-2003
05 | OH | GALLIA COUNTY* | 39053C0210D | 16-OCT-2003
05 | OH | GALLIA COUNTY* | 39053C0220D | 16-OCT-2003
05 | OH | GALLIA COUNTY* | 39053C0230D | 16-OCT-2003
05 | OH | GALLIA COUNTY* | 39053C0235D | 16-OCT-2003
05 | OH | GALLIA COUNTY* | 39053C0240D | 16-OCT-2003
05 | OH | GALLIA COUNTY* | 39053C0245D | 16-OCT-2003
05 | OH | GALLIA COUNTY* | 39053C0255D | 16-OCT-2003
05 | OH | GALLIA COUNTY* | 39053C0257D | 16-OCT-2003
05 | OH | GALLIA COUNTY* | 39053C0259D | 16-OCT-2003
05 | OH | GALLIA COUNTY* | 39053C0265D | 16-OCT-2003
05 | OH | GALLIA COUNTY* | 39053C0267D | 16-OCT-2003
05 | OH | GALLIA COUNTY* | 39053C0269D | 16-OCT-2003
05 | OH | GALLIA COUNTY* | 39053C0270D | 16-OCT-2003
05 | OH | GALLIA COUNTY* | 39053C0276D | 16-OCT-2003
05 | OH | GALLIA COUNTY* | 39053C0277D | 16-OCT-2003
05 | OH | GALLIA COUNTY* | 39053C0278D | 16-OCT-2003
05 | OH | GALLIA COUNTY* | 39053C0279D | 16-OCT-2003
05 | OH | GALLIA COUNTY* | 39053C0281D | 16-OCT-2003
05 | OH | GALLIA COUNTY* | 39053C0282D | 16-OCT-2003
05 | OH | GALLIA COUNTY* | 39053C0283D | 16-OCT-2003
05 | OH | GALLIA COUNTY* | 39053C0284D | 16-OCT-2003
05 | OH | GALLIA COUNTY* | 39053C0286D | 16-OCT-2003
05 | OH | GALLIA COUNTY* | 39053C0287D | 16-OCT-2003
05 | OH | GALLIA COUNTY* | 39053C0288D | 16-OCT-2003
05 | OH | GALLIA COUNTY* | 39053C0289D | 16-OCT-2003
05 | OH | GALLIA COUNTY* | 39053C0305D | 16-OCT-2003
05 | OH | GALLIA COUNTY* | 39053C0310D | 16-OCT-2003
05 | OH | GALLIA COUNTY* | 39053C0320D | 16-OCT-2003
05 | OH | GALLIA COUNTY* | 39053C0330D | 16-OCT-2003
05 | OH | GALLIA COUNTY* | 39053C0332D | 16-OCT-2003
05 | OH | GALLIA COUNTY* | 39053C0335D | 16-OCT-2003
05 | OH | GALLIA COUNTY* | 39053C0340D | 16-OCT-2003
05 | OH | GALLIA COUNTY* | 39053C0345D | 16-OCT-2003
05 | OH | GALLIA COUNTY* | 39053C0351D | 16-OCT-2003
05 | OH | GALLIA COUNTY* | 39053C0352D | 16-OCT-2003
05 | OH | GALLIA COUNTY* | 39053C0353D | 16-OCT-2003
05 | OH | GALLIA COUNTY* | 39053C0354D | 16-OCT-2003
05 | OH | GALLIA COUNTY* | 39053C0358D | 16-OCT-2003
05 | OH | GALLIA COUNTY* | 39053C0362D | 16-OCT-2003
05 | OH | GALLIA COUNTY* | 39053C0365D | 16-OCT-2003
05 | OH | GALLIA COUNTY* | 39053C0366D | 16-OCT-2003
05 | OH | GALLIA COUNTY* | 39053C0368D | 16-OCT-2003
05 | OH | GALLIA COUNTY* | 39053C0380D | 16-OCT-2003
05 | OH | GALLIA COUNTY* | 39053C0381D | 16-OCT-2003
05 | OH | GALLIA COUNTY* | 39053C0382D | 16-OCT-2003
05 | OH | GALLIA COUNTY* | 39053C0383D | 16-OCT-2003
05 | OH | GALLIA COUNTY* | 39053C0384D | 16-OCT-2003
05 | OH | GALLIA COUNTY* | 39053C0401D | 16-OCT-2003
05 | OH | GALLIA COUNTY* | 39053C0402D | 16-OCT-2003
05 | OH | GALLIA COUNTY* | 39053C0403D | 16-OCT-2003
05 | OH | GALLIA COUNTY* | 39053C0404D | 16-OCT-2003
05 | OH | GALLIA COUNTY* | 39053C0406D | 16-OCT-2003
05 | OH | GALLIA COUNTY* | 39053CIND0A** | 16-OCT-2003
05 | OH | GALLIPOLIS, CITY OF | 39053C0278D | 16-OCT-2003
05 | OH | GALLIPOLIS, CITY OF | 39053C0279D | 16-OCT-2003
05 | OH | GALLIPOLIS, CITY OF | 39053C0283D | 16-OCT-2003
05 | OH | GALLIPOLIS, CITY OF | 39053C0284D | 16-OCT-2003
05 | OH | GALLIPOLIS, CITY OF | 39053C0286D | 16-OCT-2003
05 | OH | GALLIPOLIS, CITY OF | 39053C0287D | 16-OCT-2003
05 | OH | GALLIPOLIS, CITY OF | 39053CIND0A** | 16-OCT-2003
05 | OH | MEDINA COUNTY * | 3903780010C | 02-DEC-2003
05 | OH | MEDINA COUNTY * | 3903780030C | 02-DEC-2003
05 | OH | MEDINA COUNTY * | 390378IND0A** | 02-DEC-2003
05 | OH | RIO GRANDE, VILLAGE OF | 39053C0120D | 16-OCT-2003
05 | OH | RIO GRANDE, VILLAGE OF | 39053C0140D | 16-OCT-2003
05 | OH | RIO GRANDE, VILLAGE OF | 39053C0235D | 16-OCT-2003
05 | OH | RIO GRANDE, VILLAGE OF | 39053C0255D | 16-OCT-2003
05 | OH | RIO GRANDE, VILLAGE OF | 39053CIND0A** | 16-OCT-2003
05 | OH | VINTON, VILLAGE OF | 39053C0130D | 16-OCT-2003
05 | OH | VINTON, VILLAGE OF | 39053CIND0A** | 16-OCT-2003
05 | WI | DARLINGTON, CITY OF | 5502280001C | 05-NOV-2003
05 | WI | DARLINGTON, CITY OF | 5502280003C | 05-NOV-2003
05 | WI | DARLINGTON, CITY OF | 550228IND0A** | 05-NOV-2003
05 | WI | FOND DU LAC COUNTY * | 5501310060C | 16-OCT-2003
05 | WI | FOND DU LAC COUNTY * | 5501310070D | 16-OCT-2003
05 | WI | FOND DU LAC COUNTY * | 550131IND0A** | 16-OCT-2003
05 | WI | LAFAYETTE COUNTY* | 5502230040C | 05-NOV-2003
05 | WI | LAFAYETTE COUNTY* | 5502230105C | 05-NOV-2003
05 | WI | LAFAYETTE COUNTY* | 550223IND0A** | 05-NOV-2003
05 | WI | MARKESAN, CITY OF | 5501690001B | 02-JUL-2003
05 | WI | NORTH FOND DU LAC, VILLAGE OF | 5501380002C | 16-OCT-2003
05 | WI | NORTH FOND DU LAC, VILLAGE OF | 5501380003C | 16-OCT-2003
05 | WI | NORTH FOND DU LAC, VILLAGE OF | 5501380004C | 16-OCT-2003
05 | WI | NORTH FOND DU LAC, VILLAGE OF | 550138IND0A** | 16-OCT-2003
06 | AR | LOGAN COUNTY* | 0504470125D | 16-OCT-2003
06 | AR | LOGAN COUNTY* | 0504470140D | 16-OCT-2003
06 | AR | LOGAN COUNTY* | 0504470250D | 16-OCT-2003
06 | AR | LOGAN COUNTY* | 050447IND0A** | 16-OCT-2003
06 | LA | DE SOTO PARISH* | 22031C0010C | 16-DEC-2003
06 | LA | DE SOTO PARISH* | 22031C0015C | 16-DEC-2003
06 | LA | DE SOTO PARISH* | 22031C0020C | 16-DEC-2003
06 | LA | DE SOTO PARISH* | 22031C0030C | 16-DEC-2003
06 | LA | DE SOTO PARISH* | 22031C0035C | 16-DEC-2003
06 | LA | DE SOTO PARISH* | 22031C0040C | 16-DEC-2003
06 | LA | DE SOTO PARISH* | 22031C0045C | 16-DEC-2003
06 | LA | DE SOTO PARISH* | 22031C0075C | 16-DEC-2003
06 | LA | DE SOTO PARISH* | 22031C0100C | 16-DEC-2003
06 | LA | DE SOTO PARISH* | 22031C0125C | 16-DEC-2003
06 | LA | DE SOTO PARISH* | 22031C0150C | 16-DEC-2003
06 | LA | DE SOTO PARISH* | 22031C0175C | 16-DEC-2003
06 | LA | DE SOTO PARISH* | 22031C0200C | 16-DEC-2003
06 | LA | DE SOTO PARISH* | 22031C0219C | 16-DEC-2003
06 | LA | DE SOTO PARISH* | 22031C0225C | 16-DEC-2003
06 | LA | DE SOTO PARISH* | 22031C0250C | 16-DEC-2003
06 | LA | DE SOTO PARISH* | 22031C0254C | 16-DEC-2003
06 | LA | DE SOTO PARISH* | 22031C0255C | 16-DEC-2003
06 | LA | DE SOTO PARISH* | 22031C0256C | 16-DEC-2003
06 | LA | DE SOTO PARISH* | 22031C0258C | 16-DEC-2003
06 | LA | DE SOTO PARISH* | 22031C0275C | 16-DEC-2003
06 | LA | DE SOTO PARISH* | 22031C0290C | 16-DEC-2003
06 | LA | DE SOTO PARISH* | 22031C0295C | 16-DEC-2003
06 | LA | DE SOTO PARISH* | 22031C0300C | 16-DEC-2003
06 | LA | DE SOTO PARISH* | 22031C0325C | 16-DEC-2003
06 | LA | DE SOTO PARISH* | 22031C0350C | 16-DEC-2003
06 | LA | DE SOTO PARISH* | 22031C0357C | 16-DEC-2003
06 | LA | DE SOTO PARISH* | 22031C0359C | 16-DEC-2003
06 | LA | DE SOTO PARISH* | 22031C0360C | 16-DEC-2003
06 | LA | DE SOTO PARISH* | 22031C0376C | 16-DEC-2003
06 | LA | DE SOTO PARISH* | 22031C0378C | 16-DEC-2003
06 | LA | DE SOTO PARISH* | 22031C0380C | 16-DEC-2003
06 | LA | DE SOTO PARISH* | 22031C0400C | 16-DEC-2003
06 | LA | DE SOTO PARISH* | 22031C0425C | 16-DEC-2003
06 | LA | DE SOTO PARISH* | 22031C0450C | 16-DEC-2003
06 | LA | DE SOTO PARISH* | 22031C0475C | 16-DEC-2003
06 | LA | DE SOTO PARISH* | 22031C0500C | 16-DEC-2003
06 | LA | DE SOTO PARISH* | 22031C0525C | 16-DEC-2003
06 | LA | DE SOTO PARISH* | 22031C0550C | 16-DEC-2003
06 | LA | DE SOTO PARISH* | 22031C0575C | 16-DEC-2003
06 | LA | DE SOTO PARISH* | 22031C0600C | 16-DEC-2003
06 | LA | DE SOTO PARISH* | 22031C0625C | 16-DEC-2003
06 | LA | DE SOTO PARISH* | 22031C0650C | 16-DEC-2003
06 | LA | DE SOTO PARISH* | 22031CIND1A** | 16-DEC-2003
06 | LA | DE SOTO PARISH* | 22031CIND2A** | 16-DEC-2003
06 | LA | DELCAMBRE, TOWN OF | 2202230001C | 16-OCT-2003
06 | LA | DELCAMBRE, TOWN OF | 2202230002C | 16-OCT-2003
06 | LA | DELCAMBRE, TOWN OF | 220223IND0A** | 16-OCT-2003
06 | LA | GRAND CANE, VILLAGE OF | 22031C0254C | 16-DEC-2003
06 | LA | GRAND CANE, VILLAGE OF | 22031C0256C | 16-DEC-2003
06 | LA | GRAND CANE, VILLAGE OF | 22031C0258C | 16-DEC-2003
06 | LA | GRAND CANE, VILLAGE OF | 22031CIND1A** | 16-DEC-2003
06 | LA | GRAND CANE, VILLAGE OF | 22031CIND2A** | 16-DEC-2003
06 | LA | KEATCHIE, TOWN OF | 22031C0125C | 16-DEC-2003
06 | LA | KEATCHIE, TOWN OF | 22031CIND1A** | 16-DEC-2003
06 | LA | KEATCHIE, TOWN OF | 22031CIND2A** | 16-DEC-2003
06 | LA | LOGANSPORT, TOWN OF | 22031C0250C | 16-DEC-2003
06 | LA | LOGANSPORT, TOWN OF | 22031C0357C | 16-DEC-2003
06 | LA | LOGANSPORT, TOWN OF | 22031C0359C | 16-DEC-2003
06 | LA | LOGANSPORT, TOWN OF | 22031C0376C | 16-DEC-2003
06 | LA | LOGANSPORT, TOWN OF | 22031C0378C | 16-DEC-2003
06 | LA | LOGANSPORT, TOWN OF | 22031CIND1A** | 16-DEC-2003
06 | LA | LOGANSPORT, TOWN OF | 22031CIND2A** | 16-DEC-2003
06 | LA | MANSFIELD, CITY OF | 22031C0290C | 16-DEC-2003
06 | LA | MANSFIELD, CITY OF | 22031C0295C | 16-DEC-2003
06 | LA | MANSFIELD, CITY OF | 22031C0300C | 16-DEC-2003
06 | LA | MANSFIELD, CITY OF | 22031CIND1A** | 16-DEC-2003
06 | LA | MANSFIELD, CITY OF | 22031CIND2A** | 16-DEC-2003
06 | LA | SOUTH MANSFIELD, VILLAGE OF | 22031C0290C | 16-DEC-2003
06 | LA | SOUTH MANSFIELD, VILLAGE OF | 22031CIND1A** | 16-DEC-2003
06 | LA | SOUTH MANSFIELD, VILLAGE OF | 22031CIND2A** | 16-DEC-2003
06 | LA | STANLEY, VILLAGE OF | 22031C0400C | 16-DEC-2003
06 | LA | STANLEY, VILLAGE OF | 22031CIND1A** | 16-DEC-2003
06 | LA | STANLEY, VILLAGE OF | 22031CIND2A** | 16-DEC-2003
06 | LA | STONEWALL, TOWN OF | 22031C0015C | 16-DEC-2003
06 | LA | STONEWALL, TOWN OF | 22031C0020C | 16-DEC-2003
06 | LA | STONEWALL, TOWN OF | 22031C0150C | 16-DEC-2003
06 | LA | STONEWALL, TOWN OF | 22031CIND1A** | 16-DEC-2003
06 | LA | STONEWALL, TOWN OF | 22031CIND2A** | 16-DEC-2003
06 | NM | ALBUQUERQUE, CITY OF | 35001C0092E | 19-NOV-2003
06 | NM | ALBUQUERQUE, CITY OF | 35001C0094E | 19-NOV-2003
06 | NM | ALBUQUERQUE, CITY OF | 35001C0100E | 19-NOV-2003
06 | NM | ALBUQUERQUE, CITY OF | 35001C0103E | 19-NOV-2003
06 | NM | ALBUQUERQUE, CITY OF | 35001C0104E | 19-NOV-2003
06 | NM | ALBUQUERQUE, CITY OF | 35001C0108E | 19-NOV-2003
06 | NM | ALBUQUERQUE, CITY OF | 35001C0109F | 19-NOV-2003
06 | NM | ALBUQUERQUE, CITY OF | 35001C0111E | 19-NOV-2003
06 | NM | ALBUQUERQUE, CITY OF | 35001C0112E | 19-NOV-2003
06 | NM | ALBUQUERQUE, CITY OF | 35001C0113E | 19-NOV-2003
06 | NM | ALBUQUERQUE, CITY OF | 35001C0114E | 19-NOV-2003
06 | NM | ALBUQUERQUE, CITY OF | 35001C0116F | 19-NOV-2003
06 | NM | ALBUQUERQUE, CITY OF | 35001C0118E | 19-NOV-2003
06 | NM | ALBUQUERQUE, CITY OF | 35001C0119E | 19-NOV-2003
06 | NM | ALBUQUERQUE, CITY OF | 35001C0128F | 19-NOV-2003
06 | NM | ALBUQUERQUE, CITY OF | 35001C0129F | 19-NOV-2003
06 | NM | ALBUQUERQUE, CITY OF | 35001C0133F | 19-NOV-2003
06 | NM | ALBUQUERQUE, CITY OF | 35001C0136F | 19-NOV-2003
06 | NM | ALBUQUERQUE, CITY OF | 35001C0137F | 19-NOV-2003
06 | NM | ALBUQUERQUE, CITY OF | 35001C0138E | 19-NOV-2003
06 | NM | ALBUQUERQUE, CITY OF | 35001C0139E | 19-NOV-2003
06 | NM | ALBUQUERQUE, CITY OF | 35001C0141F | 19-NOV-2003
06 | NM | ALBUQUERQUE, CITY OF | 35001C0142F | 19-NOV-2003
06 | NM | ALBUQUERQUE, CITY OF | 35001C0143E | 19-NOV-2003
06 | NM | ALBUQUERQUE, CITY OF | 35001C0144F | 19-NOV-2003
06 | NM | ALBUQUERQUE, CITY OF | 35001C0161F | 19-NOV-2003
06 | NM | ALBUQUERQUE, CITY OF | 35001C0163F | 19-NOV-2003
06 | NM | ALBUQUERQUE, CITY OF | 35001C0307E | 19-NOV-2003
06 | NM | ALBUQUERQUE, CITY OF | 35001C0309E | 19-NOV-2003
06 | NM | ALBUQUERQUE, CITY OF | 35001C0317E | 19-NOV-2003
06 | NM | ALBUQUERQUE, CITY OF | 35001C0319E | 19-NOV-2003
06 | NM | ALBUQUERQUE, CITY OF | 35001C0326E | 19-NOV-2003
06 | NM | ALBUQUERQUE, CITY OF | 35001C0327E | 19-NOV-2003
06 | NM | ALBUQUERQUE, CITY OF | 35001C0328E | 19-NOV-2003
06 | NM | ALBUQUERQUE, CITY OF | 35001C0329E | 19-NOV-2003
06 | NM | ALBUQUERQUE, CITY OF | 35001C0331E | 19-NOV-2003
06 | NM | ALBUQUERQUE, CITY OF | 35001C0332E | 19-NOV-2003
06 | NM | ALBUQUERQUE, CITY OF | 35001C0333E | 19-NOV-2003
06 | NM | ALBUQUERQUE, CITY OF | 35001C0334E | 19-NOV-2003
06 | NM | ALBUQUERQUE, CITY OF | 35001C0336E | 19-NOV-2003
06 | NM | ALBUQUERQUE, CITY OF | 35001C0337E | 19-NOV-2003
06 | NM | ALBUQUERQUE, CITY OF | 35001C0338E | 19-NOV-2003
06 | NM | ALBUQUERQUE, CITY OF | 35001C0339E | 19-NOV-2003
06 | NM | ALBUQUERQUE, CITY OF | 35001C0341E | 19-NOV-2003
06 | NM | ALBUQUERQUE, CITY OF | 35001C0342E | 19-NOV-2003
06 | NM | ALBUQUERQUE, CITY OF | 35001C0344E | 19-NOV-2003
06 | NM | ALBUQUERQUE, CITY OF | 35001C0351E | 19-NOV-2003
06 | NM | ALBUQUERQUE, CITY OF | 35001C0352E | 19-NOV-2003
06 | NM | ALBUQUERQUE, CITY OF | 35001C0353E | 19-NOV-2003
06 | NM | ALBUQUERQUE, CITY OF | 35001C0354E | 19-NOV-2003
06 | NM | ALBUQUERQUE, CITY OF | 35001C0356E | 19-NOV-2003
06 | NM | ALBUQUERQUE, CITY OF | 35001C0357E | 19-NOV-2003
06 | NM | ALBUQUERQUE, CITY OF | 35001C0358F | 19-NOV-2003
06 | NM | ALBUQUERQUE, CITY OF | 35001C0359F | 19-NOV-2003
06 | NM | ALBUQUERQUE, CITY OF | 35001C0361E | 19-NOV-2003
06 | NM | ALBUQUERQUE, CITY OF | 35001C0362E | 19-NOV-2003
06 | NM | ALBUQUERQUE, CITY OF | 35001C0363E | 19-NOV-2003
06 | NM | ALBUQUERQUE, CITY OF | 35001C0364E | 19-NOV-2003
06 | NM | ALBUQUERQUE, CITY OF | 35001C0366E | 19-NOV-2003
06 | NM | ALBUQUERQUE, CITY OF | 35001C0376E | 19-NOV-2003
06 | NM | ALBUQUERQUE, CITY OF | 35001C0378E | 19-NOV-2003
06 | NM | ALBUQUERQUE, CITY OF | 35001C0386F | 19-NOV-2003
06 | NM | ALBUQUERQUE, CITY OF | 35001C0527E | 19-NOV-2003
06 | NM | ALBUQUERQUE, CITY OF | 35001C0531E | 19-NOV-2003
06 | NM | ALBUQUERQUE, CITY OF | 35001C0533E | 19-NOV-2003
06 | NM | ALBUQUERQUE, CITY OF | 35001C0535E | 19-NOV-2003
06 | NM | ALBUQUERQUE, CITY OF | 35001C0555E | 19-NOV-2003
06 | NM | ALBUQUERQUE, CITY OF | 35001CIND0A** | 19-NOV-2003
06 | NM | BERNALILLO COUNTY * | 35001C0025E | 19-NOV-2003
06 | NM | BERNALILLO COUNTY * | 35001C0050E | 19-NOV-2003
06 | NM | BERNALILLO COUNTY * | 35001C0075E | 19-NOV-2003
06 | NM | BERNALILLO COUNTY * | 35001C0092E | 19-NOV-2003
06 | NM | BERNALILLO COUNTY * | 35001C0094E | 19-NOV-2003
06 | NM | BERNALILLO COUNTY * | 35001C0100E | 19-NOV-2003
06 | NM | BERNALILLO COUNTY * | 35001C0103E | 19-NOV-2003
06 | NM | BERNALILLO COUNTY * | 35001C0104E | 19-NOV-2003
06 | NM | BERNALILLO COUNTY * | 35001C0108E | 19-NOV-2003
06 | NM | BERNALILLO COUNTY * | 35001C0109F | 19-NOV-2003
06 | NM | BERNALILLO COUNTY * | 35001C0111E | 19-NOV-2003
06 | NM | BERNALILLO COUNTY * | 35001C0112E | 19-NOV-2003
06 | NM | BERNALILLO COUNTY * | 35001C0113E | 19-NOV-2003
06 | NM | BERNALILLO COUNTY * | 35001C0114E | 19-NOV-2003
06 | NM | BERNALILLO COUNTY * | 35001C0116F | 19-NOV-2003
06 | NM | BERNALILLO COUNTY * | 35001C0117F | 19-NOV-2003
06 | NM | BERNALILLO COUNTY * | 35001C0118E | 19-NOV-2003
06 | NM | BERNALILLO COUNTY * | 35001C0119E | 19-NOV-2003
06 | NM | BERNALILLO COUNTY * | 35001C0128F | 19-NOV-2003
06 | NM | BERNALILLO COUNTY * | 35001C0129F | 19-NOV-2003
06 | NM | BERNALILLO COUNTY * | 35001C0133F | 19-NOV-2003
06 | NM | BERNALILLO COUNTY * | 35001C0134F | 19-NOV-2003
06 | NM | BERNALILLO COUNTY * | 35001C0136F | 19-NOV-2003
06 | NM | BERNALILLO COUNTY * | 35001C0137F | 19-NOV-2003
06 | NM | BERNALILLO COUNTY * | 35001C0138E | 19-NOV-2003
06 | NM | BERNALILLO COUNTY * | 35001C0139E | 19-NOV-2003
06 | NM | BERNALILLO COUNTY * | 35001C0141F | 19-NOV-2003
06 | NM | BERNALILLO COUNTY * | 35001C0142F | 19-NOV-2003
06 | NM | BERNALILLO COUNTY * | 35001C0143E | 19-NOV-2003
06 | NM | BERNALILLO COUNTY * | 35001C0144F | 19-NOV-2003
06 | NM | BERNALILLO COUNTY * | 35001C0153E | 19-NOV-2003
06 | NM | BERNALILLO COUNTY * | 35001C0161F | 19-NOV-2003
06 | NM | BERNALILLO COUNTY * | 35001C0163F | 19-NOV-2003
06 | NM | BERNALILLO COUNTY * | 35001C0165E | 19-NOV-2003
06 | NM | BERNALILLO COUNTY * | 35001C0186E | 19-NOV-2003
06 | NM | BERNALILLO COUNTY * | 35001C0187E | 19-NOV-2003
06 | NM | BERNALILLO COUNTY * | 35001C0189E | 19-NOV-2003
06 | NM | BERNALILLO COUNTY * | 35001C0193E | 19-NOV-2003
06 | NM | BERNALILLO COUNTY * | 35001C0200E | 19-NOV-2003
06 | NM | BERNALILLO COUNTY * | 35001C0275E | 19-NOV-2003
06 | NM | BERNALILLO COUNTY * | 35001C0287E | 19-NOV-2003
06 | NM | BERNALILLO COUNTY * | 35001C0289E | 19-NOV-2003
06 | NM | BERNALILLO COUNTY * | 35001C0291E | 19-NOV-2003
06 | NM | BERNALILLO COUNTY * | 35001C0293E | 19-NOV-2003
06 | NM | BERNALILLO COUNTY * | 35001C0300E | 19-NOV-2003
06 | NM | BERNALILLO COUNTY * | 35001C0307E | 19-NOV-2003
06 | NM | BERNALILLO COUNTY * | 35001C0308E | 19-NOV-2003
06 | NM | BERNALILLO COUNTY * | 35001C0309E | 19-NOV-2003
06 | NM | BERNALILLO COUNTY * | 35001C0316E | 19-NOV-2003
06 | NM | BERNALILLO COUNTY * | 35001C0317E | 19-NOV-2003
06 | NM | BERNALILLO COUNTY * | 35001C0319E | 19-NOV-2003
06 | NM | BERNALILLO COUNTY * | 35001C0325E | 19-NOV-2003
06 | NM | BERNALILLO COUNTY * | 35001C0326E | 19-NOV-2003
06 | NM | BERNALILLO COUNTY * | 35001C0327E | 19-NOV-2003
06 | NM | BERNALILLO COUNTY * | 35001C0328E | 19-NOV-2003
06 | NM | BERNALILLO COUNTY * | 35001C0329E | 19-NOV-2003
06 | NM | BERNALILLO COUNTY * | 35001C0331E | 19-NOV-2003
06 | NM | BERNALILLO COUNTY * | 35001C0332E | 19-NOV-2003
06 | NM | BERNALILLO COUNTY * | 35001C0333E | 19-NOV-2003
06 | NM | BERNALILLO COUNTY * | 35001C0334E | 19-NOV-2003
06 | NM | BERNALILLO COUNTY * | 35001C0336E | 19-NOV-2003
06 | NM | BERNALILLO COUNTY * | 35001C0337E | 19-NOV-2003
06 | NM | BERNALILLO COUNTY * | 35001C0338E | 19-NOV-2003
06 | NM | BERNALILLO COUNTY * | 35001C0339E | 19-NOV-2003
06 | NM | BERNALILLO COUNTY * | 35001C0341E | 19-NOV-2003
06 | NM | BERNALILLO COUNTY * | 35001C0342E | 19-NOV-2003
06 | NM | BERNALILLO COUNTY * | 35001C0343E | 19-NOV-2003
06 | NM | BERNALILLO COUNTY * | 35001C0344E | 19-NOV-2003
06 | NM | BERNALILLO COUNTY * | 35001C0351E | 19-NOV-2003
06 | NM | BERNALILLO COUNTY * | 35001C0352E | 19-NOV-2003
06 | NM | BERNALILLO COUNTY * | 35001C0353E | 19-NOV-2003
06 | NM | BERNALILLO COUNTY * | 35001C0354E | 19-NOV-2003
06 | NM | BERNALILLO COUNTY * | 35001C0356E | 19-NOV-2003
06 | NM | BERNALILLO COUNTY * | 35001C0357E | 19-NOV-2003
06 | NM | BERNALILLO COUNTY * | 35001C0358F | 19-NOV-2003
06 | NM | BERNALILLO COUNTY * | 35001C0359F | 19-NOV-2003
06 | NM | BERNALILLO COUNTY * | 35001C0361E | 19-NOV-2003
06 | NM | BERNALILLO COUNTY * | 35001C0362E | 19-NOV-2003
06 | NM | BERNALILLO COUNTY * | 35001C0363E | 19-NOV-2003
06 | NM | BERNALILLO COUNTY * | 35001C0364E | 19-NOV-2003
06 | NM | BERNALILLO COUNTY * | 35001C0366E | 19-NOV-2003
06 | NM | BERNALILLO COUNTY * | 35001C0367F | 19-NOV-2003
06 | NM | BERNALILLO COUNTY * | 35001C0376E | 19-NOV-2003
06 | NM | BERNALILLO COUNTY * | 35001C0378E | 19-NOV-2003
06 | NM | BERNALILLO COUNTY * | 35001C0379F | 19-NOV-2003
06 | NM | BERNALILLO COUNTY * | 35001C0383F | 19-NOV-2003
06 | NM | BERNALILLO COUNTY * | 35001C0384E | 19-NOV-2003
06 | NM | BERNALILLO COUNTY * | 35001C0386F | 19-NOV-2003
06 | NM | BERNALILLO COUNTY * | 35001C0387F | 19-NOV-2003
06 | NM | BERNALILLO COUNTY * | 35001C0401E | 19-NOV-2003
06 | NM | BERNALILLO COUNTY * | 35001C0403E | 19-NOV-2003
06 | NM | BERNALILLO COUNTY * | 35001C0500E | 19-NOV-2003
06 | NM | BERNALILLO COUNTY * | 35001C0507E | 19-NOV-2003
06 | NM | BERNALILLO COUNTY * | 35001C0525E | 19-NOV-2003
06 | NM | BERNALILLO COUNTY * | 35001C0526E | 19-NOV-2003
06 | NM | BERNALILLO COUNTY * | 35001C0527E | 19-NOV-2003
06 | NM | BERNALILLO COUNTY * | 35001C0528E | 19-NOV-2003
06 | NM | BERNALILLO COUNTY * | 35001C0529E | 19-NOV-2003
06 | NM | BERNALILLO COUNTY * | 35001C0531E | 19-NOV-2003
06 | NM | BERNALILLO COUNTY * | 35001C0533E | 19-NOV-2003
06 | NM | BERNALILLO COUNTY * | 35001C0535E | 19-NOV-2003
06 | NM | BERNALILLO COUNTY * | 35001C0555E | 19-NOV-2003
06 | NM | BERNALILLO COUNTY * | 35001CIND0A** | 19-NOV-2003
06 | NM | LAS RANCHOS DE ALBUQUERQUE, VILLAGE OF | 35001C0109F | 19-NOV-2003
06 | NM | LAS RANCHOS DE ALBUQUERQUE, VILLAGE OF | 35001C0116F | 19-NOV-2003
06 | NM | LAS RANCHOS DE ALBUQUERQUE, VILLAGE OF | 35001C0117F | 19-NOV-2003
06 | NM | LAS RANCHOS DE ALBUQUERQUE, VILLAGE OF | 35001C0118E | 19-NOV-2003
06 | NM | LAS RANCHOS DE ALBUQUERQUE, VILLAGE OF | 35001C0119E | 19-NOV-2003
06 | NM | LAS RANCHOS DE ALBUQUERQUE, VILLAGE OF | 35001C0136F | 19-NOV-2003
06 | NM | LAS RANCHOS DE ALBUQUERQUE, VILLAGE OF | 35001CIND0A** | 19-NOV-2003
06 | NM | TIJERAS, VILLAGE OF | 35001C0384E | 19-NOV-2003
06 | NM | TIJERAS, VILLAGE OF | 35001C0401E | 19-NOV-2003
06 | NM | TIJERAS, VILLAGE OF | 35001C0403E | 19-NOV-2003
06 | NM | TIJERAS, VILLAGE OF | 35001CIND0A** | 19-NOV-2003
06 | OK | ADAIR, TOWN OF | 40097C0135D | 26-SEP-2003
06 | OK | ADAIR, TOWN OF | 40097C0145D | 26-SEP-2003
06 | OK | ADAIR, TOWN OF | 40097C0155D | 26-SEP-2003
06 | OK | ADAIR, TOWN OF | 40097C0165D | 26-SEP-2003
06 | OK | ADAIR, TOWN OF | 40097CIND0A** | 26-SEP-2003
06 | OK | CHOUTEAU, TOWN OF | 40097C0328D | 26-SEP-2003
06 | OK | CHOUTEAU, TOWN OF | 40097C0329D | 26-SEP-2003
06 | OK | CHOUTEAU, TOWN OF | 40097C0336D | 26-SEP-2003
06 | OK | CHOUTEAU, TOWN OF | 40097C0337D | 26-SEP-2003
06 | OK | CHOUTEAU, TOWN OF | 40097CIND0A** | 26-SEP-2003
06 | OK | DISNEY, TOWN OF | 40097C0185D | 26-SEP-2003
06 | OK | DISNEY, TOWN OF | 40097CIND0A** | 26-SEP-2003
06 | OK | ELK CITY, CITY OF | 4000100016D | 16-DEC-2003
06 | OK | ELK CITY, CITY OF | 4000100017D | 16-DEC-2003
06 | OK | ELK CITY, CITY OF | 4000100018D | 16-DEC-2003
06 | OK | ELK CITY, CITY OF | 4000100019D | 16-DEC-2003
06 | OK | ELK CITY, CITY OF | 4000100081D | 16-DEC-2003
06 | OK | ELK CITY, CITY OF | 4000100082D | 16-DEC-2003
06 | OK | ELK CITY, CITY OF | 400010IND1A** | 16-DEC-2003
06 | OK | ELK CITY, CITY OF | 400010IND2A** | 16-DEC-2003
06 | OK | GRAND LAKE TOWNE, TOWN OF | 40097C0100D | 26-SEP-2003
06 | OK | GRAND LAKE TOWNE, TOWN OF | 40097CIND0A** | 26-SEP-2003
06 | OK | LANGLEY, TOWN OF | 40097C0180D | 26-SEP-2003
06 | OK | LANGLEY, TOWN OF | 40097C0181D | 26-SEP-2003
06 | OK | LANGLEY, TOWN OF | 40097C0183D | 26-SEP-2003
06 | OK | LANGLEY, TOWN OF | 40097CIND0A** | 26-SEP-2003
06 | OK | LOCUST GROVE, TOWN OF | 40097C0360D | 26-SEP-2003
06 | OK | LOCUST GROVE, TOWN OF | 40097C0370D | 26-SEP-2003
06 | OK | LOCUST GROVE, TOWN OF | 40097CIND0A** | 26-SEP-2003
06 | OK | MAYES COUNTY* | 40097C0025D | 26-SEP-2003
06 | OK | MAYES COUNTY* | 40097C0050D | 26-SEP-2003
06 | OK | MAYES COUNTY* | 40097C0075D | 26-SEP-2003
06 | OK | MAYES COUNTY* | 40097C0100D | 26-SEP-2003
06 | OK | MAYES COUNTY* | 40097C0125D | 26-SEP-2003
06 | OK | MAYES COUNTY* | 40097C0135D | 26-SEP-2003
06 | OK | MAYES COUNTY* | 40097C0145D | 26-SEP-2003
06 | OK | MAYES COUNTY* | 40097C0150D | 26-SEP-2003
06 | OK | MAYES COUNTY* | 40097C0155D | 26-SEP-2003
06 | OK | MAYES COUNTY* | 40097C0160D | 26-SEP-2003
06 | OK | MAYES COUNTY* | 40097C0165D | 26-SEP-2003
06 | OK | MAYES COUNTY* | 40097C0170D | 26-SEP-2003
06 | OK | MAYES COUNTY* | 40097C0180D | 26-SEP-2003
06 | OK | MAYES COUNTY* | 40097C0181D | 26-SEP-2003
06 | OK | MAYES COUNTY* | 40097C0183D | 26-SEP-2003
06 | OK | MAYES COUNTY* | 40097C0185D | 26-SEP-2003
06 | OK | MAYES COUNTY* | 40097C0190D | 26-SEP-2003
06 | OK | MAYES COUNTY* | 40097C0193D | 26-SEP-2003
06 | OK | MAYES COUNTY* | 40097C0195D | 26-SEP-2003
06 | OK | MAYES COUNTY* | 40097C0225D | 26-SEP-2003
06 | OK | MAYES COUNTY* | 40097C0229D | 26-SEP-2003
06 | OK | MAYES COUNTY* | 40097C0230D | 26-SEP-2003
06 | OK | MAYES COUNTY* | 40097C0233D | 26-SEP-2003
06 | OK | MAYES COUNTY* | 40097C0235D | 26-SEP-2003
06 | OK | MAYES COUNTY* | 40097C0237D | 26-SEP-2003
06 | OK | MAYES COUNTY* | 40097C0239D | 26-SEP-2003
06 | OK | MAYES COUNTY* | 40097C0240D | 26-SEP-2003
06 | OK | MAYES COUNTY* | 40097C0241D | 26-SEP-2003
06 | OK | MAYES COUNTY* | 40097C0243D | 26-SEP-2003
06 | OK | MAYES COUNTY* | 40097C0245D | 26-SEP-2003
06 | OK | MAYES COUNTY* | 40097C0255D | 26-SEP-2003
06 | OK | MAYES COUNTY* | 40097C0260D | 26-SEP-2003
06 | OK | MAYES COUNTY* | 40097C0265D | 26-SEP-2003
06 | OK | MAYES COUNTY* | 40097C0266D | 26-SEP-2003
06 | OK | MAYES COUNTY* | 40097C0267D | 26-SEP-2003
06 | OK | MAYES COUNTY* | 40097C0270D | 26-SEP-2003
06 | OK | MAYES COUNTY* | 40097C0300D | 26-SEP-2003
06 | OK | MAYES COUNTY* | 40097C0325D | 26-SEP-2003
06 | OK | MAYES COUNTY* | 40097C0328D | 26-SEP-2003
06 | OK | MAYES COUNTY* | 40097C0329D | 26-SEP-2003
06 | OK | MAYES COUNTY* | 40097C0330D | 26-SEP-2003
06 | OK | MAYES COUNTY* | 40097C0335D | 26-SEP-2003
06 | OK | MAYES COUNTY* | 40097C0336D | 26-SEP-2003
06 | OK | MAYES COUNTY* | 40097C0337D | 26-SEP-2003
06 | OK | MAYES COUNTY* | 40097C0340D | 26-SEP-2003
06 | OK | MAYES COUNTY* | 40097C0345D | 26-SEP-2003
06 | OK | MAYES COUNTY* | 40097C0355D | 26-SEP-2003
06 | OK | MAYES COUNTY* | 40097C0360D | 26-SEP-2003
06 | OK | MAYES COUNTY* | 40097C0365D | 26-SEP-2003
06 | OK | MAYES COUNTY* | 40097C0370D | 26-SEP-2003
06 | OK | MAYES COUNTY* | 40097C0400D | 26-SEP-2003
06 | OK | MAYES COUNTY* | 40097C0425D | 26-SEP-2003
06 | OK | MAYES COUNTY* | 40097C0450D | 26-SEP-2003
06 | OK | MAYES COUNTY* | 40097C0475D | 26-SEP-2003
06 | OK | MAYES COUNTY* | 40097CIND0A** | 26-SEP-2003
06 | OK | PENSACOLA, TOWN OF | 40097C0160D | 26-SEP-2003
06 | OK | PENSACOLA, TOWN OF | 40097CIND0A** | 26-SEP-2003
06 | OK | PRYOR CREEK,CITY OF | 40097C0229D | 26-SEP-2003
06 | OK | PRYOR CREEK,CITY OF | 40097C0233D | 26-SEP-2003
06 | OK | PRYOR CREEK,CITY OF | 40097C0237D | 26-SEP-2003
06 | OK | PRYOR CREEK,CITY OF | 40097C0239D | 26-SEP-2003
06 | OK | PRYOR CREEK,CITY OF | 40097C0240D | 26-SEP-2003
06 | OK | PRYOR CREEK,CITY OF | 40097C0241D | 26-SEP-2003
06 | OK | PRYOR CREEK,CITY OF | 40097C0243D | 26-SEP-2003
06 | OK | PRYOR CREEK,CITY OF | 40097C0330D | 26-SEP-2003
06 | OK | PRYOR CREEK,CITY OF | 40097CIND0A** | 26-SEP-2003
06 | OK | SALINA, TOWN OF | 40097C0266D | 26-SEP-2003
06 | OK | SALINA, TOWN OF | 40097C0267D | 26-SEP-2003
06 | OK | SALINA, TOWN OF | 40097C0270D | 26-SEP-2003
06 | OK | SALINA, TOWN OF | 40097CIND0A** | 26-SEP-2003
06 | OK | SPAVINAW, TOWN OF | 40097C0193D | 26-SEP-2003
06 | OK | SPAVINAW, TOWN OF | 40097C0195D | 26-SEP-2003
06 | OK | SPAVINAW, TOWN OF | 40097CIND0A** | 26-SEP-2003
06 | OK | SPORTSMEN ACRES | 40097C0335D | 26-SEP-2003
06 | OK | SPORTSMEN ACRES | 40097C0355D | 26-SEP-2003
06 | OK | SPORTSMEN ACRES | 40097CIND0A** | 26-SEP-2003
06 | OK | STRANG, TOWN OF | 40097C0170D | 26-SEP-2003
06 | OK | STRANG, TOWN OF | 40097CIND0A** | 26-SEP-2003
06 | TX | BERTRAM, CITY OF | 48053CIND0A** | 26-SEP-2003
06 | TX | BURNET COUNTY * | 48053C0312D | 26-SEP-2003
06 | TX | BURNET COUNTY * | 48053CIND0A** | 26-SEP-2003
06 | TX | BURNET, CITY OF | 48053CIND0A** | 26-SEP-2003
06 | TX | COTTONWOOD SHORES, CITY OF | 48053CIND0A** | 26-SEP-2003
06 | TX | GRANITE SHOALS, CITY OF | 48053CIND0A** | 26-SEP-2003
06 | TX | LIVE OAK COUNTY | 4811790175A | 19-NOV-2003
06 | TX | LIVE OAK COUNTY | 4811790275A | 19-NOV-2003
06 | TX | LIVE OAK COUNTY | 4811790300A | 19-NOV-2003
06 | TX | LIVE OAK COUNTY | 4811790375A | 19-NOV-2003
06 | TX | LIVE OAK COUNTY | 4811790400A | 19-NOV-2003
06 | TX | LIVE OAK COUNTY | 4811790425A | 19-NOV-2003
06 | TX | LIVE OAK COUNTY | 4811790550A | 19-NOV-2003
06 | TX | LIVE OAK COUNTY | 4811790575A | 19-NOV-2003
06 | TX | LIVE OAK COUNTY | 4811790675A | 19-NOV-2003
06 | TX | LIVE OAK COUNTY | 481179IND0A** | 19-NOV-2003
06 | TX | MARBLE FALLS, CITY OF | 48053C0312D | 26-SEP-2003
06 | TX | MARBLE FALLS, CITY OF | 48053CIND0A** | 26-SEP-2003
06 | TX | MEADOWLAKES, CITY OF | 48053C0312D | 26-SEP-2003
06 | TX | MEADOWLAKES, CITY OF | 48053CIND0A** | 26-SEP-2003
07 | IA | HANCOCK COUNTY* | 1908730025B | 02-DEC-2003
07 | IA | HANCOCK COUNTY* | 1908730027B | 02-DEC-2003
07 | IA | HANCOCK COUNTY* | 1908730029B | 02-DEC-2003
07 | IA | HANCOCK COUNTY* | 1908730035B | 02-DEC-2003
07 | IA | HANCOCK COUNTY* | 1908730050B | 02-DEC-2003
07 | IA | HANCOCK COUNTY* | 1908730075B | 02-DEC-2003
07 | IA | HANCOCK COUNTY* | 1908730100B | 02-DEC-2003
07 | IA | HANCOCK COUNTY* | 1908730125B | 02-DEC-2003
07 | IA | HANCOCK COUNTY* | 1908730150B | 02-DEC-2003
07 | IA | HANCOCK COUNTY* | 190873IND0A** | 02-DEC-2003
07 | KS | GRIDLEY, CITY OF | 2000640001A | 02-DEC-2003
07 | KS | MANHATTAN, CITY OF | 20161C0334E | 19-NOV-2003
07 | KS | MANHATTAN, CITY OF | 20161C0335E | 19-NOV-2003
07 | KS | MANHATTAN, CITY OF | 20161C0340E | 19-NOV-2003
07 | KS | MANHATTAN, CITY OF | 20161C0342E | 19-NOV-2003
07 | KS | MANHATTAN, CITY OF | 20161C0343E | 19-NOV-2003
07 | KS | MANHATTAN, CITY OF | 20161C0344E | 19-NOV-2003
07 | KS | MANHATTAN, CITY OF | 20161C0351E | 19-NOV-2003
07 | KS | MANHATTAN, CITY OF | 20161C0352E | 19-NOV-2003
07 | KS | MANHATTAN, CITY OF | 20161C0353E | 19-NOV-2003
07 | KS | MANHATTAN, CITY OF | 20161C0354E | 19-NOV-2003
07 | KS | MANHATTAN, CITY OF | 20161C0358E | 19-NOV-2003
07 | KS | MANHATTAN, CITY OF | 20161C0361E | 19-NOV-2003
07 | KS | MANHATTAN, CITY OF | 20161C0362E | 19-NOV-2003
07 | KS | MANHATTAN, CITY OF | 20161C0364E | 19-NOV-2003
07 | KS | MANHATTAN, CITY OF | 20161C0366E | 19-NOV-2003
07 | KS | MANHATTAN, CITY OF | 20161C0427E | 19-NOV-2003
07 | KS | MANHATTAN, CITY OF | 20161C0431E | 19-NOV-2003
07 | KS | MANHATTAN, CITY OF | 20161CIND1A** | 19-NOV-2003
07 | KS | MANHATTAN, CITY OF | 20161CIND2A** | 19-NOV-2003
07 | KS | OGDEN, CITY OF | 20161C0427E | 19-NOV-2003
07 | KS | OGDEN, CITY OF | 20161CIND1A** | 19-NOV-2003
07 | KS | OGDEN, CITY OF | 20161CIND2A** | 19-NOV-2003
07 | KS | RANDOLPH, CITY OF | 20161C0150E | 19-NOV-2003
07 | KS | RANDOLPH, CITY OF | 20161CIND1A** | 19-NOV-2003
07 | KS | RANDOLPH, CITY OF | 20161CIND2A** | 19-NOV-2003
07 | KS | RILEY COUNTY * | 20161C0025E | 19-NOV-2003
07 | KS | RILEY COUNTY * | 20161C0050E | 19-NOV-2003
07 | KS | RILEY COUNTY * | 20161C0075E | 19-NOV-2003
07 | KS | RILEY COUNTY * | 20161C0100E | 19-NOV-2003
07 | KS | RILEY COUNTY * | 20161C0125E | 19-NOV-2003
07 | KS | RILEY COUNTY * | 20161C0150E | 19-NOV-2003
07 | KS | RILEY COUNTY * | 20161C0175E | 19-NOV-2003
07 | KS | RILEY COUNTY * | 20161C0200E | 19-NOV-2003
07 | KS | RILEY COUNTY * | 20161C0212E | 19-NOV-2003
07 | KS | RILEY COUNTY * | 20161C0215E | 19-NOV-2003
07 | KS | RILEY COUNTY * | 20161C0225E | 19-NOV-2003
07 | KS | RILEY COUNTY * | 20161C0250E | 19-NOV-2003
07 | KS | RILEY COUNTY * | 20161C0263E | 19-NOV-2003
07 | KS | RILEY COUNTY * | 20161C0264E | 19-NOV-2003
07 | KS | RILEY COUNTY * | 20161C0325E | 19-NOV-2003
07 | KS | RILEY COUNTY * | 20161C0327E | 19-NOV-2003
07 | KS | RILEY COUNTY * | 20161C0329E | 19-NOV-2003
07 | KS | RILEY COUNTY * | 20161C0330E | 19-NOV-2003
07 | KS | RILEY COUNTY * | 20161C0333E | 19-NOV-2003
07 | KS | RILEY COUNTY * | 20161C0334E | 19-NOV-2003
07 | KS | RILEY COUNTY * | 20161C0335E | 19-NOV-2003
07 | KS | RILEY COUNTY * | 20161C0340E | 19-NOV-2003
07 | KS | RILEY COUNTY * | 20161C0341E | 19-NOV-2003
07 | KS | RILEY COUNTY * | 20161C0342E | 19-NOV-2003
07 | KS | RILEY COUNTY * | 20161C0343E | 19-NOV-2003
07 | KS | RILEY COUNTY * | 20161C0344E | 19-NOV-2003
07 | KS | RILEY COUNTY * | 20161C0351E | 19-NOV-2003
07 | KS | RILEY COUNTY * | 20161C0352E | 19-NOV-2003
07 | KS | RILEY COUNTY * | 20161C0353E | 19-NOV-2003
07 | KS | RILEY COUNTY * | 20161C0354E | 19-NOV-2003
07 | KS | RILEY COUNTY * | 20161C0356E | 19-NOV-2003
07 | KS | RILEY COUNTY * | 20161C0358E | 19-NOV-2003
07 | KS | RILEY COUNTY * | 20161C0359E | 19-NOV-2003
07 | KS | RILEY COUNTY * | 20161C0361E | 19-NOV-2003
07 | KS | RILEY COUNTY * | 20161C0362E | 19-NOV-2003
07 | KS | RILEY COUNTY * | 20161C0363E | 19-NOV-2003
07 | KS | RILEY COUNTY * | 20161C0364E | 19-NOV-2003
07 | KS | RILEY COUNTY * | 20161C0366E | 19-NOV-2003
07 | KS | RILEY COUNTY * | 20161C0367E | 19-NOV-2003
07 | KS | RILEY COUNTY * | 20161C0368E | 19-NOV-2003
07 | KS | RILEY COUNTY * | 20161C0369E | 19-NOV-2003
07 | KS | RILEY COUNTY * | 20161C0380E | 19-NOV-2003
07 | KS | RILEY COUNTY * | 20161C0383E | 19-NOV-2003
07 | KS | RILEY COUNTY * | 20161C0390E | 19-NOV-2003
07 | KS | RILEY COUNTY * | 20161C0391E | 19-NOV-2003
07 | KS | RILEY COUNTY * | 20161C0392E | 19-NOV-2003
07 | KS | RILEY COUNTY * | 20161C0393E | 19-NOV-2003
07 | KS | RILEY COUNTY * | 20161C0410E | 19-NOV-2003
07 | KS | RILEY COUNTY * | 20161C0427E | 19-NOV-2003
07 | KS | RILEY COUNTY * | 20161C0430E | 19-NOV-2003
07 | KS | RILEY COUNTY * | 20161C0431E | 19-NOV-2003
07 | KS | RILEY COUNTY * | 20161C0435E | 19-NOV-2003
07 | KS | RILEY COUNTY * | 20161C0475E | 19-NOV-2003
07 | KS | RILEY COUNTY * | 20161C0500E | 19-NOV-2003
07 | KS | RILEY COUNTY * | 20161CIND1A** | 19-NOV-2003
07 | KS | RILEY COUNTY * | 20161CIND2A** | 19-NOV-2003
07 | KS | RILEY, CITY OF | 20161C0212E | 19-NOV-2003
07 | KS | RILEY, CITY OF | 20161CIND1A** | 19-NOV-2003
07 | KS | RILEY, CITY OF | 20161CIND2A** | 19-NOV-2003
07 | MO | ALLENDALE, CITY OF | 29227C0225B | 03-SEP-2003
07 | MO | ALLENDALE, CITY OF | 29227CIND0A** | 03-SEP-2003
07 | MO | AMITY, VILLAGE OF | 29063C0230C | 19-NOV-2003
07 | MO | AMITY, VILLAGE OF | 29063C0235C | 19-NOV-2003
07 | MO | AMITY, VILLAGE OF | 29063CIND0A** | 19-NOV-2003
07 | MO | CLARKSDALE, CITY OF | 29063C0210C | 19-NOV-2003
07 | MO | CLARKSDALE, CITY OF | 29063C0220C | 19-NOV-2003
07 | MO | CLARKSDALE, CITY OF | 29063CIND0A** | 19-NOV-2003
07 | MO | DEKALB COUNTY * | 29063C0025C | 19-NOV-2003
07 | MO | DEKALB COUNTY * | 29063C0050C | 19-NOV-2003
07 | MO | DEKALB COUNTY * | 29063C0075C | 19-NOV-2003
07 | MO | DEKALB COUNTY * | 29063C0100C | 19-NOV-2003
07 | MO | DEKALB COUNTY * | 29063C0105C | 19-NOV-2003
07 | MO | DEKALB COUNTY * | 29063C0125C | 19-NOV-2003
07 | MO | DEKALB COUNTY * | 29063C0150C | 19-NOV-2003
07 | MO | DEKALB COUNTY * | 29063C0165C | 19-NOV-2003
07 | MO | DEKALB COUNTY * | 29063C0175C | 19-NOV-2003
07 | MO | DEKALB COUNTY * | 29063C0190C | 19-NOV-2003
07 | MO | DEKALB COUNTY * | 29063C0200C | 19-NOV-2003
07 | MO | DEKALB COUNTY * | 29063C0210C | 19-NOV-2003
07 | MO | DEKALB COUNTY * | 29063C0220C | 19-NOV-2003
07 | MO | DEKALB COUNTY * | 29063C0225C | 19-NOV-2003
07 | MO | DEKALB COUNTY * | 29063C0230C | 19-NOV-2003
07 | MO | DEKALB COUNTY * | 29063C0235C | 19-NOV-2003
07 | MO | DEKALB COUNTY * | 29063C0240C | 19-NOV-2003
07 | MO | DEKALB COUNTY * | 29063C0245C | 19-NOV-2003
07 | MO | DEKALB COUNTY * | 29063C0265C | 19-NOV-2003
07 | MO | DEKALB COUNTY * | 29063C0270C | 19-NOV-2003
07 | MO | DEKALB COUNTY * | 29063C0275C | 19-NOV-2003
07 | MO | DEKALB COUNTY * | 29063C0290C | 19-NOV-2003
07 | MO | DEKALB COUNTY * | 29063C0300C | 19-NOV-2003
07 | MO | DEKALB COUNTY * | 29063C0305C | 19-NOV-2003
07 | MO | DEKALB COUNTY * | 29063C0310C | 19-NOV-2003
07 | MO | DEKALB COUNTY * | 29063C0330C | 19-NOV-2003
07 | MO | DEKALB COUNTY * | 29063C0335C | 19-NOV-2003
07 | MO | DEKALB COUNTY * | 29063C0355C | 19-NOV-2003
07 | MO | DEKALB COUNTY * | 29063C0380C | 19-NOV-2003
07 | MO | DEKALB COUNTY * | 29063CIND0A** | 19-NOV-2003
07 | MO | DENVER, VILLAGE OF | 29227C0214B | 03-SEP-2003
07 | MO | DENVER, VILLAGE OF | 29227CIND0A** | 03-SEP-2003
07 | MO | GASCONADE COUNTY* | 2908010029C | 16-DEC-2003
07 | MO | GASCONADE COUNTY* | 2908010030C | 16-DEC-2003
07 | MO | GASCONADE COUNTY* | 2908010037C | 16-DEC-2003
07 | MO | GASCONADE COUNTY* | 2908010050C | 16-DEC-2003
07 | MO | GASCONADE COUNTY* | 290801IND0A** | 16-DEC-2003
07 | MO | GRANT CITY, CITY OF | 29227C0200B | 03-SEP-2003
07 | MO | GRANT CITY, CITY OF | 29227CIND0A** | 03-SEP-2003
07 | MO | HERMANN, CITY OF | 2901410001C | 16-DEC-2003
07 | MO | MAYSVILLE, CITY OF | 29063C0165C | 19-NOV-2003
07 | MO | MAYSVILLE, CITY OF | 29063CIND0A** | 19-NOV-2003
07 | MO | OSBORN, CITY OF | 29063C0265C | 19-NOV-2003
07 | MO | OSBORN, CITY OF | 29063C0355C | 19-NOV-2003
07 | MO | OSBORN, CITY OF | 29063CIND0A** | 19-NOV-2003
07 | MO | SHERIDAN, CITY OF | 29227C0038B | 03-SEP-2003
07 | MO | SHERIDAN, CITY OF | 29227CIND0A** | 03-SEP-2003
07 | MO | STEWARTSVILLE, CITY OF | 29063C0220C | 19-NOV-2003
07 | MO | STEWARTSVILLE, CITY OF | 29063C0240C | 19-NOV-2003
07 | MO | STEWARTSVILLE, CITY OF | 29063C0310C | 19-NOV-2003
07 | MO | STEWARTSVILLE, CITY OF | 29063C0330C | 19-NOV-2003
07 | MO | STEWARTSVILLE, CITY OF | 29063CIND0A** | 19-NOV-2003
07 | MO | UNION STAR, CITY OF | 29063C0105C | 19-NOV-2003
07 | MO | UNION STAR, CITY OF | 29063CIND0A** | 19-NOV-2003
07 | MO | WEATHERBY, VILLAGE OF | 29063C0190C | 19-NOV-2003
07 | MO | WEATHERBY, VILLAGE OF | 29063CIND0A** | 19-NOV-2003
07 | MO | WILLARD, CITY OF | 2906530001A | 04-AUG-2003
07 | MO | WILLARD, CITY OF | 2906530003A | 04-AUG-2003
07 | MO | WILLARD, CITY OF | 2906530004A | 04-AUG-2003
07 | MO | WILLARD, CITY OF | 2906530006A | 04-AUG-2003
07 | MO | WILLARD, CITY OF | 2906530007A | 04-AUG-2003
07 | MO | WILLARD, CITY OF | 290653IND0A** | 04-AUG-2003
07 | MO | WORTH COUNTY * | 29227C0025B | 03-SEP-2003
07 | MO | WORTH COUNTY * | 29227C0038B | 03-SEP-2003
07 | MO | WORTH COUNTY * | 29227C0050B | 03-SEP-2003
07 | MO | WORTH COUNTY * | 29227C0075B | 03-SEP-2003
07 | MO | WORTH COUNTY * | 29227C0100B | 03-SEP-2003
07 | MO | WORTH COUNTY * | 29227C0125B | 03-SEP-2003
07 | MO | WORTH COUNTY * | 29227C0175B | 03-SEP-2003
07 | MO | WORTH COUNTY * | 29227C0190B | 03-SEP-2003
07 | MO | WORTH COUNTY * | 29227C0200B | 03-SEP-2003
07 | MO | WORTH COUNTY * | 29227C0214B | 03-SEP-2003
07 | MO | WORTH COUNTY * | 29227C0215B | 03-SEP-2003
07 | MO | WORTH COUNTY * | 29227C0225B | 03-SEP-2003
07 | MO | WORTH COUNTY * | 29227C0250B | 03-SEP-2003
07 | MO | WORTH COUNTY * | 29227CIND0A** | 03-SEP-2003
07 | MO | WORTH, CITY OF | 29227C0190B | 03-SEP-2003
07 | MO | WORTH, CITY OF | 29227CIND0A** | 03-SEP-2003
08 | SD | AURORA COUNTY * | 46003C0326C | 19-NOV-2003
08 | SD | AURORA COUNTY * | 46003C0328C | 19-NOV-2003
08 | SD | AURORA COUNTY * | 46003CIND0A** | 19-NOV-2003
08 | SD | PLANKINTON, CITY OF | 46003C0326C | 19-NOV-2003
08 | SD | PLANKINTON, CITY OF | 46003C0328C | 19-NOV-2003
08 | SD | PLANKINTON, CITY OF | 46003CIND0A** | 19-NOV-2003
09 | AZ | LA PAZ COUNTY* | 0401220545B** | 19-NOV-2003
09 | AZ | LA PAZ COUNTY* | 0401220575B** | 19-NOV-2003
09 | AZ | LA PAZ COUNTY* | 0401222410B | 19-NOV-2003
09 | AZ | LA PAZ COUNTY* | 040122IND0A** | 19-NOV-2003
09 | AZ | NAVAJO COUNTY * | 0400662204C | 19-NOV-2003
09 | AZ | NAVAJO COUNTY * | 0400662208C | 19-NOV-2003
09 | AZ | NAVAJO COUNTY * | 0400662212C | 19-NOV-2003
09 | AZ | NAVAJO COUNTY * | 0400662216C | 19-NOV-2003
09 | AZ | NAVAJO COUNTY * | 0400662218C | 19-NOV-2003
09 | AZ | NAVAJO COUNTY * | 0400662219C | 19-NOV-2003
09 | AZ | NAVAJO COUNTY * | 0400662225C | 19-NOV-2003
09 | AZ | NAVAJO COUNTY * | 0400662332C | 19-NOV-2003
09 | AZ | NAVAJO COUNTY * | 0400662350C | 19-NOV-2003
09 | AZ | NAVAJO COUNTY * | 0400662351C | 19-NOV-2003
09 | AZ | NAVAJO COUNTY * | 0400662375C | 19-NOV-2003
09 | AZ | NAVAJO COUNTY * | 040066IND0A** | 19-NOV-2003
09 | AZ | TAYLOR, TOWN OF | 0400710017D | 19-NOV-2003
09 | AZ | TAYLOR, TOWN OF | 040071IND0A** | 19-NOV-2003
09 | CA | CONTRA COSTA COUNTY* | 0600250287D | 02-DEC-2003
09 | CA | CONTRA COSTA COUNTY* | 0600250290D | 02-DEC-2003
09 | CA | LAKE ELSINORE, CITY OF | 0606362032F | 18-AUG-2003
09 | CA | LAKE ELSINORE, CITY OF | 0606362033F | 18-AUG-2003
09 | CA | LAKE ELSINORE, CITY OF | 0606362034F | 18-AUG-2003
09 | CA | LAKE ELSINORE, CITY OF | 0606362041F | 18-AUG-2003
09 | CA | LAKE ELSINORE, CITY OF | 0606362042F | 18-AUG-2003
09 | CA | LAKE ELSINORE, CITY OF | 0606362044F | 18-AUG-2003
09 | CA | LAKE ELSINORE, CITY OF | 0606362051F | 18-AUG-2003
09 | CA | LAKE ELSINORE, CITY OF | 0606362053F | 18-AUG-2003
09 | CA | LAKE ELSINORE, CITY OF | 0606362054F | 18-AUG-2003
09 | CA | LAKE ELSINORE, CITY OF | 0606362058F | 18-AUG-2003
09 | CA | LAKE ELSINORE, CITY OF | 0606362061F | 18-AUG-2003
09 | CA | LAKE ELSINORE, CITY OF | 0606362062F | 18-AUG-2003
09 | CA | LAKE ELSINORE, CITY OF | 0606362063F | 18-AUG-2003
09 | CA | LAKE ELSINORE, CITY OF | 0606362064F | 18-AUG-2003
09 | CA | LAKE ELSINORE, CITY OF | 0606362066F | 18-AUG-2003
09 | CA | LAKE ELSINORE, CITY OF | 0606362067F | 18-AUG-2003
09 | CA | LAKE ELSINORE, CITY OF | 0606362068F | 18-AUG-2003
09 | CA | LAKE ELSINORE, CITY OF | 0606362706F | 18-AUG-2003
09 | CA | LAKE ELSINORE, CITY OF | 060636IND0A** | 18-AUG-2003
09 | CA | PLEASANT HILL, CITY OF | 0600340001C | 02-DEC-2003
09 | CA | PLEASANT HILL, CITY OF | 0600340003C | 02-DEC-2003
09 | CA | PLEASANT HILL, CITY OF | 0600340005C | 02-DEC-2003
09 | CA | PLEASANT HILL, CITY OF | 060034IND0A** | 02-DEC-2003
09 | CA | RIVERSIDE COUNTY * | 0602452035D | 18-AUG-2003
09 | CA | RIVERSIDE COUNTY * | 0602452065C | 18-AUG-2003
09 | CA | RIVERSIDE COUNTY * | 0602452070D | 18-AUG-2003
09 | CA | RIVERSIDE COUNTY * | 0602452950B | 18-AUG-2003
10 | ID | ADA COUNTY * | 16001C0250J** | 02-OCT-2003
10 | ID | ADA COUNTY * | 16001C0400J | 02-OCT-2003
10 | ID | ADA COUNTY * | 16001CIND0B** | 02-OCT-2003
10 | ID | BOISE, CITY OF | 16001CIND0B** | 02-OCT-2003
10 | ID | EAGLE, CITY OF | 16001CIND0B** | 02-OCT-2003
10 | ID | GARDEN CITY, CITY OF | 16001CIND0B** | 02-OCT-2003
10 | ID | KUNA, CITY OF | 16001C0250J** | 02-OCT-2003
10 | ID | KUNA, CITY OF | 16001C0400J | 02-OCT-2003
10 | ID | KUNA, CITY OF | 16001CIND0B** | 02-OCT-2003
10 | ID | MERIDIAN, CITY OF | 16001C0250J** | 02-OCT-2003
10 | ID | MERIDIAN, CITY OF | 16001CIND0B** | 02-OCT-2003
10 | ID | STAR, CITY OF | 16001CIND0B** | 02-OCT-2003
10 | WA | ANACORTES, CITY OF | 5303170015A | 17-SEP-2003
10 | WA | ANACORTES, CITY OF | 5303170020A | 17-SEP-2003
10 | WA | ANACORTES, CITY OF | 5303170040A | 17-SEP-2003
10 | WA | ANACORTES, CITY OF | 5303170055A | 17-SEP-2003
10 | WA | ANACORTES, CITY OF | 5303170060A | 17-SEP-2003
10 | WA | ANACORTES, CITY OF | 5303170080A | 17-SEP-2003
10 | WA | ANACORTES, CITY OF | 530317IND0A** | 17-SEP-2003

[FR Doc. 04-9806 Filed 5-4-04; 8:45 a.m.]

BILLING CODE 9110-12-P